DEPARTMENT OF THE INTERIOR

Fish and Wildlife Service

50 CFR Part 17

[FWS-R8-ES-2008-0089; 92210-1117-0000-B4]

RIN 1018-AV90

Endangered and Threatened Wildlife and Plants; Revised Critical Habitat for the California Red-Legged Frog (Rana aurora draytonii)

AGENCY: Fish and Wildlife Service, Interior.

ACTION: Proposed rule.

SUMMARY: We, the U.S. Fish and Wildlife Service (Service), propose to revise designated critical habitat for the California red-legged frog (Rana aurora draytonii), pursuant to the Endangered Species Act of 1973, as amended (Act). The previous final rule designated 450,288 acres (ac) (182,225 hectares (ha)) of critical habitat. We herein propose to revise those critical habitat boundaries to better reflect lands containing essential features for the California red-legged frog, and we now propose to designate approximately 1,804,865 ac (730,402 ha) of critical habitat in 28 California counties, an increase of approximately 1,354,577 ac) (548,177 ha).

DATES: We will accept comments from all interested parties until November 17, 2008. We must receive requests for public hearings, in writing, at the address shown in the FOR FURTHER INFORMATION CONTACT section by October 31, 2008.

ADDRESSES: You may submit comments by one of the following methods:

• Federal eRulemaking Portal: http://www.regulations.gov. Follow the instructions for submitting comments.

• U.S. mail or hand-delivery: Public Comments Processing, Attn: FWS-R8-ES-2008-0089; Division of Policy and Directives Management; U.S. Fish and Wildlife Service; 4401 N. Fairfax Drive, Suite 222; Arlington, VA 22203. We will not accept e-mail or faxes. We will post all comments on http://www.regulations.gov. This generally means that we will post any personal information you provide us (see the Public Comments section below for more information).

FOR FURTHER INFORMATION CONTACT: For general information on the proposed designation and information about the proposed revised designation in Alameda, Butte, Calaveras, Contra Costa, El Dorado, Kern, Kings, Marin, Mendocino, Merced, Napa, Nevada, Placer, San Joaquin, San Mateo, Santa Clara, Solano, Sonoma, Stanislaus, and Yuba Counties, contact Susan Moore, Field Supervisor or Arnold Roessler, Listing Program Coordinator, U.S. Fish and Wildlife Service, Sacramento Fish and Wildlife Office, 2800 Cottage Way, Room W-2605, Sacramento, CA 95825; telephone 916/414-6600; or facsimile 916/414-6712. Persons who use a telecommunications device for the deaf (TDD) may call the Federal Information Relay Service (FIRS) at 800/877-8339.

For information about the proposed designation in Los Angeles, Monterey, San Benito, San Luis Obispo, Santa Barbara, Santa Cruz, and Ventura Counties, contact Diane Noda, Field Supervisor, Ventura Fish and Wildlife Office, U.S. Fish and Wildlife Service, 2394 Portola Road, Suite B, Ventura, CA 93003; telephone 805/644-1766; facsimile 805/644-3958.

For information about the proposed designation in Riverside County, contact Jim Bartel, Field Supervisor, Carlsbad Fish and Wildlife Office, U.S. Fish and Wildlife Service, 2730 6010 Hidden Valley Road, Carlsbad, CA 92009; telephone 760/431-9440; facsimile 760/431-9624.

SUPPLEMENTARY INFORMATION:

Public Comments

We intend any final action resulting from this proposal to be as accurate and as effective as possible. Therefore, we request comments or suggestions on this proposed rule. We particularly seek comments concerning:

(1) The reasons why we should or should not revise the designation of habitat as “critical habitat” under section 4 of the Act (16 U.S.C. 1531 et seq.), including whether the benefit of designation would outweigh threats to the species caused by the designation, such that the designation of critical habitat is prudent;

(2) Specific information on:

• The amount and distribution of California red-legged frog habitat,

• What areas containing features essential to the conservation of the species we should include in the designation and why, and

• What areas are not essential for the conservation of the species and why;

(3) Land-use designations and current or planned activities in the subject areas and their possible effects on proposed critical habitat;

(4) Comments or information that may assist us in identifying or clarifying the primary constituent elements;

(5) How the proposed revised critical habitat boundaries could be refined to more closely circumscribe the landscapes identified as essential;

(6) Whether the lands proposed as critical habitat on Department of Defense land at Vandenberg Air Force Base in Santa Barbara County and Camp San Luis Obispo in San Luis Obispo County should be exempted under section 4(a)(3) or excluded under section 4(b)(2) of the Act;

(7) Whether the U.S. Forest Service lands managed under the Sierra Nevada Forest Plan Amendment within the units being proposed as critical habitat should be excluded under section 4(b)(2) of the Act;

(8) Whether Unit CAL-1 (Young's Creek) in Calaveras County should be excluded under section 4(b)(2) of the Act;

(9) Any foreseeable economic, national-security, or other potential impacts resulting from the proposed revised designation and, in particular, any impacts on small entities, and the benefits of including or excluding areas that exhibit these impacts;

(10) Information on any quantifiable economic costs or benefits of the revised designation of critical habitat; and

(11) Whether we could improve or modify our approach to designating critical habitat in any way to provide for greater public participation and understanding, or to better accommodate public concerns and comments.

Our final determination concerning critical habitat will take into consideration all written comments and any additional information we receive during the comment period. On the basis of public comments, we may, during the development of our final designation, find that areas proposed are not essential, are appropriate for exclusion under section 4(b)(2) of the Act, or are not appropriate for exclusion.

You may submit your comments and materials concerning this proposed rule by one of the methods listed in the ADDRESSES section. We will not consider comments sent by e-mail or fax or to an address not listed in the ADDRESSES section.

If you submit a comment via http://www.regulations.gov, your entire comment—including any personal identifying information—will be posted on the Web site. If you submit a hardcopy comment that includes personal identifying information, you may request at the top of your document that we withhold this information from public review. However, we cannot guarantee that we will be able to do so. We will post all hardcopy comments on http://www.regulations.gov.

Background

It is our intent to discuss only those topics directly relevant to the revised designation of critical habitat in this proposed rule. For more information on the California red-legged frog, refer to the listing rule and previous determination of critical habitat published in the Federal Register on May 23, 1996 (61 FR 25813), and April 13, 2006 (71 FR 19243), respectively.

Subspecies Description

The California red-legged frog is the largest native frog in the western United States. It is endemic (native and restricted) to California and Baja California, Mexico, at elevations ranging from sea level to approximately 5,000 feet (ft) (1,500 meters (m)). The California red-legged frog gains its name from the typically red or pink color of its posterior abdomen and hind legs. The California red-legged frog is one of two subspecies of the red-legged frog (Rana aurora). For a detailed description of the subspecies, see the Recovery Plan for the California Red-legged Frog (Service 2002, pp. 1-173) and references identified within the plan as well as information in previous Federal Register notices (69 FR 19620; 66 FR 14626; 61 FR 25813).

Life History

During breeding season, which typically runs from November through April, males call to females from the margins of ponds and slow streams (Jennings et al. 1992, p. 3). Actual mating most commonly occurs in March, but can vary depending on seasonal climatic patterns. The female lays a jellylike mass of 2,000 to 5,000 reddish brown eggs in the water attached to some brace such as emergent vegetation, twigs, or other structure. The resulting tadpoles, which likely feed on algae (Dickman, 1968, pp. 1189-1190), typically require about 3 weeks to hatch, and another 11 to 20 weeks to metamorphose into juvenile frogs. Metamorphosis, therefore, typically occurs from July to September, although some tadpoles have been observed to delay metamorphosis until the following March or April (Bobzien et al. 2000, p. 13; Fellers et al. 2001, pp. 156-157). Adults tend to be nocturnal, while juveniles can be active at any time of day (Hayes and Tennant 1985, p. 604).

Geographic Range

The historical range of the California red-legged frog was thought to extend from Sonoma County, California, south along the coast to northwestern Baja California, Mexico, and inland as far as the vicinity of Redding in Shasta County, CA, south along the Sierra Nevada and the Central Valley (Storer 1925, pp. 235-236; Jennings and Hayes 1985, pp. 94-95; Hayes and Krempels 1986, pp. 930, 933-935). The range of the California red-legged frog has declined since being described by Storer (1925, pp. 235-236). Through comparison of historical museum records (1890 to 1980) and field surveys (1990 to 1992), Fisher and Shaffer (1996, pp. 1391-1392) present evidence of the extirpation (local extermination) of California red-legged frogs from 24 of 28 counties in a limited portion of its historical range. In 1996, when the subspecies was listed, 243 streams or drainages in 22 California counties were documented to contain populations of California red-legged frogs (California Natural Diversity Database (CNDDB) 2008). At the time of listing, California red-legged frogs were believed to have been extirpated from most of the southern Coastal Mountains from Santa Barbara south to Baja California and east along the Transverse (San Gabriel, San Bernardino, Santa Ynez, and Santa Monica Mountains) and Peninsular Ranges (San Jacinto, Santa Rosa, Agua Tibia, Laguna, Santa Ana Mountains). Since listing, two additional occurrences have been discovered south of the Tehachapi Mountains (CNDDB 2008) but may no longer be extant. Recent genetic studies have identified that the subspecies extends north along the coast into Mendocino County, California (Shaffer et al. 2004, pp. 2676-2677). Five additional occurrences have been recorded in the Sierra Nevada foothills, bringing the total to six known populations, compared to approximately 26 historical records for the Sierra Nevada foothills (Berkeley Museum of Vertebrate Zoology 2004, pp. 3, 5, 6, 9; CNDDB 2008; California Academy of Sciences 2004, p. 12; Barry 2005, p. 1). Currently, California red-legged frogs are only known from 3 disjunct regions in 28 California counties (Sierra Nevada, North and Central Coast Range, and Southern California); and are also still present in Baja California, Mexico (Grismer 2002 p. 79; Fidenci 2004, pp. 27-29; Smith and Krofta 2005, pp. 4, 6).

Habitat

California red-legged frogs live in a Mediterranean climate, which is characterized by temporal and spatial changes in habitat quality. During a period of abundant rainfall, almost the entire landscape, including breeding ponds and streams, may become suitable habitat for the adults. Conversely, habitat use may be drastically confined during periods of prolonged drought. Due to this variability, population sizes can vary widely from year to year. During favorable years, California red-legged frogs can produce large numbers of dispersing young, resulting in an increase in the number of occupied sites. In contrast, California red-legged frogs may temporarily disappear from an area during periods of extended drought. Therefore, it is essential to provide for sites that can be recolonized by dispersing individuals (Semlitsch 2000, pp. 623, 624).

The habitats used by this subspecies typically change in extent and suitability in response to the dynamic nature of floodplain and fluvial processes (i.e., natural water flow and sedimentation regimes that, in flux, create, modify, and eliminate deep pools, backwater areas, ponds, marshes, and other aquatic habitats). Rangewide, and even within local populations, the California red-legged frog uses a variety of areas, including various aquatic, riparian, and upland habitats. In some cases, they may complete their entire life cycle in a particular habitat (i.e., a pond is suitable for all life stages), and in other cases, they may seek multiple habitat types depending on climatic conditions or distance between and availability of wetland and other suitably moist environments.

Despite the California red-legged frog's ability to utilize multiple habitat types, there are certain habitat features they require. Most important is a breeding pond or slow-flowing stream reach or deep pool within a stream with some type of vegetative or other material to attach their egg masses, that holds water long enough for tadpoles to complete their metamorphoses into juvenile frogs able to survive outside of water. California red-legged frogs often disperse from their breeding habitat to utilize various aquatic, riparian, and upland summer habitats during their migrations from one area to another. However, it is also common for individuals to remain in the breeding area on a year-round basis.

In Northern California, many California red-legged frog populations occupy artificial or created wetland environments. Historically, as natural wetlands and streams were converted for agriculture, flood control, and urban development, California red-legged frogs colonized small artificial impoundments, or stock ponds, created by cattle ranchers for the purpose of providing water for their cattle. Our understanding of the role of stock ponds in the conservation of the California red-legged frog has evolved since listing. Without these stock ponds, the range of the California red-legged frog would be limited further in this region.

Riparian and upland habitats adjacent to wetland features used by the California red-legged frog are essential in maintaining frog populations and biodiversity, hydrology and water quality of the aquatic feature. Riparian habitat includes vegetation dependent on nearby wetted areas for water. Typically such vegetation grows along the banks and in the floodplains of streams and ponds. Adjacent uplands are marked by vegetation that is not dependent on a nearby supply of surface water. Both riparian and upland habitats are used by the California red-legged frog for foraging, shelter, cover, and non-dispersal movement (Service 2002, pp. 14-15; Bulger et al. 2003, p. 87; Fellers and Kleeman 2007, p. 276). Bulger et al. (2003, pp. 85-95) studied California red-legged frog terrestrial activity in coastal forest and grassland habitats and recommended at least a 328 ft (100 m) distance for protection of aquatic and upland habitat be provided as well as impose seasonal restrictions for activities within this zone. In a recent study also specific to the California red-legged frog, Fellers and Kleeman (2007, pp. 278-280) recommended establishing zones around breeding habitat, non-breeding habitat, and migration corridors along with a buffer of these areas that is sufficient to protect function of the amphibian habitat. However, Fellers and Kleeman (2007, p. 279) discouraged setting specific distances due to differences in biological or site-specific requirements and that any distances set for avoidance of upland habitat should be made on a case-by-case basis taking into account the need to protect the breeding and non-breeding habitat as well as any migration corridors.

Tatarian (2004, p. 33) found California red-legged frogs inhabiting upland areas for 50 days at a distance of 302 ft (92 m) from aquatic habitat; Bulger et al. (2003, pp. 87-89) found that the subspecies is capable of inhabiting upland habitats within 200 ft (60 m) of aquatic habitat for continuous durations exceeding 20 days; and Rathbun et al. (1993, p. 15) observed a California red-legged frog inhabiting upland riparian habitat at distances of up to 85 ft (26 m) for 65 days. California red-legged frogs often disperse from their breeding habitat to forage and seek suitable upland and riparian habitat if aquatic habitat is not available. Such habitat includes structure that provides shade, moisture, and cooler temperatures. This structure may be natural, such as the spaces under boulders or rocks and organic debris (e.g., downed trees or logs), or it could be manmade, such as industrial debris and agricultural features (drains, watering troughs, abandoned sheds, or stacks of hay or other vegetation). California red-legged frogs will also use small mammal burrows and moist leaf litter as refugia (areas whose climate remains habitable when that of the surrounding areas has changed) (Rathbun et al. 1993, p. 15; Jennings and Hayes 1994, p. 64; Fellers and Kleeman 2005, p. 12).

Dispersal

Adult California red-legged frogs may disperse from breeding sites at any time of year. Dispersing adult California red-legged frogs in northern Santa Cruz County traveled distances from 0.25 miles (mi) (0.4 kilometers (km)) to more than 2.0 mi (3.2 km) without apparent regard to topography, vegetation type, or riparian corridors (Bulger et al. 2003, p. 90). California red-legged frogs have also been tracked using radio telemetry in East Las Virgenes Creek, Ventura County, which is characterized by highly variable rainfall (Smith 2005, p. 1). Habitat includes a well-defined creek and riparian zone with permanent deep pools. The maximum distance moved in this study was 48 ft (15 m) (Smith 2005, p. 1). In contrast, California red-legged frog movements in Santa Cruz County were found to be substantially less, with typical movements of 9 to 16 ft (3 to 5 m) from the water's edge. Many newly metamorphosed juveniles tend to disperse short distances initially from July through September, and then move farther away from the breeding habitat during warm rain events (Jennings 2000, p. 1). Bobzien et al. (2000, p. 12) observed juveniles inhabiting a wide variety of habitats while adults primarily inhabited deep pools. They postulated that juveniles might segregate themselves away from adults to escape predation and competition. In a study in Marin County, California, 123 frogs were tracked using radio telemetry between 1997 and 2003 at 8 different sites within the Point Reyes National Seashore and Golden Gate National Recreation Area (Fellers and Kleeman 2007, p. 277). The habitat at the sites included permanent ponds, seasonal ponds, permanent marsh, and a seasonal seep. The majority of movement was small scale (less than 98 ft (30 m)) and considered non-dispersal. Movements of greater than 98 ft (30 m) occurred mostly during winter rain events; however, some movements did occur when the ponded habitat was almost dry (Fellers and Kleeman 2007, p. 279). The majority of frogs dispersed less than 1,640 ft (500 m) away from breeding habitat, and the maximum dispersal distance recorded was 1.7 mi (2.8 km) (Fellers and Kleeman 2007, pp. 279-280). The study concluded that most frogs move away from breeding sites, but only a few disperse farther than the nearest non-breeding habitat; and that the distance moved is highly dependent on site conditions and local landscapes (Fellers and Kleeman 2007, p. 284). The study also recommended that average dispersal or migration distances not be used, and to let site conditions dictate the amount of area needed for the species. The study also concluded that, by establishing a generic dispersal distance, we may be selecting for sedentary frogs; losing those individuals that disperse farthest and reach other distant breeding sites would decrease genetic exchange and diversity (Fellers and Kleeman 2007, p. 285).

For reasons that are currently unclear, juveniles tend to disperse away from aquatic habitat occupied by adults. Juvenile dispersal is essential for recolonizing temporarily extirpated habitat and preventing genetic isolation because juveniles disperse in more directions, and for longer distances than do migrating adults (Wright 1999, p. 2; Bulger et al. 2003, p. 94). Dispersal habitat for juveniles can be almost anything that provides sheltering vegetation or scattered wetlands or streams. This includes forested areas, nonnative grasslands, and even croplands or pasture, but is not known to include urbanized or suburban areas, suburban developments, or areas separated from breeding habitat by impassible barriers. Impassible barriers include wide or fast-flowing rivers and streams, lakes greater than 50 ac (20 ha), and heavily traveled roads without underpasses or culverts (Reh and Seitz 1990, pp. 247, 248; Fahrig et al. 1995, 179-181). Passable roadways that are heavily used by vehicles may also result in a high rate of mortality for frogs and other amphibians, thereby limiting dispersal capabilities (Glista et al. 2008, pp. 81-82). Juveniles dispersing along riparian corridors may have higher survivorship, as sheltering vegetation and suitable aquatic habitat are both more common in such corridors (Jennings 2000, p. 1). Juveniles appear to have less strict requirements for aquatic habitat than adults, and tend to segregate away from adults in water bodies that are shallower or faster moving than those typically used for breeding (Hayes and Jennings 1988, p. 147; Bobzien 2000, p. 1; M. Jennings 2000, p. 1).

The long-term probability of the survival and recovery of California red-legged frogs is dependent upon the protection of existing breeding habitat and associated uplands (Fellers and Kleeman 2005, pp. 1, 17-18), the movements of individuals between aquatic patches, and the ability to recolonize newly created or vacated habitats. Recolonization, which is vital to the recovery of this subspecies, is dependent upon landscape characteristics, including appropriate distances between suitable breeding and non-breeding aquatic habitat, and limited fragmentation of interconnecting habitat (Vos and Chardon 1998, pp. 44, 53-56).

Previous Federal Action

On April 13, 2006 (71 FR 19243), we published our final designation of critical habitat for the California red-legged frog. On July 20, 2007 (Service 2007a, pp. 1-2), we announced that we would review the April 13, 2006, final rule after questions were raised about the integrity of scientific information used and whether the decision made was consistent with the appropriate legal standards. Based on our review of the previous final critical habitat designation, we determined it was necessary to revise critical habitat and this rule proposes those revisions. On December 12, 2007, the Center for Biological Diversity filed a complaint in the U.S. District Court for the Northern District of California challenging our designation of critical habitat for the California red-legged frog (Center for Biological Diversity v. Kempthorne, et al., Case No. C-07-6404-WHA). On April 2, 2008, the court entered a consent decree requiring a proposed revised critical habitat rule to be submitted to the Federal Register by August 29, 2008, and a final revised critical habitat designation to be submitted to the Federal Register by August 31, 2009.

Critical Habitat

Critical habitat is defined in section 3 of the Act as:

(1) The specific areas within the geographical area occupied by a species, at the time it is listed in accordance with the Act, on which are found those physical or biological features

(a) essential to the conservation of the species and

(b) that may require special management considerations or protection; and

(2) specific areas outside the geographical area occupied by a species at the time it is listed, upon a determination that such areas are essential for the conservation of the species.

Conservation, as defined under section 3 of the Act, means the use of all methods and procedures that are necessary to bring any endangered species or threatened species to the point at which the measures provided under the Act are no longer necessary.

Critical habitat receives protection under section 7 of the Act through the prohibition against Federal agencies carrying out, funding, or authorizing the destruction or adverse modification of critical habitat. Section 7 of the Act requires consultation on Federal actions that may affect critical habitat. The designation of critical habitat does not affect land ownership or establish a refuge, wilderness, reserve, preserve, or other conservation area. Such designation does not allow the government or public to access private lands. Such designation does not require implementation of restoration, recovery, or enhancement measures by private landowners. Where the landowner requests Federal agency funding or authorization of an activity that may affect a listed species or critical habitat, the consultation requirements of section 7 would apply, but even in the event of a destruction or adverse modification finding, the landowner's obligation is not to restore or recover the species, but to implement reasonable and prudent alternatives to avoid destruction or adverse modification of critical habitat.

For inclusion in a critical habitat designation, habitat within the geographical area occupied by the species at the time it was listed must contain the physical and biological features that are essential to the conservation of the species, and be included only if those features may require special management considerations or protection. Critical habitat designations identify, to the extent known using the best scientific data available, habitat areas that provide essential life cycle needs of the species (areas on which are found the PCEs laid out in the appropriate quantity and spatial arrangement for the conservation of the species). Under the Act, we can designate critical habitat in areas outside the geographical area occupied by the species at the time it is listed only when we determine that those areas are essential to the conservation of the species.

Section 4 of the Act requires that we designate critical habitat on the basis of the best scientific and commercial data available. Further, our Policy on Information Standards Under the Endangered Species Act (published in the Federal Register on July 1, 1994 (59 FR 34271)), the Information Quality Act (section 515 of the Treasury and General Government Appropriations Act for Fiscal Year 2001 (Pub. L. 106-554; H.R. 5658)) and our associated Information Quality Guidelines, provide criteria, establish procedures, and provide guidance to ensure that our decisions are based on the best scientific data available. They require our biologists, to the extent consistent with the Act and with the use of the best scientific data available, to use primary and original sources of information as the basis for recommendations to designate critical habitat.

When we are determining which areas to propose as revised critical habitat, our primary source of information is generally the information developed during the listing process for the species. Additional information sources may include the recovery plan for the species, articles in peer-reviewed journals, conservation plans developed by States and counties, scientific status surveys and studies, biological assessments, or other unpublished materials and expert opinion or personal knowledge.

Habitat is often dynamic, and species may move from one area to another over time. Furthermore, we recognize that designation of critical habitat may not include all habitat areas that we may eventually determine, based on scientific data not now available to the Service, are necessary for the recovery of the species. For these reasons, a critical habitat designation does not signal that habitat outside the designated area is unimportant or may not be required for recovery of the species.

Areas that support populations of the California red-legged frog, but are outside the critical habitat designation, will continue to be subject to conservation actions we implement under section 7(a)(1) of the Act. They are also subject to the regulatory protections afforded by the section 7(a)(2) jeopardy standard, as determined on the basis of the best available information at the time of the agency action. Federally funded or permitted projects affecting listed species outside their designated critical habitat areas may still result in jeopardy findings in some cases. Similarly, critical habitat designations made on the basis of the best available information at the time of designation will not control the direction and substance of future recovery plans, habitat conservation plans (HCPs), section 7 consultations, or other species conservation planning efforts if new information calls for a different outcome.

Methods

As required by section 4(b) of the Act, we used the best scientific and commercial data available in determining areas occupied at the time of listing that contain the features essential to the conservation of the California red-legged frog. We have reviewed the approach to the conservation of the California red-legged frog provided in its recovery outline (Service 2002, pp. 1-173) and information from State, Federal, and Tribal agencies, and from academia and private organizations that have collected scientific data on the California red-legged frog. This includes information used to prepare the 2006 designation of critical habitat (71 FR 19243), the Recovery Plan for California red-legged frog (Service 2002, pp. 1-173), the CNDDB, published and unpublished papers, reports, academic theses, surveys, Geographic Information System (GIS) data (such as species occurrence, soil data, land use, topography, and ownership maps), correspondence to the Service from recognized experts, and other information as available.

Primary Constituent Elements

In accordance with section 3(5)(A)(i) of the Act and regulations at 50 CFR 424.12(b), in determining which areas to propose as revised critical habitat, we consider the physical and biological features that are essential to the conservation of the species that may require special management considerations or protection. We consider the physical and biological features to be the PCEs laid out in the appropriate quantity and spatial arrangement for conservation of the species. These include, but are not limited to:

(1) Space for individual and population growth and for normal behavior;

(2) Food, water, air, light, minerals, or other nutritional or physiological requirements;

(3) Cover or shelter;

(4) Sites for breeding, reproduction, and rearing (or development) of offspring; and

(5) Habitats that are protected from disturbance or are representative of the historical geographical and ecological distributions of a species.

We derive the PCEs required for California red-legged frog from its biological needs. The area proposed for designation as revised critical habitat provides aquatic habitat for breeding and non-breeding activities and upland habitat for shelter, foraging, predator avoidance, and dispersal across the California red-legged frog's range. The primary constituent elements and, therefore, the resulting physical and biological features essential for the conservation of the species were determined from studies of California red-legged frog ecology as described in the Background sections of this proposal and in the final listing rule published in the Federal Register on May 23, 1996 (61 FR 25813).

Aquatic Breeding Habitat

Aquatic breeding habitat is essential for providing space, food, and cover necessary to sustain all life stages of California red-legged frogs. It consists of low-gradient fresh water bodies, including natural and manmade (e.g., stock) ponds, backwaters within streams and creeks, marshes, lagoons, and dune ponds. It does not include deep lacustrine water habitat (e.g., deep lakes and reservoirs 50 ac (20 ha) or larger in size).

To be considered essential breeding habitat, the aquatic feature must have the capability to hold water for a minimum of 20 weeks in all but the driest of years. This is the average amount of time needed for egg and tadpole development and metamorphosis so that juveniles can become capable of surviving in upland habitats. Drying of the aquatic habitat after that time can be beneficial because it helps prevent the establishment of predatory fish or bullfrogs (Hayes and Jennings 1988, p. 152; Cook 1997, pp. ii, iii, 17-19; Scott 1998, p. 3; Cook and Jennings 2007, p. 438). Water quality requirements for eggs and tadpoles include low salinity (below 4.5 parts per thousand (ppt) for eggs, up to 7.0 ppt for tadpoles) (Jennings and Hayes 1990, pp. 18, 19; Jennings 1994, p. 1), and temperatures below about 73° Fahrenheit (23° Celsius) (Cook 1997, p. 16; Nussbaum et al. 1983, p. 160). Water bodies free of bullfrogs and nonnative predatory fish are optimal, but California red-legged frog populations can persist in the presence of one or the other of these predators (Kiesecker and Blaustein 1998, pp. 776, 782; Lawler et al. 1999, pp. 613, 619-621; Cook and Jennings 2007, p. 438).

Adult California red-legged frogs can survive in moist upland areas after breeding habitat has dried, and can live several years to make new breeding attempts. Therefore, aquatic breeding habitat need not be available every year, but it must be available often enough and for appropriate hydroperiods to maintain a California red-legged frog population during most years. Without aquatic breeding habitats, the California red-legged frog would not survive, reproduce, develop juveniles, and grow into adult California red-legged frogs that can complete their life cycles.

Non-Breeding Aquatic and Riparian Habitat

Non-breeding aquatic and riparian habitat is essential for providing the space, food, and cover necessary to sustain California red-legged frogs. Non-breeding aquatic habitat consists of any typically shallow (non-lacustrine) freshwater features not suitable as breeding habitat, such as streams, small seeps, and ponds that dry too quickly to support breeding. Riparian habitat consists of vegetation growing nearby, but not typically in, a body of water on which it depends. Typically riparian habitat extends from the bank of a pond or stream to the margins of the associated floodplain.

California red-legged frogs can use large cracks in the bottom of dried ponds as refugia to maintain moisture and avoid heat and solar exposure (Alvarez 2004, p. 162). Fellers and Kleeman (2007, p. 279) found that most California red-legged frogs leave their breeding habitat once breeding is completed and disperse to other non-breeding habitat locations. Without these non-breeding aquatic features, California red-legged frogs would not be able to survive drought periods, or be able to disperse to other breeding habitat.

Upland Habitat

Upland habitats associated with riparian and aquatic habitat are essential to maintain California red-legged frog populations. This habitat type provides food and shelter sites for California red-legged frogs and assists in maintaining the integrity of aquatic sites by protecting them from disturbance and supporting the normal functions of the aquatic habitat. Upland habitat associated with occupied wetland habitat often contains blackberry (Rubus spp.), poison oak (Toxicodendron diversilobum), coyote brush (Baccharis pilularis), and other upland perennial species that provide for foraging habitat and shelter from predatory species (Service 2002, pp. 12-14; Fellers and Kleeman 2007, pp. 276-277).

Upland habitat that contains the features essential to the conservation of the subspecies consists of natural areas near the edge of the riparian vegetation or the edge of the watershed boundary, and includes the dispersal corridor between breeding and non-breeding aquatic habitat. This is based on the dispersal capabilities of the subspecies (see Dispersal Habitat below), and research identifying the use of upland areas by the subspecies (Rathbun et al. 1993, pp. 15, 16; Bulger et al. 2003, pp. 93, 94; Tatarian 2004, pp. 24, 25; Fellers and Kleeman 2007, p. 279). Tatarian (2004, p. 22) found California red-legged frogs inhabiting upland areas for 50 days at a distance of 302 ft (92 m) from aquatic habitat; Bulger et al. (2003, pp. 87, 88) found that the subspecies is capable of inhabiting upland habitats within 200 ft (60 m) of aquatic habitat for continuous durations exceeding 20 days; and Rathbun et al. (1993, pp. 15, 16) observed California red-legged frogs inhabiting upland riparian habitat for durations up to 77 days. California red-legged frogs often disperse from their breeding habitat to forage and seek suitable upland habitat if aquatic habitat is not available.

As stated above, California red-legged frogs have been documented to disperse from ponds and streams a distance over 2.0 mi (3.2 km) (Bulger et al. 2003, p. 90). However, based on a review of the most current literature and information gathered in development of the Recovery Plan for the subspecies, we have determined that the 2.0-mile (3.2-km) distance is toward the maximum dispersal distance for the subspecies during a single season, and that the 1-mile (1.6-km) distance is more reflective of the average dispersal distance for the California red-legged frog (Rathbun et al. 1993, pp. 15, 16; Wright 1999, pp. 1, 2; Bulger et al. 2003, p. 90; Tatarian 2004, table 9; Fellers and Kleeman 2005, pp. 14-16; Fellers and Kleeman 2007, pp. 276-286). Although the studies discussed above provide an approximation of the distances that California red-legged frogs can move from their aquatic habitats, breeding ponds, and other wetland habitats in search of suitable upland refugia or other breeding locations, we recognize that upland habitat features will influence California red-legged frog movements in a particular landscape and as a result the amount of upland habitat surrounding the aquatic breeding and non-breeding habitat (PCEs 1 and 2) would be limited to 1 mile (1.6 km) in most cases depending on surrounding landscape and dispersal barriers.

Upland habitat used by the California red-legged frog includes structures that provide shade, moisture, and cooler temperatures. These structures may be natural, such as the spaces under boulders or rocks and organic debris (e.g., downed trees or logs), or it could be manmade, such as industrial debris and agricultural features (drains, watering troughs, abandoned sheds, or stacks of hay or other vegetation). California red-legged frogs will also use small mammal burrows and moist leaf litter as refugia (Jennings and Hayes 1994, p. 64; Fellers and Kleeman 2005, p. 12).

Dispersal Habitat

Dispersal habitat provides connectivity among California red-legged frog breeding (and associated upland) habitat patches. While California red-legged frogs can pass many obstacles, and do not require a particular type of habitat for dispersal, the habitat connecting breeding locations and other aquatic habitat must be free of barriers that prevent California red-legged frogs from dispersing.

Designated dispersal habitat consists of upland and riparian habitat contiguous with breeding and non-breeding aquatic habitat, that is free of barriers, and connects two or more patches of aquatic breeding habitat within 1 mi (1.6 km) of one another. Dispersal barriers include heavily traveled roads (Vos and Chardon 1998, pp. 44, 54; Glista et al. 2008, pp. 81-82) that possess no bridges or culverts, moderate- to high-density urban or industrial developments with large expanses of asphalt or concrete that do not contain the PCEs or features essential to conservation of the subspecies, and large reservoirs over 50 ac (20 ha) in size that contain predatory species. Agricultural lands such as row crops, orchards, vineyards, and pastures do not constitute barriers to California red-legged frog dispersal.

California red-legged frogs have been documented to travel as far as 2.2 mi (3.6 km) from non-breeding to breeding habitats (Bulger et al. 2003, p. 90). These long-distance movements are most likely migrations rather than use of corridors for moving between habitats (Scott and Rathbun 1998, pp. 2, 3). These movements have also been found to be with apparent disregard to topography, vegetation type, or riparian corridors (Bulger et al. 2003, pp. 93, 94; Fellers and Kleeman 2005, pp. 15, 16). We conclude that 2.2 mi (3.6 km) is likely near the upward limit of dispersal capability for the California red-legged frog within a single season and that a 1-mile (1.6-km) dispersal distance will, in most instances, provide for connectivity between breeding aquatic habitats, non-breeding aquatic habitats, and areas of non-aquatic (i.e., upland) habitat and can be used as a general guide for habitat use. However, we also concur with Fellers and Kleeman (2007, p. 279) in that the exact extent of habitat use by the California red-legged frog should be determined on a site-by-site basis.

Accessible dispersal habitat provides opportunities for the California red-legged frog to move freely across the landscape in search of adjacent breeding and non-breeding habitats. Accessible dispersal habitat is considered essential to the conservation of the subspecies and provides for: (1) Opportunities for movement and establishment of home ranges by juvenile recruits; (2) maintaining gene flow by the movement of both juveniles and adults between subpopulations; and (3) recruitment into breeding habitat or recolonization of breeding habitat after local extirpations.

Primary Constituent Elements (PCEs) for the California Red-Legged Frog

Pursuant to our regulations, we are required to identify the physical and biological features within the geographical area occupied by the California red-legged frog at the time of listing that are essential to the conservation of the species and which may require special management considerations or protections. The physical and biological features are those PCEs laid out in a specific spatial arrangement and quantity determined to be essential to the conservation of the species. All areas designated as critical habitat for California red-legged frogs are occupied, are within the subspecies' historical geographic range, and contain sufficient PCEs to support at least one life-history function.

Based on the above needs and our current knowledge of the life history, biology, and ecology of the species, and the habitat requirements for sustaining the essential life-history functions of the species, we have determined that the PCEs essential to the conservation of the California red-legged frog are:

(1) Aquatic Breeding Habitat. Standing bodies of fresh water (with salinities less than 7.0 ppt), including: natural and manmade (e.g., stock) ponds, slow-moving streams or pools within streams, and other ephemeral or permanent water bodies that typically become inundated during winter rains and hold water for a minimum of 20 weeks in all but the driest of years.

(2) Non-Breeding Aquatic Habitat. Freshwater and wetted riparian habitats, as described above, that may not hold water long enough for the subspecies to hatch and complete its aquatic life cycle but that do provide for shelter, foraging, predator avoidance, and aquatic dispersal for juvenile and adult California red-legged frogs. Other wetland habitats that would be considered to meet these elements include, but are not limited to: plunge pools within intermittent creeks; seeps; quiet water refugia during high water flows; and springs of sufficient flow to withstand the summer dry period.

(3) Upland Habitat. Upland areas adjacent to or surrounding breeding and non-breeding aquatic and riparian habitat up to a distance of 1 mi (1.6 km) in most cases and comprised of various vegetational series such as grasslands, woodlands, wetland, or riparian plant species that provides the frog shelter, forage, and predator avoidance. Upland features are also essential in that they are needed to maintain the hydrologic, geographic, topographic, ecological, and edaphic features that support and surround the wetland or riparian habitat. These upland features contribute to the filling and drying of the wetland or riparian habitat and are responsible for maintaining suitable periods of pool inundation for larval frogs and their food sources, and provide breeding, non-breeding, feeding, and sheltering habitat for juvenile and adult frogs (e.g., shelter, shade, moisture, cooler temperatures, a prey base, foraging opportunities, and areas for predator avoidance). Upland habitat should include structural features such as boulders, rocks and organic debris (e.g., downed trees, logs), as well as small mammal burrows and moist leaf litter.

(4) Dispersal Habitat. Accessible upland or riparian dispersal habitat within designated units and between occupied locations within a minimum of 1 mi (1.6 km) of each other and that allows for movement between such sites. Dispersal habitat includes various natural habitats and altered habitats such as agricultural fields, which do not contain barriers (e.g., heavily traveled road without bridges or culverts) to dispersal. Dispersal habitat does not include moderate- to high-density urban or industrial developments with large expanses of asphalt or concrete, nor does it include large reservoirs over 50 ac (20 ha) in size, or other areas that do not contain those features identified in PCE 1, 2, or 3 as essential to the conservation of the subspecies.

With this proposed designation of critical habitat, we intend to conserve the physical and biological features that are essential to the conservation of the species, through the identification of the appropriate quantity and spatial arrangement of the PCEs sufficient to support the life-history functions of the species. Because not all life-history functions require all the PCEs, not all areas designated as critical habitat will contain all the PCEs.

Each of the areas designated in this rule have been determined to contain sufficient PCEs to provide for one or more of the life-history functions of the California red-legged frog. In some cases, the PCEs exist as a result of ongoing Federal actions. As a result, ongoing Federal actions at the time of designation will be included in the baseline in any consultation conducted subsequent to this designation.

Special Management Considerations or Protections

When designating critical habitat, we assess whether the occupied areas contain the physical and biological features that are essential to the conservation of the species, and whether these features may require special management considerations or protections.

The area proposed for designation as revised critical habitat will require some level of management to address the current and future threats to the California red-legged frog and to maintain the physical and biological features essential to the conservation of the species. In all units, special management will be required to ensure that aquatic and upland habitat are able to provide abundant breeding and non-breeding habitat, prey habitat, shelter, and connectivity within the landscape. The designation of critical habitat does not imply that lands outside of critical habitat do not play an important role in the conservation of the California red-legged frog. Federal activities that may affect areas outside of critical habitat, such as development, agricultural activities, and road construction, are still subject to review under section 7 of the Act if they may affect the California red-legged frog because Federal agencies must consider both effects to the frog and effects to critical habitat independently. The prohibitions of section 9 of the Act (e.g., harm, harass, capture, kill) also continue to apply both inside and outside of designated critical habitat.

A detailed discussion of threats to the California red-legged frog and its habitat can be found in the final listing rule (61 FR 25813, May 23, 1996), the previous critical habitat designation (66 FR 14626, March 13, 2001), and the final Recovery Plan (May 28, 2002, Service 2002, pp. 1-173). Threats that may warrant special management of those features that define essential habitat (appropriate quantity and distribution of PCEs) for the California red-legged frog include, but are not limited to: trematode and chytrid fungus disease; direct and indirect impacts from some human recreational activities; flood control maintenance activities; water diversions; overgrazing activities; competition and predation by nonnative species; and habitat removal and alteration by urbanization.

Criteria Used To Identify Critical Habitat

We are proposing to designate critical habitat in areas that we have determined were occupied by the species at the time of listing, and that contain the PCEs in the quantity and spatial arrangement to support life-history functions essential for the conservation of the species. We are also proposing to designate critical habitat in areas that were not occupied by the species at the time of listing, but were subsequently occupied. We have determined that these areas, which are currently occupied, are essential to the conservation of the species.

As required by section 4(b)(1)(A) of the Act, we use the best scientific data available in determining areas that contain the features that are essential to the conservation of the California red-legged frog. The material included the Recovery Plan developed for the California red-legged frog (Service 2002, pp. 1-173); data in reports submitted during section 7 consultations and by biologists holding section 10(a)(1)(A) recovery permits; research published in peer-reviewed articles and presented in academic theses and agency reports; and regional GIS coverages. We are not proposing to designate any areas outside the geographical area presently occupied by the subspecies.

In designating critical habitat for the California red-legged frog, we selected areas based on the best scientific data available that possess those physical and biological features essential to the conservation of the subspecies, and that may require special management considerations or protection. We examined the core areas identified in the Recovery Plan, and used these to focus our analysis of which areas to include as critical habitat. We attempted to include a distribution of critical habitat within each core area. We included some areas which were occupied at the time of listing as well as some areas subsequently identified as occupied. We found that the majority of newer occurrence records were within areas already known to support the California red-legged frog. We identified critical habitat units that have the highest likelihood to contain populations of California red-legged frogs based on: (1) The presence of the defined PCEs; (2) the density of California red-legged frog occurrences; and (3) the kind, amount, and quality of habitat associated with those occurrences. The units contain the appropriate quantity and distribution of PCEs to support the behaviors or life-cycle stages we have determined are essential to the conservation of the subspecies.

After working through the criteria used to identify critical habitat, we then made an effort to avoid developed areas, such as housing and commercial developments which do not contain the PCE's for the California red-legged frog, and are unlikely to contribute to the conservation of the California red-legged frog. We also avoided fragmented areas such as those surrounded by development. Areas within the boundaries of the mapped units such as buildings, roads, parking lots, railroads, canals, levees, airport runways, other paved areas, lawns, and other urban landscaped areas are not critical habitat and are not included in this proposed designation. Federal actions limited to these areas would not trigger a section 7 consultation, unless such actions affect the subspecies or the PCEs in adjacent critical habitat. Agricultural lands may have been included if they were within areas identified as necessary for dispersal or connectivity between known occurrences. However, we avoided known areas of intensive agriculture that lacked the PCEs for the California red-legged frog.

We considered several criteria in the selection of areas that contain the essential features for the California red-legged frog and focused on designating units: (1) Throughout the current geographical, elevational, and ecological distribution of the subspecies; (2) that would maintain the current population structure across the subspecies' range; (3) that retain or provide for connectivity between breeding sites that allows for the continued existence of viable and essential metapopulations, despite fluctuations in the status of subpopulations; (4) that possess large continuous blocks of occupied habitat, representing source populations or unique ecological characteristics; and (5) that contain sufficient upland habitat around each breeding location to allow for sufficient survival and recruitment to maintain a breeding population over the long term. We then compared areas meeting these requirements to the core areas identified in the recovery plan for the species (Service 2002, pp. 1-173) and adjusted the number and distribution of units so that all core areas were represented in the proposed revised designation. For more information see “Summary of Changes from Previously Designated Critical Habitat” section below.

We first determined the occupancy status of areas on the basis of report data compiled by the CDFG (CNDDB 2008). We used the final listing rule to establish those areas occupied at the time of listing. All other area designations were based on occupancy data collected since listing. Our designation does not include all occupied areas. When determining which occupied areas are essential to the conservation of the subspecies and meet the definition of critical habitat, we considered theories of metapopulation persistence, on-the-ground survey data, and California red-legged frog longevity. Bulger et al. (2003, pp. 85, 92) found more than 75 percent of California red-legged frogs are resident at permanent aquatic habitats over the course of a year, thereby providing local population stability. Survey data provided to us during the development of the revised proposed critical habitat rule show an average persistence of 19 years for California red-legged frog populations. Additionally, California red-legged frogs are considered long lived with a minimum longevity of male and female California red-legged frogs between 8 and 10 years respectively (Jennings et al. 1992, p. 3), which also contributes to generational and metapopulation stability.

The extant occurrences within the critical habitat units comprise approximately 63 percent of known extant occurrences within the range of the subspecies. We critically evaluated records in which the exact site location was not precisely identified or could not be confirmed, and removed those locations from our analysis. We then selected areas that are inhabited by source populations that are capable of maintaining their current population levels and capable of providing individuals to recruit into subpopulations found in adjacent areas. We also selected several areas which have other unique ecological significance, with the goal of maintaining the full range of the habitat variability and evolutionary adaptation in this subspecies. These include areas on the periphery of the current range and elsewhere which represent the distribution of the subspecies, and areas that provide connectivity among source populations or between source populations.

The critical habitat units were delineated by creating approximate areas for the units by screen-digitizing polygons (map units) using ArcMap (Environmental Systems Research Institute, Inc.), a computer GIS program. The polygons were created by overlaying a 1-mile (1.6-km) radius around locations with occurrence records. We then used this distance as a guide for mapping the essential features around locations where California red-legged frog populations are present (see Dispersal Habitat above). As stated above, California red-legged frogs have been documented to disperse from ponds and streams a distance over 2.0 mi (3.2 km) (Bulger et al. 2003, p. 90). However, based on a review of the most current literature and information gathered in development of the Recovery Plan for the subspecies, we have determined that the 2.0-mile (3.2-km) distance is toward the maximum dispersal distance for the subspecies during a single season, and that the 1-mile (1.6-km) distance is more reflective of the average dispersal distance for the California red-legged frog (Rathbun et al. 1993, pp. 15, 16; Wright 1999, pp. 1, 2; Bulger et al. 2003, p. 90; Tatarian 2004, table 9; Fellers and Kleeman 2005, pp. 14-16; Fellers and Kleeman 2007, pp. 276-286). Although the studies discussed above provide an approximation of the distances that California red-legged frogs can move from their aquatic habitats, breeding ponds, and other wetland habitats in search of suitable upland refugia or other breeding locations, we recognize that upland habitat features will influence California red-legged frog movements in a particular landscape. As a result, we made adjustments to the upland areas to include additional areas up to the watershed boundaries or to include habitat containing the PCEs beyond the 1 mi (1.6 km) distance where appropriate to aggregate clumps of occurrences and provide connectivity between occurrences. In some other instances, we removed areas not containing the PCEs from this revised proposed designation including agricultural, developed, disturbed, or fragmented lands. Due to the conversion of GIS data from two different geographic projection zones (zone 10 and zone 11) and conversion of the data to acres and hectares, some rounding adjustments may be reflected in the total acreage of the units designated as critical habitat and are shown in the acreage tables and unit descriptions.

We evaluated the resulting units (delineating geographic range and potential suitable habitat), refined elevation and hydrologic ranges, and identified areas not containing the essential features (i.e., not containing PCEs) (see Primary Constituent Elements section). We excluded areas because (1) they do not contain sufficient PCEs to support one or more of the subspecies' life processes, or (2) they have low-quality PCEs because either the area is highly degraded and is likely not restorable or the area is small, highly fragmented, or isolated and may provide little or no long-term conservation value.

When determining critical habitat boundaries, we made every effort to avoid including developed areas such as buildings, paved areas, and other structures that lack PCEs for the California red-legged frog. The scale of the maps prepared under the parameters for publication within the Code of Federal Regulations may not reflect the exclusion of such developed areas. Any such structures and the land under them remaining within critical habitat boundaries shown on the maps of this proposed rule are excluded by text and are not designated as critical habitat. Therefore, Federal actions limited to these areas would not trigger section 7 consultation with respect to critical habitat and the requirement of no adverse modification unless the specific actions may affect the subspecies or PCEs in adjacent critical habitat.

We further refined the preliminary areas described above based on the boundaries of the watershed and stream reach, as well as on the extent of aquatic habitat and the upland dispersal distance. We focused on areas of high California red-legged frog abundance, areas needed to maintain connectivity between aquatic breeding habitat, and areas of unique ecological significance. We used the core areas identified in the Recovery Plan (Service 2002, pp.1-173) to assist in focusing the areas and extent of the critical habitat boundaries. We refined unit boundaries by using watershed boundaries from the State of California's CALWATER watershed classification system (version 2.2) using the smallest (planning watersheds) watershed designation. Visual inspection of mapped California red-legged frog occurrence records revealed un-surveyed regions surrounded by surveyed regions, mostly in highly developed areas. Rather than designating critical habitat in the development fringe, we designated in areas where fewer surveys have been conducted but where California red-legged frogs are likely to occur based on similarity of habitat and presence of PCEs. In areas where planning watersheds were large or had been significantly altered hydrologically, we used alternative structural, political, or topographic boundaries (e.g., roads, county boundaries, ridgeline features, elevation contour lines) based on habitat characteristics as critical habitat boundaries because, in these areas, the benefits of using planning watersheds were limited in that they included areas outside the subspecies' dispersal distance or were of unknown conservation value for the California red-legged frog. We made every attempt to connect localized California red-legged frog populations into single critical habitat units if sufficient PCEs were present to do so.

Section 10(a)(1)(B) of the Act authorizes us to issue permits for the take of listed species incidental to otherwise lawful activities. An incidental take permit application must be supported by an HCP that identifies conservation measures that the permittee agrees to implement for the species to minimize and mitigate the impacts of the requested incidental take. We may exclude non-Federal public lands and private lands that are covered by an existing operative HCP and executed implementation agreement (IA) under section 10(a)(1)(B) of the Act from designated critical habitat should a determination be made that the benefits of exclusion outweigh the benefits of inclusion as discussed in section 4(b)(2) of the Act. We propose to exclude lands covered by the Bonny Doon HCP, the East Contra Costa HCP, and the Western Riverside Multiple Species HCP (see section Relationship of Critical Habitat to Habitat Conservation Plan Lands—Exclusions Under Section 4(b)(2) of the Act below).

We propose to designate critical habitat units based on our established criteria (discussed above), and on the presence at the location of sufficient PCEs to support California red-legged frog life processes. A brief discussion of each area proposed for designation as critical habitat is provided in the unit descriptions below. Additional detailed documentation concerning the essential nature of these areas is contained in our supporting record for this rulemaking.

Summary of Changes From Previously Designated Critical Habitat

In this revised proposal for designating critical habitat for the California red-legged frog, we determined that it would be appropriate to begin our analysis of critical habitat without using the previous final designation as a base from which to make changes due to the involvement of Department of the Interior personnel which may have inappropriately influenced the extent and locations of critical habitat designated in our previous final determination. As a result of this unrestricted analysis, the amount and distribution of proposed critical habitat has increased and better represents those areas essential for the conservation of the subspecies or which contain the features essential to the conservation of the subspecies.

In this revised proposed designation, we used the Recovery Plan for the California red-legged frog (Service 2002, pp. 1-173) as part of our criteria. Specifically, we used the 34 core areas described in the Recovery Plan to focus our efforts on where to designate critical habitat. We attempted to include areas within those core areas that we determined contained those features essential to the conservation of the subspecies, were unique habitat types for the subspecies, were a representation of the subspecies' geographic range within each core area, and were most appropriate for conservation of the subspecies across its current range. After working through the criteria used to identify critical habitat, we then avoided areas where potential for conflict with development may occur if other areas were available that would meet the definition of critical habitat and maximize the potential for the conservation and recovery of the species. As a result, we included several new areas within the subspecies' current range as proposed critical habitat.

In the previous final critical habitat designation, we interpreted the “occupied at time of listing” standard to include only those specific records mentioned in the final listing rule (61 FR 25813, May 23, 1996). In this proposed designation, we interpreted occupancy “at time of listing” based on the dates of occurrence records and life history of the frog. For example, if an occurrence were recorded after the 1996 listing, but we could determine, based on population size, demographics, and biological factors, that the population was most likely present at time of listing, we would consider these areas as occupied at the time of listing for this revised proposed designation.

In the previous designation, we focused on designating only those areas that contained large numbers of occurrence records. In this revised proposal, we focused not only on occurrence records, but also on habitat areas adjacent to the occurrence records with similar characteristics that we determined are essential to the conservation of the subspecies or contain the features essential to the conservation of the subspecies.

We revised the primary constituent element that described the upland habitat surrounding water features (PCE 3). The existing PCE limits the upland areas to 200 ft (60 m) from the water feature. Based on new biological information on protecting breeding and non-breeding aquatic features for the frog and movements of the frog between breeding and non-breeding habitat (Fellers and Kleeman 2007, pp. 276-286), we removed the specific distance and determined that such determinations be made on a case-by-case basis. In general, the upland habitat surrounding the aquatic breeding and non-breeding habitat (PCEs 1 and 2) would be limited to 1 mile (1.6 km) in most cases, depending on surrounding landscape and dispersal barriers.

We also included a new area in Mendocino County (Unit MEN-1) as a result of genetic information on the northern coastal range of the subspecies (Shaffer et al. 2004, pp. 2667-2677). A new area was also included in the Sierra Nevada (Unit PLA-1); bringing the total number of units proposed for designation to six in the Sierra Nevada Region.

In the previous designation, we also exempted two Department of Defense facilities (Vandenberg Air Force Base and Camp San Luis Obispo) under section 4(a)(3) of the Act, despite these two facilities not having approved integrated natural resource management plans in place. We are currently proposing critical habitat on portions of these two facilities and are seeking public comment as to whether or not we should exclude these areas under section 4(b)(2) of the Act.

Proposed Revised Critical Habitat Designation

We are proposing to designate 49 units as critical habitat for the California red-legged frog. The critical habitat areas described below constitute our best assessment at this time of areas that meet the definition of critical habitat for the California red-legged frog. The areas designated as critical habitat are identified in Tables 1, 2, and 3 below. Table 1 shows a summary of areas that meet the definition of critical habitat for the California red-legged frog. Table 2 shows the areas proposed as critical that also include areas proposed for exclusion. Table 3 identifies the approximate area designated as critical habitat for the California red-legged frog by land ownership.

Table 1—Summary of Areas That Meet the Definition of Critical Habitat for the California Red-Legged Frog
Unit | Known to be occupied at time of listing? | Known to be currently occupied?
BUT-1 | No | Yes.
YUB-1 | No | Yes.
NEV-1 | No | Yes.
PLA-1 | No | Yes.
ELD-1 | Yes | Yes.
CAL-1 | No | Yes.
MEN-1 | No | Yes.
SON-1 | Yes | Yes.
SON-2 | No | Yes.
SON-3 | No | Yes.
NAP-1 | Yes | Yes.
MRN-1 | Yes | Yes.
MRN-2 | No | Yes.
MRN-3 | Yes | Yes.
SOL-1 | Yes | Yes.
SOL-2 | No | Yes.
SOL-3 | Yes | Yes.
CCS-1 | Yes | Yes.
CCS-2 | Yes | Yes.
ALA-1A | Yes | Yes.
ALA-1B | Yes | Yes.
ALA-2 | Yes | Yes.
SNM-1 | Yes | Yes.
SNM-2 | Yes | Yes.
STC-1 | Yes | Yes.
STC-2 | Yes | Yes.
SCZ-1 | Yes | Yes.
SCZ-2 | Yes | Yes.
MNT-1 | Yes | Yes.
MNT-2 | Yes | Yes.
MNT-3 | No | Yes.
SNB-1 | No | Yes.
SNB-2 | No | Yes.
SNB-3 | Yes | Yes.
SLO-1 | Yes | Yes.
SLO-2 | Yes | Yes.
SLO-3 | Yes | Yes.
SLO-4 | No | Yes.
STB-1 | Yes | Yes.
STB-2 | No | Yes.
STB-3 | Yes | Yes.
STB-4 | No | Yes.
STB-5 | Yes | Yes.
STB-6 | Yes | Yes.
STB-7 | Yes | Yes.
VEN-1 | Yes | Yes.
VEN-2 | Yes | Yes.
VEN-3 | No | Yes.
LOS-1 | Yes | Yes.
RIV-1 | Yes | Yes.

Table 2—Approximate Area (ac, (ha)) of Locations Supporting Features Essential to Conservation of the California Red-Legged Frog Fitting the Selection Criteria for Critical Habitat That Include Proposed Exclusions From Critical Habitat Pursuant to Section 4(B)(2) of the Act
Unit | Proposed critical habitat: ac | Proposed critical habitat: ha | Proposed exclusions: ac | Proposed exclusions: ha
ELD-1 | 5,525 | 2,236 | 54 | 22
CCS-2 | 138,859 | 56,194 | 100,884 | 40,786
SCZ-1 | 72,255 | 29,241 | 6 | 3
RIV-1 | 4,069 | 1,647 | 4,069 | 1,647
Total |  |  | 105,013 | 42,458

Table 3—Critical Habitat Units Designated for the California Red-Legged Frog
[Area Estimates (ac, (ha)) Reflect the Entire Area Within the Critical Habitat Unit Boundaries; Areas Supporting PCEs May Be Less Within Each Unit
Unit | Federal: ac | Federal: ha | State: ac | State: ha | Local Gov: ac | Local Gov: ha | Private: ac | Private: ha | Total: ac | Total: ha
BUT-1 | 3,222 | 1,304 | 250 | 101 |  |  | 1,821 | 737 | 5,293 | 2,142
YUB-1 | 2,486 | 1,006 |  |  |  |  | 3,836 | 1,552 | 6,322 | 2,558
NEV-1 | 3,165 | 1,281 | 15 | 6 |  |  | 5,106 | 2,066 | 8,286 | 3,353
PLA-1 | 820 | 332 |  |  |  |  | 424 | 171 | 1,244 | 503
ELD-1 | 5,483 | 2,219 |  |  |  |  | 42 | 17 | 5,525 | 2,236
CAL-1 | 7 | 3 |  |  |  |  | 4,442 | 1,798 | 4,449 | 1,801
MEN-1 |  |  |  |  |  |  | 23,905 | 9,674 | 23,905 | 9,674
SON-1 |  |  | 1,157 | 468 |  |  | 407 | 165 | 1,564 | 633
SON-2 |  |  |  |  |  |  | 4,932 | 1,996 | 4,932 | 1,996
SON-3 |  |  |  |  | 105 | 42 | 2,125 | 860 | 2,230 | 902
NAP-1 |  |  |  |  |  |  | 2,524 | 1,022 | 2,524 | 1,022
MRN-1 |  |  |  |  |  |  | 7,840 | 3,173 | 7,840 | 3,173
MRN-2 |  |  |  |  |  |  | 22,559 | 9,129 | 22,559 | 9,129
MRN-3 | 31,666 | 12,815 | 164 | 66 |  |  | 2,098 | 849 | 33,928 | 13,730
SOL-1 |  |  |  |  |  |  | 11,971 | 4,845 | 11,971 | 4,845
SOL-2 |  |  |  |  |  |  | 3,360 | 1,360 | 3,360 | 1,360
SOL-3 |  |  |  |  |  |  | 4,597 | 1,861 | 4,597 | 1,861
CCS-1 |  |  |  |  | 3,379 | 1,368 | 10,479 | 4,241 | 13,858 | 5,609
CCS-2 |  |  | 9,869 | 3,994 | 4,186 | 1,694 | 124,803 | 50,506 | 138,858 | 56,194
ALA-1A |  |  |  |  |  |  | 3,650 | 1,477 | 3,650 | 1,477
ALA-1B |  |  |  |  | 451 | 182 | 9,717 | 3,932 | 10,168 | 4,114
ALA-2 | 6,892 | 2,789 |  |  | 2,329 | 943 | 144,403 | 58,437 | 153,624 | 62,169
SNM-1 | 887 | 359 | 17,102 | 6,921 | 206 | 84 | 16,757 | 6,781 | 34,952 | 14,145
SNM-2 | 406 | 164 | 3,977 | 1,609 | 6,332 | 2,563 | 85,424 | 34,570 | 96,139 | 38,906
STC-1 | 37 | 15 |  |  | 8,450 | 3,420 | 43,796 | 17,723 | 52,283 | 21,158
STC-2 | 352 | 142 | 53,267 | 21,556 | 74 | 30 | 151,025 | 61,118 | 204,718 | 82,846
SCZ-1 | 226 | 92 | 20,532 | 8,309 |  |  | 51,497 | 20,840 | 72,255 | 29,241
SCZ-2 | 115 | 46 |  |  |  |  | 3,942 | 1,595 | 4,057 | 1,641
MNT-1 |  |  |  |  |  |  | 519 | 210 | 519 | 210
MNT-2 | 26,104 | 10,564 | 827 | 335 | 1373 | 556 | 91,188 | 36,902 | 119,492 | 48,357
MNT-3 | 9,936 | 4,021 | 6,025 | 2,438 |  |  | 11,581 | 4,687 | 27,542 | 11,146
SNB-1 | 13 | 5 | 3,109 | 1,258 |  |  | 33,172 | 13,424 | 36,294 | 14,687
SNB-2 |  |  |  |  |  |  | 17,356 | 7,024 | 17,356 | 7,024
SNB-3 | 20,221 | 8,183 |  |  |  |  | 43,533 | 17,617 | 63,754 | 25,800
SLO-1 | 159 | 64 |  |  |  |  | 17,859 | 7,228 | 18,018 | 7,292
SLO-2 | 497 | 201 | 691 | 280 |  |  | 116,261 | 47,049 | 117,449 | 47,530
SLO-3 | 34,854 | 14,104 | 6,316 | 2,556 |  |  | 81,250 | 32,881 | 122,420 | 49,541
SLO-4 | 23,970 | 9,700 |  |  |  |  | 10,493 | 4,247 | 34,463 | 13,947
STB-1 | 20,896 | 8,456 |  |  |  |  | 4,269 | 1,727 | 25,165 | 10,183
STB-2 | 23,912 | 9,677 |  |  |  | 12,092 | 4,893 | 36,004 | 14,570
STB-3 | 40,115 | 16,234 |  |  |  |  | 7,444 | 3,012 | 47,559 | 19,246
STB-4 | 1,012 | 410 |  |  |  | 7,681 | 3,108 | 8,693 | 3,518
STB-5 | 1,547 | 626 | 2,074 | 839 |  |  | 9,267 | 3,750 | 12,888 | 5,215
STB-6 | 1,881 | 761 | 28 | 11 |  |  | 10,076 | 4,078 | 11,985 | 4,850
STB-7 | 124,905 | 50,547 |  |  |  | 20,216 | 8,181 | 145,121 | 58,728
VEN-1 |  |  |  |  |  | 2,915 | 1,180 | 2,915 | 1,180
VEN-2 | 8,363 | 3,384 |  |  |  |  | 474 | 192 | 8,837 | 3,576
VEN-3 | 56 | 23 |  |  |  |  | 4,944 | 2,001 | 5,000 | 2,024
LOS-1 | 3,906 | 1,581 |  |  |  |  | 325 | 132 | 4,231 | 1,713
RIV-1 |  |  |  | 3997 | 1618 | 72 | 29 | 4,069 | 1,647
Total | 398,111 | 161,108 | 125,403 | 50,747 | 30,882 | 12,500 | 1,250,469 | 506,047 | 1,804,865 | 730,402

Presented below are brief descriptions of all units. The units are listed in order geographically north to south and west to east, with exception of the units in the Sierra Nevada foothills, which are listed first, north to south.

BUT-1, Hughes Place Pond (5,293 ac (2,142 ha))

This unit is located in east-central Butte County, east of State Highway 70 and west of Oroville-Quincy Highway. BUT-1 is mapped entirely from occurrences recorded subsequent to the time of listing and is essential for the conservation of the subspecies because the area contains aquatic habitat for breeding and non-breeding activities (PCE 1 and PCE 2), contains upland habitat for foraging and dispersal activities (PCE 3 and PCE 4), and is currently occupied by the subspecies. This unit also encompasses one of six known extant Sierra Foothill populations identified since the time of listing and is located in the easternmost portion of the subspecies' historical range. This unit represents the California red-legged frog's adaptation to a wide range of habitat and ecological variability, is known to be occupied, and contains high-quality habitat. The unit consists of Federal (3,222 ac (1,304 ha)), State (250 ac (101 ha)), and private (1,821 ac (737 ha)) land. The essential features in this unit may require special management considerations or protection due to necessary wildland fire suppression activities, which may dewater aquatic habitats and thereby result in the desiccation of egg masses or direct death of adults from water drafting; timber harvest activities; and predation by nonnative species. We are currently considering whether to exclude, but have not proposed for exclusion from the final designation of critical habitat, the Federal land managed by the Plumas National Forest under the U.S. Forest Service's Sierra Nevada Forest Plan. We are currently asking for information as to whether the Sierra Nevada Forest Plan Amendment is an appropriate mechanism for exclusion and are requesting comments. For further discussion, see “Application of Section 4(b)(2) of the Act” below.

YUB-1, Little Oregon Creek (6,322 ac (2,558 ha))

This unit is located in northeastern Yuba County, north of Marysville Road and south of La Porte Road. YUB-1 is mapped from records identified since the time of listing and is considered an area that is essential for the conservation of the subspecies because it contains aquatic habitat for breeding and non-breeding activities (PCE 1 and PCE 2), contains upland habitat for foraging and dispersal activities (PCE 3 and PCE 4), and is currently occupied by the subspecies. YUB-1 is the second of six known extant Sierra Foothill populations and is located in the easternmost portion of the subspecies' historical range. This unit represents the California red-legged frog's adaptation to a wide range of habitat and ecological variability, is known to be occupied, and contains high-quality habitat. This unit consists of Federal (2,486 ac (1,006 ha)) and private (3,836 ac (1,552 ha)) land and is mapped entirely from occurrences recorded subsequent to the time of listing. The essential features in this unit may require special management considerations or protection due to necessary wildland fire suppression activities, which may dewater aquatic habitats and thereby result in the desiccation of egg masses or direct death of adults from water drafting; timber harvest activities; and predation by nonnative species. We are currently considering whether to exclude, but have not proposed for exclusion from the final designation of critical habitat, the Federal land managed by the Plumas National Forest under the U.S. Forest Service's Sierra Nevada Forest Plan. We are currently asking for information as to whether the Sierra Nevada Forest Plan Amendment is an appropriate mechanism for exclusion and are requesting comments. For further discussion, see “Application of Section 4(b)(2) of the Act” below.

NEV-1, Sailor Flat (8,286 ac (3,353 ha))

This unit is located in central Nevada County, approximately 3 mi (5 km) northeast of Nevada City, south of Tyler Foote Road and north of State Highway 20. NEV-1 is mapped entirely from occurrences recorded subsequent to the time of listing and is considered an area that is essential for the conservation of the subspecies because it contains aquatic habitat for breeding and non-breeding activities (PCE 1 and PCE 2), contains upland habitat for foraging and dispersal activities (PCE 3 and PCE 4), and is occupied by the subspecies. NEV-1 is the third of six known extant Sierra Foothill populations and is located in the easternmost portion of the subspecies' historical range. This unit represents the California red-legged frog's adaptation to a wide range of habitat and ecological variability, is currently known to be occupied, and contains high-quality habitat. This unit consists of Federal (3,165 ac (1,281 ha)), State (15 ac (6 ha)) and private (5,106 ac (2,066 ha)) land. The essential features in this unit may require special management considerations or protection due to necessary wildland fire suppression activities, which may dewater aquatic habitats and thereby result in the desiccation of egg masses or direct death of adults from water drafting; timber harvest activities; and predation by nonnative species. We are currently considering whether to exclude, but have not proposed for exclusion from the final designation of critical habitat, the Federal land managed by the Tahoe National Forest under the U.S. Forest Service's Sierra Nevada Forest Plan. We are currently asking for information as to whether the Sierra Nevada Forest Plan Amendment is an appropriate mechanism for exclusion and are requesting comments. For further discussion, see “Application of Section 4(b)(2) of the Act” below.

PLA-1, Michigan Bluff (1,244 ac (503 ha))

This unit is located in central Placer County, approximately 4 mi (6 km) east northeast of Foresthill. Unit PLA-1 is mapped from occurrences recorded subsequent to listing and is considered an area that is essential for the conservation of the subspecies because it contains aquatic habitat for breeding and non-breeding activities (PCE 1 and PCE 2), contains upland habitat for foraging and dispersal activities (PCE 3 and PCE 4), and is occupied by the subspecies. PLA-1 is the fourth of six known extant Sierra Foothill populations and is located in the easternmost portion of the subspecies' historical range. This unit represents the California red-legged frog's adaptation to a wide range of habitat and ecological variability, is currently known to be occupied, and contains high quality habitat. This unit consists of Federal (820 ac (332 ha)) and private (424 ac (171 ha)) land and is mapped entirely from occurrences recorded subsequent to the time of listing. The essential features in this unit may require special management considerations or protection due to necessary wildland fire suppression activities, which may dewater aquatic habitats and thereby result in the desiccation of egg masses or direct death of adults from water drafting; timber harvest activities; and predation by nonnative species. We are currently considering whether to exclude, but have not proposed for exclusion from the final designation of critical habitat, the Federal land managed by the Tahoe National Forest under the U.S. Forest Service's Sierra Nevada Forest Plan. We are currently asking for information as to whether the Sierra Nevada Forest Plan Amendment is an appropriate mechanism for exclusion and are requesting comments. For further discussion, see “Application of Section 4(b)(2) of the Act” below.

ELD-1, Spivey Pond (5,525 ac (2,236 ha))

This unit is located in central El Dorado County, south of State Highway 50 and east of Newton Road. ELD-1 is mapped from occurrences recorded subsequent to listing. However, records at this location were first reported one year after listing (1997). Based on the number of mature, reproducing adults and non-reproducing juveniles, we have determined that this site was occupied at the time of listing. Therefore, this unit contains the features essential for the conservation of the subspecies. The unit contains aquatic habitat for breeding and non-breeding activities (PCE 1 and PCE 2), contains upland habitat for foraging and dispersal activities (PCE 3 and PCE 4), and is occupied by the subspecies. ELD-1 is the fifth of six known extant Sierra Nevada populations and is located in the easternmost portion of the subspecies' historical range. This unit represents the California red-legged frog's adaptation to a wide range of habitat and ecological variability, is currently known to be occupied, and contains high-quality habitat. The unit consists entirely of Federal (5,483 ac (2,219 ha)) and private land (42 ac (17 ha)) and is mapped entirely from occurrences recorded subsequent to the time of listing. The essential features in this unit may require special management considerations or protection due to necessary wildland fire suppression activities, which may dewater aquatic habitats and thereby result in the desiccation of egg masses or direct death of adults from water drafting; timber harvest activities; and predation by nonnative species. Snows Quarry does not contain the PCEs and has been removed from this proposed designation of critical habitat. However, due to technical mapping constraints we did not physically remove the area from the map depicting unit ELD-1. We are currently considering whether to exclude, but have not proposed for exclusion from the final designation of critical habitat, the Federal land managed by the Plumas National Forest under the U.S. Forest Service's Sierra Nevada Forest Plan. We are currently asking for information as to whether the Sierra Nevada Forest Plan Amendment is an appropriate mechanism for exclusion and are requesting comments. For further discussion, see “Application of Section 4(b)(2) of the Act” below.

CAL-1, Young's Creek (4,449 ac (1,801 ha))

This unit is located in northwestern Calaveras County, north of State Highway 26 and south of Paloma Road. CAL-1 is mapped entirely from occurrences recorded subsequent to the time of listing and is essential for the conservation of the subspecies because it contains aquatic habitat for breeding and non-breeding activities (PCE 1 and PCE 2), and upland habitat for foraging and dispersal activities (PCE 3 and PCE 4) and is occupied by the species. This unit encompasses one of six known extant Sierra Foothill populations identified since the time of listing and is located in the easternmost portion of the subspecies historical range. This unit represents the California red-legged frog's adaptation to a wide range of habitat and ecological variability, is currently known to be occupied, and contains high-quality habitat. The unit consists of 7 ac (3 ha) of Federal land and 4,442 ac (1,798 ha) of private land. We are currently considering whether to exclude but have not proposed for exclusion the private land from the designation of critical habitat. The essential features in this unit may require special management considerations or protection due to grazing and other land management activities, which may alter aquatic and upland habitats and thereby result in the predation and desiccation of egg masses or direct death of adults. We are currently asking for information as to whether the private lands within the proposed designation should be excluded and are requesting comments. For further discussion see “Application of Section 4(b)(2) of the Act” below.

MEN-1, Greenwood Creek (23,905 ac (9,674 ha))

This unit is located along the coast north of Manchester, CA, in Mendocino County. MEN-1 contains aquatic habitat for breeding and non-breeding activities (PCE 1 and PCE 2), and upland habitat for foraging and dispersal activities (PCE 3 and PCE 4). The records within the unit were identified subsequent to listing as northern Mendocino County was thought to be outside the known range of the species. Subsequent genetic research has identified the subspecies into Mendocino County (Shaffer et al. 2004, p. 2676). This unit is currently occupied and is essential to the conservation of the subspecies because it contains permanent and ephemeral aquatic habitats consisting of natural and man-made ponds surrounded by emergent vegetation and marshland with upland comprised of forested timber that provides for breeding and upland areas for dispersal, shelter, and foraging. Additionally, the unit represents the northernmost extent of the species range along the coast of California and may be genetically significant to the subspecies (Shaffer et al. 2004, p. 2676). The essential features in this unit may require special management considerations or protection due to grazing and other land management activities, which may alter aquatic and upland habitats and thereby result in the predation and desiccation of egg masses or direct death of adults. The unit consists entirely of private land.

SON-1, Annadel (1,564 ac (633 ha))

This unit is located in Annadel State Park southeast of Santa Rosa, CA, in Sonoma County and contains features that are essential for the conservation of the subspecies. SON-1 contains aquatic habitat for breeding and non-breeding activities (PCE 1 and PCE 2), and upland habitat for foraging and dispersal activities (PCE 3 and PCE 4). SOM-1 was known to be occupied at the time of listing and is currently occupied. The unit contains permanent and ephemeral aquatic habitat consisting of marshland ponds with emergent vegetation surrounded by bulrush (Scirpus spp.) and cattail (Typha spp.), annual and perennial grasslands, oak forest, and Douglas fir forests, which allow for breeding and non-breeding pond activities; and upland areas for dispersal, shelter, and foraging. The unit provides for connectivity between populations farther south in the northbay (area north of San Francisco Bay), and contains high-quality protected habitat. The unit consists of State (1,157 ac (468 ha)) and private (407 ac (165 ha)) land and is mapped from occurrences recorded at the time of listing and subsequent to the time of listing. The essential features in this unit may require special management considerations or protection due to predation by nonnative species, habitat alteration from invasive plant species, and recreational use.

SON-2, Sonoma Mountain (4,932 ac (1,996 ha))

This unit is located east of Petaluma, California, in the Sonoma Mountains in Sonoma County. SON-2 is mapped from occurrences recorded subsequent to the time of listing and is currently occupied. This unit is essential to the conservation of the subspecies because it contains permanent and ephemeral aquatic habitats consisting of natural and man-made ponds surrounded by emergent vegetation and marshland with appropriate upland areas for dispersal, shelter, and foraging. The unit also contains habitat for breeding and non-breeding activities (PCE 1 and PCE 2), and upland habitat for foraging and dispersal activities, shelter, and food (PCE 3 and PCE 4). The unit also provides for connectivity between populations farther north and south in the northbay, and contains high-quality habitat. The essential features in this unit may require special management considerations or protection due to predation by nonnative species, and habitat alteration from invasive plant species. The unit consists entirely of private land.

SON-3, Petaluma (2,230 ac (902 ha))

This unit is located southwest of Petaluma, CA, near West Petaluma Regional Park in Sonoma County. SON-3 is mapped from occurrences recorded subsequent to the time of listing and is essential for the conservation of the subspecies because it contains aquatic habitat for breeding and non-breeding activities (PCE 1 and PCE 2), and upland habitat for foraging and dispersal activities (PCE 3 and PCE 4). SON-3 is currently occupied and contains permanent and ephemeral aquatic habitats comprised of man-made ponds and connecting streams surrounded by riparian and grassland habitat that provide for breeding, and upland areas for dispersal, shelter, and foraging. The unit provides for connectivity between populations farther west in the northbay, and contains high-quality habitat. The unit consists of local government lands (105 ac (42 ha)) and private lands (2,125 ac (860 ha)). The essential features in this unit may require special management considerations or protection due to predation by nonnative species, and habitat alteration from invasive plant species.

NAP-1, Wragg Creek (2,524 ac (1,022 ha))

This unit is located in east-central Napa County, is bisected by State Highway 128, and lies largely to the west of State Highway 121. NAP-1 was known to be occupied at the time of listing and is currently occupied and contains the features that are essential for the conservation of the subspecies. The unit contains aquatic habitat for breeding and non-breeding activities (PCE 1 and PCE 2), and upland habitat for foraging and dispersal activities (PCE 3 and PCE 4). The unit contains permanent and ephemeral aquatic habitats suitable for breeding and upland areas for dispersal, shelter, and food. The unit provides for connectivity between populations northwest of the northbay; represents the northern extent of the subspecies' range in the interior coast range; and contains high-quality habitat. The unit consists entirely of private land and is mapped from occurrences recorded at the time of listing and subsequent to the time of listing. Threats that may require special management in this unit include predation by nonnative species and habitat disturbance.

MRN-1, Estero (7,840 ac (3,173 ha))

This unit is located in northwestern Marin County, west of State Highway 1 along the Estero de San Antonio. MRN-1 is occupied and contains occurrences recorded at the time of listing and subsequent to the time of listing. The area is occupied by the subspecies, and contains features essential to the conservation of the subspecies because it contains aquatic habitat for breeding and non-breeding activities (PCE 1 and PCE 2), and contains upland habitat for foraging and dispersal activities (PCE 3 and PCE 4). MRN-1 provides for connectivity between populations in the northbay region. The unit contains permanent and ephemeral aquatic habitats such as shallow and deep pools as well as ephemeral and permanent drainages surrounded by grasslands, emergent and other riparian vegetation that provide for aquatic breeding and non-breeding; and upland areas for dispersal, shelter, and foraging. The unit consists entirely of private land. Threats that may require special management in this unit include overgrazing of aquatic and riparian habitats, introduction of exotic vegetation, and urban development.

MRN-2, Salmon Creek (22,559 ac (9,129 ha))

This unit is located in north-central Marin County, east of State Highway 1 and north of Point Reyes Petaluma Road. MRN-2 is occupied and contains occurrences recorded subsequent to the time of listing. The area is essential to the conservation of the subspecies because it contains aquatic habitat for breeding and non-breeding activities (PCE 1 and PCE 2), contains upland habitat for foraging and dispersal activities (PCE 3 and PCE 4), and is occupied by the subspecies. MRN-2 provides for connectivity between populations in the northbay region of the subspecies' coastal range. The unit contains permanent and ephemeral aquatic habitats suitable for breeding; upland areas for dispersal, shelter, and food; and high-quality habitat. The unit consists entirely of private land. Threats that may require special management in this unit include predation by nonnative species and habitat disturbance.

MRN-3, Point Reyes Peninsula (33,928 ac (13,730 ha))

This unit is located in western Marin County, west of State Highway 1. MRN-3 contains the features that are essential for the conservation of the subspecies. The unit contains aquatic habitat for breeding and non-breeding activities (PCE 1 and PCE 2) and upland habitat for foraging and dispersal activities (PCE 3 and PCE 4). MRN-3 was known to be occupied at the time of listing and is currently occupied. The unit contains high-quality permanent and ephemeral aquatic habitats suitable for breeding, and upland areas for dispersal, shelter, and food. The unit provides for connectivity between populations farther north and inland and represents the southern portion of the geographic range within the northbay. The unit consists of Federal land (National Park Service) (31,666 ac (12,815 ha)), State land (164 ac (66 ha)), and private land (2,098 ac (849 ha)) and is mapped from occurrences recorded at the time of listing and subsequent to the time of listing. Threats that may require special management in this unit include overgrazing of aquatic and riparian habitats and predation by non-native species.

SOL-1, Sky Valley (11,971 ac (4,845 ha))

This unit is located in southwestern Solano County and a portion of extreme southeastern Napa County, south of Interstate 80 and west of Interstate 680. SOL-1 contains the features that are essential for the conservation of the subspecies. The unit contains aquatic habitat for breeding and non-breeding activities (PCE 1 and PCE 2) and upland habitat for foraging and dispersal activities (PCE 3 and PCE 4). SOL-1 was known to be occupied at the time of listing and is currently occupied. The unit contains high-quality permanent and ephemeral aquatic habitats suitable for breeding, upland areas for dispersal, shelter, and food. The designation of this unit is expected to prevent further fragmentation of habitat in this portion of the subspecies' range and represents the southern extent of the subspecies in the interior coast range north of the Suisun Bay. The unit consists entirely of private land and is mapped from occurrences recorded at the time of listing and subsequent to the time of listing. Threats that may require special management in this unit include overgrazing of aquatic and riparian habitats, and removal and alteration of habitat due to urbanization.

SOL-2, Jameson Canyon (3,360 ac (1,360 ha))

This unit is located in southwestern Solano County and a portion of extreme southeastern Napa County, south of Interstate 80 and west of Interstate 680. SOL-2 is essential for the conservation of the subspecies because it contains aquatic habitat for breeding and non-breeding activities (PCE 1 and PCE 2) and upland habitat for foraging and dispersal activities (PCE 3 and PCE 4). SOL-2 contains records found subsequent to the time of listing and is currently occupied. The unit contains high-quality permanent and ephemeral aquatic habitats consisting of stream and plunge pools as well as large freshwater marsh surrounded by open grassland, willow (Salix spp.), and oak (Quercus agrifolia) that provide for breeding, upland areas for dispersal, shelter, and foraging. The designation of this unit is expected to prevent further fragmentation of habitat in this portion of the subspecies' range and provides connectivity to adjacent units to the south in the interior coast range north of the Suisun Bay. The unit consists entirely of private land and is mapped from occurrence records and habitat identified subsequent to the time of listing. Threats that may require special management in this unit include predation by nonnative species and habitat disturbance.

SOL-3, American Canyon (4,597 ac (1,861 ha))

This unit is located in southwestern Solano County and a portion of extreme southeastern Napa County, north of Interstate 80 and south of Highway 12. SOL-3 contains the features that are essential for the conservation of the subspecies. The unit contains aquatic habitat for breeding and non-breeding activities (PCE 1 and PCE 2) and upland habitat for foraging and dispersal activities (PCE 3 and PCE 4). SOL-3 was known to be occupied at the time of listing and is currently occupied. The unit contains high-quality permanent and ephemeral aquatic habitats consisting of pools, stream, and spring habitat surrounded by riparian tree species and annual grasslands that provide for breeding, upland areas for dispersal, shelter, and foraging. The designation of this unit is expected to prevent further fragmentation of habitat in this portion of the subspecies' range and provides connectivity to other units farther north and south in the interior coast range north of the Suisun Bay. The unit consists entirely of private land and is mapped from occurrences recorded at the time of listing and subsequent to the time of listing. Threats that may require special management in this unit include overgrazing of aquatic and riparian habitats, and loss and alteration of habitat due to urbanization.

CCS-1, Berkeley Hills (13,858 ac (5,609 ha))

This unit is located in western Contra Costa County, south of Alhambra Valley Road and north of Bear Creek Road. CCS-1 contains the features that are essential for the conservation of the subspecies. The unit also contains aquatic habitat for breeding and non-breeding activities (PCE 1 and PCE 2) and upland habitat for foraging and dispersal activities (PCE 3 and PCE 4). CCS-1 was known to be occupied at the time of listing, is currently occupied, and contains high-quality permanent and ephemeral aquatic habitats suitable for breeding and upland areas for dispersal, shelter, and food. The designation of this unit is expected to prevent further fragmentation of habitat in this portion of the subspecies' range. The unit consists of private (10,479 ac (4,241 ha)) and local government (3,379 ac (1,368 ha)) land. Threats that may require special management in this unit include removal and alteration of habitat due to urbanization, overgrazing and aquatic and riparian habitats, and predation by nonnative species.

CCS-2, Mount Diablo (138,858 ac (56,194 ha))

This unit is located in eastern Contra Costa County and northeastern Alameda County, north of Highway 580. Unit CCS-2 contains the features that are essential for the conservation of the subspecies. The unit also contains aquatic habitat for breeding and non-breeding activities (PCE 1 and PCE 2) and upland habitat for foraging and dispersal activities (PCE 3 and PCE 4). CCS-2 was known to be occupied at time of listing and is currently occupied. The unit contains permanent and ephemeral aquatic habitats suitable for breeding, upland areas for dispersal, shelter and food, and provides for connectivity between populations farther south in the interior Coast Range. The unit consists of State (9,869 ac (3,994 ha)), local government (4,186 ac (1,694 ha)), and private (124,803 ac (50,506 ha)) land and is mapped from occurrences recorded at time of listing and subsequent to the time of listing. Threats that may require special management in this unit include removal and alteration of habitat due to urbanization, overgrazing of aquatic and riparian habitats, erosion and siltation due to flooding, and predation by nonnative species. We are proposing to exclude portions of this unit from the final designation of critical habitat because it falls within the East Contra Costa County Natural Communities Conservation Plan/Habitat Conservation Plan (ECCHCP) and East Bay Regional Park lands. For further discussion of this proposed exclusion see “Application of Section 4(b)(2) of the Act” below.

ALA-1A, Dublin Canyon (3,650 ac (1,477 ha))

This unit is located in northwestern Alameda County and southern Contra Costa County, north of Highway 580 and west of Dublin, California. Unit ALA-1A contains the features that are essential for the conservation of the subspecies. The unit also contains aquatic habitat for breeding and non-breeding activities (PCE 1 and PCE 2) and upland habitat for foraging and dispersal activities (PCE 3 and PCE 4). ALA-1A was known to be occupied at time of listing and is currently occupied. The unit contains permanent and ephemeral aquatic habitats comprised of man-made stock ponds and natural streams with emergent vegetation, willows (Salix spp.) surrounded by riparian vegetation, grasslands and oak forest that provide for breeding, upland areas for dispersal, shelter, and foraging opportunities. The unit provides for connectivity between populations farther south in the Eastbay foothills. The unit consists entirely of private land and is mapped from occurrences recorded at time of listing and subsequent to the time of listing. Threats that may require special management in this unit include removal and alteration of habitat due to urbanization, alteration of aquatic and riparian habitats, dumping, and erosion and siltation of ponded habitat.

ALA-1B, Cook Canyon (10,168 ac (4,114 ha))

This unit is located in northwestern Alameda County, south of Highway 580. Unit ALA-1B contains the features that are essential for the conservation of the subspecies. The unit also contains aquatic habitat for breeding and non-breeding activities (PCE 1 and PCE 2) and upland habitat for foraging and dispersal activities (PCE 3 and PCE 4). ALA-1A was known to be occupied at time of listing and is currently occupied. The unit contains permanent and ephemeral aquatic habitats comprised of man-made stock ponds and natural streams with emergent vegetation, willows (Salix spp.) surrounded by riparian vegetation, grasslands and oak forest that provide for breeding, upland areas for dispersal, shelter, and foraging opportunities. The unit provides for connectivity between populations farther north in the Eastbay foothills. The unit consists of local government land (451 ac (182 ha)) and private (9,717 ac (3,932 ha)) land and is mapped from occurrences recorded at time of listing and subsequent to the time of listing. Threats that may require special management in this unit include removal and alteration of habitat due to urbanization, alteration of aquatic and riparian habitats, and erosion and siltation of ponded habitat.

ALA-2, Arroyo Valle (153,624 ac (62,169 ha))

This unit is located in southwestern Alameda County, south of Highway 580 at Altamont Pass southeast into San Joaquin County and southwest into Santa Clara County near Arroyo Hondo and Calaveras Reservoir. Unit ALA-2 contains the features that are essential for the conservation of the subspecies. The unit also contains aquatic habitat for breeding and non-breeding activities (PCE 1 and PCE 2) and upland habitat for foraging and dispersal activities (PCE 3 and PCE 4). ALA-1A was known to be occupied at time of listing and is currently occupied. The unit contains permanent and ephemeral aquatic habitats comprised of natural ponds and streams and man-made stock ponds with emergent vegetation, willows (Salix spp.) surrounded by riparian vegetation, grasslands and oak forest that provide for breeding, upland areas for dispersal, shelter, and foraging opportunities. The unit provides for connectivity between populations farther north and south in the interior Coast Range. The unit consists of Federal (6,892 ac (2,789 ha)), local government (2,329 ac (943 ha)), and private (144,307 ac (58,399 ha)) land and is mapped from occurrences recorded at time of listing and subsequent to the time of listing. Threats that may require special management in this unit include removal and alteration of habitat due to urbanization, alteration of aquatic and riparian habitats, and erosion and siltation of ponded habitat.

SNM-1, Cahill Ridge (34,952 ac (14,145 ha))

This unit is located in north central San Mateo County, west of Interstate 280 and south of Pacifica, California. SNM-1 contains the features that are essential for the conservation of the subspecies. The unit also contains aquatic habitat for breeding and non-breeding activities (PCE 1 and PCE 2) and upland habitat for foraging and dispersal activities (PCE 3 and PCE 4). SNM-1 was known to be occupied at the time of listing and is currently occupied. The unit contains high quality permanent and ephemeral aquatic habitats consisting of ponds and streams surrounded by riparian and emergent vegetation that provides for breeding and upland areas for dispersal, shelter, and food. The unit represents the only unit in the San Francisco peninsula and would assist in maintaining the distribution of California red-legged frog population within the San Francisco area and provide connectivity to units farther south into Santa Cruz County. The unit consists of Federal (887 ac (359 ha)), State (17,102 ac (6,921 ha)), private (16,757 ac (6,781 ha)), and local government (206 ac (84 ha)) land and is mapped from occurrences recorded at the time of listing and subsequent to the time of listing. Threats that may require special management in this unit include habitat alteration and destruction from development and non-native invasive plants.

SNM-2, Pescadero (96,138 ac (38,906))

This unit is located in southwestern San Mateo County, south of Tunitas Creek, west of State Route 35 south into Santa Cruz County near Big Basin Redwoods State Park. Unit SNM-2 contains the features that are essential for the conservation of the subspecies. The unit also contains aquatic habitat for breeding and non-breeding activities (PCE 1 and PCE 2) and upland habitat for foraging and dispersal activities (PCE 3 and PCE 4). SNM-2 was known to be occupied at the time of listing and is currently occupied. The unit contains high-quality permanent and ephemeral aquatic habitats consisting of ponds and streams surrounded by riparian and emergent vegetation that provides for breeding and upland areas for dispersal, shelter, and food. The unit provides connectivity to units farther north toward San Francisco and south into Santa Cruz County. The unit consists of Federal (406 ac (164 ha)), State (3,977 ac (1,609 ha)), local government (6,332 ac (2,563 ha)), and private (85,424 ac (34,570 ha)) land and is mapped from occurrences recorded at the time of listing and subsequent to the time of listing. Threats that may require special management in this unit include habitat alteration and destruction from development and non-native invasive plants.

STC-1, Cañada de Pala (52,283 ac (21,158 ha))

This unit is located in north central Santa Clara County, south of Calaveras Reservoir near Los Buellis Hills south along the ridgeline east of Santa Clara Valley to Anderson Lake and Henry Coe State Park. Unit STC-1 contains the features that are essential for the conservation of the subspecies. The unit also contains aquatic habitat for breeding and non-breeding activities (PCE 1 and PCE 2) and upland habitat for foraging and dispersal activities (PCE 3 and PCE 4). STC-1 was known to be occupied at the time of listing, is currently occupied, and contains high-quality permanent and ephemeral aquatic habitats consisting of artificial and natural ponds and streams surrounded by emergent vegetation, grasslands and oak woodlands that provide for breeding, and upland areas for dispersal, shelter, and food. The designation of this unit is expected to assist in preventing further fragmentation of habitat in this portion of the subspecies' range and represents a connectivity corridor between units farther north into Contra Costa County and south into Merced and San Benito Counties. This unit consists of Federal (37 ac (15 ha)), local government (8,450 ac (3,420 ha)), and private (43,796 ac (17,723 ha)) land and is mapped from occurrences recorded at the time of listing and subsequent to the time of listing. Threats that may require special management in this unit include removal and alteration of habitat due to urbanization and exotic species, siltation and erosion of ponded habitat, overgrazing of aquatic and riparian habitats, and predation by nonnative species.

STC-2, Wilson Peak (204,718 ac (82,846 ha))

This unit is located in southeastern Santa Clara County to western Stanislaus County down to northern San Benito County from Henry Coe State Park south to Mount Ararat (Merced County) and Mariposa Peak (San Benito County) to San Felipe (Santa Clara County). Unit STC-2 contains the features that are essential for the conservation of the subspecies. The unit also contains aquatic habitat for breeding and non-breeding activities (PCE 1 and PCE 2) and upland habitat for foraging and dispersal activities (PCE 3 and PCE 4). STC-2 was known to be occupied at the time of listing and is currently occupied. The unit contains high-quality permanent and ephemeral aquatic habitats suitable for breeding and upland areas for dispersal, shelter, and food. The designation of this unit is expected to prevent further habitat fragmentation, provide connectivity to units farther north in Santa Clara, Alameda, and Contra Costa Counties, and represent the southern portion of the areas designated within Santa Clara County and Eastbay Region. The unit consists of Federal (352 ac (142 ha)), State (53,267 ac (21,556 ha)), local government (74 ac (30 ha)), and private (151,025 ac (61,118 ha)) land and is mapped from occurrences recorded at the time of listing and subsequent to the time of listing. Threats that may require special management in this unit include predation by nonnative species.

SCZ-1, North Coastal Santa Cruz County (72,255 ac (29,241 ha))

This unit is located along the coastline of northern Santa Cruz County, plus a small area in southern San Mateo County, from approximately Green Oaks Creek to Wilder Creek. The unit includes the following watersheds: Green Oaks Creek, Waddell Creek, East Waddell Creek, Scott Creek, Big Creek, Little Creek, San Vicente Creek, Laguna Creek, and Majors Creek. The unit is mapped from occurrences recorded at the time of listing and subsequent to the time of listing and is currently occupied. SCZ-1 contains the features that are essential for the conservation of the subspecies. The unit also contains aquatic habitat for breeding and non-breeding activities (PCE 1 and PCE 2) and upland habitat for foraging and dispersal activities (PCE 3 and PCE 4). SCZ-1 provides connectivity between occupied sites along the coast and farther inland. In addition, it contains high-quality habitat, indicated by high density of extant occurrences, permanent and ephemeral aquatic habitat suitable for breeding, and accessible upland areas for dispersal, shelter, and food. The unit represents one of two areas proposed for critical habitat in Santa Cruz County and is the northern extent of the central coast recovery unit. The unit consists of Federal (226 ac (92 ha)), State (20,532 ac (8,309 ha)), and private (51,497 ac (20,840 ha)) land. Threats that may require special management in this unit include water diversions, which could dewater portions of aquatic habitat, and thereby lead to desiccation of egg masses or temporal loss of aquatic habitat.

SCZ-2, Watsonville Slough (4,057 ac (1,641 ha))

This unit is located along the coastal plain in southern Santa Cruz County, north of the mouth of the Pajaro River and seaward of California Highway 1. It includes locations in the Watsonville Slough system, including all or portions of Gallighan, Hanson, Harkins, Watsonville, Struve, and the West Branch of Struve sloughs. The unit includes portions of the Corralitos Lagoon and Mouth of the Pajaro River watersheds. The unit is mapped from occurrences recorded at the time of listing and subsequent to the time of listing. SCZ-2 contains the features that are essential for the conservation of the subspecies. This unit is currently occupied and also contains permanent and ephemeral aquatic habitat for breeding and non-breeding activities (PCE 1 and PCE 2) and upland habitat for foraging, dispersal activities, and shelter (PCE 3 and PCE 4). SCZ-2 also provides connectivity between occupied sites along the coast and farther inland. The unit consists of Federal land (115 ac (46 ha)) and private (3,942 ac (1,595 ha)). Threats that may require special management in this unit include mortality due to agricultural pollution, conversion of habitat by introduced invasive plants, removal and alteration of aquatic and upland habitat due to urbanization, and predation by nonnative species.

MNT-1, Elkhorn Slough (519 ac (210 ha))

This unit is located along the coastal plain in northern Monterey County, inland from the town of Moss Landing, and it is mapped from occurrences recorded at the time of listing and subsequent to the time of listing and is currently occupied. The unit includes the eastern edge of the Elkhorn Slough watershed and the western edge of the Strawberry Canyon watershed. MNT-1 contains the features that are essential for the conservation of the subspecies. This unit also contains aquatic habitat for breeding and non-breeding activities (PCE 1 and PCE 2) and upland habitat for foraging and dispersal activities (PCE 3 and PCE 4). The designation of MNT-1 is expected to prevent further fragmentation of habitat in this portion of the subspecies' range, contains permanent and ephemeral aquatic habitats suitable for breeding, and contains upland areas for dispersal, shelter, and food. We have determined that these attributes are essential to the conservation of the subspecies. Elkhorn Slough is unique in that it is a large estuary/freshwater slough system not typically found on the California coast. The unit consists entirely of private land. Threats that may require special management in this unit include mortality due to agricultural pollution, trematode infestation and chytrid fungus infection, and predation by nonnative species.

MNT-2, Carmel River (119,492 ac (48,357 ha))

This unit is located south and southeast of the city of Monterey and includes locations in the Carmel River drainage and nearby San Jose Creek. The unit includes the following watersheds and portions of watersheds: the southern portion of Carmel Bay, Carmel Valley, Robinson Canyon, San Jose Creek, Las Garces Creek, Hitchcock Canyon, the western portion of Lower Tularcitos Creek, Klondike Canyon, Black Rock Creek, Pine Creek, Danish Creek, Cachagua Creek, Lower Finch Creek, Bear Canyon, Bruce Fork, and Miller Canyon. It is mapped from occurrences recorded at the time of listing and subsequent to the time of listing. MNT-2 contains the features that are essential for the conservation of the subspecies. The unit is currently occupied and also contains permanent and ephemeral aquatic habitat for breeding and non-breeding activities (PCE 1 and PCE 2) and upland habitat for foraging, dispersal activities, and shelter (PCE 3 and PCE 4). The unit is the largest proposed within Monterey County. The unit consists of Federal (26,104 ac (10,564 ha)), State (827 ac (335 ha)), local government (1,373 ac (556 ha)), and private (91,188 ac (36,902 ha)) land. Threats that may require special management in this unit include removal and alteration of aquatic and upland habitat due to urbanization, dewatering of aquatic habitat due to water pumping and water diversions, and predation by nonnative species.

MNT-3, Big Sur Coast (27,542 ac (11,146 ha))

This unit is located along the Big Sur coastline in Monterey County, approximately from the mouth of the Little Sur River south to McWay Canyon and includes locations in and around the Big Sur River drainage. The unit includes the following watersheds: Point Sur, Big Sur River, Ventana Creek, Sycamore Canyon, and Partington Creek. This unit was not known to be occupied at the time of listing, but surveys conducted subsequent to the time of listing show that this unit is currently occupied. MNT-3 is essential for the conservation of the subspecies because it contains permanent and ephemeral aquatic habitat for breeding and non-breeding activities (PCE 1 and PCE 2) and upland habitat for foraging, dispersal activities, and shelter (PCE 3 and PCE 4). MNT-3 is occupied by the subspecies. The unit consists of Federal (9,936 ac (4,021 ha)), State (6,025 ac (2,438 ha)), and private (11,581 ac (4,687 ha)) land. Threats that may require special management in this unit include predation by nonnative species and habitat disturbance.

SNB-1, Hollister Hills/San Benito River (36,294 ac (14,687 ha))

This unit is located in northwestern San Benito County in the San Benito River drainage. The unit includes the following watersheds and portions of watersheds: the southern portions of San Justo Reservoir, Northeast Hollister Hills, and Upper Bird Creek; Left Fork Bird Creek; Sulfur Canyon; and the western portions of Arroyo Hondo, Willow Grove School, Paicines Ranch, and Lower Pescadero Creek. It is mapped from occurrences recorded at the time of listing and subsequent to the time of listing near Saint Frances Retreat, San Juan Oaks, Azalea Canyon, Bird Creek, Hollister Hills State Vehicle Recreation Area, Paicines Reservoir, and Tres Pinos Creek. SNB-1 contains the features that are essential for the conservation of the subspecies. The unit also contains aquatic habitat for breeding and non-breeding activities (PCE 1 and PCE 2) and upland habitat for foraging and dispersal activities (PCE 3 and PCE 4). SNB-1 also provides essential connectivity between sites on the coast plain and inner Coast Range. SNB-1 is occupied by the subspecies, is expected to prevent further fragmentation of habitat in this portion of the subspecies' range, and contains permanent and ephemeral aquatic habitats suitable for breeding and accessible upland areas for dispersal, shelter, and food. The unit consists of Federal (13 ac (5 ha)) (Bureau of Land Management (BLM), State (3,109 ac (1,258 ha)), and private (33,172 ac (13,424 ha)) land. Threats that may require special management in this unit include predation by nonnative species and habitat disturbance.

SNB-2, Antelope Creek/Upper Tres Pinos Creek (17,356 ac (7,024 ha))

This unit is located in central San Benito County in the Tres Pinos Creek drainage. The unit consists of the Antelope Creek watershed. This unit was not known to be occupied at the time of listing, but surveys conducted subsequent to the time of listing show that this unit is currently occupied. It is mapped from occurrence records in and along Tres Pinos Creek between the confluences of Boulder and Willow Springs Creeks. SNB-2 is essential for the conservation of the subspecies because it provides aquatic habitat for breeding and non-breeding activities (PCE 1 and PCE 2) and upland habitat for foraging and dispersal activities (PCE 3 and PCE 4). SNB-2 is occupied by the subspecies, is expected to prevent fragmentation of habitat in this portion of the subspecies' range, and contains permanent and ephemeral aquatic habitats suitable for breeding and accessible upland areas for dispersal, shelter, and food. The unit consists entirely of private land.

SNB-3, Pinnacles National Monument (63,754 ac (25,800 ha))

This unit is located in the Gabilan Range at Pinnacles National Monument, about 3.5 mi (5.6 km) west of the town of San Benito in southern San Benito County, and is mapped from occurrences recorded at the time of listing and subsequent to the time of listing. The unit includes the following watersheds: Gloria Lake, Bickmore Canyon, Sulfur Creek, and George Hansen Canyon. SNB-3 contains the features that are essential for the conservation of the subspecies. The unit also contains aquatic habitat for breeding and non-breeding activities (PCE 1 and PCE 2) and upland habitat for foraging and dispersal activities (PCE 3 and PCE 4). SNB-3 is expected to prevent further fragmentation of habitat in this portion of the subspecies' range; contains permanent and ephemeral aquatic habitat suitable for breeding; contains accessible upland areas for dispersal, shelter, and food; and is occupied by the subspecies. The unit consists of Federal (20,221 ac (8,183 ha)) (National Park Service, BLM) and private (43,533 ac (17,617 ha)) land. Threats that may require special management in this unit include overgrazing and trampling of aquatic and upland habitat by feral pigs, recreational activities, and predation by nonnative species.

SLO-1, Cholame (18,018 ac (7,292 ha))

This unit is located in northeastern San Luis Obispo, northwestern Kern, and southwestern Kings Counties and includes locations in the Cholame Creek drainage, and is mapped from occurrences recorded at time of listing and subsequent to the time of listing. The unit includes portions of the following watersheds: the southern portion of Blue Point, the western portion of Jack Canyon, and the eastern portion of Palo Prieto Canyon. SLO-1 contains the features that are essential for the conservation of the subspecies. The unit contains aquatic habitat for breeding and non-breeding activities (PCE 1 and PCE 2) and upland habitat for foraging and dispersal activities (PCE 3 and PCE 4). SLO-1 contains permanent and ephemeral aquatic habitats suitable for breeding, and contains accessible upland areas for dispersal, shelter and food, and is occupied by the species. SLO-1 consists of Federal (159 ac (64 ha)) and private (17,859 ac (7,228 ha)) land. Threats that may require special management in this unit include highway construction which may remove upland or aquatic habitat, overgrazing of aquatic and riparian habitats, and dewatering of aquatic habitats due to water diversions.

SLO-2, Piedras Blancas to Cayucos Creek (117,449 ac (47,530 ha))

This unit is located along the coast in northwestern San Luis Obispo County from approximately Arroyo de los Chinos southward to just before but not including Whale Rock Reservoir. The unit includes the following watersheds: Arroyo de los Chinos, Lower Arroyo de la Cruz, Arroyo del Corral, Oak Knoll Creek, Broken Bridge Creek, Pico Creek, Upper San Simeon Creek, Lower San Simeon Creek, Steiner Creek, Upper Santa Rosa Creek, Lower Santa Rosa Creek, and Lower Green Valley Creek. The unit is mapped from occurrences recorded at time of listing and subsequent to the time of listing. SLO-2 contains the features that are essential for the conservation of the subspecies. The unit also contains aquatic habitat for breeding and non-breeding activities (PCE 1 and PCE 2) and upland habitat for foraging and dispersal activities (PCE 3 and PCE 4). SLO-2 provides connectivity within the Santa Lucia Range, and between this range and the inner Coast Ranges in San Luis Obispo County, and is occupied by the species. The unit contains high-quality habitat, indicated by high density of extant occurrences, permanent and ephemeral aquatic habitats suitable for breeding, and accessible upland areas for dispersal, shelter, and food. Threats that may require special management in this unit include dewatering of aquatic habitats due to water diversion, overgrazing of aquatic and riparian habitats, removal and alteration of aquatic and upland habitat due to urbanization, and predation by nonnative species. The unit consists of Federal (497 ac (201 ha)), State (691 ac (280 ha)), and private (116,261 ac (47,049 ha)) land.

SLO-3, Willow and Toro Creeks to San Luis Obispo (122,420 ac (49,541 ha))

This unit is located near the coast in central San Luis Obispo County and extends about 1.9 mi (3 km) north of the town of Morro Bay southward to just north and east of the city of San Luis Obispo. The unit includes the following watersheds: Old Creek, Whale Rock Reservoir, the southern portion of Hale Creek, Morro Bay, San Luisito Creek, the western and southern portions of Santa Margarita Creek, Choro Reservoir, Stenner Lake, Reservoir Canyon, Trout Creek, and Big Falls Canyon. The unit is mapped from occurrences recorded at time of listing and subsequent to the time of listing. SLO-3 contains the features that are essential for the conservation of the subspecies. The unit is currently occupied and also contains permanent and ephemeral aquatic habitat for breeding and non-breeding activities (PCE 1 and PCE 2) and upland habitat for foraging, dispersal activities, and shelter (PCE 3 and PCE 4). SLO-3 provides connectivity within the Santa Lucia Range, and between this range and the inner Coast Ranges in San Luis Obispo County. This unit consists of Federal (34,854 ac (14,104 ha)), State (6,316 ac (2,556 ha)) and private (81,250 ac (32,881 ha)) land, which includes approximately 5,902 ac (2,388 ha) of Department of Defense lands at Camp San Luis Obispo (see “Relationship of Critical Habitat to Section 4(a)(3)(B)(i) of the Act” below). Threats that may require special management in this unit include removal and alteration of aquatic and upland habitat due to urbanization, dewatering of aquatic habitats due to water diversion, overgrazing of aquatic and riparian habitats, and predation by nonnative species.

SLO-4, Upper Salinas River (34,463 ac (13,947 ha))

This unit is located at the base of Garcia Mountain about 17 mi (27 km) east of the City of San Luis Obispo, and is mapped from occurrences recorded subsequent to time of listing. The unit includes the following watersheds: Horse Mesa, Douglas Canyon, American Canyon, and Coyote Hole. This unit is essential to the conservation of the subspecies because it contains permanent and ephemeral aquatic habitats consisting of natural and man-made ponds surrounded by emergent vegetation and marshland with upland comprised of riparian and ponded habitat for breeding and upland areas for dispersal, shelter, and foraging. The unit also contains aquatic habitat for breeding and non-breeding activities (PCE 1 and PCE 2) and upland habitat for foraging, dispersal activities, and shelter (PCE 3 and PCE 4). SLO-4 provides connectivity between populations in the outer Coast Ranges and populations farther inland, and is occupied by the species. In addition, it contains permanent and ephemeral aquatic habitats suitable for breeding, and contains accessible upland areas for dispersal, shelter, and food. This unit consists of Federal (23,970 ac (9,700 ha)) and private (10,493 ac (4,247 ha)) land. Threats that may require special management in this unit include predation by nonnative species and habitat disturbance.

STB-1, La Brea Creek (25,164 ac (10,183 ha))

This unit is located in Los Padres National Forest in northern Santa Barbara County, and is mapped from occurrences recorded at time of listing and subsequent to the time of listing. The unit includes the following watersheds: Bear Canyon, the southern portion of Smith Canyon, Rattlesnake Canyon, Lower South Fork La Brea Creek, and the eastern portion of Lower La Brea Creek. STB-1 contains the features that are essential for the conservation of the subspecies. The unit contains aquatic habitat for breeding and non-breeding activities (PCE 1 and PCE 2) and upland habitat for foraging and dispersal activities (PCE 3 and PCE 4). STB-1 provides connectivity between coastal populations and populations in the Transverse Ranges, and contains permanent and ephemeral aquatic habitats suitable for breeding, contains sufficient PCEs to support behaviors we have determined are essential to the conservation of the subspecies, and accessible upland areas for dispersal, shelter, and food, and is occupied by the species. The unit consists of Federal (20,896 ac (8,456 ha)) and private (4,269 ac (1,727 ha)) land. Threats that may require special management in this unit include alteration of aquatic and upland habitat by recreational activities.

STB-2, San Antonio Terrace (36,004 ac (14,570 ha))

This unit is located in northwestern Santa Barbara County near the coast, and extends from about Casmalia south to the Santa Lucia Canyon near the Purisima Hills and is mapped from occurrences recorded subsequent to time of listing. The unit includes the following watersheds: Graciosa Canyon and Lions Head. STB-2 contains aquatic habitat for breeding and non-breeding activities (PCE 1 and PCE 2), and upland habitat for foraging and dispersal activities (PCE 3 and PCE 4), and is occupied by the species. STB-2 provides connectivity between coastal populations and populations in the Transverse Ranges, and contains permanent and ephemeral aquatic habitats suitable for breeding and accessible upland areas for dispersal, shelter, and food. The unit consists of Federal (23,912 ac (9,677 ha)) and private (12,092 ac (4,893 ha)) land as well as 4,922 ac (1,992 ha) of Department of Defense lands at Vandenberg Air Force Base (see “Relationship of Critical Habitat to Section 4(a)(3)(B)(i) of the Act” below). Threats that may require special management in this unit include predation by nonnative species and habitat disturbance.

STB-3, Sisquoc River (47,559 ac (19,246 ha))

This unit occurs in northern Santa Barbara County and includes locations in the Sisquoc River drainage and is mapped from occurrences recorded at time of listing and subsequent to the time of listing. The unit contains the following watersheds: the southern portion of Tunnel Canyon, Burro Canyon, Sulphur Creek, Lower Manzano Creek, Middle Manzano Creek, Fir Canyon, Upper Cachuma Creek, and the northern portion of Happy Canyon. STB-3 contains the features that are essential for the conservation of the subspecies. The unit contains aquatic habitat for breeding and non-breeding activities (PCE 1 and PCE 2) and upland habitat for foraging and dispersal activities (PCE 3 and PCE 4). STB-3 is occupied by the species and provides connectivity between locations along the coast and the Transverse Ranges; it is essential in stabilizing populations of the subspecies in tributaries to the Santa Ynez River, and contains permanent and ephemeral aquatic habitats suitable for breeding, and upland areas for dispersal, shelter, and food. The unit consists of Federal (40,115 ac (16,234 ha)) and private (7,444 ac (3,012 ha)) land. Threats that may require special management in this unit include alteration of aquatic and upland habitat by recreational activities, predation by nonnative species, and water management practices that could be detrimental to California red-legged frog aquatic habitat.

STB-4, Jalama Creek (8,693 ac (3,518 ha))

This unit is located along the coast in southwestern Santa Barbara County about 4.4 mi (7 km) south of the City of Lompoc, and is mapped from occurrences recorded at the time of listing and subsequent to the time of listing. The unit includes the Casper Creek watershed. STB-4 contains the features that are essential for the conservation of the subspecies. The unit also includes aquatic habitat for breeding and non-breeding activities (PCE 1 and PCE 2) and upland habitat for foraging and dispersal activities (PCE 3 and PCE 4). STB-4 is occupied by the species and provides connectivity between locations along the coast and the Santa Ynez River watershed, and contains permanent and ephemeral aquatic habitats suitable for breeding, and upland areas for dispersal, shelter, and food. This unit consists of Federal (1,012 ac (410 ha)) and private (7,681 ac (3,108 ha)) land. Threats that may require special management in this unit include predation by nonnative species and habitat disturbance.

STB-5, Gaviota Creek (12,888 ac (5,215 ha))

This unit is located along the coast in southern Santa Barbara County about 3 mi (5 km) southwest of the town of Buellton, and is mapped from occurrences recorded at time of listing and subsequent to the time of listing. The unit includes the following watersheds: Cañada de las Cruces and Cañada de la Gavota. STB-5 contains the features that are essential for the conservation of the subspecies. The unit contains aquatic habitat for breeding and non-breeding activities (PCE 1 and PCE 2) and upland habitat for foraging and dispersal activities (PCE 3 and PCE 4). STB-5 is occupied by the species and provides connectivity between locations along the coast and the Santa Ynez River watershed, and contains upland areas for dispersal, shelter and food. The unit consists of Federal (1,547 ac (626 ha)), State (2,074 ac (839 ha)), and private (9,267 ac (3,750 ha) land. Threats that may require special management in this unit include predation by nonnative species and water management practices, which could negatively affect California red-legged frog aquatic habitat. Populations in this unit may also require special management or protection due to their potential importance in stabilizing California red-legged frog populations in tributaries to the Santa Ynez River.

STB-6, Arroyo Quemado to Refugio Creek (11,985 ac (4,850 ha))

This unit occurs along the coast in southern Santa Barbara County about 5 mi (8 km) south of the town of Solvang, and is mapped from occurrences recorded at time of listing and subsequent to the time of listing. The unit includes the Tajiguas Creek watershed. STB-6 contains the features that are essential for the conservation of the subspecies. The unit contains aquatic habitat for breeding and non-breeding activities (PCE 1 and PCE 2) and upland habitat for foraging and dispersal activities (PCE 3 and PCE 4). STB-6 is occupied by the species and provides connectivity between locations along the coast and the Santa Ynez River watershed, and contains permanent and ephemeral aquatic habitats suitable for breeding, and upland areas for dispersal, shelter, and food. The unit consists of Federal (1,881 ac (761 ha)), State (28 ac (11 ha)), and private (10,076 ac (4,078 ha)) land. Threats that may require special management in this unit include predation by nonnative species and water management practices that could negatively affect California red-legged frog aquatic habitat. Populations in this unit may also require special management or protection due to their potential importance in stabilizing California red-legged frog populations in tributaries to the Santa Ynez River.

STB-7, Upper Santa Ynez River and Matilija Creek (145,121 ac (58,728 ha))

This unit is located in southeastern Santa Barbara County about 5 mi (8 km) north of the City of Santa Barbara and extends into western Ventura County at Matilija Creek. It is mapped from occurrences recorded at time of listing and subsequent to the time of listing. The unit includes the following watersheds: Los Lauveles Canyon, Redrock Canyon, Oso Canyon, Buckhorn Creek, Camuesa Creek, Devils Canyon, Indian Creek Campground, Upper Mono Creek, Lower Mono Creek, Blue Canyon Upper Agua Caliente Canyon, Diablo Canyon, Lower Agua Caliente Canyon, Juncal Canyon, Lower Matilija Creek, North Fork Matilija Creek, and Cozy Dell Canyon. STB-7 contains the features that are essential for the conservation of the subspecies. This unit also contains aquatic habitat for breeding and non-breeding activities (PCE 1 and PCE 2) and upland habitat for foraging and dispersal activities (PCE 3 and PCE 4). STB-7 is occupied by the species and provides connectivity between locations along the coast, in the Sierra Madre Mountains, and in the Ventura River watershed. It is important to species conservation and the persistence of the species in the Matilija watershed because it contains permanent and ephemeral aquatic habitats suitable for breeding, upland areas for dispersal, and shelter and food in that portion of the unit, which will provide connectivity between populations within the Transverse Ranges and will prevent further isolation of breeding locations near the limit of the geographic range of the subspecies. The unit as a whole contains high-quality habitat, indicated by high density of extant occurrences, permanent and ephemeral aquatic habitats suitable for breeding, and accessible upland areas for dispersal, shelter, and food. The unit consists of Federal (124,905 ac (50,547 ha)) and private (20,216 ac (8,181 ha)) land. Threats that may require special management in this unit include flood control and road maintenance activities, which could cause siltation in and reduce available aquatic habitat and directly remove upland habitat. Additional threats that may require special management include alteration of aquatic and upland habitat by recreational activities and predation by nonnative species.

VEN-1, San Antonio Creek (2,915 ac (1,180 ha))

This unit is located in western Ventura County at San Antonio Creek and is mapped from occurrences recorded at time of listing and subsequent to the time of listing. The unit includes portions of the following watersheds: a small southern portion of Upper San Antonio Creek, a small western portion of Lion Creek, and the eastern portion of Lower San Antonio Creek. VEN-1 contains the features that are essential for the conservation of the subspecies. The unit also contains aquatic habitat for breeding and non-breeding activities (PCE 1 and PCE 2) and upland habitat for foraging and dispersal activities (PCE 3 and PCE 4). VEN-1 is occupied by the species. Persistence of the species in this area will prevent further isolation of breeding locations near the limit of the geographic range of the subspecies. The unit contains permanent and ephemeral aquatic habitats suitable for breeding and accessible upland areas for dispersal, shelter, and food, and provides connectivity between populations within the Transverse Ranges. The unit consists entirely of private land. Threats that may require special management in this unit include alteration of aquatic and upland habitat by recreational activities, sedimentation of aquatic habitats, and predation by nonnative species.

VEN-2, Piru Creek (8,837 ac (3,576 ha))

This unit is located in eastern Ventura County and northwestern Los Angeles County and is mapped from occurrences recorded at time of listing at Piru Creek. The unit includes the Michael Creek watershed. VEN-2 contains the features that are essential for the conservation of the subspecies. The unit also contains aquatic habitat for breeding and non-breeding activities (PCE 1 and PCE 2) and upland habitat for foraging and dispersal activities (PCE 3 and PCE 4). VEN-2 is occupied by the species. Persistence of the species in this area is important to prevent further isolation of breeding locations near the limit of the geographic range of the subspecies, and the unit contains permanent and ephemeral aquatic habitats suitable for breeding, upland areas for dispersal, shelter, and food. The unit consists of Federal (8,363 ac (3,384 ha)) and private (474 ac (192 ha)) land. Threats that may require special management in this unit include alteration of aquatic and upland habitat by off-road vehicle use, conversion of native habitat by introduced invasive plant species, and predation by nonnative species.

VEN-3, Upper Las Virgenes Canyon (5,000 ac (2,024 ha))

This unit is located in southeastern Ventura County and is mapped from occurrences recorded subsequent to the time of listing. The unit includes the upper portion of Las Virgenes Creek watershed that is north of the Ventura County line. VEN-3 is considered an area that is essential for the conservation of the subspecies because it is currently occupied by the species and contains aquatic habitat for breeding and non-breeding activities (PCE 1 and PCE 2), and upland habitat for foraging and dispersal activities (PCE 3 and PCE 4). Further, VEN-3 provides connectivity between coastal populations and populations in the Transverse Ranges, and contains permanent and ephemeral aquatic habitats suitable for breeding and accessible upland areas for dispersal, shelter, and food. The unit consists of Federal (56 ac (23 ha)) and private (4,944 ac (2,001 ha)) land. Approximately 2,048 ac (975 ha) of land within the unit is managed by the Santa Monica Mountains Conservancy. Threats that may require special management in this unit include predation by nonnative species and habitat disturbance.

LOS-1, San Francisquito Creek (4,231 ac (1,713 ha))

This unit is located in northwestern Los Angeles County and is mapped from occurrences recorded at the time of listing and is currently occupied. LOS-1 contains the features that are essential for the conservation of the subspecies. The unit also contains aquatic habitat for breeding and non-breeding activities (PCE 1 and PCE 2) and upland habitat for foraging and dispersal activities (PCE 3 and PCE 4). LOS-1 contains permanent and ephemeral aquatic habitats suitable for breeding and accessible upland areas for dispersal, shelter, and food. The unit consists of Federal (3,906 ac (1,581 ha)) (U.S. Forest Service) and private (325 ac (132 ha)) land. Threats that may require special management in this unit include predation by nonnative species and habitat disturbance.

RIV-1, Cole Creek (4,069 ac (1,647 ha))

This unit is located in southwestern Riverside County along Cole Creek, partially within the Santa Rosa Plateau Ecological Reserve. RIV-1 contains the features that are essential for the conservation of the subspecies. The unit also contains aquatic habitat for breeding and non-breeding activities (PCE 1 and PCE 2) and upland habitat for foraging and dispersal activities (PCE 3 and PCE 4). The unit was known to be occupied at time of listing and is currently occupied. It contains permanent and ephemeral aquatic habitats suitable for breeding and accessible upland areas for dispersal, shelter, and food, provides for connectivity between populations, provides representation of the southernmost extent of the geographic range of the subspecies in the United States, and contains high-quality habitat. Further, based on recent genetics work (Shaffer et al. 2004, p. 2673), it is believed that this population represents a unique genetic lineage of the subspecies that is closely related to the populations found in Baja California, Mexico, and may be representative of the genetic lineage that once occupied the southern California basin in Riverside, Orange, and San Diego Counties. The unit includes 3,997 ac (1618 ha) of local government land and 72 ac (29 ha) of private land. Threats that may require special management in this unit include removal and alteration of habitat due to introduction and predation by nonnative species. We are proposing to exclude this entire unit from the final designation of critical habitat because it is covered under the Western Riverside Multiple Species Habitat Conservation Plan. For a further discussion of this proposed exclusion see “Application of Section 4(b)(2) of the Act” below.

Effects of Critical Habitat Designation

Section 7 Consultation

Section 7(a)(2) of the Act requires Federal agencies, including the Service, to ensure that actions they fund, authorize, or carry out are not likely to destroy or adversely modify critical habitat. Decisions by the Fifth and Ninth Circuit Court of Appeals have invalidated our definition of “destruction or adverse modification” (50 CFR 402.02) (see Gifford Pinchot Task Force v. U.S. Fish and Wildlife Service, 378 F.3d 1059 (9th Cir. 2004) and Sierra Club v. U.S. Fish and Wildlife Service et al., 245 F.3d 434, 442F (5th Cir. 2001)), and we do not rely on this regulatory definition when analyzing whether an action is likely to destroy or adversely modify critical habitat. Under the statutory provisions of the Act, we determine destruction or adverse modification on the basis of whether, with implementation of the proposed Federal action, the affected critical habitat would remain functional (or retain the current ability for the PCEs to be functionally established) to serve its intended conservation role for the species (Service 2004, p. 3).

Section 7(a)(4) of the Act requires Federal agencies to confer with us on any action that is likely to jeopardize the continued existence of a proposed species or result in destruction or adverse modification of critical habitat. Conference reports provide conservation recommendations to assist the agency in eliminating conflicts that may be caused by the proposed action. We may issue a formal conference report if requested by a Federal agency. Formal conference reports on proposed critical habitat contain an opinion that is prepared according to 50 CFR 402.14, as if critical habitat were designated. We may adopt the formal conference report as the biological opinion when the critical habitat is designated, if no substantial new information or changes in the action alter the content of the opinion (see 50 CFR 402.10(d)). The conservation recommendations in a conference report or opinion are advisory.

If a species is listed or critical habitat is designated, section 7(a)(2) of the Act requires Federal agencies to ensure that activities they authorize, fund, or carry out are not likely to jeopardize the continued existence of such a species or to destroy or adversely modify its critical habitat. If a Federal action may affect a listed species or its critical habitat, the responsible Federal agency (action agency) must enter into consultation with us in most cases. As a result of this consultation, we document compliance with the requirements of section 7(a)(2) through our issuance of:

(1) A concurrence letter for Federal actions that may affect, but are not likely to adversely affect, listed species or critical habitat; or

(2) A biological opinion for Federal actions that may affect, but are likely to adversely affect, listed species or critical habitat.

An exception to the concurrence process referred to in (1) above occurs in consultations involving National Fire Plan projects. In 2004, the U.S. Forest Service and the BLM reached agreements with the Service to streamline a portion of the section 7 consultation process (BLM-ACA 2004, pp. 1-8; FS-ACA 2004, pp. 1-8). The agreements allow the U.S. Forest Service and the BLM the opportunity to make “not likely to adversely affect” (NLAA) determinations for projects implementing the National Fire Plan. Such projects include prescribed fire, mechanical fuels treatments (thinning and removal of fuels to prescribed objectives), emergency stabilization, burned area rehabilitation, road maintenance and operation activities, ecosystem restoration, and culvert replacement actions. The U.S. Forest Service and the BLM will insure staff are properly trained and both agencies will submit monitoring reports to the Service to determine if the procedures are being implemented properly and affects on endangered species and their habitats are being properly evaluated. As a result we do not believe the alternative consultation processes being implemented as a result of the National Fire Plan will differ significantly from those consultations being conducted by the Service.

When we issue a biological opinion concluding that a project is likely to jeopardize the continued existence of a listed species or destroy or adversely modify critical habitat, we also provide reasonable and prudent alternatives to the project, if any are identifiable. We define “Reasonable and prudent alternatives” at 50 CFR 402.02 as alternative actions identified during consultation that:

• Can be implemented in a manner consistent with the intended purpose of the action,

• Can be implemented consistent with the scope of the Federal agency's legal authority and jurisdiction,

• Are economically and technologically feasible, and

• Would, in the Director's opinion, avoid jeopardizing the continued existence of the listed species or destroying or adversely modifying critical habitat.

Reasonable and prudent alternatives can vary from slight project modifications to extensive redesign or relocation of the project. Costs associated with implementing a reasonable and prudent alternative are similarly variable.

When we issue a biological opinion concluding that a project is not likely to jeopardize a listed species or adversely modify critical habitat, but may result in incidental take of listed animals, we provide an incidental take statement that specifies the impact of such incidental taking on the species. We then define “Reasonable and Prudent Measures” considered necessary or appropriate to minimize the impact of such taking. Reasonable and prudent measures are binding measures the action agency must implement to receive an exemption to the prohibition against take contained in section 9 of the Act. These reasonable and prudent measures are implemented through specific “Terms and Conditions” that must be followed by the action agency or passed along by the action agency as binding conditions to an applicant. Reasonable and prudent measures, along with the terms and conditions that implement them, cannot alter the basic design, location, scope, duration, or timing of the action under consultation and may involve only minor changes (50 CFR 402.14). The Service may provide the action agency with additional conservation recommendations, which are advisory and not intended to carry binding legal force.

Regulations at 50 CFR 402.16 require Federal agencies to reinitiate consultation on previously reviewed actions in instances where we have listed a new species or subsequently designated critical habitat that may be affected and the Federal agency has retained discretionary involvement or control over the action (or the agency's discretionary involvement or control is authorized by law). Consequently, Federal agencies may sometimes need to request reinitiation of consultation with us on actions for which formal consultation has been completed, if those actions with discretionary involvement or control may affect subsequently listed species or designated critical habitat.

Federal activities that may affect the California red-legged frog or its designated critical habitat will require section 7 consultation under the Act. Activities on State, Tribal, local, or private lands requiring a Federal permit (such as a permit from the U.S. Army Corps of Engineers under section 404 of the Clean Water Act or a permit under section 10(a)(1)(B) of the Act from the Service) or involving some other Federal action (such as funding from the Federal Highway Administration, Federal Aviation Administration, or the Federal Emergency Management Agency) will also be subject to the section 7 consultation process. Federal actions not affecting listed species or critical habitat, and actions on State, Tribal, local, or private lands that are not Federally-funded, authorized, or permitted, do not require section 7 consultations.

Application of the “Adverse Modification” Standard

The key factor related to the adverse modification determination is whether, with implementation of the proposed Federal action, the affected critical habitat would continue to serve its intended conservation role for the species, or would retain its current ability for the primary constituent element(s) to be functionally established. Activities that may destroy or adversely modify critical habitat are those that alter the physical and biological features to an extent that appreciably reduces the conservation value of critical habitat for California red-legged frog. Generally, the conservation role of the proposed revised California red-legged frog critical habitat units is to support viable populations.

Section 4(b)(8) of the Act requires us to briefly evaluate and describe in any proposed or final regulation that designates critical habitat those activities involving a Federal action that may destroy or adversely modify such habitat, or that may be affected by such designation.

Activities that, when carried out, funded, or authorized by a Federal agency, may adversely affect critical habitat and therefore should result in consultation for the California red-legged frog include, but are not limited to, the following:

(1) Actions that significantly alter water chemistry or temperature. Such activities could include, but are not limited to: release of chemicals, biological pollutants, or heated effluents into the surface water or into connected groundwater at a point source or by dispersed release (non-point source). These activities alter water conditions beyond the tolerances of the California red-legged frog and result in direct or cumulative adverse effects to these individuals and their life cycles.

(2) Actions that would significantly increase sediment deposition within the stream channel or pond or disturb upland foraging and dispersal habitat. Such activities could include, but are not limited to: excessive sedimentation from livestock overgrazing; road construction; commercial or urban development; channel alteration; timber harvest; unauthorized off-road vehicle or recreational use; and other watershed and floodplain disturbances. These activities could eliminate or reduce the habitat necessary for the growth and reproduction of the California red-legged frog by increasing the sediment deposition to levels that would adversely affect their ability to complete their life cycles.

(3) Actions that would significantly alter channel/pond morphology or geometry. Such activities could include, but are not limited to: channelization; impoundment; road and bridge construction; development; mining; dredging; and destruction of riparian vegetation. These activities may lead to changes to the hydrologic functioning of the stream or pond and alter the timing, duration, water flows, and levels that would degrade or eliminate the California red-legged frog and/or its habitat. These actions can also lead to increased sedimentation and degradation in water quality to levels that are beyond the tolerances of the California red-legged frog.

(4) Actions that eliminate upland foraging and/or aestivating habitat, as well as dispersal habitat, for the California red-legged frog. Such activities could include, but are not limited to: road construction; commercial or urban development; timber harvest; unauthorized off-road vehicle or recreational use; and other watershed and floodplain disturbances.

(5) Introducing, spreading, or augmenting nonnative aquatic species in stream segments or ponds used by California red-legged frog. Possible actions could include, but are not limited to: introduction of chytrid fungus or other diseases; fish or bullfrog stocking for sport; nonnative aquatic plant species for aesthetics; or other related actions. These activities could affect the growth and reproduction of the California red-legged frog by subjecting eggs, larvae, tadpoles, and adult California red-legged frogs to increased predation pressure or limit the amount of habitat available for the subspecies, which would adversely affect the California red-legged frog's ability to complete its life cycle.

Note that the scale of these activities would be a crucial factor in determining whether, in any instance, they would directly or indirectly alter critical habitat to the extent that the value of the critical habitat for the survival and recovery of California red-legged frog would be appreciably diminished.

If you have questions regarding whether specific activities may constitute adverse modification of critical habitat, contact the Field Supervisor of the appropriate Ecological Services Field Office (see ADDRESSES section).

Application of Section 4(a)(3) of the Act

The National Defense Authorization Act for Fiscal Year 2004 (Pub. L. 108-136) amended the Act to limit areas eligible for designation as critical habitat. Specifically, section 4(a)(3)(B)(i) of the Act (16 U.S.C. 1533(a)(3)(B)(i)) now provides: “The Secretary shall not designate as critical habitat any lands or other geographical areas owned or controlled by the Department of Defense, or designated for its use, that are subject to an integrated natural resources management plan prepared under section 670a of this title, if the Secretary determines in writing that such plan provides a benefit to the species for which critical habitat is proposed for designation.”

The Sikes Improvement Act of 1997 required each military installation that includes land and water suitable for the conservation and management of natural resources to complete, by November 17, 2001, an integrated natural resource management plan (INRMP) by November 17, 2001. An INRMP integrates implementation of the military mission of the installation with stewardship of the natural resources found on the base. Each INRMP includes:

(1) An assessment of the ecological needs on the installation, including the need to provide for the conservation of listed species;

(2) A statement of goals and priorities;

(3) A detailed description of management actions to be implemented to provide for these ecological needs; and

(4) A monitoring and adaptive management plan.

Among other things, each INRMP must, to the extent appropriate and applicable, provide for fish and wildlife management; fish and wildlife habitat enhancement or modification; wetland protection, enhancement, and restoration where necessary to support fish and wildlife; and enforcement of applicable natural resource laws.

We consult with the military on the development and implementation of INRMPs for installations with federally listed species. INRMPs developed by military installations located within the range of the California red-legged frog and which contain those features essential to the species' conservation were analyzed for exemption under the authority of section 4(a)(3)(B) of the Act.

Camp San Luis Obispo (Unit SLO-2)

In the previous final critical habitat designation for the California red-legged frog, we exempted Camp San Luis Obispo (CSLO) in San Luis Obispo County, CA, from the designation of critical habitat (71 FR 19275). We based this decision on the conservation benefits to the frog identified in the INRMP developed by CSLO in November 2001. The INRMP developed in 2001, and used by us as the basis for the previous exemption, has not been approved by the Service. We have attempted to work with CSLO regarding our concerns and we met with CSLO in 2006 to discuss the status of the INRMP. Currently CSLO still does not have a signed INRMP in place. Section 4(a)(3)(B)(i) requires that an approved INRMP be in place in order to qualify for an exemption. As a result of CSLO not having an approved INRMP, we have reevaluated our previous decision and are not exempting Camp San Luis Obispo from portions of Unit SLO-2 under section 4(a)(3)(B)(i) of the Act and are soliciting information and comments as to whether to designate critical habitat for the California red-legged frog on CLSO lands or to exclude these areas under section 4(b)(2) of the Act from the designation (see the “Public Comments” section above).

Vandenberg Air Force Base (Unit STB-2; Unit STB-4)

In the previous final critical habitat designation for the California red-legged frog, we also exempted Vandenberg Air Force Base (Vandenberg AFB) from the designation (71 FR 19275). We based this decision on the conservation benefits to the frog provided in a draft INRMP developed in 1997 and Vandenberg AFB's commitment to continuing these benefits expressed in an updated version of the 1997 INRMP that Vandenberg AFB prepared in 2003. However, no INRMP has been approved. We provided comments to Vandenberg AFB on the updated 2003 INRMP on August 2, 2003 (Service 2003, pp. 1-6). We have attempted to work with Vandenberg AFB on our comments, but to date Vandenberg AFB has not responded. Therefore, because Vandenberg AFB does not have an approved INRMP, we are not exempting Vandenberg AFB from portions of Unit STB-2 and STB-4 under section 4(a)(3)(B)(i) of the Act and are soliciting information and comments as to whether to designate critical habitat for the California red-legged frog on Vandenberg AFB or to exclude these areas under section 4(b)(2) of the Act (see the “Public Comments” section above).

Application of Section 4(b)(2) of the Act

Section 4(b)(2) of the Act states that the Secretary must designate and revise critical habitat on the basis of the best available scientific data after taking into consideration the economic impact, national security impact, and any other relevant impact of specifying any particular area as critical habitat. The Secretary may exclude an area from critical habitat if he determines that the benefits of such exclusion outweigh the benefits of specifying such area as part of the critical habitat, unless he determines, based on the best scientific data available, that the failure to designate such area as critical habitat will result in the extinction of the species. The Secretary has broad discretion regarding which factor(s) to use and how much weight to give to any factor.

In the following sections, we address a number of general issues that are relevant to the exclusions we are considering. In addition, we are conducting an economic analysis of the impacts of the proposed critical habitat designation and related factors, which will be available for public review and comment when it is complete. Based on public comment on that document and the proposed designation itself, as well as the information in the final economic analysis, the Secretary may exclude from critical habitat areas different from those identified for possible exclusion in this proposed rule under the provisions of section 4(b)(2) of the Act, up to and including all areas proposed for designation. This is also addressed in our implementing regulations at 50 CFR 424.19.

Benefits of Designating Critical Habitat

The process of designating critical habitat as described in the Act requires that the Service identify those lands on which are found the physical or biological features essential to the conservation of the species that may require special management considerations or protection, and those areas outside the geographical area occupied by the species at the time of listing that are essential to the conservation of the species. In identifying those lands, the Service must consider the recovery needs of the species, such that, on the basis of the best scientific and commercial data available at the time of designation, the habitat that is identified, if managed, could provide for the survival and recovery of the species.

The identification of those areas that are essential for the conservation of the species and can, if managed, provide for the recovery of a species is beneficial. The process of proposing and finalizing a critical habitat rule provides the Service with the opportunity to determine the physical and biological features essential to the conservation of the species within the geographical area occupied by the species at the time of listing, as well as to determine other areas essential for the conservation of the species. The designation process includes peer review and public comment on the identified physical and biological features and essential areas. This process is valuable to land owners and managers in developing conservation management plans for identified areas, as well as any other occupied habitat or suitable habitat that may not have been included in the Service's determination of essential habitat.

The consultation provisions under section 7(a) of the Act constitute the regulatory benefits of critical habitat. As discussed above, Federal agencies must consult with us on discretionary actions that may affect critical habitat and must avoid destroying or adversely modifying critical habitat. Federal agencies must also consult with us on discretionary actions that may affect a listed species and refrain from undertaking actions that are likely to jeopardize the continued existence of such species. The analysis of effects to critical habitat is a separate and different analysis from that of the effects to the species. Therefore, the difference in outcomes of these two analyses represents the regulatory benefit of critical habitat. For some species, and in some locations, the outcome of these analyses will be similar, because effects on habitat will often result in effects on the species. However, the regulatory standard is different: The jeopardy analysis looks at the action's impact on survival and recovery of the species, while the adverse modification analysis looks at the action's effects on the designated habitat's contribution to the species' conservation. This will, in many instances, lead to different results and different regulatory requirements. Thus, critical habitat designations may provide greater regulatory benefits to the recovery of a species than would listing alone.

There are two limitations to the regulatory effect of critical habitat. First, a section 7(a)(2) consultation is required only where there is a Federal nexus (an action authorized, funded, or carried out by any Federal agency)—if there is no Federal nexus, the critical habitat designation of private lands itself does not restrict any actions that destroy or adversely modify critical habitat. Second, the designation only limits destruction or adverse modification. By its nature, the prohibition on adverse modification is designed to ensure that the conservation role and function of those areas that contain the physical and biological features essential to the conservation of the species or of unoccupied areas that are essential for the conservation of the species are not appreciably reduced. Critical habitat designation alone, however, does not require property owners to undertake affirmative actions to promote the recovery of the species.

Once an agency determines that consultation under section 7(a)(2) of the Act is necessary, the process may conclude informally when we concur in writing that the proposed Federal action is not likely to adversely affect critical habitat. However, if we determine through informal consultation that adverse impacts are likely to occur, then we would initiate formal consultation, which would conclude when we issue a biological opinion on whether the proposed Federal action is likely to result in destruction or adverse modification of critical habitat.

For critical habitat, a biological opinion that concludes in a determination of no destruction or adverse modification may contain discretionary conservation recommendations to minimize adverse effects to the physical and biological features essential to the conservation of the species, but it would not suggest the implementation of any reasonable and prudent alternative. We work with the Federal agency proposing the action to identify prudent alternatives to the proposed Federal action only when our biological opinion results in an adverse modification conclusion.

As stated above, the designation of critical habitat does not require that any management or recovery actions take place on the lands included in the designation. Even in cases where consultation has been initiated under section 7(a)(2) of the Act, the end result of consultation is to avoid jeopardy to the species and/or adverse modification of its critical habitat, but not necessarily to manage critical habitat or institute recovery actions on critical habitat. Conversely, voluntary conservation efforts implemented through management plans may institute proactive actions over the lands they encompass and are often put in place to remove or reduce known threats to a species or its habitat; therefore, implementing recovery actions. We believe that in many instances the benefit to a species and/or its habitat realized through the designation of critical habitat is low when compared to the conservation benefit that can be achieved through conservation efforts or management plans. The conservation achieved through implementing HCPs or other habitat management plans can be greater than what we achieve through multiple site-by-site, project-by-project, section 7(a)(2) consultations involving consideration of critical habitat. Management plans may commit resources to implement long-term management and protection to particular habitat for at least one and possibly additional listed or sensitive species. Section 7(a)(2) consultations commit Federal agencies to preventing adverse modification of critical habitat caused by the particular project only, and not to providing conservation or long-term benefits to areas not affected by the proposed project. Thus, implementation of any HCP or management plan that considers enhancement or recovery as the management standard may often provide as much or more benefit than a consultation for critical habitat designation.

Another benefit of including lands in critical habitat is that designation of critical habitat serves to educate landowners, State and local governments, and the public regarding the potential conservation value of an area. This helps focus and promote conservation efforts by other parties by clearly delineating areas of high conservation value for the affected species. In general, critical habitat designation always has educational benefits; however, in some cases, they may be redundant with other educational effects. For example, HCPs have significant public input and may largely duplicate the educational benefits of a critical habitat designation. Including lands in critical habitat also would inform State agencies and local governments about areas that could be conserved under State laws or local ordinances.

Conservation Partnerships on Non-Federal Lands

Most federally listed species in the United States will not recover without the cooperation of non-Federal landowners. More than 60 percent of the United States is privately owned (National Wilderness Institute 1995, p. 2), and at least 80 percent of endangered or threatened species occur either partially or solely on private lands (Crouse et al. 2002, p. 720). Stein et al. (1995, p. 400) found that only about 12 percent of listed species were found almost exclusively on Federal lands (90 to 100 percent of their known occurrences restricted to Federal lands) and that 50 percent of federally listed species are not known to occur on Federal lands at all.

Given the distribution of listed species with respect to land ownership, conservation of listed species in many parts of the United States is dependent upon working partnerships with a wide variety of entities and the voluntary cooperation of many non-Federal landowners (Wilcove and Chen 1998, p. 1407; Crouse et al. 2002, p. 720; James 2002, p. 271). Building partnerships and promoting voluntary cooperation of landowners are essential to our understanding the status of species on non-Federal lands, and necessary for us to implement recovery actions such as reintroducing listed species and restoring and protecting habitat.

Many non-Federal landowners derive satisfaction from contributing to endangered species recovery. We promote these private-sector efforts through the Department of the Interior's Cooperative Conservation philosophy. Conservation agreements with non-Federal landowners (HCPs, safe harbor agreements, other conservation agreements, easements, and State and local regulations) enhance species conservation by extending species protections beyond those available through section 7(a)(2) consultations. In the past decade, we have encouraged non-Federal landowners to enter into conservation agreements, based on the view that we can achieve greater species conservation on non-Federal land through such partnerships than we can through regulatory methods (61 FR 63854; December 2, 1996).

Many private landowners, however, are wary of the possible consequences of attracting endangered species to their property. Mounting evidence suggests that some regulatory actions by the Federal Government, while well-intentioned and required by law, can (under certain circumstances) have unintended negative consequences for the conservation of species on private lands (Wilcove et al. 1996, pp. 5-6; Bean 2002, pp. 2-3; Conner and Mathews 2002, pp. 1-2; James 2002, pp. 270-271; Koch 2002, pp. 2-3; Brook et al. 2003, pp. 1639-1643). Many landowners fear a decline in their property value due to real or perceived restrictions on land-use options where threatened or endangered species are found. Consequently, harboring endangered species is viewed by many landowners as a liability. This perception results in anti-conservation incentives, because maintaining habitats that harbor endangered species represents a risk to future economic opportunities (Main et al. 1999, pp. 1264-1265; Brook et al. 2003, pp. 1644-1648).

According to some researchers, the designation of critical habitat on private lands significantly reduces the likelihood that landowners will support and carry out conservation actions (Main et al. 1999, p. 1263; Bean 2002, p. 2; Brook et al. 2003, pp. 1644-1648). The magnitude of this outcome is greatly amplified in situations where active management measures (such as reintroduction, fire management, control of invasive species) are necessary for species conservation (Bean 2002, pp. 3-4). We believe that the judicious exclusion of specific areas of non-federally owned lands from critical habitat designations can contribute to species recovery and provide a superior level of conservation.

The purpose of designating critical habitat is to contribute to the conservation of threatened and endangered species and the ecosystems upon which they depend. The outcome of the designation, triggering regulatory requirements for actions funded, authorized, or carried out by Federal agencies under section 7(a)(2) of the Act, can sometimes be counterproductive to its intended purpose on non-Federal lands. Thus, the benefits of excluding areas that are covered by effective partnerships or other conservation commitments can often be high.

Benefits of Excluding Lands With HCPs

The benefits of excluding lands with approved HCPs from critical habitat designation include relieving landowners, communities, and counties of any additional regulatory burden that might be imposed by critical habitat. Many HCPs take years to develop, and upon completion, are consistent with recovery objectives for listed species that are covered within the plan area. Many conservation plans also provide conservation benefits to unlisted sensitive species. Imposing an additional regulatory review as a result of the designation of critical habitat may undermine conservation efforts and partnerships designed to proactively protect species to ensure that listing under the Act will not be necessary. Our experience in implementing the Act has found that designation of critical habitat within the boundaries of management plans that provide conservation measures for a species is a disincentive to many entities which are either currently developing such plans, or contemplating doing so in the future, because one of the incentives for undertaking conservation is greater ease of permitting where listed species will be affected. Addition of a new regulatory requirement would remove a significant incentive for undertaking the time and expense of management planning. In fact, designating critical habitat in areas covered by a pending HCP or conservation plan could result in the loss of some species' benefits if participants abandon the planning process, in part because of the strength of the perceived additional regulatory compliance that such designation would entail. The time and cost of regulatory compliance for a critical habitat designation do not have to be quantified for them to be perceived as an additional Federal regulatory burden sufficient to discourage continued participation in developing plans targeting listed species' conservation.

A related benefit of excluding lands covered by approved HCPs from critical habitat designation is the unhindered, continued ability it gives us to seek new partnerships with future plan participants, including States, counties, local jurisdictions, conservation organizations, and private landowners, which together can implement conservation actions that we would be unable to accomplish otherwise. We have found that potential participants are not inclined to participate in such management plans when we designate critical habitat within the area that would be covered by such a management plan, thus having a negative effect on our ability to establish new partnerships to develop these plans, particularly plans that address landscape-level conservation of species and habitats. By excluding these lands, we preserve our current partnerships and encourage additional conservation actions in the future.

We also note that permit issuance in association with HCP applications requires consultation under section 7(a)(2) of the Act, which would include the review the effects of all HCP-covered activities that might adversely impact the species under a jeopardy standard, including possibly significant habitat modification (see definition of “harm” at 50 CFR 17.3), even without the critical habitat designation. In addition, all other Federal actions that may affect the listed species would still require consultation under section 7(a)(2) of the Act, and we would review these actions for possibly significant habitat modification in accordance with the definition of harm referenced above.

The information provided in the previous section applies to all the following discussions of benefits of inclusion or exclusion of critical habitat.

Habitat Conservation Plan Lands—Exclusions Under Section 4(b)(2) of the Act

When performing the required analysis under section 4(b)(2) of the Act, the existence of a management plan (HCPs as well as other types) that considers enhancement or recovery of listed species as its management standard is relevant to our weighing of the benefits of inclusion of a particular area in the critical habitat designation. The following factors are considered when we evaluate the management and protection provided by such plans:

(1) Whether the plan is complete and provides for the conservation and protection of the physical and biological features essential to the conservation of the species;

(2) Whether there is a reasonable expectation that the conservation management strategies and actions will be implemented for the foreseeable future, based on past practices, written guidance, or regulations; and

(3) Whether the plan provides conservation strategies and measures consistent with currently accepted principles of conservation biology.

After consideration under section 4(b)(2) of the Act, the following areas of habitat are being proposed for exclusion from critical habitat for the California red-legged frog: Bonnie Doon Quarries Settlement Ponds HCP Santa Cruz County (6 ac (3 ha)) (Unit SCZ-1); East Contra Costa HCP Contra Costa County (82,017 ac (33,191 ha)) (Unit CCS-2); Western Riverside Multi-species HCP Riverside County (4,069 ac (1,647 ha)) (Unit RIV-1); East Bay Regional Park District lands Contra Costa County (18,867 ac (7,595 ha)) (Unit CCS-2); and Spivey Pond Management Area (BLM) El Dorado County (54 ac (22 ha)) (Unit ELD-1).

Bonny Doon Quarries Settlement Ponds Habitat Conservation Plan (Bonny Doon HCP) (Unit SCZ-1)

The Bonny Doon HCP encompasses approximately 6 ac (3 ha) of privately-owned lands in the Santa Cruz Mountains near the town of Davenport, Santa Cruz County, California. California red-legged frogs are present in both of the watersheds (San Vicente Creek and Liddell Creek) where settlement ponds were constructed at the Bonny Doon Quarries. The Bonny Doon HCP was completed and finalized in 1998, concurrently with a final environmental assessment on the HCP pursuant to NEPA. We issued a non-jeopardy biological opinion under section 7 of the Act on the Bonny Doon HCP in August 1999. The Bonny Doon HCP contains measures to minimize and mitigate impacts to the California red-legged frog and its habitat from the operations, maintenance, and possible reclamation activities and to further the conservation of the subspecies. The primary components of the minimization and mitigation include: Developing and implementing an employee training program and community outreach program; conducting annual breeding and pre-activity surveys at all settlement and mitigation ponds for California red-legged frogs; avoiding or relocating California red-legged frogs and their tadpoles and eggs during maintenance activities; minimizing impacts of water releases to breeding populations of California red-legged frogs; inspecting the ground under vehicles for California red-legged frogs prior to use; establishing a speed limit of 10 miles per hour on roads within the operational area (although the incidental take permit authorizes only incidental take associated with the proposed operation, maintenance, and reclamation activities in the project area, not the entire operational area); using pesticides and herbicides that do not affect aquatic organisms and applying them in accordance with label precautions; disposing of all food-related trash in closed containers; controlling exotic predators; and enhancing habitat suitability of the mitigation ponds and Settlement Pond 1 for the California red-legged frog. The Bonny Doon HCP and its accompanying Implementing Agreement, which delineates the responsibilities of the Service and the permittee for the implementation of the HCP, are designed to allow the operation and maintenance activities of up to seven settlement ponds and the reclamation of two additional settlement ponds in a manner that will result in conservation of the California red-legged frog and its habitat. In total, we are proposing to exclude approximately 6 ac (3 ha) of land from unit SCZ-1 in Santa Cruz County.

We expect the Bonny Doon HCP to provide substantial protection of the essential biological features for the California red-legged frog on Bonny Doon HCP conservation lands. We expect the Bonny Doon HCP to provide a greater level of management for the California red-legged frog on private lands than would designation of critical habitat on private lands. Moreover, inclusion of these non-Federal lands as critical habitat would not necessitate additional management and conservation activities that would exceed the approved Bonny Doon HCP and its implementing agreement. As a result, we do not anticipate any action on these lands would destroy or adversely modify the areas designated as critical habitat. Therefore, we do not expect that including those areas in the final designation would lead to any changes to actions on the conservation lands to avoid destroying or adversely modifying that habitat.

Benefits of Exclusion Outweigh the Benefits of Inclusion

The exclusion of these lands from critical habitat will help preserve the partnerships that we have developed with the local jurisdiction and project proponent in the development of the Bonny Doon HCP, which provides for California red-legged frog conservation. The educational benefits of critical habitat, including informing the public of areas important for the long-term conservation of the subspecies, are still accomplished from material provided on our Web site and through public notice-and-comment procedures required to establish the Bonny Doon HCP. Further, many educational benefits of critical habitat designation will be achieved through the overall designation, and will occur whether or not this particular location is designated. For these reasons, we believe that designating critical habitat has little benefit in areas covered by the Bonny Doon HCP and propose to exclude these lands from the final designation of critical habitat.

Exclusion Will Not Result in Extinction of the Species

We do not believe that this exclusion would result in the extinction of the subspecies because the Bonny Doon HCP provides for subspecies' conservation in this area through the detailed minimization and mitigation measures described above. The amount of habitat being excluded is minimal (approximately 6 ac (3 ha)) compared to the amount of habitat proposed as critical habitat and even less than the total amount of land occupied by the subspecies. In addition, the jeopardy standard of section 7 of the Act and routine implementation of conservation measures through the section 7 process also provide assurances that the species will not go extinct.

Western Riverside County Multiple Species Habitat Conservation Plan (MSHCP) (Unit—RIV-1)

The Western Riverside MSHCP is a large-scale, multijurisdictional HCP encompassing 1.26 million ac (510,000 ha) in western Riverside County. The MSHCP addresses 146 listed and unlisted “covered species,” including the California red-legged frog. Participants in the MSHCP include 14 cities in western Riverside County; the County of Riverside, including the Riverside County Flood Control and Water Conservation Agency (County Flood Control), Riverside County Transportation Commission, Riverside County Parks and Open Space District (County Parks), and Riverside County Waste Department; California Department of Parks and Recreation (State Parks); and the California Department of Transportation (Caltrans).

The MSHCP was designed to establish a multi-species conservation program that minimizes and mitigates the expected loss of habitat and associated incidental take of covered species. On June 22, 2004, the Service issued an incidental take permit (TE-088609-0) under section 10(a)(1)(B) of the Act to 22 permittees under the MSHCP for a period of 75 years. The MSHCP requires establishment of approximately 153,000 ac (61,916 ha) of new conservation lands (Additional Reserve Lands) to complement the approximately 347,000 ac (140,426 ha) of pre-existing natural and open-space areas defined by the MSHCP as Public/Quasi-Public (PQP) lands. These PQP lands include those under Federal ownership, primarily managed by the U.S. Forest Service and BLM, and also permittee-owned open-space areas, primarily managed by State and County Parks. Collectively, the Additional Reserve Lands and PQP lands form the overall MSHCP Conservation Area. The configuration of the 153,000 ac (61,916 ha) of Additional Reserve Lands is not mapped or precisely identified in the MSHCP, but rather is based on textual descriptions within the bounds of a 310,000 ac (125,453 ha) Criteria Area interpreted as implementation of the MSHCP takes place. Lands in Unit RIV-1 of the proposed revised critical habitat for the California red-legged frog are located within the MSHCP Plan Area.

The California red-legged frog is threatened primarily by habitat destruction and alteration (61 FR 25813, May 23, 1996). The MSHCP provides enhancement of habitat by removing or reducing threats to this subspecies and the features essential to its conservation. Conservation objectives specific to the California red-legged frog in the MSHCP include the conservation of occupied and historical breeding habitat, the conservation of intervening lands that provide for movement between core areas and upland habitat adjacent to occupied or suitable breeding habitat (Dudek and Associates, Inc. 2003, pp. A-19-A-20).

The only known population of California red-legged frog in the boundaries of the Western Riverside MSCHP occurs along Cole Creek on the Santa Rosa Plateau. The occupied area along Cole Creek is entirely within the Santa Rosa Plateau Ecological Reserve, which is owned and managed by the California Department of Fish and Game. The management of the Santa Rosa Ecological Reserve includes measures that protect the habitat of the California red-legged frog and focus on restoration activities that benefit this subspecies (Service 2004, p. 54). This area is included in the proposed Unit RIV-1. Unit RIV-1 consists of 4,069 ac (1,647 ha), all of which are within the boundaries of the Western Riverside MSHCP; 3,997 ac (1,618 ha) of which are currently conserved and referred to in the analysis of the Western Riverside MSHCP as PQP lands, and 72 ac (29 ha) are privately owned. The provisions of the Western Riverside MSHCP strengthen the management for the California red-legged frog and ensure that any projects that take place on the private land will not reduce the viability of the population within Unit RIV-1.

Specifically, in the area proposed as critical habitat, the MSHCP directs reserve managers of the PQP lands to maintain ecological processes within occupied habitat and appropriate new areas for the California red-legged frog (Dudek and Associates, Inc. 2003, p. 5-13). Private lands included in Unit RIV-1 are in the Survey Area for California red-legged frog, where 90 percent of areas that provide long-term conservation value for the subspecies will be avoided until the conservation objectives for the California red-legged frog are met (Dudek and Associates, Inc. 2003, pp. 6-65-6-71). The MSHCP indicates that the PQP reserve lands within proposed Unit RIV-1 will be monitored to determine if successful reproduction is occurring (Dudek and Associates, Inc. 2003, p. 5-13). These lands will be managed to ensure that the threats to this subspecies from altered hydrology, flood control, nonnative plant species, mining, human collecting, and predation will not negatively impact the population and that ecological processes necessary for the California red-legged frog and breeding populations will be maintained (Dudek and Associates, Inc. 2003, p. 5-13). The MSHCP preserves the habitat that supports identified core population(s) of this subspecies and therefore provides for recovery of this subspecies in the MSHCP area. The conservation objectives, required surveys, and adaptive management program for the California red-legged frog (and its PCEs) provided by the Western Riverside County MSHCP may exceed any conservation value provided as a result of regulatory protections that have been or may be afforded through critical habitat designation. We are proposing to exclude approximately 4,097 ac (1,658 ha) of permittee-owned PQP and private lands from revised critical habitat designation within proposed Unit RIV-1 (Cole Creek) under section 4(b)(2) of the Act. Lands within these areas proposed for exclusion are owned by or fall within the jurisdiction of MSHCP permittees. Projects in these areas conducted or approved by MSHCP permittees are subject to the conservation requirements of the MSHCP.

Benefits of Exclusion Outweigh the Benefits of Inclusion

We believe that the regulatory benefit of designating critical habitat on private lands covered by the Western Riverside County MSHCP would be low and may hinder the effective implementation of the plan. The Western Riverside County MSHCP addresses conservation issues from a coordinated, integrated perspective and will achieve better California red-legged frog conservation than would be achieved through multiple site-by-site, project-by-project, section 7 consultations involving consideration of critical habitat. The Western Riverside County MSHCP provides for the proactive monitoring and management of conserved lands (as previously described), reducing known threats to California red-legged frog and its habitat.

Conservation and management of California red-legged frog habitat is essential to the survival and recovery of this species. Such conservation needs are typically not addressed through the application of the statutory prohibition on adverse modification or destruction of critical habitat. The Western Riverside County MSHCP provides as much or more conservation benefit to the species than a consultation for critical habitat designation conducted under the standards required by the Ninth Circuit in the Gifford Pinchot decision. Furthermore, educational benefits that may be derived from a critical habitat designation are low in this case and largely redundant to the educational benefits achieved through the significant public, State, and local government input solicited and received during the development of the Western Riverside County MSHCP.

We have developed close partnerships with the 22 MSHCP permittees through the development of this regional HCP that incorporates appropriate protections and management of the physical and biological features essential to the conservation of this subspecies. Those protections are consistent with the mandates under section 7 of the Act to avoid adverse modification or destruction of critical habitat and go beyond that prohibition by including active management and protection of essential habitat areas. By excluding these lands from designation, we are eliminating a largely redundant layer of regulatory review for a limited set of projects on non-Federal lands that are addressed by the MSHCP, and we are helping to preserve our ongoing partnerships with the permittees and encouraging new partnerships with other landowners and jurisdictions. Those partnerships, and the landscape-level, multiple-species conservation planning efforts they promote, are critical for the conservation of the California red-legged frog. Designating critical habitat on non-Federal lands within the Western Riverside County MSHCP could have a detrimental effect to our partnerships with the 22 MSHCP permittees and could be a significant disincentive to the establishment of future partnerships and HCPs with other partners.

Exclusion Will Not Result in Extinction of the Species

In keeping with our analysis and conclusion detailed in our biological opinion for the Western Riverside County MSHCP (Service 2004, p. 334), we do not believe that the exclusion of non-Federal lands that meet the definition of critical habitat within the Western Riverside County MSHCP plan area from the final designation of critical habitat for the California red-legged frog will result in the extinction of the species. In addition, the jeopardy standard of section 7 of the Act and routine implementation of conservation measures through the section 7 process also provide assurances that the species will not go extinct.

East Contra Costa County Habitat Conservation Plan (ECCHCP) (Unit CCS-2)

The ECCHCP was finalized on July 25, 2007 (Service 2007b, pp. 1-6). Participants in this HCP include the County of Contra Costa; the cities of Brentwood, Clayton, Oakley, and Pittsburg, California; and the Contra Costa Water District. The ECCHCP encompasses the eastern portion of Contra Costa County from approximately west of Concord to Sand Mound Slough and Clifton Court Forebay on the east. The ECCHCP is also a subregional plan under the State's Natural Community Conservation Planning (NCCP) process and was developed in cooperation with the California Department of Fish and Game. The ECCHCP has identified areas where urban growth and development are expected to occur and has identified the California red-legged frog as a covered subspecies and identifies several conservation measures, including: (1) Preserving aquatic and upland California red-legged frog habitat; (2) preserving major habitat connections linking existing public lands; (3) incorporating a range of habitat and population management and enhancement measures, including monitoring; (4) fully mitigating the impacts to covered species and subspecies; (5) maintaining ecosystem processes; and (6) contributing to the recovery of covered species and subspecies. When the conservation measures are implemented, they will benefit California red-legged frog conservation by preserving and restoring existing wetland and upland habitat and creating new wetland habitat for the subspecies. We expect that the ECCHCP will provide substantial protection of the biological features for the California red-legged frog, and that protected lands will receive the special management they require through funding mechanisms that will be implemented under the ECCHCP. In total, we are proposing to exclude approximately 82,017 ac (33,191 ha) of land in Contra Costa County.

We expect the ECCHCP to provide substantial protection of the biological features and special management of essential habitat for the California red-legged frog on ECCHCP conservation lands. We expect the ECCHCP to provide a greater level of management for the California red-legged frog on private lands than would designation of critical habitat on private lands. Moreover, inclusion of these non-Federal lands as critical habitat would not necessitate additional management and conservation activities that would exceed the approved ECCHCP and its implementing agreement. As a result, we do not anticipate any action on these lands would destroy or adversely modify the areas designated as critical habitat. Therefore, we do not expect that including those areas in the final designation would lead to any changes to actions on the conservation lands to avoid destroying or adversely modifying that habitat.

Benefits of Exclusion Outweigh the Benefits of Inclusion

The exclusion of these lands from critical habitat will help preserve the partnerships that we have developed with the local jurisdiction and project proponent in the development of the ECCHCP. The educational benefits of critical habitat, including informing the public of areas that are essential for the long-term conservation of the subspecies, are still accomplished from material provided on our Web site and through public notice-and-comment procedures required to establish the ECCHCP. For these reasons, we believe that designating critical habitat has little benefit in areas covered by the ECCHCP. The ECCHCP seeks to:

(1) Preserve between 24,455 to 29,467 ac (9,897 to 11,925 ha) of upland foraging and dispersal habitat (not including additional lands identified in open space and parks);

(2) Preserve between 28 to 36 wetted ac (11 to 15 wetted ha) of non-stream breeding habitat and between 85 to 98 mi (137 to 158 km) of stream breeding habitat;

(3) Create approximately 33 wetted ac (13 wetted ha) of ponds;

(4) Restore approximately 85 ac (34 ha) of perennial wetland complex;

(5) Preserve major habitat connections linking existing public lands;

(6) Incorporate a range of habitat and population management and enhancement measures;

(7) Fully mitigate the impacts of covered species and subspecies, including the California red-legged frog;

(8) Maintain ecosystem processes; and

(9) Contribute to the recovery of covered species and subspecies.

For these reasons, we believe that designating critical habitat has little benefit in areas covered by the ECCHCP and propose to exclude these lands from the final designation of critical habitat.

Exclusion Will Not Result in Extinction of the Species

In keeping with our analysis and conclusion detailed in our biological opinion for the ECCHCP (Service 2007c, pp. 1-189), we do not believe that the exclusion of non-Federal lands that meet the definition of critical habitat within the ECCHCP plan area from the final designation of critical habitat for the California red-legged frog will result in the extinction of the species. In addition, the jeopardy standard of section 7 of the Act and routine implementation of conservation measures through the section 7 process also provide assurances that the species will not go extinct.

East Bay Regional Park District Lands (Unit CCS-2)

The East Bay Regional Park District (EBRPD) manages 65 regional parks, recreation areas, wilderness, shorelines, preserves, and land bank areas covering over 95,000 ac (34,446 ha) in Alameda and Contra Costa Counties. The EBRPD Board of Directors adopted the EBRPD Plan on December 17, 1996, under Resolution Number 1996-12-349 (EBRPD 1997, pp. 1-87). The EBRPD Plan provides for monitoring and conservation of rare, threatened, and endangered taxa, including the California red-legged frog. East Bay Regional Park District has been actively conducting California red-legged frog surveys and research over the last 15 years under U.S. Fish and Wildlife Service recovery permit number 817400. In 1996, 2000, 2004, and most recently in 2007 (Bobzien and DiDonato 2007, pp. 1-87), EBRPD staff conducted California red-legged frog surveys across all park lands for the purpose of population trend monitoring and habitat assessment. Research has also focused on California red-legged frog habitat requirements, tolerances related to water quality, adult and juvenile movements, and the effect of livestock grazing on habitat and frog reproduction. EBRPD provides educational outreach through park interpretive programs and presentation of California red-legged frog research findings at scientific conferences and in peer-reviewed journals. Habitat restoration and nonnative predator control are special management actions the EBRPD has used and continues to use for the conservation of the California red-legged frog. The majority of the EBRPD land holdings are protected and managed as natural parklands, thereby providing protection for the features essential to the conservation of the California red-legged frog. Conservation efforts take precedence over other park activities if EBRPD activities are determined to have a significant adverse effect on rare, threatened, or endangered taxa (EBRPD 1997, p. 20).

We expect the EBRPD to provide substantial protection of the biological features and special management of essential habitat for the California red-legged frog on EBRPD lands within unit CCS-2. We expect the EBRPD to provide a greater level of management for the California red-legged frog on private lands than would designation of critical habitat on private lands. Moreover, inclusion of these non-Federal lands as critical habitat would not necessitate additional management and conservation activities already in place by the EBRPD. As a result, we do not anticipate any action on these lands would destroy or adversely modify the areas designated as critical habitat. Therefore, we do not expect that including those areas in the final designation will lead to any changes to actions on the conservation lands to avoid destroying or adversely modifying that habitat.

Benefits of Exclusion Outweigh the Benefits of Inclusion

The exclusion of these lands from critical habitat would help preserve the partnerships that we have developed with the EBRPD. The educational benefits of critical habitat, including informing the public of areas that are essential for the long-term conservation of the subspecies, are still accomplished from material provided on our Web site and through public notice-and-comment procedures. The public also has been informed through the public participation that occurred during the development of the revised proposed designation and previous listing and critical habitat actions for the subspecies. For these reasons, we believe that designating critical habitat has little benefit in areas covered by the EBRPD and propose to exclude these lands from the final designation of critical habitat.

Exclusion Will Not Result in Extinction of the Species

The exclusion of East Bay Regional Park lands within Unit CCS-2, which are considered occupied habitat, would not result in the extinction of the California red-legged frog. Actions which might adversely affect the subspecies are expected to have a Federal nexus, and would thus undergo a consultation with the Service under section 7 of the Act. The jeopardy standard of section 7 of the Act, and routine implementation of habitat preservation through the section 7 process, provide assurance that the subspecies will not go extinct. In addition, the subspecies is protected from the take prohibitions under section 9 of the Act. The exclusion leaves these protections unchanged from those that would exist if the excluded areas were designated as critical habitat.

The subspecies occurs on lands protected and managed either explicitly for the subspecies, or indirectly through more general objectives to protect natural values; this factor acts in concert with the other protections provided under the Act for these lands absent designation of critical habitat on them, and acts in concert with protections afforded the subspecies by the remaining critical habitat designation for the subspecies, which leads us to find that exclusion of these lands will not result in extinction of the California red-legged frog. We do not believe that this exclusion would result in the extinction of the subspecies because the subspecies is found in other areas and the EBRPD Plan provides for monitoring and conservation of rare, threatened, and endangered taxa, including the California red-legged frog. EBRPD has been actively conducting California red-legged frog surveys and research over the last 15 years. Nearly 90 percent of the EBRPD land holdings are protected and managed as natural parklands, thereby providing protection for the PCEs (Bobzien, pers com. 2005). Conservation efforts take precedence over other park activities if EBRPD activities are determined to have a significant adverse effect on rare, threatened, or endangered taxa (EBRPD 1997).

Spivey Pond Management Area (SPMA) (Unit ELD-1)

The SPMA encompasses 54 ac (22 ha) of BLM-owned lands surrounding Spivey Pond in El Dorado County, California. Spivey Pond is one of five known extant California red-legged frog breeding populations in the Sierra Nevada foothills. In 1997, a population of reproducing California red-legged frogs was discovered in Spivey Pond on the north fork of Webber Creek. The previous confirmed sightings of a California red-legged frog in the Webber Creek watershed were in 1972 and 1975 for the entire Sierra Nevada foothill region. At the time of discovery, the Spivey Pond parcel was privately owned and slated for timber harvest and subdivision development. The Service urged the American River Conservancy (ARC) to initiate negotiations with the owners of the Spivey Pond for purchase of the property. With financial assistance from the Service and the U.S. Bureau of Reclamation (USBR), ARC succeeded in purchasing the 54 ac (22 ha) Spivey Pond parcel on April 28, 1998. Additional grant funding from the National Fish and Wildlife Foundation was received on September 15, 1998, which allowed for initial pond stabilization and restoration work.

On May 3, 1999, all preliminary acquisition and restoration activities were completed, and the parcel was transferred to the BLM to be managed as a wildlife reserve specifically for the benefit of the California red-legged frog. In March 2004, we issued a non-jeopardy biological opinion for development of a new breeding pond for the subspecies (Service File 1-1-03-F-0289). In July 2004, a management plan for the California red-legged frog was approved and signed by the Service, BLM, USBR, CDFG, El Dorado County, El Dorado Irrigation District, the American River Conservancy, and the El Dorado National Forest. The Spivey Pond Management Plan (SPMP) consists of six management objectives specifically for the conservation of the California red-legged frog: Control of bullfrogs and predatory fish; monitoring of water quality; maintenance of the pond's integrity and habitat/water quality; creation and management of additional California red-legged frog breeding habitat; promotion of research and maintenance of a GIS database; and providing input for watershed level planning and activities that may benefit Spivey Pond.

Benefits of Exclusion Outweigh the Benefits of Inclusion

We believe that the benefits of excluding the entire 54 ac (22 ha) SPMA from the designation of critical habitat for the California red-legged frog outweigh the benefits of including the SPMA in critical habitat. We find that including the SPMA would result in very minimal, if any additional, benefits to the California red-legged frog, as explained above. The critical habitat designation would remain on lands surrounding the SPMA, thereby providing a measure of protection for the PCEs outside the area, while the management plan would protect the PCEs and provide additional benefits of nonnative predator control, habitat management and creation, and pollution monitoring within the area. We have worked cooperatively with the BLM and other agencies and assisted in development of the Spivey Pond Management Plan. We believe that utilizing the Secretary's discretion in excluding the portions of this unit managed under the SPMP will encourage other willing landowners in the unit to continue their conservation activities and will allow the Service to expand enrollment of other private landowners in the unit into conservation partnerships for conserving additional frog habitat. The benefits of exclusion include providing incentive for continued conservation and restoration on private lands where landowners have shown a willingness to participate in such activities.

Exclusion Will Not Result in Extinction of the Species

We find that the exclusion of these lands will not lead to the extinction of the subspecies, nor hinder its recovery because the management emphasis of the SPMA is to protect and enhance habitat for the California red-legged frog. The SPMP consists of six management objectives specifically designed for the conservation of the California red-legged frog. In addition, the jeopardy standard of section 7 of the Act and routine implementation of conservation measures through the section 7 process also provide assurances that the species will not go extinct.

National Forest Lands Within the Sierra Nevada (Units BUT-1; YUB-1; NEV-1; PLA-1; ELD-1)

In the previous final critical habitat designation for the California red-legged frog, we excluded all U.S. Forest Service lands managed under the Sierra Nevada Forest Plan Amendment (SNFPA) under section 4(b)(2) of the Act (71 FR 19281). We based this decision on the conservation benefits to the frog outlined in the SNFPA. Of the six known Sierra Nevada foothill California red-legged frog populations, only the Hughes Place (BUT-1) and Little Oregon Creek (YUB-1) breeding populations are located exclusively on land managed by the U.S. Forest Service (Plumas National Forest). The other three known Sierra Nevada population breeding ponds are located on private (NEV-1, PLA-1, and CAL-1) or other Federally (BLM) owned land (ELD-1). However, portions of two of the three (NEV-1, PLA-1 and ELD-1) critical habitat units are on U.S. Forest Service lands. Approximately 7,644 ac (3,094 ha) of U.S. Forest Service land occurs within the boundary of this revised proposed critical habitat. We are now asking for public comment on whether the SNFPA is an appropriate mechanism for exclusion under section 4(b)(2) of the Act (see the “Public Comments” section above).

Relationship of Critical Habitat to Conservation Partnerships—Exclusions Under Section 4(b)(2) of the Act

Unit CAL-1, Young's Creek

In the previous final critical habitat designation for the California red-legged frog, we excluded the entire critical habitat from Calaveras County, CA, under section 4(b)(2) of the Act (71 FR 19281-19282). We based this decision on the actions of a single private landowner who has been managing for the frog on the landowner's property and on encouraging potential additional landowners to join efforts to conserve the frog should critical habitat not be designated. Since the designation of critical habitat in 2006 (71 FR 19243), we have not been approached by any other private landowners within the unit to work with us on potentially developing conservation efforts for the frog. We are now asking for public comment on whether Unit CAL-1 should be excluded under section 4(b)(2) of the Act (see the “Public Comments” section above).

Economics

An analysis of the economic impacts of the previous proposed critical habitat designation was made available to the public on November 3, 2005 (70 FR 66906), and finalized in the final rule to designate critical habitat published in the Federal Register on April 13, 2006 (71 FR 19243). The total revised cost of designation before economic exclusions was estimated to be $498,334,833, or $24,916,741 annualized over 20 years. Of the 23 counties that were part of the 2006 proposed rule, more than 80 percent of the costs were projected to occur in 19 census tracts in five counties: San Luis Obispo ($166 million), Alameda ($91 million), Contra Costa ($88 million), Santa Barbara ($41 million), and San Mateo ($19 million). By excluding those 19 census tracts from the 2006 final critical habitat designation for the California red-legged frog, the total estimated cost was reduced to $102,526,338 (or $5,126,317 annualized over 20 years).

We are preparing a new analysis of the economic impacts of this proposed revision to critical habitat for the California red-legged frog. We will announce the availability of the draft economic analysis as soon as it is completed, at which time we will seek public review and comment. At that time, copies of the draft economic analysis will be available for downloading from the Internet at http://www.regulations.gov, or by contacting the Sacramento Fish and Wildlife Office directly (see ADDRESSES section). We may exclude areas from the final rule based on the information in the economic analysis.

Peer Review

In accordance with our joint policy published in the Federal Register on July 1, 1994 (59 FR 34270), we are obtaining the expert opinions of at least three appropriate independent specialists regarding this proposed rule. The purpose of peer review is to ensure that our critical habitat designation is based on scientifically sound data, assumptions, and analyses. We have invited these peer reviewers to comment during this public comment period on our specific assumptions and conclusions in this proposed revised designation of critical habitat. We will consider all comments and information we receive during the comment period on this proposed rule during our preparation of a final determination. Accordingly, our final decision may differ from this proposal.

Public Hearings

Section 4(b)(5) of the Act provides for one or more public hearings on this proposal, if we receive any requests for hearings. We must receive your request for a public hearing within 45 days after the date of this Federal Register publication. Send your request to the person named in the FOR FURTHER INFORMATION CONTACT section. We will schedule public hearings on this proposal, if any are requested, and announce the dates, times, and places of those hearings, as well as how to obtain reasonable accommodations, in the Federal Register and local newspapers at least 15 days before the first hearing.

Special Rule Under Section 4(d) of the Act

In the November 3, 2005, Federal Register (70 FR 66936) we proposed issuing a special rule for the California red-legged frog as defined under section 4(d) of the Act to ease the general take prohibitions for routine ranching activities by non-Federal entities on private and Tribal lands. Under section 4(d) of the Act, the Secretary may publish a special rule that modifies the standard protections for threatened species under the Service's regulations implementing section 9 of the Act at 50 CFR 17.31 with special measures tailored to the conservation of the species that are determined to be necessary and advisable. The special rule was finalized in the April 13, 2006, Federal Register (71 FR 19285), which finalized the designation of critical habitat and implemented the special rule in the Service's regulations at 50 CFR 17.43. We are not changing any conditions of the April 13, 2006, special rule, and it shall remain in effect as identified in our regulations.

Required Determinations

Regulatory Planning and Review—Executive Order 12866

The Office of Management and Budget (OMB) has determined that this rule is not significant under Executive Order (E.O.) 12866. OMB bases its determination upon the following four criteria:

(1) Whether the rule will have an annual effect of $100 million or more on the economy or adversely affect an economic sector, productivity, jobs, the environment, or other units of the government.

(2) Whether the rule will create inconsistencies with other Federal agencies' actions.

(3) Whether the rule will materially affect entitlements, grants, user fees, loan programs, or the rights and obligations of their recipients.

(4) Whether the rule raises novel legal or policy issues.

At this time, we lack the available economic information necessary to determine whether the revised rule would have an annual effect on the economy of $100 million or more or affect the economy in a material way. To determine the economic consequences of designating the specific area as critical habitat, we are preparing a draft economic analysis of this proposed action, which will be available for public comment. This economic analysis also will be used to determine compliance with E.O. 12866, the Regulatory Flexibility Act, the Small Business Regulatory Enforcement Fairness Act, E.O. 12630, and E.O. 13211.

Further, E.O. 12866 directs Federal agencies promulgating regulations to evaluate regulatory alternatives (OMB Circular A-4, September 17, 2003). Under Circular A-4, once an agency determines that the Federal regulatory action is appropriate, the agency must consider alternative regulatory approaches. Because the determination of critical habitat is a statutory requirement under the Act, we must evaluate alternative regulatory approaches, where feasible, when promulgating a designation of critical habitat.

In developing our designations of critical habitat, we consider economic impacts, impacts to national security, and other relevant impacts under section 4(b)(2) of the Act. Based on the discretion allowable under this provision, we may exclude any particular area from the designation of critical habitat providing that the benefits of such exclusion outweigh the benefits of specifying the area as critical habitat and that such exclusion would not result in the extinction of the species. As such, we believe that the evaluation of the inclusion or exclusion of particular areas, or a combination of both, constitutes our regulatory alternative analysis for designations.

We will announce the availability of the draft economic analysis in the Federal Register and in local newspapers so that it is available for public review and comments. The draft economic analysis will also be available on the Internet at http://www.regulations.gov or at the Sacramento Fish and Wildlife Office (see FOR FURTHER INFORMATION CONTACT).

Regulatory Flexibility Act (5 U.S.C. 601 et seq.)

Under the Regulatory Flexibility Act (RFA; 5 U.S.C. 601 et seq., as amended by the Small Business Regulatory Enforcement Fairness Act (SBREFA) of 1996), whenever an agency must publish a notice of rulemaking for any proposed or final rule, it must prepare and make available for public comment a regulatory flexibility analysis that describes the effect of the rule on small entities (i.e., small businesses, small organizations, and small government jurisdictions). However, no regulatory flexibility analysis is required if the head of an agency certifies the rule will not have a significant economic impact on a substantial number of small entities. SBREFA amended the RFA to require Federal agencies to provide a statement of factual basis for certifying that the rule will not have a significant economic impact on a substantial number of small entities.

As stated above, an analysis of the economic impacts of the previous proposed critical habitat designation was made available to the public on November 3, 2005 (70 FR 66906), and finalized in the final rule to designate critical habitat published in the Federal Register on April 13, 2006 (71 FR 19243). After excluding 19 census tracts from the 2006 final critical habitat designation for the California red-legged frog, the total estimated cost was $102,526,338 (or $5,126,317 annualized over 20 years). In that economic analysis, the designation of critical habitat was not expected to result in significant small business impacts since revenue losses would be less than one percent of total small business revenues in affected areas. The impacts on small business, small governments, and small nonprofits were expected to be negligible, and the estimated annual number of affected small firms was fewer than two for all counties examined. Counties not examined were expected to have even smaller small business losses. Consequently, fewer than three small firms were projected to have annual revenue losses equal to their expected annual revenues as a consequence of the 2006 critical habitat designation.

At this time, we lack the available economic information necessary for the new areas being proposed in this revision to provide an adequate factual basis for the required RFA finding. Therefore, we defer the RFA finding until completion of the draft economic analysis prepared under section 4(b)(2) of the Act and E.O. 12866. The draft economic analysis will provide the required factual basis for the RFA finding. Upon completion of the draft economic analysis, we will announce its availability in the Federal Register and reopen the public comment period for the proposed designation. We will include with this announcement, as appropriate, an initial regulatory flexibility analysis or a certification that the rule will not have a significant economic impact on a substantial number of small entities accompanied by the factual basis for that determination. We have concluded that deferring the RFA finding until completion of the draft economic analysis is necessary to meet the purposes and requirements of the RFA. Deferring the RFA finding in this manner will ensure that we make a sufficiently informed determination based on adequate economic information and provide the necessary opportunity for public comment.

Unfunded Mandates Reform Act (2 U.S.C. 1501 et seq.)

In accordance with the Unfunded Mandates Reform Act, we make the following findings:

(1) This rule will not produce a Federal mandate. In general, a Federal mandate is a provision in legislation, statute, or regulation that would impose an enforceable duty upon State, local, or Tribal governments, or the private sector, and includes both “Federal intergovernmental mandates” and “Federal private sector mandates.” These terms are defined in 2 U.S.C. 658(5)-(7). “Federal intergovernmental mandate” includes a regulation that “would impose an enforceable duty upon State, local, or [T]ribal governments” with two exceptions. It excludes “a condition of Federal assistance.” It also excludes “a duty arising from participation in a voluntary Federal program,” unless the regulation “relates to a then-existing Federal program under which $500,000,000 or more is provided annually to State, local, and [T]ribal governments under entitlement authority,” if the provision would “increase the stringency of conditions of assistance” or “place caps upon, or otherwise decrease, the Federal Government's responsibility to provide funding,” and the State, local, or Tribal governments “lack authority” to adjust accordingly. At the time of enactment, these entitlement programs were: Medicaid; AFDC work programs; Child Nutrition; Food Stamps; Social Services Block Grants; Vocational Rehabilitation State Grants; Foster Care, Adoption Assistance, and Independent Living; Family Support Welfare Services; and Child Support Enforcement. “Federal private sector mandate” includes a regulation that “would impose an enforceable duty upon the private sector, except (i) a condition of Federal assistance; or (ii) a duty arising from participation in a voluntary Federal program.”

The designation of critical habitat does not impose a legally binding duty on non-Federal government entities or private parties. Under the Act, the only regulatory effect is that Federal agencies must ensure that their actions do not destroy or adversely modify critical habitat under section 7. While non-Federal entities who receive Federal funding, assistance, permits, or otherwise require approval or authorization from a Federal agency for an action, may be indirectly impacted by the designation of critical habitat, the legally binding duty to avoid destruction or adverse modification of critical habitat rests squarely on the Federal agency. Furthermore, to the extent that non-Federal entities are indirectly impacted because they receive Federal assistance or participate in a voluntary Federal aid program, the Unfunded Mandates Reform Act would not apply, nor would critical habitat shift the costs of the large entitlement programs listed above onto State governments.

(2) Based in part on an analysis conducted for the previous designation of critical habitat and extrapolated to this designation, we do not expect this rule to significantly or uniquely affect small governments. Small governments will be affected only to the extent that any programs having Federal funds, permits, or other authorized activities must ensure that their actions will not adversely affect the critical habitat. Therefore, a Small Government Agency Plan is not required. However, as we conduct our economic analysis for the revised rule, we will further evaluate this issue and revise this assessment if appropriate.

Takings—Executive Order 12630

In accordance with E.O. 12630 (“Government Actions and Interference with Constitutionally Protected Private Property Rights”), we have analyzed the potential takings implications of designating revised critical habitat for the California red-legged frog in a takings implications assessment. The takings implications assessment concludes that this designation of revised critical habitat for the California red-legged frog does not pose significant takings implications for lands within or affected by the revised designation.

Federalism—Executive Order 13132

In accordance with E.O. 13132 (Federalism), the proposed rule does not have significant Federalism effects. A Federalism assessment is not required. In keeping with Department of the Interior and Department of Commerce policy, we requested information from, and coordinated development of, this proposed critical habitat designation with appropriate State resource agencies in California. The designation may have some benefit to these governments because the areas that contain the features essential to the conservation of the subspecies are more clearly defined, and the primary constituent elements of the habitat necessary to the conservation of the subspecies are specifically identified. This information does not alter where and what federally sponsored activities may occur. However, it may assist these local governments in long-range planning (rather than having them wait for case-by-case section 7 consultations to occur).

Where State and local governments require approval or authorization from a Federal agency for actions that may affect critical habitat, consultation under section 7(a)(2) would be required. While non-Federal entities that receive Federal funding, assistance, or permits, or that otherwise require approval or authorization from a Federal agency for an action, may be indirectly impacted by the designation of critical habitat, the legally binding duty to avoid destruction or adverse modification of critical habitat rests squarely on the Federal agency.

Civil Justice Reform—Executive Order 12988

In accordance with Executive Order 12988 (Civil Justice Reform), it has been determined that the rule does not unduly burden the judicial system and meets the requirements of sections 3(a) and 3(b)(2) of the Order. We have proposed to revise critical habitat in accordance with the provisions of the Act. This proposed rule uses standard property descriptions and identifies the primary constituent elements within the designated areas to assist the public in understanding the habitat needs of the California red-legged frog.

Paperwork Reduction Act of 1995 (44 U.S.C. 3501 et seq.)

This rule does not contain any new collections of information that require approval by OMB under the Paperwork Reduction Act of 1995. This rule will not impose recordkeeping or reporting requirements on State or local governments, individuals, businesses, or organizations. An agency may not conduct or sponsor, and a person is not required to respond to, a collection of information unless it displays a currently valid OMB control number.

National Environmental Policy Act (NEPA) (42 U.S.C. 4321 et seq.)

It is our position that, outside the jurisdiction of the Circuit Court of the United States for the Tenth Circuit, we do not need to prepare environmental analyses as defined by NEPA in connection with designating critical habitat under the Act. We published a notice outlining our reasons for this determination in the Federal Register on October 25, 1983 (48 FR 49244). This assertion was upheld by the Circuit Court of the United States for the Ninth Circuit (Douglas County v. Babbitt, 48 F.3d 1495 (9th Cir. 1995), cert. denied 516 U.S. 1042 (1996)).

Clarity of the Rule

We are required by E.O. 12866, E.O. 12988, and by the Presidential Memorandum of June 1, 1998, to write all rules in plain language. This means that each rule we publish must:

(1) Be logically organized;

(2) Use the active voice to address readers directly;

(3) Use clear language rather than jargon;

(4) Be divided into short sections and sentences; and

(5) Use lists and tables wherever possible.

If you feel that we have not met these requirements, send us comments by one of the methods listed in the ADDRESSES section. To better help us revise the rule, your comments should be as specific as possible. For example, you should tell us the numbers of the sections or paragraphs that are unclearly written, which sections or sentences are too long, the sections where you feel lists or tables would be useful, etc.

Government-to-Government Relationship With Tribes

In accordance with the President's memorandum of April 29, 1994, Government-to-Government Relations with Native American Tribal Governments (59 FR 22951), E.O. 13175, and the Department of the Interior's manual at 512 DM 2, we readily acknowledge our responsibility to communicate meaningfully with recognized Federal Tribes on a government-to-government basis. In accordance with Secretarial Order 3206 of June 5, 1997 (American Indian Tribal Rights, Federal-Tribal Trust Responsibilities, and the Endangered Species Act), we readily acknowledge our responsibilities to work directly with Tribes in developing programs for healthy ecosystems, to acknowledge that Tribal lands are not subject to the same controls as Federal public lands, to remain sensitive to Indian culture, and to make information available to Tribes.

We have determined that there are no Tribal lands occupied at the time of listing that contain the features essential for the conservation of the subspecies, nor are there any unoccupied Tribal lands that are essential for the conservation of the California red-legged frog. Therefore, critical habitat for the California red-legged frog is not being proposed on Tribal lands. We will continue to coordinate with Tribal governments during the designation process.

Energy Supply, Distribution, or Use—Executive Order 13211

On May 18, 2001, the President issued an Executive Order (E.O. 13211; Actions Significantly Affect Energy Supply, Distribution, or Use) on regulations that significantly affect energy supply, distribution, and use. E.O. 13211 requires agencies to prepare Statements of Energy Effects when undertaking certain actions. Based on an analysis conducted for the previous designation of critical habitat and extrapolated to this designation, along with a further analysis of the additional areas included in this revision, we have determined that this proposed rule to designate critical habitat for the California red-legged frog is not expected to significantly affect energy supplies, distribution, or use. Therefore, this action is not a significant energy action, and no Statement of Energy Effects is required. However, we will further evaluate this issue as we conduct our economic analysis, and review and revise this assessment as warranted.

References Cited

A complete list of all references cited in this rulemaking is available on http://wwww.regulations.gov and upon request from the Field Supervisor, Sacramento Fish and Wildlife Office (see FOR FURTHER INFORMATION CONTACT section).

Author(s)

The primary authors of this notice are staff from the Sacramento, Ventura, and Carlsbad Fish and Wildlife Offices (see FOR FURTHER INFORMATION CONTACT section).

List of Subjects in 50 CFR Part 17

Endangered and threatened species, Exports, Imports, Reporting and recordkeeping requirements, Transportation.

Regulation Promulgation

Accordingly, we propose to amend part 17, subchapter B of chapter I, title 50 of the Code of Federal Regulations, as set forth below:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

2. In § 17.95(d) revise the entry for “California Red-legged Frog (Rana aurora draytonii)” to read as follows:

§ 17.95 Critical habitat—fish and wildlife.

* * * * *

(d) Amphibians.

* * * * *

California Red-legged Frog (Rana aurora draytonii)

(1) Critical habitat units are depicted for Alameda, Butte, Calaveras, Contra Costa, El Dorado, Kern, Kings, Los Angeles, Marin, Mendocino, Merced, Monterey, Napa, Nevada, Placer, Riverside, San Benito, San Joaquin, San Luis Obispo, San Mateo, Santa Barbara, Santa Clara, Santa Cruz, Solano, Sonoma, Stanislaus, Ventura, and Yuba Counties, California, on the maps below.

(2) Within these areas, the primary constituent elements for the California red-legged frog consist of four components:

(i) Aquatic breeding habitat. Standing bodies of fresh water (with salinities less than 7.0 parts per thousand (ppt)), including: Natural and manmade (e.g., stock) ponds, slow-moving streams or pools within streams, and other ephemeral or permanent water bodies that typically become inundated during winter rains and hold water for a minimum of 20 weeks in all but the driest of years.

(ii) Non-breeding aquatic habitat. Fresh water habitats as described above, that may or may not hold water long enough for the subspecies to hatch and complete its aquatic life cycle but that do provide for shelter, foraging, predator avoidance, and aquatic dispersal for juvenile and adult California red-legged frogs. Other wetland habitats that would be considered to meet these elements include, but are not limited to: Plunge pools within intermittent creeks; seeps; quiet water refugia during high water flows; and springs of sufficient flow to withstand the summer dry period.

(iii) Upland habitat. Upland areas adjacent to or surrounding breeding and non-breeding aquatic and riparian habitat up to a distance of 1 mile (1.6 km) in most cases and comprised of various vegetational series such as grasslands, woodlands, wetland, or riparian plant species that provide the frog shelter, forage, and predator avoidance. Upland features are also essential in that they are needed to maintain the hydrologic, geographic, topographic, ecological, and edaphic features that support and surround the wetland or riparian habitat. These upland features contribute to the filling and drying of the wetland or riparian habitat and are responsible for maintaining suitable periods of pool inundation for larval frogs and their food sources, and provide breeding, non-breeding, feeding, and sheltering habitat for juvenile and adult frogs (e.g., shelter, shade, moisture, cooler temperatures, a prey base, foraging opportunities, and areas for predator avoidance). Upland habitat can include structural features such as boulders, rocks, and organic debris (e.g. downed trees, logs), as well as small mammal burrows and moist leaf litter.

(iv) Dispersal habitat. Accessible upland or riparian dispersal habitat within designated units and between occupied locations within a minimum of 1 mi (1.6 km) of each other that allow for movement between such sites. Dispersal habitat includes various natural habitats and altered habitats such as agricultural fields, which also do not contain barriers to dispersal. (An example of a barrier to dispersal is a heavily traveled road constructed without bridges or culverts.) Dispersal habitat does not include moderate to high-density urban or industrial developments with large expanses of asphalt or concrete, nor does it include large reservoirs over 50 ac (20 ha) in size, or other areas that do not contain those features identified in paragraphs (2)(i), (ii), or (iii) of this entry as essential to the conservation of the subspecies.

(3) Critical habitat does not include man-made structures existing on the effective date of this rule and not containing one or more of the primary constituent elements, such as buildings, aqueducts, airports, and roads, and the land on which such structures are located.

(4) Critical habitat map units. Data layers defining map units were created on a base of USGS 7.5′ quadrangles using USDA National Agricultural Imagery Program (NAIP) county-wide MrSID compressed mosaics of 1 meter resolution and natural color aerial photography from summer 2005. Critical habitat units were then mapped using Universal Transverse Mercator (UTM) zone 10, North American Datum (NAD) 1983 coordinates.

(5) Note: Index map for California red-legged frog critical habitat units in northern California follows:

BILLING CODE 4310-55-P

(6) Note: Index map for California red-legged frog critical habitat units in southern California follows:

BILLING CODE 4310-55-C

(7) Unit BUT-1: Butte County, California. From USGS 1:24,000 scale quadrangles Pulga, Berry Creek and Brush Creek.

(i) Land bounded by the following UTM zone 10, NAD 1983 coordinates (E, N): 635284, 4400926; 635318, 4400907; 635359, 4400907; 635415, 4400907; 635453,4400907; 635502, 4400892; 635539, 4400870; 635588, 4400900; 635603, 4400930; 635666, 4400930; 635726, 4400934; 635749, 4400956; 635749, 4400994; 635767, 4401009; 635820, 4401042; 635868, 4401042; 635906, 4401042; 635940, 4401031; 635992, 4400997; 636033, 4401012; 636074, 4401012; 636100, 4401009; 636164, 4400994; 636228, 4401012; 636299, 4401020; 636377, 4401020; 636414, 4401012; 636415, 4400967; 636824, 4400972; 636836, 4400961; 636840, 4400584; 636819, 4400561; 636453, 4400557; 636453, 4400557; 636442, 4400546; 636442, 4400546; 636032, 4400541; 636024, 4400532; 636010, 4400518; 636011, 4400485; 636009, 4400483; 636000, 4400474; 636004, 4400185; 635993, 4400174; 635993, 4400141; 635993, 4400141; 636403, 4400145; 636414, 4400157; 636790, 4400161; 636801, 4400172; 637156, 4400177; 637156, 4400177; 637167, 4400188; 637477, 4400191; 637488, 4400203; 637654, 4400205; 637654, 4400205; 637649, 4400582; 637649, 4400582; 637660, 4400593; 637658, 4400775; 637658, 4400775; 637782, 4400748; 637858, 4400708; 637961, 4400640; 638038, 4400631; 638104, 4400619; 638164, 4400598; 638230, 4400543; 638407, 4400332; 638444, 4400303; 638493, 4400300; 638587, 4400321; 638653, 4400327; 638747, 4400330; 638895, 4400346; 638951, 4400356; 639019, 4400374; 639062, 4400378; 639128, 4400351; 639174, 4400326; 639318, 4400212; 639370, 4400161; 639414, 4400098; 639495, 4400047; 639546, 4400042; 639580, 4400034; 639616, 4400002; 639645, 4399936; 639664, 4399875; 639671, 4399819; 639667, 4399772; 639648, 4399718; 639609, 4399578; 639545, 4399434; 639492, 4399337; 639492, 4399266; 639498, 4399218; 639477, 4399157; 639397, 4398995; 639398, 4398947; 639424, 4398891; 639441, 4398816; 639458, 4398689; 639477, 4398627; 639519, 4398557; 639536, 4398529; 639551, 4398505; 639628, 4398345; 639703, 4398302; 639997, 4398218; 640063, 4398195; 640086, 4398179; 640095, 4398159; 640120, 4398056; 640154, 4397979; 640189, 4397932; 640201, 4397869; 640209, 4397832; 640211, 4397826; 640243, 4397727; 640288, 4397668; 640310, 4397601; 640306, 4397510; 640290, 4397428; 640281, 4397365; 640293, 4397311; 640359, 4397255; 640423, 4397208; 640473, 4397178; 640545, 4397124; 640596, 4397057; 640533, 4396958; 640006, 4396948; 640006, 4396948; 639179, 4396957; 639179, 4396957; 639206, 4395692; 639212, 4395689; 639231, 4395681; 639231, 4395681; 639232, 4395580; 639232, 4395579; 639219, 4395546; 639219, 4395546; 639219, 4395546; 639219, 4395524; 639234, 4395513; 639234, 4395513; 639236, 4395406; 639221, 4395403; 638863, 4395399; 638678, 4395397; 638667, 4395408; 637864, 4395379; 637968, 4395351; 637962, 4395169; 637932, 4395185; 637764, 4395285; 637655, 4395303; 637670, 4395303; 637710, 4395306; 637686, 4395325; 637655, 4395331; 637616, 4395347; 637477, 4395363; 637424, 4395379; 637391, 4395396; 637232, 4395428; 637184, 4395429; 637143, 4395417; 637102, 4395392; 637070, 4395364; 636987, 4395305; 636893, 4395251; 636845, 4395236; 636813, 4395252; 636796, 4395273; 636787, 4395300; 636780, 4395348; 636787, 4395375; 636798, 4395395; 636868, 4395469; 636926, 4395560; 636949, 4395589; 636965, 4395620; 636985, 4395676; 636995, 4395733; 636998, 4395887; 636994, 4396083; 637000, 4396105; 636976, 4396168; 636948, 4396227; 636934, 4396262; 636933, 4396280; 636946, 4396295; 636952, 4396314; 636898, 4396328; 636889, 4396350; 636885, 4396372; 636862, 4396371; 636844, 4396376; 636786, 4396417; 636766, 4396452; 636724, 4396549; 636711, 4396535; 636677, 4396526; 636647, 4396547; 636629, 4396570; 636563, 4396617; 636439, 4396726; 636424, 4396791; 636397, 4396788; 636371, 4396792; 636347, 4396812; 636267, 4396951; 636254, 4396975; 636211, 4397030; 636152, 4397085; 636057, 4397151; 636021, 4397169; 635991, 4397179; 635988, 4397179; 635969, 4397181; 635947, 4397190; 635928, 4397206; 635924, 4397225; 635885, 4397279; 635707, 4397404; 635659, 4397432; 635630, 4397454; 635599, 4397508; 635579, 4397526; 635494, 4397574; 635401, 4397621; 635277, 4397695; 635249, 4397708; 635222, 4397727; 635183, 4397763; 635111, 4397800; 635070, 4397817; 634941, 4397842; 634853, 4397867; 634798, 4397867; 634758, 4397876; 634699, 4397920; 634647, 4397940; 634610, 4397948; 634540, 4397952; 634514, 4397948; 634478, 4398036; 634458, 4398087; 634391, 4398277; 634290, 4398434; 634290, 4398602; 634290, 4398815; 634318, 4398953; 634468, 4398957; 634468, 4398957; 635222, 4398966; 635218, 4399276; 635206, 4399287; 635206, 4399287; 635201, 4399676; 635190, 4399687; 635190, 4399731; 635178, 4399742; 634716, 4399737; 634716, 4399814; 634716, 4399882; 634701, 4399998; 634738, 4400050; 634701, 4400050; 634637, 4400155; 634614, 4400166; 634614, 4400185; 634584, 4400237; 634562, 4400290; 634540, 4400350; 634510, 4400417; 634517, 4400544; 634536, 4400574; 634570, 4400623; 634618, 4400645; 634626, 4400702; 634626, 4400761; 634629, 4400803; 634682, 4400840; 634730, 4400889; 634764, 4400964; 634809, 4401031; 634843, 4401080; 634843, 4401143; 634813, 4401188; 634817, 4401226; 634843, 4401222; 634899, 4401218; 634948, 4401177; 634996, 4401140; 635041, 4401095; 635086, 4401053; 635127, 4401046; 635180, 4401035; 635213, 4401009; 635251, 4400967; returning to 635284, 4400926.

(ii) Note: Map of Unit BUT-1 for the California red-legged frog follows:

BILLING CODE 4310-55-P

BILLING CODE 4310-55-C

(8) Unit YUB-1: Yuba County, California. From USGS 1:24,000 scale quadrangle Challenge.

(i) Land bounded by the following UTM zone 10, NAD 1983 coordinates (E, N): 656776, 4370030; 656932, 4369825; 657033, 4369527; 657462, 4368370; 657472, 4368056; 657481, 4367769; 657672, 4367445; 657691, 4367430; 657890, 4367270; 658105, 4367098; 658503, 4366871; 658905, 4366554; 659124, 4366290; 659222, 4366053; 659369, 4365971; 659528, 4365883; 659624, 4365706; 659586, 4365706; 659383, 4365704; 659383, 4365704; 659383, 4365691; 659384, 4365583; 659354, 4365585; 659340, 4365600; 659305, 4365588; 659286, 4365572; 659261, 4365537; 659224, 4365531; 659182, 4365526; 659125, 4365527; 659101, 4365527; 659082, 4365536; 659075, 4365559; 659061, 4365567; 659044, 4365567; 659027, 4365567; 659017, 4365574; 658998, 4365584; 658996, 4365603; 658996, 4365620; 658991, 4365643; 658989, 4365668; 658985, 4365687; 658982, 4365690; 658974, 4365700; 658960, 4365723; 658939, 4365742; 658916, 4365757; 658894, 4365767; 658888, 4365790; 658871, 4365805; 658852, 4365805; 658827, 4365805; 658791, 4365820; 658764, 4365830; 658751, 4365849; 658751, 4365877; 658751, 4365900; 658745, 4365908; 658730, 4365919; 658726, 4365936; 658707, 4365940; 658678, 4365940; 658650, 4365940; 658627, 4365940; 658596, 4365929; 658579, 4365929; 658564, 4365921; 658551, 4365908; 658537, 4365891; 658533, 4365885; 658516, 4365868; 658490, 4365853; 658467, 4365845; 658446, 4365845; 658440, 4365847; 658419, 4365847; 658400, 4365837; 658398, 4365824; 658396, 4365801; 658396, 4365782; 658408, 4365757; 658421, 4365733; 658438, 4365721; 658465, 4365719; 658474, 4365736; 658499, 4365744; 658520, 4365769; 658538, 4365791; 658541, 4365795; 658550, 4365802; 658581, 4365826; 658606, 4365836; 658634, 4365834; 658640, 4365806; 658652, 4365775; 658664, 4365752; 658674, 4365736; 658695, 4365712; 658714, 4365694; 658741, 4365677; 658760, 4365666; 658794, 4365641; 658794, 4365568; 658794, 4365469; 658740, 4365433; 658695, 4365384; 658628, 4365353; 658552, 4365295; 658539, 4365237; 658551, 4365237; 658545, 4365228; 658543, 4365216; 658524, 4365193; 658497, 4365191; 658488, 4365186; 658465, 4365184; 658446, 4365184; 658427, 4365180; 658425, 4365167; 658431, 4365157; 658453, 4365151; 658465, 4365151; 658493, 4365144; 658520, 4365142; 658564, 4365144; 658606, 4365163; 658625, 4365178; 658642, 4365193; 658659, 4365199; 658678, 4365182; 658680, 4365161; 658688, 4365136; 658701, 4365123; 658707, 4365123; 658720, 4365127; 658730, 4365136; 658732, 4365153; 658737, 4365174; 658741, 4365201; 658743, 4365224; 658747, 4365240; 658809, 4365247; 658812, 4365243; 658817, 4365231; 658825, 4365212; 658836, 4365197; 658850, 4365176; 658867, 4365191; 658876, 4365207; 658882, 4365226; 658901, 4365233; 658920, 4365226; 658932, 4365218; 658947, 4365220; 658968, 4365226; 658974, 4365239; 658983, 4365252; 658998, 4365252; 659017, 4365245; 659040, 4365228; 659050, 4365205; 659057, 4365184; 659078, 4365182; 659103, 4365186; 659115, 4365201; 659124, 4365222; 659147, 4365239; 659164, 4365239; 659181, 4365235; 659214, 4365222; 659238, 4365207; 659248, 4365186; 659248, 4365167; 659256, 4365148; 659273, 4365132; 659290, 4365127; 659305, 4365140; 659332, 4365140; 659351, 4365125; 659368, 4365118; 659105, 4365028; 659020, 4364875; 658939, 4364572; 658735, 4364385; 658531, 4364168; 658412, 4364134; 658410, 4364131; 658410, 4364131; 658254, 4364129; 658243, 4364118; 658054, 4364117; 658043, 4364105; 657788, 4364103; 657788, 4364103; 657792, 4363648; 657826, 4363648; 657826, 4363648; 657837, 4363659; 657837, 4363659; 658070, 4363661; 658081, 4363672; 658106, 4363673; 657950, 4363548; 657655, 4363358; 657395, 4363049; 657282, 4362805; 657113, 4362469; 657087, 4362405; 657087, 4362405; 657083, 4362409; 656805, 4362407; 656794, 4362418; 656528, 4362416; 656516, 4362427; 656272, 4362425; 656261, 4362436; 656227, 4362436; 656227, 4362436; 656171, 4362531; 656051, 4362735; 655836, 4362878; 655683, 4362963; 655558, 4363109; 655427, 4363405; 655202, 4363849; 655406, 4364066; 655669, 4364315; 655690, 4364586; 655438, 4364908; 655218, 4365202; 655027, 4365526; 654779, 4365758; 654445, 4365837; 654319, 4366013; 654187, 4366370; 654149, 4366639; 653990, 4366874; 653952, 4367143; 653883, 4367381; 653710, 4367531; 653696, 4367950; 653744, 4368109; 653737, 4368319; 653751, 4368687; 653740, 4369028; 653747, 4369047; 653836, 4369294; 653990, 4369404; 654143, 4369566; 654429, 4369681; 654687, 4369794; 655104, 4369939; 655245, 4369920; 655453, 4369987; 655660, 4370113; 655896, 4370242; 656198, 4370221; 656470, 4370170; returning to 656776, 4370030.

(ii) Note: Map of Units YUB-1 and NEV-1 for the California red-legged frog follows:

BILLING CODE 4310-55-P

BILLING CODE 4310-55-C

(9) Unit NEV-1: Nevada County, California. From USGS 1:24,000 scale quadrangle Nevada City and North Bloomfield.

(i) Land bounded by the following UTM zone 10, NAD 1983 coordinates (E, N): 676906, 4356394; 676962, 4356305; 677130, 4356317; 677131, 4356238; 677181, 4356231; 677306, 4356068; 677485, 4355987; 677670, 4355985; 677882, 4356056; 677980, 4356196; 678051, 4356296; 678137, 4356315; 678170, 4356315; 678201, 4356320; 678231, 4356310; 678224, 4356187; 678232, 4356116; 678268, 4355942; 678277, 4355825; 678274, 4355759; 678251, 4355709; 678217, 4355664; 678229, 4355623; 678337, 4355534; 678350, 4355522; 678361, 4355511; 678374, 4355498; 678418, 4355448; 678444, 4355409; 678448, 4355341; 678432, 4355290; 678417, 4355258; 678406, 4355233; 678390, 4355204; 678379, 4355182; 678354, 4355125; 678356, 4355083; 678510, 4354644; 678528, 4354561; 678540, 4354482; 678577, 4354374; 678642, 4354231; 678654, 4354168; 678649, 4354037; 678650, 4353980; 678683, 4353930; 678734, 4353879; 678783, 4353842; 678852, 4353796; 678971, 4353841; 679102, 4353875; 679178, 4353901; 679227, 4353902; 679353, 4353865; 679459, 4353818; 679563, 4353782; 679706, 4353759; 679914, 4353707; 680299, 4353648; 680349, 4353649; 680352, 4353523; 680352, 4353517; 679780, 4352799; 679437, 4352381; 679422, 4352362; 679157, 4352094; 679157, 4352094; 679148, 4352080; 678711, 4351756; 677827, 4351102; 677690, 4351000; 677303, 4350713; 677303, 4350703; 677292, 4350702; 677270, 4350680; 677256, 4350679; 677248, 4350679; 677202, 4350639; 677199, 4350636; 677198, 4350636; 676807, 4350614; 676807, 4350614; 676812, 4350531; 676440, 4350485; 676219, 4350558; 676117, 4350571; 675995, 4350556; 675823, 4350507; 675686, 4350459; 675583, 4350452; 675457, 4350453; 675362, 4350424; 675325, 4350412; 675325, 4350537; 675325, 4350616; 675293, 4350711; 675206, 4350862; 675166, 4350990; 675063, 4351133; 674920, 4351180; 674673, 4351196; 674371, 4351260; 674173, 4351284; 673807, 4351355; 673616, 4351379; 673417, 4351427; 673139, 4351467; 673020, 4351483; 672710, 4351546; 672559, 4351554; 672424, 4351562; 672281, 4351570; 672074, 4351586; 671907, 4351626; 671684, 4351705; 671534, 4351793; 671438, 4351872; 671239, 4351936; 670969, 4352039; 670738, 4352158; 670668, 4352774; 670633, 4354099; 670634, 4354099; 670679, 4354110; 670780, 4354114; 670847, 4354102; 670901, 4354084; 670960, 4354053; 670990, 4354030; 671054, 4353992; 671117, 4353941; 671174, 4353907; 671212, 4353893; 671282, 4353872; 671394, 4353858; 671435, 4353852; 671426, 4353850; 671437, 4353664; 672180, 4353672; 672208, 4353633; 672243, 4353598; 672287, 4353562; 672365, 4353550; 672450, 4353566; 672475, 4353582; 672578, 4353673; 672716, 4353754; 672766, 4353780; 672817, 4353800; 672938, 4353818; 672910, 4353887; 672900, 4353937; 673158, 4353946; 673150, 4354094; 673148, 4354137; 672855, 4354130; 672842, 4354168; 672783, 4354295; 672757, 4354434; 672799, 4354491; 672842, 4354522; 672941, 4354578; 673021, 4354593; 673084, 4354628; 673117, 4354665; 673122, 4354687; 673119, 4354745; 673140, 4354749; 673191, 4354837; 673202, 4354897; 673236, 4355028; 673247, 4355052; 673253, 4355088; 673243, 4355133; 673224, 4355185; 673201, 4355258; 673199, 4355268; 673199, 4355269; 673175, 4355379; 673188, 4355465; 673226, 4355517; 673228, 4355519; 673283, 4355581; 673391, 4355365; 673402, 4355344; 673600, 4355329; 673616, 4355327; 673903, 4355380; 674072, 4355387; 674203, 4355443; 674378, 4355543; 674440, 4355612; 674554, 4355655; 674698, 4355703; 674779, 4355812; 674843, 4355885; 674907, 4355945; 675027, 4355928; 675092, 4355868; 675272, 4355764; 675414, 4355681; 675573, 4355640; 675621, 4355628; 675622, 4355627; 675647, 4355612; 675763, 4355477; 675775, 4355358; 675775, 4355332; 675773, 4355263; 675827, 4355213; 675947, 4355175; 675947, 4355175; 676036, 4355164; 676080, 4355242; 676143, 4355418; 676255, 4355555; 676269, 4355603; 676350, 4355660; 676400, 4355681; 676445, 4355779; 676405, 4355981; 676418, 4356168; 676456, 4356381; 676581, 4356556; 676668, 4356706; 676693, 4356744; 676751, 4356738; 676818, 4356555; 676906, 4356394;

(ii) Note: Unit NEV-1 for the California red-legged frog is depicted on the map in paragraph (8)(ii) of this entry.

(10) Unit PLA-1: Placer County, California. From USGS 1:24,000 scale quadrangles Forest Hill and Michigan Bluff.

(i) Land bounded by the following UTM zone 10, NAD 1983 coordinates (E, N): 696102, 4324325; 696269, 4324238; 696581, 4324246; 696678, 4324306; 696792, 4324349; 696895, 4324349; 697034, 4324294; 697070, 4324216; 697118, 4324125; 697148, 4324059; 697227, 4323980; 697287, 4323805; 697317, 4323673; 697390, 4323636; 697517, 4323606; 697571, 4323570; 697601, 4323365; 697577, 4323190; 697456, 4322900; 697239, 4322683; 696979, 4322484; 696678, 4322393; 696303, 4322242; 695802, 4322441; 695627, 4322586; 695501, 4322665; 695350, 4322846; 695229, 4322942; 695006, 4323045; 694933, 4323220; 694909, 4323498; 694849, 4323636; 694740, 4323745; 694523, 4323787; 694360, 4323799; 694233, 4323817; 694197, 4323884; 694209, 4324180; 694577, 4324391; 694831, 4324626; 695096, 4324795; 695374, 4324837; 695615, 4324825; 695748, 4324795; 695881, 4324708; 695908, 4324628; 695996, 4324611; 696033, 4324574; 696046, 4324534; 696050, 4324467; 696075, 4324407; 696090, 4324340; returning to 696102, 4324325.

(ii) Excluding land bounded by the following UTM zone 10, NAD 1983 coordinates (E, N): 695636, 4324153; 695563, 4324116; 695508, 4324130; 695471, 4324147; 695433, 4324147; 695389, 4324149; 695380, 4324137; 695398, 4324109; 695423, 4324054; 695446, 4324021; 695482, 4323950; 695558, 4323951; 695575, 4323941; 695594, 4323874; 695636, 4323824; 695701, 4323831; 695741, 4323856; 695782, 4323867; 695815, 4323840; 695827, 4323791; 695849, 4323777; 695857, 4323740; 695885, 4323710; 695885, 4323650; 695875, 4323548; 695789, 4323492; 695757, 4323455; 695757, 4323415; 695789, 4323364; 695821, 4323355; 695847, 4323389; 695887, 4323394; 695928, 4323414; 695974, 4323437; 695985, 4323481; 695975, 4323527; 695975, 4323571; 695998, 4323590; 696037, 4323598; 696070, 4323600; 696100, 4323600; 696121, 4323615; 696130, 4323655; 696138, 4323697; 696138, 4323740; 696153, 4323771; 696163, 4323803; 696177, 4323830; 696180, 4323858; 696178, 4323884; 696127, 4323883; 696081, 4323868; 696037, 4323867; 695997, 4323887; 695941, 4323923; 695918, 4323967; 695887, 4324008; 695868, 4324069; 695818, 4324131; 695795, 4324179; 695775, 4324220; 695728, 4324187; 695676, 4324174; 695636, 4324153; returning to 696102, 4324325.

(iii) Note: Map of Unit PLA-1 for the California red-legged frog follows:

BILLING CODE 4310-55-P

BILLING CODE 4310-55-C

(11) Unit ELD-1: El Dorado County, California. From USGS 1:24,000 scale quadrangles Camino, Pollock Pines and Sly Park.

(i) Land bounded by the following UTM zone 10, NAD 1983 coordinates (E, N): 712042, 4292979; 712161, 4292902; 712243, 4292856; 712331, 4292834; 712419, 4292796; 712497, 4292718; 712540, 4292683; 712538, 4292678; 712530, 4292662; 712517, 4292599; 712511, 4292523; 712492, 4292476; 712454, 4292420; 712417, 4292357; 712384, 4292281; 712357, 4292219; 712319, 4292151; 712259, 4292082; 712201, 4292042; 712105, 4292004; 712037, 4291985; 711944, 4291952; 711866, 4291905; 711816, 4291791; 711785, 4291740; 711702, 4291628; 711680, 4291585; 711663, 4291485; 711666, 4291403; 711650, 4291319; 711576, 4291195; 711450, 4291102; 711326, 4291028; 711255, 4291003; 711182, 4290958; 711117, 4290899; 711061, 4290822; 711003, 4290754; 710956, 4290705; 710846, 4290604; 710753, 4290533; 710718, 4290493; 710718, 4290490; 710678, 4290488; 710400, 4290528; 710227, 4290581; 710054, 4290648; 709815, 4290648; 709523, 4290568; 709311, 4290303; 709152, 4290090; 708926, 4289838; 708873, 4289705; 708661, 4289533; 708515, 4289347; 708355, 4289201; 708143, 4289015; 707771, 4289015; 707493, 4288896; 707400, 4288789; 707161, 4288617; 707148, 4288404; 706922, 4288245; 706715, 4288156; 706648, 4288194; 706471, 4288294; 706260, 4288274; 706007, 4288251; 705699, 4288341; 705507, 4288398; 705231, 4288234; 704964, 4288221; 704826, 4288214; 704683, 4288368; 704536, 4288381; 704443, 4288528; 704329, 4288707; 704126, 4288577; 703960, 4288838; 703734, 4288849; 703439, 4288864; 703200, 4289009; 702944, 4289165; 702684, 4289323; 702371, 4289290; 702184, 4289384; 702165, 4289393; 702177, 4289402; 702222, 4289458; 702266, 4289549; 702324, 4289643; 702406, 4289714; 702560, 4289799; 702679, 4289855; 702744, 4289897; 702829, 4289991; 702883, 4290067; 702940, 4290184; 703050, 4290362; 703079, 4290429; 703075, 4290480; 703089, 4290507; 703106, 4290570; 703147, 4290632; 703210, 4290691; 703248, 4290770; 703294, 4290808; 703352, 4290850; 703419, 4290892; 703486, 4290934; 703540, 4290942; 703607, 4290942; 703683, 4290942; 703825, 4290938; 703950, 4290938; 704067, 4290938; 704214, 4290934; 704322, 4290921; 704423, 4290921; 704556, 4290984; 704673, 4291013; 704732, 4291034; 704803, 4291038; 704878, 4291038; 704899, 4290959; 704983, 4290959; 705033, 4290959; 705092, 4290959; 705129, 4290959; 705154, 4290925; 705175, 4290879; 705184, 4290833; 705217, 4290699; 705221, 4290616; 705221, 4290540; 705221, 4290478; 705246, 4290411; 705251, 4290398; 705267, 4290369; 705355, 4290336; 705422, 4290340; 705497, 4290340; 705522, 4290361; 705522, 4290423; 705493, 4290490; 705493, 4290545; 705522, 4290574; 705577, 4290574; 705648, 4290574; 705710, 4290574; 705761, 4290578; 705798, 4290616; 705798, 4290674; 705811, 4290733; 705865, 4290733; 705911, 4290733; 705953, 4290791; 705982, 4290875; 706007, 4290942; 706112, 4291025; 706162, 4291113; 706262, 4291122; 706379, 4291172; 706459, 4291235; 706513, 4291289; 706580, 4291347; 706634, 4291402; 706706, 4291435; 706806, 4291465; 706902, 4291506; 707057, 4291511; 707199, 4291531; 707291, 4291531; 707379, 4291577; 707487, 4291598; 707659, 4291644; 707818, 4291724; 708077, 4291858; 708236, 4291933; 708349, 4292004; 708441, 4292071; 708554, 4292134; 708779, 4292192; 708884, 4292234; 708989, 4292267; 709164, 4292376; 709302, 4292489; 709428, 4292568; 709561, 4292644; 709674, 4292706; 709766, 4292736; 709775, 4292665; 709816, 4292639; 709871, 4292677; 709908, 4292740; 709963, 4292782; 710126, 4292920; 710235, 4292970; 710327, 4293012; 710444, 4293024; 710640, 4293024; 710724, 4293020; 710895, 4293016; 711108, 4293016; 711141, 4293016; 711177, 4292991; 711258, 4292972; 711367, 4292964; 711501, 4292971; 711742, 4293022; 711830, 4293033; 711932, 4293020; 711991, 4293001; returning to 712042, 4292979.

(ii) Note: Map of Unit ELD-1 for the California red-legged frog follows:

BILLING CODE 4310-55-P

BILLING CODE 4310-55-C

(12) Unit CAL-1: Calaveras County, California. From USGS 1:24,000 scale quadrangles Jackson, Valley Springs and Mokelumne Hill.

(i) Land bounded by the following UTM zone 10, NAD 1983 coordinates (E, N): 697316, 4236788; 697288, 4236702; 697239, 4236661; 697043, 4236601; 696856, 4236549; 696803, 4236489; 696681, 4236360; 696594, 4236292; 696515, 4236211; 696474, 4236132; 696437, 4236012; 696425, 4235875; 696408, 4235746; 696372, 4235657; 696295, 4235532; 696222, 4235429; 696139, 4235314; 696094, 4235249; 696061, 4235190; 696017, 4235064; 695993, 4234928; 695995, 4234790; 696002, 4234689; 696025, 4234548; 696014, 4234388; 696012, 4234247; 696012, 4234138; 696012, 4234080; 696012, 4234062; 695970, 4234021; 695881, 4233955; 695844, 4233920; 695782, 4233817; 695732, 4233779; 695673, 4233743; 695596, 4233687; 695559, 4233626; 695551, 4233577; 695561, 4233426; 695552, 4233361; 695562, 4233280; 695630, 4233225; 695729, 4233158; 695821, 4233075; 695863, 4233013; 695878, 4232967; 695875, 4232870; 695807, 4232615; 695757, 4232563; 695668, 4232520; 695598, 4232462; 695574, 4232384; 695607, 4232132; 695599, 4232090; 695588, 4232071; 695522, 4232076; 695344, 4232109; 695302, 4232111; 695277, 4232108; 695242, 4232087; 695202, 4232047; 695170, 4231994; 695143, 4231971; 695111, 4231955; 695041, 4231933; 695024, 4231930; 695000, 4231934; 694987, 4231933; 694967, 4231942; 694952, 4231956; 694930, 4231959; 694907, 4231961; 694888, 4231956; 694867, 4231943; 694835, 4231923; 694823, 4231902; 694822, 4231886; 694824, 4231874; 694831, 4231852; 694844, 4231813; 694860, 4231806; 694875, 4231784; 694873, 4231770; 694857, 4231759; 694833, 4231743; 694817, 4231735; 694770, 4231717; 694741, 4231711; 694707, 4231700; 694671, 4231674; 694618, 4231635; 694580, 4231609; 694543, 4231591; 694505, 4231581; 694449, 4231552; 694408, 4231538; 694379, 4231528; 694355, 4231522; 694328, 4231527; 694308, 4231532; 694281, 4231528; 694265, 4231515; 694251, 4231498; 694233, 4231482; 694211, 4231471; 694159, 4231465; 694118, 4231465; 694098, 4231479; 694085, 4231479; 694057, 4231494; 694033, 4231489; 694017, 4231479; 694016, 4231451; 694012, 4231420; 693971, 4231408; 693924, 4231394; 693863, 4231366; 693832, 4231349; 693787, 4231327; 693739, 4231289; 693701, 4231226; 693654, 4231174; 693651, 4231135; 693651, 4231132; 693642, 4231125; 693542, 4231021; 693414, 4230903; 693252, 4230731; 693152, 4230609; 693004, 4230419; 692822, 4230232; 692634, 4230055; 692509, 4229955; 692359, 4229874; 692231, 4229831; 692013, 4229788; 691801, 4229741; 691330, 4229637; 691394, 4229813; 691405, 4230022; 691407, 4230142; 691336, 4230385; 691319, 4230512; 691328, 4230620; 691374, 4230695; 691692, 4231006; 691745, 4231081; 691794, 4231327; 691804, 4231499; 691776, 4231683; 691751, 4231690; 691630, 4231686; 691374, 4231628; 691068, 4231614; 691056, 4231653; 691072, 4231792; 691134, 4232019; 691232, 4232170; 691498, 4232393; 691699, 4232598; 691779, 4232774; 691878, 4232931; 691900, 4233064; 691896, 4233223; 691881, 4233422; 691933, 4233485; 692046, 4233537; 692203, 4233537; 692333, 4233537; 692499, 4233537; 692646, 4233581; 692786, 4233676; 692873, 4233798; 692916, 4233981; 693081, 4234155; 693194, 4234277; 693334, 4234424; 693464, 4234572; 693655, 4234720; 693847, 4234885; 694029, 4235077; 694264, 4235390; 694360, 4235494; 694412, 4235538; 694551, 4235642; 694612, 4235781; 694812, 4235920; 694969, 4236103; 695056, 4236347; 695063, 4236421; 695102, 4236450; 695156, 4236511; 695204, 4236570; 695232, 4236613; 695249, 4236614; 695292, 4236574; 695314, 4236614; 695351, 4236655; 695702, 4236544; 695757, 4236644; 695857, 4236612; 695891, 4236559; 695920, 4236555; 695935, 4236591; 695935, 4236627; 695937, 4236656; 695961, 4236665; 695982, 4236665; 696003, 4236686; 696014, 4236707; 696018, 4236739; 696019, 4236770; 696021, 4236770; 696130, 4236778; 696239, 4236808; 696340, 4236871; 696414, 4236925; 696465, 4236970; 696533, 4237037; 696637, 4237159; 696667, 4237166; 696697, 4237159; 696824, 4237130; 697020, 4237104; 697091, 4237069; 697163, 4237060; 697251, 4237048; 697313, 4237047; 697373, 4237040; 697350, 4236929; 697342, 4236896; returning to 697316, 4236788.

(ii) Note: Map of Unit CAL-1 for the California red-legged frog follows:

BILLING CODE 4310-55-P

BILLING CODE 4310-55-C

(13) Unit MEN-1: Mendocino County, California. From USGS 1:24,000 scale quadrangles Elk, Mallo Pass Creek, Navarro and Cold Spring.

(i) Land bounded by the following UTM zone 10, NAD 1983 coordinates (E, N): 441259, 4332964; 441369, 4332901; 441522, 4332801; 441589, 4332742; 441665, 4332648; 441700, 4332614; 441728, 4332600; 441755, 4332595; 441790, 4332597; 441871, 4332622; 441914, 4332655; 441948, 4332696; 442006, 4332714; 442098, 4332694; 442161, 4332689; 442188, 4332678; 442244, 4332612; 442302, 4332576; 442380, 4332561; 442448, 4332521; 442505, 4332446; 442608, 4332379; 442683, 4332338; 442814, 4332241; 442862, 4332197; 442937, 4332138; 442999, 4332116; 443085, 4332119; 443224, 4332155; 443247, 4332166; 443281, 4332164; 443329, 4332130; 443392, 4332103; 443507, 4332041; 443596, 4331977; 443670, 4331951; 443715, 4331959; 443757, 4331982; 443812, 4331997; 443862, 4331998; 443916, 4331973; 444127, 4331835; 444222, 4331793; 444346, 4331784; 444368, 4331794; 444514, 4331677; 444549, 4331671; 444570, 4331672; 444618, 4331703; 444765, 4331884; 444800, 4331921; 444876, 4331982; 444966, 4332027; 445009, 4332043; 445044, 4332051; 445099, 4332047; 445165, 4332023; 445263, 4331954; 445325, 4331942; 445370, 4331946; 445419, 4331964; 445462, 4331953; 445506, 4331947; 445627, 4331967; 445670, 4331979; 445723, 4331974; 445890, 4331879; 446039, 4331744; 446091, 4331681; 446189, 4331540; 446226, 4331472; 446239, 4331427; 446262, 4331369; 446296, 4331338; 446331, 4331290; 446395, 4331161; 446445, 4331095; 446488, 4331051; 446519, 4331009; 446525, 4330979; 446527, 4330949; 446557, 4330844; 446582, 4330805; 446607, 4330786; 446644, 4330778; 446770, 4330791; 446849, 4330782; 447061, 4330778; 447155, 4330770; 447246, 4330750; 447324, 4330710; 447451, 4330612; 447514, 4330587; 447620, 4330570; 447769, 4330561; 447926, 4330563; 447981, 4330574; 448037, 4330596; 448146, 4330651; 448249, 4330699; 448282, 4330704; 448321, 4330700; 448473, 4330625; 448611, 4330538; 448672, 4330508; 448747, 4330449; 448770, 4330415; 448796, 4330335; 448800, 4330201; 448806, 4330144; 448898, 4329967; 448930, 4329897; 448965, 4329785; 448993, 4329717; 449059, 4329470; 449052, 4329410; 449020, 4329348; 448985, 4329252; 448964, 4329178; 448960, 4329068; 448931, 4329010; 448867, 4328972; 448762, 4328895; 448726, 4328837; 448725, 4328728; 448726, 4328702; 448682, 4328643; 448637, 4328593; 448551, 4328558; 448455, 4328527; 448363, 4328517; 448320, 4328515; 448287, 4328506; 448245, 4328470; 448214, 4328435; 448205, 4328363; 448185, 4328325; 448171, 4328245; 448191, 4328145; 448234, 4328072; 448277, 4328011; 448335, 4327947; 448410, 4327845; 448425, 4327795; 448463, 4327746; 448547, 4327652; 448586, 4327593; 448663, 4327451; 448727, 4327344; 448728, 4327312; 448703, 4327256; 448699, 4327202; 448717, 4327096; 448738, 4326993; 448760, 4326920; 448728, 4326863; 448546, 4326764; 448410, 4326699; 448278, 4326649; 448156, 4326607; 448058, 4326567; 447963, 4326516; 447919, 4326476; 447873, 4326417; 447801, 4326355; 447651, 4326338; 447549, 4326331; 447450, 4326313; 447321, 4326286; 447267, 4326261; 447232, 4326235; 447206, 4326220; 447147, 4326205; 447079, 4326200; 446857, 4326151; 446769, 4326153; 446797, 4326121; 446830, 4326091; 446874, 4326039; 446947, 4325936; 446980, 4325860; 446984, 4325816; 447011, 4325763; 447048, 4325707; 447060, 4325657; 447035, 4325552; 447052, 4325492; 447081, 4325433; 447126, 4325322; 447140, 4325255; 447161, 4325178; 447200, 4325145; 447231, 4325104; 447293, 4325057; 447417, 4324941; 447511, 4324902; 447586, 4324864; 447648, 4324813; 447781, 4324672; 447851, 4324613; 447901, 4324598; 447976, 4324570; 448032, 4324495; 448060, 4324449; 448093, 4324417; 448268, 4324334; 448394, 4324256; 448466, 4324227; 448570, 4324211; 448768, 4324189; 448867, 4324161; 448941, 4324133; 448989, 4324130; 448970, 4323748; 448946, 4323271; 448460, 4322999; 448295, 4322597; 448137, 4322210; 448216, 4321903; 448299, 4321581; 448196, 4321367; 448375, 4320990; 448335, 4320712; 448307, 4320512; 448166, 4320481; 447840, 4320409; 447740, 4320387; 447719, 4320333; 447611, 4320364; 447521, 4320380; 447485, 4320382; 447467, 4320365; 447424, 4320255; 447394, 4320214; 447351, 4320194; 447306, 4320195; 447266, 4320205; 447227, 4320210; 447180, 4320199; 447139, 4320117; 447101, 4320064; 447068, 4320031; 447055, 4319961; 447056, 4319893; 447083, 4319839; 447099, 4319789; 447098, 4319734; 447078, 4319696; 447061, 4319644; 447059, 4319596; 447042, 4319552; 446994, 4319515; 446880, 4319476; 446759, 4319359; 446707, 4319293; 446661, 4319187; 446636, 4319095; 446608, 4318958; 446592, 4318769; 446576, 4318668; 446549, 4318578; 446496, 4318490; 446424, 4318418; 446342, 4318371; 446298, 4318348; 446226, 4318336; 446102, 4318345; 445895, 4318407; 445803, 4318417; 445685, 4318482; 445617, 4318503; 445542, 4318514; 445439, 4318513; 445372, 4318496; 445325, 4318476; 445288, 4318451; 445246, 4318439; 445198, 4318462; 445107, 4318524; 445023, 4318553; 444952, 4318540; 444885, 4318566; 444843, 4318611; 444781, 4318655; 444613, 4318738; 444560, 4318739; 444519, 4318726; 444488, 4318702; 444437, 4318616; 444415, 4318570; 444287, 4318338; 444206, 4318204; 444130, 4318174; 444104, 4318218; 444090, 4318288; 444070, 4318354; 443990, 4318576; 443942, 4318700; 443891, 4318801; 443817, 4318930; 443789, 4318956; 443736, 4318986; 443641, 4318983; 443570, 4318994; 443483, 4318971; 443458, 4318958; 443397, 4318918; 443328, 4318865; 443178, 4318738; 443109, 4318674; 443037, 4318624; 442967, 4318608; 442885, 4318606; 442699, 4318638; 442620, 4318655; 442467, 4318672; 442408, 4318660; 442315, 4318610; 442244, 4318555; 442160, 4318520; 442062, 4318514; 441938, 4318577; 441890, 4318588; 441779, 4318601; 441630, 4318649; 441567, 4318705; 441510, 4318761; 441473, 4318802; 441393, 4318859; 441322, 4318897; 441220, 4318935; 441210, 4318937; 441211, 4318944; 441097, 4319154; 441110, 4319262; 441376, 4319382; 441548, 4319528; 441586, 4319789; 441610, 4319952; 441726, 4320144; 441626, 4320204; 441605, 4320443; 441446, 4320538; 441421, 4320652; 441392, 4320784; 441453, 4321002; 441465, 4321230; 441649, 4321332; 441790, 4321409; 441972, 4321510; 442151, 4321497; 442234, 4321687; 442037, 4321827; 441843, 4321965; 441600, 4322137; 441466, 4322232; 441421, 4322386; 441355, 4322607; 441279, 4322863; 441395, 4323046; 441675, 4323230; 441859, 4323249; 442036, 4323268; 442207, 4323285; 442382, 4323304; 442488, 4323370; 442526, 4323453; 442556, 4323518; 442559, 4323524; 442685, 4323642; 442648, 4323741; 442624, 4323767; 442537, 4323819; 442502, 4323848; 442445, 4323939; 442423, 4324000; 442366, 4324068; 442265, 4324110; 442211, 4324148; 442115, 4324297; 442038, 4324354; 441891, 4324412; 441812, 4324457; 441744, 4324514; 441699, 4324585; 441689, 4324650; 441698, 4324821; 441689, 4324941; 441687, 4325062; 441694, 4325237; 441679, 4325320; 441635, 4325394; 441579, 4325453; 441468, 4325544; 441429, 4325585; 441345, 4325716; 441183, 4325884; 441123, 4325931; 441066, 4325960; 441036, 4325982; 440962, 4326063; 440888, 4326167; 440859, 4326234; 440831, 4326330; 440803, 4326404; 440750, 4326476; 440675, 4326520; 440625, 4326542; 440586, 4326596; 440570, 4326661; 440570, 4326702; 440536, 4326840; 440476, 4326920; 440403, 4326972; 440350, 4327002; 440312, 4327059; 440301, 4327147; 440300, 4327202; 440277, 4327277; 440242, 4327338; 440213, 4327405; 440188, 4327446; 440061, 4327629; 439988, 4327693; 439933, 4327717; 439890, 4327725; 439708, 4327726; 439692, 4327728; 439692, 4327729; 439445, 4328149; 440068, 4328514; 439644, 4328908; 439683, 4329245; 440160, 4329523; 440596, 4329543; 440581, 4329870; 440953, 4330178; 440714, 4330466; 440553, 4330661; 440497, 4330728; 440438, 4330800; 439981, 4330892; 439763, 4331130; 439425, 4331229; 439043, 4331342; 438830, 4331567; 438651, 4331756; 438652, 4331758; 438679, 4331822; 438804, 4332016; 438925, 4332232; 438952, 4332272; 438989, 4332346; 438993, 4332414; 438982, 4332486; 438994, 4332540; 439040, 4332605; 439182, 4332701; 439230, 4332737; 439323, 4332823; 439391, 4332878; 439452, 4332921; 439497, 4332934; 439568, 4332936; 439639, 4332935; 439819, 4332925; 439846, 4332947; 439856, 4332985; 439859, 4333020; 439872, 4333054; 439897, 4333093; 439923, 4333109; 440018, 4333117; 440057, 4333126; 440091, 4333143; 440116, 4333167; 440138, 4333200; 440186, 4333259; 440239, 4333303; 440308, 4333352; 440362, 4333375; 440449, 4333325; 440581, 4333268; 440782, 4333190; 441008, 4333071; 441100, 4333037; returning to 441259, 4332964.

(ii) Note: Map of Unit MEN-1 for the California red-legged frog follows:

BILLING CODE 4310-55-P

BILLING CODE 4310-55-C

(14) Unit SON-1: Sonoma County, California. From USGS 1:24,000 scale quadrangles Santa Rosa and Kenwood.

(i) Land bounded by the following UTM zone 10, NAD 1983 coordinates (E, N): 536171, 4251731; 536307, 4251324; 536231, 4250750; 536103, 4250388; 535718, 4250087; 535462, 4250177; 535251, 4250336; 534851, 4250494; 534579, 4250705; 534389, 4250676; 534308, 4250419; 534298, 4250194; 534123, 4250079; 534014, 4250245; 533794, 4250578; 533698, 4250593; 533655, 4250593; 533604, 4250593; 533547, 4250593; 533501, 4250593; 533472, 4250583; 533452, 4250531; 533362, 4250493; 533276, 4250470; 533146, 4250524; 532957, 4250539; 532814, 4250509; 532248, 4250796; 532309, 4250962; 532316, 4251120; 532497, 4251422; 532905, 4251407; 533025, 4251475; 533327, 4251437; 533608, 4251509; 533651, 4251648; 533772, 4252033; 533885, 4252267; 534180, 4252501; 534602, 4252689; 535068, 4252700; 535281, 4252546; 535824, 4252154; 536171, 4251731; returning to 536171, 4251731.

(ii) Note: Map of Units SON-1, SON-2 and SON-3 for the California red-legged frog follows:

BILLING CODE 4310-55-P

BILLING CODE 4310-55-C

(15) Unit SON-2: Sonoma County, California. From USGS 1:24,000 scale quadrangles Cotati and Glen Ellen.

(i) Land bounded by the following UTM zone 10, NAD 1983 coordinates (E, N): 535134, 4244142; 535187, 4244062; 535414, 4244211; 535622, 4244348; 535838, 4244353; 535971, 4244499; 536040, 4244436; 536232, 4244436; 536393, 4244436; 536529, 4244206; 536655, 4243995; 536702, 4243674; 536915, 4243541; 537129, 4243407; 537208, 4242969; 537300, 4242457; 537009, 4242237; 537062, 4241971; 537121, 4241673; 537315, 4241438; 537434, 4241052; 537510, 4240808; 538033, 4240573; 538274, 4240465; 538339, 4240214; 538406, 4239957; 538488, 4239638; 538778, 4239243; 538778, 4238977; 538645, 4238790; 538605, 4238404; 538446, 4238045; 538180, 4237686; 537754, 4237739; 537141, 4237816; 536704, 4237870; 536412, 4237907; 536152, 4237939; 536037, 4238617; 536104, 4238990; 536157, 4239291; 536104, 4239642; 535917, 4240041; 535829, 4240117; 535319, 4240068; 534653, 4240161; 534496, 4240364; 534786, 4240840; 534813, 4241186; 534543, 4241396; 534123, 4241722; 533855, 4241931; 533627, 4242108; 533414, 4242273; 533056, 4242396; 532833, 4242624; 532537, 4242609; 532391, 4242756; 532404, 4242899; 532418, 4243049; 532604, 4243222; 532817, 4243261; 533092, 4243313; 533360, 4243363; 533598, 4243408; 533841, 4243454; 534001, 4243740; 534135, 4243980; 534307, 4244086; 534476, 4244190; 534633, 4244287; 534706, 4244539; 534912, 4244479; 535039, 4244286; returning to 535134, 4244142.

(ii) Note: Unit SON-2 for California red-legged frog is depicted on the map in paragraph (14)(ii) of this entry.

(16) Unit SON-3: Sonoma and Marin Counties, California. From USGS 1:24,000 scale quadrangle Petaluma.

(i) Land bounded by the following UTM zone 10, NAD 1983 coordinates (E, N): 530959, 4230115; 531017, 4230050; 531099, 4229898; 531149, 4229843; 531149, 4229781; 531041, 4229699; 530868, 4229705; 530792, 4229641; 530642, 4229379; 530519, 4229239; 530335, 4229029; 530200, 4228874; 529979, 4228622; 529625, 4228730; 529454, 4228860; 529332, 4228701; 529138, 4228447; 529158, 4228306; 529190, 4228085; 529057, 4227870; 529113, 4227733; 529174, 4227580; 529301, 4227268; 529301, 4227091; 529301, 4226775; 529158, 4226681; 528922, 4226523; 528796, 4226223; 528732, 4225860; 528463, 4225746; 528322, 4225545; 528070, 4225434; 527675, 4225545; 527499, 4225858; 527091, 4226018; 526791, 4226136; 526618, 4226476; 526503, 4226700; 526555, 4227060; 526618, 4227501; 526791, 4227912; 527227, 4228272; 527391, 4228290; 527718, 4228328; 527972, 4228523; 528126, 4228641; 528306, 4228780; 528554, 4228970; 528535, 4229182; 528732, 4229458; 528890, 4229679; 529111, 4229695; 529317, 4230021; 529600, 4229995; 529918, 4229965; 530079, 4229860; 530155, 4229977; 530210, 4230039; 530275, 4230068; 530354, 4230068; 530421, 4230102; 530482, 4230085; 530542, 4230070; 530599, 4230091; 530681, 4230122; 530745, 4230123; 530880, 4230126; returning to 530959, 4230115.

(ii) Note: Unit SON-3 for California red-legged frog is depicted on the map in paragraph (14)(ii) of this entry.

(17) Unit NAP-1: Napa County, California. From USGS 1:24,000 scale quadrangle Capell Valley.

(i) Land bounded by the following UTM zone 10, NAD 1983 coordinates (E, N): 571668, 4256238; 571744, 4256065; 571928, 4256108; 572003, 4256097; 572230, 4255795; 572479, 4255665; 572879, 4255676; 573030, 4255503; 573063, 4255384; 573182, 4255341; 573495, 4255265; 573603, 4255200; 573798, 4255395; 573895, 4255427; 573949, 4255535; 574100, 4255568; 574187, 4255535; 574327, 4255427; 574468, 4255395; 574630, 4255460; 574835, 4255535; 575008, 4255481; 575116, 4255438; 575278, 4255406; 575408, 4255427; 575430, 4255244; 575408, 4255017; 575505, 4254962; 575592, 4254887; 575765, 4254649; 575808, 4254465; 575581, 4254195; 575408, 4254033; 575214, 4253957; 575333, 4253892; 575419, 4253676; 575321, 4253562; 575277, 4253557; 575222, 4253545; 575199, 4253536; 575049, 4253507; 574998, 4253484; 574972, 4253480; 574953, 4253482; 574899, 4253535; 574853, 4253488; 574781, 4253445; 574705, 4253431; 574585, 4253396; 574564, 4253396; 574538, 4253391; 574508, 4253381; 574463, 4253347; 574429, 4253311; 574411, 4253302; 574385, 4253312; 574367, 4253332; 574315, 4253408; 574301, 4253437; 574279, 4253463; 574229, 4253481; 574172, 4253490; 574146, 4253508; 574118, 4253536; 573980, 4253656; 573958, 4253683; 573855, 4253754; 573831, 4253776; 573804, 4253764; 573715, 4253702; 573684, 4253697; 573634, 4253728; 573609, 4253736; 573552, 4253734; 573530, 4253730; 573386, 4253663; 573213, 4253769; 573186, 4253794; 573145, 4253809; 573088, 4253822; 573050, 4253848; 572996, 4253897; 572972, 4253911; 572925, 4253921; 572909, 4253921; 572877, 4253917; 572820, 4253898; 572766, 4253856; 572740, 4253845; 572693, 4253839; 572602, 4253837; 572582, 4253833; 572454, 4253783; 572418, 4253774; 572359, 4253765; 572328, 4253749; 572299, 4253714; 572235, 4253614; 572104, 4253461; 572073, 4253465; 572055, 4253475; 572027, 4253479; 572022, 4253461; 572020, 4253414; 571863, 4253525; 571679, 4253644; 571495, 4253784; 571420, 4254011; 571420, 4254184; 571204, 4254368; 570923, 4254379; 570652, 4254390; 570339, 4254400; 570079, 4254573; 569885, 4254638; 569593, 4254725; 569474, 4254865; 569431, 4255060; 569388, 4255179; 569344, 4255298; 569290, 4255416; 569344, 4255525; 569463, 4255568; 569669, 4255568; 569852, 4255600; 570015, 4255676; 570047, 4255643; 570207, 4255556; 570241, 4255438; 570350, 4255341; 570458, 4255211; 570641, 4255200; 570706, 4255135; 570804, 4255060; 570858, 4255060; 570966, 4255049; 571020, 4255211; 571009, 4255330; 571031, 4255449; 571009, 4255589; 571009, 4255752; 571031, 4255870; 571085, 4255968; 571117, 4256141; 571301, 4256141; 571441, 4256227; 571560, 4256281; returning to 571668, 4256238.

(ii) Note: Map of Unit NAP-1 for the California red-legged frog follows:

BILLING CODE 4310-55-P

BILLING CODE 4310-55-C

(18) Unit MRN-1: Marin County, California. From USGS 1:24,000 scale quadrangles Valley Ford and Tomales.

(i) Land bounded by the following UTM zone 10, NAD 1983 coordinates (E, N): 503193, 4241015; 503243, 4241015; 503269, 4241015; 503294, 4241015; 503345, 4240990; 503421, 4240937; 503446, 4240937; 503471, 4240911; 503522, 4240886; 503598, 4240834; 503623, 4240809; 503673, 4240758; 503749, 4240705; 503774, 4240680; 503825, 4240629; 503876, 4240603; 503883, 4240603; 503901, 4240603; 503955, 4240585; 503977, 4240577; 504028, 4240577; 504066, 4240576; 504079, 4240576; 504104, 4240576; 504155, 4240550; 504205, 4240550; 504256, 4240551; 504307, 4240524; 504358, 4240498; 504408, 4240473; 504433, 4240447; 504433, 4240421; 504484, 4240396; 504526, 4240395; 504534, 4240395; 504584, 4240395; 504545, 4240350; 504559, 4240325; 504587, 4240298; 504632, 4240287; 504674, 4240281; 504733, 4240225; 504773, 4240205; 504835, 4240180; 504875, 4240159; 504870, 4240131; 504856, 4240085; 504851, 4240030; 504875, 4239981; 504874, 4239956; 504799, 4239893; 504770, 4239863; 504766, 4239840; 504808, 4239773; 504829, 4239728; 504844, 4239683; 504849, 4239640; 504862, 4239600; 504865, 4239574; 504837, 4239465; 504848, 4239428; 504848, 4239390; 504835, 4239306; 504861, 4239251; 504875, 4239178; 504896, 4239139; 504927, 4239113; 504955, 4239084; 504977, 4239052; 505010, 4238977; 505021, 4238940; 505039, 4238904; 505087, 4238842; 505101, 4238841; 505149, 4238852; 505172, 4238850; 505319, 4238813; 505493, 4238806; 505491, 4238754; 505516, 4238668; 505540, 4238621; 505567, 4238591; 505588, 4238546; 505591, 4238523; 505607, 4238469; 505626, 4238434; 505673, 4238392; 505730, 4238383; 505826, 4238379; 505878, 4238364; 505892, 4238351; 506091, 4238339; 506140, 4238393; 506289, 4238448; 506361, 4238482; 506439, 4238500; 506448, 4238501; 506551, 4238326; 506534, 4238136; 506504, 4237813; 506618, 4237620; 506578, 4237417; 506517, 4237109; 506545, 4236915; 506578, 4236697; 506625, 4236375; 506519, 4236287; 506329, 4236129; 506319, 4235919; 506299, 4235523; 506284, 4235230; 506524, 4234994; 506476, 4234811; 506401, 4234526; 506343, 4234300; 506456, 4234062; 506563, 4233836; 506695, 4233557; 506620, 4233316; 506401, 4233219; 506090, 4233083; 506063, 4233098; 506024, 4233103; 505987, 4233092; 505937, 4233091; 505891, 4233111; 505855, 4233143; 505805, 4233156; 505762, 4233160; 505726, 4233177; 505701, 4233218; 505672, 4233255; 505617, 4233258; 505553, 4233252; 505500, 4233242; 505447, 4233223; 505392, 4233214; 505316, 4233212; 505263, 4233227; 505203, 4233250; 505140, 4233280; 505106, 4233321; 505088, 4233359; 505073, 4233427; 505073, 4233479; 505061, 4233502; 505033, 4233530; 505012, 4233560; 504978, 4233595; 504897, 4233691; 504853, 4233737; 504837, 4233763; 504799, 4233854; 504749, 4233954; 504730, 4233985; 504676, 4234009; 504638, 4234010; 504594, 4234030; 504560, 4234061; 504529, 4234081; 504488, 4234115; 504455, 4234151; 504418, 4234208; 504373, 4234221; 504244, 4234161; 504206, 4234151; 504106, 4234143; 504066, 4234133; 503993, 4234103; 503945, 4234099; 503923, 4234085; 503885, 4234079; 503846, 4234112; 503816, 4234126; 503687, 4234290; 503645, 4234307; 503595, 4234295; 503562, 4234283; 503492, 4234276; 503462, 4234315; 503439, 4234355; 503409, 4234383; 503308, 4234448; 503302, 4234481; 503321, 4234593; 503306, 4234629; 503273, 4234648; 503241, 4234658; 503191, 4234688; 503164, 4234710; 503108, 4234736; 503006, 4234742; 502977, 4234755; 502949, 4234804; 502937, 4234837; 502925, 4234860; 502893, 4234891; 502885, 4234906; 502877, 4234943; 502874, 4234985; 502888, 4235086; 502871, 4235112; 502789, 4235123; 502733, 4235138; 502717, 4235160; 502720, 4235194; 502747, 4235307; 502766, 4235360; 502784, 4235437; 502764, 4235462; 502751, 4235461; 502706, 4235411; 502661, 4235385; 502625, 4235371; 502555, 4235379; 502509, 4235404; 502472, 4235435; 502445, 4235469; 502421, 4235493; 502381, 4235521; 502256, 4235562; 502223, 4235585; 502202, 4235619; 502146, 4235673; 502118, 4235693; 501997, 4235752; 502040, 4235744; 502113, 4235741; 502182, 4235744; 502222, 4235754; 502243, 4235770; 502251, 4235776; 502258, 4235784; 502310, 4235837; 502313, 4235853; 502356, 4235907; 502366, 4235931; 502370, 4235957; 502381, 4235973; 502387, 4236033; 502405, 4236072; 502415, 4236090; 502442, 4236119; 502467, 4236135; 502480, 4236149; 502487, 4236163; 502493, 4236237; 502507, 4236255; 502526, 4236262; 502563, 4236251; 502663, 4236196; 502696, 4236169; 502717, 4236147; 502725, 4236123; 502761, 4236072; 502806, 4236027; 502819, 4236001; 502841, 4235971; 502907, 4235905; 502945, 4235881; 502967, 4235872; 502995, 4235871; 503068, 4235837; 503090, 4235814; 503097, 4235802; 503105, 4235767; 503103, 4235727; 503078, 4235649; 503083, 4235625; 503097, 4235618; 503113, 4235643; 503146, 4235709; 503155, 4235758; 503149, 4235786; 503147, 4235834; 503136, 4235845; 503114, 4235859; 503048, 4235888; 502974, 4235907; 502966, 4235913; 502955, 4235929; 502911, 4235972; 502896, 4235997; 502869, 4236059; 502862, 4236116; 502848, 4236145; 502831, 4236162; 502771, 4236206; 502761, 4236225; 502751, 4236237; 502693, 4236274; 502667, 4236287; 502589, 4236310; 502582, 4236315; 502563, 4236320; 502508, 4236312; 502474, 4236284; 502448, 4236242; 502399, 4236199; 502354, 4236108; 502348, 4236024; 502334, 4235968; 502329, 4235925; 502304, 4235881; 502276, 4235846; 502236, 4235811; 502209, 4235794; 502202, 4235790; 502188, 4235785; 502180, 4235785; 502157, 4235792; 502104, 4235813; 502055, 4235853; 502051, 4235863; 502040, 4235870; 502037, 4235870; 502031, 4235871; 502028, 4235870; 501950, 4235840; 501938, 4235838; 501914, 4235841; 501907, 4235842; 501875, 4235838; 501865, 4235832; 501859, 4235829; 501842, 4235825; 501818, 4235821; 501778, 4235810; 501768, 4235804; 501753, 4235794; 501742, 4235793; 501729, 4235800; 501704, 4235800; 501678, 4235813; 501656, 4235811; 501647, 4235813; 501645, 4235828; 501648, 4235841; 501649, 4235845; 501648, 4235849; 501643, 4235851; 501620, 4235864; 501612, 4235870; 501608, 4235879; 501607, 4235881; 501604, 4235882; 501588, 4235889; 501573, 4235915; 501569, 4235927; 501565, 4235938; 501548, 4235939; 501545, 4235940; 501527, 4235955; 501527, 4235969; 501541, 4235990; 501544, 4236012; 501536, 4236019; 501529, 4236021; 501504, 4236013; 501498, 4236014; 501483, 4236032; 501470, 4236062; 501409, 4236114; 501387, 4236114; 501356, 4236104; 501331, 4236110; 501312, 4236115; 501302, 4236113; 501290, 4236107; 501279, 4236102; 501259, 4236104; 501257, 4236105; 501252, 4236104; 501244, 4236102; 501221, 4236110; 501209, 4236119; 501183, 4236116; 501173, 4236128; 501173, 4236147; 501157, 4236159; 501143, 4236179; 501139, 4236190; 501138, 4236218; 501128, 4236244; 501121, 4236253; 501090, 4236262; 501074, 4236286; 501085, 4236347; 501092, 4236358; 501103, 4236391; 501105, 4236418; 501097, 4236453; 501081, 4236467; 501048, 4236477; 501034, 4236502; 501035, 4236515; 501004, 4236566; 500985, 4236575; 500968, 4236596; 500968, 4236624; 500985, 4236671; 500988, 4236700; 500972, 4236765; 500990, 4236820; 500991, 4236836; 500982, 4236893; 500972, 4236920; 500956, 4236933; 500953, 4236945; 500946, 4236956; 500902, 4236997; 500827, 4237031; 500782, 4237034; 500766, 4237045; 500754, 4237048; 500723, 4237049; 500701, 4237066; 500660, 4237080; 500636, 4237108; 500625, 4237111; 500602, 4237128; 500587, 4237136; 500567, 4237161; 500559, 4237170; 500540, 4237178; 500517, 4237187; 500497, 4237210; 500486, 4237216; 500458, 4237221; 500446, 4237238; 500445, 4237252; 500438, 4237265; 500434, 4237305; 500427, 4237313; 500417, 4237351; 500395, 4237383; 500390, 4237410; 500393, 4237439; 500404, 4237463; 500401, 4237476; 500362, 4237513; 500334, 4237518; 500316, 4237538; 500291, 4237557; 500279, 4237575; 500277, 4237581; 500283, 4237604; 500302, 4237629; 500302, 4237634; 500294, 4237651; 500287, 4237695; 500262, 4237729; 500233, 4237754; 500227, 4237771; 500229, 4237784; 500253, 4237811; 500243, 4237856; 500248, 4237908; 500238, 4237936; 500206, 4237974; 500205, 4237975; 500164, 4238003; 500153, 4238007; 500113, 4238021; 500100, 4238031; 500064, 4238049; 500007, 4238078; 500002, 4238082; 499987, 4238094; 499989, 4238098; 499996, 4238117; 500005, 4238123; 500008, 4238125; 500010, 4238131; 500014, 4238139; 500014, 4238175; 500006, 4238239; 499979, 4238310; 499962, 4238343; 499874, 4238459; 499870, 4238470; 499864, 4238485; 499851, 4238501; 499848, 4238518; 499827, 4238542; 499804, 4238567; 499798, 4238582; 499796, 4238588; 499772, 4238613; 499645, 4238745; 499623, 4238771; 499619, 4238781; 499601, 4238795; 499639, 4238770; 499742, 4238649; 499813, 4238660; 499828, 4238677; 499836, 4238687; 499862, 4238720; 499881, 4238742; 499887, 4238752; 499894, 4238762; 499922, 4238792; 499948, 4238828; 499948, 4238829; 499999, 4238854; 500076, 4238905; 500122, 4238920; 500229, 4238954; 500331, 4238979; 500382, 4239003; 500483, 4239029; 500526, 4239050; 500535, 4239054; 500560, 4239079; 500586, 4239129; 500586, 4239133; 500586, 4239180; 500587, 4239256; 500562, 4239309; 500542, 4239391; 500537, 4239409; 500538, 4239486; 500538, 4239536; 500539, 4239551; 500539, 4239562; 500525, 4239590; 500513, 4239614; 500489, 4239664; 500463, 4239690; 500438, 4239717; 500439, 4239767; 500464, 4239818; 500490, 4239817; 500541, 4239843; 500564, 4239842; 500566, 4239842; 500591, 4239816; 500601, 4239816; 500617, 4239817; 500642, 4239816; 500693, 4239791; 500718, 4239738; 500768, 4239714; 500819, 4239738; 500871, 4239788; 500922, 4239864; 500973, 4239889; 500999, 4239914; 501024, 4239939; 501040, 4239955; 501050, 4239965; 501076, 4239990; 501127, 4240016; 501146, 4240015; 501203, 4240015; 501203, 4239990; 501254, 4240014; 501266, 4240014; 501279, 4240014; 501330, 4240013; 501355, 4240013; 501397, 4240013; 501406, 4240013; 501432, 4240038; 501458, 4240090; 501458, 4240165; 501458, 4240190; 501484, 4240241; 501484, 4240267; 501510, 4240291; 501535, 4240317; 501586, 4240316; 501637, 4240316; 501649, 4240316; 501659, 4240316; 501688, 4240315; 501709, 4240337; 501713, 4240341; 501739, 4240339; 501756, 4240328; 501815, 4240289; 501866, 4240289; 501891, 4240289; 501916, 4240288; 501993, 4240313; 502044, 4240337; 502120, 4240363; 502171, 4240363; 502247, 4240387; 502273, 4240387; 502298, 4240388; 502321, 4240364; 502324, 4240361; 502349, 4240335; 502374, 4240337; 502425, 4240310; 502450, 4240284; 502501, 4240258; 502526, 4240234; 502602, 4240208; 502627, 4240232; 502651, 4240248; 502704, 4240282; 502730, 4240307; 502730, 4240384; 502756, 4240434; 502756, 4240485; 502782, 4240536; 502816, 4240569; 502834, 4240586; 502860, 4240713; 502860, 4240717; 502860, 4240764; 502861, 4240815; 502861, 4240866; 502867, 4240891; 502871, 4240894; 502878, 4240899; 502913, 4240941; 502938, 4240968; 502964, 4240992; 502989, 4240992; 503066, 4241016; 503091, 4241016; 503100, 4241016; 503142, 4241016; 503157, 4241016; 503193, 4241015; 499347, 4238954; 499359, 4238943; 499345, 4238950; 499347, 4238954; 499589, 4238803; 499590, 4238802; 499534, 4238805; 499468, 4238840; 499453, 4238851; 499431, 4238879; 499464, 4238849; 499510, 4238824; 499589, 4238803

(ii) Note: Map of Units MRN-1, MRN-2 and MRN-3 for the California red-legged frog follows:

BILLING CODE 4310-55-P

BILLING CODE 4310-55-C

(19) Unit MRN-2: Marin County, California. From USGS 1:24,000 scale quadrangles Point Reyes NE, Inverness, and Petaluma.

(i) Land bounded by the following UTM zone 10, NAD 1983 coordinates (E, N): 512634, 4232438; 512662, 4232404; 512681, 4232407; 512698, 4232405; 512794, 4232328; 512825, 4232308; 512895, 4232271; 512927, 4232250; 512942, 4232244; 512975, 4232243; 513064, 4232286; 513098, 4232298; 513279, 4232406; 513325, 4232436; 513362, 4232450; 513452, 4232462; 513497, 4232455; 513610, 4232428; 513701, 4232401; 513734, 4232386; 513809, 4232322; 513872, 4232273; 513918, 4232251; 513934, 4232231; 513953, 4232187; 513956, 4232128; 513948, 4232059; 513939, 4232023; 513924, 4231990; 513867, 4231891; 513856, 4231862; 513849, 4231832; 513847, 4231791; 513851, 4231760; 513858, 4231739; 513860, 4231712; 513859, 4231644; 513855, 4231619; 513876, 4231594; 513885, 4231636; 513905, 4231703; 513925, 4231754; 513952, 4231792; 514013, 4231813; 514067, 4231818; 514387, 4231769; 514431, 4231744; 514466, 4231651; 514470, 4231597; 514482, 4231533; 514514, 4231516; 514620, 4231572; 514663, 4231619; 514694, 4231745; 514716, 4231792; 514738, 4231830; 514778, 4231868; 514822, 4231896; 514879, 4231915; 514935, 4231890; 514984, 4231862; 515034, 4231853; 515098, 4231846; 515164, 4231822; 515196, 4231785; 515215, 4231752; 515265, 4231703; 515305, 4231691; 515352, 4231696; 515413, 4231696; 515463, 4231671; 515480, 4231654; 515560, 4231646; 515639, 4231609; 515682, 4231600; 515700, 4231605; 515728, 4231638; 515773, 4231673; 515817, 4231732; 515857, 4231825; 515889, 4231847; 515908, 4231845; 515929, 4231815; 515942, 4231788; 515977, 4231770; 516011, 4231747; 516049, 4231654; 516062, 4231612; 516087, 4231574; 516124, 4231555; 516220, 4231529; 516258, 4231510; 516298, 4231481; 516369, 4231437; 516428, 4231423; 516551, 4231414; 516624, 4231372; 516655, 4231366; 516691, 4231364; 516733, 4231367; 516773, 4231353; 516875, 4231333; 516929, 4231317; 516965, 4231299; 517002, 4231285; 517058, 4231285; 517107, 4231304; 517346, 4231631; 517391, 4231679; 517422, 4231695; 517463, 4231696; 517486, 4231669; 517509, 4231650; 517588, 4231597; 517667, 4231496; 517692, 4231442; 517724, 4231337; 517741, 4231308; 517768, 4231273; 517767, 4231222; 517772, 4231173; 517787, 4231122; 517811, 4231094; 517847, 4231093; 517883, 4231084; 517902, 4231069; 517939, 4231058; 517980, 4231036; 518036, 4230984; 518083, 4230966; 518131, 4230991; 518200, 4231014; 518251, 4231023; 518308, 4231014; 518391, 4230977; 518419, 4230939; 518458, 4230902; 518499, 4230878; 518538, 4230841; 518602, 4230757; 518662, 4230687; 518805, 4230479; 518822, 4230448; 518823, 4230409; 518803, 4230335; 518810, 4230285; 518942, 4230355; 518992, 4230397; 519044, 4230432; 519095, 4230478; 519137, 4230506; 519175, 4230520; 519237, 4230507; 519275, 4230483; 519320, 4230466; 519367, 4230487; 519408, 4230521; 519517, 4230583; 519549, 4230605; 519594, 4230608; 519625, 4230596; 519685, 4230581; 519733, 4230582; 519775, 4230588; 519829, 4230580; 519862, 4230569; 519951, 4230525; 519999, 4230511; 520039, 4230477; 520091, 4230394; 520129, 4230359; 520194, 4230312; 520239, 4230269; 520238, 4230253; 520213, 4230209; 520162, 4230139; 520101, 4230072; 519980, 4229949; 519939, 4229916; 519902, 4229892; 519882, 4229855; 519867, 4229815; 519848, 4229664; 519840, 4229621; 519840, 4229575; 519846, 4229535; 519867, 4229461; 519868, 4229434; 519849, 4229396; 519814, 4229355; 519739, 4229280; 519692, 4229191; 519592, 4229059; 519555, 4229028; 519513, 4229017; 519476, 4228998; 519462, 4228977; 519454, 4228924; 519423, 4228881; 519397, 4228849; 519378, 4228818; 519360, 4228768; 519338, 4228688; 519315, 4228630; 519260, 4228541; 519234, 4228505; 519179, 4228408; 519154, 4228369; 519061, 4228234; 519042, 4228213; 518989, 4228192; 518884, 4228137; 518799, 4228080; 518656, 4227998; 518524, 4227945; 518464, 4227912; 518370, 4227840; 518322, 4227831; 518197, 4227891; 518123, 4227935; 518076, 4227960; 518039, 4227972; 517984, 4228020; 517943, 4228049; 517881, 4228056; 517829, 4228052; 517694, 4228069; 517641, 4228062; 517619, 4228050; 517592, 4228029; 517552, 4228023; 517504, 4228026; 517456, 4228011; 517400, 4227982; 517309, 4227916; 517268, 4227880; 517208, 4227795; 517186, 4227771; 517189, 4227691; 517199, 4227646; 517206, 4227631; 517246, 4227578; 517250, 4227548; 517245, 4227487; 517217, 4227335; 517224, 4227253; 517185, 4227094; 517194, 4227043; 517202, 4227018; 517194, 4226857; 517172, 4226789; 517174, 4226718; 517183, 4226684; 517211, 4226624; 517260, 4226469; 517280, 4226417; 517291, 4226384; 517313, 4226266; 517345, 4226172; 517375, 4226134; 517412, 4226073; 517540, 4225917; 517664, 4225822; 517778, 4225812; 517820, 4225790; 517887, 4225783; 517961, 4225789; 517996, 4225774; 518023, 4225754; 518052, 4225720; 518084, 4225646; 518119, 4225599; 518185, 4225584; 518220, 4225563; 518260, 4225558; 518324, 4225544; 518363, 4225531; 518404, 4225500; 518468, 4225441; 518498, 4225403; 518528, 4225408; 518565, 4225419; 518610, 4225441; 518644, 4225440; 518691, 4225430; 518724, 4225417; 518768, 4225408; 518804, 4225419; 518841, 4225421; 518885, 4225402; 518926, 4225401; 518968, 4225411; 519012, 4225450; 519092, 4225528; 519129, 4225553; 519190, 4225560; 519233, 4225531; 519338, 4225522; 519388, 4225502; 519427, 4225466; 519473, 4225382; 519507, 4225352; 519533, 4225342; 519594, 4225350; 519641, 4225335; 519683, 4225310; 519716, 4225284; 519749, 4225266; 519810, 4225258; 519877, 4225274; 519939, 4225298; 519974, 4225319; 520012, 4225335; 520064, 4225362; 520184, 4225514; 520277, 4225592; 520312, 4225608; 520517, 4225679; 520561, 4225703; 520630, 4225713; 520690, 4225677; 520728, 4225644; 520834, 4225600; 520875, 4225566; 520910, 4225546; 520946, 4225549; 520992, 4225569; 521041, 4225615; 521097, 4225648; 521150, 4225647; 521212, 4225596; 521237, 4225541; 521266, 4225514; 521483, 4225374; 521535, 4225362; 521560, 4225362; 521585, 4225395; 521593, 4225446; 521572, 4225609; 521576, 4225682; 521628, 4225793; 521643, 4225807; 521667, 4225821; 521696, 4225824; 521749, 4225822; 521831, 4225808; 521905, 4225813; 521971, 4225822; 522000, 4225831; 522029, 4225860; 522043, 4225897; 522041, 4225912; 522054, 4225911; 522097, 4225938; 522148, 4225958; 522179, 4225963; 522243, 4225950; 522317, 4225921; 522417, 4225897; 522456, 4225903; 522488, 4225916; 522688, 4226010; 522749, 4226030; 522803, 4226040; 522853, 4226043; 522924, 4226034; 523034, 4226041; 523183, 4225960; 523222, 4225933; 523305, 4225859; 523350, 4225840; 523473, 4225826; 523554, 4225753; 523698, 4225705; 523900, 4225560; 523999, 4225413; 524219, 4225251; 524249, 4225236; 524366, 4225189; 524417, 4225181; 524447, 4225213; 524508, 4225322; 524542, 4225340; 524595, 4225339; 524643, 4225314; 524700, 4225275; 524766, 4225223; 524810, 4225202; 524907, 4225196; 524934, 4225191; 525014, 4225167; 525064, 4225131; 525135, 4225139; 525171, 4225171; 525224, 4225249; 525269, 4225297; 525301, 4225311; 525386, 4225307; 525409, 4225321; 525437, 4225331; 525485, 4225339; 525529, 4225359; 525627, 4225413; 525703, 4225445; 525742, 4225446; 525812, 4225413; 525859, 4225363; 525981, 4225301; 526032, 4225226; 526055, 4225154; 526083, 4225122; 526161, 4225095; 526234, 4225077; 526277, 4225058; 526307, 4225022; 526328, 4224957; 526323, 4224793; 526330, 4224726; 526379, 4224635; 526452, 4224537; 526308, 4224506; 526263, 4224500; 526214, 4224486; 526144, 4224451; 526042, 4224410; 526002, 4224409; 525955, 4224419; 525929, 4224415; 525916, 4224401; 525909, 4224387; 525873, 4224347; 525842, 4224332; 525811, 4224326; 525748, 4224320; 525715, 4224336; 525667, 4224371; 525619, 4224419; 525586, 4224443; 525534, 4224449; 525296, 4224366; 525232, 4224377; 525206, 4224371; 525150, 4224295; 525133, 4224279; 525087, 4224261; 525019, 4224259; 524966, 4224252; 524936, 4224243; 524839, 4224204; 524768, 4224210; 524728, 4224224; 524694, 4224231; 524671, 4224229; 524642, 4224200; 524621, 4224150; 524597, 4224126; 524546, 4224086; 524535, 4224079; 524437, 4224038; 524376, 4224017; 524293, 4223974; 524230, 4223937; 524201, 4223938; 524153, 4223951; 524086, 4223977; 524040, 4223991; 523929, 4224002; 523845, 4224016; 523796, 4224014; 523743, 4223997; 523711, 4223981; 523685, 4223952; 523628, 4223849; 523610, 4223824; 523575, 4223803; 523518, 4223712; 523498, 4223688; 523469, 4223673; 523434, 4223663; 523375, 4223665; 523184, 4223695; 523161, 4223685; 523098, 4223624; 523023, 4223532; 523000, 4223513; 522965, 4223495; 522858, 4223457; 522819, 4223448; 522767, 4223440; 522714, 4223445; 522613, 4223424; 522565, 4223385; 522407, 4223176; 522329, 4223151; 522311, 4223143; 522295, 4223130; 522268, 4223100; 522258, 4223101; 522271, 4222993; 522264, 4222890; 522271, 4222843; 522339, 4222791; 522364, 4222760; 522387, 4222725; 522399, 4222700; 522427, 4222613; 522445, 4222581; 522473, 4222545; 522542, 4222472; 522555, 4222444; 522558, 4222424; 522577, 4222288; 522600, 4222189; 522604, 4222161; 522613, 4222102; 522607, 4222048; 522588, 4222018; 522559, 4221996; 522487, 4221970; 522407, 4221951; 522375, 4221938; 522343, 4221918; 522308, 4221884; 522278, 4221848; 522236, 4221786; 522129, 4221694; 522074, 4221660; 522055, 4221641; 522031, 4221605; 522024, 4221585; 522014, 4221491; 522004, 4221429; 521995, 4221403; 521969, 4221349; 521997, 4221158; 521996, 4221125; 521990, 4221082; 521978, 4221065; 521951, 4221039; 521897, 4220996; 521814, 4220899; 521801, 4220898; 521776, 4220885; 521763, 4220864; 521766, 4220838; 521791, 4220777; 521793, 4220754; 521853, 4220582; 521855, 4220541; 521832, 4220475; 521805, 4220422; 521793, 4220391; 521794, 4220305; 521771, 4220253; 521766, 4220221; 521768, 4220166; 521774, 4220127; 521784, 4220067; 521835, 4220038; 521848, 4220035; 521896, 4219981; 521912, 4219953; 521922, 4219925; 521924, 4219896; 521913, 4219877; 521848, 4219817; 521824, 4219825; 521801, 4219822; 521775, 4219812; 521755, 4219800; 521722, 4219755; 521669, 4219708; 521656, 4219700; 521632, 4219691; 521494, 4219662; 521460, 4219588; 521447, 4219572; 521424, 4219531; 521416, 4219489; 521401, 4219439; 521368, 4219377; 521338, 4219349; 521240, 4219304; 521152, 4219225; 521114, 4219151; 521093, 4219133; 521001, 4219070; 520978, 4219044; 520955, 4219028; 520927, 4219021; 520895, 4219004; 520863, 4218981; 520802, 4218928; 520749, 4218867; 520702, 4218807; 520678, 4218787; 520652, 4218784; 520578, 4218796; 520541, 4218809; 520443, 4218861; 520425, 4218863; 520378, 4218869; 520247, 4218872; 520173, 4218858; 520051, 4218826; 520018, 4218822; 519929, 4218819; 519872, 4218838; 519856, 4218865; 519852, 4218970; 519845, 4218996; 519782, 4219063; 519722, 4219105; 519690, 4219117; 519665, 4219131; 519642, 4219152; 519622, 4219184; 519607, 4219228; 519590, 4219263; 519555, 4219312; 519535, 4219386; 519519, 4219421; 519413, 4219515; 519358, 4219584; 519303, 4219619; 519271, 4219665; 519264, 4219684; 519233, 4219697; 519223, 4219692; 519207, 4219697; 519164, 4219690; 519036, 4219681; 518945, 4219663; 518902, 4219651; 518846, 4219667; 518801, 4219673; 518775, 4219672; 518740, 4219680; 518701, 4219690; 518666, 4219711; 518634, 4219717; 518566, 4219720; 518312, 4219719; 518147, 4219746; 518094, 4219759; 518048, 4219780; 517999, 4219816; 517958, 4219826; 517897, 4219837; 517768, 4219852; 517719, 4219868; 517653, 4219916; 517553, 4219914; 517423, 4219902; 517287, 4219900; 517225, 4219917; 517210, 4219961; 517195, 4220054; 517183, 4220084; 517154, 4220109; 517089, 4220156; 517045, 4220221; 517009, 4220242; 516989, 4220267; 516987, 4220313; 517004, 4220376; 517023, 4220409; 517074, 4220482; 517103, 4220544; 517109, 4220599; 517122, 4220629; 517181, 4220694; 517208, 4220729; 517253, 4220802; 517292, 4220885; 517300, 4220933; 517336, 4220989; 517367, 4221065; 517360, 4221093; 517312, 4221131; 517290, 4221165; 517214, 4221225; 517182, 4221254; 517129, 4221341; 517095, 4221365; 517036, 4221398; 517006, 4221371; 516939, 4221344; 516768, 4221243; 516693, 4221247; 516623, 4221181; 516601, 4221165; 516444, 4221115; 516316, 4221096; 516195, 4221104; 516150, 4221102; 516078, 4221081; 516021, 4221057; 515956, 4221049; 515835, 4221072; 515708, 4221067; 515673, 4221081; 515608, 4221077; 515542, 4221083; 515503, 4221081; 515460, 4221071; 515417, 4221079; 515380, 4221101; 515311, 4221092; 515250, 4221104; 515169, 4221112; 515114, 4221102; 515084, 4221079; 515050, 4221037; 515014, 4220983; 514966, 4220953; 514867, 4220920; 514832, 4220875; 514810, 4220818; 514780, 4220772; 514764, 4220701; 514755, 4220678; 514707, 4220683; 514664, 4220682; 514632, 4220667; 514594, 4220665; 514575, 4220684; 514548, 4220767; 514533, 4220797; 514505, 4220831; 514492, 4220871; 514469, 4220991; 514467, 4221025; 514435, 4221117; 514430, 4221146; 514440, 4221183; 514447, 4221227; 514439, 4221253; 514423, 4221278; 514382, 4221308; 514360, 4221329; 514351, 4221370; 514384, 4221423; 514396, 4221451; 514400, 4221467; 514397, 4221492; 514310, 4221619; 514268, 4221673; 514235, 4221701; 514192, 4221718; 514071, 4221758; 514037, 4221784; 513978, 4221885; 513967, 4221995; 513977, 4222063; 513980, 4222104; 513976, 4222125; 513962, 4222159; 513911, 4222223; 513849, 4222325; 513829, 4222366; 513797, 4222450; 513771, 4222562; 513714, 4222637; 513695, 4222672; 513668, 4222778; 513651, 4222818; 513628, 4222855; 513572, 4222850; 513507, 4222758; 513466, 4222715; 513416, 4222692; 513352, 4222702; 513297, 4222704; 513232, 4222692; 513189, 4222674; 513134, 4222645; 513069, 4222596; 513011, 4222573; 512969, 4222540; 512940, 4222508; 512740, 4222361; 512676, 4222372; 512600, 4222391; 512549, 4222385; 512449, 4222344; 512386, 4222351; 512341, 4222367; 512292, 4222366; 512188, 4222336; 512112, 4222334; 512079, 4222355; 512046, 4222390; 512022, 4222430; 511992, 4222496; 511964, 4222543; 511889, 4222607; 511866, 4222643; 511848, 4222691; 511841, 4222744; 511840, 4222831; 511826, 4222861; 511787, 4222878; 511734, 4222895; 511675, 4222929; 511527, 4223048; 511506, 4223080; 511480, 4223131; 511453, 4223172; 511437, 4223216; 511442, 4223236; 511457, 4223263; 511482, 4223285; 511521, 4223311; 511547, 4223360; 511544, 4223402; 511535, 4223431; 511521, 4223457; 511510, 4223499; 511503, 4223547; 511501, 4223757; 511511, 4223804; 511553, 4223915; 511579, 4224035; 511620, 4224148; 511621, 4224264; 511629, 4224296; 511658, 4224343; 511699, 4224387; 511786, 4224456; 511810, 4224487; 511822, 4224510; 511844, 4224569; 511874, 4224719; 511873, 4224759; 511867, 4224786; 511853, 4224821; 511854, 4224868; 511867, 4224917; 511886, 4224952; 511902, 4224965; 511894, 4225013; 511894, 4225053; 511896, 4225082; 511904, 4225113; 511920, 4225144; 511986, 4225221; 512014, 4225265; 512071, 4225338; 512108, 4225434; 512128, 4225474; 512157, 4225513; 512204, 4225552; 512252, 4225563; 512291, 4225553; 512337, 4225573; 512346, 4225613; 512350, 4225665; 512362, 4225698; 512368, 4225726; 512369, 4225770; 512356, 4225792; 512428, 4225869; 512457, 4225918; 512529, 4226054; 512555, 4226085; 512591, 4226107; 512660, 4226098; 512696, 4226114; 512722, 4226139; 512756, 4226159; 512785, 4226156; 512859, 4226140; 512952, 4226152; 513037, 4226157; 513081, 4226191; 513151, 4226267; 513287, 4226362; 513530, 4226484; 513607, 4226528; 513655, 4226572; 513677, 4226611; 513698, 4226666; 513718, 4226758; 513728, 4226781; 513769, 4226828; 513811, 4226843; 513865, 4226837; 513941, 4226836; 513982, 4226839; 514034, 4226863; 514078, 4226893; 514152, 4226973; 514206, 4227015; 514253, 4227043; 514299, 4227136; 514378, 4227212; 514392, 4227258; 514384, 4227309; 514389, 4227351; 514391, 4227414; 514377, 4227463; 514371, 4227507; 514369, 4227563; 514375, 4227603; 514393, 4227680; 514392, 4227767; 514402, 4227852; 514388, 4227874; 514372, 4227882; 514335, 4227906; 514264, 4227939; 514142, 4227981; 514101, 4228014; 514068, 4228051; 514034, 4228054; 513987, 4228072; 513951, 4228114; 513861, 4228153; 513829, 4228182; 513610, 4228246; 513532, 4228309; 513457, 4228302; 513406, 4228306; 513362, 4228319; 513228, 4228439; 513192, 4228457; 513148, 4228470; 513114, 4228493; 513065, 4228511; 513015, 4228514; 512926, 4228538; 512886, 4228567; 512853, 4228582; 512822, 4228591; 512800, 4228634; 512730, 4228709; 512709, 4228749; 512700, 4228808; 512692, 4228880; 512675, 4228932; 512618, 4229002; 512603, 4229044; 512598, 4229082; 512561, 4229119; 512519, 4229140; 512474, 4229154; 512424, 4229178; 512329, 4229289; 512295, 4229322; 512261, 4229363; 512278, 4229405; 512328, 4229469; 512328, 4229507; 512295, 4229596; 512265, 4229654; 512252, 4229688; 512240, 4229727; 512245, 4229751; 512309, 4229812; 512602, 4230002; 512645, 4230037; 512761, 4230247; 512800, 4230302; 512816, 4230363; 512802, 4230436; 512774, 4230537; 512766, 4230619; 512777, 4230732; 512768, 4230774; 512753, 4230824; 512717, 4230922; 512699, 4231006; 512685, 4231053; 512652, 4231117; 512590, 4231193; 512575, 4231242; 512559, 4231357; 512395, 4231656; 512387, 4231685; 512303, 4231775; 512284, 4231791; 512254, 4231827; 512234, 4231854; 512219, 4231885; 512208, 4231918; 512245, 4232188; 512249, 4232203; 512365, 4232457; 512525, 4232501; 512547, 4232488; 512578, 4232478; 512598, 4232460; returning to 512634, 4232438.

(ii) Note: Unit MRN-2 for California red-legged frog is depicted on the map in paragraph (18)(ii) of this entry.

(20) Unit MRN-3: Marin County, California. From USGS 1:24,000 scale quadrangles Drakes Bay and Inverness.

(i) Land bounded by the following UTM zone 10, NAD 1983 coordinates (E, N): 510133, 4216765; 510173, 4216617; 510207, 4216519; 510221, 4216478; 510235, 4216457; 510270, 4216372; 510239, 4216321; 510249, 4216204; 510255, 4216187; 510265, 4216159; 510281, 4216124; 510334, 4216085; 510346, 4216077; 510368, 4216064; 510404, 4216036; 510456, 4215972; 510513, 4215936; 510528, 4215924; 510566, 4215894; 510591, 4215868; 510629, 4215830; 510646, 4215821; 510660, 4215814; 510683, 4215808; 510730, 4215795; 510767, 4215777; 510817, 4215747; 510849, 4215727; 510859, 4215708; 510865, 4215696; 510863, 4215590; 510877, 4215571; 510944, 4215590; 510978, 4215595; 510992, 4215605; 510993, 4215605; 511006, 4215619; 511057, 4215680; 511072, 4215673; 511096, 4215652; 511122, 4215630; 511147, 4215593; 511156, 4215550; 511161, 4215478; 511210, 4215387; 511256, 4215351; 511275, 4215332; 511314, 4215262; 511330, 4215234; 511374, 4215173; 511395, 4215115; 511408, 4215093; 511446, 4215044; 511518, 4214941; 511530, 4214911; 511539, 4214870; 511553, 4214727; 511565, 4214698; 511580, 4214681; 511602, 4214667; 511645, 4214656; 511676, 4214648; 511702, 4214633; 511730, 4214616; 511750, 4214608; 511785, 4214601; 511801, 4214601; 511807, 4214601; 511887, 4214613; 511919, 4214612; 512027, 4214589; 512054, 4214589; 512140, 4214618; 512266, 4214637; 512286, 4214643; 512332, 4214656; 512398, 4214703; 512415, 4214708; 512449, 4214698; 512492, 4214667; 512515, 4214657; 512579, 4214649; 512612, 4214630; 512707, 4214574; 512795, 4214553; 512808, 4214553; 512816, 4214548; 512831, 4214553; 512844, 4214553; 512849, 4214552; 512889, 4214540; 512963, 4214501; 513029, 4214420; 513058, 4214339; 513069, 4214199; 513116, 4214029; 513176, 4214012; 513217, 4214012; 513294, 4214029; 513330, 4214032; 513416, 4214031; 513450, 4214016; 513512, 4213950; 513576, 4213953; 513736, 4214119; 513750, 4214164; 513770, 4214209; 513819, 4214284; 513846, 4214332; 513925, 4214400; 514046, 4214466; 514083, 4214479; 514141, 4214492; 514240, 4214562; 514264, 4214595; 514285, 4214639; 514294, 4214681; 514306, 4214713; 514331, 4214759; 514366, 4214810; 514381, 4214861; 514389, 4214940; 514400, 4214999; 514416, 4215034; 514445, 4215080; 514460, 4215098; 514472, 4215130; 514458, 4215183; 514419, 4215273; 514384, 4215371; 514317, 4215495; 514290, 4215537; 514257, 4215608; 514244, 4215653; 514249, 4215684; 514266, 4215700; 514290, 4215713; 514317, 4215712; 514365, 4215687; 514471, 4215568; 514565, 4215482; 514591, 4215435; 514619, 4215351; 514642, 4215319; 514682, 4215291; 514712, 4215281; 514725, 4215282; 514727, 4215308; 514707, 4215319; 514692, 4215333; 514681, 4215391; 514665, 4215420; 514642, 4215503; 514617, 4215546; 514603, 4215579; 514602, 4215604; 514621, 4215694; 514637, 4215676; 514674, 4215619; 514729, 4215521; 514743, 4215488; 514779, 4215441; 514809, 4215415; 514943, 4215283; 515018, 4215186; 515030, 4215159; 515065, 4215050; 515077, 4215033; 515089, 4215020; 515154, 4215004; 515232, 4214981; 515342, 4214897; 515288, 4214710; 515275, 4214564; 515381, 4214375; 515530, 4214195; 515610, 4214098; 515711, 4213988; 515746, 4213733; 515733, 4213543; 515733, 4213354; 515750, 4213055; 515781, 4212901; 515830, 4212870; 516094, 4212870; 516367, 4212892; 516503, 4212932; 516644, 4213042; 516701, 4213015; 516860, 4212910; 516926, 4212822; 517040, 4212830; 517088, 4212791; 517172, 4212791; 517374, 4212518; 517264, 4212465; 517339, 4212311; 517414, 4212254; 517480, 4212267; 517595, 4212205; 517661, 4212078; 517787, 4212085; 517933, 4212205; 518079, 4212282; 518165, 4212428; 518260, 4212635; 518397, 4212798; 518544, 4212979; 518647, 4213082; 518683, 4213112; 518705, 4213115; 518766, 4213112; 518803, 4213102; 518843, 4213066; 518857, 4213040; 518881, 4213008; 518927, 4212967; 518988, 4212944; 519076, 4212935; 519118, 4212921; 519159, 4212887; 519224, 4212768; 519279, 4212681; 519291, 4212649; 519291, 4212623; 519280, 4212589; 519237, 4212553; 519210, 4212517; 519199, 4212489; 519194, 4212462; 519196, 4212418; 519203, 4212403; 519235, 4212392; 519289, 4212380; 519311, 4212372; 519336, 4212358; 519353, 4212325; 519352, 4212286; 519335, 4212205; 519349, 4212132; 519401, 4212089; 519434, 4212090; 519504, 4212103; 519571, 4212073; 519601, 4212056; 519628, 4212046; 519674, 4212013; 519724, 4211959; 519751, 4211940; 519904, 4211857; 519990, 4211761; 520017, 4211742; 520105, 4211694; 520171, 4211644; 520175, 4211626; 520079, 4211463; 520055, 4211392; 520030, 4211190; 520061, 4211084; 520072, 4210968; 520082, 4210933; 520097, 4210910; 520131, 4210891; 520201, 4210868; 520318, 4210859; 520363, 4210848; 520532, 4210796; 520586, 4210785; 520613, 4210787; 520635, 4210793; 520694, 4210797; 520779, 4210791; 520815, 4210783; 520850, 4210769; 520892, 4210704; 520893, 4210616; 520881, 4210547; 520877, 4210464; 520870, 4210425; 520861, 4210397; 520848, 4210368; 520834, 4210346; 520764, 4210245; 520721, 4210162; 520698, 4210132; 520649, 4210089; 520629, 4210067; 520600, 4210028; 520596, 4210014; 520594, 4209984; 520590, 4209949; 520603, 4209925; 520622, 4209910; 520646, 4209898; 520665, 4209894; 520786, 4209888; 520887, 4209871; 520918, 4209858; 520966, 4209829; 521006, 4209793; 521031, 4209751; 521041, 4209527; 521004, 4209479; 521004, 4209454; 521031, 4209371; 521079, 4209302; 521114, 4209240; 521118, 4209142; 521102, 4209058; 521100, 4208988; 521104, 4208959; 521121, 4208928; 521141, 4208913; 521171, 4208914; 521339, 4208949; 521398, 4208931; 521419, 4208921; 521461, 4208889; 521486, 4208844; 521514, 4208779; 521580, 4208644; 521598, 4208620; 521501, 4208595; 521346, 4208500; 521182, 4208492; 521045, 4208492; 520950, 4208483; 520830, 4208406; 520727, 4208354; 520581, 4208242; 520374, 4208079; 520220, 4208045; 520082, 4207941; 519936, 4207838; 519885, 4207813; 519661, 4207589; 519438, 4207400; 519240, 4207065; 519154, 4206936; 519025, 4206781; 518852, 4206795; 518850, 4206807; 518859, 4206929; 518859, 4206992; 518852, 4207067; 518825, 4207242; 518779, 4207341; 518749, 4207380; 518676, 4207455; 518633, 4207493; 518611, 4207554; 518590, 4207597; 518562, 4207624; 518535, 4207641; 518303, 4207765; 518278, 4207794; 518263, 4207825; 518255, 4207851; 518232, 4207858; 518185, 4207880; 518165, 4207884; 518049, 4207875; 518013, 4207892; 517987, 4207920; 517973, 4207941; 517923, 4208038; 517908, 4208057; 517861, 4208082; 517839, 4208084; 517771, 4208080; 517746, 4208071; 517719, 4208057; 517685, 4208034; 517658, 4208011; 517601, 4207985; 517558, 4207982; 517438, 4208000; 517389, 4208000; 517354, 4207996; 517293, 4207969; 517236, 4207935; 517177, 4207892; 517154, 4207881; 517125, 4207882; 517073, 4207928; 517034, 4207970; 516986, 4208000; 516970, 4208017; 516953, 4208069; 516934, 4208103; 516925, 4208111; 516879, 4208124; 516780, 4208118; 516740, 4208132; 516653, 4208173; 516600, 4208183; 516577, 4208183; 516549, 4208178; 516482, 4208145; 516429, 4208101; 516324, 4208023; 516215, 4207960; 516144, 4207928; 516078, 4207893; 516056, 4207892; 516028, 4207896; 516051, 4207744; 516053, 4207745; 516070, 4207700; 516061, 4207667; 516057, 4207648; 516054, 4207608; 516049, 4207550; 516044, 4207535; 516038, 4207514; 516021, 4207494; 515864, 4207426; 515826, 4207401; 515729, 4207293; 515664, 4207236; 515640, 4207206; 515631, 4207163; 515624, 4207125; 515598, 4207042; 515607, 4206879; 515605, 4206842; 515598, 4206830; 515590, 4206816; 515523, 4206778; 515457, 4206749; 515363, 4206698; 515322, 4206667; 515193, 4206520; 515168, 4206483; 515147, 4206459; 515113, 4206403; 515103, 4206373; 515110, 4206315; 515096, 4206245; 515080, 4206186; 515081, 4206138; 515096, 4206083; 515096, 4206019; 515091, 4205980; 515086, 4205937; 515085, 4205903; 515084, 4205876; 515065, 4205839; 515047, 4205861; 515018, 4205887; 515008, 4205897; 514993, 4205909; 514978, 4205922; 514958, 4205940; 514947, 4205950; 514932, 4205970; 514919, 4205978; 514886, 4206015; 514843, 4206052; 514826, 4206072; 514812, 4206086; 514811, 4206087; 514810, 4206087; 514795, 4206108; 514757, 4206137; 514716, 4206176; 514694, 4206195; 514667, 4206219; 514648, 4206235; 514578, 4206289; 514522, 4206322; 514507, 4206332; 514492, 4206340; 514475, 4206360; 514451, 4206376; 514412, 4206396; 514410, 4206398; 514378, 4206414; 514378, 4206414; 514368, 4206420; 514367, 4206421; 514367, 4206421; 514349, 4206439; 514347, 4206441; 514345, 4206443; 514340, 4206449; 514333, 4206452; 514312, 4206469; 514304, 4206476; 514281, 4206497; 514259, 4206513; 514240, 4206527; 514216, 4206542; 514209, 4206549; 514209, 4206549; 514209, 4206549; 514208, 4206549; 514190, 4206564; 514189, 4206564; 514171, 4206585; 514143, 4206605; 514128, 4206613; 514126, 4206615; 514122, 4206616; 514119, 4206618; 514095, 4206628; 514069, 4206633; 514045, 4206637; 514035, 4206638; 514026, 4206642; 514016, 4206652; 514004, 4206675; 513992, 4206690; 513971, 4206710; 513959, 4206720; 513951, 4206730; 513934, 4206746; 513925, 4206752; 513895, 4206775; 513887, 4206785; 513878, 4206790; 513826, 4206840; 513810, 4206849; 513786, 4206853; 513766, 4206867; 513748, 4206870; 513741, 4206881; 513729, 4206890; 513718, 4206889; 513709, 4206882; 513704, 4206877; 513692, 4206879; 513684, 4206887; 513676, 4206907; 513658, 4206930; 513642, 4206947; 513619, 4206959; 513599, 4206968; 513585, 4206968; 513569, 4206968; 513557, 4206968; 513539, 4206972; 513516, 4206989; 513468, 4207041; 513468, 4207041; 513443, 4207063; 513410, 4207091; 513392, 4207105; 513391, 4207106; 513389, 4207107; 513373, 4207120; 513363, 4207126; 513330, 4207150; 513313, 4207156; 513295, 4207167; 513284, 4207176; 513270, 4207182; 513232, 4207205; 513232, 4207205; 513226, 4207209; 513192, 4207236; 513183, 4207245; 513168, 4207255; 513146, 4207270; 513131, 4207279; 513122, 4207288; 513115, 4207297; 513096, 4207325; 513095, 4207326; 513082, 4207350; 513069, 4207356; 513041, 4207368; 512986, 4207407; 512966, 4207417; 512960, 4207423; 512959, 4207423; 512930, 4207449; 512901, 4207471; 512862, 4207491; 512860, 4207492; 512832, 4207509; 512802, 4207532; 512800, 4207534; 512777, 4207559; 512773, 4207562; 512772, 4207564; 512760, 4207574; 512746, 4207583; 512713, 4207601; 512658, 4207631; 512625, 4207655; 512595, 4207687; 512565, 4207687; 512544, 4207693; 512538, 4207696; 512504, 4207722; 512465, 4207741; 512446, 4207756; 512389, 4207787; 512360, 4207799; 512346, 4207804; 512204, 4207861; 512155, 4207890; 512130, 4207906; 512116, 4207913; 512061, 4207939; 512026, 4207956; 511980, 4207978; 511961, 4207985; 511937, 4207996; 511901, 4208015; 511865, 4208035; 511835, 4208055; 511784, 4208071; 511737, 4208092; 511715, 4208099; 511713, 4208099; 511711, 4208100; 511699, 4208103; 511690, 4208107; 511658, 4208126; 511623, 4208137; 511596, 4208144; 511567, 4208156; 511538, 4208167; 511522, 4208174; 511438, 4208217; 511402, 4208226; 511373, 4208238; 511365, 4208239; 511359, 4208242; 511309, 4208257; 511298, 4208263; 511286, 4208265; 511285, 4208265; 511203, 4208297; 511139, 4208329; 511131, 4208333; 511111, 4208342; 511065, 4208359; 511035, 4208368; 510998, 4208380; 510874, 4208414; 510874, 4208414; 510854, 4208425; 510796, 4208447; 510794, 4208447; 510758, 4208465; 510753, 4208467; 510751, 4208468; 510747, 4208469; 510603, 4208523; 510576, 4208534; 510576, 4208534; 510560, 4208544; 510538, 4208550; 510536, 4208551; 510478, 4208575; 510441, 4208590; 510383, 4208607; 510313, 4208639; 510275, 4208649; 510264, 4208651; 510243, 4208657; 510242, 4208657; 510237, 4208658; 510221, 4208662; 510216, 4208664; 510197, 4208669; 510126, 4208687; 510044, 4208701; 510038, 4208702; 510014, 4208708; 509975, 4208715; 509943, 4208724; 509909, 4208726; 509877, 4208739; 509841, 4208743; 509801, 4208750; 509764, 4208752; 509726, 4208763; 509681, 4208773; 509650, 4208776; 509629, 4208781; 509595, 4208788; 509521, 4208801; 509491, 4208804; 509466, 4208806; 509459, 4208808; 509418, 4208826; 509366, 4208841; 509351, 4208842; 509342, 4208844; 509317, 4208852; 509300, 4208857; 509249, 4208874; 509211, 4208877; 509144, 4208894; 509109, 4208900; 509065, 4208902; 509037, 4208906; 509024, 4208906; 509002, 4208910; 508980, 4208909; 508945, 4208914; 508904, 4208920; 508774, 4208934; 508761, 4208935; 508722, 4208939; 508680, 4208947; 508651, 4208951; 508633, 4208953; 508612, 4208953; 508573, 4208949; 508520, 4208952; 508503, 4208954; 508469, 4208956; 508428, 4208959; 508401, 4208958; 508353, 4208963; 508334, 4208962; 508295, 4208964; 508246, 4208967; 508198, 4208968; 508082, 4208979; 508057, 4208981; 508052, 4208981; 508049, 4208982; 507968, 4208991; 507958, 4208990; 507956, 4208990; 507863, 4208999; 507846, 4208998; 507799, 4208992; 507799, 4208992; 507687, 4208989; 507685, 4208989; 507666, 4208989; 507639, 4208991; 507593, 4208992; 507553, 4208989; 507514, 4208990; 507505, 4208990; 507504, 4208990; 507483, 4208991; 507432, 4208991; 507393, 4208988; 507366, 4208990; 507359, 4208991; 507287, 4208995; 507233, 4208992; 507198, 4208988; 507146, 4208990; 507139, 4208989; 507137, 4208989; 507110, 4208997; 507083, 4208996; 507032, 4209008; 507022, 4209010; 507006, 4209013; 506992, 4209013; 506991, 4209013; 506969, 4209015; 506942, 4209021; 506941, 4209021; 506926, 4209025; 506904, 4209030; 506852, 4209052; 506844, 4209055; 506844, 4209055; 506840, 4209056; 506838, 4209056; 506814, 4209062; 506807, 4209062; 506797, 4209067; 506775, 4209072; 506753, 4209070; 506734, 4209063; 506714, 4209045; 506679, 4209027; 506643, 4209013; 506640, 4209013; 506592, 4209014; 506587, 4209013; 506572, 4209014; 506543, 4209010; 506538, 4209011; 506527, 4209009; 506500, 4209010; 506470, 4209020; 506386, 4209035; 506380, 4209038; 506360, 4209047; 506305, 4209109; 506289, 4209123; 506281, 4209138; 506263, 4209149; 506232, 4209178; 506185, 4209217; 506170, 4209237; 506151, 4209252; 506127, 4209284; 506123, 4209288; 506100, 4209325; 506064, 4209416; 506062, 4209420; 506061, 4209422; 506060, 4209425; 506037, 4209473; 506030, 4209494; 506030, 4209494; 506026, 4209510; 506025, 4209545; 506040, 4209587; 506067, 4209606; 506078, 4209606; 506084, 4209605; 506103, 4209595; 506125, 4209573; 506148, 4209543; 506171, 4209515; 506176, 4209509; 506177, 4209507; 506192, 4209490; 506193, 4209490; 506200, 4209482; 506221, 4209462; 506251, 4209433; 506282, 4209408; 506294, 4209395; 506349, 4209346; 506381, 4209314; 506411, 4209288; 506438, 4209252; 506476, 4209213; 506487, 4209204; 506493, 4209196; 506522, 4209169; 506536, 4209157; 506548, 4209152; 506566, 4209137; 506587, 4209130; 506599, 4209122; 506620, 4209121; 506627, 4209122; 506631, 4209121; 506637, 4209122; 506659, 4209124; 506684, 4209127; 506689, 4209126; 506704, 4209127; 506724, 4209122; 506730, 4209123; 506747, 4209117; 506795, 4209107; 506828, 4209099; 506865, 4209092; 506911, 4209089; 506944, 4209086; 506945, 4209086; 506962, 4209082; 506994, 4209074; 507025, 4209067; 507045, 4209070; 507049, 4209074; 507050, 4209081; 507050, 4209081; 507035, 4209106; 507020, 4209143; 507021, 4209143; 507033, 4209137; 507037, 4209135; 507043, 4209129; 507047, 4209121; 507058, 4209114; 507062, 4209110; 507069, 4209106; 507076, 4209099; 507111, 4209099; 507122, 4209102; 507136, 4209109; 507141, 4209114; 507157, 4209120; 507177, 4209122; 507187, 4209123; 507194, 4209120; 507203, 4209121; 507215, 4209120; 507224, 4209119; 507238, 4209114; 507259, 4209115; 507283, 4209116; 507305, 4209119; 507332, 4209127; 507345, 4209136; 507351, 4209146; 507354, 4209151; 507378, 4209174; 507381, 4209175; 507381, 4209175; 507389, 4209173; 507400, 4209178; 507405, 4209178; 507412, 4209183; 507416, 4209187; 507427, 4209192; 507442, 4209190; 507457, 4209193; 507467, 4209192; 507474, 4209190; 507492, 4209179; 507512, 4209173; 507550, 4209150; 507576, 4209141; 507576, 4209141; 507584, 4209137; 507600, 4209130; 507605, 4209130; 507616, 4209126; 507632, 4209136; 507645, 4209139; 507653, 4209129; 507662, 4209119; 507678, 4209109; 507686, 4209105; 507697, 4209109; 507699, 4209112; 507699, 4209112; 507710, 4209123; 507719, 4209128; 507729, 4209132; 507737, 4209127; 507741, 4209124; 507751, 4209114; 507761, 4209101; 507776, 4209096; 507788, 4209094; 507817, 4209104; 507854, 4209118; 507893, 4209130; 507905, 4209139; 507911, 4209153; 507910, 4209155; 507911, 4209157; 507909, 4209162; 507908, 4209172; 507909, 4209190; 507910, 4209192; 507920, 4209217; 507932, 4209222; 507947, 4209230; 507949, 4209231; 507970, 4209227; 507971, 4209227; 507984, 4209221; 508001, 4209218; 508016, 4209208; 508035, 4209209; 508051, 4209203; 508092, 4209196; 508127, 4209185; 508160, 4209166; 508182, 4209159; 508216, 4209130; 508225, 4209109; 508230, 4209107; 508230, 4209107; 508234, 4209105; 508237, 4209104; 508246, 4209094; 508265, 4209096; 508290, 4209093; 508298, 4209091; 508298, 4209091; 508303, 4209088; 508306, 4209088; 508308, 4209088; 508337, 4209083; 508344, 4209084; 508350, 4209081; 508374, 4209080; 508388, 4209085; 508419, 4209077; 508426, 4209077; 508446, 4209070; 508469, 4209070; 508475, 4209068; 508479, 4209070; 508480, 4209070; 508500, 4209078; 508522, 4209079; 508534, 4209083; 508554, 4209082; 508577, 4209082; 508580, 4209081; 508584, 4209082; 508593, 4209081; 508600, 4209085; 508605, 4209086; 508609, 4209089; 508616, 4209092; 508624, 4209098; 508633, 4209102; 508638, 4209109; 508644, 4209114; 508668, 4209136; 508672, 4209139; 508684, 4209150; 508700, 4209160; 508745, 4209176; 508780, 4209177; 508783, 4209177; 508812, 4209168; 508825, 4209169; 508849, 4209164; 508882, 4209158; 508920, 4209154; 508921, 4209154; 508953, 4209149; 508972, 4209145; 508999, 4209149; 509017, 4209148; 509027, 4209152; 509031, 4209145; 509033, 4209133; 509038, 4209118; 509049, 4209111; 509063, 4209114; 509077, 4209121; 509082, 4209126; 509097, 4209134; 509101, 4209143; 509104, 4209145; 509121, 4209154; 509131, 4209163; 509139, 4209168; 509159, 4209174; 509170, 4209175; 509196, 4209176; 509217, 4209183; 509237, 4209182; 509252, 4209184; 509278, 4209175; 509295, 4209166; 509311, 4209161; 509334, 4209150; 509334, 4209150; 509342, 4209146; 509348, 4209144; 509398, 4209114; 509403, 4209111; 509423, 4209097; 509431, 4209095; 509455, 4209081; 509480, 4209078; 509499, 4209071; 509529, 4209071; 509561, 4209078; 509587, 4209078; 509636, 4209093; 509659, 4209104; 509685, 4209107; 509699, 4209114; 509714, 4209108; 509720, 4209108; 509726, 4209104; 509732, 4209099; 509744, 4209072; 509753, 4209028; 509759, 4209016; 509760, 4209010; 509762, 4209003; 509763, 4209000; 509764, 4208998; 509770, 4208977; 509783, 4208954; 509783, 4208954; 509787, 4208945; 509793, 4208940; 509806, 4208925; 509808, 4208923; 509812, 4208918; 509818, 4208915; 509846, 4208890; 509849, 4208889; 509862, 4208876; 509879, 4208872; 509891, 4208860; 509906, 4208860; 509920, 4208854; 509929, 4208858; 509956, 4208850; 509970, 4208854; 509973, 4208854; 509994, 4208851; 509994, 4208851; 510004, 4208855; 510010, 4208862; 510025, 4208865; 510033, 4208877; 510039, 4208880; 510042, 4208880; 510049, 4208890; 510052, 4208894; 510043, 4208923; 510042, 4208945; 510044, 4208951; 510045, 4208952; 510054, 4208958; 510083, 4208953; 510088, 4208951; 510095, 4208951; 510121, 4208950; 510130, 4208954; 510136, 4208954; 510144, 4208959; 510144, 4208961; 510146, 4208961; 510154, 4208978; 510154, 4208978; 510157, 4208984; 510158, 4209010; 510150, 4209057; 510143, 4209095; 510142, 4209108; 510142, 4209143; 510142, 4209214; 510134, 4209275; 510131, 4209303; 510131, 4209307; 510137, 4209314; 510138, 4209340; 510140, 4209349; 510142, 4209378; 510142, 4209381; 510146, 4209405; 510147, 4209409; 510158, 4209431; 510153, 4209435; 510169, 4209453; 510172, 4209451; 510233, 4209478; 510250, 4209493; 510263, 4209499; 510269, 4209510; 510272, 4209507; 510274, 4209514; 510279, 4209520; 510279, 4209534; 510282, 4209538; 510280, 4209554; 510283, 4209558; 510284, 4209612; 510289, 4209635; 510295, 4209653; 510304, 4209673; 510319, 4209698; 510332, 4209707; 510345, 4209723; 510364, 4209734; 510379, 4209753; 510406, 4209777; 510418, 4209793; 510470, 4209840; 510482, 4209848; 510496, 4209864; 510507, 4209903; 510510, 4209921; 510513, 4209942; 510514, 4209969; 510527, 4210060; 510534, 4210113; 510535, 4210135; 510529, 4210144; 510511, 4210154; 510476, 4210146; 510470, 4210134; 510459, 4210122; 510453, 4210103; 510445, 4210093; 510441, 4210073; 510440, 4210057; 510439, 4210055; 510427, 4210025; 510415, 4210004; 510403, 4209988; 510375, 4209944; 510350, 4209909; 510307, 4209879; 510296, 4209863; 510251, 4209773; 510234, 4209753; 510220, 4209720; 510210, 4209701; 510202, 4209684; 510147, 4209602; 510112, 4209565; 510100, 4209558; 510074, 4209535; 510065, 4209507; 510065, 4209507; 510062, 4209503; 510053, 4209499; 510041, 4209475; 510035, 4209456; 510024, 4209413; 510018, 4209399; 510012, 4209365; 510004, 4209344; 510001, 4209310; 509997, 4209290; 509993, 4209279; 509985, 4209267; 509960, 4209246; 509932, 4209222; 509919, 4209208; 509903, 4209176; 509891, 4209149; 509890, 4209148; 509881, 4209127; 509881, 4209123; 509875, 4209103; 509874, 4209076; 509875, 4209070; 509874, 4209059; 509880, 4209033; 509904, 4208991; 509912, 4208981; 509936, 4208966; 509952, 4208963; 509990, 4208951; 510016, 4208932; 510017, 4208922; 510014, 4208901; 510005, 4208889; 510001, 4208886; 509983, 4208884; 509960, 4208879; 509935, 4208880; 509897, 4208890; 509874, 4208903; 509859, 4208919; 509844, 4208944; 509843, 4208945; 509835, 4208966; 509835, 4208966; 509829, 4208985; 509827, 4208991; 509827, 4209005; 509817, 4209031; 509816, 4209037; 509810, 4209085; 509794, 4209132; 509787, 4209139; 509779, 4209141; 509767, 4209149; 509761, 4209149; 509740, 4209162; 509703, 4209222; 509688, 4209239; 509672, 4209247; 509667, 4209252; 509637, 4209269; 509597, 4209284; 509587, 4209299; 509560, 4209339; 509554, 4209352; 509554, 4209352; 509547, 4209368; 509537, 4209395; 509534, 4209405; 509525, 4209448; 509522, 4209605; 509528, 4209648; 509529, 4209649; 509533, 4209668; 509535, 4209672; 509539, 4209682; 509539, 4209708; 509539, 4209717; 509538, 4209735; 509539, 4209770; 509540, 4209781; 509542, 4209833; 509555, 4209867; 509569, 4209887; 509569, 4209887; 509572, 4209888; 509573, 4209888; 509573, 4209888; 509582, 4209896; 509587, 4209894; 509591, 4209892; 509593, 4209896; 509599, 4209906; 509588, 4209924; 509582, 4209938; 509567, 4209934; 509560, 4209938; 509538, 4209951; 509534, 4209955; 509531, 4209958; 509530, 4209969; 509527, 4210004; 509523, 4210028; 509518, 4210061; 509512, 4210082; 509498, 4210182; 509500, 4210335; 509497, 4210378; 509505, 4210440; 509505, 4210442; 509519, 4210458; 509522, 4210470; 509521, 4210472; 509522, 4210474; 509522, 4210475; 509530, 4210514; 509503, 4210558; 509481, 4210581; 509421, 4210611; 509397, 4210607; 509393, 4210603; 509392, 4210603; 509380, 4210604; 509365, 4210587; 509363, 4210579; 509368, 4210564; 509369, 4210562; 509396, 4210511; 509397, 4210504; 509397, 4210503; 509398, 4210455; 509395, 4210447; 509382, 4210415; 509376, 4210392; 509369, 4210346; 509363, 4210322; 509351, 4210288; 509347, 4210265; 509347, 4210247; 509353, 4210208; 509367, 4210144; 509368, 4210120; 509378, 4210075; 509384, 4210023; 509384, 4210008; 509379, 4209980; 509379, 4209979; 509378, 4209971; 509376, 4209961; 509369, 4209944; 509367, 4209940; 509365, 4209919; 509357, 4209892; 509337, 4209815; 509322, 4209799; 509302, 4209791; 509284, 4209778; 509283, 4209768; 509282, 4209767; 509268, 4209752; 509262, 4209739; 509262, 4209735; 509267, 4209731; 509271, 4209728; 509297, 4209714; 509300, 4209710; 509309, 4209699; 509320, 4209689; 509322, 4209688; 509323, 4209681; 509327, 4209668; 509329, 4209658; 509328, 4209646; 509331, 4209624; 509334, 4209620; 509335, 4209619; 509329, 4209591; 509323, 4209591; 509317, 4209580; 509312, 4209567; 509299, 4209539; 509282, 4209514; 509267, 4209488; 509252, 4209467; 509249, 4209463; 509234, 4209448; 509213, 4209441; 509191, 4209428; 509180, 4209413; 509163, 4209394; 509119, 4209367; 509086, 4209348; 509056, 4209333; 509011, 4209330; 508981, 4209331; 508941, 4209327; 508914, 4209329; 508866, 4209326; 508799, 4209325; 508744, 4209328; 508718, 4209333; 508675, 4209337; 508654, 4209336; 508603, 4209340; 508586, 4209344; 508542, 4209369; 508456, 4209408; 508322, 4209434; 508196, 4209471; 508147, 4209491; 508043, 4209600; 508022, 4209645; 508011, 4209679; 508016, 4209696; 508025, 4209702; 508037, 4209717; 508055, 4209731; 508113, 4209786; 508131, 4209809; 508160, 4209853; 508173, 4209875; 508194, 4209920; 508198, 4209944; 508202, 4209987; 508203, 4209993; 508207, 4210018; 508215, 4210037; 508221, 4210065; 508232, 4210082; 508245, 4210110; 508255, 4210124; 508259, 4210148; 508258, 4210169; 508258, 4210173; 508261, 4210247; 508274, 4210300; 508276, 4210307; 508290, 4210333; 508376, 4210425; 508398, 4210437; 508411, 4210455; 508409, 4210462; 508410, 4210464; 508407, 4210485; 508371, 4210567; 508364, 4210595; 508358, 4210636; 508339, 4210654; 508327, 4210662; 508325, 4210663; 508325, 4210663; 508322, 4210664; 508316, 4210670; 508248, 4210696; 508178, 4210733; 508157, 4210758; 508159, 4210786; 508182, 4210820; 508190, 4210838; 508199, 4210870; 508200, 4210879; 508218, 4210924; 508219, 4210925; 508230, 4210936; 508238, 4210942; 508252, 4210956; 508266, 4210964; 508286, 4210987; 508299, 4210996; 508310, 4211016; 508312, 4211038; 508316, 4211045; 508308, 4211083; 508299, 4211091; 508290, 4211100; 508286, 4211100; 508206, 4211163; 508197, 4211172; 508179, 4211187; 508161, 4211198; 508151, 4211205; 508069, 4211276; 508048, 4211311; 508039, 4211343; 507996, 4211440; 507988, 4211456; 507969, 4211477; 507965, 4211495; 507964, 4211500; 507965, 4211505; 507970, 4211518; 507974, 4211517; 507979, 4211523; 507982, 4211523; 507979, 4211538; 507976, 4211538; 507972, 4211544; 507971, 4211549; 507957, 4211557; 507939, 4211551; 507920, 4211530; 507920, 4211524; 507908, 4211517; 507911, 4211507; 507910, 4211506; 507911, 4211506; 507912, 4211500; 507913, 4211485; 507909, 4211473; 507903, 4211450; 507898, 4211412; 507894, 4211365; 507883, 4211308; 507873, 4211269; 507863, 4211232; 507863, 4211231; 507863, 4211230; 507864, 4211225; 507863, 4211219; 507869, 4211174; 507867, 4211145; 507859, 4211108; 507858, 4211083; 507856, 4211053; 507851, 4211034; 507852, 4210985; 507863, 4210876; 507862, 4210832; 507859, 4210820; 507857, 4210817; 507854, 4210801; 507846, 4210784; 507838, 4210763; 507836, 4210758; 507818, 4210725; 507815, 4210719; 507804, 4210702; 507799, 4210693; 507754, 4210631; 507745, 4210600; 507740, 4210593; 507737, 4210584; 507735, 4210575; 507724, 4210552; 507682, 4210512; 507675, 4210511; 507663, 4210501; 507654, 4210495; 507653, 4210482; 507655, 4210476; 507658, 4210465; 507664, 4210456; 507670, 4210443; 507672, 4210433; 507673, 4210420; 507669, 4210404; 507664, 4210385; 507656, 4210361; 507652, 4210343; 507648, 4210323; 507645, 4210316; 507641, 4210309; 507631, 4210297; 507621, 4210290; 507618, 4210290; 507608, 4210283; 507597, 4210275; 507590, 4210269; 507590, 4210261; 507590, 4210253; 507588, 4210241; 507586, 4210231; 507581, 4210222; 507577, 4210209; 507577, 4210195; 507579, 4210182; 507585, 4210169; 507589, 4210155; 507591, 4210147; 507588, 4210135; 507585, 4210119; 507581, 4210103; 507583, 4210085; 507586, 4210066; 507597, 4210048; 507606, 4210034; 507606, 4210033; 507606, 4210033; 507610, 4210027; 507618, 4210016; 507622, 4210007; 507624, 4209998; 507624, 4209986; 507626, 4209971; 507625, 4209949; 507625, 4209923; 507622, 4209885; 507623, 4209855; 507625, 4209827; 507623, 4209800; 507623, 4209765; 507621, 4209734; 507618, 4209696; 507613, 4209665; 507608, 4209637; 507597, 4209611; 507581, 4209581; 507565, 4209558; 507548, 4209540; 507534, 4209526; 507519, 4209520; 507466, 4209510; 507408, 4209512; 507393, 4209515; 507379, 4209522; 507365, 4209522; 507349, 4209526; 507329, 4209535; 507303, 4209553; 507282, 4209578; 507267, 4209604; 507243, 4209663; 507232, 4209712; 507226, 4209815; 507223, 4209841; 507215, 4209870; 507214, 4209882; 507206, 4209917; 507196, 4209936; 507194, 4209933; 507189, 4209938; 507184, 4209936; 507183, 4209935; 507182, 4209936; 507181, 4209932; 507178, 4209928; 507173, 4209910; 507172, 4209906; 507168, 4209891; 507168, 4209884; 507167, 4209876; 507167, 4209874; 507164, 4209866; 507159, 4209843; 507158, 4209822; 507153, 4209795; 507152, 4209771; 507141, 4209712; 507138, 4209669; 507128, 4209585; 507119, 4209552; 507115, 4209546; 507091, 4209526; 507054, 4209504; 506988, 4209482; 506934, 4209475; 506803, 4209471; 506775, 4209472; 506767, 4209475; 506733, 4209481; 506712, 4209481; 506641, 4209503; 506625, 4209543; 506599, 4209642; 506594, 4209654; 506594, 4209654; 506594, 4209655; 506585, 4209679; 506528, 4209715; 506523, 4209719; 506512, 4209725; 506500, 4209735; 506489, 4209745; 506470, 4209762; 506464, 4209768; 506454, 4209784; 506435, 4209797; 506428, 4209798; 506417, 4209804; 506405, 4209809; 506385, 4209807; 506384, 4209807; 506380, 4209808; 506380, 4209807; 506374, 4209808; 506371, 4209804; 506367, 4209803; 506358, 4209785; 506357, 4209779; 506357, 4209768; 506355, 4209763; 506335, 4209751; 506293, 4209745; 506246, 4209747; 506211, 4209743; 506118, 4209745; 506012, 4209754; 505982, 4209765; 505973, 4209783; 505968, 4209916; 505932, 4209915; 505929, 4209930; 505929, 4209936; 505927, 4209963; 505927, 4209975; 505912, 4210032; 505910, 4210045; 505907, 4210052; 505906, 4210057; 505904, 4210075; 505904, 4210081; 505910, 4210125; 505945, 4210227; 505945, 4210229; 505950, 4210251; 505950, 4210252; 505956, 4210278; 505958, 4210284; 505963, 4210296; 505978, 4210346; 505980, 4210358; 505986, 4210375; 505989, 4210384; 505988, 4210411; 505989, 4210421; 505986, 4210444; 505979, 4210463; 505975, 4210478; 505968, 4210484; 505964, 4210496; 505925, 4210542; 505899, 4210562; 505860, 4210585; 505834, 4210600; 505794, 4210613; 505787, 4210615; 505786, 4210615; 505786, 4210615; 505741, 4210622; 505711, 4210635; 505661, 4210668; 505581, 4210748; 505541, 4210808; 505524, 4210853; 505483, 4210945; 505486, 4210963; 505496, 4210991; 505531, 4211046; 505537, 4211060; 505539, 4211063; 505540, 4211067; 505553, 4211096; 505565, 4211115; 505579, 4211141; 505612, 4211174; 505613, 4211176; 505625, 4211189; 505642, 4211214; 505651, 4211235; 505654, 4211246; 505662, 4211260; 505668, 4211328; 505668, 4211329; 505669, 4211332; 505675, 4211356; 505682, 4211373; 505688, 4211405; 505689, 4211407; 505697, 4211428; 505700, 4211449; 505701, 4211456; 505708, 4211475; 505711, 4211481; 505719, 4211501; 505728, 4211521; 505729, 4211531; 505733, 4211544; 505740, 4211563; 505741, 4211575; 505741, 4211578; 505803, 4211801; 505818, 4211820; 505822, 4211839; 505840, 4211867; 505840, 4211867; 505842, 4211870; 505843, 4211873; 505843, 4211873; 505861, 4211906; 505864, 4211907; 505867, 4211906; 505883, 4211908; 505898, 4211914; 505905, 4211915; 505914, 4211921; 505918, 4211923; 505928, 4211924; 505933, 4211928; 505943, 4211930; 505970, 4211956; 505971, 4211956; 505993, 4211975; 506016, 4211992; 506080, 4212017; 506091, 4212019; 506098, 4212023; 506105, 4212024; 506123, 4212035; 506155, 4212049; 506169, 4212065; 506183, 4212074; 506198, 4212097; 506215, 4212115; 506231, 4212125; 506253, 4212142; 506272, 4212150; 506301, 4212169; 506350, 4212195; 506371, 4212210; 506387, 4212212; 506401, 4212220; 506402, 4212220; 506412, 4212227; 506417, 4212233; 506432, 4212246; 506464, 4212265; 506478, 4212277; 506490, 4212282; 506511, 4212297; 506512, 4212297; 506528, 4212306; 506533, 4212313; 506533, 4212315; 506534, 4212316; 506549, 4212349; 506573, 4212380; 506586, 4212420; 506603, 4212436; 506611, 4212438; 506618, 4212439; 506626, 4212443; 506638, 4212446; 506648, 4212445; 506661, 4212449; 506685, 4212451; 506686, 4212450; 506717, 4212439; 506729, 4212431; 506741, 4212432; 506762, 4212428; 506764, 4212427; 506767, 4212427; 506781, 4212424; 506785, 4212426; 506794, 4212426; 506807, 4212426; 506814, 4212424; 506819, 4212458; 506823, 4212472; 506829, 4212490; 506830, 4212507; 506833, 4212520; 506831, 4212546; 506827, 4212560; 506825, 4212596; 506806, 4212654; 506829, 4212696; 506836, 4212702; 506836, 4212702; 506836, 4212702; 506849, 4212713; 506866, 4212719; 506866, 4212719; 506877, 4212722; 506898, 4212726; 506922, 4212733; 506957, 4212757; 506972, 4212769; 506994, 4212794; 507015, 4212811; 507032, 4212829; 507049, 4212854; 507055, 4212866; 507054, 4212867; 507057, 4212871; 507056, 4212875; 507062, 4212882; 507017, 4212902; 506897, 4212979; 506875, 4213038; 506870, 4213078; 506986, 4213262; 506987, 4213262; 507013, 4213277; 507091, 4213310; 507115, 4213317; 507142, 4213328; 507190, 4213339; 507223, 4213350; 507227, 4213352; 507263, 4213362; 507300, 4213375; 507337, 4213389; 507348, 4213399; 507345, 4213405; 507345, 4213405; 507342, 4213409; 507351, 4213416; 507380, 4213436; 507383, 4213434; 507394, 4213445; 507417, 4213476; 507429, 4213489; 507435, 4213495; 507473, 4213521; 507502, 4213535; 507574, 4213566; 507587, 4213571; 507605, 4213574; 507631, 4213586; 507654, 4213600; 507675, 4213603; 507689, 4213612; 507701, 4213616; 507715, 4213632; 507714, 4213654; 507714, 4213654; 507721, 4213695; 507727, 4213762; 507741, 4213781; 507744, 4213804; 507754, 4213851; 507757, 4213876; 507766, 4213902; 507766, 4213927; 507765, 4213939; 507760, 4213946; 507762, 4213958; 507745, 4213965; 507733, 4213957; 507733, 4213957; 507719, 4213955; 507716, 4213952; 507701, 4213945; 507696, 4213936; 507690, 4213911; 507680, 4213885; 507674, 4213877; 507666, 4213863; 507643, 4213838; 507634, 4213824; 507622, 4213811; 507619, 4213805; 507618, 4213804; 507527, 4213743; 507498, 4213731; 507386, 4213720; 507377, 4213715; 507374, 4213716; 507357, 4213724; 507349, 4213734; 507325, 4213740; 507319, 4213722; 507320, 4213683; 507311, 4213678; 507307, 4213668; 507287, 4213646; 507260, 4213627; 507227, 4213612; 507219, 4213602; 507208, 4213594; 507202, 4213580; 507202, 4213577; 507194, 4213554; 507163, 4213534; 507151, 4213531; 507141, 4213533; 507117, 4213547; 507092, 4213564; 506992, 4213634; 506888, 4213687; 506854, 4213707; 506819, 4213738; 506814, 4213747; 506812, 4213783; 506847, 4213842; 506850, 4213857; 506841, 4213885; 506832, 4213892; 506831, 4213893; 506823, 4213906; 506826, 4213931; 506794, 4213991; 506786, 4214017; 506786, 4214020; 506786, 4214020; 506787, 4214030; 506787, 4214047; 506784, 4214074; 506776, 4214090; 506773, 4214094; 506771, 4214113; 506758, 4214116; 506752, 4214111; 506751, 4214111; 506743, 4214110; 506734, 4214098; 506731, 4214090; 506721, 4214079; 506721, 4214063; 506713, 4214036; 506705, 4214022; 506689, 4214009; 506679, 4213997; 506681, 4213991; 506679, 4213979; 506682, 4213950; 506687, 4213926; 506699, 4213888; 506719, 4213849; 506737, 4213824; 506751, 4213792; 506752, 4213790; 506752, 4213787; 506755, 4213761; 506755, 4213719; 506750, 4213691; 506750, 4213691; 506746, 4213671; 506719, 4213587; 506708, 4213543; 506700, 4213526; 506693, 4213503; 506693, 4213492; 506689, 4213478; 506679, 4213457; 506668, 4213430; 506666, 4213425; 506649, 4213401; 506643, 4213391; 506628, 4213371; 506595, 4213328; 506574, 4213301; 506559, 4213281; 506527, 4213233; 506517, 4213211; 506507, 4213184; 506495, 4213167; 506484, 4213142; 506483, 4213137; 506481, 4213132; 506471, 4213103; 506471, 4213084; 506471, 4213082; 506463, 4213065; 506455, 4213033; 506448, 4212996; 506426, 4212936; 506423, 4212931; 506405, 4212904; 506348, 4212881; 506315, 4212856; 506282, 4212848; 506268, 4212839; 506254, 4212836; 506246, 4212824; 506243, 4212815; 506248, 4212775; 506230, 4212757; 506126, 4212783; 506033, 4212837; 506000, 4212859; 505995, 4212862; 505969, 4212882; 505887, 4212938; 505868, 4212955; 505858, 4212973; 505846, 4213010; 505835, 4213134; 505818, 4213157; 505800, 4213169; 505795, 4213182; 505814, 4213207; 505815, 4213207; 505847, 4213244; 505852, 4213258; 505858, 4213265; 505858, 4213266; 505862, 4213271; 505876, 4213305; 505883, 4213317; 505897, 4213364; 505895, 4213409; 505888, 4213447; 505883, 4213460; 505883, 4213460; 505883, 4213473; 505859, 4213501; 505786, 4213556; 505786, 4213559; 505793, 4213575; 505804, 4213605; 505808, 4213635; 505812, 4213651; 505832, 4213764; 505842, 4213798; 505843, 4213823; 505839, 4213844; 505841, 4213871; 505829, 4213936; 505800, 4213961; 505766, 4213980; 505741, 4214004; 505714, 4214048; 505709, 4214061; 505699, 4214114; 505700, 4214146; 505711, 4214199; 505713, 4214207; 505714, 4214211; 505715, 4214214; 505794, 4214372; 505822, 4214442; 505835, 4214460; 505849, 4214476; 505853, 4214484; 505868, 4214502; 505906, 4214565; 505907, 4214566; 505908, 4214568; 505908, 4214569; 505929, 4214584; 505980, 4214660; 505986, 4214673; 505989, 4214677; 505989, 4214680; 505999, 4214691; 505996, 4214737; 505998, 4214772; 505996, 4214804; 505990, 4214828; 505987, 4214834; 505986, 4214849; 505975, 4214883; 505941, 4214940; 505922, 4214995; 505889, 4215011; 505795, 4215038; 505789, 4215041; 505761, 4215056; 505730, 4215082; 505676, 4215146; 505667, 4215165; 505667, 4215174; 505669, 4215185; 505676, 4215206; 505682, 4215213; 505691, 4215212; 505696, 4215215; 505713, 4215210; 505725, 4215209; 505734, 4215206; 505751, 4215209; 505765, 4215213; 505786, 4215215; 505800, 4215221; 505828, 4215249; 505831, 4215253; 505834, 4215254; 505869, 4215291; 505879, 4215296; 505891, 4215299; 505901, 4215305; 505912, 4215308; 505940, 4215319; 505952, 4215325; 505962, 4215333; 505994, 4215348; 506016, 4215366; 506017, 4215367; 506018, 4215368; 506047, 4215394; 506057, 4215426; 506071, 4215552; 506118, 4215690; 506153, 4215767; 506227, 4215830; 506265, 4215873; 506267, 4215875; 506277, 4215883; 506300, 4215906; 506306, 4215910; 506306, 4215918; 506302, 4215920; 506300, 4215924; 506296, 4215923; 506297, 4215923; 506198, 4215950; 506171, 4215944; 506163, 4215947; 506139, 4215961; 506123, 4215967; 506113, 4215969; 506108, 4215967; 506101, 4215965; 506069, 4215954; 506058, 4215944; 506049, 4215927; 506041, 4215915; 506029, 4215905; 506027, 4215904; 506012, 4215914; 505990, 4215917; 505976, 4215909; 505976, 4215904; 505971, 4215899; 505966, 4215890; 505969, 4215868; 505969, 4215868; 505969, 4215868; 505970, 4215859; 505972, 4215853; 505971, 4215851; 505967, 4215846; 505836, 4215795; 505775, 4215761; 505771, 4215759; 505735, 4215739; 505707, 4215719; 505705, 4215716; 505696, 4215708; 505693, 4215700; 505688, 4215692; 505686, 4215679; 505685, 4215677; 505682, 4215655; 505679, 4215610; 505682, 4215555; 505684, 4215551; 505684, 4215547; 505691, 4215526; 505704, 4215498; 505726, 4215455; 505737, 4215433; 505741, 4215420; 505741, 4215411; 505740, 4215403; 505732, 4215388; 505714, 4215368; 505700, 4215355; 505695, 4215348; 505686, 4215339; 505675, 4215323; 505662, 4215303; 505651, 4215278; 505634, 4215241; 505631, 4215234; 505613, 4215201; 505562, 4215128; 505557, 4215123; 505529, 4215094; 505500, 4215065; 505486, 4215047; 505473, 4215029; 505472, 4215008; 505479, 4215000; 505480, 4214996; 505486, 4214990; 505500, 4214984; 505524, 4214980; 505539, 4214973; 505550, 4214972; 505562, 4214963; 505567, 4214963; 505573, 4214956; 505579, 4214938; 505578, 4214929; 505566, 4214892; 505559, 4214877; 505558, 4214876; 505558, 4214875; 505555, 4214864; 505553, 4214857; 505543, 4214819; 505547, 4214788; 505532, 4214764; 505527, 4214759; 505521, 4214755; 505493, 4214734; 505459, 4214716; 505428, 4214692; 505411, 4214676; 505392, 4214655; 505374, 4214630; 505363, 4214608; 505355, 4214589; 505346, 4214565; 505339, 4214556; 505305, 4214526; 505285, 4214503; 505278, 4214493; 505270, 4214485; 505248, 4214444; 505241, 4214410; 505242, 4214405; 505238, 4214393; 505238, 4214390; 505236, 4214386; 505238, 4214382; 505238, 4214381; 505241, 4214373; 505270, 4214343; 505277, 4214335; 505277, 4214335; 505285, 4214324; 505301, 4214294; 505308, 4214276; 505318, 4214234; 505319, 4214221; 505318, 4214151; 505312, 4214077; 505307, 4214044; 505302, 4213956; 505298, 4213925; 505295, 4213896; 505291, 4213861; 505288, 4213808; 505288, 4213756; 505287, 4213730; 505283, 4213705; 505277, 4213681; 505272, 4213674; 505257, 4213664; 505239, 4213648; 505235, 4213638; 505231, 4213635; 505227, 4213625; 505223, 4213608; 505220, 4213599; 505213, 4213567; 505204, 4213550; 505201, 4213547; 505188, 4213523; 505173, 4213489; 505172, 4213487; 505166, 4213472; 505164, 4213464; 505163, 4213463; 505152, 4213433; 505148, 4213374; 505144, 4213347; 505134, 4213319; 505134, 4213289; 505131, 4213262; 505122, 4213248; 505088, 4213217; 505079, 4213202; 505079, 4213196; 505077, 4213194; 505073, 4213169; 505080, 4213148; 505089, 4213138; 505104, 4213115; 505109, 4213090; 505109, 4213087; 505105, 4213056; 505109, 4213024; 505112, 4213003; 505123, 4212971; 505130, 4212945; 505130, 4212919; 505121, 4212884; 505108, 4212844; 505095, 4212823; 505085, 4212814; 505009, 4212764; 504935, 4212727; 504900, 4212697; 504894, 4212682; 504889, 4212676; 504886, 4212664; 504885, 4212662; 504885, 4212661; 504883, 4212653; 504881, 4212647; 504881, 4212646; 504875, 4212624; 504875, 4212608; 504877, 4212601; 504876, 4212591; 504885, 4212580; 504887, 4212578; 504887, 4212574; 504857, 4212569; 504822, 4212573; 504779, 4212572; 504717, 4212559; 504664, 4212578; 504579, 4212601; 504556, 4212592; 504551, 4212591; 504526, 4212583; 504495, 4212568; 504476, 4212556; 504457, 4212549; 504445, 4212547; 504415, 4212549; 504385, 4212556; 504370, 4212549; 504354, 4212540; 504339, 4212534; 504321, 4212522; 504314, 4212521; 504295, 4212522; 504252, 4212532; 504227, 4212535; 504215, 4212532; 504204, 4212535; 504189, 4212532; 504169, 4212528; 504166, 4212527; 504164, 4212527; 504163, 4212526; 504144, 4212520; 504132, 4212519; 504123, 4212524; 504122, 4212525; 504104, 4212573; 504088, 4212604; 504042, 4212655; 504025, 4212680; 504011, 4212715; 504012, 4212738; 504024, 4212756; 504078, 4212813; 504102, 4212844; 504116, 4212878; 504117, 4212884; 504118, 4212887; 504118, 4212892; 504120, 4212904; 504118, 4212920; 504097, 4212965; 504043, 4213048; 504028, 4213085; 504015, 4213135; 504016, 4213148; 504041, 4213192; 504046, 4213215; 504060, 4213327; 504056, 4213384; 504064, 4213416; 504091, 4213494; 504105, 4213681; 504107, 4213693; 504109, 4213700; 504109, 4213701; 504113, 4213731; 504093, 4213752; 504092, 4213754; 504089, 4213756; 504013, 4213835; 503996, 4213871; 504017, 4213932; 504020, 4213939; 504025, 4213950; 504025, 4213952; 504034, 4213972; 504028, 4213994; 504002, 4214036; 503978, 4214093; 503976, 4214139; 503982, 4214194; 503961, 4214210; 503951, 4214213; 503865, 4214232; 503830, 4214256; 503825, 4214275; 503835, 4214302; 503840, 4214308; 503863, 4214328; 503875, 4214346; 503878, 4214358; 503878, 4214361; 503886, 4214375; 503876, 4214401; 503854, 4214407; 503853, 4214409; 503843, 4214419; 503837, 4214424; 503831, 4214427; 503824, 4214432; 503809, 4214433; 503795, 4214423; 503774, 4214429; 503764, 4214427; 503762, 4214420; 503758, 4214418; 503753, 4214404; 503747, 4214377; 503750, 4214351; 503750, 4214335; 503745, 4214314; 503745, 4214289; 503750, 4214259; 503756, 4214241; 503757, 4214238; 503758, 4214236; 503763, 4214220; 503775, 4214205; 503795, 4214168; 503799, 4214163; 503807, 4214148; 503818, 4214120; 503827, 4214085; 503815, 4214053; 503800, 4214025; 503785, 4214000; 503780, 4213988; 503778, 4213972; 503783, 4213962; 503785, 4213962; 503786, 4213959; 503795, 4213959; 503806, 4213968; 503820, 4213974; 503822, 4213974; 503831, 4213974; 503831, 4213974; 503833, 4213974; 503841, 4213965; 503845, 4213945; 503846, 4213926; 503843, 4213907; 503835, 4213882; 503827, 4213859; 503824, 4213838; 503826, 4213803; 503827, 4213788; 503823, 4213762; 503823, 4213750; 503820, 4213737; 503821, 4213717; 503822, 4213713; 503822, 4213713; 503822, 4213705; 503824, 4213701; 503824, 4213699; 503832, 4213678; 503850, 4213641; 503873, 4213621; 503889, 4213606; 503901, 4213592; 503907, 4213577; 503907, 4213566; 503904, 4213556; 503892, 4213538; 503888, 4213520; 503835, 4213464; 503778, 4213430; 503762, 4213424; 503755, 4213418; 503747, 4213415; 503736, 4213403; 503725, 4213384; 503718, 4213359; 503718, 4213342; 503719, 4213318; 503719, 4213300; 503719, 4213293; 503712, 4213269; 503711, 4213269; 503706, 4213261; 503697, 4213263; 503697, 4213235; 503700, 4213207; 503702, 4213168; 503706, 4213134; 503717, 4213108; 503740, 4213078; 503754, 4213057; 503763, 4213034; 503771, 4213001; 503775, 4212979; 503781, 4212950; 503793, 4212932; 503815, 4212915; 503819, 4212911; 503821, 4212909; 503838, 4212892; 503843, 4212883; 503842, 4212875; 503832, 4212852; 503824, 4212840; 503817, 4212827; 503765, 4212766; 503739, 4212729; 503722, 4212712; 503719, 4212690; 503724, 4212675; 503723, 4212673; 503715, 4212676; 503706, 4212670; 503693, 4212675; 503692, 4212674; 503670, 4212684; 503666, 4212681; 503665, 4212682; 503663, 4212679; 503661, 4212676; 503658, 4212677; 503656, 4212672; 503657, 4212649; 503670, 4212636; 503672, 4212634; 503680, 4212626;

503729, 4212603; 503738, 4212600; 503756, 4212590; 503795, 4212570; 503797, 4212569; 503800, 4212567; 503821, 4212554; 503868, 4212519; 503886, 4212504; 503892, 4212499; 503921, 4212463; 503941, 4212430; 503963, 4212407; 503974, 4212395; 503988, 4212389; 503989, 4212388; 504036, 4212365; 504050, 4212361; 504070, 4212351; 504083, 4212348; 504087, 4212346; 504111, 4212329; 504138, 4212317; 504175, 4212297; 504215, 4212280; 504234, 4212274; 504250, 4212275; 504269, 4212267; 504286, 4212269; 504301, 4212265; 504311, 4212270; 504318, 4212268; 504329, 4212257; 504329, 4212256; 504323, 4212245; 504327, 4212233; 504334, 4212213; 504341, 4212197; 504343, 4212191; 504351, 4212165; 504353, 4212163; 504353, 4212162; 504359, 4212153; 504359, 4212152; 504364, 4212140; 504372, 4212133; 504373, 4212132; 504381, 4212123; 504383, 4212119; 504389, 4212101; 504390, 4212085; 504393, 4212052; 504400, 4212023; 504407, 4212007; 504416, 4211984; 504429, 4211963; 504440, 4211949; 504448, 4211936; 504477, 4211906; 504486, 4211902; 504486, 4211901; 504506, 4211891; 504508, 4211890; 504521, 4211879; 504525, 4211868; 504526, 4211861; 504531, 4211840; 504536, 4211827; 504542, 4211790; 504542, 4211785; 504546, 4211765; 504546, 4211741; 504546, 4211703; 504543, 4211668; 504538, 4211635; 504533, 4211598; 504534, 4211575; 504531, 4211551; 504532, 4211529; 504528, 4211503; 504519, 4211469; 504510, 4211419; 504500, 4211374; 504491, 4211334; 504488, 4211322; 504482, 4211312; 504473, 4211285; 504456, 4211250; 504453, 4211239; 504448, 4211232; 504422, 4211213; 504381, 4211246; 504380, 4211249; 504363, 4211269; 504348, 4211281; 504314, 4211321; 504307, 4211323; 504303, 4211327; 504289, 4211335; 504269, 4211355; 504259, 4211364; 504257, 4211366; 504238, 4211382; 504236, 4211382; 504228, 4211389; 504205, 4211404; 504053, 4211483; 504002, 4211517; 503993, 4211518; 503993, 4211518; 503991, 4211518; 503990, 4211519; 503970, 4211526; 503969, 4211526; 503967, 4211527; 503966, 4211527; 503954, 4211530; 503944, 4211532; 503926, 4211526; 503914, 4211523; 503908, 4211525; 503898, 4211530; 503888, 4211536; 503883, 4211542; 503868, 4211554; 503865, 4211560; 503857, 4211572; 503846, 4211593; 503841, 4211598; 503823, 4211634; 503793, 4211669; 503790, 4211675; 503779, 4211686; 503747, 4211728; 503743, 4211730; 503731, 4211744; 503730, 4211744; 503708, 4211770; 503672, 4211794; 503623, 4211817; 503590, 4211837; 503541, 4211877; 503485, 4211930; 503445, 4211930; 503434, 4211927; 503427, 4211929; 503417, 4211928; 503366, 4211956; 503340, 4211976; 503313, 4211986; 503293, 4212003; 503275, 4212010; 503270, 4212014; 503268, 4212015; 503242, 4212035; 503216, 4212059; 503197, 4212066; 503197, 4212065; 503193, 4212068; 503191, 4212068; 503185, 4212069; 503183, 4212068; 503179, 4212067; 503177, 4212063; 503176, 4212063; 503167, 4212056; 503164, 4212049; 503162, 4212046; 503155, 4212041; 503152, 4212033; 503147, 4212029; 503145, 4212022; 503147, 4212012; 503152, 4212003; 503164, 4211985; 503177, 4211970; 503185, 4211961; 503190, 4211951; 503193, 4211941; 503193, 4211940; 503196, 4211929; 503197, 4211919; 503204, 4211910; 503205, 4211909; 503206, 4211909; 503208, 4211906; 503217, 4211904; 503219, 4211903; 503240, 4211898; 503255, 4211897; 503275, 4211898; 503299, 4211886; 503316, 4211882; 503334, 4211864; 503354, 4211855; 503376, 4211844; 503395, 4211843; 503415, 4211830; 503426, 4211825; 503434, 4211817; 503446, 4211809; 503456, 4211800; 503470, 4211793; 503481, 4211785; 503510, 4211760; 503525, 4211754; 503539, 4211742; 503542, 4211728; 503534, 4211703; 503533, 4211696; 503530, 4211690; 503502, 4211677; 503452, 4211688; 503447, 4211691; 503435, 4211694; 503424, 4211701; 503411, 4211694; 503405, 4211689; 503400, 4211687; 503399, 4211677; 503398, 4211672; 503414, 4211644; 503429, 4211636; 503447, 4211617; 503490, 4211597; 503500, 4211598; 503511, 4211596; 503520, 4211591; 503534, 4211582; 503545, 4211570; 503549, 4211568; 503551, 4211564; 503562, 4211560; 503584, 4211547; 503603, 4211544; 503624, 4211532; 503645, 4211527; 503654, 4211519; 503661, 4211510; 503664, 4211500; 503664, 4211499; 503662, 4211492; 503661, 4211473; 503661, 4211453; 503657, 4211439; 503660, 4211433; 503667, 4211428; 503677, 4211426; 503688, 4211418; 503706, 4211409; 503750, 4211382; 503751, 4211380; 503751, 4211380; 503764, 4211360; 503769, 4211350; 503769, 4211350; 503771, 4211344; 503777, 4211323; 503776, 4211295; 503779, 4211274; 503781, 4211256; 503781, 4211250; 503782, 4211244; 503786, 4211224; 503786, 4211223; 503787, 4211218; 503792, 4211211; 503803, 4211215; 503808, 4211215; 503842, 4211232; 503863, 4211240; 503904, 4211249; 503908, 4211249; 503909, 4211249; 503926, 4211246; 503942, 4211239; 504003, 4211211; 504028, 4211206; 504054, 4211189; 504075, 4211181; 504115, 4211151; 504139, 4211141; 504185, 4211117; 504230, 4211073; 504265, 4211030; 504299, 4211003; 504311, 4210998; 504333, 4210980; 504401, 4210944; 504418, 4210940; 504429, 4210939; 504432, 4210937; 504442, 4210931; 504453, 4210930; 504464, 4210914; 504477, 4210900; 504483, 4210889; 504496, 4210870; 504502, 4210862; 504514, 4210844; 504518, 4210837; 504522, 4210826; 504527, 4210813; 504532, 4210795; 504537, 4210781; 504541, 4210765; 504552, 4210746; 504570, 4210723; 504584, 4210703; 504604, 4210664; 504610, 4210645; 504622, 4210622; 504631, 4210608; 504644, 4210586; 504659, 4210567; 504671, 4210552; 504681, 4210541; 504695, 4210529; 504707, 4210517; 504718, 4210503; 504731, 4210486; 504751, 4210473; 504763, 4210457; 504767, 4210454; 504769, 4210453; 504802, 4210419; 504830, 4210395; 504852, 4210365; 504878, 4210346; 504911, 4210299; 504919, 4210285; 504931, 4210256; 504943, 4210230; 504957, 4210209; 504966, 4210204; 504967, 4210204; 504976, 4210195; 505003, 4210179; 505026, 4210171; 505044, 4210156; 505058, 4210148; 505071, 4210135; 505083, 4210120; 505089, 4210114; 505107, 4210091; 505122, 4210061; 505122, 4210060; 505122, 4210060; 505128, 4210036; 505135, 4210020; 505145, 4210002; 505162, 4209973; 505170, 4209949; 505179, 4209922; 505199, 4209887; 505209, 4209865; 505200, 4209806; 505210, 4209772; 505209, 4209767; 505214, 4209729; 505217, 4209711; 505237, 4209682; 505267, 4209670; 505279, 4209661; 505296, 4209660; 505306, 4209661; 505307, 4209661; 505324, 4209654; 505337, 4209657; 505362, 4209657; 505374, 4209663; 505380, 4209674; 505376, 4209683; 505381, 4209687; 505360, 4209728; 505348, 4209760; 505343, 4209781; 505344, 4209790; 505363, 4209797; 505377, 4209798; 505388, 4209796; 505401, 4209790; 505413, 4209788; 505429, 4209782; 505438, 4209778; 505451, 4209779; 505466, 4209778; 505469, 4209778; 505480, 4209774; 505498, 4209776; 505498, 4209776; 505498, 4209776; 505547, 4209768; 505574, 4209760; 505596, 4209746; 505607, 4209732; 505629, 4209689; 505633, 4209672; 505636, 4209635; 505631, 4209617; 505624, 4209596; 505624, 4209596; 505618, 4209588; 505611, 4209579; 505610, 4209579; 505609, 4209578; 505596, 4209564; 505584, 4209557; 505579, 4209550; 505577, 4209548; 505552, 4209541; 505421, 4209520; 505402, 4209512; 505393, 4209503; 505370, 4209480; 505361, 4209467; 505350, 4209447; 505348, 4209439; 505345, 4209433; 505343, 4209422; 505340, 4209413; 505334, 4209389; 505317, 4209355; 505287, 4209337; 505235, 4209318; 505204, 4209311; 505105, 4209302; 505086, 4209298; 505057, 4209287; 505033, 4209285; 505026, 4209283; 504990, 4209283; 504971, 4209284; 504933, 4209284; 504913, 4209284; 504880, 4209283; 504845, 4209284; 504807, 4209281; 504784, 4209275; 504747, 4209277; 504737, 4209275; 504727, 4209271; 504720, 4209273; 504696, 4209271; 504665, 4209255; 504624, 4209252; 504596, 4209248; 504586, 4209246; 504575, 4209245; 504559, 4209245; 504547, 4209240; 504495, 4209232; 504405, 4209202; 504389, 4209198; 504376, 4209193; 504346, 4209187; 504306, 4209178; 504253, 4209160; 504242, 4209154; 504210, 4209143; 504200, 4209140; 504175, 4209130; 504166, 4209128; 504164, 4209128; 504164, 4209128; 504141, 4209124; 504102, 4209114; 504100, 4209114; 504099, 4209113; 504056, 4209102; 504014, 4209082; 503989, 4209074; 503983, 4209074; 503967, 4209068; 503961, 4209066; 503954, 4209063; 503943, 4209059; 503889, 4209035; 503881, 4209033; 503854, 4209025; 503838, 4209021; 503834, 4209017; 503834, 4209017; 503820, 4209008; 503786, 4209001; 503754, 4208988; 503748, 4208985; 503682, 4208959; 503654, 4208944; 503616, 4208919; 503583, 4208907; 503570, 4208896; 503554, 4208891; 503532, 4208892; 503501, 4208876; 503471, 4208872; 503440, 4208860; 503413, 4208842; 503390, 4208829; 503350, 4208801; 503318, 4208760; 503302, 4208751; 503301, 4208750; 503299, 4208749; 503269, 4208731; 503265, 4208729; 503222, 4208705; 503208, 4208698; 503183, 4208684; 503176, 4208677; 503142, 4208657; 503088, 4208616; 503052, 4208598; 503021, 4208576; 503002, 4208557; 502971, 4208523; 502952, 4208500; 502941, 4208492; 502921, 4208466; 502886, 4208436; 502873, 4208426; 502853, 4208407; 502850, 4208404; 502793, 4208350; 502767, 4208338; 502752, 4208323; 502731, 4208308; 502703, 4208282; 502696, 4208277; 502690, 4208274; 502679, 4208265; 502657, 4208252; 502635, 4208234; 502616, 4208220; 502594, 4208207; 502571, 4208187; 502547, 4208161; 502529, 4208137; 502528, 4208137; 502528, 4208137; 502492, 4208108; 502473, 4208096; 502460, 4208084; 502430, 4208052; 502330, 4207930; 502310, 4207912; 502300, 4207898; 502295, 4207884; 502291, 4207878; 502288, 4207874; 502153, 4207710; 502112, 4207659; 502090, 4207631; 502078, 4207615; 502062, 4207598; 502051, 4207579; 502051, 4207579; 502043, 4207569; 502001, 4207513; 501987, 4207490; 501973, 4207466; 501957, 4207447; 501940, 4207416; 501893, 4207358; 501881, 4207338; 501879, 4207338; 501876, 4207330; 501862, 4207309; 501843, 4207272; 501824, 4207226; 501784, 4207139; 501765, 4207113; 501755, 4207100; 501733, 4207066; 501717, 4207036; 501706, 4207020; 501674, 4206965; 501672, 4206960; 501665, 4206949; 501650, 4206915; 501614, 4206847; 501603, 4206832; 501598, 4206816; 501590, 4206799; 501575, 4206753; 501565, 4206700; 501546, 4206648; 501539, 4206623; 501539, 4206623; 501533, 4206606; 501517, 4206561; 501512, 4206543; 501476, 4206443; 501472, 4206426; 501463, 4206404; 501445, 4206330; 501438, 4206292; 501432, 4206271; 501432, 4206271; 501425, 4206249; 501407, 4206126; 501401, 4206059; 501403, 4206018; 501401, 4205996; 501404, 4205949; 501407, 4205930; 501415, 4205912; 501427, 4205894; 501444, 4205875; 501468, 4205857; 501476, 4205847; 501471, 4205807; 501473, 4205798; 501473, 4205787; 501478, 4205736; 501474, 4205713; 501473, 4205711; 501467, 4205688; 501464, 4205660; 501464, 4205640; 501468, 4205622; 501473, 4205609; 501474, 4205606; 501475, 4205603; 501480, 4205590; 501484, 4205586; 501492, 4205570; 501499, 4205564; 501513, 4205559; 501517, 4205557; 501532, 4205552; 501533, 4205552; 501544, 4205548; 501559, 4205550; 501564, 4205549; 501569, 4205550; 501583, 4205543; 501585, 4205540; 501595, 4205537; 501601, 4205534; 501619, 4205536; 501633, 4205533; 501645, 4205532; 501659, 4205519; 501662, 4205514; 501671, 4205509; 501678, 4205503; 501688, 4205499; 501688, 4205499; 501692, 4205496; 501706, 4205492; 501723, 4205485; 501730, 4205480; 501738, 4205469; 501751, 4205463; 501757, 4205460; 501759, 4205459; 501765, 4205457; 501765, 4205457; 501773, 4205455; 501774, 4205455; 501776, 4205455; 501797, 4205457; 501808, 4205452; 501812, 4205449; 501823, 4205444; 501841, 4205439; 501843, 4205438; 501844, 4205438; 501844, 4205438; 501846, 4205437; 501854, 4205430; 501854, 4205426; 501856, 4205417; 501872, 4205398; 501879, 4205395; 501882, 4205395; 501883, 4205393; 501897, 4205392; 501899, 4205392; 501899, 4205392; 501900, 4205392; 501915, 4205384; 501926, 4205385; 501929, 4205384; 501943, 4205388; 501944, 4205388; 501964, 4205388; 501982, 4205371; 501999, 4205340; 502007, 4205331; 502007, 4205331; 502013, 4205322; 502016, 4205320; 502018, 4205316; 502043, 4205292; 502047, 4205285; 502056, 4205276; 502057, 4205275; 502079, 4205256; 502092, 4205250; 502107, 4205245; 502128, 4205241; 502163, 4205229; 502182, 4205218; 502194, 4205208; 502220, 4205194; 502231, 4205191; 502231, 4205191; 502256, 4205182; 502258, 4205180; 502272, 4205175; 502281, 4205173; 502281, 4205173; 502299, 4205164; 502318, 4205150; 502334, 4205144; 502351, 4205134; 502367, 4205130; 502385, 4205137; 502400, 4205146; 502413, 4205157; 502430, 4205165; 502442, 4205166; 502453, 4205162; 502468, 4205151; 502478, 4205146; 502493, 4205142; 502497, 4205140; 502504, 4205141; 502504, 4205141; 502516, 4205141; 502536, 4205144; 502541, 4205147; 502555, 4205148; 502567, 4205152; 502571, 4205151; 502583, 4205141; 502592, 4205135; 502611, 4205128; 502621, 4205125; 502636, 4205120; 502656, 4205106; 502657, 4205105; 502663, 4205102; 502666, 4205100; 502686, 4205086; 502700, 4205086; 502708, 4205083; 502719, 4205085; 502727, 4205084; 502750, 4205080; 502762, 4205080; 502779, 4205085; 502781, 4205087; 502786, 4205088; 502794, 4205091; 502808, 4205100; 502822, 4205111; 502837, 4205117; 502852, 4205120; 502859, 4205114; 502868, 4205113; 502874, 4205110; 502875, 4205094; 502878, 4205092; 502881, 4205065; 502886, 4205048; 502895, 4205034; 502905, 4205017; 502907, 4205016; 502907, 4205015; 502926, 4204999; 502936, 4204973; 502941, 4204966; 502943, 4204963; 502944, 4204961; 502947, 4204951; 502963, 4204927; 502967, 4204919; 502968, 4204918; 502971, 4204914; 502977, 4204912; 502987, 4204904; 502991, 4204899; 503002, 4204891; 503006, 4204880; 503008, 4204872; 503005, 4204858; 503008, 4204837; 503011, 4204827; 503019, 4204813; 503025, 4204804; 503035, 4204794; 503080, 4204761; 503099, 4204746; 503129, 4204734; 503136, 4204724; 503138, 4204715; 503138, 4204712; 503135, 4204708; 503120, 4204700; 503093, 4204693; 503019, 4204691; 503017, 4204690; 503008, 4204691; 502993, 4204677; 502990, 4204677; 502973, 4204662; 502967, 4204663; 502955, 4204674; 502947, 4204702; 502940, 4204712; 502927, 4204721; 502915, 4204721; 502891, 4204718; 502855, 4204728; 502844, 4204728; 502837, 4204731; 502831, 4204731; 502821, 4204740; 502816, 4204741; 502816, 4204741; 502804, 4204744; 502789, 4204742; 502780, 4204740; 502764, 4204743; 502755, 4204746; 502752, 4204749; 502743, 4204749; 502703, 4204757; 502685, 4204753; 502660, 4204750; 502650, 4204748; 502642, 4204748; 502615, 4204742; 502569, 4204721; 502559, 4204719; 502556, 4204718; 502556, 4204718; 502546, 4204716; 502542, 4204716; 502522, 4204720; 502479, 4204716; 502473, 4204716; 502467, 4204715; 502446, 4204713; 502423, 4204715; 502418, 4204715; 502400, 4204719; 502396, 4204720; 502383, 4204725; 502377, 4204729; 502357, 4204754; 502342, 4204783; 502327, 4204804; 502323, 4204822; 502344, 4204860; 502347, 4204879; 502347, 4204896; 502347, 4204896; 502341, 4204912; 502330, 4204924; 502312, 4204939; 502307, 4204948; 502302, 4204952; 502292, 4204963; 502270, 4204974; 502251, 4204977; 502231, 4204978; 502192, 4204973; 502181, 4204983; 502174, 4204978; 502174, 4204967; 502171, 4204960; 502170, 4204958; 502142, 4204965; 502137, 4204965; 502133, 4204957; 502121, 4204960; 502109, 4204969; 502070, 4204970; 502022, 4204991; 502000, 4204992; 501976, 4205007; 501964, 4205008; 501937, 4205007; 501922, 4205010; 501908, 4205011; 501862, 4205004; 501836, 4205005; 501822, 4204999; 501808, 4204991; 501776, 4205006; 501759, 4205009; 501745, 4205001; 501737, 4204991; 501726, 4204967; 501718, 4204964; 501698, 4204972; 501683, 4204983; 501670, 4204989; 501638, 4204993; 501623, 4205001; 501603, 4205001; 501592, 4204999; 501567, 4204996; 501565, 4204995; 501558, 4204994; 501542, 4204983; 501525, 4204977; 501512, 4204979; 501498, 4204981; 501491, 4204980; 501478, 4204972; 501474, 4204974; 501475, 4204976; 501483, 4204987; 501481, 4204994; 501452, 4205006; 501431, 4205026; 501418, 4205028; 501408, 4205033; 501397, 4205033; 501386, 4205028; 501364, 4205028; 501362, 4205016; 501361, 4205014; 501353, 4205017; 501344, 4205016; 501336, 4205026; 501329, 4205033; 501321, 4205035; 501307, 4205037; 501278, 4205031; 501270, 4205025; 501269, 4205014; 501267, 4205012; 501265, 4205006; 501253, 4205000; 501242, 4205007; 501233, 4205013; 501225, 4205009; 501223, 4205001; 501225, 4204995; 501224, 4204994; 501224, 4204985; 501229, 4204964; 501233, 4204952; 501233, 4204945; 501227, 4204933; 501214, 4204929; 501193, 4204935; 501178, 4204946; 501164, 4204964; 501158, 4204984; 501145, 4204993; 501125, 4204998; 501120, 4205001; 501123, 4205008; 501130, 4205012; 501142, 4205018; 501153, 4205030; 501153, 4205031; 501156, 4205033; 501156, 4205040; 501152, 4205043; 501143, 4205038; 501137, 4205043; 501136, 4205052; 501142, 4205060; 501139, 4205074; 501133, 4205082; 501132, 4205082; 501127, 4205088; 501113, 4205094; 501107, 4205089; 501105, 4205078; 501104, 4205076; 501098, 4205071; 501095, 4205075; 501093, 4205082; 501090, 4205084; 501090, 4205090; 501084, 4205094; 501075, 4205091; 501073, 4205085; 501074, 4205070; 501055, 4205047; 501054, 4205049; 501052, 4205052; 501050, 4205060; 501046, 4205066; 501039, 4205084; 501043, 4205093; 501040, 4205097; 501040, 4205097; 501039, 4205097; 501035, 4205101; 501032, 4205103; 501028, 4205109; 501022, 4205112; 501020, 4205111; 501018, 4205112; 501000, 4205109; 500993, 4205115; 500993, 4205116; 500987, 4205129; 500987, 4205129; 500986, 4205131; 500986, 4205133; 500985, 4205133; 500985, 4205134; 500985, 4205134; 500980, 4205142; 500978, 4205143; 500978, 4205143; 500978, 4205145; 500977, 4205145; 500973, 4205148; 500965, 4205147; 500954, 4205148; 500932, 4205153; 500922, 4205162; 500916, 4205165; 500909, 4205170; 500897, 4205173; 500897, 4205174; 500862, 4205188; 500851, 4205200; 500837, 4205210; 500823, 4205213; 500805, 4205213; 500780, 4205204; 500760, 4205203; 500723, 4205186; 500722, 4205182; 500720, 4205181; 500711, 4205174; 500706, 4205173; 500702, 4205173; 500695, 4205179; 500695, 4205179; 500693, 4205181; 500678, 4205182; 500677, 4205182; 500666, 4205186; 500657, 4205183; 500649, 4205183; 500647, 4205181; 500642, 4205180; 500627, 4205170; 500612, 4205163; 500592, 4205160; 500567, 4205149; 500557, 4205134; 500562, 4205118; 500562, 4205118; 500563, 4205110; 500561, 4205103; 500560, 4205101; 500559, 4205096; 500555, 4205088; 500554, 4205077; 500560, 4205056; 500560, 4205048; 500553, 4205043; 500535, 4205043; 500534, 4205043; 500533, 4205043; 500525, 4205043; 500514, 4205038; 500505, 4205028; 500505, 4205028; 500497, 4205020; 500489, 4205017; 500476, 4205014; 500462, 4205010; 500461, 4205010; 500461, 4205010; 500446, 4205013; 500427, 4205014; 500425, 4205015; 500419, 4205022; 500410, 4205029; 500412, 4205039; 500421, 4205042; 500422, 4205045; 500424, 4205047; 500423, 4205050; 500424, 4205053; 500421, 4205074; 500418, 4205080; 500418, 4205086; 500410, 4205091; 500409, 4205094; 500409, 4205103; 500410, 4205107; 500409, 4205116; 500406, 4205119; 500397, 4205130; 500390, 4205134; 500380, 4205146; 500357, 4205157; 500345, 4205160; 500335, 4205159; 500333, 4205160; 500323, 4205160; 500278, 4205167; 500261, 4205166; 500248, 4205160; 500245, 4205159; 500227, 4205151; 500226, 4205151; 500197, 4205150; 500173, 4205142; 500172, 4205143; 500166, 4205142; 500151, 4205141; 500149, 4205137; 500149, 4205135; 500148, 4205131; 500143, 4205121; 500143, 4205114; 500137, 4205107; 500123, 4205105; 500105, 4205118; 500089, 4205128; 500082, 4205128; 500075, 4205120; 500054, 4205073; 500051, 4205072; 500045, 4205072; 500035, 4205076; 500018, 4205100; 500017, 4205115; 500018, 4205126; 500019, 4205128; 500018, 4205128; 500018, 4205133; 500014, 4205138; 500003, 4205136; 499993, 4205140; 499980, 4205136; 499964, 4205139; 499953, 4205135; 499943, 4205135; 499935, 4205133; 499935, 4205132; 499933, 4205132; 499930, 4205123; 499929, 4205109; 499930, 4205091; 499927, 4205082; 499925, 4205078; 499896, 4205062; 499867, 4205055; 499848, 4205054; 499818, 4205068; 499811, 4205067; 499800, 4205069; 499797, 4205065; 499793, 4205062; 499773, 4205044; 499771, 4205042; 499738, 4205042; 499734, 4205043; 499707, 4205051; 499700, 4205063; 499694, 4205060; 499693, 4205061; 499683, 4205058; 499671, 4205047; 499669, 4205046; 499662, 4205045; 499661, 4205046; 499653, 4205058; 499645, 4205064; 499640, 4205063; 499635, 4205064; 499599, 4205060; 499581, 4205064; 499565, 4205072; 499543, 4205077; 499502, 4205075; 499492, 4205079; 499483, 4205086; 499473, 4205105; 499470, 4205108; 499461, 4205124; 499460, 4205135; 499469, 4205149; 499472, 4205153; 499472, 4205155; 499474, 4205158; 499474, 4205179; 499462, 4205204; 499451, 4205214; 499442, 4205230; 499435, 4205235; 499425, 4205237; 499418, 4205241; 499411, 4205243; 499397, 4205252; 499387, 4205252; 499377, 4205258; 499364, 4205256; 499363, 4205255; 499361, 4205255; 499346, 4205250; 499342, 4205254; 499340, 4205258; 499339, 4205263; 499340, 4205275; 499343, 4205281; 499341, 4205288; 499340, 4205294; 499339, 4205295; 499339, 4205295; 499331, 4205302; 499317, 4205308; 499305, 4205318; 499296, 4205322; 499258, 4205324; 499235, 4205317; 499212, 4205317; 499194, 4205309; 499175, 4205307; 499164, 4205304; 499152, 4205304; 499148, 4205296; 499150, 4205290; 499150, 4205284; 499147, 4205271; 499143, 4205267; 499137, 4205265; 499136, 4205266; 499122, 4205271; 499112, 4205269; 499104, 4205273; 499097, 4205295; 499088, 4205296; 499087, 4205296; 499087, 4205296; 499083, 4205290; 499081, 4205287; 499078, 4205277; 499072, 4205272; 499068, 4205273; 499067, 4205274; 499062, 4205277; 499057, 4205283; 499052, 4205296; 499050, 4205313; 499044, 4205319; 499044, 4205317; 499042, 4205321; 499036, 4205317; 499034, 4205312; 499024, 4205301; 499023, 4205302; 499015, 4205305; 499014, 4205304; 499006, 4205309; 499001, 4205306; 499000, 4205298; 499003, 4205286; 499005, 4205265; 499023, 4205267; 499019, 4205247; 499011, 4205251; 499009, 4205250; 499005, 4205252; 498998, 4205248; 498992, 4205227; 498980, 4205220; 498979, 4205221; 498977, 4205223; 498976, 4205232; 498977, 4205251; 498976, 4205260; 498973, 4205267; 498974, 4205281; 498980, 4205285; 498985, 4205302; 498982, 4205309; 498973, 4205318; 498965, 4205319; 498951, 4205327; 498944, 4205325; 498933, 4205328; 498920, 4205321; 498912, 4205307; 498907, 4205289; 498890, 4205260; 498879, 4205251; 498855, 4205240; 498848, 4205233; 498822, 4205218; 498806, 4205212; 498792, 4205203; 498788, 4205193; 498787, 4205189; 498770, 4205156; 498762, 4205145; 498745, 4205135; 498723, 4205140; 498717, 4205137; 498703, 4205138; 498691, 4205132; 498682, 4205131; 498676, 4205132; 498673, 4205132; 498652, 4205145; 498650, 4205146; 498622, 4205158; 498592, 4205171; 498575, 4205173; 498567, 4205173; 498544, 4205162; 498528, 4205156; 498513, 4205156; 498488, 4205185; 498481, 4205196; 498479, 4205197; 498479, 4205199; 498475, 4205202; 498471, 4205205; 498471, 4205204; 498468, 4205201; 498468, 4205198; 498468, 4205197; 498468, 4205194; 498470, 4205165; 498448, 4205149; 498446, 4205150; 498428, 4205169; 498424, 4205169; 498416, 4205174; 498395, 4205177; 498386, 4205176; 498377, 4205177; 498358, 4205182; 498337, 4205195; 498334, 4205198; 498331, 4205203; 498332, 4205216; 498337, 4205230; 498333, 4205236; 498331, 4205237; 498331, 4205237; 498325, 4205247; 498311, 4205254; 498299, 4205253; 498282, 4205256; 498264, 4205257; 498253, 4205262; 498229, 4205266; 498206, 4205261; 498178, 4205274; 498167, 4205274; 498165, 4205274; 498151, 4205279; 498128, 4205271; 498127, 4205270; 498125, 4205270; 498105, 4205260; 498105, 4205247; 498096, 4205241; 498088, 4205242; 498086, 4205243; 498077, 4205249; 498073, 4205251; 498063, 4205260; 498046, 4205259; 498034, 4205264; 498025, 4205262; 498014, 4205262; 498014, 4205262; 498013, 4205262; 498012, 4205260; 498005, 4205251; 498004, 4205246; 498003, 4205246; 498003, 4205245; 498003, 4205244; 498003, 4205230; 498000, 4205224; 497996, 4205221; 497991, 4205219; 497980, 4205210; 497976, 4205210; 497970, 4205213; 497969, 4205214; 497959, 4205221; 497942, 4205224; 497940, 4205225; 497933, 4205229; 497922, 4205237; 497918, 4205235; 497916, 4205236; 497905, 4205232; 497890, 4205238; 497885, 4205255; 497885, 4205259; 497884, 4205260; 497883, 4205263; 497872, 4205276; 497869, 4205288; 497874, 4205315; 497900, 4205365; 497903, 4205377; 497912, 4205389; 497918, 4205404; 497930, 4205414; 497936, 4205422; 497940, 4205425; 497965, 4205440; 497980, 4205463; 497980, 4205464; 497983, 4205467; 498000, 4205493; 498009, 4205509; 498035, 4205535; 498034, 4205537; 498028, 4205549; 498034, 4205567; 498040, 4205574; 498041, 4205576; 498046, 4205580; 498058, 4205598; 498080, 4205615; 498095, 4205607; 498098, 4205610; 498099, 4205610; 498101, 4205611; 498104, 4205614; 498105, 4205622; 498108, 4205631; 498110, 4205637; 498115, 4205646; 498119, 4205651; 498120, 4205657; 498124, 4205660; 498123, 4205667; 498109, 4205663; 498105, 4205664; 498105, 4205668; 498118, 4205679; 498124, 4205679; 498131, 4205689; 498140, 4205694; 498153, 4205714; 498157, 4205731; 498166, 4205754; 498188, 4205786; 498198, 4205788; 498201, 4205790; 498205, 4205785; 498211, 4205787; 498217, 4205783; 498223, 4205788; 498227, 4205787; 498235, 4205793; 498243, 4205796; 498249, 4205789; 498252, 4205784; 498254, 4205783; 498256, 4205779; 498279, 4205770; 498294, 4205766; 498308, 4205758; 498317, 4205761; 498326, 4205756; 498337, 4205763; 498352, 4205766; 498360, 4205764; 498403, 4205738; 498426, 4205721; 498435, 4205717; 498456, 4205690; 498474, 4205671; 498497, 4205674; 498509, 4205683; 498518, 4205683; 498525, 4205690; 498526, 4205690; 498545, 4205694; 498554, 4205700; 498558, 4205702; 498573, 4205705; 498575, 4205705; 498575, 4205706; 498581, 4205707; 498584, 4205733; 498583, 4205751; 498574, 4205761; 498568, 4205764; 498569, 4205766; 498573, 4205774; 498579, 4205773; 498587, 4205774; 498592, 4205779; 498592, 4205779; 498593, 4205780; 498596, 4205781; 498597, 4205782; 498601, 4205792; 498604, 4205795; 498604, 4205795; 498612, 4205790; 498622, 4205791; 498625, 4205794; 498630, 4205803; 498634, 4205806; 498642, 4205822; 498651, 4205832; 498651, 4205833; 498662, 4205844; 498666, 4205854; 498666, 4205855; 498667, 4205860; 498669, 4205867; 498669, 4205870; 498669, 4205870; 498673, 4205884; 498669, 4205911; 498673, 4205924; 498682, 4205933; 498685, 4205937; 498691, 4205938; 498698, 4205935; 498706, 4205936; 498714, 4205931; 498721, 4205930; 498743, 4205931; 498757, 4205920; 498761, 4205920; 498770, 4205914; 498779, 4205921; 498786, 4205921; 498791, 4205918; 498796, 4205913; 498798, 4205913; 498799, 4205912; 498805, 4205910; 498806, 4205910; 498810, 4205908; 498819, 4205919; 498822, 4205928; 498828, 4205936; 498832, 4205946; 498833, 4205948; 498849, 4205970; 498855, 4205986; 498875, 4206029; 498880, 4206027; 498891, 4206035; 498909, 4206075; 498948, 4206134; 498965, 4206171; 498988, 4206249; 498996, 4206269; 499014, 4206308; 499055, 4206410; 499092, 4206469; 499110, 4206495; 499114, 4206508; 499119, 4206516; 499128, 4206540; 499134, 4206572; 499165, 4206661; 499188, 4206707; 499224, 4206761; 499243, 4206781; 499258, 4206809; 499276, 4206831; 499287, 4206859; 499304, 4206893; 499327, 4206960; 499352, 4207024; 499357, 4207070; 499357, 4207085; 499358, 4207093; 499360, 4207109; 499374, 4207162; 499416, 4207247; 499432, 4207265; 499474, 4207385; 499485, 4207405; 499508, 4207459; 499516, 4207503; 499523, 4207519; 499528, 4207543; 499531, 4207551; 499534, 4207573; 499534, 4207574; 499535, 4207577; 499535, 4207577; 499541, 4207618; 499549, 4207647; 499557, 4207662; 499572, 4207682; 499615, 4207746; 499663, 4207893; 499676, 4207924; 499689, 4207948; 499717, 4208013; 499726, 4208051; 499752, 4208138; 499770, 4208171; 499788, 4208198; 499810, 4208219; 499817, 4208235; 499828, 4208252; 499840, 4208281; 499860, 4208314; 499871, 4208340; 499880, 4208364; 499880, 4208365; 499883, 4208370; 499885, 4208386; 499886, 4208392; 499889, 4208412; 499890, 4208434; 499890, 4208434; 499897, 4208473; 499897, 4208473; 499905, 4208502; 499910, 4208511; 499936, 4208598; 499964, 4208642; 499993, 4208697; 500003, 4208729; 500015, 4208751; 500040, 4208819; 500057, 4208850; 500072, 4208874; 500090, 4208911; 500104, 4208931; 500121, 4208974; 500132, 4209014; 500135, 4209021; 500145, 4209034; 500145, 4209056; 500147, 4209069; 500147, 4209085; 500153, 4209145; 500180, 4209243; 500188, 4209255; 500201, 4209286; 500217, 4209312; 500227, 4209321; 500255, 4209357; 500303, 4209435; 500331, 4209492; 500355, 4209563; 500363, 4209590; 500365, 4209635; 500366, 4209639; 500367, 4209656; 500370, 4209717; 500378, 4209751; 500386, 4209796; 500405, 4209844; 500450, 4209913; 500460, 4209935; 500541, 4210077; 500552, 4210109; 500570, 4210182; 500578, 4210238; 500584, 4210259; 500604, 4210314; 500622, 4210356; 500636, 4210382; 500641, 4210395; 500645, 4210402; 500655, 4210431; 500660, 4210454; 500661, 4210458; 500663, 4210466; 500681, 4210552; 500702, 4210613; 500722, 4210650; 500733, 4210658; 500745, 4210687; 500754, 4210714; 500762, 4210753; 500777, 4210790; 500785, 4210814; 500808, 4210867; 500855, 4210969; 500868, 4211004; 500891, 4211047; 500902, 4211075; 500910, 4211101; 500914, 4211122; 500920, 4211175; 500925, 4211193; 500929, 4211202; 500931, 4211209; 500946, 4211247; 500952, 4211255; 500974, 4211292; 501006, 4211367; 501015, 4211391; 501025, 4211427; 501037, 4211449; 501048, 4211480; 501111, 4211638; 501141, 4211722; 501161, 4211785; 501176, 4211844; 501187, 4211878; 501199, 4211901; 501219, 4211927; 501245, 4211976; 501251, 4211996; 501257, 4212031; 501267, 4212112; 501270, 4212131; 501275, 4212144; 501278, 4212155; 501278, 4212155; 501278, 4212155; 501287, 4212179; 501305, 4212222; 501342, 4212288; 501365, 4212349; 501366, 4212352; 501411, 4212470; 501437, 4212552; 501446, 4212574; 501455, 4212607; 501456, 4212633; 501471, 4212676; 501479, 4212704; 501495, 4212748; 501510, 4212777; 501534, 4212812; 501561, 4212861; 501585, 4212920; 501588, 4212927; 501591, 4212935; 501593, 4212942; 501595, 4212949; 501600, 4212963; 501600, 4212967; 501607, 4212993; 501627, 4213108; 501643, 4213175; 501666, 4213226; 501700, 4213276; 501713, 4213301; 501714, 4213302; 501753, 4213388; 501758, 4213409; 501776, 4213542; 501782, 4213569; 501788, 4213587; 501817, 4213639; 501829, 4213657; 501876, 4213750; 501895, 4213793; 501910, 4213842; 501922, 4213863; 501943, 4213921; 501948, 4213941; 501952, 4213973; 501951, 4214005; 501948, 4214028; 501948, 4214040; 501951, 4214054; 501957, 4214069; 501959, 4214072; 501965, 4214079; 501981, 4214109; 502010, 4214145; 502021, 4214162; 502021, 4214163; 502024, 4214167; 502025, 4214174; 502034, 4214199; 502045, 4214213; 502053, 4214232; 502055, 4214244; 502057, 4214250; 502057, 4214250; 502058, 4214259; 502058, 4214259; 502065, 4214292; 502066, 4214313; 502065, 4214350; 502066, 4214371; 502071, 4214393; 502085, 4214455; 502103, 4214498; 502123, 4214539; 502138, 4214558; 502150, 4214579; 502168, 4214604; 502185, 4214637; 502195, 4214653; 502201, 4214662; 502201, 4214664; 502213, 4214682; 502243, 4214761; 502276, 4214868; 502278, 4214881; 502280, 4214886; 502289, 4214953; 502289, 4214954; 502295, 4214997; 502299, 4215017; 502311, 4215051; 502328, 4215075; 502342, 4215100; 502375, 4215177; 502392, 4215235; 502403, 4215327; 502404, 4215329; 502406, 4215342; 502419, 4215378; 502421, 4215389; 502430, 4215411; 502442, 4215434; 502454, 4215453; 502465, 4215467; 502477, 4215496; 502491, 4215520; 502505, 4215559; 502518, 4215583; 502524, 4215609; 502537, 4215638; 502564, 4215719; 502579, 4215755; 502602, 4215822; 502608, 4215856; 502620, 4215895; 502634, 4215933; 502642, 4215962; 502661, 4216012; 502669, 4216045; 502675, 4216061; 502676, 4216093; 502683, 4216121; 502683, 4216155; 502689, 4216173; 502701, 4216197; 502724, 4216222; 502751, 4216271; 502773, 4216327; 502773, 4216327; 502775, 4216331; 502790, 4216369; 502796, 4216397; 502807, 4216432; 502808, 4216456; 502808, 4216458; 502808, 4216462; 502809, 4216486; 502803, 4216533; 502809, 4216569; 502818, 4216587; 502842, 4216626; 502868, 4216676; 502882, 4216697; 502892, 4216732; 502903, 4216760; 502909, 4216800; 502918, 4216830; 502930, 4216857; 502940, 4216886; 502965, 4216989; 502971, 4217010; 502991, 4217061; 503019, 4217101; 503028, 4217110; 503055, 4217161; 503058, 4217168; 503059, 4217171; 503196, 4217112; 503293, 4217060; 503345, 4217022; 503395, 4216977; 503433, 4216937; 503488, 4216872; 503588, 4216744; 503636, 4216675; 503679, 4216629; 503730, 4216579; 503799, 4216555; 503874, 4216565; 503958, 4216581; 504032, 4216575; 504061, 4216575; 504136, 4216559; 504192, 4216556; 504285, 4216561; 504358, 4216576; 504526, 4216621; 504615, 4216652; 504797, 4216728; 504859, 4216757; 504953, 4216812; 505085, 4216903; 505264, 4217009; 505358, 4217052; 505424, 4217075; 505520, 4217100; 505550, 4217104; 506063, 4216933; 506541, 4216757; 506578, 4216953; 506604, 4217025; 506604, 4217067; 506525, 4217161; 506532, 4217185; 506994, 4217323; 507410, 4217877; 508102, 4217877; 508472, 4217970; 509072, 4218155; 509626, 4218155; 509739, 4218122; 509753, 4218115; 509781, 4218100; 509798, 4218092; 509861, 4218079; 510049, 4218015; 510135, 4217982; 510198, 4217950; 510242, 4217916; 510251, 4217895; 510310, 4217844; 510316, 4217843; 510329, 4217830; 510344, 4217819; 510341, 4217814; 510293, 4217783; 510265, 4217773; 510241, 4217764; 510180, 4217729; 510140, 4217687; 510125, 4217650; 510094, 4217578; 510089, 4217541; 510054, 4217459; 510038, 4217432; 509985, 4217372; 509967, 4217345; 509963, 4217330; 509969, 4217240; 509962, 4217179; 510015, 4217104; 510098, 4216973; 510136, 4216841; returning to 510133, 4216765.

(ii) Note: Unit MRN-3 for California red-legged frog is depicted on the map in paragraph (18)(ii) of this entry.

(21) Unit SOL-1: Solano and Napa Counties, California. From USGS 1:24,000 scale quadrangles Cordelia, Benecia, Fairfield South and Vine Hill.

(i) Land bounded by the following UTM zone 10, NAD 1983 coordinates (E, N): 573848, 4228015; 573903, 4227912; 573977, 4227914; 574038, 4227957; 574101, 4228001; 574144, 4227996; 574141, 4227977; 574142, 4227953; 574142, 4227953; 574151, 4227931; 574151, 4227931; 574159, 4227922; 574162, 4227922; 574168, 4227924; 574108, 4227756; 574045, 4227438; 574091, 4227308; 574151, 4227288; 574185, 4227277; 574227, 4227263; 574369, 4227183; 574391, 4227151; 574420, 4227110; 574539, 4226906; 574607, 4226770; 574709, 4226724; 574710, 4226757; 574747, 4226749; 574752, 4226739; 574956, 4226092; 575176, 4225375; 575264, 4225162; 575359, 4224951; 575367, 4224934; 575363, 4224914; 575154, 4224811; 575155, 4224618; 575156, 4224422; 575248, 4224367; 575340, 4224312; 575308, 4224295; 575272, 4224261; 575277, 4224221; 575368, 4224094; 575430, 4223998; 575487, 4223947; 575543, 4223916; 575614, 4223905; 575693, 4223901; 575755, 4223882; 575835, 4223882; 575898, 4223882; 575934, 4223899; 575951, 4223933; 575954, 4223981; 575956, 4224042; 576006, 4224063; 576184, 4224161; 576443, 4224275; 576548, 4224315; 576613, 4224309; 576698, 4224258; 576848, 4224202; 576995, 4224139; 577094, 4224080; 577153, 4224080; 577185, 4224072; 577211, 4224024; 577294, 4223874; 577294, 4223873; 577268, 4223741; 577241, 4223622; 577241, 4223622; 577294, 4223503; 577394, 4223421; 577373, 4223340; 577361, 4223317; 577361, 4223317; 577326, 4223273; 577276, 4223227; 577195, 4223202; 577144, 4223200; 577093, 4223198; 577093, 4223198; 577026, 4223148; 577034, 4223121; 577040, 4223098; 577052, 4222985; 577088, 4222761; 577095, 4222746; 577116, 4222735; 577164, 4222687; 577231, 4222620; 577424, 4222494; 577468, 4222421; 577479, 4222414; 577487, 4222409; 577533, 4222400; 577591, 4222405; 577667, 4222424; 577740, 4222438; 577764, 4222437; 577771, 4222436; 577797, 4222433; 577837, 4222421; 577901, 4222389; 577911, 4222372; 577919, 4222349; 577919, 4222338; 577915, 4222329; 577908, 4222309; 577852, 4222265; 577839, 4222250; 577823, 4222231; 577839, 4222199; 577845, 4222193; 577857, 4222180; 577900, 4222153; 577941, 4222126; 577980, 4222093; 578000, 4222065; 577976, 4222018; 577902, 4221992; 577902, 4221992; 577873, 4221986; 577851, 4221975; 577832, 4221957; 577832, 4221957; 577819, 4221920; 577819, 4221920; 577874, 4221749; 577874, 4221736; 577874, 4221723; 577866, 4221671; 577847, 4221604; 577745, 4221595; 577479, 4221571; 577479, 4221571; 577450, 4221547; 577347, 4221465; 577347, 4221267; 577327, 4221218; 577254, 4221042; 577263, 4220963; 577240, 4220963; 577240, 4220911; 577232, 4220845; 577157, 4220753; 577148, 4220644; 577148, 4220519; 577182, 4220377; 577207, 4220260; 577265, 4220101; 577340, 4219959; 577415, 4219901; 577524, 4219826; 577708, 4219717; 577833, 4219667; 578017, 4219650; 578043, 4219650; 578061, 4219640; 578022, 4219507; 577850, 4219230; 578141, 4219044; 578141, 4218806; 578141, 4218548; 578071, 4218516; 577903, 4218581; 577638, 4218687; 577506, 4218687; 577069, 4218674; 576844, 4218674; 576474, 4218621; 576315, 4218370; 576130, 4218317; 575892, 4218145; 575693, 4217814; 575535, 4217616; 575244, 4217351; 575045, 4217139; 574873, 4216862; 574717, 4216927; 574391, 4217063; 574304, 4217100; 574026, 4217139; 573854, 4217206; 573391, 4217351; 573100, 4217311; 572928, 4217404; 572730, 4217510; 572558, 4217695; 572550, 4217698; 572484, 4217823; 572490, 4218194; 572498, 4218787; 572425, 4218998; 572276, 4219425; 572241, 4219668; 572133, 4219749; 571809, 4219995; 571641, 4220177; 571486, 4220345; 571285, 4220358; 571097, 4220460; 570806, 4220727; 570722, 4220804; 570712, 4220888; 570627, 4221099; 570533, 4221334; 570467, 4221496; 570348, 4221658; 570201, 4221856; 570092, 4222003; 569971, 4222168; 569814, 4222286; 569663, 4222401; 569507, 4222520; 569322, 4222661; 569141, 4222871; 568932, 4223029; 569040, 4223296; 569100, 4223446; 569287, 4223455; 569617, 4223245; 569859, 4223239; 569998, 4223461; 570161, 4223803; 570212, 4223793; 570377, 4223850; 570589, 4223923; 570713, 4223831; 570802, 4223659; 570802, 4223501; 570936, 4223240; 570974, 4222986; 571008, 4222761; 571145, 4222466; 571240, 4222370; 571367, 4222173; 571628, 4222008; 571848, 4221869; 571964, 4221615; 572129, 4221634; 572320, 4221564; 572415, 4221529; 572618, 4221361; 572745, 4221354; 572912, 4221346; 572919, 4221484; 573050, 4221577; 573142, 4221641; 573182, 4221670; 573101, 4221744; 573101, 4222017; 573080, 4222159; 572894, 4222695; 572719, 4223078; 572686, 4223384; 572555, 4223800; 572566, 4224161; 572555, 4224434; 572609, 4224828; 572609, 4225046; 572596, 4225163; 572424, 4225185; 572363, 4225129; 572290, 4225081; 572237, 4225145; 572133, 4225232; 572065, 4225225; 571999, 4225149; 571881, 4225001; 571777, 4224944; 571704, 4224891; 571666, 4224843; 571574, 4224781; 571529, 4224773; 571484, 4224773; 571338, 4224672; 571292, 4224595; 571231, 4224490; 571143, 4224484; 571009, 4224482; 570850, 4224490; 570733, 4224439; 570602, 4224420; 570599, 4224447; 570583, 4224472; 570585, 4224503; 570574, 4224519; 570537, 4224557; 570506, 4224631; 570492, 4224657; 570463, 4224685; 570453, 4224690; 570576, 4224852; 570722, 4224934; 570875, 4225093; 570763, 4225322; 570670, 4225406; 570755, 4225528; 570809, 4225607; 570879, 4225740; 570966, 4225824; 571040, 4225925; 571138, 4226009; 571358, 4226168; 571485, 4226295; 571570, 4226412; 571618, 4226478; 571663, 4226445; 571710, 4226470; 571678, 4226529; 571802, 4226631; 571882, 4226671; 571975, 4226718; 572154, 4226771; 572345, 4226851; 572506, 4226954; 572644, 4227073; 572764, 4227177; 572866, 4227322; 572984, 4227489; 573099, 4227652; 573184, 4227773; 573262, 4227884; 573371, 4227967; 573538, 4228023; 573575, 4228010; 573657, 4228044; 573766, 4228055; returning to 573848, 4228015.

(ii) Note: Map of Units SOL-1, SOL-2 and SOL-3 for the California red-legged frog follows:

BILLING CODE 4310-55-P

BILLING CODE 4310-55-C

(22) Unit SOL-2: Solano and Napa Counties, California. From USGS 1:24,000 scale quadrangle Cordelia.

(i) Land bounded by the following UTM zone 10, NAD 1983 coordinates (E, N): 570458, 4232242; 570722, 4232209; 571086, 4232374; 571367, 4232573; 571880, 4232606; 572376, 4232441; 572552, 4232394; 572567, 4232379; 572693, 4232332; 572758, 4232291; 572809, 4232259; 572809, 4232155; 572756, 4231996; 572637, 4231837; 572637, 4231639; 572809, 4231625; 573009, 4231625; 573025, 4231606; 573192, 4231413; 573390, 4231275; 573441, 4231119; 573467, 4230836; 573406, 4230775; 573470, 4230566; 573578, 4230415; 573589, 4230376; 573663, 4230304; 573705, 4230214; 573992, 4230187; 574004, 4230149; 574021, 4230110; 574036, 4230088; 574058, 4230066; 574089, 4230043; 574120, 4230009; 574141, 4229980; 574239, 4229821; 574283, 4229777; 574320, 4229727; 574352, 4229667; 574370, 4229520; 574402, 4229394; 574403, 4229391; 574344, 4229350; 574040, 4229271; 573890, 4229241; 573760, 4229329; 573519, 4229412; 573113, 4229431; 572770, 4229520; 572598, 4229533; 572300, 4229291; 571970, 4229190; 571766, 4229253; 571606, 4229514; 571627, 4229774; 571658, 4230168; 571639, 4230536; 571519, 4230834; 571360, 4230968; 571023, 4230968; 570750, 4231012; 570560, 4230936; 570294, 4230699; 570175, 4230520; 570045, 4230326; 569918, 4230136; 569626, 4230110; 569334, 4230180; 569334, 4230180; 569332, 4230190; 569070, 4230302; 568858, 4230392; 568747, 4230511; 568604, 4230722; 568466, 4230826; 568420, 4230947; 568426, 4231119; 568427, 4231151; 568370, 4231153; 568321, 4231109; 568241, 4231036; 568170, 4231061; 568194, 4231130; 568251, 4231202; 568302, 4231244; 568522, 4231421; 568329, 4231625; 568273, 4231618; 568234, 4231535; 568199, 4231461; 568133, 4231392; 568051, 4231386; 567956, 4231463; 567912, 4231543; 567813, 4231622; 567727, 4231690; 567729, 4231696; 567729, 4231878; 567895, 4232159; 567994, 4232292; 567944, 4232639; 568093, 4233152; 568440, 4233152; 568821, 4233152; 569151, 4233185; 569548, 4233185; 569846, 4233019; 570061, 4232854; 570259, 4232540; returning to 570458, 4232242.

(ii) Note: Unit SOL-2 for California red-legged frog is depicted on the map in paragraph (21)(ii) of this entry.

(23) Unit SOL-3: Solano and Napa Counties, California. From USGS 1:24,000 scale quadrangle Cordelia.

(i) Land bounded by the following UTM zone 10, NAD 1983 coordinates (E, N): 567740, 4229171; 567893, 4229171; 568267, 4229171; 568477, 4228910; 568712, 4228853; 568966, 4228656; 569087, 4228510; 569334, 4228485; 569607, 4228396; 569918, 4228237; 570276, 4228164; 570623, 4228205; 571071, 4228258; 571392, 4228713; 571556, 4228946; 571862, 4228936; 572117, 4228927; 572376, 4228815; 572535, 4228688; 572789, 4228707; 573052, 4228841; 573309, 4228751; 573595, 4228530; 573591, 4228489; 573424, 4228298; 573276, 4228076; 573104, 4227869; 572973, 4227712; 572829, 4227682; 572720, 4227679; 572641, 4227523; 572604, 4227377; 572604, 4227200; 572501, 4227142; 572414, 4227093; 572266, 4227009; 572144, 4227002; 572043, 4226973; 571932, 4226912; 571841, 4226862; 571747, 4226787; 571739, 4226736; 571691, 4226684; 571607, 4226655; 571551, 4226607; 571371, 4226453; 571252, 4226308; 571088, 4226158; 570965, 4226045; 570858, 4225906; 570780, 4225806; 570681, 4225642; 570606, 4225519; 570453, 4225433; 570323, 4225316; 570191, 4225295; 570183, 4225292; 570088, 4225297; 569929, 4225225; 569754, 4225196; 569569, 4225199; 569376, 4225109; 569270, 4225000; 569119, 4224961; 569074, 4224876; 568960, 4224768; 568844, 4224696; 568745, 4224634; 568708, 4224627; 568642, 4224614; 568523, 4224574; 568417, 4224535; 568380, 4224504; 568307, 4224508; 568010, 4224527; 567929, 4224580; 567864, 4224622; 567746, 4224619; 567638, 4224617; 567485, 4224643; 567363, 4224646; 567019, 4224654; 566765, 4224802; 566704, 4225101; 566522, 4225215; 566413, 4225307; 566360, 4225352; 566353, 4225363; 566357, 4225429; 566423, 4225594; 566462, 4225788; 566489, 4225830; 566610, 4226015; 566604, 4226126; 566655, 4226192; 566731, 4226294; 566877, 4226326; 567175, 4226542; 567232, 4226739; 567105, 4226948; 567076, 4227307; 567221, 4227699; 567328, 4227989; 567417, 4228231; 567664, 4228428; 567740, 4228580; 567740, 4228821; returning to 567740, 4229171.

(ii) Note: Unit SOL-3 for California red-legged frog is depicted on the map in paragraph (21)(ii) of this entry.

(24) Unit CCS-1: Contra Costa County, California. From USGS 1:24,000 scale quadrangles Richmond, Benecia, Briones Valley and Walnut Creek.

(i) Land bounded by the following UTM zone 10, NAD 1983 coordinates (E, N): 572162, 4205268; 572186, 4205264; 572253, 4205288; 572327, 4205277; 572364, 4205260; 572421, 4205203; 572442, 4205195; 572582, 4205195; 572657, 4205215; 572764, 4205276; 572788, 4205283; 572909, 4205274; 572910, 4205254; 572995, 4205117; 573122, 4204829; 573298, 4204638; 573372, 4204601; 573451, 4204581; 573495, 4204549; 573515, 4204504; 573519, 4204473; 573485, 4204396; 573487, 4204382; 573494, 4204374; 573523, 4204362; 573559, 4204354; 573594, 4204332; 573606, 4204323; 573614, 4204308; 573619, 4204308; 573667, 4204266; 573672, 4204255; 573665, 4204222; 573639, 4204185; 573591, 4204145; 573539, 4204112; 573520, 4204083; 573480, 4203976; 573443, 4203827; 573433, 4203754; 573424, 4203726; 573409, 4203699; 573387, 4203684; 573355, 4203671; 573325, 4203668; 573302, 4203675; 573267, 4203695; 573212, 4203750; 573150, 4203787; 573088, 4203812; 572995, 4203834; 572928, 4203867; 572886, 4203900; 572848, 4203945; 572810, 4204007; 572757, 4204058; 572737, 4204064; 572699, 4204053; 572652, 4204030; 572600, 4203997; 572574, 4203972; 572556, 4203940; 572539, 4203856; 572526, 4203835; 572471, 4203826; 571765, 4203776; 571660, 4203656; 571674, 4203568; 571712, 4203330; 571783, 4202972; 571741, 4202650; 571991, 4202253; 572214, 4201968; 572478, 4201681; 572486, 4201677; 572488, 4201649; 572471, 4201544; 572497, 4201511; 572566, 4201483; 572614, 4201480; 572740, 4201488; 572794, 4201502; 572844, 4201528; 572878, 4201552; 572907, 4201585; 572957, 4201623; 573060, 4201721; 573081, 4201744; 573112, 4201796; 573135, 4201820; 573168, 4201827; 573189, 4201775; 573218, 4201660; 573225, 4201588; 573225, 4201480; 573237, 4201425; 573263, 4201379; 573292, 4201268; 573302, 4201259; 573337, 4201248; 573364, 4201222; 573377, 4201200; 573391, 4201154; 573461, 4200987; 573484, 4200970; 573471, 4200995; 573443, 4201046; 573455, 4201046; 573544, 4201047; 573552, 4201067; 573577, 4201137; 573579, 4201137; 573579, 4201142; 573580, 4201146; 573651, 4201342; 573745, 4201343; 573746, 4201343; 573748, 4201343; 573743, 4201463; 573742, 4201477; 574180, 4201457; 574217, 4201456; 574216, 4201457; 574210, 4201468; 574155, 4201560; 574156, 4201561; 574504, 4201744; 574506, 4201742; 574507, 4201741; 574513, 4201736; 574513, 4201736; 574514, 4201735; 574514, 4201735; 574514, 4201734; 574514, 4201734; 574515, 4201733; 574515, 4201732; 574516, 4201731; 574516, 4201730; 574517, 4201729; 574518, 4201728; 574519, 4201727; 574520, 4201726; 574521, 4201725; 574522, 4201725; 574523, 4201725; 574525, 4201724; 574526, 4201724; 574527, 4201724; 574528, 4201724; 574530, 4201725; 574531, 4201725; 574532, 4201725; 574533, 4201726; 574534, 4201727; 574535, 4201728; 574536, 4201729; 574537, 4201730; 574537, 4201731; 574538, 4201732; 574538, 4201733; 574539, 4201734; 574539, 4201736; 574539, 4201737; 574538, 4201738; 574538, 4201739; 574538, 4201741; 574537, 4201742; 574537, 4201743; 574536, 4201744; 574535, 4201745; 574534, 4201746; 574533, 4201747; 574532, 4201747; 574531, 4201748; 574530, 4201748; 574529, 4201748; 574528, 4201748; 574527, 4201749; 574526, 4201749; 574526, 4201749; 574525, 4201749; 574525, 4201750; 574518, 4201755; 574515, 4201759; 574511, 4201763; 574508, 4201768; 574506, 4201773; 574504, 4201778; 574502, 4201783; 574501, 4201788; 574501, 4201794; 574501, 4201799; 574502, 4201804; 574503, 4201810; 574505, 4201815; 574508, 4201820; 574511, 4201825; 574516, 4201835; 574520, 4201846; 574523, 4201857; 574524, 4201868; 574525, 4201880; 574525, 4201886; 574521, 4201930; 574521, 4201932; 574521, 4201934; 574522, 4201936; 574522, 4201938; 574523, 4201940; 574524, 4201941; 574525, 4201943; 574527, 4201944; 574528, 4201946; 574529, 4201947; 574531, 4201948; 574533, 4201949; 574535, 4201949; 574651, 4201982; 574652, 4201983; 574660, 4201984; 574669, 4201985; 574677, 4201985; 574686, 4201985; 574690, 4201984; 574691, 4201984; 574693, 4201983; 574695, 4201982; 574697, 4201982; 574699, 4201980; 574701, 4201979; 574702, 4201978; 574704, 4201976; 574705, 4201974; 574706, 4201972; 574707, 4201970; 574708, 4201968; 574708, 4201966; 574711, 4201944; 574712, 4201940; 574713, 4201937; 574714, 4201934; 574715, 4201932; 574717, 4201929; 574719, 4201926; 574722, 4201924; 574724, 4201922; 574727, 4201921; 574730, 4201919; 574733, 4201918; 574736, 4201917; 574739, 4201917; 574742, 4201917; 574746, 4201917; 574749, 4201918; 574752, 4201919; 574755, 4201920; 574758, 4201921; 574761, 4201923; 574763, 4201925; 574765, 4201928; 574767, 4201930; 574769, 4201933; 574770, 4201936; 574771, 4201939; 574772, 4201942; 574773, 4201945; 574773, 4201947; 574774, 4202004; 574774, 4202005; 574782, 4202005; 574786, 4202005; 574786, 4202005; 574786, 4202004; 574786, 4202004; 574787, 4202005; 574787, 4202005; 574787, 4202005; 574791, 4202005; 574793, 4202005; 574799, 4202006; 574803, 4201761; 574807, 4201467; 574807, 4201453; 575225, 4201592; 575241, 4201597; 575231, 4201620; 575195, 4201668; 575198, 4201759; 575232, 4201791; 575271, 4201928; 575242, 4201927; 575276, 4202021; 575282, 4202026; 575288, 4202031; 575296, 4202038; 575305, 4202037; 575308, 4202036; 575309, 4202040; 575326, 4202051; 575326, 4202052; 575335, 4202060; 575358, 4202078; 575369, 4202083; 575390, 4202092; 575389, 4202144; 575388, 4202193; 575387, 4202242; 575387, 4202250; 575386, 4202296; 575386, 4202303; 575420, 4202307; 575500, 4202306; 575509, 4202306; 575527, 4202304; 575671, 4202256; 575672, 4202256; 575673, 4202190; 575686, 4202153; 575687, 4202126; 575729, 4202104; 575759, 4202103; 575772, 4202097; 575803, 4202084; 575880, 4202098; 575955, 4202109; 575936, 4202055; 576031, 4201919; 576032, 4201917; 576042, 4201903; 576011, 4201840; 576000, 4201815; 575998, 4201812; 575995, 4201805; 575989, 4201793; 576026, 4201779; 576046, 4201771; 576037, 4201718; 576036, 4201713; 576035, 4201709; 576032, 4201690; 576025, 4201654; 576155, 4201615; 576171, 4201610; 576194, 4201670; 576216, 4201730; 576222, 4201746; 576260, 4201798; 576270, 4201812; 576282, 4201829; 576256, 4201869; 576248, 4201881; 576271, 4201918; 576272, 4201920; 576236, 4201985; 576235, 4201988; 576274, 4202044; 576298, 4202070; 576323, 4202106; 576360, 4202137; 576381, 4202154; 576421, 4202155; 576452, 4202128; 576506, 4202156; 576537, 4202156; 576591, 4202063; 576682, 4201909; 576696, 4201885; 576745, 4201856; 576749, 4201853; 576871, 4201782; 576885, 4201828; 576904, 4201880; 576916, 4201911; 576922, 4201934; 576929, 4201941; 576966, 4201978; 576996, 4202045; 577025, 4202081; 577022, 4202086; 577036, 4202077; 577048, 4202131; 577051, 4202146; 577055, 4202156; 577059, 4202163; 577067, 4202176; 577077, 4202189; 577089, 4202204; 577123, 4202242; 577129, 4202252; 577131, 4202263; 577122, 4202327; 577126, 4202334; 577165, 4202394; 577221, 4202356; 577252, 4202335; 577286, 4202312; 577377, 4202449; 577394, 4202429; 577415, 4202403; 577553, 4202269; 577370, 4202080; 577433, 4202019; 577361, 4201950; 577307, 4201899; 577273, 4201866; 577181, 4201779; 577181, 4201778; 577217, 4201778; 577331, 4201778; 577332, 4201711; 577396, 4201713; 577394, 4201778; 577491, 4201779; 577538, 4201779; 577538, 4201703; 577538, 4201657; 577538, 4201623; 577538, 4201608; 577528, 4201602; 577516, 4201594; 577508, 4201588; 577427, 4201529; 577406, 4201517; 577375, 4201499; 577311, 4201467; 577244, 4201455; 577180, 4201413; 577171, 4201344; 577175, 4201301; 577177, 4201270; 577238, 4201225; 577244, 4201211; 577253, 4201191; 577226, 4201086; 577192, 4200992; 577195, 4200899; 577195, 4200899; 577197, 4200879; 577204, 4200806; 577242, 4200746; 577282, 4200651; 577331, 4200562; 577346, 4200495; 577347, 4200492; 577350, 4200480; 577328, 4200455; 577311, 4200435; 577245, 4200395; 577245, 4200395; 577192, 4200372; 577182, 4200336; 577175, 4200312; 577169, 4200299; 577162, 4200287; 577096, 4200285; 577031, 4200293; 577028, 4200293; 577028, 4200293; 576947, 4200268; 576858, 4200184; 576858, 4200181; 576858, 4200181; 576868, 4200152; 576873, 4200135; 576906, 4200083; 576923, 4199997; 576929, 4199888; 576928, 4199865; 576926, 4199829; 576878, 4199783; 576851, 4199719; 576858, 4199658; 576852, 4199640; 576847, 4199627; 576807, 4199612; 576755, 4199597; 576744, 4199595; 576573, 4199407; 576573, 4199407; 576573, 4199406; 576480, 4199299; 576522, 4199268; 576561, 4199223; 576670, 4199097; 576716, 4199076; 576758, 4199063; 576790, 4199053; 576873, 4199005; 576934, 4198944; 576974, 4198877; 577000, 4198816; 576999, 4198797; 576996, 4198754; 576997, 4198718; 576998, 4198671; 576987, 4198659; 576968, 4198638; 576909, 4198588; 576860, 4198575; 576798, 4198592; 576798, 4198592; 576806, 4198559; 576812, 4198531; 576761, 4198485; 576357, 4198119; 576106, 4197955; 575987, 4197664; 576011, 4197421; 576008, 4197415; 576007, 4197413; 576032, 4197330; 576046, 4197240; 576046, 4197240; 576041, 4197179; 576026, 4197140; 576020, 4197131; 576005, 4197111; 575914, 4197043; 575914, 4197043; 575860, 4197013; 575824, 4197002; 575797, 4196993; 575774, 4196992; 575755, 4196991; 575693, 4196997; 575623, 4197010; 575587, 4196999; 575564, 4196983; 575545, 4196964; 575513, 4196933; 575495, 4196909; 575482, 4196892; 575469, 4196863; 575455, 4196844; 575447, 4196833; 575447, 4196833; 575446, 4196833; 575443, 4196831; 575433, 4196825; 575432, 4196824; 575432, 4196824; 575433, 4196838; 575433, 4196838; 575443, 4196840; 575443, 4196861; 575435, 4196882; 575436, 4196897; 575426, 4196904; 575386, 4197011; 575161, 4197151; 575066, 4197298; 574931, 4197375; 574912, 4197411; 574754, 4197511; 574718, 4197534; 574489, 4197504; 574432, 4197496; 574156, 4197457; 574161, 4197400; 574162, 4197390; 574054, 4197340; 574036, 4197331; 573973, 4197317; 573926, 4197317; 573757, 4197318; 573683, 4197437; 573692, 4197483; 573706, 4197568; 573738, 4197634; 573754, 4197935; 573753, 4197936; 573750, 4197950; 573665, 4197936; 573652, 4197934; 573652, 4197937; 573606, 4197931; 573603, 4197931; 573599, 4197933; 573597, 4197936; 573597, 4197939; 573574, 4198103; 573567, 4198136; 573557, 4198168; 573543, 4198199; 573527, 4198229; 573507, 4198256; 573485, 4198281; 573476, 4198289; 573370, 4198399; 573353, 4198414; 573335, 4198427; 573315, 4198438; 573295, 4198447; 573279, 4198452; 573281, 4198460; 573262, 4198465; 573248, 4198468; 573247, 4198462; 573222, 4198463; 573197, 4198462; 573173, 4198458; 573166, 4198456; 573129, 4198464; 573063, 4198504; 573047, 4198496; 573022, 4198458; 572904, 4198434; 572836, 4198432; 572768, 4198463; 572762, 4198465; 572610, 4198534; 572585, 4198554; 572549, 4198584; 572532, 4198601; 572504, 4198711; 572485, 4198723; 572417, 4198723; 572354, 4198751; 572221, 4198785; 572206, 4198818; 572181, 4198915; 572141, 4198998; 572089, 4199024; 572010, 4199081; 571881, 4199118; 571866, 4199105; 571670, 4199102; 571566, 4199147; 571555, 4199158; 571546, 4199168; 571543, 4199171; 571533, 4199186; 571524, 4199202; 571516, 4199253; 571507, 4199310; 571533, 4199362; 571350, 4199393; 571009, 4199625; 570836, 4199835; 570696, 4199866; 570536, 4199789; 570280, 4199549; 569826, 4199391; 569478, 4199475; 569161, 4199659; 568910, 4199800; 568851, 4199841; 568699, 4199671; 568627, 4199387; 568691, 4199069; 568353, 4199245; 568116, 4199139; 567529, 4198875; 566882, 4199149; 566350, 4199375; 566284, 4199599; 566287, 4199601; 566341, 4199604; 566396, 4199653; 566565, 4199746; 566737, 4199831; 566760, 4199874; 566841, 4199875; 566828, 4199913; 566833, 4199961; 566930, 4200163; 566919, 4200201; 566897, 4200196; 566869, 4200137; 566776, 4200022; 566736, 4200001; 566657, 4200001; 566637, 4199990; 566592, 4199916; 566562, 4199885; 566519, 4199862; 566372, 4199812; 566296, 4199802; 566248, 4199753; 566239, 4199753; 566203, 4199876; 565621, 4200086; 565429, 4200430; 565793, 4200907; 566270, 4201194; 566529, 4201349; 566869, 4201553; 566786, 4201997; 566461, 4202226; 566270, 4202570; 565965, 4202780; 565710, 4202955; 565589, 4203038; 565402, 4203167; 565596, 4203450; 565751, 4203676; 566022, 4203755; 566480, 4203659; 566817, 4203589; 567187, 4203774; 567245, 4204060; 567307, 4204369; 567551, 4204653; 567971, 4204786; 568162, 4205016; 568258, 4205379; 568312, 4205587; 568316, 4205601; 568793, 4205665; 569243, 4205726; 569500, 4206028; 569786, 4206162; 570207, 4206105; 570860, 4206016; 571441, 4205937; 571795, 4205888; 571799, 4205849; 571822, 4205812; 571916, 4205718; 571966, 4205641; 572102, 4205486; 572115, 4205434; 572120, 4205353; 572129, 4205309; 572135, 4205294; returning to 572162, 4205268.

(ii) Note: Map of Unit CCS-1 for the California red-legged frog follows:

BILLING CODE 4310-55-P

BILLING CODE 4310-55-C

(25) Unit CCS-2: Contra Costa and Alameda Counties, California. From USGS 1:24,000 scale quadrangles Walnut Creek, Honker Bay, Clayton, Diablo, Antioch South, Tassajara, Livermore, Brentwood, Byron Hot Springs, Altamont, Clifton Court Forebay and Midway.

(i) Land bounded by the following UTM zone 10, NAD 1983 coordinates (E, N): 589897, 4207913; 590050, 4207770; 590120, 4207770; 590155, 4207704; 590253, 4207519; 590263, 4207443; 590283, 4207292; 590447, 4207227; 590625, 4207158; 590828, 4207158; 590980, 4207158; 591063, 4207291; 591215, 4207380; 591279, 4207513; 591293, 4207672; 591407, 4207644; 591485, 4207595; 591592, 4207370; 591631, 4207165; 591661, 4206970; 591709, 4206804; 591758, 4206599; 591973, 4206589; 592139, 4206589; 592344, 4206589; 592559, 4206628; 592949, 4206990; 592969, 4207136; 593008, 4207380; 593008, 4207585; 593013, 4207688; 593036, 4207697; 593647, 4207706; 593675, 4207563; 593680, 4207475; 593711, 4207387; 593737, 4207382; 593784, 4207356; 593810, 4207299; 593825, 4207221; 593825, 4207144; 593913, 4207149; 593944, 4207294; 594017, 4207537; 594043, 4207646; 594131, 4207702; 594234, 4207702; 594312, 4207692; 594322, 4207671; 594338, 4207625; 594343, 4207589; 594343, 4207558; 594374, 4207537; 594451, 4207527; 594503, 4207527; 594550, 4207506; 594565, 4207475; 594565, 4207433; 594576, 4207387; 594633, 4207356; 594705, 4207356; 594778, 4207330; 594829, 4207294; 594933, 4207211; 594990, 4207180; 595104, 4207154; 595176, 4207128; 595243, 4207118; 595290, 4207118; 595295, 4206945; 595547, 4206951; 595543, 4206880; 595502, 4206823; 595440, 4206792; 595367, 4206745; 595290, 4206688; 595300, 4206662; 595435, 4206662; 595559, 4206662; 595631, 4206724; 595673, 4206854; 595686, 4206955; 595956, 4206961; 595977, 4206163; 596034, 4206162; 596092, 4205995; 596097, 4205922; 596133, 4205881; 596242, 4205803; 596351, 4205700; 596408, 4205622; 596444, 4205581; 596511, 4205539; 596609, 4205477; 596703, 4205436; 596822, 4205389; 596904, 4205348; 597057, 4205374; 597049, 4205360; 598693, 4205326; 599279, 4205331; 599291, 4205310; 599312, 4205294; 599336, 4205284; 599344, 4205271; 599357, 4205194; 599363, 4205171; 599375, 4205149; 599390, 4205132; 599436, 4205105; 599457, 4205079; 599462, 4205049; 599459, 4205032; 599551, 4204804; 599606, 4204730; 599697, 4204644; 599602, 4204477; 599617, 4204154; 599644, 4204030; 599613, 4203930; 599630, 4203932; 599654, 4203938; 599790, 4203983; 599825, 4204010; 599861, 4204028; 599895, 4204051; 599900, 4204120; 599909, 4204159; 599928, 4204185; 599948, 4204197; 599967, 4204198; 600003, 4204207; 600100, 4204239; 600140, 4204364; 600207, 4204413; 600283, 4204477; 600317, 4204533; 600332, 4204592; 600335, 4204631; 600332, 4204645; 600374, 4204699; 600416, 4204763; 600460, 4204819; 600461, 4204821; 600563, 4204702; 600598, 4204647; 600643, 4204597; 600693, 4204532; 600708, 4204467; 600728, 4204397; 600758, 4204382; 600818, 4204392; 600893, 4204427; 600968, 4204437; 601153, 4204472; 601183, 4204452; 601218, 4204427; 601293, 4204427; 601383, 4204402; 601453, 4204357; 601528, 4204347; 601568, 4204267; 601613, 4204187; 601643, 4204122; 601663, 4204052; 601663, 4203997; 601698, 4203942; 601758, 4203892; 601828, 4203847; 601888, 4203812; 601953, 4203777; 602033, 4203777; 602098, 4203767; 602143, 4203767; 602263, 4203787; 602362, 4203747; 602383, 4203738; 602407, 4203727; 602472, 4203677; 602532, 4203612; 602587, 4203547; 602642, 4203502; 602712, 4203462; 602787, 4203427; 602847, 4203427; 602937, 4203427; 602977, 4203412; 603027, 4203357; 603087, 4203367; 603132, 4203402; 603182, 4203432; 603222, 4203417; 603287, 4203387; 603347, 4203387; 603387, 4203422; 603422, 4203482; 603422, 4203547; 603397, 4203617; 603397, 4203793; 604000, 4203799; 604070, 4203631; 604120, 4203540; 604120, 4203473; 604120, 4203415; 604120, 4203366; 604166, 4203289; 604170, 4203283; 604228, 4203216; 604319, 4203134; 604402, 4203059; 604510, 4203009; 604525, 4202984; 604535, 4202968; 604344, 4202885; 604178, 4202827; 604112, 4202760; 604112, 4202727; 604253, 4202669; 604288, 4202634; 604294, 4202628; 604286, 4202553; 604286, 4202479; 604219, 4202412; 604137, 4202338; 604095, 4202288; 604037, 4202288; 603971, 4202313; 603871, 4202313; 603813, 4202304; 603705, 4202280; 603623, 4202280; 603540, 4202255; 603506, 4202180; 603498, 4202081; 603548, 4202014; 603598, 4201973; 603705, 4201890; 603689, 4201807; 603813, 4201799; 603987, 4201724; 604095, 4201824; 604186, 4201923; 604294, 4201923; 604377, 4201890; 604477, 4201832; 604510, 4201898; 604518, 4201981; 604576, 4201981; 604676, 4201956; 604841, 4201906; 604783, 4201865; 604734, 4201782; 604775, 4201691; 604866, 4201616; 604941, 4201484; 604949, 4201376; 605032, 4201368; 605181, 4201368; 605728, 4201368; 606234, 4201318; 606582, 4201343; 606956, 4201343; 607113, 4201343; 607229, 4201343; 607304, 4201417; 607428, 4201442; 608829, 4201434; 609724, 4201455; 609737, 4200515; 609760, 4200458; 609809, 4200466; 609995, 4200440; 610262, 4200283; 610369, 4200129; 610451, 4199990; 610483, 4199910; 610419, 4199837; 610306, 4199787; 610269, 4199787; 610193, 4199837; 610137, 4199874; 610036, 4199874; 609961, 4199849; 609867, 4199761; 609798, 4199705; 609760, 4199617; 609717, 4199442; 609723, 4199090; 609328, 4199078; 609328, 4198777; 609317, 4198777; 609269, 4198788; 609220, 4198711; 609045, 4198651; 608912, 4198629; 608811, 4198510; 608671, 4198472; 608551, 4198474; 608488, 4198577; 608428, 4198590; 608353, 4198534; 608268, 4198563; 608134, 4198548; 608067, 4198477; 607837, 4198516; 607599, 4198501; 607589, 4198571; 607554, 4198648; 607411, 4198815; 607226, 4198866; 607029, 4198774; 606888, 4198627; 606770, 4198513; 606494, 4198626; 606323, 4198749; 606272, 4198914; 605840, 4198996; 605676, 4199054; 605484, 4199187; 605307, 4199117; 605024, 4198646; 605002, 4198609; 606094, 4198076; 606437, 4197999; 606920, 4197790; 607326, 4197422; 607603, 4197250; 607834, 4196799; 607961, 4196552; 607669, 4196196; 607631, 4196201; 607212, 4196253; 607142, 4196226; 607049, 4196189; 606958, 4195999; 607032, 4195964; 606988, 4195891; 606965, 4195815; 607100, 4195768; 607185, 4195688; 607266, 4195670; 607395, 4195709; 607576, 4195671; 607633, 4195650; 607674, 4195410; 607862, 4195318; 608011, 4195297; 608139, 4195298; 608347, 4195233; 608478, 4195223; 608600, 4195062; 608725, 4194969; 608824, 4194987; 608937, 4195078; 609066, 4195054; 609179, 4194984; 609390, 4194881; 609546, 4194855; 609727, 4194808; 609894, 4195002; 609978, 4195231; 610007, 4195264; 610070, 4195183; 610156, 4195151; 610315, 4195125; 610532, 4195096; 610763, 4195079; 611013, 4195068; 611154, 4195083; 611314, 4194967; 611342, 4194896; 611328, 4194836; 611404, 4194750; 611575, 4194691; 611645, 4194622; 611754, 4194549; 611875, 4194514; 611935, 4194464; 612396, 4194230; 612433, 4194341; 612605, 4194231; 612758, 4194463; 612768, 4194459; 612848, 4194420; 612991, 4194332; 612992, 4194332; 613063, 4194311; 613130, 4194363; 613227, 4194466; 613259, 4194528; 613274, 4194558; 613360, 4194537; 613365, 4194611; 613370, 4194617; 613460, 4194717; 613569, 4194737; 613665, 4194754; 613824, 4194750; 613833, 4194747; 613950, 4194705; 613991, 4194492; 613910, 4194204; 614095, 4193952; 614177, 4193531; 614107, 4193461; 613935, 4193087; 614075, 4192877; 614342, 4192712; 614377, 4192712; 614394, 4192641; 614385, 4192294; 614486, 4191983; 614963, 4191734; 615866, 4191262; 616324, 4191156; 616316, 4190831; 616729, 4190591; 617112, 4190653; 617414, 4190511; 617873, 4190413; 618584, 4190003; 618762, 4190052; 618762, 4190119; 618620, 4190301; 618455, 4190422; 618443, 4191158; 619480, 4191161; 619497, 4190356; 620314, 4190360; 620320, 4189919; 620320, 4189916; 620725, 4189915; 620734, 4189355; 620743, 4188769; 620257, 4188758; 620230, 4188335; 620341, 4188225; 620386, 4188019; 620426, 4187837; 620728, 4187481; 620631, 4187205; 620368, 4187045; 620466, 4186809; 620675, 4186818; 620902, 4186885; 621157, 4187032; 621183, 4187047; 621627, 4187303; 621872, 4187076; 622002, 4186914; 622059, 4186774; 622102, 4186665; 622081, 4186537; 622067, 4186456; 622161, 4186440; 622370, 4186405; 622503, 4186333; 622570, 4186196; 622635, 4186118; 622495, 4185884; 622312, 4185698; 622090, 4185421; 622012, 4185348; 622012, 4185342; 622012, 4185342; 622007, 4185343; 621969, 4185307; 621648, 4185000; 621316, 4184683; 621440, 4184478; 621470, 4184429; 621507, 4184287; 621983, 4184349; 621778, 4184687; 621695, 4184776; 621836, 4184901; 621979, 4184727; 622208, 4184911; 622085, 4185133; 622596, 4185660; 622814, 4185532; 623027, 4185476; 623298, 4185383; 623319, 4185194; 623318, 4185142; 623256, 4185109; 623331, 4184969; 623311, 4184795; 623520, 4184478; 623692, 4184338; 623724, 4184148; 623735, 4184117; 623472, 4184116; 623479, 4183966; 623791, 4183970; 623813, 4183913; 623940, 4183799; 623921, 4183640; 623905, 4183507; 623890, 4183477; 623931, 4183391; 623954, 4183316; 624056, 4183260; 624119, 4183134; 624054, 4182744; 624022, 4182579; 624054, 4182471; 624181, 4182344; 624213, 4182236; 624210, 4182159; 624206, 4182046; 624240, 4181990; 624295, 4181900; 624315, 4181896; 624323, 4181863; 624472, 4181801; 624471, 4181577; 624715, 4181496; 624777, 4181462; 624958, 4181269; 624962, 4181261; 625001, 4181120; 625034, 4180699; 625010, 4180580; 624963, 4180338; 624946, 4180302; 624892, 4180389; 624714, 4180579; 624579, 4180724; 624473, 4180770; 624321, 4180770; 624117, 4180768; 623882, 4180767; 623692, 4180833; 623559, 4181043; 623364, 4181183; 623266, 4181322; 623224, 4181383; 623226, 4181463; 623257, 4181585; 623226, 4181707; 623107, 4181751; 623051, 4181839; 622963, 4181907; 622678, 4182332; 622560, 4182376; 622472, 4182442; 622425, 4182514; 622328, 4182564; 621806, 4182439; 621645, 4182584; 621669, 4182610; 621674, 4182640; 621703, 4182642; 621709, 4182689; 621528, 4182836; 621453, 4182808; 621431, 4182743; 621406, 4182776; 621381, 4182923; 621438, 4183100; 621457, 4183162; 621490, 4183263; 621445, 4183403; 621342, 4183538; 621190, 4183646; 621098, 4183711; 621050, 4183843; 621042, 4183954; 621031, 4184097; 621241, 4184338; 621139, 4184357; 621006, 4184237; 620949, 4184103; 620949, 4183989; 620949, 4183953; 620949, 4183835; 620972, 4183767; 620972, 4183763; 620983, 4183702; 621027, 4183657; 621059, 4183637; 621095, 4183602; 621197, 4183500; 621259, 4183438; 621309, 4183387; 621333, 4183305; 621332, 4183219; 621332, 4183208; 621327, 4183209; 621247, 4183062; 621234, 4182871; 621298, 4182732; 621347, 4182624; 621380, 4182609; 621400, 4182556; 621389, 4182512; 621344, 4182462; 621305, 4182423; 621267, 4182367; 621238, 4182326; 621224, 4182326; 621169, 4182277; 621146, 4182237; 621203, 4182212; 621189, 4182181; 621140, 4182070; 621049, 4181958; 621071, 4181920; 621122, 4181949; 621203, 4181983; 621313, 4182092; 621359, 4182157; 621390, 4182187; 621466, 4182208; 621467, 4182209; 621500, 4182201; 621508, 4182234; 621462, 4182320; 621520, 4182392; 621555, 4182405; 621608, 4182406; 621772, 4182312; 621846, 4182290; 621976, 4182274; 622035, 4182252; 622050, 4182229; 622051, 4182228; 622052, 4182228; 622061, 4182214; 622094, 4182194; 622121, 4182186; 622134, 4182161; 622129, 4182128; 622079, 4182078; 622076, 4182055; 622035, 4182048; 621966, 4181995; 621990, 4181963; 622031, 4181962; 622087, 4181953; 622193, 4182005; 622344, 4182150; 622355, 4182152; 622373, 4182150; 622373, 4182128; 622368, 4182089; 622340, 4182050; 622323, 4181997; 622324, 4181968; 622349, 4181967; 622387, 4181970; 622432, 4182004; 622489, 4182014; 622501, 4182011; 622501, 4182011; 622512, 4181967; 622485, 4181939; 622462, 4181850; 622453, 4181824; 622438, 4181807; 622456, 4181791; 622484, 4181784; 622507, 4181784; 622572, 4181843; 622607, 4181864; 622630, 4181864; 622646, 4181844; 622646, 4181772; 622613, 4181683; 622597, 4181640; 622586, 4181578; 622576, 4181510; 622593, 4181479; 622617, 4181491; 622645, 4181546; 622690, 4181578; 622728, 4181579; 622756, 4181595; 622758, 4181640; 622746, 4181677; 622746, 4181694; 622746, 4181709; 622769, 4181727; 622808, 4181738; 622829, 4181733; 622898, 4181650; 622918, 4181599; 622952, 4181544; 622980, 4181500; 622991, 4181419; 623013, 4181402; 623013, 4181360; 622985, 4181271; 622990, 4181266; 622971, 4181220; 622998, 4181194; 623021, 4181194; 623041, 4181218; 623093, 4181292; 623122, 4181313; 623190, 4181189; 623343, 4181017; 623441, 4180906; 623501, 4180763; 623628, 4180649; 623851, 4180624; 624135, 4180591; 624429, 4180624; 624619, 4180516; 624746, 4180331; 624831, 4180209; 624856, 4180172; 624861, 4180138; 624879, 4180027; 624907, 4179859; 625025, 4179696; 625203, 4179620; 625248, 4179512; 625260, 4179334; 625262, 4179312; 625262, 4179312; 625271, 4179192; 625357, 4179099; 625221, 4179013; 625094, 4178683; 624999, 4178137; 624359, 4177997; 624186, 4177959; 623602, 4177870; 623284, 4177769; 622719, 4177737; 622478, 4177701; 621971, 4177625; 621422, 4177492; 621335, 4177470; 621163, 4177429; 621151, 4177419; 621071, 4177365; 621001, 4177389; 620839, 4177350; 620704, 4177285; 620691, 4177276; 620642, 4177236; 620633, 4177222; 620532, 4177175; 620531, 4177175; 620338, 4176956; 620073, 4176555; 619754, 4176442; 619557, 4176372; 619398, 4176387; 619004, 4176194; 618445, 4175921; 618224, 4175851; 617741, 4175699; 617214, 4175661; 616985, 4175845; 616827, 4175893; 616788, 4175962; 616726, 4176023; 616595, 4176069; 616530, 4175992; 616465, 4175916; 616405, 4175916; 616300, 4175916; 616199, 4175967; 616074, 4175977; 615952, 4175987; 615842, 4175976; 615764, 4175968; 615645, 4175956; 615550, 4175968; 615445, 4176022; 615366, 4176084; 615277, 4176155; 615204, 4176187; 615112, 4176189; 615014, 4176190; 614937, 4176130; 614869, 4176077; 614851, 4176011; 614818, 4175888; 614818, 4175781; 614758, 4175694; 614670, 4175616; 614621, 4175571; 614470, 4175534; 614115, 4175445; 613667, 4175272; 613664, 4175337; 613613, 4176416; 613543, 4176702; 613232, 4176702; 612845, 4176702; 612569, 4176791; 612559, 4176794; 612400, 4176791; 612405, 4176585; 612468, 4176496; 612291, 4176391; 612235, 4176389; 612232, 4176381; 612180, 4176347; 612070, 4176350; 612010, 4176352; 612010, 4176377; 612010, 4176485; 611878, 4176498; 611851, 4176683; 611698, 4176683; 611687, 4176692; 611670, 4176703; 611263, 4176692; 611257, 4176915; 611225, 4176919; 611200, 4176934; 611178, 4176961; 611174, 4177006; 611155, 4177059; 611116, 4177216; 611109, 4177229; 610888, 4177229; 610888, 4177496; 611059, 4177908; 611149, 4177904; 611195, 4177958; 611343, 4178037; 611193, 4178156; 611193, 4178602; 611165, 4178649; 611136, 4178735; 611101, 4178825; 611101, 4178851; 611068, 4178930; 610967, 4179021; 610819, 4179105; 610650, 4179143; 610460, 4179200; 610330, 4179268; 610252, 4179339; 610052, 4179561; 610011, 4179598; 609942, 4179653; 609884, 4179675; 609826, 4179668; 609747, 4179649; 609713, 4179629; 609678, 4179584; 609627, 4179462; 609502, 4179091; 609502, 4179091; 609208, 4179078; 609153, 4178528; 609149, 4178483; 609038, 4178440; 608938, 4178402; 608935, 4178402; 608921, 4178399; 608889, 4178405; 608860, 4178426; 608842, 4178446; 608832, 4178467; 608825, 4178487; 608817, 4178534; 608823, 4178569; 608803, 4178607; 608818, 4178623; 608829, 4178706; 608847, 4178737; 608853, 4178767; 608855, 4178802; 608865, 4178832; 608944, 4178926; 609022, 4179100; 609054, 4179337; 609060, 4179514; 609007, 4179696; 608926, 4179872; 608923, 4179877; 608888, 4179877; 607783, 4179877; 607783, 4180239; 607592, 4180175; 607605, 4179870; 607484, 4179865; 607370, 4179978; 606881, 4179934; 606870, 4179354; 606876, 4179350; 606987, 4179223; 607100, 4179080; 607231, 4178966; 607316, 4178848; 607350, 4178766; 607368, 4178744; 607398, 4178716; 607451, 4178644; 607508, 4178544; 607554, 4178449; 607596, 4178386; 607645, 4178266; 607665, 4178177; 607664, 4178099; 607653, 4177923; 607626, 4177833; 607603, 4177779; 607572, 4177735; 607537, 4177711; 607502, 4177695; 607417, 4177711; 607333, 4177768; 607300, 4177794; 607172, 4177871; 607079, 4177880; 606952, 4177811; 606959, 4177789; 607025, 4177726; 607075, 4177690; 607119, 4177617; 607167, 4177594; 607178, 4177547; 607243, 4177468; 607286, 4177405; 607313, 4177374; 607361, 4177193; 607359, 4177122; 607374, 4177038; 607383, 4176794; 607413, 4176694; 607422, 4176549; 607414, 4176483; 607402, 4176437; 607401, 4176370; 607376, 4176262; 607361, 4176213; 607329, 4176137; 607293, 4176025; 607269, 4175975; 607262, 4175926; 607260, 4175846; 607245, 4175797; 607203, 4175727; 607089, 4175779; 607054, 4175834; 607030, 4175885; 606992, 4175923; 606968, 4175972; 606953, 4175988; 606916, 4175984; 606888, 4175970; 606801, 4175898; 606754, 4175866; 606695, 4175819; 606611, 4175759; 606579, 4175742; 606501, 4175670; 606448, 4175643; 606409, 4175627; 606313, 4175568; 606245, 4175530; 606197, 4175518; 606083, 4175437; 605976, 4175309; 605941, 4175226; 605909, 4175168; 605874, 4175092; 605833, 4175032; 605799, 4174939; 605778, 4174901; 605755, 4174880; 605704, 4174812; 605660, 4174762; 605574, 4174726; 605538, 4174695; 605365, 4174616; 605340, 4174590; 605260, 4174590; 605185, 4174740; 605145, 4174850; 605062, 4175042; 604508, 4175020; 604524, 4174007; 604430, 4174009; 603715, 4173996; 603678, 4173842; 603645, 4173682; 603510, 4173621; 603406, 4173603; 603327, 4173595; 603249, 4173617; 603170, 4173716; 603061, 4173752; 602930, 4173782; 602842, 4173817; 602840, 4173677; 602595, 4173680; 602368, 4173630; 602125, 4173622; 601350, 4173736; 601331, 4173978; 601403, 4174098; 601431, 4174282; 601370, 4174292; 601409, 4174480; 601336, 4174586; 601270, 4174580; 601326, 4174955; 601292, 4175162; 601262, 4175552; 601287, 4175927; 601290, 4175975; 601215, 4176027; 601059, 4176236; 601032, 4176260; 601041, 4176272; 601041, 4176273; 601028, 4176273; 600871, 4176299; 600792, 4176312; 600663, 4176411; 600507, 4176407; 600411, 4176520; 600516, 4176742; 600494, 4176951; 600239, 4177033; 600094, 4177043; 599730, 4176899; 599700, 4176852; 599576, 4176774; 599517, 4176681; 599452, 4176577; 599452, 4176470; 599452, 4176429; 599452, 4176098; 599402, 4176098; 599402, 4176092; 599400, 4176087; 599386, 4176036; 599386, 4176028; 599383, 4176026; 599317, 4175965; 599231, 4176157; 599178, 4176230; 599221, 4176405; 599234, 4176570; 599191, 4176670; 599350, 4177063; 599085, 4177291; 598887, 4177526; 598831, 4177784; 598883, 4178009; 598893, 4178237; 598946, 4178300; 598936, 4178389; 599037, 4178569; 599076, 4178612; 599001, 4178659; 598939, 4178780; 598982, 4178937; 599095, 4179098; 599197, 4179231; 599256, 4179309; 599224, 4179383; 599170, 4179461; 599205, 4179645; 599348, 4180125; 599348, 4180303; 599494, 4180570; 599710, 4180868; 599735, 4181179; 599932, 4181459; 600465, 4181344; 601189, 4181433; 601265, 4181573; 601010, 4181785; 601010, 4182167; 601038, 4182207; 601074, 4182225; 601226, 4182275; 601281, 4182351; 601305, 4182383; 601321, 4182514; 601408, 4182609; 601544, 4182684; 601770, 4182693; 601941, 4182669; 602052, 4182635; 601992, 4183824; 601846, 4184616; 601288, 4184616; 600555, 4184616; 600399, 4184565; 600269, 4184571; 600243, 4184637; 600179, 4184639; 600087, 4184579; 599915, 4184539; 599359, 4184962; 599227, 4185769; 598974, 4186032; 598996, 4186099; 599082, 4186368; 597914, 4186452; 597879, 4186763; 597873, 4186766; 597879, 4186793; 597685, 4186967; 597681, 4187031; 597633, 4187076; 597562, 4187077; 597525, 4187112; 597176, 4187118; 597174, 4186906; 597046, 4186902; 596844, 4187007; 596646, 4187013; 596468, 4187038; 596172, 4187079; 595987, 4187174; 595752, 4187566; 595813, 4187685; 595746, 4187785; 595523, 4187813; 595492, 4187928; 595445, 4188105; 595352, 4188108; 595329, 4188083; 595318, 4188092; 595240, 4188044; 595240, 4187971; 595198, 4187857; 595210, 4187761; 595192, 4187701; 595151, 4187633; 595069, 4187629; 594873, 4187497; 594601, 4187391; 594459, 4187434; 594459, 4187518; 594309, 4187529; 594261, 4187722; 594233, 4187736; 594223, 4187841; 594131, 4187785; 593836, 4187928; 593748, 4187977; 593705, 4188078; 593606, 4188042; 593474, 4188081; 593410, 4188204; 593240, 4188182; 593132, 4188217; 593036, 4188421; 592987, 4188416; 592913, 4188598; 592625, 4188865; 592566, 4188841; 592547, 4188887; 592579, 4188947; 592413, 4189037; 592403, 4189055; 592432, 4189145; 592389, 4189312; 592346, 4189373; 592350, 4189468; 592327, 4189556; 592289, 4189590; 592288, 4189621; 592281, 4189827; 592238, 4190018; 592211, 4190012; 591958, 4190004; 591941, 4190019; 591513, 4190002; 591495, 4190495; 591457, 4190511; 591447, 4190592; 591142, 4190699; 591128, 4190820; 591123, 4190820; 591124, 4190836; 590955, 4190873; 590648, 4191074; 590314, 4191065; 590066, 4191058; 589965, 4191056; 589873, 4191079; 589807, 4191148; 589751, 4191159; 589656, 4191120; 589656, 4191026; 589574, 4191026; 589489, 4191026; 589428, 4191042; 589373, 4191024; 589293, 4190997; 588939, 4190974; 588928, 4190974; 588870, 4191169; 588851, 4191280; 588891, 4191357; 588857, 4191474; 588834, 4191480; 588831, 4191683; 588810, 4191683; 588477, 4191754; 588478, 4191791; 588418, 4191793; 588404, 4191794; 588335, 4191796; 588267, 4191865; 588296, 4191929; 588296, 4191958; 588224, 4192037; 588213, 4192087; 588248, 4192180; 588129, 4192225; 588074, 4192281; 588047, 4192349; 588100, 4192405; 588063, 4192545; 587986, 4192680; 587925, 4192733; 587796, 4192729; 587701, 4192678; 587661, 4192754; 587606, 4192858; 587476, 4192942; 587356, 4193019; 587222, 4193159; 587330, 4193244; 587396, 4193281; 587505, 4193429; 587711, 4193321; 587908, 4193368; 587965, 4193381; 588016, 4193393; 588035, 4193408; 588207, 4193552; 588289, 4193768; 588299, 4193775; 588378, 4193831; 588728, 4193850; 588804, 4194250; 588982, 4194638; 589026, 4194983; 589108, 4195198; 589323, 4195327; 589882, 4195381; 590548, 4195274; 590966, 4195381; 591310, 4195220; 591584, 4195077; 591596, 4194986; 591659, 4194914; 591743, 4194903; 591837, 4194750; 591896, 4194623; 592083, 4194426; 592141, 4194355; 592189, 4194330; 592235, 4194205; 592271, 4194179; 592329, 4194137; 592442, 4194139; 592470, 4194106; 592527, 4193846; 592688, 4193638; 592834, 4193634; 592909, 4193458; 592942, 4193372; 593033, 4193361; 593124, 4193360; 593306, 4193327; 593461, 4193273; 593595, 4193262; 593696, 4193245; 593808, 4193105; 593899, 4193050; 594020, 4192962; 594128, 4192854; 594318, 4192690; 594434, 4192684; 594511, 4192696; 594674, 4192744; 594876, 4192840; 594975, 4192920; 595031, 4193090; 595180, 4193126; 595392, 4193210; 595467, 4193235; 595486, 4193347; 595519, 4193453; 595612, 4193632; 595802, 4193806; 595848, 4193891; 595849, 4193893; 595893, 4194063; 595984, 4194197; 596108, 4194336; 596233, 4194426; 596451, 4194442; 596619, 4194486; 596705, 4194582; 596680, 4194828; 596699, 4194912; 596669, 4194962; 596607, 4195029; 596583, 4195141; 596548, 4195265; 596515, 4195319; 596494, 4195384; 596549, 4195440; 596634, 4195498; 596728, 4195582; 596851, 4195644; 596951, 4195700; 596978, 4195756; 596997, 4195862; 597015, 4195999; 597088, 4196094; 597118, 4196123; 597128, 4196133; 597253, 4196255; 597423, 4196383; 597688, 4196647; 597857, 4196648; 597951, 4196709; 597981, 4196721; 598075, 4196760; 598169, 4196811; 598200, 4196912; 598278, 4196931; 598362, 4196978; 598486, 4196928; 598588, 4196951; 598643, 4197052; 598718, 4197108; 598752, 4197125; 598803, 4197171; 598851, 4197206; 598924, 4197213; 599013, 4197232; 599067, 4197276; 599063, 4197365; 599012, 4197421; 598884, 4197459; 598841, 4197502; 598778, 4197610; 598761, 4197630; 598741, 4197735; 598762, 4197855; 598794, 4197883; 598809, 4197885; 598881, 4197912; 598978, 4197979; 599139, 4198007; 599297, 4197997; 599402, 4198031; 599442, 4198124; 599442, 4198124; 599453, 4198222; 599391, 4198283; 599351, 4198374; 599374, 4198452; 599376, 4198514; 599353, 4198541; 599336, 4198561; 599322, 4198602; 599281, 4198635; 599218, 4198631; 599112, 4198678; 599043, 4198709; 598982, 4198808; 598850, 4198860; 598718, 4198975; 598572, 4199236; 598489, 4199361; 598409, 4199522; 598269, 4199759; 598101, 4199925; 598041, 4199985; 597782, 4200189; 597654, 4200455; 597633, 4200500; 597329, 4200635; 596895, 4200819; 596870, 4200830; 596641, 4201053; 596278, 4201198; 596027, 4201161; 596026, 4201231; 595988, 4201321; 595962, 4201427; 595980, 4201529; 595894, 4201708; 595880, 4201825; 595858, 4201848; 595756, 4201891; 595677, 4201902; 595517, 4201859; 595413, 4201846; 595333, 4201937; 595212, 4201970; 595133, 4202065; 595117, 4202140; 595003, 4202181; 594860, 4202174; 594708, 4202141; 594612, 4202135; 594560, 4202207; 594551, 4202300; 594449, 4202479; 594216, 4202659; 594096, 4202744; 594077, 4202810; 594005, 4202928; 594008, 4202991; 594064, 4203164; 594125, 4203249; 594183, 4203341; 594225, 4203396; 594196, 4203379; 594001, 4203434; 593943, 4203521; 593855, 4203561; 593714, 4203585; 593670, 4203631; 593693, 4203766; 593669, 4203865; 593684, 4203983; 593610, 4204203; 593568, 4204291; 593484, 4204320; 593325, 4204346; 593127, 4204441; 593107, 4204521; 593060, 4204564; 592993, 4204637; 592905, 4204714; 592809, 4204917; 592717, 4205035; 592643, 4205088; 592486, 4205142; 592221, 4205205; 592172, 4205165; 592100, 4205070; 592023, 4205000; 592012, 4204998; 591606, 4205291; 591595, 4205326; 591535, 4205364; 591508, 4205361; 590516, 4206075; 590461, 4206134; 590410, 4206209; 590411, 4206220; 589441, 4207359; 589441, 4207444; 589444, 4207444; 589444, 4207456; 589444, 4207545; 589444, 4207754; 589526, 4207850; 589672, 4207913; returning to 589897, 4207913.

(ii) Excluding land bounded by the following UTM zone 10, NAD 1983 coordinates (E, N): 611574, 4188453; 611564, 4188349; 611460, 4188264; 611375, 4188217; 611309, 4188151; 611242, 4188094; 611167, 4188103; 611091, 4188075; 611110, 4188009; 611129, 4187961; 611110, 4187904; 611025, 4187895; 610949, 4187952; 610854, 4187980; 610779, 4187990; 610703, 4187980; 610675, 4187904; 610675, 4187810; 610684, 4187725; 610627, 4187725; 610570, 4187781; 610447, 4187848; 610334, 4187904; 610192, 4187999; 610173, 4188084; 610116, 4188103; 610078, 4188046; 610069, 4187990; 610135, 4187886; 610144, 4187800; 610211, 4187734; 610286, 4187706; 610353, 4187649; 610372, 4187592; 610305, 4187526; 610305, 4187469; 610372, 4187479; 610409, 4187450; 610419, 4187393; 610476, 4187365; 610542, 4187356; 610580, 4187403; 610608, 4187412; 610703, 4187318; 610769, 4187251; 610807, 4187232; 610902, 4187204; 610958, 4187270; 611015, 4187308; 611100, 4187251; 611148, 4187242; 611167, 4187195; 611091, 4187166; 611025, 4187157; 610958, 4187147; 610987, 4187090; 610977, 4187005; 610930, 4186949; 610968, 4186901; 610949, 4186816; 610949, 4186721; 610940, 4186617; 610816, 4186523; 610684, 4186513; 610608, 4186551; 610551, 4186598; 610514, 4186523; 610466, 4186485; 610400, 4186560; 610267, 4186674; 610107, 4186759; 609974, 4186835; 609775, 4186949; 609548, 4187128; 609368, 4187223; 609264, 4187166; 609283, 4187090; 609330, 4187043; 609425, 4186977; 609453, 4186920; 609482, 4186807; 609548, 4186608; 609643, 4186437; 609747, 4186324; 609787, 4186236; 609847, 4186175; 609878, 4186077; 609915, 4185933; 609961, 4185827; 610006, 4185781; 610052, 4185698; 610067, 4185577; 610052, 4185486; 610076, 4185438; 610143, 4185444; 610209, 4185438; 610246, 4185384; 610246, 4185348; 610282, 4185378; 610342, 4185402; 610403, 4185354; 610439, 4185305; 610488, 4185263; 610506, 4185220; 610512, 4185136; 610500, 4185051; 610536, 4185020; 610548, 4184996; 610536, 4184948; 610452, 4184851; 610373, 4184711; 610342, 4184596; 610373, 4184530; 610387, 4184506; 610391, 4184499; 610421, 4184512; 610458, 4184542; 610524, 4184621; 610548, 4184705; 610627, 4184808; 610694, 4184857; 610773, 4184845; 610809, 4184766; 610827, 4184693; 610888, 4184681; 610918, 4184784; 610985, 4184833; 611027, 4184893; 611003, 4184990; 611039, 4185075; 611069, 4185087; 611088, 4185045; 611088, 4185008; 611088, 4184972; 611130, 4184936; 611172, 4184905; 611215, 4184821; 611245, 4184784; 611263, 4184833; 611294, 4184911; 611342, 4184905; 611360, 4184875; 611360, 4184808; 611348, 4184766; 611372, 4184748; 611421, 4184754; 611457, 4184754; 611475, 4184796; 611493, 4184851; 611475, 4184917; 611427, 4185020; 611342, 4185093; 611287, 4185166; 611251, 4185245; 611245, 4185311; 611257, 4185396; 611251, 4185481; 611275, 4185554; 611330, 4185584; 611372, 4185632; 611397, 4185669; 611384, 4185723; 611390, 4185790; 611415, 4185850; 611469, 4185881; 611542, 4185862; 611584, 4185826; 611609, 4185850; 611615, 4185923; 611651, 4185977; 611715, 4185984; 611767, 4185982; 611792, 4185964; 611830, 4185972; 611832, 4185999; 611847, 4186029; 611864, 4186039; 611887, 4186034; 611904, 4186016; 611914, 4186002; 611944, 4185979; 611983, 4185972; 612008, 4185957; 612013, 4185937; 612021, 4185902; 612040, 4185878; 612060, 4185865; 612073, 4185868; 612078, 4185887; 612100, 4185905; 612132, 4185915; 612162, 4185920; 612194, 4185920; 612227, 4185915; 612261, 4185887; 612286, 4185833; 612294, 4185781; 612286, 4185744; 612269, 4185684; 612254, 4185667; 612236, 4185642; 612249, 4185602; 612266, 4185592; 612289, 4185557; 612289, 4185533; 612298, 4185520; 612331, 4185520; 612343, 4185520; 612353, 4185557; 612363, 4185575; 612393, 4185617; 612410, 4185669; 612430, 4185711; 612462, 4185726; 612485, 4185744; 612494, 4185763; 612499, 4185783; 612524, 4185825; 612561, 4185863; 612611, 4185882; 612671, 4185887; 612705, 4185882; 612735, 4185868; 612782, 4185843; 612817, 4185850; 612832, 4185860; 612829, 4185890; 612800, 4185925; 612767, 4185964; 612703, 4186016; 612653, 4186034; 612566, 4186059; 612492, 4186076; 612457, 4186076; 612415, 4186086; 612368, 4186118; 612308, 4186158; 612256, 4186210; 612202, 4186252; 612174, 4186299; 612172, 4186359; 612152, 4186396; 612127, 4186399; 612110, 4186381; 612078, 4186391; 612053, 4186409; 612023, 4186441; 612006, 4186483; 612018, 4186552; 612035, 4186622; 612058, 4186674; 612070, 4186721; 612065, 4186741; 612033, 4186741; 611988, 4186743; 611968, 4186768; 611959, 4186806; 611976, 4186838; 612003, 4186868; 612050, 4186890; 612090, 4186907; 612105, 4186957; 612112, 4186984; 612140, 4187009; 612162, 4187036; 612204, 4187056; 612236, 4187059; 612276, 4187036; 612303, 4187024; 612331, 4186994; 612363, 4186927; 612368, 4186865; 612346, 4186813; 612383, 4186825; 612432, 4186860; 612452, 4186880; 612457, 4186947; 612437, 4187011; 612398, 4187064; 612375, 4187106; 612378, 4187155; 612415, 4187175; 612457, 4187210; 612517, 4187210; 612581, 4187198; 612656, 4187178; 612720, 4187175; 612748, 4187188; 612755, 4187210; 612718, 4187235; 612653, 4187257; 612576, 4187277; 612497, 4187299; 612432, 4187297; 612378, 4187267; 612351, 4187235; 612316, 4187217; 612276, 4187217; 612241, 4187222; 612217, 4187250; 612219, 4187277; 612204, 4187297; 612182, 4187287; 612172, 4187262; 612160, 4187247; 612120, 4187237; 612075, 4187240; 612075, 4187270; 612093, 4187302; 612107, 4187327; 612095, 4187356; 612065, 4187371; 612013, 4187401; 611996, 4187426; 611988, 4187466; 612006, 4187518; 612026, 4187562; 612013, 4187612; 611986, 4187642; 611976, 4187681; 611988, 4187724; 612016, 4187746; 612033, 4187766; 612038, 4187793; 612028, 4187810; 612006, 4187848; 611991, 4187887; 611973, 4187937; 611934, 4187997; 611916, 4188044; 611924, 4188128; 611926, 4188178; 611929, 4188222; 611946, 4188252; 611961, 4188284; 611976, 4188309; 611986, 4188336; 612008, 4188366; 612004, 4188412; 611730, 4188596; 611668, 4188567; 611583, 4188548; returning to 611574, 4188453.

(iii) Also excluding land bounded by the following UTM zone 10, NAD 1983 coordinates (E, N): 622742, 4184043; 622742, 4183973; 622831, 4183977; 623170, 4183986; 623154, 4184309; 622828, 4184300; 622828, 4184064; returning to 622742, 4184043.

(iv) Note: Map of Unit CCS-2 for the California red-legged frog follows:

BILLING CODE 4310-55-P

(26) Unit ALA-1A: Alameda and Contra Costa Counties, California. From USGS 1:24,000 scale quadrangles Hayward and Dublin.

(i) Land bounded by the following UTM zone 10, NAD 1983 coordinates (E, N): 589322, 4176556; 589405, 4176494; 589496, 4176505; 589715, 4176405; 589795, 4176372; 589924, 4176319; 589935, 4176295; 590430, 4176229; 590671, 4176222; 590869, 4175981; 591266, 4175498; 591485, 4175149; 591719, 4174774; 591948, 4174305; 591853, 4174108; 591643, 4173987; 591504, 4173809; 591458, 4173709; 591408, 4173600; 591440, 4173339; 591694, 4173149; 591840, 4172933; 591446, 4172838; 591448, 4172833; 591386, 4172845; 591049, 4172821; 590725, 4172829; 590508, 4172864; 590397, 4172881; 590143, 4172921; 589920, 4172957; 589688, 4172994; 589480, 4173122; 589271, 4173235; 589054, 4173369; 588658, 4173519; 588382, 4173575; 588034, 4173607; 587897, 4173519; 587740, 4173523; 587616, 4173529; 587503, 4173596; 587361, 4173580; 587265, 4173454; 587091, 4173433; 586954, 4173495; 586890, 4173481; 586775, 4173449; 586633, 4173468; 586595, 4173494; 586544, 4173495; 586531, 4173449; 586424, 4173403; 586293, 4173369; 586242, 4173425; 586231, 4173527; 586250, 4173602; 586234, 4173722; 586242, 4173859; 586210, 4173945; 586247, 4174005; 586500, 4174070; 586630, 4174164; 587008, 4174540; 587167, 4174927; 587446, 4175244; 587548, 4175454; 587414, 4175727; 587586, 4176114; 587681, 4176546; 587654, 4176671; 587794, 4176717; 587912, 4176814; 588009, 4176960; 588338, 4177213; 588352, 4177224; 588496, 4177249; 588607, 4177210; 588649, 4177168; 588745, 4177130; 588793, 4177030; 588812, 4177013; 588805, 4176969; 588827, 4176886; 588916, 4176782; 589103, 4176705; 589243, 4176600; returning to 589322, 4176556.

(ii) Note: Map of Unit ALA-1, subunits A and B, for the California red-legged frog follows:

BILLING CODE 4310-55-C

(27) Unit ALA-1B: Alameda County, California. From USGS 1:24,000 scale quadrangles Hayward, Newark, Dublin and Niles.

(i) Land bounded by the following UTM zone 10, NAD 1983 coordinates (E, N): 588321, 4173181; 588639, 4173092; 588861, 4172977; 589000, 4172905; 589237, 4172849; 589637, 4172754; 589752, 4172727; 589941, 4172509; 590141, 4172449; 590489, 4172393; 590576, 4172397; 590841, 4172409; 591221, 4172426; 591396, 4172458; 591396, 4172444; 591606, 4172445; 591815, 4172355; 592102, 4172231; 592172, 4172044; 592183, 4171619; 592189, 4171371; 592042, 4171279; 592062, 4171117; 592099, 4170813; 592133, 4170533; 592151, 4170380; 592223, 4170274; 592255, 4170057; 592266, 4169980; 592295, 4169974; 592315, 4169948; 592376, 4169868; 592356, 4169776; 592382, 4169675; 592366, 4169540; 592758, 4169210; 592904, 4169127; 593012, 4169114; 593047, 4169002; 592837, 4168532; 592484, 4168000; 592424, 4168028; 592288, 4168138; 592156, 4168294; 592026, 4168424; 591945, 4168430; 591889, 4168487; 591781, 4168611; 591703, 4168675; 591583, 4168715; 591600, 4168604; 591552, 4168555; 591445, 4168506; 591429, 4168449; 591391, 4168384; 591375, 4168229; 591314, 4168047; 591248, 4167890; 591180, 4167755; 591246, 4167599; 591302, 4167480; 591335, 4167293; 591364, 4167166; 591324, 4167114; 590985, 4166944; 590847, 4166939; 590711, 4166974; 590568, 4166990; 590483, 4166904; 590440, 4166758; 590366, 4166722; 590240, 4166746; 590127, 4166801; 590009, 4166810; 589907, 4166736; 589879, 4166634; 589923, 4166536; 589908, 4166444; 589913, 4166354; 589951, 4166210; 589928, 4166116; 589915, 4166032; 589925, 4166027; 589909, 4166010; 589855, 4165816; 589834, 4165738; 589459, 4165656; 589211, 4165548; 589046, 4165281; 588824, 4165281; 588533, 4165134; 588437, 4164907; 588163, 4164532; 587725, 4164310; 587497, 4164106; 587332, 4163903; 587131, 4163906; 586900, 4163802; 586555, 4163647; 586379, 4163802; 586163, 4163992; 586062, 4164145; 585877, 4164291; 585839, 4164456; 585687, 4164710; 585560, 4165078; 585530, 4165238; 585538, 4165286; 585468, 4165407; 585447, 4165416; 585395, 4165510; 585247, 4165573; 585230, 4165603; 585201, 4165782; 585288, 4165951; 585380, 4166061; 585520, 4166085; 585508, 4166256; 585528, 4166374; 585693, 4166513; 585897, 4166640; 585970, 4166766; 586129, 4166878; 586344, 4166952; 586414, 4167028; 586677, 4167043; 586862, 4167053; 587090, 4167066; 587452, 4166869; 587732, 4166767; 587973, 4166786; 588170, 4166970; 588165, 4167053; 588155, 4167200; 587897, 4167504; 587681, 4167758; 587459, 4168183; 587133, 4168507; 586761, 4168666; 586360, 4168839; 586232, 4169222; 586047, 4169778; 586218, 4170240; 586313, 4170161; 586517, 4170161; 586753, 4170161; 586909, 4170161; 587125, 4170201; 587109, 4170285; 586997, 4170377; 586969, 4170461; 587015, 4170485; 587041, 4170593; 586953, 4170669; 586905, 4170757; 586805, 4170789; 586701, 4170933; 586613, 4171125; 586609, 4171265; 586545, 4171385; 586492, 4171485; 586467, 4171532; 586545, 4171729; 586505, 4171849; 586438, 4172049; 586603, 4172104; 586673, 4172189; 586445, 4172297; 586317, 4172358; 586229, 4172533; 586325, 4172705; 586455, 4172938; 586556, 4173120; 586809, 4173225; 587041, 4173205; 587214, 4173191; 587468, 4173169; 587653, 4173213; 587883, 4173268; 588111, 4173240; returning to 588321, 4173181.

(ii) Note: Unit ALA-1B for California red-legged frog is depicted on the map in paragraph (26)(ii) of this entry.

(28) Unit ALA-2: Alameda, Santa Clara and San Joaquin Counties, California. From USGS 1:24,000 scale quadrangles Niles, La Costa Valley, Calaveras Reservoir, Altamont, Mendenhall Springs, Mt. Day, Midway, Cedar Mtn., Tracy, Lone Tree Creek and Eylar Mountain.

(i) Land bounded by the following UTM zone 10, NAD 1983 coordinates (E, N): 612040, 4142329; 612012, 4142381; 611984, 4142405; 611882, 4142467; 611832, 4142504; 611809, 4142526; 611774, 4142582; 611748, 4142603; 611689, 4142634; 611670, 4142668; 611459, 4142899; 611431, 4142908; 611408, 4142925; 611399, 4142913; 611372, 4142893; 611333, 4142884; 611236, 4142876; 611197, 4142864; 611151, 4142845; 611117, 4142825; 611044, 4142749; 610999, 4142707; 610954, 4142645; 610789, 4142438; 610778, 4142407; 610772, 4142381; 610764, 4142289; 610751, 4142259; 610738, 4142232; 610676, 4142133; 610645, 4142100; 610614, 4142075; 610588, 4142061; 610495, 4142034; 610443, 4142001; 610415, 4141989; 610359, 4141976; 610315, 4141978; 610277, 4141986; 610249, 4141999; 610212, 4142024; 610194, 4142032; 610166, 4142036; 610143, 4142029; 610107, 4142024; 610088, 4142027; 610066, 4142044; 610012, 4142113; 609979, 4142131; 609906, 4142162; 609878, 4142170; 609851, 4142170; 609834, 4142162; 609816, 4142140; 609797, 4142102; 609764, 4142030; 609743, 4141951; 609564, 4141864; 609532, 4141860; 609511, 4141864; 609481, 4141877; 609375, 4141928; 609357, 4141939; 609329, 4141976; 609312, 4142038; 609313, 4142207; 609302, 4142219; 609263, 4142227; 609237, 4142227; 609150, 4142207; 609113, 4142203; 609083, 4142211; 609040, 4142248; 608996, 4142296; 608926, 4142330; 608884, 4142355; 608848, 4142388; 608839, 4142409; 608828, 4142448; 608815, 4142474; 608779, 4142518; 608741, 4142579; 608715, 4142602; 608679, 4142620; 608649, 4142630; 608623, 4142635; 608587, 4142636; 608539, 4142635; 608452, 4142617; 608411, 4142613; 608361, 4142613; 608335, 4142617; 608300, 4142611; 608291, 4142604; 608211, 4142548; 608081, 4142470; 608016, 4142438; 607970, 4142410; 607907, 4142380; 607886, 4142373; 607807, 4142371; 607725, 4142387; 607579, 4142433; 607382, 4142516; 607250, 4142594; 607194, 4142641; 607159, 4142684; 607141, 4142701; 607113, 4142716; 607081, 4142727; 606993, 4142750; 606927, 4142780; 606861, 4142828; 606795, 4142870; 606754, 4142879; 606679, 4142882; 606620, 4142862; 606586, 4142836; 606571, 4142831; 606543, 4142829; 606517, 4142832; 606416, 4142871; 606314, 4142929; 606271, 4142971; 606247, 4143001; 606224, 4143019; 606099, 4143048; 606057, 4143065; 605995, 4143103; 605930, 4143162; 605897, 4143185; 605791, 4143243; 605771, 4143263; 605760, 4143282; 605745, 4143336; 605727, 4143376; 605701, 4143423; 605554, 4143520; 605453, 4143528; 605345, 4143526; 605311, 4143528; 605254, 4143546; 605210, 4143551; 605147, 4143542; 605067, 4143500; 605051, 4143504; 605010, 4143495; 604993, 4143497; 604955, 4143493; 604908, 4143482; 604810, 4143466; 604716, 4143478; 604685, 4143494; 604646, 4143508; 604622, 4143530; 604620, 4143578; 604628, 4143633; 604624, 4143653; 604571, 4143770; 604557, 4143790; 604543, 4143800; 604487, 4143823; 604416, 4143859; 604397, 4143865; 604374, 4143877; 604356, 4143901; 604347, 4143932; 604348, 4143959; 604337, 4143986; 604318, 4143994; 604246, 4144037; 604220, 4144048; 604155, 4144066; 603989, 4144091; 603967, 4144092; 603917, 4144080; 603894, 4144078; 603854, 4144086; 603815, 4144103; 603737, 4144165; 603712, 4144172; 603668, 4144173; 603551, 4144150; 603514, 4144160; 603492, 4144191; 603469, 4144204; 603457, 4144259; 603442, 4144285; 603430, 4144299; 603416, 4144311; 603393, 4144324; 603303, 4144387; 603276, 4144408; 603248, 4144436; 603230, 4144461; 603200, 4144536; 603191, 4144601; 603197, 4144624; 603214, 4144645; 603256, 4144680; 603339, 4144934; 603323, 4144959; 603311, 4144970; 603292, 4144982; 603260, 4145015; 603197, 4145061; 603244, 4145094; 603266, 4145106; 603314, 4145117; 603353, 4145120; 603479, 4145098; 603510, 4145098; 603530, 4145101; 603550, 4145109; 603629, 4145187; 603669, 4145241; 603688, 4145278; 603695, 4145304; 603699, 4145354; 603698, 4145374; 603703, 4145398; 603714, 4145425; 603727, 4145448; 603775, 4145481; 603787, 4145493; 603795, 4145566; 603809, 4145593; 603837, 4145620; 604119, 4145818; 604148, 4145841; 604268, 4145914; 604324, 4145939; 604353, 4145949; 604414, 4145954; 604472, 4145956; 604490, 4145950; 604494, 4145935; 604482, 4145913; 604491, 4145906; 604495, 4145903; 604559, 4145901; 604571, 4145897; 604588, 4145896; 604608, 4145905; 604628, 4145909; 604643, 4145908; 604672, 4145873; 604687, 4145865; 604707, 4145860; 604719, 4145864; 604738, 4145896; 604760, 4145912; 604790, 4145919; 604828, 4145921; 605079, 4145911; 605251, 4145920; 605287, 4145917; 605318, 4145910; 605351, 4145935; 605495, 4145971; 605514, 4145964; 605524, 4145952; 605564, 4145962; 605593, 4145960; 605658, 4145913; 605685, 4145906; 605716, 4145905; 605722, 4145903; 605812, 4145974; 605837, 4146012; 605829, 4146068; 605639, 4146251; 605595, 4146322; 605594, 4146337; 605622, 4146353; 605663, 4146343; 605686, 4146320; 605702, 4146262; 605738, 4146225; 605845, 4146183; 605895, 4146201; 605896, 4146201; 605916, 4146229; 605915, 4146260; 605846, 4146365; 605801, 4146507; 605762, 4146550; 605680, 4146592; 605558, 4146629; 605461, 4146643; 605428, 4146660; 605430, 4146673; 605483, 4146707; 605478, 4146727; 605416, 4146780; 605429, 4146803; 605464, 4146836; 605461, 4146849; 605407, 4146906; 605387, 4146944; 605365, 4147079; 605394, 4147165; 605411, 4147194; 605442, 4147212; 605462, 4147209; 605495, 4147179; 605532, 4147116; 605552, 4147114; 605551, 4147218; 605591, 4147274; 605593, 4147302; 605461, 4147339; 605374, 4147351; 605336, 4147373; 605320, 4147396; 605322, 4147431; 605355, 4147477; 605352, 4147500; 605293, 4147540; 605277, 4147575; 605279, 4147619; 605299, 4147660; 605329, 4147701; 605322, 4147708; 605256, 4147690; 605243, 4147707; 605245, 4147738; 605214, 4147753; 605169, 4147742; 605096, 4147703; 605044, 4147733; 605031, 4147753; 605034, 4147773; 605096, 4147840; 605096, 4147871; 605048, 4147893; 605032, 4147936; 604965, 4147973; 604947, 4148019; 604914, 4148051; 604855, 4148068; 604845, 4148083; 604861, 4148167; 604884, 4148203; 604885, 4148277; 604958, 4148382; 604991, 4148413; 605033, 4148434; 605066, 4148437; 605095, 4148424; 605101, 4148323; 605127, 4148265; 605220, 4148111; 605251, 4148083; 605294, 4148086; 605431, 4148129; 605537, 4148188; 605655, 4148273; 605680, 4148317; 605768, 4148412; 605818, 4148448; 605900, 4148447; 605946, 4148417; 606075, 4148398; 606134, 4148371; 606201, 4148308; 606331, 4148228; 606492, 4148189; 606500, 4148167; 606493, 4148131; 606445, 4148064; 606428, 4148018; 606432, 4147932; 606450, 4147848; 606466, 4147818; 606558, 4147771; 606599, 4147772; 606755, 4147834; 606834, 4147825; 606924, 4147745; 606980, 4147710; 607100, 4147683; 607316, 4147699; 607329, 4147689; 607345, 4147608; 607317, 4147567; 607346, 4147503; 607349, 4147443; 607327, 4147392; 607255, 4147276; 607243, 4147215; 607251, 4147137; 607285, 4147051; 607316, 4147026; 607377, 4147026; 607487, 4147002; 607524, 4147018; 607557, 4147061; 607569, 4147158; 607569, 4147349; 607576, 4147367; 607611, 4147397; 607637, 4147398; 607805, 4147339; 607876, 4147327; 607937, 4147328; 607996, 4147308; 608070, 4147250; 608117, 4147213; 608124, 4147191; 608151, 4147117; 608157, 4147105; 608174, 4147074; 608198, 4147065; 608207, 4147071; 608207, 4147072; 608189, 4147079; 608169, 4147104; 608137, 4147173; 608132, 4147185; 608103, 4147246; 608026, 4147319; 607940, 4147361; 607802, 4147400; 607613, 4147453; 607568, 4147455; 607542, 4147445; 607520, 4147414; 607508, 4147378; 607481, 4147238; 607470, 4147109; 607463, 4147091; 607430, 4147073; 607361, 4147095; 607345, 4147122; 607361, 4147285; 607376, 4147329; 607416, 4147398; 607424, 4147525; 607414, 4147743; 607371, 4147778; 607304, 4147790; 607198, 4147789; 607048, 4147807; 606974, 4147847; 606815, 4147954; 606761, 4147977; 606726, 4147976; 606695, 4147966; 606675, 4147945; 606632, 4147922; 606612, 4147924; 606586, 4147944; 606576, 4147974; 606641, 4148036; 606651, 4148062; 606650, 4148153; 606623, 4148242; 606566, 4148315; 606564, 4148317; 606567, 4148327; 606462, 4148349; 606317, 4148401; 606245, 4148473; 606127, 4148523; 606037, 4148595; 606022, 4148618; 606011, 4148697; 605972, 4148760; 605956, 4148648; 605875, 4148588; 605794, 4148552; 605740, 4148579; 605677, 4148566; 605645, 4148530; 605553, 4148508; 605458, 4148449; 605425, 4148449; 605361, 4148481; 605302, 4148488; 605274, 4148531; 605261, 4148568; 605181, 4148639; 605163, 4148671; 605078, 4148759; 605007, 4148774; 604968, 4148794; 604938, 4148788; 604895, 4148760; 604811, 4148733; 604781, 4148736; 604743, 4148753; 604659, 4148724; 604626, 4148724; 604633, 4148790; 604618, 4148800; 604572, 4148794; 604509, 4148765; 604453, 4148777; 604435, 4148808; 604421, 4148881; 604411, 4148891; 604330, 4148867; 604307, 4148872; 604217, 4148932; 604184, 4148967; 604115, 4148999; 604058, 4149052; 604035, 4149085; 604024, 4149133; 604028, 4149293; 604042, 4149326; 604078, 4149327; 604111, 4149304; 604139, 4149315; 604133, 4149383; 604110, 4149416; 604097, 4149449; 604099, 4149492; 604123, 4149581; 604103, 4149599; 604101, 4149703; 604131, 4149764; 604154, 4149775; 604225, 4149775; 604253, 4149801; 604285, 4149850; 604328, 4149894; 604378, 4149960; 604388, 4149988; 604441, 4150019; 604438, 4150052; 604397, 4150085; 604388, 4150136; 604375, 4150151; 604314, 4150160; 604142, 4150150; 604127, 4150140; 604117, 4150120; 604089, 4150109; 604027, 4150157; 603999, 4150169; 603974, 4150171; 603949, 4150168; 603908, 4150143; 603794, 4150164; 603778, 4150233; 603739, 4150290; 603721, 4150298; 603693, 4150280; 603691, 4150257; 603709, 4150227; 603707, 4150191; 603646, 4150211; 603615, 4150238; 603610, 4150256; 603609, 4150314; 603563, 4150342; 603550, 4150375; 603499, 4150366; 603474, 4150381; 603465, 4150437; 603432, 4150437; 603404, 4150447; 603372, 4150550; 603348, 4150592; 603264, 4151150; 603203, 4151558; 603140, 4151552; 603114, 4151571; 603093, 4151598; 602937, 4151670; 602854, 4151708; 602802, 4151744; 602733, 4151762; 602655, 4151762; 602618, 4151755; 602597, 4151755; 602487, 4151789; 602459, 4151790; 602423, 4151775; 602401, 4151748; 602376, 4151685; 602374, 4151679; 602339, 4151609; 602321, 4151592; 602202, 4151523; 602165, 4151495; 602039, 4151369; 601903, 4151311; 601813, 4151278; 601700, 4151170; 601672, 4151145; 601645, 4151127; 601616, 4151110; 601519, 4151064; 601369, 4151014; 601334, 4150995; 601287, 4150951; 601289, 4150938; 601305, 4150919; 601333, 4150905; 601414, 4150875; 601463, 4150837; 601467, 4150803; 601460, 4150773; 601447, 4150753; 601374, 4150664; 601327, 4150645; 601275, 4150634; 601221, 4150629; 601132, 4150629; 601049, 4150625; 601017, 4150617; 600991, 4150604; 600960, 4150575; 600900, 4150486; 600709, 4150330; 600633, 4150323; 600593, 4150316; 600497, 4150286; 600435, 4150256; 600405, 4150249; 600380, 4150247; 600345, 4150251; 600286, 4150258; 600249, 4150269; 600228, 4150285; 600213, 4150306; 600186, 4150372; 600155, 4150433; 600135, 4150455; 600105, 4150470; 600078, 4150477; 599951, 4150481; 599910, 4150485; 599878, 4150496; 599859, 4150517; 599822, 4150568; 599775, 4150622; 599773, 4150626; 599758, 4150647; 599744, 4150676; 599737, 4150707; 599739, 4150733; 599761, 4150793; 599763, 4150829; 599721, 4150914; 599720, 4150932; 599715, 4151215; 599571, 4151627; 599485, 4151699; 599425, 4151760; 599357, 4151849; 599256, 4151991; 598935, 4152325; 598994, 4152320; 599022, 4152342; 599049, 4152373; 599082, 4152424; 599126, 4152479; 599154, 4152521; 599171, 4152538; 599225, 4152625; 599275, 4152690; 599297, 4152714; 599306, 4152734; 599395, 4153026; 599397, 4153079; 599399, 4153141; 599407, 4153181; 599416, 4153204; 599441, 4153243; 599472, 4153275; 599511, 4153309; 599523, 4153331; 599525, 4153351; 599516, 4153404; 599517, 4153429; 599547, 4153507; 599557, 4153572; 599553, 4153602; 599534, 4153639; 599516, 4153662; 599451, 4153719; 599359, 4153762; 599339, 4153768; 599352, 4153802; 599369, 4153835; 599384, 4153847; 599397, 4153852; 599434, 4153857; 599468, 4153868; 599517, 4153896; 599547, 4153940; 599574, 4154014; 599586, 4154036; 599657, 4154112; 599671, 4154187; 599674, 4154219; 599662, 4154315; 599657, 4154422; 599658, 4154487; 599666, 4154495; 599676, 4154498; 599738, 4154506; 599787, 4154525; 599832, 4154564; 599882, 4154657; 599890, 4154672; 600055, 4154874; 600115, 4154907; 600151, 4154920; 600176, 4154923; 600213, 4154918; 600257, 4154904; 600292, 4154897; 600382, 4154931; 600424, 4154925; 600488, 4154890; 600523, 4154882; 600623, 4154869; 600740, 4154838; 600844, 4154804; 600949, 4154802; 601049, 4154820; 601122, 4154833; 601223, 4154855; 601259, 4154869; 601290, 4154890; 601332, 4154910; 601336, 4154914; 601339, 4154917; 601348, 4154927; 601399, 4154967; 601469, 4154994; 601510, 4155027; 601548, 4155076; 601564, 4155111; 601573, 4155156; 601587, 4155185; 601597, 4155224; 601592, 4155258; 601579, 4155281; 601557, 4155307; 601530, 4155347; 601511, 4155405; 601528, 4155419; 601557, 4155429; 601600, 4155459; 601635, 4155473; 601661, 4155487; 601693, 4155514; 601740, 4155629; 601738, 4155656; 601743, 4155684; 601774, 4155718; 601803, 4155739; 601817, 4155756; 601802, 4155800; 601782, 4155824; 601798, 4155853; 601824, 4155855; 601858, 4155851; 601877, 4155865; 601980, 4155970; 602009, 4155990; 602046, 4156033; 602055, 4156050; 602072, 4156065; 602093, 4156075; 602136, 4156056; 602154, 4156037; 602196, 4155963; 602200, 4155958; 602233, 4155908; 602251, 4155889; 602270, 4155880; 602310, 4155871; 602330, 4155874; 602420, 4155901; 602461, 4155919; 602502, 4155918; 602599, 4155927; 602656, 4155945; 602696, 4155968; 602725, 4155999; 602787, 4156027; 602838, 4156068; 602838, 4156083; 602828, 4156101; 602813, 4156118; 602666, 4156199; 602652, 4156215; 602643, 4156235; 602632, 4156283; 602583, 4156379; 602525, 4156452; 602502, 4156477; 602485, 4156492; 602461, 4156510; 602444, 4156523; 602431, 4156538; 602425, 4156553; 602419, 4156596; 602419, 4156664; 602388, 4156715; 602324, 4156785; 602257, 4156867; 601973, 4157054; 601917, 4157100; 601881, 4157136; 601859, 4157182; 601861, 4157211; 601867, 4157226; 601883, 4157246; 601895, 4157268; 601941, 4157456; 601943, 4157586; 601986, 4157643; 601992, 4157658; 601997, 4157735; 601991, 4157850; 601970, 4157883; 601957, 4157895; 601853, 4157954; 601808, 4158002; 601800, 4158023; 601759, 4158196; 601696, 4158352; 601680, 4158422; 601645, 4158526; 601627, 4158550; 601612, 4158564; 601585, 4158580; 601561, 4158587; 601534, 4158590; 601506, 4158601; 601470, 4158625; 601435, 4158669; 601408, 4158719; 601407, 4158736; 601413, 4158769; 601423, 4158781; 601512, 4158831; 601622, 4158758; 601704, 4158727; 601752, 4158717; 601810, 4158666; 601849, 4158623; 601898, 4158596; 601936, 4158599; 601977, 4158618; 602033, 4158637; 602050, 4158623; 602067, 4158587; 602074, 4158497; 602086, 4158475; 602113, 4158524; 602130, 4158560; 602142, 4158584; 602164, 4158594; 602210, 4158594; 602246, 4158594; 602282, 4158604; 602297, 4158635; 602321, 4158635; 602321, 4158572; 602319, 4158480; 602311, 4158415; 602331, 4158379; 602367, 4158434; 602391, 4158497; 602427, 4158567; 602437, 4158596; 602454, 4158587; 602505, 4158555; 602558, 4158545; 602616, 4158497; 602650, 4158451; 602681, 4158371; 602706, 4158308; 602749, 4158270; 602805, 4158219; 602832, 4158185; 602873, 4158137; 602926, 4158054; 602998, 4158013; 603037, 4158013; 602982, 4158086; 602952, 4158132; 602880, 4158216; 602827, 4158277; 602776, 4158398; 602727, 4158512; 602689, 4158601; 602648, 4158679; 602698, 4158679; 602740, 4158674; 602798, 4158650; 602836, 4158652; 602897, 4158652; 602940, 4158652; 603040, 4158674; 603003, 4158686; 602950, 4158698; 602916, 4158717; 602841, 4158739; 602776, 4158754; 602742, 4158778; 602703, 4158797; 602694, 4158821; 602698, 4158846; 602703, 4158879; 602740, 4158879; 602759, 4158889; 602788, 4158896; 602810, 4158896; 602817, 4158916; 602817, 4158937; 602798, 4158950; 602805, 4158971; 602834, 4158971; 602858, 4158957; 602894, 4158933; 602914, 4158896; 602923, 4158841; 602945, 4158848; 602974, 4158882; 603011, 4158884; 603015, 4158899; 603040, 4158899; 603061, 4158887; 603083, 4158860; 603102, 4158879; 603129, 4158889; 603163, 4158889; 603197, 4158882; 603216, 4158884; 603214, 4158913; 603190, 4158923; 603165, 4158937; 603141, 4158940; 603098, 4158945; 603059, 4158986; 603008, 4158996; 602965, 4159029; 602998, 4159049; 603020, 4159058; 603042, 4159102; 603073, 4159117; 603105, 4159102; 603136, 4159080; 603168, 4159046; 603185, 4159071; 603221, 4159075; 603250, 4159068; 603265, 4159087; 603243, 4159107; 603209, 4159121; 603168, 4159143; 603197, 4159167; 603236, 4159172; 603257, 4159167; 603296, 4159146; 603349, 4159109; 603386, 4159075; 603410, 4159049; 603439, 4159049; 603461, 4159032; 603482, 4158976; 603482, 4158942; 603482, 4158906; 603492, 4158860; 603523, 4158787; 603538, 4158766; 603538, 4158821; 603538, 4158870; 603543, 4158916; 603550, 4158928; 603584, 4158916; 603603, 4158904; 603647, 4158879; 603707, 4158858; 603741, 4158838; 603741, 4158877; 603719, 4158899; 603690, 4158911; 603649, 4158945; 603613, 4158981; 603591, 4159005; 603562, 4159058; 603543, 4159097; 603565, 4159141; 603623, 4159182; 603678, 4159218; 603732, 4159221; 603751, 4159250; 603703, 4159267; 603686, 4159274; 603659, 4159274; 603637, 4159264; 603603, 4159240; 603574, 4159223; 603514, 4159199; 603504, 4159175; 603478, 4159165; 603461, 4159179; 603439, 4159194; 603417, 4159206; 603417, 4159240; 603403, 4159247; 603366, 4159242; 603325, 4159264; 603282, 4159308; 603340, 4159320; 603475, 4159334; 603487, 4159361; 603553, 4159385; 603676, 4159424; 603666, 4159470; 603690, 4159513; 603746, 4159571; 603769, 4159614; 603794, 4159645; 603825, 4159658; 603850, 4159683; 603883, 4159720; 603897, 4159734; 603928, 4159710; 603941, 4159680; 603965, 4159654; 604001, 4159645; 604021, 4159650; 603994, 4159681; 603976, 4159689; 603961, 4159728; 603949, 4159767; 603970, 4159788; 603999, 4159794; 604028, 4159794; 604057, 4159788; 604088, 4159761; 604137, 4159761; 604166, 4159765; 604156, 4159788; 604135, 4159792; 604090, 4159798; 604079, 4159821; 604056, 4159829; 604023, 4159840; 603997, 4159844; 603961, 4159842; 603922, 4159840; 603891, 4159842; 603856, 4159852; 603843, 4159867; 603843, 4159910; 603852, 4159960; 603860, 4160001; 603860, 4160040; 603860, 4160059; 603879, 4160076; 603899, 4160098; 603916, 4160117; 603918, 4160146; 603926, 4160165; 603932, 4160204; 603934, 4160229; 603955, 4160243; 603980, 4160243; 604013, 4160245; 604036, 4160251; 604046, 4160297; 604063, 4160345; 604102, 4160390; 604119, 4160411; 604152, 4160423; 604203, 4160423; 604278, 4160448; 604344, 4160460; 604402, 4160462; 604443, 4160452; 604499, 4160440; 604532, 4160438; 604532, 4160417; 604539, 4160396; 604563, 4160415; 604582, 4160425; 604611, 4160425; 604648, 4160398; 604785, 4160307; 604836, 4160247; 604874, 4160243; 604938, 4160235; 604959, 4160235; 604971, 4160254; 604971, 4160299; 604961, 4160328; 604944, 4160347; 604917, 4160380; 604913, 4160396; 604907, 4160415; 604892, 4160427; 604855, 4160454; 604808, 4160485; 604799, 4160508; 604805, 4160516; 604836, 4160514; 604870, 4160514; 604896, 4160510; 604965, 4160489; 604990, 4160481; 605025, 4160446; 605052, 4160454; 605058, 4160489; 605050, 4160514; 605049, 4160535; 605091, 4160560; 605091, 4160616; 605099, 4160638; 605126, 4160624; 605170, 4160591; 605188, 4160556; 605182, 4160529; 605172, 4160494; 605159, 4160460; 605159, 4160427; 605161, 4160400; 605161, 4160369; 605174, 4160320; 605180, 4160268; 605207, 4160208; 605227, 4160194; 605265, 4160202; 605279, 4160216; 605308, 4160218; 605432, 4160204; 605453, 4160194; 605478, 4160187; 605507, 4160169; 605536, 4160123; 605577, 4160098; 605610, 4160082; 605639, 4160059; 605658, 4160065; 605658, 4160105; 605647, 4160127; 605612, 4160132; 605589, 4160148; 605592, 4160160; 605625, 4160156; 605664, 4160156; 605668, 4160177; 605650, 4160192; 605621, 4160192; 605598, 4160192; 605558, 4160196; 605529, 4160223; 605517, 4160266; 605482, 4160295; 605443, 4160326; 605412, 4160355; 605368, 4160363; 605356, 4160371; 605354, 4160405; 605354, 4160429; 605366, 4160450; 605389, 4160462; 605403, 4160479; 605418, 4160492; 605418, 4160537; 605416, 4160574; 605383, 4160611; 605378, 4160642; 605366, 4160669; 605360, 4160694; 605343, 4160725; 605333, 4160750; 605329, 4160769; 605312, 4160785; 605298, 4160793; 605265, 4160804; 605232, 4160820; 605192, 4160839; 605155, 4160854; 605128, 4160880; 605097, 4160903; 605050, 4160920; 605008, 4160936; 604958, 4160965; 604938, 4160965; 604901, 4160967; 604896, 4160982; 604898, 4161015; 604921, 4161029; 605004, 4161050; 605031, 4161075; 605054, 4161071; 605083, 4161062; 605116, 4161062; 605174, 4161062; 605211, 4161062; 605240, 4161075; 605250, 4161083; 605273, 4161071; 605290, 4161063; 605323, 4161052; 605354, 4161052; 605362, 4161065; 605362, 4161087; 605393, 4161125; 605381, 4161122; 605362, 4161116; 605350, 4161102; 605321, 4161083; 605302, 4161098; 605273, 4161131; 605248, 4161139; 605229, 4161125; 605229, 4161104; 605207, 4161104; 605184, 4161122; 605169, 4161122; 605136, 4161122; 605101, 4161125; 605078, 4161129; 605078, 4161147; 605107, 4161164; 605130, 4161201; 605116, 4161213; 605099, 4161199; 605081, 4161187; 605062, 4161170; 605039, 4161149; 605006, 4161133; 604965, 4161110; 604929, 4161104; 604882, 4161098; 604872, 4161131; 604872, 4161162; 604859, 4161201; 604849, 4161211; 604849, 4161193; 604849, 4161160; 604849, 4161141; 604838, 4161120; 604830, 4161106; 604814, 4161104; 604797, 4161089; 604778, 4161089; 604760, 4161089; 604748, 4161089; 604735, 4161089; 604725, 4161094; 604723, 4161114; 604719, 4161145; 604725, 4161156; 604739, 4161176; 604752, 4161203; 604756, 4161224; 604772, 4161251; 604764, 4161276; 604764, 4161302; 604752, 4161331; 604747, 4161362; 604743, 4161387; 604770, 4161410; 604772, 4161424; 604787, 4161431; 604810, 4161437; 604836, 4161458; 604843, 4161484; 604838, 4161485; 604849, 4161511; 604840, 4161588; 604818, 4161628; 604785, 4161648; 604761, 4161657; 604741, 4161657; 604716, 4161648; 604674, 4161661; 604643, 4161706; 604617, 4161757; 604586, 4161814; 604557, 4161869; 604539, 4161905; 604539, 4161945; 604535, 4161985; 604535, 4162011; 604535, 4162038; 604530, 4162062; 604506, 4162071; 604477, 4162055; 604451, 4161993; 604402, 4161896; 604369, 4161872; 604331, 4161865; 604305, 4161836; 604294, 4161825; 604293, 4161816; 604271, 4161816; 604236, 4161816; 604201, 4161825; 604215, 4162126; 604223, 4162298; 604245, 4162381; 604271, 4162419; 604302, 4162451; 604313, 4162469; 604326, 4162500; 604321, 4162524; 604280, 4162601; 604268, 4162636; 604256, 4162686; 604254, 4162736; 604262, 4162828; 604265, 4162940; 604287, 4163126; 604402, 4163244; 604424, 4163240; 604489, 4163238; 604509, 4163270; 604527, 4163317; 604534, 4163384; 604453, 4163523; 604392, 4163562; 604281, 4163602; 604261, 4163606; 604207, 4163608; 604110, 4163595; 604072, 4163610; 604057, 4163622; 604048, 4163634; 604029, 4163663; 603989, 4163770; 603972, 4163837; 603966, 4163928; 603971, 4163963; 603990, 4164018; 604031, 4164069; 604037, 4164092; 604071, 4164084; 604104, 4164083; 604135, 4164085; 604238, 4164099; 604303, 4164115; 604376, 4164142; 604474, 4164163; 604553, 4164176; 604598, 4164190; 604624, 4164202; 604670, 4164231; 604711, 4164246; 604777, 4164253; 604854, 4164136; 604916, 4164096; 604941, 4164092; 604969, 4164096; 605054, 4164125; 605148, 4164169; 605196, 4164214; 605237, 4164243; 605257, 4164262; 605281, 4164285; 605310, 4164328; 605327, 4164345; 605350, 4164352; 605372, 4164353; 605398, 4164344; 605566, 4164273; 605586, 4164267; 605649, 4164257; 605817, 4164262; 605875, 4164270; 605955, 4164294; 605993, 4164312; 606017, 4164319; 606040, 4164321; 606086, 4164315; 606156, 4164292; 606197, 4164286; 606236, 4164292; 606298, 4164308; 606347, 4164309; 606378, 4164305; 606563, 4164273; 606748, 4164218; 606796, 4164193; 606807, 4164177; 606863, 4164032; 606921, 4163920; 606956, 4163861; 607033, 4163799; 607087, 4163816; 607137, 4163817; 607200, 4163795; 607244, 4163763; 607268, 4163723; 607370, 4163442; 607406, 4163317; 607437, 4163070; 607437, 4163048; 607421, 4163015; 607402, 4162987; 607399, 4162974; 607416, 4162944; 607448, 4162927; 607509, 4162882; 607510, 4162863; 607497, 4162830; 607489, 4162781; 607492, 4162747; 607499, 4162724; 607503, 4162693; 607489, 4162603; 607497, 4162559; 607511, 4162549; 607593, 4162509; 607612, 4162491; 607634, 4162407; 607645, 4162375; 607662, 4162347; 607719, 4162312; 607832, 4162253; 607884, 4162241; 607905, 4162243; 607939, 4162253; 607960, 4162266; 607987, 4162290; 608003, 4162310; 608031, 4162385; 608041, 4162397; 608218, 4162404; 608293, 4162412; 608369, 4162379; 608388, 4162386; 608432, 4162412; 608463, 4162419; 608495, 4162421; 608631, 4162415; 608655, 4162411; 608710, 4162384; 608768, 4162345; 608789, 4162338; 608806, 4162335; 608832, 4162339; 608939, 4162358; 609035, 4162342; 609063, 4162321; 609100, 4162286; 609122, 4162269; 609174, 4162244; 609251, 4162174; 609280, 4162115; 609303, 4162095; 609321, 4162087; 609372, 4162076; 609507, 4162059; 609691, 4161999; 609787, 4161976; 609821, 4161959; 609841, 4161947; 609870, 4161918; 609905, 4161873; 609945, 4161800; 609961, 4161787; 609982, 4161783; 610052, 4161776; 610106, 4161764; 610119, 4161756; 610140, 4161738; 610176, 4161691; 610206, 4161667; 610234, 4161650; 610263, 4161613; 610377, 4161516; 610421, 4161537; 610450, 4161558; 610474, 4161581; 610495, 4161618; 610495, 4161639; 610436, 4161757; 610408, 4161802; 610394, 4161823; 610360, 4161857; 610323, 4161904; 610304, 4161934; 610276, 4162003; 610281, 4162055; 610320, 4162098; 610366, 4162111; 610389, 4162111; 610467, 4162097; 610529, 4162091; 610616, 4162113; 610654, 4162158; 610662, 4162180; 610676, 4162222; 610689, 4162326; 610553, 4162371; 610521, 4162365; 610463, 4162367; 610430, 4162373; 610349, 4162394; 610274, 4162431; 610248, 4162440; 610174, 4162444; 610140, 4162470; 610131, 4162487; 610125, 4162501; 610103, 4162583; 610080, 4162627; 610068, 4162636; 609988, 4162648; 609932, 4162662; 609904, 4162677; 609887, 4162694; 609876, 4162719; 609865, 4162766; 609850, 4162797; 609833, 4162853; 609836, 4162929; 609921, 4163020; 609999, 4163118; 610052, 4163161; 610115, 4163198; 610132, 4163212; 610191, 4163278; 610219, 4163315; 610249, 4163343; 610272, 4163388; 610287, 4163448; 610316, 4163543; 610321, 4163578; 610321, 4163610; 610317, 4163675; 610358, 4163681; 610415, 4163690; 610463, 4163671; 610523, 4163664; 610579, 4163673; 610592, 4163705; 610595, 4163608; 610631, 4163568; 610642, 4163512; 610668, 4163472; 610669, 4163431; 610657, 4163405; 610657, 4163365; 610736, 4163384; 610744, 4163376; 610749, 4163323; 610778, 4163298; 610786, 4163237; 610807, 4163235; 610819, 4163245; 610831, 4163322; 610848, 4163347; 610873, 4163365; 610906, 4163366; 610965, 4163326; 611108, 4163315; 611159, 4163301; 611182, 4163276; 611202, 4163271; 611245, 4163322; 611290, 4163341; 611399, 4163350; 611432, 4163346; 611461, 4163328; 611474, 4163252; 611508, 4163207; 611534, 4163149; 611593, 4163114; 611595, 4162990; 611636, 4162967; 611635, 4162879; 611673, 4162856; 611702, 4162824; 611712, 4162783; 611770, 4162700; 611780, 4162660; 611806, 4162617; 611812, 4162579; 611792, 4162543; 611790, 4162515; 611874, 4162493; 611885, 4162478; 611875, 4162422; 611979, 4162414; 612026, 4162371; 612067, 4162316; 612076, 4162260; 612130, 4162220; 612151, 4162172; 612272, 4162060; 612361, 4162031; 612422, 4161996; 612454, 4161956; 612454, 4161925; 612432, 4161882; 612394, 4161853; 612311, 4161816; 612303, 4161804; 612309, 4161796; 612317, 4161796; 612321, 4161796; 612413, 4161792; 612463, 4161814; 612514, 4161819; 612539, 4161812; 612570, 4161782; 612591, 4161744; 612678, 4161700; 612682, 4161614; 612666, 4161466; 612661, 4161344; 612623, 4161290; 612611, 4161249; 612619, 4161242; 612715, 4161266; 612821, 4161156; 612890, 4161124; 612936, 4161117; 612964, 4161105; 613031, 4161029; 613138, 4161026; 613204, 4160984; 613391, 4160895; 613523, 4160757; 613521, 4160716; 613504, 4160678; 613511, 4160668; 613568, 4160646; 613590, 4160677; 613630, 4160685; 613774, 4160629; 613909, 4160554; 614017, 4160475; 614053, 4160437; 614094, 4160428; 614107, 4160410; 614139, 4160301; 614162, 4160301; 614169, 4160307; 614179, 4160368; 614196, 4160383; 614239, 4160384; 614317, 4160278; 614314, 4160169; 614319, 4160159; 614337, 4160162; 614374, 4160203; 614410, 4160204; 614451, 4160156; 614519, 4160050; 614562, 4160013; 614588, 4159980; 614786, 4159869; 614859, 4159885; 614999, 4159887; 615065, 4159863; 615160, 4159798; 615214, 4159743; 615218, 4159659; 615277, 4159609; 615343, 4159605; 615382, 4159585; 615451, 4159520; 615506, 4159445; 615512, 4159386; 615497, 4159340; 615498, 4159277; 615511, 4159244; 615534, 4159211; 615599, 4159159; 615627, 4159137; 615681, 4159114; 615734, 4159077; 615740, 4159052; 615755, 4159039; 615774, 4158966; 615785, 4158956; 615840, 4158977; 615883, 4158975; 615967, 4158961; 616003, 4158944; 616016, 4158926; 616019, 4158898; 616000, 4158819; 616001, 4158756; 616053, 4158653; 616069, 4158599; 616070, 4158533; 616040, 4158497; 615937, 4158437; 615937, 4158415; 615959, 4158403; 615976, 4158395; 616031, 4158406; 616148, 4158453; 616213, 4158472; 616342, 4158535; 616404, 4158655; 616408, 4158693; 616395, 4158754; 616361, 4158792; 616264, 4158859; 616189, 4158934; 616018, 4159137; 615956, 4159182; 615951, 4159202; 615897, 4159224; 615790, 4159291; 615790, 4159291; 615675, 4159338; 615639, 4159373; 615628, 4159393; 615630, 4159449; 615652, 4159505; 615694, 4159564; 615754, 4159626; 615754, 4159662; 615736, 4159702; 615725, 4159760; 615721, 4159826; 615705, 4159877; 615679, 4159904; 615585, 4159939; 615559, 4159969; 615561, 4160007; 615583, 4160043; 615593, 4160096; 615643, 4160153; 615647, 4160186; 615699, 4160258; 615699, 4160270; 615699, 4160281; 615689, 4160306; 615656, 4160295; 615558, 4160205; 615507, 4160217; 615427, 4160302; 615342, 4160364; 615334, 4160382; 615249, 4160467; 615111, 4160529; 615021, 4160616; 614988, 4160634; 614906, 4160648; 614921, 4160701; 614920, 4160732; 614890, 4160724; 614847, 4160690; 614799, 4160689; 614743, 4160701; 614651, 4160753; 614584, 4160803; 614523, 4160789; 614390, 4160719; 614350, 4160673; 614304, 4160664; 614064, 4160734; 614026, 4160767; 613916, 4160821; 613882, 4160844; 613864, 4160886; 613913, 4160968; 613915, 4161004; 613885, 4161001; 613842, 4160957; 613815, 4160942; 613789, 4160941; 613708, 4160968; 613674, 4161013; 613663, 4161051; 613665, 4161097; 613680, 4161128; 613666, 4161181; 613668, 4161227; 613605, 4161238; 613532, 4161329; 613502, 4161328; 613444, 4161299; 613395, 4161296; 613327, 4161316; 613163, 4161379; 613047, 4161352; 612998, 4161367; 612967, 4161394; 612939, 4161432; 612944, 4161612; 612978, 4161702; 613008, 4161717; 613114, 4161754; 613228, 4161830; 613321, 4161841; 613435, 4161917; 613475, 4161930; 613497, 4161981; 613561, 4161990; 613581, 4162013; 613692, 4162073; 613694, 4162086; 613696, 4162098; 613638, 4162100; 613550, 4162055; 613494, 4162045; 613481, 4162054; 613470, 4162090; 613460, 4162092; 613437, 4162077; 613388, 4161997; 613345, 4161966; 613297, 4161953; 613160, 4161935; 613152, 4161943; 613159, 4161989; 613192, 4162040; 613267, 4162112; 613258, 4162204; 613214, 4162241; 613178, 4162261; 613178, 4162286; 613203, 4162317; 613202, 4162353; 613169, 4162375; 613153, 4162408; 613107, 4162415; 613065, 4162384; 612971, 4162367; 612965, 4162405; 613008, 4162449; 613007, 4162469; 612951, 4162479; 612958, 4162555; 613040, 4162698; 613039, 4162719; 613017, 4162716; 612984, 4162685; 612954, 4162672; 612907, 4162712; 612887, 4162714; 612885, 4162686; 612906, 4162648; 612906, 4162615; 612858, 4162607; 612862, 4162536; 612811, 4162530; 612811, 4162497; 612824, 4162474; 612828, 4162406; 612785, 4162380; 612763, 4162329; 612764, 4162237; 612755, 4162219; 612699, 4162213; 612556, 4162267; 612445, 4162380; 612444, 4162413; 612452, 4162415; 612449, 4162426; 612459, 4162436; 612461, 4162466; 612390, 4162486; 612328, 4162551; 612320, 4162607; 612395, 4162681; 612401, 4162753; 612378, 4162757; 612331, 4162701; 612265, 4162669; 612207, 4162658; 612171, 4162670; 611973, 4162868; 611902, 4162989; 611867, 4163161; 611866, 4163202; 611910, 4163200; 611963, 4163186; 611983, 4163199; 611988, 4163229; 612018, 4163242; 612071, 4163243; 612087, 4163253; 612086, 4163284; 611964, 4163330; 611963, 4163361; 611981, 4163374; 612039, 4163385; 612087, 4163424; 612089, 4163441; 612048, 4163469; 612045, 4163509; 612064, 4163561; 612066, 4163586; 612059, 4163593; 612058, 4163647; 612088, 4163680; 612090, 4163723; 612117, 4163747; 612163, 4163755; 612271, 4163698; 612317, 4163661; 612338, 4163631; 612358, 4163623; 612367, 4163705; 612384, 4163735; 612386, 4163768; 612313, 4163780; 612305, 4163788; 612310, 4163813; 612325, 4163826; 612327, 4163851; 612311, 4163861; 612240, 4163863; 612260, 4163916; 612257, 4163937; 612234, 4163959; 612208, 4163964; 612165, 4163948; 612132, 4163968; 612005, 4163966; 611979, 4163991; 611986, 4164024; 612006, 4164052; 612077, 4164076; 612201, 4164101; 612211, 4164122; 612193, 4164134; 612096, 4164150; 612083, 4164170; 612075, 4164211; 612052, 4164216; 612002, 4164154; 611934, 4164145; 611921, 4164153; 611912, 4164224; 611872, 4164228; 611856, 4164248; 611848, 4164271; 611855, 4164325; 611877, 4164368; 611877, 4164399; 611851, 4164401; 611826, 4164388; 611794, 4164324; 611764, 4164288; 611744, 4164277; 611700, 4164320; 611685, 4164322; 611655, 4164291; 611653, 4164268; 611673, 4164238; 611745, 4164188; 611751, 4164161; 611741, 4164148; 611657, 4164164; 611596, 4164163; 611578, 4164140; 611533, 4164124; 611510, 4164137; 611504, 4164205; 611475, 4164248; 611474, 4164324; 611419, 4164405; 611369, 4164404; 611359, 4164373; 611367, 4164358; 611366, 4164246; 611290, 4164243; 611259, 4164224; 611260, 4164199; 611291, 4164172; 611306, 4164139; 611307, 4164106; 611292, 4164093; 611229, 4164056; 611207, 4164020; 611164, 4164010; 611154, 4163999; 611150, 4163967; 611144, 4163973; 611107, 4163902; 611074, 4163841; 611001, 4163839; 610927, 4163872; 610891, 4163924; 610880, 4163980; 610893, 4164000; 610910, 4164080; 610949, 4164156; 611000, 4164339; 611039, 4164436; 611080, 4164499; 611135, 4164568; 611183, 4164612; 611236, 4164647; 611250, 4164665; 611276, 4164742; 611289, 4164750; 611299, 4164750; 611311, 4164743; 611330, 4164724; 611417, 4164686; 611448, 4164692; 611517, 4164715; 611551, 4164730; 611622, 4164782; 611695, 4164846; 611832, 4164934; 611877, 4164958; 611934, 4164924; 612038, 4164886; 612247, 4164842; 612296, 4164820; 612328, 4164799; 612347, 4164780; 612393, 4164669; 612407, 4164645; 612420, 4164646; 612647, 4164556; 612658, 4164536; 612678, 4164476; 612723, 4164409; 612784, 4164334; 612820, 4164283; 612875, 4164171; 612907, 4164138; 612947, 4164120; 612995, 4164092; 613016, 4164052; 613038, 4163997; 613061, 4163899; 613078, 4163870; 613097, 4163848; 613157, 4163814; 613180, 4163791; 613219, 4163721; 613233, 4163685; 613253, 4163616; 613271, 4163581; 613292, 4163559; 613316, 4163544; 613463, 4163473; 613553, 4163419; 613583, 4163392; 613617, 4163370; 613638, 4163370; 613738, 4163385; 613791, 4163382; 613818, 4163372; 613845, 4163351; 613863, 4163331; 613876, 4163297; 613895, 4163203; 613918, 4163188; 613954, 4163186; 614029, 4163193; 614088, 4163210; 614114, 4163222; 614160, 4163253; 614231, 4163309; 614267, 4163331; 614300, 4163345; 614324, 4163351; 614354, 4163345; 614367, 4163338; 614401, 4163306; 614424, 4163290; 614453, 4163275; 614491, 4163271; 614543, 4163275; 614603, 4163293; 614615, 4163302; 614626, 4163296; 614666, 4163414; 614856, 4163572; 614869, 4163807; 614964, 4163865; 615129, 4163865; 615251, 4163719; 615434, 4163604; 615688, 4163445; 616025, 4163376; 616264, 4163384; 616374, 4163496; 616273, 4163596; 616069, 4163655; 615872, 4163712; 615829, 4163887; 615599, 4163985; 615321, 4164105; 615002, 4164366; 614755, 4164569; 614749, 4164767; 614831, 4164944; 614654, 4165026; 614564, 4165300; 614436, 4165689; 614437, 4165903; 614666, 4165903; 614928, 4165903; 615187, 4165714; 615345, 4165598; 615430, 4165715; 615429, 4165715; 615550, 4165937; 615538, 4166025; 615523, 4166144; 615503, 4166296; 615580, 4166360; 615732, 4166487; 615913, 4166505; 616346, 4167008; 617079, 4167466; 617104, 4167535; 617161, 4167694; 617282, 4167808; 617685, 4167845; 617722, 4167868; 617791, 4167845; 617897, 4167842; 618056, 4167838; 618266, 4167834; 618542, 4167827; 618698, 4167713; 618910, 4167557; 619091, 4167497; 619378, 4167402; 619574, 4167288; 619695, 4167218; 619738, 4167192; 620013, 4167100; 620140, 4167117; 620246, 4167338; 620119, 4167637; 619714, 4167794; 619300, 4168266; 619052, 4168672; 618735, 4168989; 618678, 4169104; 618172, 4169787; 618157, 4169831; 617995, 4170301; 617556, 4170352; 617442, 4170382; 617287, 4170493; 617204, 4170557; 617100, 4170624; 616950, 4170652; 616831, 4170719; 616555, 4171289; 616503, 4171452; 616530, 4171510; 616564, 4171666; 616895, 4171920; 616837, 4172159; 616821, 4172319; 616570, 4172325; 616497, 4172427; 616473, 4172498; 616466, 4172568; 616555, 4172634; 616539, 4172754; 616454, 4172763; 616451, 4172910; 616429, 4172996; 616319, 4173063; 616190, 4173137; 616100, 4173179; 616084, 4173186; 616089, 4173209; 616046, 4173272; 616012, 4173321; 615935, 4173327; 615887, 4173345; 615823, 4173370; 615795, 4173413; 615698, 4173413; 615674, 4173445; 615645, 4173473; 615597, 4173507; 615541, 4173562; 615595, 4173691; 615669, 4173698; 615657, 4173836; 615759, 4174079; 615732, 4174234; 615761, 4174243; 615848, 4174335; 615806, 4174406; 615777, 4174454; 615749, 4174500; 615756, 4174555; 615804, 4174571; 615850, 4174586; 615884, 4174669; 615890, 4174767; 615859, 4174807; 615789, 4174837; 615741, 4174884; 615712, 4174942; 615691, 4174984; 616100, 4175472; 616109, 4175483; 616349, 4175539; 616755, 4175440; 617074, 4175362; 617379, 4175216; 617766, 4175316; 618090, 4175349; 618173, 4175358; 618401, 4175381; 618446, 4175547; 618782, 4175686; 620310, 4176319; 620471, 4176524; 620776, 4176912; 621036, 4177108; 621473, 4177190; 622154, 4177242; 622497, 4177318; 622691, 4177393; 623360, 4177451; 624015, 4177665; 624397, 4177755; 624884, 4177870; 625449, 4178004; 625762, 4177489; 626189, 4177521; 626257, 4177554; 626311, 4177469; 626384, 4177282; 626437, 4177148; 626456, 4177049; 626561, 4176510; 626556, 4176389; 626532, 4176306; 626438, 4176248; 626132, 4176243; 625961, 4176202; 625907, 4176037; 626005, 4175816; 626053, 4175640; 626277, 4175140; 626234, 4175070; 626115, 4174713; 626135, 4174197; 626968, 4173820; 627405, 4173998; 627479, 4173998; 627861, 4173998; 628417, 4173959; 628873, 4173959; 629548, 4174058; 630024, 4174058; 630461, 4173998; 630850, 4173810; 631367, 4173496; 631515, 4173385; 631624, 4173272; 631969, 4172827; 632177, 4172507; 632469, 4172176; 632866, 4171580; 633332, 4171086; 633474, 4170979; 633589, 4170893; 633803, 4170643; 634348, 4169941; 634422, 4169827; 634544, 4169640; 634590, 4169539; 634643, 4169401; 634612, 4169356; 634311, 4169041; 634104, 4168872; 633965, 4168813; 633458, 4168704; 633318, 4168637; 633211, 4168586; 633149, 4168471; 633127, 4168379; 633108, 4168299; 633101, 4167912; 633140, 4167837; 633166, 4167824; 633305, 4167877; 633425, 4167943; 633525, 4168027; 633556, 4168078; 633579, 4168262; 633627, 4168434; 633702, 4168530; 633751, 4168565; 633758, 4168566; 634026, 4168402; 634132, 4168414; 634183, 4168410; 634218, 4168381; 634260, 4168368; 634279, 4168340; 634314, 4168311; 634339, 4168285; 634380, 4168195; 634391, 4168147; 634391, 4167979; 634400, 4167931; 634398, 4167876; 634404, 4167792; 634423, 4167740; 634432, 4167733; 634439, 4167716; 634441, 4167676; 634404, 4167609; 634312, 4167513; 634282, 4167401; 634260, 4167367; 634247, 4167338; 634248, 4167274; 634265, 4167261; 634292, 4167196; 634344, 4167093; 634406, 4167002; 634433, 4166949; 634447, 4166938; 634472, 4166930; 634491, 4166914; 634591, 4166641; 634624, 4166593; 634651, 4166578; 634734, 4166576; 634764, 4166561; 634775, 4166559; 634788, 4166549; 634813, 4166500; 634848, 4166486; 634945, 4166407; 634957, 4166371; 634965, 4166312; 634982, 4166274; 635003, 4166241; 635034, 4166204; 635068, 4166148; 635072, 4166124; 635082, 4166100; 635103, 4166069; 635134, 4166039; 635193, 4166018; 635237, 4166018; 635281, 4166014; 635339, 4166026; 635368, 4166074; 635403, 4166146; 635436, 4166172; 635490, 4166146; 635511, 4166148; 635524, 4166158; 635585, 4166144; 635628, 4166123; 635687, 4166114; 635711, 4166105; 635755, 4166100; 635741, 4166062; 635712, 4166021; 635700, 4165993; 635701, 4165950; 635691, 4165894; 635806, 4165769; 635833, 4165753; 635878, 4165743; 635904, 4165724; 635939, 4165720; 635966, 4165722; 636016, 4165716; 636064, 4165670; 636099, 4165583; 636097, 4165566; 636114, 4165539; 636137, 4165525; 636166, 4165499; 636207, 4165451; 636258, 4165403; 636263, 4165370; 636260, 4165303; 636286, 4165275; 636337, 4165227; 636368, 4165181; 636467, 4165088; 636477, 4165075; 636490, 4165051; 636521, 4164927; 636584, 4164836; 636633, 4164557; 636653, 4164490; 636646, 4164469; 636567, 4164384; 636434, 4164273; 636411, 4164251; 636372, 4164193; 636339, 4164170; 636264, 4164136; 636122, 4164085; 636052, 4164051; 635972, 4164000; 635862, 4163958; 635734, 4163921; 635680, 4163918; 635562, 4163936; 635525, 4163931; 635496, 4163921; 635470, 4163910; 635441, 4163886; 635380, 4163809; 635355, 4163786; 635320, 4163763; 635276, 4163743; 635223, 4163734; 635081, 4163725; 635066, 4163728; 635051, 4163743; 635055, 4163681; 635046, 4163613; 635021, 4163542; 634997, 4163513; 634985, 4163490; 634982, 4163466; 634985, 4163432; 635044, 4163329; 635041, 4163309; 635029, 4163286; 635012, 4163265; 634993, 4163253; 634917, 4163238; 634877, 4163221; 634854, 4163205; 634807, 4163159; 634786, 4163124; 634738, 4163075; 634732, 4163063; 634731, 4163038; 634741, 4163023; 634829, 4162942; 634840, 4162913; 634801, 4162849; 634797, 4162817; 634799, 4162791; 634806, 4162763; 634805, 4162736; 634793, 4162703; 634775, 4162681; 634751, 4162619; 634718, 4162574; 634688, 4162543; 634628, 4162499; 634607, 4162475; 634588, 4162442; 634581, 4162418; 634575, 4162358; 634547, 4162318; 634489, 4162256; 634479, 4162234; 634477, 4162212; 634484, 4162194; 634562, 4162117; 634646, 4162069; 634682, 4162059; 634807, 4162058; 634842, 4162053; 634931, 4162019; 634997, 4162007; 635096, 4161977; 635239, 4161957; 635302, 4161943; 635330, 4161933; 635358, 4161919; 635399, 4161906; 635421, 4161882; 635511, 4161837; 635570, 4161812; 635667, 4161777; 635713, 4161771; 635742, 4161773; 635799, 4161799; 635830, 4161809; 635861, 4161814; 635935, 4161838; 636012, 4161878; 636069, 4161897; 636113, 4161901; 636147, 4161895; 636215, 4161871; 636333, 4161813; 636365, 4161793; 636391, 4161768; 636398, 4161746; 636395, 4161728; 636344, 4161543; 636343, 4161499; 636362, 4161479; 636387, 4161464; 636431, 4161429; 636488, 4161367; 636502, 4161335; 636506, 4161315; 636505, 4161281; 636482, 4161250; 636449, 4161221; 636423, 4161181; 636375, 4161122; 636339, 4161065; 636323, 4161018; 636210, 4160834; 636051, 4160777; 636028, 4160761; 635953, 4160655; 635924, 4160628; 635892, 4160611; 635827, 4160591; 635808, 4160589; 635728, 4160611; 635644, 4160626; 635598, 4160647; 635525, 4160703; 635462, 4160719; 635429, 4160719; 635390, 4160729; 635292, 4160772; 635113, 4160859; 635062, 4160866; 634970, 4160844; 634925, 4160843; 634823, 4160873; 634746, 4160904; 634660, 4160965; 634644, 4160981; 634582, 4161068; 634554, 4161080; 634531, 4161083; 634411, 4161165; 634355, 4161188; 634259, 4161244; 634159, 4161280; 634069, 4161303; 633954, 4161398; 633923, 4161417; 633891, 4161429; 633812, 4161444; 633779, 4161457; 633732, 4161506; 633695, 4161531; 633667, 4161542; 633642, 4161544; 633610, 4161542; 633555, 4161531; 633388, 4161453; 633276, 4161425; 633218, 4161399; 633087, 4161356; 633017, 4161325; 632964, 4161309; 632937, 4161306; 632887, 4161333; 632800, 4161371; 632713, 4161385; 632679, 4161387; 632657, 4161384; 632546, 4161350; 632516, 4161343; 632487, 4161344; 632470, 4161353; 632394, 4161426; 632348, 4161441; 632332, 4161461; 632300, 4161492; 632266, 4161535; 632231, 4161557; 632215, 4161558; 632195, 4161552; 632083, 4161449; 632042, 4161431; 631985, 4161423; 631968, 4161416; 631923, 4161388; 631869, 4161342; 631845, 4161290; 631819, 4161146; 631813, 4161127; 631799, 4161100; 631799, 4161077; 631808, 4161030; 631807, 4160972; 631802, 4160953; 631788, 4160935; 631743, 4160920; 631528, 4160880; 631453, 4160853; 631345, 4160821; 631311, 4160818; 631181, 4160828; 631146, 4160825; 631114, 4160819; 631042, 4160790; 631019, 4160787; 630983, 4160793; 630964, 4160791; 630921, 4160773; 630911, 4160760; 630906, 4160745; 630901, 4160700; 630903, 4160643; 630895, 4160504; 630897, 4160466; 630909, 4160390; 630917, 4160371; 630931, 4160351; 630973, 4160314; 630975, 4160271; 630956, 4160241; 630940, 4160228; 630889, 4160214; 630838, 4160218; 630758, 4160235; 630720, 4160252; 630684, 4160274; 630643, 4160290; 630592, 4160268; 630556, 4160247; 630537, 4160241; 630523, 4160241; 630492, 4160248; 630413, 4160275; 630382, 4160277; 630354, 4160270; 630319, 4160242; 630271, 4160187; 630250, 4160169; 630221, 4160151; 630159, 4160127; 630145, 4160113; 630088, 4159996; 629885, 4159872; 629833, 4159832; 629760, 4159757; 629739, 4159734; 629707, 4159689; 629642, 4159580; 629595, 4159509; 629560, 4159423; 629552, 4159394; 629583, 4159338; 629598, 4159289; 629602, 4159258; 629599, 4159229; 629599, 4159144; 629593, 4159121; 629583, 4159103; 629570, 4159093; 629526, 4159075; 629357, 4159113; 629320, 4159106; 629298, 4159097; 629284, 4159089; 629250, 4159057; 629209, 4159038; 629207, 4159034; 628890, 4158863; 628603, 4158708; 628420, 4158526; 628172, 4157726; 628274, 4157275; 628338, 4156989; 628464, 4156431; 628526, 4156156; 628567, 4155976; 628195, 4155657; 628125, 4155622; 627640, 4155379; 627118, 4155118; 626866, 4154744; 626588, 4154705; 626112, 4154668; 626072, 4154665; 625874, 4154843; 625747, 4154958; 625607, 4155084; 625607, 4155076; 625584, 4155045; 625540, 4155013; 625524, 4154995; 625517, 4154978; 625513, 4154941; 625518, 4154904; 625536, 4154846; 625553, 4154822; 625598, 4154770; 625599, 4154744; 625591, 4154725; 625570, 4154711; 625527, 4154696; 625493, 4154679; 625465, 4154637; 625463, 4154608; 625467, 4154566; 625490, 4154496; 625530, 4154448; 625541, 4154421; 625547, 4154376; 625540, 4154284; 625550, 4154238; 625563, 4154212; 625617, 4154163; 625720, 4154058; 625740, 4154018; 625743, 4153984; 625739, 4153961; 625688, 4153864; 625633, 4153790; 625597, 4153769; 625526, 4153735; 625462, 4153718; 625409, 4153712; 625282, 4153679; 625250, 4153666; 625220, 4153646; 625204, 4153582; 625187, 4153559; 625156, 4153528; 625139, 4153501; 625138, 4153460; 625159, 4153319; 625148, 4153316; 625102, 4153331; 625083, 4153333; 625017, 4153337; 624952, 4153321; 624900, 4153296; 624866, 4153269; 624852, 4153257; 624786, 4153178; 624748, 4153146; 624744, 4153123; 624754, 4153049; 624746, 4153018; 624737, 4153000; 624711, 4152957; 624693, 4152916; 624671, 4152882; 624563, 4152757; 624512, 4152682; 624476, 4152644; 624428, 4152604; 624396, 4152572; 624377, 4152543; 624345, 4152468; 624329, 4152381; 624324, 4152320; 624319, 4152300; 624309, 4152281; 624290, 4152255; 624217, 4152206; 624165, 4152183; 624120, 4152177; 624043, 4152193; 624012, 4152192; 623952, 4152174; 623913, 4152153; 623899, 4152141; 623886, 4152118; 623857, 4152044; 623848, 4152027; 623832, 4152011; 623769, 4151965; 623672, 4151903; 623618, 4151858; 623593, 4151847; 623541, 4151842; 623506, 4151847; 623448, 4151871; 623345, 4151816; 623269, 4151759; 623246, 4151752; 623162, 4151743; 623121, 4151715; 623100, 4151695; 622838, 4151602; 622804, 4151586; 622759, 4151557; 622730, 4151531; 622710, 4151499; 622686, 4151447; 622674, 4151396; 622661, 4151270; 622665, 4151241; 622652, 4151212; 622622, 4151162; 622608, 4151128; 622589, 4151078; 622583, 4151034; 622592, 4150957; 622587, 4150819; 622591, 4150793; 622617, 4150714; 622619, 4150692; 622617, 4150679; 622492, 4150430; 622481, 4150411; 622450, 4150382; 622376, 4150339; 622197, 4150260; 622132, 4150261; 622052, 4150281; 622030, 4150280; 622001, 4150266; 621938, 4150218; 621905, 4150187; 621856, 4150127; 621830, 4150102; 621804, 4150082; 621684, 4150051; 621625, 4150040; 621597, 4150039; 621497, 4150026; 621428, 4150029; 621396, 4150024; 621330, 4149996; 621305, 4149979; 621271, 4149947; 621248, 4149920; 621227, 4149889; 621212, 4149851; 621202, 4149813; 621183, 4149764; 621154, 4149738; 621091, 4149691; 621006, 4149640; 620978, 4149618; 620947, 4149601; 620845, 4149575; 620818, 4149560; 620754, 4149493; 620729, 4149450; 620696, 4149368; 620636, 4149276; 620609, 4149270; 620580, 4149259; 620542, 4149253; 620405, 4149245; 620332, 4149225; 620296, 4149218; 620256, 4149217; 620137, 4149231; 620038, 4149273; 620012, 4149280; 619984, 4149278; 619945, 4149270; 619904, 4149254; 619808, 4149191; 619732, 4149134; 619663, 4149073; 619596, 4149026; 619549, 4149008; 619495, 4148997; 619459, 4148942; 619425, 4148925; 619393, 4148917; 619371, 4148907; 619305, 4148856; 619254, 4148825; 619182, 4148803; 619118, 4148793; 619098, 4148747; 619087, 4148700; 618988, 4148732; 618666, 4148833; 618293, 4148712; 617890, 4148580; 617797, 4148216; 617361, 4148176; 616904, 4148354; 616645, 4148456; 616250, 4148335; 616250, 4148336; 616183, 4148404; 616166, 4148424; 616135, 4148478; 616073, 4148551; 616047, 4148593; 616040, 4148615; 616038, 4148633; 616043, 4148675; 616039, 4148704; 616018, 4148728; 615966, 4148768; 615965, 4148787; 615968, 4148808; 615974, 4148817; 616014, 4148852; 616115, 4148897; 616331, 4149065; 616383, 4149134; 616470, 4149232; 616490, 4149268; 616499, 4149294; 616505, 4149321; 616507, 4149392; 616506, 4149456; 616501, 4149474; 616486, 4149497; 616432, 4149541; 616420, 4149552; 616416, 4149564; 616414, 4149615; 616424, 4149735; 616416, 4149785; 616405, 4149809; 616392, 4149835; 616359, 4149879; 616329, 4149906; 616263, 4149947; 616255, 4149959; 616237, 4150038; 616224, 4150075; 616211, 4150104; 616202, 4150114; 616155, 4150144; 616068, 4150167; 616048, 4150176; 616030, 4150192; 616006, 4150223; 615994, 4150248; 615975, 4150320; 615925, 4150430; 615878, 4150580; 615856, 4150630; 615831, 4150674; 615773, 4150741; 615749, 4150763; 615707, 4150782; 615688, 4150788; 615624, 4150797; 615554, 4150798; 615508, 4150793; 615366, 4150793; 615347, 4150789; 615332, 4150779; 615278, 4150702; 615254, 4150704; 615242, 4150719; 615219, 4150777; 615184, 4150847; 615114, 4150959; 615100, 4150973; 615081, 4150983; 615014, 4151003; 614994, 4151014; 614960, 4151045; 614906, 4151081; 614893, 4151097; 614891, 4151142; 614906, 4151187; 614853, 4151177; 614803, 4151162; 614755, 4151142; 614694, 4151102; 614664, 4151097; 614504, 4151117; 614394, 4151118; 614361, 4151113; 614319, 4151113; 614196, 4151102; 614159, 4151108; 614139, 4151111; 614092, 4151153; 614036, 4151191; 613932, 4151244; 613903, 4151248; 613874, 4151238; 613845, 4151234; 613819, 4151240; 613752, 4151288; 613733, 4151298; 613707, 4151302; 613684, 4151292; 613643, 4151263; 613524, 4151221; 613490, 4151198; 613465, 4151174; 613431, 4151133; 613389, 4151072; 613331, 4151002; 613300, 4150939; 613287, 4150929; 613247, 4150931; 613193, 4150923; 613155, 4150928; 613112, 4150943; 613057, 4150951; 613015, 4150938; 612955, 4150900; 612911, 4150868; 612896, 4150852; 612878, 4150824; 612864, 4150796; 612855, 4150737; 612842, 4150702; 612817, 4150663; 612778, 4150632; 612550, 4150498; 612481, 4150468; 612413, 4150448; 612364, 4150441; 612347, 4150443; 612168, 4150495; 612127, 4150474; 612093, 4150435; 612065, 4150386; 612049, 4150346; 612035, 4150288; 612025, 4150262; 611975, 4150183; 611955, 4150123; 611931, 4150091; 611895, 4150071; 611871, 4150062; 611782, 4150026; 611765, 4150016; 611733, 4149995; 611711, 4149974; 611693, 4149948; 611670, 4149887; 611663, 4149850; 611664, 4149821; 611670, 4149781; 611691, 4149731; 611695, 4149710; 611696, 4149683; 611682, 4149600; 611673, 4149570; 611658, 4149539; 611632, 4149507; 611464, 4149335; 611455, 4149323; 611420, 4149275; 611367, 4149251; 611265, 4149211; 611243, 4149198; 611223, 4149172; 611210, 4149129; 611208, 4149049; 611205, 4148952; 611197, 4148882; 611156, 4148715; 611123, 4148624; 611083, 4148555; 610957, 4148293; 610938, 4148237; 610912, 4148128; 610880, 4148036; 610904, 4147957; 610929, 4147898; 611064, 4147690; 611135, 4147620; 611187, 4147546; 611223, 4147568; 611249, 4147572; 611291, 4147559; 611320, 4147560; 611344, 4147566; 611377, 4147569; 611403, 4147561; 611547, 4147477; 611584, 4147462; 611608, 4147462; 611659, 4147474; 611676, 4147475; 611746, 4147444; 611780, 4147420; 611795, 4147406; 611810, 4147382; 611842, 4147301; 611856, 4147271; 611879, 4147236; 611919, 4147192; 611964, 4147102; 611979, 4147091; 612202, 4147099; 612299, 4147084; 612336, 4147069; 612372, 4147032; 612391, 4147001; 612428, 4146960; 612468, 4146929; 612482, 4146920; 612533, 4146900; 612585, 4146887; 612622, 4146887; 612649, 4146894; 612734, 4146894; 612754, 4146913; 612795, 4146986; 612815, 4147009; 612842, 4147015; 612914, 4146974; 612964, 4146934; 612996, 4146904; 613004, 4146889; 613016, 4146851; 613009, 4146842; 613005, 4146826; 613008, 4146804; 613014, 4146794; 613074, 4146744; 613095, 4146713; 613099, 4146655; 613105, 4146634; 613126, 4146601; 613164, 4146564; 613218, 4146525; 613309, 4146484; 613342, 4146462; 613375, 4146429; 613413, 4146384; 613430, 4146350; 613479, 4146105; 613488, 4146080; 613500, 4146065; 613522, 4146056; 613541, 4146054; 613567, 4146059; 613630, 4146082; 613687, 4146076; 613716, 4146065; 613806, 4146015; 613831, 4145990; 613856, 4145948; 613904, 4145888; 613915, 4145840; 613935, 4145803; 614011, 4145714; 614144, 4145581; 614183, 4145527; 614198, 4145524; 614240, 4145531; 614497, 4145391; 614512, 4145365; 614524, 4145330; 614524, 4145292; 614563, 4145261; 614580, 4145250; 614597, 4145245; 614633, 4145236; 614664, 4145233; 614802, 4145262; 614839, 4145268; 614893, 4145270; 614942, 4145262; 615028, 4145233; 615070, 4145223; 615137, 4145214; 615205, 4145202; 615287, 4145199; 615323, 4145195; 615347, 4145190; 615411, 4145165; 615420, 4145155; 615431, 4145125; 615444, 4145031; 615451, 4144993; 615464, 4144957; 615486, 4144921; 615509, 4144892; 615585, 4144828; 615607, 4144803; 615626, 4144771; 615640, 4144719; 615644, 4144645; 615641, 4144614; 615629, 4144572; 615592, 4144490; 615541, 4144361; 615495, 4144288; 615490, 4144251; 615473, 4144250; 615440, 4144229; 615412, 4144209; 615387, 4144182; 615356, 4144206; 615299, 4144230; 615268, 4144252; 615224, 4144287; 615190, 4144334; 615163, 4144353; 615120, 4144355; 615072, 4144320; 615041, 4144281; 615024, 4144250; 615011, 4144233; 614983, 4144207; 614955, 4144191; 614904, 4144173; 614874, 4144168; 614797, 4144174; 614735, 4144186; 614700, 4144188; 614659, 4144184; 614617, 4144175; 614594, 4144165; 614369, 4144118; 614309, 4144113; 614240, 4144101; 614202, 4144102; 614105, 4144119; 614053, 4144121; 613989, 4144138; 613909, 4144152; 613878, 4144165; 613823, 4144161; 613801, 4144149; 613769, 4144122; 613704, 4144055; 613678, 4144033; 613658, 4144032; 613625, 4144046; 613579, 4144052; 613546, 4144049; 613522, 4144067; 613454, 4144079; 613402, 4144076; 613367, 4144066; 613332, 4144050; 613271, 4144015; 613181, 4143988; 613126, 4143957; 613093, 4143903; 613071, 4143816; 613088, 4143711; 613078, 4143628; 613063, 4143570; 613037, 4143527; 613011, 4143492; 612949, 4143419; 612942, 4143405; 612846, 4143135; 612780, 4142929; 612758, 4142885; 612731, 4142859; 612658, 4142813; 612626, 4142777; 612583, 4142666; 612574, 4142655; 612511, 4142595; 612447, 4142527; 612371, 4142458; 612297, 4142406; 612237, 4142374; 612150, 4142347; returning to 612040, 4142329.

(ii) Note: Map of Unit ALA-2 for the California red-legged frog follows:

BILLING CODE 4310-55-P

BILLING CODE 4310-55-C

(29) Unit SNM-1: San Mateo County, California. From USGS 1:24,000 scale quadrangles Montara Mountain, Half Moon Bay, San Mateo and Woodside.

(i) Land bounded by the following UTM zone 10, NAD 1983 coordinates (E, N): 547630, 4164045; 547744, 4163977; 547818, 4163983; 547922, 4163898; 547963, 4163840; 548003, 4163821; 548075, 4163840; 548154, 4163787; 548153, 4163732; 548244, 4163618; 548399, 4163493; 548584, 4163581; 548661, 4163682; 548727, 4163782; 548774, 4163801; 548824, 4163816; 548927, 4163833; 549022, 4163842; 549063, 4163786; 549162, 4163642; 549207, 4163592; 549267, 4163511; 549403, 4163337; 549445, 4163265; 549662, 4163019; 549773, 4162861; 549895, 4162605; 550021, 4162446; 550140, 4162327; 550354, 4162086; 550600, 4161758; 551013, 4161303; 551304, 4160988; 551542, 4160713; 551788, 4160393; 551799, 4160319; 551944, 4160134; 552084, 4160038; 552243, 4159834; 552407, 4159687; 552523, 4159489; 552664, 4159147; 552902, 4158657; 553256, 4158186; 553545, 4157930; 553632, 4157879; 553696, 4157816; 553751, 4157758; 553791, 4157705; 553834, 4157670; 553823, 4157626; 553845, 4157594; 553895, 4157578; 553929, 4157579; 553974, 4157519; 554007, 4157453; 554018, 4157396; 554045, 4157344; 554047, 4157289; 554064, 4157267; 554066, 4157221; 554100, 4157207; 554143, 4157194; 554201, 4157191; 554220, 4157113; 554166, 4157054; 554193, 4156993; 554257, 4156937; 554333, 4156948; 554381, 4156937; 554427, 4156913; 554473, 4156792; 554508, 4156694; 554629, 4156541; 554593, 4156418; 554660, 4156373; 554607, 4156236; 554715, 4156157; 554745, 4156059; 554851, 4155898; 554808, 4155832; 554829, 4155792; 555118, 4155748; 555222, 4155647; 555357, 4155646; 555503, 4155486; 555636, 4155305; 555857, 4154813; 555939, 4154569; 556072, 4154352; 556122, 4154292; 556154, 4154208; 556145, 4154177; 556143, 4154129; 556191, 4154106; 556217, 4154048; 556320, 4153982; 556402, 4153831; 556461, 4153761; 556540, 4153596; 556574, 4153469; 556675, 4153299; 556810, 4153048; 557000, 4152696; 557349, 4152231; 557532, 4152000; 557762, 4151768; 557884, 4151602; 558014, 4151373; 558318, 4151148; 558768, 4150926; 558897, 4150855; 559085, 4150704; 559167, 4150669; 559381, 4150587; 559688, 4150537; 559998, 4150521; 560300, 4150410; 560575, 4150209; 560919, 4150048; 561167, 4149955; 561406, 4149886; 561583, 4149791; 561726, 4149680; 561856, 4149534; 561936, 4149173; 561928, 4148810; 561888, 4148311; 561888, 4148062; 561974, 4147672; 562236, 4147373; 562316, 4147299; 562358, 4147124; 562178, 4147011; 561989, 4147068; 561953, 4147079; 561865, 4147098; 561549, 4147169; 561302, 4147169; 561232, 4147204; 561247, 4147242; 561193, 4147339; 561284, 4147458; 560695, 4148054; 560281, 4147651; 560384, 4147185; 559872, 4147252; 559753, 4147258; 559303, 4147393; 558895, 4147560; 558697, 4147640; 558360, 4147640; 558023, 4147797; 557844, 4147955; 557590, 4148005; 557394, 4148044; 557297, 4147992; 557058, 4147865; 556840, 4147715; 556698, 4147618; 556564, 4147416; 556451, 4147146; 556114, 4147101; 555867, 4147146; 555508, 4147236; 555246, 4147301; 555239, 4147303; 555059, 4147236; 554967, 4147015; 554919, 4147018; 554895, 4147012; 554860, 4146997; 554742, 4146966; 554700, 4146966; 554700, 4146966; 554663, 4146946; 554570, 4146922; 554501, 4146875; 554442, 4146823; 554295, 4146742; 554117, 4146667; 554095, 4146671; 554049, 4146665; 554026, 4146653; 554007, 4146630; 553971, 4146586; 553934, 4146558; 553899, 4146546; 553855, 4146541; 553814, 4146545; 553747, 4146559; 553679, 4146569; 553653, 4146575; 553623, 4146595; 553479, 4146717; 553443, 4146740; 553391, 4146760; 553244, 4146798; 553174, 4146834; 553149, 4146836; 553106, 4146786; 553089, 4146772; 553044, 4146769; 552991, 4146780; 552836, 4146794; 552797, 4146803; 552740, 4146824; 552704, 4146850; 552676, 4146880; 552651, 4146923; 552649, 4146959; 552654, 4146995; 552646, 4147040; 552635, 4147076; 552620, 4147093; 552538, 4147121; 552451, 4147139; 552355, 4147149; 552264, 4147142; 552211, 4147123; 552162, 4147084; 552108, 4147029; 552047, 4146981; 551599, 4146808; 551475, 4146731; 551450, 4146717; 551417, 4146719; 551274, 4146763; 551254, 4146926; 551347, 4147012; 551420, 4147159; 551464, 4147246; 551502, 4147322; 551556, 4147431; 551552, 4147528; 551630, 4147609; 551759, 4147743; 551848, 4147802; 551961, 4147810; 552110, 4147728; 552113, 4147726; 552253, 4147649; 552486, 4147520; 552743, 4147426; 552803, 4147446; 552402, 4147733; 552226, 4147814; 552416, 4147904; 552595, 4148011; 552585, 4148107; 552654, 4148138; 552669, 4148252; 552550, 4148396; 552397, 4148405; 552340, 4148333; 552190, 4148297; 551979, 4148208; 551964, 4148202; 551865, 4148180; 551858, 4148188; 551714, 4148425; 551654, 4148525; 551591, 4148487; 551645, 4148306; 551684, 4148179; 551702, 4148145; 551690, 4148142; 551559, 4147976; 551416, 4147821; 551154, 4147714; 550940, 4147904; 550797, 4148071; 550380, 4148643; 550166, 4148654; 550071, 4148666; 549999, 4148809; 549847, 4148969; 549848, 4148973; 549866, 4149048; 549831, 4149121; 549787, 4149161; 549625, 4149308; 549541, 4149485; 549541, 4149729; 549429, 4150056; 549372, 4150439; 549429, 4150626; 549326, 4150841; 549234, 4151034; 549298, 4151393; 549270, 4151730; 549249, 4151982; 549344, 4152076; 549223, 4152356; 549082, 4152487; 548989, 4152684; 548830, 4152787; 548652, 4152815; 548495, 4152839; 548306, 4153011; 548231, 4153170; 548091, 4153207; 547957, 4153207; 547895, 4153165; 547738, 4152873; 547642, 4152753; 547439, 4152762; 547118, 4152738; 546916, 4152655; 546749, 4152524; 546689, 4152345; 546511, 4152286; 546320, 4152286; 546177, 4152298; 545963, 4152226; 545796, 4152083; 545653, 4152022; 545579, 4152060; 545411, 4152060; 545297, 4152030; 545261, 4152121; 545258, 4152236; 545139, 4152232; 545116, 4152331; 545093, 4152407; 545045, 4152561; 545088, 4152609; 545162, 4152689; 545119, 4152768; 545032, 4152721; 544991, 4152699; 544967, 4152686; 544829, 4152669; 544661, 4152715; 544547, 4152746; 544512, 4152830; 544424, 4152830; 544364, 4152830; 544364, 4152771; 544293, 4152771; 544180, 4152639; 544038, 4152704; 544142, 4152930; 544260, 4153108; 544311, 4153185; 544156, 4153287; 544080, 4153433; 544149, 4153570; 544306, 4153570; 544393, 4153570; 544485, 4153677; 544565, 4153700; 544588, 4153753; 544580, 4153841; 544630, 4153967; 544630, 4154063; 544668, 4154154; 544760, 4154211; 544817, 4154345; 544905, 4154437; 545012, 4154635; 545086, 4154774; 545071, 4154828; 545095, 4154848; 545137, 4154922; 545158, 4154968; 545164, 4154983; 545161, 4155022; 545152, 4155040; 545146, 4155048; 545261, 4155381; 545259, 4155419; 545249, 4155667; 545130, 4155810; 544987, 4155882; 544677, 4155762; 544475, 4155762; 544106, 4156084; 543951, 4156132; 543689, 4156072; 543449, 4156020; 543397, 4156101; 543389, 4156189; 543523, 4156318; 543599, 4156456; 543540, 4156489; 543459, 4156534; 543420, 4156658; 543305, 4156704; 543210, 4156704; 543084, 4156704; 542999, 4156704; 542962, 4156704; 542959, 4156721; 542937, 4156752; 542928, 4156755; 542916, 4156749; 542913, 4156756; 542929, 4156772; 542932, 4156777; 542930, 4156782; 542895, 4156795; 542897, 4156806; 542895, 4156811; 542867, 4156824; 542860, 4156837; 542851, 4156841; 542853, 4156851; 542849, 4156860; 542853, 4156865; 542852, 4156874; 542840, 4156877; 542831, 4156887; 542824, 4156886; 542819, 4156894; 542822, 4156900; 542816, 4156911; 542817, 4156948; 542803, 4156944; 542798, 4156946; 542785, 4156966; 542772, 4156962; 542765, 4156966; 542768, 4156990; 542785, 4157009; 542806, 4157020; 542834, 4157029; 542853, 4157065; 542868, 4157065; 542871, 4157080; 542885, 4157099; 542886, 4157110; 542895, 4157123; 542903, 4157143; 542906, 4157167; 542908, 4157278; 542901, 4157304; 542892, 4157322; 542893, 4157348; 542891, 4157352; 542867, 4157361; 542857, 4157376; 542820, 4157375; 542810, 4157385; 542802, 4157399; 542804, 4157420; 542809, 4157426; 542815, 4157424; 542826, 4157428; 542844, 4157450; 542882, 4157482; 542907, 4157513; 542911, 4157532; 542912, 4157608; 542895, 4157739; 542870, 4157837; 542844, 4157913; 542833, 4157933; 542825, 4157938; 542807, 4157935; 542796, 4157939; 542779, 4157938; 542752, 4157926; 542726, 4157927; 542717, 4157924; 542701, 4157926; 542684, 4157921; 542666, 4157923; 542647, 4157939; 542624, 4157938; 542617, 4157951; 542602, 4157953; 542598, 4157957; 542596, 4157968; 542573, 4157975; 542564, 4157986; 542556, 4158011; 542563, 4158046; 542570, 4158056; 542596, 4158075; 542647, 4158098; 542655, 4158120; 542684, 4158131; 542692, 4158141; 542700, 4158141; 542711, 4158147; 542722, 4158161; 542722, 4158179; 542717, 4158190; 542709, 4158196; 542703, 4158201; 542649, 4158210; 542640, 4158216; 542634, 4158227; 542632, 4158238; 542636, 4158263; 542645, 4158284; 542673, 4158321; 542677, 4158332; 542677, 4158342; 542661, 4158362; 542651, 4158360; 542628, 4158369; 542619, 4158385; 542598, 4158370; 542581, 4158364; 542566, 4158368; 542559, 4158358; 542554, 4158357; 542546, 4158360; 542541, 4158367; 542535, 4158387; 542537, 4158413; 542572, 4158438; 542584, 4158454; 542566, 4158461; 542561, 4158468; 542553, 4158469; 542547, 4158475; 542533, 4158474; 542525, 4158478; 542517, 4158491; 542517, 4158502; 542527, 4158518; 542560, 4158536; 542570, 4158548; 542584, 4158551; 542620, 4158572; 542617, 4158584; 542604, 4158588; 542601, 4158604; 542586, 4158613; 542574, 4158615; 542558, 4158607; 542546, 4158617; 542529, 4158622; 542526, 4158626; 542527, 4158639; 542522, 4158643; 542511, 4158641; 542491, 4158626; 542474, 4158625; 542469, 4158637; 542470, 4158648; 542482, 4158666; 542481, 4158678; 542477, 4158680; 542470, 4158682; 542454, 4158671; 542435, 4158670; 542430, 4158664; 542405, 4158653; 542392, 4158652; 542384, 4158658; 542381, 4158667; 542385, 4158683; 542380, 4158689; 542372, 4158685; 542350, 4158682; 542346, 4158686; 542340, 4158701; 542341, 4158729; 542356, 4158756; 542352, 4158771; 542354, 4158780; 542359, 4158782; 542360, 4158785; 542360, 4158788; 542352, 4158793; 542350, 4158799; 542350, 4158806; 542360, 4158813; 542351, 4158837; 542351, 4158845; 542361, 4158856; 542427, 4158879; 542434, 4158885; 542446, 4158924; 542466, 4158938; 542491, 4158939; 542511, 4158923; 542520, 4158919; 542528, 4158923; 542540, 4158939; 542551, 4158963; 542559, 4158993; 542565, 4159035; 542562, 4159075; 542548, 4159132; 542557, 4159157; 542560, 4159191; 542559, 4159229; 542554, 4159248; 542568, 4159266; 542568, 4159302; 542561, 4159341; 542565, 4159509; 542568, 4159542; 542574, 4159553; 542592, 4159557; 542600, 4159566; 542605, 4159600; 542606, 4159647; 542610, 4159675; 542604, 4159739; 542612, 4159837; 542600, 4159934; 542616, 4160075; 542608, 4160199; 542614, 4160215; 542614, 4160318; 542627, 4160362; 542626, 4160406; 542625, 4160419; 542865, 4160464; 543056, 4160479; 543175, 4160488; 543288, 4160561; 543385, 4160746; 543531, 4160774; 543618, 4160791; 543850, 4160573; 543813, 4160410; 543745, 4160235; 543745, 4160032; 543716, 4159858; 543798, 4159828; 543811, 4159739; 543854, 4159671; 543953, 4159732; 544006, 4159648; 544051, 4159575; 544184, 4159501; 544265, 4159548; 544422, 4159640; 544519, 4159634; 544646, 4159625; 544782, 4159616; 544869, 4159575; 544937, 4159480; 544937, 4159454; 544868, 4159335; 544810, 4159267; 544736, 4159247; 544681, 4159260; 544533, 4159230; 544551, 4159139; 544673, 4159021; 544833, 4158951; 544929, 4159056; 545072, 4159212; 545155, 4159303; 545266, 4159425; 545408, 4159390; 545564, 4159353; 545695, 4159321; 545741, 4159230; 545893, 4159196; 545893, 4159339; 546027, 4159339; 546104, 4159339; 546181, 4159276; 546227, 4159148; 546295, 4159089; 546381, 4159126; 546454, 4159207; 546617, 4159207; 546745, 4159239; 546844, 4159380; 546863, 4159466; 546953, 4159553; 547132, 4159639; 547153, 4159707; 547181, 4159793; 547312, 4159893; 547408, 4160034; 547408, 4160143; 547567, 4160257; 547750, 4160161; 547962, 4160161; 547962, 4160279; 547816, 4160375; 547732, 4160430; 547716, 4160623; 547722, 4160661; 547753, 4160679; 547789, 4160793; 547853, 4160888; 547910, 4160974; 547950, 4161034; 547912, 4161138; 547848, 4161197; 547776, 4161193; 547690, 4161187; 547594, 4161260; 547530, 4161309; 547494, 4161406; 547403, 4161442; 547321, 4161428; 547218, 4161411; 547153, 4161524; 547153, 4161642; 547153, 4161738; 547153, 4161794; 547139, 4161786; 547107, 4161793; 547068, 4161840; 547035, 4161868; 546901, 4161937; 546864, 4161950; 546740, 4161979; 546709, 4161990; 546382, 4162011; 546327, 4162012; 546288, 4162027; 546144, 4162116; 546123, 4162126; 546084, 4162131; 546003, 4162131; 545964, 4162141; 545935, 4162163; 545913, 4162197; 545878, 4162268; 545851, 4162301; 545828, 4162318; 545868, 4162370; 545917, 4162408; 546062, 4162522; 546172, 4162519; 546408, 4162512; 546609, 4162507; 546681, 4162605; 546722, 4162661; 546651, 4162755; 546676, 4162818; 546754, 4163009; 546697, 4163100; 546713, 4163192; 546392, 4163180; 546237, 4163180; 545987, 4163216; 545963, 4163442; 545987, 4163656; 546201, 4163847; 546189, 4164061; 546058, 4164192; 545892, 4164323; 545856, 4164478; 545906, 4164585; 545959, 4164590; 546013, 4164594; 546091, 4164660; 546072, 4164744; 546047, 4164860; 546104, 4164912; 546120, 4164926; 546166, 4164930; 546356, 4165037; 546518, 4165095; 546525, 4165068; 546587, 4165032; 546604, 4164999; 546657, 4164893; 546713, 4164880; 546767, 4164808; 546781, 4164735; 546858, 4164662; 546869, 4164661; 546939, 4164544; 547120, 4164421; 547189, 4164361; 547341, 4164184; 547346, 4164169; 547399, 4164131; 547515, 4164114; 547630, 4164045; 549620, 4162507; 549674, 4162470; 549728, 4162401; 549743, 4162356; 549733, 4162310; 549683, 4162274; 549645, 4162279; 549604, 4162317; 549479, 4162354; 549425, 4162399; 549408, 4162392; 549337, 4162318; 549327, 4162285; 549325, 4162226; 549333, 4162206; 549371, 4162160; 549435, 4162057; 549448, 4162014; 549471, 4161976; 549525, 4161940; 549606, 4161951; 549662, 4161921; 549703, 4161914; 549738, 4161921; 549754, 4161901; 549759, 4161850; 549790, 4161808; 549823, 4161787; 549940, 4161773; 549961, 4161760; 549981, 4161717; 549981, 4161667; 549939, 4161600; 549936, 4161577; 550072, 4161454; 550212, 4161379; 550273, 4161361; 550401, 4161273; 550411, 4161245; 550401, 4161202; 550383, 4161187; 550284, 4161178; 550236, 4161158; 550229, 4161142; 550232, 4161107; 550278, 4161061; 550280, 4161026; 550265, 4160978; 550296, 4160957; 550446, 4160979; 550492, 4160966; 550548, 4160926; 550645, 4160873; 550678, 4160838; 550686, 4160810; 550704, 4160790; 550717, 4160754; 550720, 4160671; 550712, 4160645; 550689, 4160625; 550687, 4160604; 550708, 4160577; 550718, 4160544; 550698, 4160493; 550642, 4160424; 550577, 4160388; 550549, 4160362; 550508, 4160342; 550503, 4160326; 550549, 4160316; 550788, 4160361; 550836, 4160339; 550839, 4160318; 550799, 4160219; 550824, 4160217; 550867, 4160247; 550974, 4160263; 551032, 4160256; 551116, 4160229; 551139, 4160201; 551150, 4160166; 551173, 4160150; 551229, 4160141; 551254, 4160120; 551290, 4160060; 551344, 4159994; 551352, 4159969; 551357, 4159933; 551335, 4159867; 551297, 4159824; 551294, 4159806; 551462, 4159799; 551508, 4159782; 551549, 4159741; 551595, 4159711; 551608, 4159673; 551646, 4159623; 551636, 4159600; 551497, 4159497; 551469, 4159492; 551441, 4159474; 551439, 4159451; 551485, 4159444; 551668, 4159445; 551731, 4159463; 551792, 4159448; 551843, 4159426; 551876, 4159391; 551897, 4159386; 552018, 4159435; 552054, 4159463; 552043, 4159521; 552045, 4159580; 552086, 4159613; 552096, 4159641; 552077, 4159681; 552044, 4159681; 552019, 4159671; 551989, 4159676; 551968, 4159719; 551914, 4159751; 551861, 4159820; 551860, 4159843; 551881, 4159858; 551964, 4159881; 551967, 4159927; 551954, 4159937; 551895, 4159929; 551880, 4159937; 551852, 4159926; 551829, 4159929; 551819, 4159944; 551826, 4159992; 551816, 4160002; 551783, 4159992; 551753, 4159969; 551722, 4159971; 551646, 4160052; 551643, 4160146; 551561, 4160173; 551525, 4160211; 551525, 4160234; 551505, 4160247; 551479, 4160305; 551412, 4160393; 551424, 4160525; 551447, 4160566; 551447, 4160589; 551396, 4160609; 551385, 4160624; 551388, 4160652; 551415, 4160711; 551413, 4160739; 551397, 4160774; 551364, 4160817; 551341, 4160817; 551328, 4160804; 551329, 4160715; 551311, 4160685; 551294, 4160674; 551266, 4160674; 551055, 4160965; 551009, 4161066; 551003, 4161183; 550990, 4161196; 550912, 4161188; 550873, 4161215; 550868, 4161256; 550853, 4161284; 550781, 4161359; 550765, 4161415; 550740, 4161443; 550679, 4161473; 550643, 4161513; 550620, 4161559; 550553, 4161622; 550558, 4161648; 550578, 4161660; 550578, 4161686; 550504, 4161777; 550486, 4161820; 550432, 4161883; 550432, 4161911; 550401, 4161926; 550307, 4162062; 550212, 4162135; 550151, 4162204; 550094, 4162246; 550074, 4162300; 550046, 4162327; 550033, 4162358; 549969, 4162408; 549933, 4162456; 549918, 4162502; 549866, 4162573; 549792, 4162605; 549757, 4162635; 549749, 4162666; 549715, 4162724; 549634, 4162797; 549544, 4162890; 549470, 4162984; 549421, 4163070; 549362, 4163128; 549319, 4163151; 549301, 4163145; 549301, 4163095; 549351, 4162963; 549402, 4162869; 549563, 4162687; 549584, 4162583; 549607, 4162545; 549620, 4162507; 549220, 4157011; 549505, 4156873; 549541, 4156838; 549635, 4156810; 549722, 4156775; 549737, 4156753; 549735, 4156697; 549801, 4156710; 549883, 4156632; 549886, 4156573; 549977, 4156553; 550000, 4156528; 550158, 4156504; 550206, 4156469; 550288, 4156436; 550336, 4156386; 550357, 4156345; 550360, 4156312; 550347, 4156266; 550378, 4156261; 550421, 4156274; 550457, 4156277; 550492, 4156234; 550495, 4156194; 550475, 4156145; 550432, 4156087; 550420, 4156053; 550582, 4156065; 550613, 4156047; 550618, 4156027; 550631, 4156017; 550684, 4156004; 550738, 4155941; 550794, 4155931; 550809, 4155916; 550818, 4155853; 550841, 4155830; 550841, 4155787; 550874, 4155787; 550925, 4155803; 551002, 4155930; 551012, 4155963; 551004, 4156029; 551019, 4156093; 551054, 4156136; 551077, 4156152; 551064, 4156197; 551064, 4156276; 551073, 4156327; 551053, 4156350; 551050, 4156383; 551032, 4156400; 551032, 4156449; 551040, 4156464; 551009, 4156522; 550998, 4156603; 550957, 4156656; 550918, 4156730; 550862, 4156793; 550857, 4156826; 550788, 4156876; 550773, 4156879; 550768, 4156856; 550806, 4156762; 550830, 4156727; 550914, 4156646; 550922, 4156562; 550935, 4156529; 550943, 4156425; 550936, 4156369; 550947, 4156319; 550988, 4156222; 550986, 4156177; 550968, 4156143; 550940, 4156123; 550917, 4156125; 550820, 4156206; 550728, 4156271; 550708, 4156302; 550654, 4156314; 550626, 4156334; 550616, 4156367; 550547, 4156400; 550519, 4156430; 550440, 4156473; 550384, 4156493; 550300, 4156553; 550297, 4156578; 550282, 4156586; 550249, 4156576; 550218, 4156578; 550172, 4156621; 550124, 4156605; 550086, 4156608; 550063, 4156618; 549941, 4156723; 549933, 4156777; 549897, 4156784; 549876, 4156814; 549576, 4156911; 549550, 4156944; 549555, 4157013; 549507, 4156995; 549474, 4156969; 549416, 4156974; 549240, 4157059; 549204, 4157059; 549207, 4157031; 549220, 4157011; 554142, 4155908; 554257, 4155782; 554311, 4155675; 554304, 4155642; 554266, 4155619; 554264, 4155586; 554284, 4155571; 554350, 4155566; 554381, 4155549; 554414, 4155493; 554518, 4155471; 554529, 4155453; 554527, 4155397; 554641, 4155337; 554690, 4155287; 554705, 4155251; 554746, 4155191; 554746, 4155175; 554701, 4155134; 554701, 4155114; 554772, 4155092; 554798, 4155071; 554842, 4154935; 554827, 4154912; 554822, 4154835; 554787, 4154815; 554782, 4154761; 554810, 4154759; 554856, 4154785; 554914, 4154795; 554950, 4154775; 554950, 4154752; 554930, 4154740; 554920, 4154722; 554930, 4154707; 554989, 4154679; 555022, 4154651; 555068, 4154580; 555084, 4154509; 555122, 4154479; 555145, 4154424; 555196, 4154378; 555230, 4154328; 555243, 4154279; 555276, 4154236; 555279, 4154214; 555309, 4154193; 555413, 4154197; 555424, 4154187; 555424, 4154161; 555439, 4154146; 555439, 4154108; 555389, 4154075; 555369, 4154054; 555361, 4154008; 555329, 4153947; 555293, 4153942; 555250, 4153982; 555184, 4153984; 555156, 4154010; 555125, 4154014; 555094, 4154029; 555064, 4154062; 555056, 4154088; 555025, 4154105; 554883, 4154165; 554855, 4154163; 554832, 4154145; 554784, 4154157; 554768, 4154170; 554702, 4154172; 554679, 4154187; 554646, 4154240; 554626, 4154247; 554506, 4154252; 554465, 4154267; 554410, 4154269; 554379, 4154289; 554336, 4154291; 554305, 4154314; 554277, 4154359; 554257, 4154362; 554255, 4154245; 554318, 4154248; 554397, 4154215; 554555, 4154173; 554573, 4154117; 554586, 4154107; 554652, 4154090; 554680, 4154057; 554782, 4154007; 554841, 4153964; 554902, 4153957; 555011, 4153899; 555103, 4153862; 555126, 4153860; 555218, 4153835; 555230, 4153825; 555231, 4153797; 555220, 4153789; 555223, 4153761; 555305, 4153734; 555356, 4153696; 555397, 4153653; 555420, 4153577; 555501, 4153590; 555511, 4153608; 555511, 4153664; 555526, 4153695; 555554, 4153707; 555660, 4153721; 555693, 4153711; 555752, 4153648; 555770, 4153592; 555865, 4153488; 555904, 4153415; 556024, 4153299; 556072, 4153271; 556073, 4153203; 556063, 4153182; 556025, 4153182; 555963, 4153217; 555943, 4153217; 555954, 4153149; 555990, 4153050; 556034, 4152959; 556026, 4152910; 555996, 4152895; 555856, 4152935; 555854, 4152909; 555992, 4152788; 556078, 4152756; 556145, 4152713; 556211, 4152653; 556331, 4152585; 556331, 4152557; 556318, 4152547; 556184, 4152574; 556168, 4152566; 556174, 4152538; 556235, 4152493; 556286, 4152488; 556276, 4152460; 556279, 4152435; 556291, 4152427; 556373, 4152428; 556411, 4152410; 556444, 4152362; 556449, 4152334; 556450, 4152283; 556478, 4152240; 556488, 4152197; 556483, 4152187; 556382, 4152194; 556387, 4152174; 556425, 4152138; 556499, 4152098; 556517, 4152058; 556517, 4152025; 556541, 4151999; 556574, 4151989; 556576, 4151956; 556513, 4151890; 556513, 4151865; 556542, 4151834; 556552, 4151806; 556555, 4151751; 556588, 4151713; 556608, 4151715; 556618, 4151733; 556633, 4151807; 556681, 4151881; 556790, 4151955; 556830, 4151956; 556861, 4151946; 556887, 4151898; 557012, 4151776; 557051, 4151695; 557125, 4151632; 557125, 4151610; 557095, 4151569; 557085, 4151515; 557070, 4151495; 557072, 4151472; 557095, 4151457; 557133, 4151460; 557181, 4151524; 557224, 4151552; 557295, 4151667; 557302, 4151720; 557218, 4151793; 557154, 4151833; 557154, 4151861; 557194, 4151864; 557253, 4151844; 557347, 4151878; 557354, 4151896; 557346, 4151923; 557269, 4152007; 557186, 4152024; 557112, 4152067; 557104, 4152095; 557050, 4152122; 556976, 4152193; 556775, 4152285; 556790, 4152321; 556825, 4152329; 556843, 4152321; 556871, 4152332; 556871, 4152367; 556827, 4152405; 556850, 4152446; 556842, 4152489; 556824, 4152507; 556777, 4152679; 556721, 4152755; 556657, 4152793; 556660, 4152813; 556697, 4152889; 556634, 4152881; 556593, 4152919; 556600, 4152998; 556577, 4153018; 556529, 4153023; 556503, 4153046; 556498, 4153061; 556475, 4153091; 556480, 4153132; 556543, 4153186; 556535, 4153193; 556459, 4153213; 556431, 4153238; 556415, 4153271; 556382, 4153312; 556374, 4153362; 556394, 4153456; 556363, 4153502; 556380, 4153555; 556380, 4153596; 556359, 4153637; 556317, 4153681; 556313, 4153684; 556285, 4153745; 556277, 4153796; 556170, 4153859; 556043, 4153916; 555971, 4153969; 555948, 4154005; 555935, 4154093; 555879, 4154121; 555871, 4154136; 555878, 4154256; 555852, 4154271; 555797, 4154250; 555753, 4154255; 555710, 4154280; 555674, 4154320; 555626, 4154320; 555540, 4154299; 555514, 4154302; 555476, 4154324; 555473, 4154342; 555448, 4154385; 555445, 4154453; 555381, 4154478; 555383, 4154504; 555457, 4154527; 555464, 4154545; 555454, 4154563; 555360, 4154547; 555322, 4154552; 555322, 4154582; 555342, 4154595; 555393, 4154608; 555479, 4154692; 555479, 4154713; 555445, 4154738; 555435, 4154756; 555415, 4154748; 555392, 4154715; 555298, 4154668; 555273, 4154671; 555237, 4154721; 555242, 4154754; 555260, 4154780; 555244, 4154833; 555249, 4154889; 555195, 4154889; 555160, 4154924; 555144, 4154972; 555119, 4154992; 555106, 4155000; 555073, 4155038; 555062, 4155094; 555039, 4155116; 555031, 4155149; 554983, 4155179; 554965, 4155212; 554868, 4155306; 554857, 4155351; 554814, 4155402; 554798, 4155473; 554757, 4155485; 554711, 4155523; 554678, 4155589; 554581, 4155647; 554560, 4155672; 554555, 4155705; 554540, 4155725; 554481, 4155742; 554443, 4155780; 554435, 4155801; 554376, 4155874; 554312, 4156018; 554296, 4156038; 554212, 4156101; 554199, 4156129; 554224, 4156183; 554216, 4156203; 554150, 4156246; 554091, 4156355; 554073, 4156436; 553940, 4156567; 553911, 4156648; 553891, 4156673; 553850, 4156701; 553816, 4156762; 553786, 4156792; 553750, 4156804; 553750, 4156774; 553768, 4156731; 553769, 4156678; 553751, 4156660; 553739, 4156596; 553800, 4156508; 553829, 4156414; 553870, 4156363; 553946, 4156333; 553957, 4156321; 553952, 4156295; 553931, 4156275; 553927, 4156252; 553988, 4156194; 554029, 4156098; 554080, 4156034; 554080, 4156024; 554127, 4155959; 554142, 4155908; 557286, 4151491; 557284, 4151443; 557322, 4151364; 557323, 4151298; 557308, 4151220; 557326, 4151204; 557354, 4151200; 557448, 4151241; 557468, 4151231; 557476, 4151198; 557517, 4151160; 557519, 4151124; 557505, 4151066; 557487, 4151040; 557482, 4151012; 557502, 4151000; 557579, 4150995; 557579, 4150947; 557549, 4150901; 557511, 4150888; 557402, 4150821; 557402, 4150804; 557463, 4150786; 557486, 4150769; 557575, 4150769; 557606, 4150749; 557674, 4150729; 557746, 4150681; 557777, 4150651; 557815, 4150583; 557846, 4150565; 557935, 4150576; 558016, 4150559; 558036, 4150538; 558080, 4150479; 558080, 4150410; 558119, 4150362; 558354, 4150158; 558431, 4150069; 558464, 4150021; 558452, 4150001; 558511, 4149920; 558501, 4149798; 558415, 4149764; 558327, 4149700; 558320, 4149637; 558462, 4149572; 558498, 4149539; 558509, 4149448; 558522, 4149420; 558528, 4149270; 558566, 4149227; 558663, 4149195; 558752, 4149193; 558764, 4149203; 558763, 4149353; 558781, 4149363; 558885, 4149384; 558908, 4149377; 559082, 4149218; 559149, 4149109; 559195, 4149063; 559276, 4149003; 559299, 4148970; 559307, 4148937; 559274, 4148929; 559223, 4148957; 559147, 4148982; 559116, 4148982; 559094, 4148956; 559081, 4148918; 559094, 4148872; 559133, 4148840; 559155, 4148835; 559171, 4148845; 559170, 4148903; 559198, 4148914; 559231, 4148883; 559270, 4148863; 559343, 4148864; 559369, 4148854; 559456, 4148758; 559494, 4148740; 559535, 4148735; 559616, 4148761; 559674, 4148739; 559718, 4148678; 559731, 4148633; 559784, 4148610; 559878, 4148611; 559911, 4148580; 559955, 4148581; 559967, 4148596; 559944, 4148634; 559947, 4148665; 559967, 4148693; 559974, 4148743; 559999, 4148794; 560032, 4148830; 560036, 4148889; 560049, 4148917; 560049, 4148945; 560013, 4148990; 560025, 4149077; 559928, 4149081; 559906, 4149091; 559852, 4149129; 559778, 4149222; 559760, 4149209; 559737, 4149169; 559702, 4149166; 559664, 4149201; 559602, 4149285; 559510, 4149358; 559512, 4149419; 559532, 4149444; 559616, 4149462; 559656, 4149488; 559656, 4149519; 559610, 4149584; 559592, 4149635; 559579, 4149650; 559506, 4149650; 559480, 4149680; 559423, 4149873; 559397, 4149898; 559341, 4149908; 559280, 4149897; 559250, 4149879; 559214, 4149884; 559191, 4149907; 559193, 4150034; 559165, 4150082; 559149, 4150145; 559126, 4150183; 559128, 4150206; 559186, 4150267; 559296, 4150283; 559301, 4150294; 559287, 4150377; 559274, 4150387; 559153, 4150366; 559074, 4150340; 558990, 4150368; 558886, 4150433; 558804, 4150450; 558753, 4150470; 558712, 4150521; 558715, 4150543; 558699, 4150579; 558699, 4150594; 558673, 4150642; 558602, 4150667; 558549, 4150664; 558528, 4150676; 558505, 4150712; 558492, 4150857; 558502, 4150867; 558532, 4150872; 558558, 4150862; 558580, 4150870; 558580, 4150911; 558590, 4150921; 558595, 4150946; 558587, 4150954; 558493, 4150945; 558428, 4150915; 558405, 4150912; 558257, 4151005; 558196, 4151025; 558170, 4151042; 558170, 4151088; 558119, 4151123; 558038, 4151136; 557994, 4151156; 557918, 4151234; 557846, 4151284; 557767, 4151360; 557766, 4151444; 557735, 4151489; 557737, 4151586; 557730, 4151603; 557663, 4151623; 557620, 4151648; 557584, 4151709; 557594, 4151780; 557553, 4151788; 557510, 4151772; 557444, 4151759; 557426, 4151736; 557409, 4151647; 557286, 4151491; 553227, 4150371; 553132, 4150480; 553085, 4150414; 553085, 4150180; 552935, 4150096; 553085, 4150049; 553319, 4149834; 553553, 4149834; 553646, 4150049; 553581, 4150264; 553367, 4150329; 553227, 4150371; 552570, 4150315; 552477, 4150517; 552589, 4150966; 552563, 4151254; 552664, 4151452; 552664, 4151733; 552524, 4151686; 552337, 4151424; 552222, 4151263; 551991, 4151097; 551766, 4150854; 551617, 4150480; 551617, 4150115; 551813, 4149956; 551991, 4149909; 552165, 4149863; 552374, 4149890; 552487, 4150134; returning to 552570, 4150315.

(ii) Note: Map of Units SNM-1 and SNM-2 for the California red-legged frog follows:

BILLING CODE 4310-55-P

BILLING CODE 4310-55-C

(30) Unit SNM-2: San Mateo and Santa Cruz Counties, California. From USGS 1:24,000 scale quadrangles Half Moon Bay, San Gregorio, Pigeon Point, Woodside, La Honda, Franklin Point, Mindego Hill and Big Basin.

(i) Land bounded by the following UTM zone 10, NAD 1983 coordinates (E, N): 569250, 4119121; 569218, 4119108; 569201, 4119087; 569189, 4119056; 569178, 4119043; 569151, 4119022; 568939, 4118954; 568925, 4118963; 568881, 4118980; 568788, 4118975; 568762, 4118969; 568652, 4118929; 568488, 4118910; 568430, 4118898; 568345, 4118909; 568274, 4118928; 568169, 4118976; 568067, 4119030; 568043, 4119063; 568006, 4119097; 567965, 4119114; 567942, 4119114; 567911, 4119100; 567892, 4119087; 567860, 4119052; 567822, 4119027; 567778, 4119012; 567721, 4118962; 567704, 4118933; 567699, 4118905; 567699, 4118870; 567728, 4118838; 567739, 4118816; 567746, 4118785; 567733, 4118731; 567720, 4118702; 567703, 4118680; 567626, 4118595; 567590, 4118548; 567576, 4118522; 567555, 4118439; 567542, 4118410; 567499, 4118333; 567262, 4118281; 567036, 4118184; 566876, 4118079; 566576, 4117892; 566506, 4117862; 566431, 4117845; 566404, 4117833; 566388, 4117819; 566366, 4117774; 566344, 4117746; 566304, 4117724; 566252, 4117727; 566126, 4117746; 566110, 4117736; 566096, 4117726; 566077, 4117664; 566064, 4117634; 566051, 4117615; 566026, 4117590; 565994, 4117568; 565933, 4117544; 565927, 4117536; 565923, 4117518; 565922, 4117488; 565926, 4117424; 565921, 4117260; 565912, 4117224; 565894, 4117190; 565864, 4117160; 565842, 4117144; 565809, 4117126; 565764, 4117113; 565691, 4117101; 565671, 4117091; 565629, 4117053; 565602, 4117017; 565568, 4116963; 565473, 4116833; 565425, 4116788; 565388, 4116765; 565324, 4116734; 565262, 4116712; 565217, 4116711; 565139, 4116715; 565091, 4116711; 564995, 4116680; 564949, 4116674; 564870, 4116675; 564832, 4116671; 564806, 4116658; 564785, 4116639; 564765, 4116618; 564749, 4116592; 564744, 4116560; 564742, 4116504; 564719, 4116464; 564701, 4116455; 564654, 4116464; 564644, 4116464; 564544, 4116434; 564501, 4116430; 564468, 4116436; 564414, 4116466; 564374, 4116466; 564140, 4116453; 564134, 4116372; 564109, 4116317; 564057, 4116247; 564048, 4116217; 564051, 4116151; 564041, 4116095; 564046, 4116065; 564045, 4116048; 564026, 4116009; 563997, 4115986; 563970, 4115971; 563964, 4115960; 563930, 4115822; 563895, 4115727; 563883, 4115663; 563887, 4115633; 563896, 4115615; 563919, 4115586; 563931, 4115559; 563911, 4115516; 563893, 4115488; 563879, 4115420; 563879, 4115395; 563907, 4115324; 563915, 4115297; 563912, 4115269; 563902, 4115237; 563692, 4115094; 563667, 4115075; 563662, 4115064; 563600, 4115073; 563528, 4115090; 563492, 4115105; 563379, 4115163; 563354, 4115186; 563295, 4115273; 563259, 4115312; 563229, 4115336; 563181, 4115349; 563134, 4115354; 563069, 4115374; 562942, 4115424; 562888, 4115441; 562857, 4115440; 562826, 4115435; 562760, 4115411; 562679, 4115366; 562607, 4115360; 562524, 4115364; 562397, 4115352; 562377, 4115294; 562330, 4115200; 562284, 4115127; 562243, 4115076; 562221, 4115057; 562144, 4114999; 562104, 4114979; 562066, 4114970; 561953, 4114955; 561913, 4114940; 561868, 4114911; 561795, 4114851; 561755, 4114828; 561709, 4114813; 561579, 4114799; 561542, 4114791; 561485, 4114784; 561392, 4114785; 561007, 4114774; 560798, 4114607; 560769, 4114593; 560732, 4114580; 560721, 4114579; 560702, 4114569; 560609, 4114539; 560577, 4114519; 560544, 4114492; 560528, 4114477; 560502, 4114408; 560488, 4114385; 560443, 4114336; 560378, 4114284; 560326, 4114249; 560315, 4114236; 560269, 4114135; 560245, 4114102; 560225, 4114086; 560194, 4114097; 560107, 4114183; 560092, 4114189; 560065, 4114195; 559998, 4114205; 559956, 4114217; 559868, 4114257; 559833, 4114260; 559789, 4114244; 559745, 4114221; 559687, 4114223; 559641, 4114232; 559598, 4114235; 559555, 4114231; 559462, 4114217; 559325, 4114221; 559271, 4114217; 559187, 4114197; 559154, 4114181; 559090, 4114138; 559055, 4114122; 559009, 4114112; 558947, 4114113; 558774, 4114143; 558716, 4114159; 558635, 4114214; 558608, 4114239; 558594, 4114259; 558587, 4114282; 558589, 4114318; 558605, 4114416; 558599, 4114458; 558582, 4114486; 558478, 4114598; 558440, 4114632; 558403, 4114681; 558385, 4114699; 558346, 4114725; 558300, 4114736; 558149, 4114739; 558118, 4114728; 558094, 4114697; 558092, 4114661; 558106, 4114557; 558098, 4114465; 558099, 4114401; 558082, 4114344; 558050, 4114306; 558025, 4114287; 558003, 4114274; 557832, 4114201; 557729, 4114128; 557684, 4114059; 557671, 4114024; 557651, 4113929; 557638, 4113886; 557608, 4113808; 557589, 4113776; 557556, 4113747; 557473, 4113692; 557411, 4113627; 557365, 4113586; 557136, 4113416; 557104, 4113377; 557007, 4113291; 556967, 4113271; 556883, 4113438; 556775, 4113655; 556775, 4113655; 556852, 4113776; 556962, 4113997; 557029, 4114118; 557058, 4114173; 556966, 4114389; 556734, 4114563; 556508, 4114673; 556317, 4114673; 556108, 4114673; 555686, 4114951; 555592, 4114993; 555592, 4114993; 555315, 4115182; 555114, 4115309; 554908, 4115384; 554795, 4115423; 554609, 4115446; 554297, 4115475; 554201, 4115487; 554056, 4115554; 553992, 4115622; 553898, 4115745; 553753, 4115980; 553611, 4116208; 553501, 4116394; 553421, 4116519; 553230, 4116879; 553198, 4117082; 553187, 4117299; 553171, 4117457; 553163, 4117510; 553128, 4117606; 552933, 4118131; 552770, 4118575; 552722, 4118714; 552692, 4118856; 552684, 4118933; 552686, 4119049; 552832, 4119084; 552843, 4119062; 552934, 4119077; 552916, 4119147; 552906, 4119209; 552957, 4119263; 552954, 4119299; 552855, 4119422; 552873, 4119468; 552810, 4119530; 552696, 4119536; 552696, 4119550; 552696, 4119628; 552686, 4119661; 552663, 4119742; 552630, 4119861; 552602, 4119914; 552590, 4119933; 552548, 4119998; 552479, 4120102; 552481, 4120104; 552601, 4120216; 552562, 4120269; 552710, 4120441; 552710, 4120493; 552727, 4120512; 552762, 4120561; 552757, 4120591; 552751, 4120653; 552755, 4120709; 552759, 4120761; 552768, 4120817; 552792, 4120844; 552813, 4120881; 552792, 4120911; 552780, 4120929; 552814, 4120967; 552875, 4121197; 553185, 4120764; 553520, 4121135; 553141, 4121621; 553303, 4121748; 553326, 4122001; 553167, 4122381; 552981, 4122460; 552662, 4122597; 552549, 4122814; 552292, 4123114; 552336, 4123768; 552151, 4123874; 552044, 4123874; 552096, 4124176; 552129, 4124397; 552161, 4124514; 552171, 4124534; 552186, 4124515; 552190, 4124509; 552195, 4124488; 552197, 4124463; 552208, 4124447; 552222, 4124393; 552247, 4124373; 552256, 4124354; 552287, 4124315; 552300, 4124289; 552312, 4124267; 552329, 4124249; 552346, 4124238; 552362, 4124233; 552417, 4124241; 552451, 4124251; 552478, 4124256; 552497, 4124251; 552523, 4124254; 552548, 4124260; 552568, 4124255; 552609, 4124235; 552634, 4124232; 552652, 4124244; 552655, 4124255; 552635, 4124268; 552563, 4124291; 552554, 4124298; 552554, 4124301; 552560, 4124308; 552555, 4124315; 552541, 4124320; 552524, 4124317; 552503, 4124322; 552481, 4124330; 552453, 4124337; 552426, 4124340; 552418, 4124356; 552418, 4124377; 552428, 4124392; 552439, 4124395; 552462, 4124398; 552479, 4124414; 552477, 4124422; 552471, 4124430; 552408, 4124422; 552393, 4124431; 552383, 4124449; 552377, 4124469; 552340, 4124498; 552306, 4124536; 552287, 4124564; 552273, 4124577; 552259, 4124585; 552242, 4124579; 552229, 4124579; 552220, 4124581; 552204, 4124586; 552197, 4124591; 552225, 4124651; 552230, 4124662; 552211, 4124679; 552166, 4124704; 552181, 4124702; 552182, 4124726; 552224, 4124892; 552226, 4124978; 552244, 4125052; 552255, 4125117; 552274, 4125178; 552281, 4125245; 552285, 4125355; 552290, 4125382; 552289, 4125419; 552291, 4125455; 552319, 4125554; 552347, 4125621; 552348, 4125637; 552341, 4125655; 552335, 4125660; 552321, 4125664; 552317, 4125675; 552322, 4125712; 552319, 4125751; 552328, 4125770; 552341, 4125775; 552347, 4125785; 552338, 4125802; 552336, 4125815; 552344, 4125868; 552350, 4125881; 552377, 4125901; 552389, 4125921; 552392, 4125957; 552390, 4126021; 552414, 4126094; 552414, 4126105; 552394, 4126135; 552390, 4126152; 552391, 4126159; 552406, 4126180; 552414, 4126198; 552415, 4126245; 552431, 4126268; 552436, 4126284; 552435, 4126307; 552412, 4126394; 552428, 4126408; 552427, 4126453; 552434, 4126476; 552441, 4126489; 552438, 4126544; 552442, 4126554; 552450, 4126562; 552454, 4126605; 552462, 4126623; 552460, 4126675; 552469, 4126724; 552465, 4126765; 552706, 4126802; 553255, 4126887; 553871, 4126982; 554285, 4127045; 554287, 4127051; 554300, 4127141; 554348, 4127299; 554368, 4127323; 554393, 4127347; 554399, 4127474; 554367, 4127547; 554353, 4127603; 554358, 4127620; 554385, 4127637; 554461, 4127656; 554474, 4127672; 554493, 4127761; 554507, 4127806; 554561, 4127851; 554634, 4127852; 554685, 4127834; 554714, 4127809; 554769, 4127802; 554769, 4128072; 554955, 4128469; 555061, 4128697; 555034, 4129157; 554813, 4129488; 554812, 4129476; 554804, 4129463; 554758, 4129459; 554649, 4129490; 554489, 4129518; 554419, 4129543; 554373, 4129572; 554251, 4129669; 554218, 4129684; 554167, 4129676; 554020, 4129705; 553952, 4129729; 553936, 4129740; 553921, 4129761; 553902, 4129807; 553880, 4129839; 553868, 4129881; 553837, 4129915; 553805, 4129942; 553775, 4129995; 553745, 4130037; 553699, 4130077; 553663, 4130118; 553628, 4130175; 553437, 4130442; 553395, 4130479; 553361, 4130497; 553330, 4130520; 553279, 4130553; 553250, 4130564; 553204, 4130570; 553149, 4130566; 553120, 4130570; 553056, 4130582; 553010, 4130594; 552913, 4130625; 552869, 4130621; 552881, 4130661; 552871, 4130697; 552864, 4130699; 552860, 4130707; 552838, 4130762; 552821, 4130823; 552821, 4130841; 552833, 4130864; 552833, 4130873; 552826, 4130899; 552825, 4130912; 552825, 4130929; 552810, 4130968; 552823, 4130982; 552826, 4130989; 552825, 4130999; 552821, 4131005; 552804, 4131010; 552802, 4131019; 552803, 4131037; 552796, 4131079; 552805, 4131087; 552814, 4131090; 552845, 4131083; 552876, 4131131; 552876, 4131146; 552865, 4131172; 552863, 4131185; 552867, 4131208; 552881, 4131228; 552888, 4131249; 552882, 4131285; 552875, 4131305; 552876, 4131326; 552881, 4131338; 552901, 4131356; 552909, 4131370; 552915, 4131403; 552909, 4131457; 552929, 4131542; 552933, 4131581; 552932, 4131643; 552942, 4131666; 552941, 4131707; 552946, 4131721; 552966, 4131753; 552968, 4131800; 552966, 4131821; 552959, 4131840; 552956, 4131864; 552969, 4131934; 552989, 4132001; 552988, 4132025; 552997, 4132106; 553100, 4132104; 553142, 4132099; 553190, 4132082; 553313, 4132091; 553362, 4132089; 553401, 4132093; 553442, 4132109; 553494, 4132144; 553514, 4132177; 553529, 4132220; 553537, 4132262; 553552, 4132368; 553552, 4132401; 553542, 4132449; 553547, 4132490; 553579, 4132540; 553612, 4132580; 553647, 4132612; 553622, 4132706; 553602, 4132871; 553621, 4132961; 553641, 4133060; 553621, 4133192; 553566, 4133298; 553503, 4133368; 553434, 4133496; 553397, 4133654; 553384, 4133735; 553342, 4133828; 553292, 4133924; 553267, 4134023; 553258, 4134144; 553259, 4134239; 553287, 4134329; 553314, 4134377; 553401, 4134549; 553421, 4134628; 553413, 4134692; 553399, 4134765; 553375, 4134828; 553360, 4134855; 553296, 4134916; 553237, 4134973; 553190, 4135011; 553069, 4135151; 552963, 4135283; 552969, 4135286; 553118, 4135405; 553218, 4135497; 553237, 4135511; 553247, 4135519; 553272, 4135559; 553291, 4135567; 553338, 4135587; 553379, 4135635; 553376, 4135670; 553399, 4135719; 553406, 4135751; 553442, 4135811; 553462, 4135827; 553505, 4135848; 553540, 4135865; 553563, 4135893; 553572, 4135910; 553584, 4135953; 553587, 4135990; 553583, 4136045; 553659, 4136295; 553682, 4136322; 553731, 4136364; 553750, 4136380; 553758, 4136391; 553773, 4136411; 553817, 4136459; 553838, 4136474; 553856, 4136487; 553869, 4136506; 553889, 4136534; 553900, 4136589; 553914, 4136623; 553924, 4136761; 553924, 4136763; 553921, 4136828; 553914, 4136854; 553897, 4136874; 553887, 4136884; 553762, 4136980; 553774, 4137142; 553783, 4137262; 553803, 4137293; 553829, 4137321; 553858, 4137341; 553952, 4137382; 554034, 4137410; 554111, 4137430; 554197, 4137481; 554208, 4137490; 554222, 4137502; 554258, 4137539; 554314, 4137597; 554352, 4137652; 554356, 4137661; 554361, 4137673; 554370, 4137687; 554381, 4137704; 554404, 4137721; 554417, 4137731; 554531, 4137770; 554567, 4137778; 554585, 4137781; 554603, 4137783; 554628, 4137781; 554659, 4137774; 554696, 4137766; 554759, 4137744; 554766, 4137744; 554771, 4137744; 554784, 4137762; 554799, 4137796; 554822, 4137868; 554825, 4137956; 554817, 4137996; 554799, 4138044; 554783, 4138076; 554719, 4138175; 554676, 4138273; 554662, 4138352; 554630, 4138453; 554618, 4138521; 554626, 4138603; 554636, 4138646; 554651, 4138689; 554681, 4138749; 554717, 4138801; 554743, 4138820; 554780, 4138839; 554812, 4138848; 554925, 4138871; 554976, 4138878; 555100, 4138885; 555178, 4138895; 555219, 4138888; 555272, 4138886; 555321, 4138891; 555392, 4138909; 555427, 4138941; 555441, 4138984; 555438, 4139045; 555417, 4139164; 555413, 4139214; 555449, 4139272; 555496, 4139300; 555528, 4139325; 555564, 4139361; 555601, 4139415; 555616, 4139452; 555696, 4139605; 555714, 4139649; 555725, 4139691; 555723, 4139749; 555729, 4139793; 555744, 4139820; 555767, 4139845; 555815, 4139875; 555855, 4139895; 555921, 4139916; 556010, 4139923; 556166, 4139926; 556226, 4139950; 556259, 4139976; 556287, 4140029; 556303, 4140071; 556326, 4140166; 556349, 4140225; 556361, 4140244; 556432, 4140290; 556452, 4140331; 556470, 4140380; 556490, 4140404; 556591, 4140499; 556856, 4140727; 556885, 4140785; 556896, 4140845; 556881, 4140883; 556858, 4140928; 556853, 4140964; 556855, 4141065; 556849, 4141207; 556854, 4141366; 556852, 4141399; 556824, 4141461; 556777, 4141519; 556768, 4141545; 556768, 4141588; 556795, 4141701; 556803, 4141754; 556798, 4141807; 556775, 4141867; 556791, 4141902; 556978, 4141972; 557144, 4142056; 557190, 4142042; 557240, 4142041; 557285, 4142044; 557359, 4142059; 557391, 4142071; 557599, 4142185; 557662, 4142195; 557848, 4142126; 557973, 4142100; 558011, 4142080; 558052, 4142061; 558096, 4142062; 558192, 4142080; 558311, 4142057; 558407, 4142087; 558434, 4142091; 558503, 4142019; 558517, 4141992; 558537, 4141964; 558632, 4141866; 558662, 4141842; 559030, 4141562; 559099, 4141529; 559163, 4141507; 559176, 4141500; 559201, 4141476; 559213, 4141470; 559254, 4141482; 559333, 4141493; 559357, 4141505; 559371, 4141517; 559396, 4141559; 559444, 4141626; 559464, 4141647; 559519, 4141690; 559573, 4141708; 559601, 4141712; 559641, 4141702; 559697, 4141693; 559766, 4141724; 559791, 4141713; 559818, 4141688; 559901, 4141577; 559951, 4141519; 559970, 4141491; 559998, 4141459; 560019, 4141449; 560058, 4141439; 560077, 4141441; 560104, 4141452; 560169, 4141492; 560202, 4141500; 560222, 4141501; 560242, 4141513; 560253, 4141473; 560264, 4141452; 560283, 4141428; 560318, 4141406; 560398, 4141379; 560430, 4141372; 560468, 4141347; 560607, 4141228; 560635, 4141207; 560668, 4141190; 560706, 4141175; 560817, 4141150; 560841, 4141136; 560852, 4141107; 560869, 4141081; 560907, 4141045; 560935, 4141014; 560978, 4140989; 561007, 4140974; 561055, 4140964; 561100, 4140971; 561160, 4140989; 561183, 4141001; 561208, 4141005; 561240, 4140993; 561256, 4140969; 561278, 4140917; 561287, 4140875; 561284, 4140845; 561270, 4140814; 561233, 4140783; 561221, 4140762; 561213, 4140727; 561211, 4140677; 561214, 4140647; 561224, 4140600; 561225, 4140539; 561239, 4140492; 561246, 4140446; 561244, 4140388; 561251, 4140361; 561294, 4140334; 561324, 4140282; 561335, 4140216; 561345, 4140196; 561361, 4140191; 561383, 4140192; 561428, 4140205; 561455, 4140206; 561483, 4140190; 561500, 4140174; 561521, 4140160; 561569, 4140136; 561612, 4140123; 561695, 4140081; 561800, 4140000; 561921, 4139872; 561929, 4139837; 561934, 4139779; 561948, 4139746; 561966, 4139724; 562002, 4139700; 562057, 4139672; 562132, 4139625; 562151, 4139575; 562155, 4139538; 562164, 4139517; 562236, 4139478; 562285, 4139474; 562327, 4139461; 562362, 4139455; 562415, 4139440; 562468, 4139413; 562497, 4139396; 562546, 4139360; 562589, 4139310; 562644, 4139265; 562679, 4139243; 562793, 4139168; 562858, 4139126; 562878, 4139108; 562912, 4139086; 562960, 4139080; 563035, 4139106; 563107, 4139105; 563238, 4139076; 563288, 4139077; 563333, 4139071; 563367, 4139057; 563384, 4138976; 563389, 4138904; 563402, 4138879; 563426, 4138850; 563517, 4138812; 563543, 4138782; 563546, 4138709; 563559, 4138677; 563605, 4138645; 563649, 4138628; 563783, 4138593; 563847, 4138571; 563867, 4138556; 563885, 4138535; 563903, 4138504; 563930, 4138480; 563969, 4138472; 564034, 4138484; 564135, 4138545; 564190, 4138558; 564220, 4138558; 564321, 4138538; 564420, 4138510; 564450, 4138483; 564471, 4138435; 564777, 4138250; 564869, 4138215; 564901, 4138198; 564978, 4138127; 564993, 4138084; 565002, 4138021; 565004, 4137984; 565013, 4137931; 565030, 4137909; 565107, 4137853; 565171, 4137819; 565207, 4137790; 565235, 4137747; 565244, 4137689; 565251, 4137526; 565258, 4137479; 565269, 4137444; 565295, 4137402; 565343, 4137373; 565376, 4137337; 565389, 4137296; 565396, 4137250; 565396, 4137193; 565402, 4137158; 565423, 4137076; 565452, 4137022; 565479, 4136982; 565517, 4136942; 565555, 4136912; 565604, 4136876; 565649, 4136858; 565691, 4136860; 565773, 4136878; 565801, 4136865; 565809, 4136810; 565810, 4136784; 565887, 4136645; 565897, 4136588; 565914, 4136532; 565953, 4136476; 565994, 4136449; 566058, 4136416; 566119, 4136400; 566177, 4136388; 566222, 4136370; 566269, 4136200; 566287, 4136100; 566306, 4136066; 566368, 4136013; 566436, 4135910; 566457, 4135889; 566588, 4135822; 566618, 4135830; 566638, 4135815; 566656, 4135747; 566666, 4135722; 566695, 4135676; 566702, 4135653; 566713, 4135637; 566765, 4135598; 566779, 4135583; 566803, 4135576; 566834, 4135555; 566857, 4135522; 566854, 4135481; 566842, 4135456; 566780, 4135401; 566741, 4135376; 566714, 4135347; 566689, 4135303; 566712, 4135121; 566695, 4135021; 566710, 4134985; 566711, 4134982; 566717, 4134938; 566722, 4134895; 566730, 4134874; 566742, 4134847; 566755, 4134820; 566779, 4134784; 566789, 4134777; 566801, 4134760; 566817, 4134751; 566829, 4134744; 566835, 4134739; 566847, 4134729; 566870, 4134722; 567001, 4134715; 567090, 4134510; 567094, 4134481; 567085, 4134394; 567105, 4134309; 567112, 4134289; 567120, 4134277; 567186, 4134242; 567218, 4134215; 567260, 4134165; 567285, 4134117; 567324, 4134062; 567352, 4134023; 567392, 4133986; 567412, 4133973; 567433, 4133959; 567476, 4133953; 567487, 4133955; 567496, 4133957; 567517, 4133968; 567534, 4133976; 567578, 4133984; 567603, 4133963; 567707, 4133941; 567729, 4133934; 567748, 4133928; 567839, 4133927; 567844, 4133903; 567848, 4133880; 567992, 4133811; 567995, 4133809; 568057, 4133772; 568085, 4133744; 568100, 4133708; 568129, 4133663; 568180, 4133587; 568205, 4133558; 568241, 4133501; 568248, 4133471; 568287, 4133378; 568296, 4133368; 568306, 4133355; 568320, 4133347; 568385, 4133309; 568496, 4133250; 568515, 4133229; 568543, 4133207; 568565, 4133180; 568573, 4133169; 568583, 4133163; 568613, 4133142; 568638, 4133133; 568659, 4133126; 568963, 4132987; 568998, 4132944; 569000, 4132940; 569008, 4132922; 569026, 4132902; 569045, 4132867; 569080, 4132827; 569101, 4132803; 569153, 4132711; 569160, 4132657; 569145, 4132567; 569146, 4132562; 569147, 4132514; 569146, 4132501; 569145, 4132474; 569159, 4132434; 569169, 4132404; 569173, 4132356; 569183, 4132325; 569230, 4132259; 569280, 4132219; 569383, 4132175; 569387, 4132155; 569446, 4132048; 569460, 4132028; 569470, 4132012; 569475, 4131979; 569480, 4131969; 569496, 4131944; 569505, 4131932; 569544, 4131909; 569552, 4131900; 569567, 4131884; 569575, 4131862; 569580, 4131848; 569593, 4131783; 569606, 4131745; 569635, 4131677; 569646, 4131663; 569669, 4131645; 569694, 4131611; 569730, 4131578; 569844, 4131459; 569905, 4131413; 569973, 4131385; 570034, 4131365; 570128, 4131314; 570158, 4131278; 570217, 4131198; 570273, 4131165; 570443, 4131083; 570529, 4131030; 570587, 4130954; 570662, 4130880; 570685, 4130832; 570765, 4130771; 570805, 4130761; 570866, 4130710; 570900, 4130659; 570972, 4130588; 571026, 4130518; 571044, 4130504; 571147, 4130475; 571165, 4130471; 571199, 4130472; 571335, 4130445; 571393, 4130458; 571420, 4130454; 571467, 4130457; 571512, 4130484; 571647, 4130455; 571705, 4130457; 571725, 4130449; 571745, 4130447; 571787, 4130428; 571800, 4130420; 571831, 4130388; 571879, 4130333; 571910, 4130289; 571950, 4130253; 572014, 4130219; 572061, 4130203; 572075, 4130192; 572097, 4130152; 572123, 4130068; 572122, 4130061; 572121, 4130053; 572097, 4130007; 572093, 4129988; 572096, 4129969; 572111, 4129944; 572138, 4129919; 572135, 4129890; 572127, 4129861; 572137, 4129832; 572182, 4129734; 572251, 4129650; 572263, 4129640; 572277, 4129620; 572316, 4129589; 572378, 4129563; 572415, 4129543; 572435, 4129539; 572452, 4129532; 572467, 4129531; 572524, 4129539; 572549, 4129551; 572584, 4129577; 572629, 4129660; 572651, 4129689; 572687, 4129727; 572800, 4129806; 572903, 4129865; 572960, 4129877; 573007, 4129880; 573020, 4129882; 573055, 4129890; 573130, 4129894; 573161, 4129889; 573189, 4129891; 573223, 4129884; 573272, 4129868; 573328, 4129846; 573348, 4129845; 573369, 4129838; 573425, 4129837; 573454, 4129828; 573471, 4129818; 573485, 4129803; 573494, 4129779; 573498, 4129728; 573503, 4129720; 573527, 4129695; 573613, 4129630; 573636, 4129595; 573653, 4129560; 573651, 4129531; 573648, 4129501; 573679, 4129407; 573700, 4129369; 573759, 4129283; 573807, 4129200; 573825, 4129154; 573842, 4129125; 573860, 4129108; 573907, 4129100; 573950, 4129100; 573974, 4129096; 574000, 4129102; 574017, 4129093; 574038, 4129074; 574050, 4129057; 574103, 4129013; 574160, 4128993; 574175, 4128995; 574189, 4128990; 574205, 4128993; 574229, 4128985; 574243, 4128966; 574248, 4128949; 574248, 4128935; 574238, 4128903; 574215, 4128853; 574194, 4128773; 574184, 4128749; 574126, 4128667; 574114, 4128638; 574115, 4128631; 574131, 4128611; 574148, 4128600; 574182, 4128591; 574196, 4128592; 574208, 4128579; 574207, 4128564; 574181, 4128533; 574154, 4128490; 574090, 4128354; 574054, 4128309; 574014, 4128270; 574000, 4128253; 573981, 4128215; 573976, 4128167; 573980, 4128129; 573979, 4128082; 573971, 4128066; 573954, 4128041; 573918, 4128005; 573904, 4128002; 573872, 4127983; 573856, 4127980; 573846, 4127966; 573844, 4127948; 573848, 4127937; 573854, 4127926; 573872, 4127915; 573886, 4127912; 573948, 4127914; 573979, 4127920; 574017, 4127917; 574063, 4127919; 574082, 4127916; 574138, 4127836; 574152, 4127826; 574174, 4127800; 574192, 4127800; 574254, 4127781; 574289, 4127774; 574360, 4127750; 574377, 4127750; 574380, 4127750; 574420, 4127758; 574473, 4127756; 574536, 4127733; 574622, 4127686; 574692, 4127659; 574793, 4127594; 574816, 4127563; 574821, 4127549; 574830, 4127526; 574937, 4127439; 575016, 4127363; 575041, 4127344; 575061, 4127322; 575088, 4127275; 575108, 4127212; 575115, 4127172; 575117, 4127123; 575117, 4127120; 575123, 4127083; 575119, 4127022; 575118, 4127007; 575136, 4126998; 575150, 4126916; 575150, 4126865; 575164, 4126771; 575179, 4126705; 575212, 4126651; 575255, 4126597; 575306, 4126564; 575357, 4126531; 575422, 4126477; 575437, 4126460; 575426, 4126447; 575408, 4126405; 575410, 4126387; 575421, 4126375; 575450, 4126357; 575467, 4126339; 575475, 4126295; 575447, 4126263; 575404, 4126223; 575393, 4126180; 575393, 4126147; 575407, 4126096; 575407, 4126056; 575407, 4126024; 575378, 4125991; 575364, 4125966; 575328, 4125922; 575302, 4125868; 575303, 4125865; 575286, 4125866; 575197, 4125880; 575177, 4125877; 575166, 4125889; 575058, 4126064; 575008, 4126094; 574924, 4126121; 574896, 4126114; 574868, 4126079; 574807, 4126096; 574777, 4126096; 574731, 4126102; 574599, 4126105; 574561, 4126117; 574478, 4126131; 574396, 4126151; 574316, 4126210; 574289, 4126242; 574259, 4126316; 574241, 4126336; 574200, 4126355; 574144, 4126360; 574134, 4126347; 574078, 4126370; 574058, 4126374; 574044, 4126373; 574007, 4126405; 573986, 4126411; 573947, 4126434; 573898, 4126442; 573834, 4126462; 573732, 4126487; 573691, 4126493; 573644, 4126490; 573584, 4126473; 573453, 4126448; 573399, 4126414; 573377, 4126379; 573365, 4126319; 573327, 4126300; 573310, 4126282; 573305, 4126239; 573310, 4126199; 573306, 4126158; 573287, 4126109; 573224, 4126079; 573175, 4126039; 573147, 4125959; 573138, 4125924; 573141, 4125880; 573135, 4125795; 572861, 4125545; 572745, 4125424; 572723, 4125412; 572696, 4125402; 572663, 4125396; 572624, 4125322; 572617, 4125284; 572596, 4125240; 572556, 4125206; 572497, 4125176; 572439, 4125136; 572351, 4125107; 572303, 4125058; 572287, 4125052; 572239, 4125049; 572209, 4125057; 572184, 4125058; 572173, 4125070; 572169, 4125089; 572150, 4125118; 572123, 4125147; 572094, 4125164; 572081, 4125163; 572026, 4125191; 571999, 4125201; 571966, 4125234; 571948, 4125242; 571917, 4125270; 571863, 4125324; 571849, 4125335; 571796, 4125373; 571752, 4125391; 571743, 4125393; 571688, 4125399; 571660, 4125374; 571652, 4125343; 571656, 4125320; 571668, 4125291; 571678, 4125269; 571730, 4125067; 571736, 4124983; 571745, 4124948; 571748, 4124914; 571749, 4124892; 571725, 4124802; 571722, 4124772; 571715, 4124751; 571680, 4124564; 571688, 4124523; 571712, 4124486; 571733, 4124465; 571744, 4124430; 571745, 4124411; 571755, 4124370; 571765, 4124348; 571758, 4124239; 571751, 4124191; 571732, 4124132; 571679, 4124055; 571574, 4123852; 571562, 4123774; 571517, 4123697; 571477, 4123647; 571448, 4123631; 571407, 4123602; 571295, 4123494; 571276, 4123446; 571261, 4123425; 571226, 4123403; 571173, 4123391; 571124, 4123411; 571071, 4123421; 571047, 4123417; 570995, 4123440; 570969, 4123456; 570873, 4123581; 570798, 4123689; 570760, 4123730; 570693, 4123772; 570651, 4123796; 570610, 4123819; 570561, 4123817; 570509, 4123801; 570489, 4123795; 570442, 4123709; 570402, 4123673; 570363, 4123620; 570326, 4123599; 570276, 4123580; 570220, 4123560; 570154, 4123546; 570048, 4123496; 570000, 4123464; 569959, 4123443; 569887, 4123387; 569605, 4123239; 569503, 4123156; 569361, 4123062; 569330, 4122991; 569328, 4122978; 569294, 4122915; 569286, 4122886; 569273, 4122870; 569261, 4122865; 569211, 4122858; 569112, 4122852; 569067, 4122838; 569032, 4122818; 569006, 4122788; 568975, 4122734; 568962, 4122699; 568938, 4122606; 568918, 4122577; 568845, 4122510; 568778, 4122456; 568674, 4122381; 568506, 4122290; 568418, 4122252; 568372, 4122228; 568330, 4122199; 568183, 4122041; 568153, 4121980; 568135, 4121930; 568089, 4121844; 568007, 4121718; 567929, 4121625; 567910, 4121591; 567869, 4121497; 567853, 4121468; 567827, 4121434; 567753, 4121359; 567798, 4121323; 567835, 4121284; 567886, 4121202; 568114, 4121033; 568179, 4121020; 568229, 4121002; 568268, 4120983; 568383, 4120888; 568404, 4120859; 568416, 4120818; 568422, 4120759; 568447, 4120679; 568458, 4120654; 568473, 4120629; 568494, 4120612; 568530, 4120591; 568574, 4120546; 568595, 4120500; 568623, 4120395; 568633, 4120370; 568661, 4120318; 568718, 4120232; 568729, 4120202; 568757, 4120117; 568777, 4120032; 568791, 4119867; 568796, 4119758; 568801, 4119737; 568814, 4119716; 568840, 4119692; 568882, 4119643; 568891, 4119619; 568894, 4119594; 568910, 4119534; 568950, 4119449; 568991, 4119382; 569108, 4119270; returning to 569250, 4119121.

(ii) Excluding land bounded by the following UTM zone 10, NAD 1983 coordinates (E, N): 555483, 4121713; 555388, 4121749; 555388, 4121618; 555388, 4121320; 555235, 4121428; 555083, 4121390; 554981, 4121263; 554873, 4121256; 554937, 4121205; 555140, 4121193; 555387, 4121177; 555730, 4121097; 556034, 4121027; 556340, 4120843; 556518, 4120862; 556658, 4120996; 556400, 4121122; 556169, 4121332; 556086, 4121497; 555847, 4121539; 555687, 4121566; 555584, 4121675; returning to 555483, 4121713.

(iii) Also excluding land bounded by the following UTM zone 10, NAD 1983 coordinates (E, N): 556092, 4122063; 556218, 4122107; 556645, 4122069; 556727, 4122152; 556746, 4122317; 556816, 4122418; 556820, 4122419; 557032, 4122456; 557089, 4122533; 556999, 4122600; 556873, 4122695; 556861, 4122837; 556467, 4122821; 556372, 4122977; 556281, 4123125; 556289, 4123256; 556226, 4123422; 555946, 4123523; 555826, 4123567; 555754, 4123593; 555497, 4123687; 555358, 4123614; 555261, 4123663; 555032, 4123593; 554792, 4123440; 554724, 4123396; 554715, 4123368; 554691, 4123369; 554688, 4123334; 554690, 4123310; 554656, 4123262; 554638, 4123288; 554596, 4123352; 554359, 4123364; 554270, 4123180; 554091, 4123267; 553922, 4123348; 553751, 4123431; 553600, 4123504; 553588, 4123479; 553555, 4123410; 553375, 4123390; 553635, 4122920; 553644, 4122708; 553715, 4122548; 553839, 4122460; 553971, 4122487; 554062, 4122505; 554165, 4122407; 554289, 4122418; 554378, 4122545; 554447, 4122644; 554447, 4122645; 554619, 4122647; 554825, 4122649; 555095, 4122653; 555312, 4122656; 555578, 4122761; 555705, 4122761; 555756, 4122507; 556003, 4122317; returning to 556092, 4122063.

(iv) Note: Unit SNM-2 for California red-legged frog is depicted on the map in paragraph (29)(ii) of this entry.

(31) Unit STC-1: Santa Clara County, California. From USGS 1:24,000 scale quadrangles Calaveras Reservoir, San Jose East, Mt. Day, Lick Observatory, Morgan Hill, Isabel Valley and Mt. Sizer.

(i) Land bounded by the following UTM zone 10, NAD 1983 coordinates (E, N): 612040, 4142329; 612053, 4142191; 612059, 4142174; 612108, 4142163; 612136, 4142137; 612173, 4142083; 612228, 4142014; 612237, 4141991; 612243, 4141962; 612237, 4141935; 612234, 4141846; 612223, 4141800; 612206, 4141761; 612198, 4141726; 612196, 4141684; 612203, 4141589; 612105, 4141470; 612088, 4141439; 612049, 4141338; 612041, 4141311; 612049, 4141279; 612049, 4141259; 612039, 4141239; 612012, 4141215; 612001, 4141198; 611960, 4141119; 611901, 4140979; 611893, 4140940; 611891, 4140910; 611898, 4140868; 611909, 4140842; 611920, 4140825; 611926, 4140815; 611960, 4140734; 611966, 4140710; 611969, 4140675; 611969, 4140650; 611960, 4140583; 611942, 4140491; 611944, 4140344; 611956, 4140251; 611944, 4140135; 611962, 4140096; 611973, 4140089; 611991, 4140087; 612052, 4140065; 612114, 4139997; 612139, 4139952; 612152, 4139946; 612174, 4139945; 612211, 4139951; 612236, 4139960; 612275, 4139957; 612312, 4139924; 612334, 4139915; 612386, 4139946; 612405, 4139963; 612434, 4139974; 612459, 4139974; 612476, 4139954; 612507, 4139882; 612529, 4139869; 612554, 4139865; 612564, 4139856; 612607, 4139791; 612630, 4139772; 612662, 4139758; 612695, 4139756; 612770, 4139789; 612795, 4139794; 612857, 4139767; 612932, 4139704; 613168, 4139551; 613203, 4139561; 613274, 4139569; 613305, 4139560; 613362, 4139524; 613392, 4139510; 613479, 4139502; 613498, 4139495; 613529, 4139481; 613570, 4139450; 613586, 4139411; 613580, 4139341; 613566, 4139282; 613566, 4139244; 613577, 4139227; 613648, 4139142; 613666, 4139098; 613659, 4139061; 613620, 4138991; 613611, 4138948; 613604, 4138751; 613600, 4138696; 613591, 4138643; 613597, 4138608; 613617, 4138584; 613632, 4138556; 613642, 4138530; 613645, 4138499; 613637, 4138428; 613613, 4138333; 613607, 4138296; 613605, 4138264; 613610, 4138221; 613625, 4138154; 613657, 4138074; 613685, 4138016; 613708, 4137981; 613730, 4137961; 613783, 4137935; 613803, 4137917; 614063, 4137873; 614116, 4138008; 614140, 4138041; 614190, 4138077; 614216, 4138103; 614249, 4138124; 614278, 4138135; 614319, 4138132; 614354, 4138114; 614366, 4138085; 614371, 4138020; 614382, 4137991; 614416, 4137957; 614460, 4137920; 614480, 4137895; 614504, 4137865; 614553, 4137838; 614622, 4137846; 614650, 4137844; 614692, 4137830; 614819, 4137772; 614894, 4137745; 614933, 4137736; 614981, 4137741; 614978, 4137705; 614951, 4137541; 614963, 4137477; 614975, 4137453; 615035, 4137405; 615053, 4137385; 615068, 4137360; 615093, 4137294; 615128, 4137251; 615187, 4137120; 615267, 4137053; 615352, 4136992; 615424, 4136923; 615463, 4136868; 615536, 4136826; 615572, 4136776; 615594, 4136714; 615623, 4136654; 615694, 4136571; 615761, 4136550; 615784, 4136549; 615811, 4136523; 615823, 4136452; 615785, 4136384; 615764, 4136335; 615785, 4136186; 615801, 4136138; 615793, 4136111; 615810, 4136000; 615822, 4135962; 615856, 4135934; 615914, 4135902; 615928, 4135865; 615917, 4135783; 615903, 4135713; 615900, 4135635; 615908, 4135596; 615894, 4135524; 615898, 4135500; 615887, 4135372; 615866, 4135303; 615873, 4135230; 615925, 4135163; 615957, 4135094; 615962, 4135046; 615983, 4134972; 616005, 4134867; 616031, 4134809; 616043, 4134763; 616080, 4134655; 616129, 4134571; 616156, 4134516; 616213, 4134501; 616247, 4134483; 616318, 4134420; 616360, 4134378; 616398, 4134299; 616422, 4134237; 616464, 4134099; 616481, 4134033; 616499, 4133914; 616515, 4133842; 616550, 4133783; 616580, 4133750; 616617, 4133716; 616638, 4133676; 616670, 4133559; 616666, 4133470; 616660, 4133423; 616644, 4133379; 616641, 4133213; 616652, 4133124; 616668, 4133048; 616681, 4133034; 616729, 4132973; 616752, 4132900; 616761, 4132859; 616792, 4132797; 616798, 4132770; 616831, 4132713; 616852, 4132690; 616869, 4132537; 616862, 4132476; 616860, 4132411; 616865, 4132379; 616859, 4132347; 616866, 4132313; 616882, 4132282; 616881, 4132256; 616899, 4132226; 616909, 4132176; 616934, 4132114; 616973, 4132054; 617007, 4132022; 617051, 4131999; 617114, 4131990; 617144, 4131970; 617158, 4131944; 617172, 4131872; 617152, 4131822; 617143, 4131780; 617178, 4131687; 617272, 4131598; 617302, 4131573; 617433, 4131534; 617509, 4131533; 617591, 4131501; 617635, 4131459; 617641, 4131426; 617667, 4131382; 617668, 4131336; 617692, 4131243; 617726, 4131179; 617760, 4131146; 617782, 4131153; 617807, 4131177; 617843, 4131199; 617872, 4131197; 617902, 4131176; 617956, 4131148; 618059, 4131081; 618104, 4131021; 618145, 4130995; 618171, 4130994; 618209, 4131004; 618281, 4131037; 618294, 4131037; 618323, 4131026; 618360, 4131017; 618415, 4131016; 618511, 4131004; 618626, 4131023; 618664, 4131037; 618693, 4131033; 618705, 4131019; 618729, 4130991; 618735, 4130970; 618729, 4130940; 618626, 4130753; 618624, 4130736; 618668, 4130675; 618718, 4130655; 618787, 4130644; 618841, 4130662; 618878, 4130668; 619015, 4130511; 618992, 4130482; 618946, 4130439; 618910, 4130424; 618895, 4130412; 618880, 4130393; 618867, 4130369; 618867, 4130338; 618871, 4130263; 618881, 4130248; 618888, 4130237; 618902, 4130207; 618907, 4130175; 618950, 4130089; 618965, 4130041; 618967, 4130013; 618958, 4129967; 618965, 4129916; 618999, 4129874; 619022, 4129838; 619030, 4129817; 619031, 4129801; 619048, 4129808; 619058, 4129793; 619100, 4129784; 619135, 4129762; 619176, 4129763; 619233, 4129773; 619298, 4129777; 619364, 4129761; 619421, 4129753; 619501, 4129726; 619548, 4129734; 619591, 4129713; 619659, 4129738; 619710, 4129764; 619742, 4129776; 619773, 4129795; 619800, 4129796; 619819, 4129775; 619824, 4129621; 619832, 4129611; 619862, 4129597; 619925, 4129584; 619956, 4129555; 619976, 4129526; 619986, 4129446; 619997, 4129403; 619994, 4129332; 620030, 4129313; 620075, 4129282; 620131, 4129288; 620163, 4129300; 620309, 4129199; 620342, 4129194; 620451, 4129228; 620492, 4129260; 620516, 4129291; 620583, 4129325; 620631, 4129392; 620674, 4129418; 620734, 4129474; 620754, 4129529; 620788, 4129595; 620811, 4129690; 620830, 4129720; 620871, 4129653; 620889, 4129590; 620907, 4129499; 620939, 4129424; 620969, 4129299; 621012, 4129199; 621037, 4129152; 621072, 4129096; 621167, 4129040; 621239, 4129035; 621408, 4129012; 621462, 4129008; 621485, 4128960; 621481, 4128934; 621443, 4128844; 621435, 4128789; 621418, 4128717; 621419, 4128672; 621427, 4128650; 621442, 4128590; 621449, 4128541; 621497, 4128456; 621515, 4128408; 621530, 4128267; 621538, 4128139; 621545, 4128096; 621532, 4127971; 621521, 4127932; 621794, 4127721; 621824, 4127708; 621834, 4127660; 621825, 4127609; 621904, 4127423; 622072, 4127349; 622104, 4127311; 622113, 4127288; 622112, 4127201; 621905, 4127191; 621835, 4127185; 621763, 4127170; 621723, 4127166; 621691, 4127088; 621690, 4127045; 621699, 4126992; 621697, 4126941; 621650, 4126898; 621561, 4126886; 621489, 4126890; 621435, 4126877; 621355, 4126773; 621349, 4126750; 621352, 4126717; 621399, 4126659; 621438, 4126589; 621480, 4126534; 621515, 4126447; 621560, 4126366; 621611, 4126292; 621694, 4126247; 621701, 4126238; 621738, 4126169; 621758, 4126104; 621780, 4126070; 621817, 4126034; 621915, 4125991; 622028, 4125979; 622044, 4125972; 622113, 4125901; 622137, 4125891; 622192, 4125876; 622227, 4125872; 622273, 4125880; 622335, 4125904; 622370, 4125910; 622438, 4125887; 622483, 4125863; 622527, 4125851; 622637, 4125889; 622683, 4125916; 622744, 4125886; 622774, 4125841; 622789, 4125787; 622816, 4125749; 622879, 4125744; 622945, 4125721; 622965, 4125680; 622982, 4125621; 623016, 4125567; 623067, 4125509; 623116, 4125426; 623143, 4125375; 623173, 4125332; 623178, 4125297; 623161, 4125264; 623145, 4125105; 623189, 4125063; 623239, 4125034; 623289, 4125017; 623362, 4125015; 623411, 4124996; 623444, 4124960; 623545, 4124924; 623583, 4124895; 623593, 4124887; 623637, 4124823; 623692, 4124722; 623735, 4124686; 623792, 4124627; 623802, 4124609; 623825, 4124595; 623880, 4124572; 623985, 4124559; 624007, 4124501; 624015, 4124434; 624046, 4124365; 624145, 4124286; 624195, 4124252; 624288, 4124268; 624361, 4124256; 624411, 4124190; 624452, 4124030; 624488, 4123979; 624523, 4123947; 624562, 4123896; 624594, 4123769; 624742, 4123605; 624798, 4123600; 624857, 4123633; 624913, 4123629; 624957, 4123577; 624976, 4123489; 624990, 4123476; 625028, 4123396; 625059, 4123317; 625066, 4123249; 625087, 4123189; 625178, 4123168; 625229, 4123134; 625278, 4123082; 625306, 4123035; 625287, 4122981; 625256, 4122917; 625227, 4122866; 625223, 4122792; 625215, 4122728; 625182, 4122622; 625180, 4122564; 625202, 4122504; 625252, 4122457; 625275, 4122421; 625222, 4122293; 625234, 4122248; 625286, 4122207; 625342, 4122141; 625364, 4122036; 625346, 4121976; 625365, 4121892; 625367, 4121815; 625326, 4121753; 625296, 4121673; 625285, 4121613; 625283, 4121531; 625258, 4121446; 625273, 4121437; 625303, 4121426; 625369, 4121437; 625441, 4121465; 625522, 4121442; 625580, 4121406; 625627, 4121383; 625769, 4121370; 625911, 4121304; 625971, 4121269; 626017, 4121230; 626062, 4121162; 626103, 4121125; 626129, 4121075; 626170, 4121031; 626222, 4120986; 626264, 4120958; 626365, 4120858; 626405, 4120805; 626471, 4120684; 626482, 4120648; 626470, 4120606; 626472, 4120551; 626503, 4120491; 626566, 4120430; 626714, 4120425; 626791, 4120430; 626832, 4120387; 626852, 4120328; 626874, 4120188; 626849, 4120116; 626868, 4120058; 626881, 4120000; 626870, 4119926; 626904, 4119873; 626960, 4119841; 627016, 4119825; 627034, 4119828; 627010, 4119794; 626989, 4119737; 626992, 4119670; 626974, 4119631; 626877, 4119598; 626831, 4119564; 626781, 4119494; 626762, 4119411; 626758, 4119371; 626709, 4119335; 626672, 4119312; 626641, 4119261; 626645, 4119184; 626651, 4119139; 626683, 4119089; 626716, 4119059; 626751, 4118956; 626789, 4118911; 626846, 4118874; 626886, 4118862; 626941, 4118796; 626971, 4118751; 626991, 4118662; 627011, 4118624; 627043, 4118585; 627100, 4118585; 627179, 4118618; 627214, 4118603; 627252, 4118559; 627277, 4118515; 627316, 4118469; 627364, 4118407; 627419, 4118344; 627490, 4118277; 627553, 4118234; 627582, 4118206; 627643, 4118155; 627714, 4118115; 627756, 4118112; 627808, 4118083; 628001, 4118038; 628021, 4117978; 628040, 4117936; 628093, 4117865; 628109, 4117807; 628120, 4117724; 628134, 4117680; 628182, 4117657; 628242, 4117639; 628304, 4117626; 628353, 4117625; 628466, 4117591; 628522, 4117558; 628550, 4117534; 628588, 4117465; 628623, 4117388; 628615, 4117346; 628567, 4117314; 628459, 4117262; 628356, 4117170; 628355, 4117129; 628362, 4117107; 628376, 4117084; 628388, 4117038; 628395, 4116980; 628389, 4116941; 628346, 4116888; 628325, 4116853; 628335, 4116718; 628331, 4116669; 628309, 4116609; 628278, 4116490; 628287, 4116387; 628286, 4116352; 628216, 4116313; 628142, 4116281; 628103, 4116255; 628089, 4116209; 628051, 4116139; 628031, 4116109; 627995, 4116064; 627962, 4116038; 627889, 4115942; 627854, 4115916; 627781, 4115881; 627732, 4115873; 627682, 4115852; 627621, 4115782; 627576, 4115719; 627515, 4115720; 627461, 4115712; 627387, 4115692; 627311, 4115681; 627167, 4115669; 627095, 4115672; 627060, 4115683; 626925, 4115642; 626870, 4115565; 626860, 4115539; 626857, 4115497; 626869, 4115368; 626883, 4115323; 626923, 4115263; 626933, 4115192; 626951, 4115141; 626960, 4115056; 626926, 4114992; 626888, 4114948; 626846, 4114912; 626803, 4114866; 626760, 4114814; 626726, 4114762; 626746, 4114691; 626765, 4114638; 626787, 4114534; 626784, 4114467; 626718, 4114338; 626690, 4114262; 626584, 4114193; 626423, 4114125; 626434, 4114068; 626505, 4113979; 626552, 4113929; 626578, 4113887; 626594, 4113828; 626623, 4113725; 626654, 4113678; 626719, 4113599; 626756, 4113564; 626843, 4113494; 626903, 4113417; 626973, 4113386; 627132, 4113270; 627201, 4113193; 627261, 4113097; 627268, 4113038; 627291, 4112961; 627358, 4112811; 627412, 4112781; 627504, 4112763; 627557, 4112743; 627621, 4112693; 627638, 4112652; 627631, 4112575; 627614, 4112518; 627509, 4112325; 627500, 4112273; 627470, 4112231; 627418, 4112146; 627422, 4112089; 627426, 4111910; 627404, 4111816; 627385, 4111753; 627408, 4111711; 627466, 4111558; 627480, 4111507; 627412, 4111375; 627394, 4111334; 627391, 4111261; 627408, 4111213; 627440, 4111168; 627490, 4111114; 627467, 4111066; 627437, 4111025; 627392, 4110984; 627388, 4110977; 627302, 4111104; 627220, 4111225; 627174, 4111293; 627184, 4111291; 627171, 4111318; 627143, 4111339; 627127, 4111351; 627125, 4111353; 627031, 4111456; 626977, 4111544; 626940, 4111625; 626862, 4111748; 626633, 4111951; 626547, 4112092; 626415, 4112260; 626333, 4112335; 626271, 4112570; 626231, 4112677; 626208, 4112707; 626177, 4112772; 626140, 4112823; 625934, 4112865; 625896, 4112885; 625823, 4112986; 625726, 4113043; 625601, 4113061; 625560, 4113050; 625448, 4112901; 625410, 4112881; 625354, 4112900; 625270, 4112901; 624926, 4113024; 624677, 4113152; 624564, 4113257; 624423, 4113349; 624359, 4113412; 624340, 4113442; 624297, 4113487; 624253, 4113507; 624165, 4113648; 624206, 4113763; 624216, 4113793; 624208, 4113826; 624195, 4113833; 624061, 4113788; 624020, 4113793; 623982, 4113833; 623966, 4113838; 623888, 4113806; 623809, 4113800; 623766, 4113812; 623720, 4113839; 623646, 4113869; 623490, 4113905; 623432, 4113932; 623410, 4113985; 623312, 4113958; 623286, 4113958; 623227, 4114020; 623221, 4114114; 623210, 4114144; 623177, 4114172; 623162, 4114299; 623085, 4114351; 623033, 4114459; 622957, 4114580; 622906, 4114625; 622877, 4114704; 622841, 4114749; 622777, 4114773; 622695, 4114830; 622668, 4114942; 622629, 4114951; 622581, 4114938; 622535, 4114970; 622520, 4114968; 622492, 4114950; 622431, 4114946; 622362, 4114981; 622307, 4115087; 622282, 4115112; 622170, 4115245; 622128, 4115351; 621964, 4115613; 621954, 4115628; 621964, 4115651; 622101, 4115648; 622124, 4115638; 622248, 4115647; 622368, 4115618; 622422, 4115561; 622456, 4115498; 622492, 4115468; 622640, 4115462; 622660, 4115452; 622694, 4115389; 622703, 4115339; 622713, 4115326; 622733, 4115324; 622753, 4115332; 622752, 4115336; 622724, 4115433; 622724, 4115461; 622746, 4115487; 622756, 4115515; 622735, 4115580; 622704, 4115603; 622592, 4115619; 622471, 4115691; 622440, 4115767; 622360, 4115837; 622227, 4115914; 622180, 4115979; 622180, 4115994; 622170, 4115991; 622111, 4116019; 622058, 4116020; 621959, 4115986; 621856, 4115941; 621790, 4115882; 621770, 4115884; 621746, 4115952; 621676, 4116028; 621642, 4116139; 621587, 4116417; 621565, 4116506; 621567, 4116537; 621608, 4116573; 621607, 4116593; 621533, 4116615; 621495, 4116660; 621487, 4116665; 621477, 4116672; 621467, 4116665; 621486, 4116533; 621490, 4116274; 621501, 4116205; 621482, 4116098; 621465, 4116073; 621429, 4116065; 621350, 4116109; 621304, 4116147; 621240, 4116163; 621225, 4116181; 621210, 4116295; 621200, 4116318; 621169, 4116348; 621059, 4116384; 620911, 4116453; 620872, 4116527; 620853, 4116592; 620819, 4116645; 620818, 4116696; 620868, 4116747; 620868, 4116763; 620858, 4116775; 620523, 4116740; 620442, 4116744; 620411, 4116761; 620380, 4116984; 620270, 4117039; 620143, 4117197; 620133, 4117214; 620149, 4117301; 620181, 4117375; 620082, 4117343; 620067, 4117358; 620051, 4117391; 620052, 4117485; 620064, 4117541; 620060, 4117643; 620050, 4117686; 620042, 4117691; 620034, 4117731; 619920, 4117869; 619919, 4117897; 619879, 4117912; 619855, 4117932; 619858, 4117950; 619920, 4118004; 619923, 4118019; 619879, 4118047; 619859, 4118036; 619809, 4117977; 619784, 4117964; 619758, 4117971; 619641, 4118033; 619508, 4118058; 619499, 4118062; 619314, 4118146; 619080, 4118189; 618997, 4118316; 618794, 4118278; 618707, 4118371; 618658, 4118326; 618603, 4118300; 618536, 4118275; 618474, 4118228; 618398, 4118193; 618333, 4118177; 618125, 4118214; 618030, 4118200; 617827, 4118179; 617725, 4118186; 617578, 4118212; 617530, 4118260; 617492, 4118311; 617459, 4118305; 617405, 4118257; 617333, 4118207; 617237, 4118176; 617157, 4118173; 617107, 4118197; 617020, 4118231; 616968, 4118276; 616900, 4118344; 616704, 4118473; 616652, 4118594; 616595, 4118667; 616528, 4118721; 616455, 4118721; 616388, 4118693; 616301, 4118690; 616218, 4118757; 616156, 4118813; 616109, 4118847; 616025, 4118973; 615968, 4119042; 615888, 4119292; 615857, 4119344; 615772, 4119462; 615770, 4119512; 615774, 4119551; 615630, 4119676; 615592, 4119705; 615539, 4119764; 615497, 4119806; 615444, 4119834; 615405, 4119858; 615358, 4119878; 615277, 4119924; 615213, 4119950; 614942, 4120097; 614886, 4120144; 614847, 4120181; 614835, 4120223; 614840, 4120287; 614858, 4120349; 614849, 4120390; 614825, 4120418; 614749, 4120485; 614722, 4120525; 614680, 4120577; 614623, 4120625; 614588, 4120669; 614571, 4120729; 614537, 4120787; 614491, 4120827; 614438, 4120860; 614369, 4120866; 614312, 4120876; 614260, 4120910; 614213, 4120954; 614093, 4121043; 614100, 4121076; 614104, 4121124; 614090, 4121275; 614103, 4121315; 614137, 4121357; 614160, 4121372; 614181, 4121415; 614205, 4121414; 614243, 4121433; 614285, 4121461; 614309, 4121481; 614328, 4121506; 614340, 4121530; 614351, 4121596; 614323, 4121621; 614273, 4121622; 614230, 4121633; 614184, 4121666; 614085, 4121709; 614062, 4121707; 613991, 4121655; 613949, 4121630; 613916, 4121616; 613885, 4121637; 613763, 4121812; 613722, 4121866; 613684, 4121908; 613664, 4121942; 613632, 4122033; 613571, 4122180; 613577, 4122207; 613635, 4122242; 613690, 4122252; 613738, 4122279; 613748, 4122382; 613758, 4122421; 613798, 4122514; 613815, 4122548; 613889, 4122658; 613935, 4122758; 613961, 4122796; 613951, 4122810; 613897, 4122862; 613777, 4122898; 613651, 4122988; 613609, 4123042; 613589, 4123089; 613589, 4123148; 613606, 4123223; 613636, 4123250; 613714, 4123352; 613756, 4123389; 613806, 4123400; 613900, 4123394; 613985, 4123425; 614086, 4123514; 614484, 4123627; 614631, 4123658; 614700, 4123634; 614745, 4123606; 614794, 4123628; 614832, 4123677; 614872, 4123757; 614874, 4123785; 614839, 4123810; 614833, 4123819; 614780, 4123836; 614722, 4123866; 614706, 4123888; 614703, 4123913; 614722, 4123940; 614758, 4123972; 614795, 4123986; 614824, 4123985; 614881, 4123990; 614919, 4123982; 614954, 4123985; 614992, 4123971; 615066, 4123969; 615085, 4123955; 615122, 4123950; 615143, 4123955; 615194, 4123977; 615217, 4123983; 615285, 4123982; 615319, 4123978; 615351, 4123963; 615371, 4123965; 615431, 4124007; 615478, 4124035; 615542, 4124082; 615584, 4124138; 615597, 4124166; 615590, 4124203; 615498, 4124290; 615400, 4124336; 615338, 4124348; 615254, 4124371; 615227, 4124403; 615230, 4124425; 615180, 4124432; 615125, 4124496; 615116, 4124530; 615111, 4124577; 615103, 4124597; 615100, 4124644; 615112, 4124679; 615094, 4124685; 615084, 4124708; 615055, 4124710; 615019, 4124725; 615008, 4124736; 614993, 4124738; 614992, 4124748; 614937, 4124812; 614921, 4124843; 614891, 4124885; 614872, 4124894; 614862, 4124944; 614790, 4124995; 614756, 4125012; 614702, 4125047; 614666, 4125121; 614649, 4125163; 614644, 4125235; 614671, 4125327; 614675, 4125373; 614666, 4125418; 614639, 4125465; 614584, 4125586; 614599, 4125633; 614620, 4125652; 614656, 4125665; 614694, 4125654; 614730, 4125675; 614749, 4125701; 614784, 4125800; 614831, 4125875; 614866, 4125945; 614905, 4126019; 614911, 4126099; 614889, 4126150; 614846, 4126233; 614740, 4126415; 614708, 4126481; 614684, 4126506; 614698, 4126579; 614752, 4126650; 614773, 4126702; 614779, 4126731; 614799, 4126785; 614793, 4126940; 614794, 4126981; 614809, 4127047; 614798, 4127098; 614689, 4127150; 614657, 4127186; 614649, 4127223; 614650, 4127279; 614631, 4127335; 614628, 4127446; 614652, 4127526; 614662, 4127620; 614644, 4127666; 614621, 4127708; 614594, 4127767; 614585, 4127828; 614587, 4127879; 614606, 4127910; 614658, 4128059; 614642, 4128130; 614592, 4128142; 614568, 4128138; 614542, 4128151; 614494, 4128201; 614464, 4128227; 614439, 4128276; 614391, 4128346; 614307, 4128427; 614257, 4128488; 614203, 4128535; 614191, 4128589; 614189, 4128617; 614228, 4128658; 614287, 4128701; 614299, 4128722; 614313, 4128775; 614311, 4128891; 614295, 4128959; 614275, 4128989; 614225, 4129047; 614367, 4129352; 614319, 4129391; 614314, 4129395; 614250, 4129435; 614227, 4129453; 614202, 4129472; 614175, 4129502; 614106, 4129473; 613960, 4129640; 613942, 4129667; 613805, 4129718; 613778, 4129741; 613739, 4129766; 613722, 4129785; 613684, 4129890; 613654, 4129933; 613619, 4130005; 613576, 4130060; 613545, 4130082; 613498, 4130094; 613472, 4130071; 613441, 4130080; 613455, 4130192; 613472, 4130273; 613486, 4130394; 613510, 4130513; 613508, 4130556; 613508, 4130573; 613485, 4130628; 613463, 4130673; 613438, 4130708; 613415, 4130748; 613389, 4130813; 613395, 4130848; 613391, 4130890; 613398, 4130924; 613381, 4131021; 613356, 4131067; 613353, 4131101; 613344, 4131136; 613311, 4131183; 613227, 4131288; 613201, 4131332; 613157, 4131377; 613127, 4131424; 613084, 4131480; 613020, 4131548; 612886, 4131629; 612798, 4131727; 612753, 4131802; 612715, 4131842; 612661, 4132003; 612621, 4132064; 612557, 4132133; 612516, 4132160; 612442, 4132196; 612438, 4132200; 612382, 4132247; 612358, 4132261; 612289, 4132357; 612278, 4132385; 612269, 4132422; 612272, 4132455; 612277, 4132508; 612270, 4132555; 612270, 4132591; 612259, 4132633; 612094, 4132727; 612067, 4132743; 612023, 4132744; 611994, 4132736; 611936, 4132767; 611912, 4132787; 611910, 4132812; 611915, 4132847; 611946, 4132924; 611931, 4132970; 611824, 4133110; 611826, 4133139; 611829, 4133186; 611813, 4133282; 611802, 4133324; 611781, 4133357; 611757, 4133387; 611734, 4133426; 611666, 4133462; 611656, 4133464; 611644, 4133473; 611635, 4133479; 611655, 4133578; 611655, 4133620; 611651, 4133650; 611652, 4133689; 611647, 4133759; 611623, 4133842; 611613, 4133851; 611596, 4133879; 611582, 4133876; 611540, 4133907; 611522, 4133915; 611509, 4133949; 611485, 4134037; 611488, 4134072; 611509, 4134193; 611509, 4134223; 611493, 4134315; 611451, 4134418; 611434, 4134451; 611388, 4134536; 611342, 4134597; 611290, 4134595; 611245, 4134607; 611207, 4134601; 611161, 4134610; 611144, 4134642; 611144, 4134677; 611121, 4134719; 611062, 4134721; 611029, 4134728; 610969, 4134719; 610906, 4134733; 610817, 4134748; 610792, 4134764; 610777, 4134766; 610758, 4134781; 610728, 4134837; 610722, 4134868; 610743, 4134916; 610744, 4134941; 610731, 4134969; 610687, 4134988; 610669, 4134988; 610580, 4135011; 610564, 4135011; 610531, 4135034; 610515, 4135034; 610451, 4135071; 610426, 4135080; 610398, 4135112; 610393, 4135151; 610382, 4135171; 610368, 4135185; 610356, 4135221; 610327, 4135249; 610308, 4135256; 610288, 4135275; 610273, 4135284; 610270, 4135295; 610256, 4135311; 610243, 4135353; 610240, 4135381; 610221, 4135425; 610215, 4135454; 610203, 4135473; 610191, 4135518; 610177, 4135545; 610167, 4135581; 610154, 4135609; 610146, 4135640; 610122, 4135692; 610090, 4135752; 610072, 4135802; 610050, 4135835; 610042, 4135853; 609999, 4135894; 609954, 4135926; 609929, 4135939; 609890, 4135956; 609850, 4135965; 609824, 4135963; 609787, 4135971; 609729, 4136000; 609720, 4136013; 609697, 4136025; 609664, 4136049; 609621, 4136062; 609588, 4136084; 609559, 4136113; 609508, 4136147; 609474, 4136175; 609454, 4136215; 609326, 4136386; 609300, 4136426; 609270, 4136458; 609248, 4136492; 609221, 4136573; 609180, 4136657; 609170, 4136702; 609125, 4136827; 609113, 4136872; 609099, 4136887; 609041, 4136975; 609025, 4136993; 608996, 4137011; 608967, 4137022; 608942, 4137039; 608928, 4137055; 608834, 4137248; 608816, 4137274; 608806, 4137314; 608802, 4137410; 608787, 4137441; 608732, 4137488; 608705, 4137522; 608638, 4137595; 608622, 4137618; 608590, 4137690; 608560, 4137733; 608537, 4137760; 608491, 4137793; 608444, 4137816; 608378, 4137829; 608346, 4137829; 608310, 4137849; 608278, 4137882; 608232, 4137916; 608182, 4137930; 607999, 4137919; 607927, 4137910; 607779, 4137907; 607718, 4137912; 607640, 4137931; 607593, 4137951; 607551, 4137975; 607480, 4138024; 607413, 4138082; 607396, 4138105; 607379, 4138136; 607367, 4138186; 607351, 4138218; 607314, 4138254; 607210, 4138322; 607198, 4138341; 607185, 4138370; 607174, 4138408; 607165, 4138470; 607157, 4138501; 607121, 4138551; 607091, 4138579; 606846, 4138652; 606770, 4138622; 606737, 4138613; 606681, 4138605; 606642, 4138602; 606515, 4138613; 606357, 4138606; 606269, 4138579; 606119, 4138544; 606040, 4138540; 606025, 4138608; 606042, 4138642; 606046, 4138683; 606041, 4138748; 606045, 4138787; 606064, 4138806; 606102, 4138827; 606098, 4138947; 605923, 4138995; 605932, 4139155; 605656, 4139054; 605571, 4139043; 605517, 4139012; 605426, 4138980; 605303, 4138970; 605234, 4138972; 605121, 4139012; 605059, 4138971; 604967, 4139015; 604898, 4139035; 604783, 4139056; 604711, 4139085; 604638, 4139103; 604595, 4139136; 604536, 4139162; 604471, 4139194; 604396, 4139169; 604343, 4139170; 604302, 4139246; 604183, 4139305; 604159, 4139363; 604133, 4139467; 604133, 4139538; 604133, 4139623; 604188, 4139694; 604252, 4139749; 604289, 4139803; 604367, 4139882; 604382, 4140096; 604429, 4140118; 604574, 4140118; 604608, 4140376; 604679, 4140461; 604783, 4140578; 604789, 4140721; 604952, 4140889; 605055, 4141023; 605070, 4141018; 605226, 4141041; 605280, 4141039; 605362, 4141025; 605415, 4141020; 605506, 4141020; 605536, 4141023; 605613, 4141044; 605648, 4141059; 605686, 4141080; 605707, 4141097; 605764, 4141137; 605993, 4141092; 606016, 4141057; 606071, 4140988; 606111, 4140968; 606145, 4140955; 606186, 4140951; 606274, 4140961; 606317, 4140970; 606347, 4140979; 606444, 4141018; 606545, 4141045; 606643, 4141096; 606686, 4141124; 606708, 4141163; 606783, 4141352; 606832, 4141464; 606877, 4141509; 606919, 4141572; 606956, 4141617; 606985, 4141659; 607036, 4141696; 607076, 4141722; 607175, 4141745; 607213, 4141750; 607278, 4141737; 607382, 4141703; 607491, 4141681; 607541, 4141680; 607578, 4141697; 607612, 4141707; 607686, 4141711; 607716, 4141716; 607785, 4141734; 607807, 4141743; 607851, 4141770; 607925, 4141830; 607956, 4141848; 608014, 4141870; 608075, 4141939; 608137, 4142008; 608159, 4142049; 608199, 4142141; 608206, 4142202; 608199, 4142248; 608199, 4142276; 608208, 4142313; 608255, 4142428; 608270, 4142477; 608290, 4142573; 608291, 4142604; 608300, 4142611; 608335, 4142617; 608361, 4142613; 608411, 4142613; 608452, 4142617; 608539, 4142635; 608587, 4142636; 608623, 4142635; 608649, 4142630; 608679, 4142620; 608715, 4142602; 608741, 4142579; 608779, 4142518; 608815, 4142474; 608828, 4142448; 608839, 4142409; 608848, 4142388; 608884, 4142355; 608926, 4142330; 608996, 4142296; 609040, 4142248; 609083, 4142211; 609113, 4142203; 609150, 4142207; 609237, 4142227; 609263, 4142227; 609302, 4142219; 609313, 4142207; 609312, 4142038; 609329, 4141976; 609357, 4141939; 609375, 4141928; 609481, 4141877; 609511, 4141864; 609532, 4141860; 609564, 4141864; 609743, 4141951; 609764, 4142030; 609797, 4142102; 609816, 4142140; 609834, 4142162; 609851, 4142170; 609878, 4142170; 609906, 4142162; 609979, 4142131; 610012, 4142113; 610066, 4142044; 610088, 4142027; 610107, 4142024; 610143, 4142029; 610166, 4142036; 610194, 4142032; 610212, 4142024; 610249, 4141999; 610277, 4141986; 610315, 4141978; 610359, 4141976; 610415, 4141989; 610443, 4142001; 610495, 4142034; 610588, 4142061; 610614, 4142075; 610645, 4142100; 610676, 4142133; 610738, 4142232; 610751, 4142259; 610764, 4142289; 610772, 4142381; 610778, 4142407; 610789, 4142438; 610954, 4142645; 610999, 4142707; 611044, 4142749; 611117, 4142825; 611151, 4142845; 611197, 4142864; 611236, 4142876; 611333, 4142884; 611372, 4142893; 611399, 4142913; 611408, 4142925; 611431, 4142908; 611459, 4142899; 611670, 4142668; 611689, 4142634; 611748, 4142603; 611774, 4142582; 611809, 4142526; 611832, 4142504; 611882, 4142467; 611984, 4142405; 612012, 4142381; returning to 612040, 4142329.

(ii) Note: Map of Units STC-1 and STC-2 for the California red-legged frog follows:

BILLING CODE 4310-55-P

BILLING CODE 4310-55-C

(32) Unit STC-2: Santa Clara, Merced, Stanislaus and San Benito Counties, California. From USGS 1:24,000 scale quadrangles Mt. Sizer, Gilroy, Mt. Stakes, Mississippi Creek, Gilroy Hot Springs, San Felipe, Mustang Peak, Pacheco Peak, Three Sisters, Crevision Peak, Pacheco Pass and Mariposa Peak.

(i) Land bounded by the following UTM zone 10, NAD 1983 coordinates (E, N): 627388, 4110977; 627392, 4110984; 627437, 4111025; 627467, 4111066; 627490, 4111114; 627440, 4111168; 627408, 4111213; 627391, 4111261; 627394, 4111334; 627412, 4111375; 627480, 4111507; 627466, 4111558; 627408, 4111711; 627385, 4111753; 627404, 4111816; 627426, 4111910; 627422, 4112089; 627418, 4112146; 627470, 4112231; 627500, 4112273; 627509, 4112325; 627614, 4112518; 627631, 4112575; 627638, 4112652; 627621, 4112693; 627557, 4112743; 627504, 4112763; 627412, 4112781; 627358, 4112811; 627291, 4112961; 627268, 4113038; 627261, 4113097; 627201, 4113193; 627132, 4113270; 626973, 4113386; 626903, 4113417; 626843, 4113494; 626756, 4113564; 626719, 4113599; 626654, 4113678; 626623, 4113725; 626594, 4113828; 626578, 4113887; 626552, 4113929; 626505, 4113979; 626434, 4114068; 626423, 4114125; 626584, 4114193; 626690, 4114262; 626718, 4114338; 626784, 4114467; 626787, 4114534; 626765, 4114638; 626746, 4114691; 626726, 4114762; 626760, 4114814; 626803, 4114866; 626846, 4114912; 626888, 4114948; 626926, 4114992; 626960, 4115056; 626951, 4115141; 626933, 4115192; 626923, 4115263; 626883, 4115323; 626869, 4115368; 626857, 4115497; 626860, 4115539; 626870, 4115565; 626925, 4115642; 627060, 4115683; 627095, 4115672; 627167, 4115669; 627311, 4115681; 627387, 4115692; 627461, 4115712; 627515, 4115720; 627576, 4115719; 627621, 4115782; 627682, 4115852; 627732, 4115873; 627781, 4115881; 627854, 4115916; 627889, 4115942; 627962, 4116038; 627995, 4116064; 628031, 4116109; 628051, 4116139; 628089, 4116209; 628103, 4116255; 628142, 4116281; 628216, 4116313; 628286, 4116352; 628287, 4116387; 628278, 4116490; 628309, 4116609; 628331, 4116669; 628335, 4116718; 628325, 4116853; 628346, 4116888; 628389, 4116941; 628395, 4116980; 628388, 4117038; 628376, 4117084; 628362, 4117107; 628355, 4117129; 628356, 4117170; 628459, 4117262; 628567, 4117314; 628615, 4117346; 628623, 4117388; 628588, 4117465; 628550, 4117534; 628522, 4117558; 628466, 4117591; 628353, 4117625; 628304, 4117626; 628242, 4117639; 628182, 4117657; 628134, 4117680; 628120, 4117724; 628109, 4117807; 628093, 4117865; 628040, 4117936; 628021, 4117978; 628001, 4118038; 627808, 4118083; 627756, 4118112; 627714, 4118115; 627643, 4118155; 627582, 4118206; 627553, 4118234; 627490, 4118277; 627419, 4118344; 627364, 4118407; 627316, 4118469; 627277, 4118515; 627252, 4118559; 627214, 4118603; 627179, 4118618; 627100, 4118585; 627043, 4118585; 627011, 4118624; 626991, 4118662; 626971, 4118751; 626941, 4118796; 626886, 4118862; 626846, 4118874; 626789, 4118911; 626751, 4118956; 626716, 4119059; 626683, 4119089; 626651, 4119139; 626645, 4119184; 626641, 4119261; 626672, 4119312; 626709, 4119335; 626758, 4119371; 626762, 4119411; 626781, 4119494; 626831, 4119564; 626877, 4119598; 626974, 4119631; 626992, 4119670; 626989, 4119737; 627010, 4119794; 627034, 4119828; 627199, 4119848; 627247, 4119851; 627320, 4119803; 627404, 4119808; 627472, 4119822; 627580, 4119790; 627655, 4119787; 627772, 4119880; 627818, 4119904; 627861, 4119981; 627933, 4120021; 628024, 4120042; 628101, 4120053; 628181, 4120054; 628215, 4120028; 628259, 4119984; 628326, 4120030; 628392, 4120115; 628446, 4120210; 628483, 4120293; 628489, 4120390; 628528, 4120422; 628603, 4120456; 628699, 4120525; 628754, 4120575; 628774, 4120652; 628885, 4120762; 628984, 4120840; 629045, 4120895; 629092, 4120960; 629144, 4121010; 629198, 4121041; 629269, 4121094; 629356, 4121117; 629468, 4121136; 629534, 4121153; 629601, 4121178; 629803, 4121223; 629856, 4121184; 629894, 4121097; 629910, 4121041; 629945, 4120988; 629987, 4120938; 630040, 4120941; 630087, 4120937; 630118, 4120927; 630186, 4120882; 630255, 4120860; 630322, 4120854; 630395, 4120831; 630457, 4120794; 630565, 4120699; 630789, 4120604; 630924, 4120570; 630985, 4120528; 631032, 4120458; 631081, 4120406; 631157, 4120347; 631185, 4120270; 631319, 4120093; 631375, 4120084; 631417, 4120048; 631451, 4119986; 631490, 4119922; 631500, 4119910; 631626, 4119951; 631714, 4119996; 631774, 4120049; 631853, 4120126; 631887, 4120200; 631902, 4120277; 631915, 4120370; 631937, 4120419; 631975, 4120552; 631988, 4120578; 632032, 4120628; 632061, 4120674; 632085, 4120724; 632109, 4120762; 632145, 4120844; 632185, 4120922; 632218, 4120977; 632293, 4121034; 632388, 4121129; 632441, 4121188; 632474, 4121240; 632482, 4121298; 632522, 4121351; 632585, 4121382; 632633, 4121397; 632664, 4121402; 632708, 4121430; 632756, 4121486; 632859, 4121567; 632873, 4121546; 632939, 4121471; 632968, 4121427; 632993, 4121415; 633134, 4121422; 633176, 4121419; 633239, 4121462; 633266, 4121504; 633257, 4121557; 633238, 4121605; 633231, 4121662; 633243, 4121697; 633275, 4121749; 633303, 4121820; 633310, 4121857; 633277, 4121912; 633279, 4121940; 633319, 4121985; 633314, 4122039; 633295, 4122048; 633253, 4122087; 633207, 4122151; 633190, 4122214; 633199, 4122248; 633250, 4122301; 633334, 4122428; 633392, 4122505; 633436, 4122511; 633499, 4122534; 633547, 4122539; 633529, 4122585; 633495, 4122633; 633467, 4122678; 633496, 4122736; 633529, 4122783; 633550, 4122841; 633558, 4122902; 633582, 4122958; 633600, 4123015; 633635, 4123059; 633641, 4123102; 633616, 4123188; 633576, 4123235; 633538, 4123270; 633489, 4123308; 633465, 4123374; 633476, 4123409; 633502, 4123455; 633530, 4123489; 633568, 4123576; 633599, 4123619; 633612, 4123689; 633673, 4123694; 633713, 4123692; 633817, 4123698; 633909, 4123712; 634007, 4123766; 634079, 4123760; 634160, 4123725; 634185, 4123709; 634280, 4123705; 634338, 4123714; 634483, 4123707; 634520, 4123699; 634567, 4123668; 634623, 4123605; 634648, 4123592; 634693, 4123562; 634752, 4123534; 634803, 4123532; 634864, 4123521; 634934, 4123479; 634968, 4123422; 634991, 4123355; 635026, 4123302; 635086, 4123236; 635148, 4123158; 635364, 4123073; 635412, 4123050; 635448, 4123009; 635469, 4122957; 635511, 4122886; 635561, 4122832; 635585, 4122811; 635660, 4122761; 635688, 4122750; 635748, 4122755; 635776, 4122773; 635799, 4122776; 635829, 4122770; 635867, 4122730; 635886, 4122679; 635952, 4122623; 636070, 4122600; 636163, 4122601; 636273, 4122632; 636333, 4122655; 636376, 4122659; 636481, 4122645; 636610, 4122687; 636640, 4122678; 636711, 4122672; 636775, 4122711; 636793, 4122787; 636842, 4122906; 636866, 4122976; 636912, 4123044; 636960, 4123099; 637082, 4123176; 637267, 4123340; 637262, 4123367; 637235, 4123428; 637223, 4123490; 637222, 4123523; 637206, 4123572; 637203, 4123593; 637210, 4123654; 637205, 4123665; 637180, 4123684; 637101, 4123719; 637069, 4123762; 637054, 4123765; 637008, 4123802; 636988, 4123848; 636972, 4123861; 636947, 4123860; 636927, 4123873; 636897, 4123954; 636902, 4123984; 636926, 4124017; 636986, 4124056; 637015, 4124087; 637013, 4124105; 637002, 4124128; 637000, 4124149; 637002, 4124165; 636996, 4124197; 636986, 4124222; 636998, 4124249; 637044, 4124288; 637063, 4124300; 637077, 4124334; 637093, 4124347; 637104, 4124361; 637110, 4124380; 637120, 4124400; 637122, 4124411; 637109, 4124434; 637098, 4124433; 637084, 4124442; 637054, 4124511; 637049, 4124533; 637070, 4124570; 637073, 4124589; 637055, 4124632; 637048, 4124670; 637034, 4124700; 637007, 4124733; 636967, 4124824; 636945, 4124842; 636922, 4124850; 636878, 4124925; 636884, 4124986; 636893, 4124993; 636899, 4125004; 636916, 4125007; 636928, 4125021; 636947, 4125033; 636960, 4125046; 636976, 4125048; 636991, 4125045; 637007, 4125033; 637017, 4125045; 637019, 4125057; 637014, 4125079; 637018, 4125089; 637031, 4125169; 637053, 4125198; 637058, 4125211; 637058, 4125222; 637065, 4125243; 637095, 4125265; 637064, 4125306; 637041, 4125392; 637048, 4125416; 637048, 4125431; 637041, 4125452; 637032, 4125469; 637010, 4125496; 637005, 4125514; 637008, 4125541; 637017, 4125567; 637039, 4125602; 637040, 4125617; 637031, 4125627; 637025, 4125642; 637001, 4125671; 636963, 4125702; 636957, 4125718; 636952, 4125748; 636959, 4125785; 636972, 4125820; 636987, 4125876; 637011, 4125912; 637023, 4125924; 637037, 4125931; 637070, 4125938; 637114, 4125932; 637143, 4125941; 637147, 4125951; 637140, 4125996; 637116, 4126044; 637099, 4126052; 637074, 4126120; 637048, 4126273; 637018, 4126307; 637002, 4126331; 636995, 4126403; 636998, 4126418; 637010, 4126421; 637033, 4126438; 637062, 4126474; 637063, 4126493; 637056, 4126514; 637020, 4126578; 636997, 4126658; 636970, 4126708; 636964, 4126727; 636964, 4126800; 636979, 4126834; 636980, 4126866; 636984, 4126889; 637023, 4126939; 637031, 4126953; 637016, 4127032; 637006, 4127038; 636991, 4127041; 636977, 4127048; 636944, 4127069; 636905, 4127126; 636883, 4127147; 636843, 4127169; 636836, 4127194; 636793, 4127268; 636770, 4127288; 636704, 4127371; 636666, 4127397; 636643, 4127421; 636635, 4127441; 636622, 4127496; 636609, 4127516; 636578, 4127537; 636570, 4127550; 636566, 4127614; 636574, 4127658; 636592, 4127695; 636601, 4127723; 636638, 4127786; 636684, 4127826; 636708, 4127839; 636721, 4127842; 636747, 4127831; 636772, 4127814; 636806, 4127804; 636831, 4127793; 636864, 4127754; 636908, 4127754; 636936, 4127766; 636958, 4127805; 636972, 4127821; 636981, 4127830; 636996, 4127837; 637012, 4127837; 637033, 4127850; 637048, 4127882; 637055, 4127911; 637051, 4127963; 637058, 4127999; 637058, 4128046; 637070, 4128055; 637086, 4128089; 637089, 4128110; 637098, 4128138; 637121, 4128192; 637220, 4128280; 637238, 4128306; 637273, 4128338; 637302, 4128352; 637371, 4128367; 637393, 4128367; 637408, 4128363; 637439, 4128360; 637491, 4128395; 637504, 4128418; 637504, 4128431; 637495, 4128482; 637487, 4128508; 637475, 4128612; 637439, 4128739; 637402, 4128818; 637398, 4128865; 637416, 4128891; 637457, 4128921; 637474, 4128958; 637490, 4128976; 637519, 4128994; 637562, 4129002; 637605, 4129015; 637616, 4129021; 637626, 4129048; 637634, 4129057; 637667, 4129080; 637702, 4129094; 637725, 4129098; 637791, 4129124; 637823, 4129132; 637849, 4129144; 637899, 4129178; 637929, 4129178; 637943, 4129175; 637992, 4129146; 638019, 4129138; 638111, 4129126; 638130, 4129113; 638133, 4129104; 638143, 4129091; 638169, 4129067; 638206, 4129043; 638242, 4129041; 638279, 4129045; 638290, 4129036; 638295, 4129002; 638312, 4128972; 638333, 4128946; 638355, 4128931; 638370, 4128926; 638399, 4128927; 638418, 4128920; 638469, 4128885; 638569, 4128838; 638612, 4128834; 638668, 4128863; 638684, 4128866; 638702, 4128864; 638719, 4128866; 638769, 4128893; 638795, 4128910; 638846, 4128930; 638890, 4128937; 638909, 4128934; 638977, 4128964; 638988, 4128977; 639041, 4129001; 639057, 4129011; 639074, 4129015; 639132, 4129019; 639199, 4129040; 639236, 4129068; 639259, 4129078; 639306, 4129106; 639329, 4129126; 639353, 4129140; 639391, 4129171; 639431, 4129195; 639446, 4129201; 639458, 4129199; 639475, 4129205; 639546, 4129203; 639602, 4129189; 639634, 4129191; 639759, 4129165; 639715, 4128997; 639730, 4128920; 639814, 4128811; 639809, 4128746; 639800, 4128684; 639846, 4128645; 639879, 4128573; 639934, 4128519; 640007, 4128466; 640049, 4128424; 640076, 4128375; 640133, 4128336; 640216, 4128289; 640247, 4128258; 640263, 4128178; 640310, 4128155; 640365, 4128106; 640404, 4128055; 640410, 4128000; 640398, 4127894; 640377, 4127863; 640352, 4127793; 640370, 4127736; 640418, 4127672; 640463, 4127644; 640448, 4127559; 640411, 4127495; 640329, 4127483; 640289, 4127468; 640224, 4127434; 640187, 4127396; 640157, 4127309; 640137, 4127215; 640115, 4127138; 640124, 4127070; 640090, 4127041; 640046, 4127010; 639936, 4126902; 639872, 4126828; 639847, 4126773; 639825, 4126677; 639790, 4126628; 639781, 4126566; 639822, 4126533; 639852, 4126471; 639878, 4126398; 639919, 4126303; 639908, 4126236; 639913, 4126193; 639952, 4126120; 639961, 4126034; 639995, 4125882; 639950, 4125887; 639899, 4125877; 639810, 4125750; 639783, 4125652; 639798, 4125597; 639787, 4125561; 639786, 4125517; 639802, 4125436; 639799, 4125331; 639784, 4125289; 639768, 4125214; 639801, 4125194; 639854, 4125047; 639912, 4124980; 639938, 4124903; 639899, 4124879; 639862, 4124823; 639908, 4124715; 640051, 4124535; 640154, 4124491; 640220, 4124484; 640282, 4124442; 640333, 4124420; 640436, 4124458; 640499, 4124474; 640563, 4124454; 640655, 4124456; 640725, 4124443; 640792, 4124455; 640856, 4124419; 640888, 4124429; 640963, 4124418; 641058, 4124439; 641092, 4124427; 641107, 4124382; 641148, 4124332; 641204, 4124290; 641271, 4124249; 641408, 4124238; 641528, 4124098; 641601, 4124055; 641663, 4124023; 641721, 4124007; 641792, 4124012; 641859, 4123990; 641947, 4123946; 642013, 4123908; 642059, 4123895; 642090, 4123911; 642128, 4123940; 642176, 4123971; 642221, 4124034; 642274, 4124076; 642348, 4124060; 642413, 4124032; 642540, 4124010; 642566, 4124008; 642555, 4123944; 642576, 4123896; 642645, 4123846; 642678, 4123832; 642678, 4123800; 642702, 4123754; 642719, 4123708; 642680, 4123551; 642676, 4123503; 642688, 4123457; 642686, 4123409; 642658, 4123316; 642648, 4123264; 642640, 4123197; 642645, 4123136; 642642, 4123085; 642659, 4123024; 642690, 4122987; 642723, 4122961; 642781, 4122899; 642801, 4122884; 642824, 4122837; 642855, 4122810; 642926, 4122642; 642935, 4122612; 642925, 4122579; 642889, 4122540; 642865, 4122508; 642852, 4122462; 642853, 4122412; 642867, 4122368; 642884, 4122288; 642884, 4122239; 642881, 4122213; 642832, 4122117; 642820, 4122061; 642893, 4121918; 642923, 4121891; 642977, 4121867; 643017, 4121866; 643093, 4121832; 643145, 4121777; 643238, 4121663; 643279, 4121544; 643291, 4121479; 643284, 4121435; 643288, 4121401; 643304, 4121372; 643351, 4121352; 643454, 4121331; 643482, 4121318; 643523, 4121240; 643535, 4121178; 643548, 4121154; 643589, 4121129; 643625, 4121120; 643678, 4121113; 643730, 4121078; 643787, 4121032; 643828, 4121004; 643862, 4120987; 643921, 4120981; 643945, 4120952; 643979, 4120856; 644067, 4120714; 644130, 4120656; 644170, 4120629; 644208, 4120619; 644256, 4120635; 644302, 4120637; 644351, 4120631; 644410, 4120599; 644455, 4120538; 644480, 4120486; 644537, 4120446; 644596, 4120419; 644635, 4120385; 644749, 4120363; 644798, 4120337; 644844, 4120298; 644882, 4120231; 644928, 4120161; 644907, 4120141; 644839, 4120112; 644785, 4120082; 644745, 4120044; 644735, 4120009; 644735, 4119953; 644726, 4119911; 644763, 4119853; 644795, 4119762; 644810, 4119645; 644827, 4119549; 644836, 4119420; 644865, 4119367; 644880, 4119304; 644869, 4119221; 644843, 4119134; 644819, 4119024; 644781, 4118964; 644731, 4118907; 644663, 4118852; 644614, 4118818; 644597, 4118746; 644612, 4118694; 644648, 4118649; 644641, 4118531; 644613, 4118492; 644583, 4118457; 644550, 4118402; 644570, 4118283; 644558, 4118249; 644592, 4118110; 644606, 4118062; 644640, 4117990; 644651, 4117951; 644655, 4117912; 644671, 4117859; 644723, 4117771; 644776, 4117719; 644817, 4117669; 644840, 4117576; 644845, 4117469; 644824, 4117427; 644830, 4117384; 644860, 4117308; 644876, 4117249; 644956, 4117124; 644967, 4117044; 644952, 4116865; 644952, 4116804; 644989, 4116745; 645043, 4116700; 645148, 4116560; 645163, 4116566; 645208, 4116561; 645229, 4116554; 645251, 4116554; 645306, 4116572; 645459, 4116653; 645493, 4116649; 645589, 4116638; 645609, 4116622; 645629, 4116612; 645705, 4116612; 645737, 4116616; 645799, 4116608; 645828, 4116595; 645877, 4116562; 646002, 4116517; 646069, 4116517; 646166, 4116524; 646240, 4116513; 646269, 4116505; 646293, 4116492; 646368, 4116433; 646394, 4116418; 646460, 4116364; 646491, 4116348; 646513, 4116343; 646589, 4116244; 646597, 4116202; 646614, 4116175; 646692, 4116118; 646751, 4116050; 646802, 4116022; 646819, 4116004; 646851, 4115931; 646877, 4115890; 646892, 4115834; 646896, 4115786; 646891, 4115767; 646889, 4115713; 646919, 4115684; 646959, 4115672; 647026, 4115658; 647208, 4115629; 647314, 4115599; 647368, 4115580; 647422, 4115554; 647454, 4115533; 647502, 4115482; 647567, 4115404; 647586, 4115388; 647668, 4115351; 647743, 4115280; 647762, 4115277; 647782, 4115280; 647802, 4115285; 647849, 4115308; 647895, 4115311; 647919, 4115281; 647933, 4115252; 647945, 4115223; 647987, 4115081; 648066, 4114924; 648076, 4114883; 648096, 4114850; 648174, 4114809; 648212, 4114793; 648244, 4114782; 648258, 4114782; 648292, 4114791; 648330, 4114816; 648355, 4114850; 648364, 4114854; 648408, 4114856; 648474, 4114864; 648580, 4114885; 648638, 4114883; 648673, 4114864; 648699, 4114857; 648745, 4114859; 648787, 4114846; 648835, 4114838; 648907, 4114848; 648958, 4114864; 648992, 4114882; 649024, 4114890; 649062, 4114891; 649102, 4114906; 649126, 4114937; 649148, 4114957; 649216, 4114991; 649262, 4115019; 649317, 4115041; 649393, 4115049; 649414, 4115055; 649445, 4115055; 649496, 4115043; 649516, 4115030; 649552, 4115021; 649600, 4115024; 649622, 4115045; 649673, 4115129; 649691, 4115196; 649712, 4115229; 649751, 4115246; 649802, 4115255; 649830, 4115254; 649842, 4115247; 649910, 4115164; 649921, 4115153; 649965, 4115124; 649974, 4115108; 649983, 4115062; 649997, 4115030; 650026, 4115004; 650063, 4114980; 650088, 4114971; 650195, 4114916; 650225, 4114906; 650249, 4114903; 650306, 4114908; 650336, 4114898; 650350, 4114898; 650367, 4114901; 650405, 4114918; 650428, 4114921; 650470, 4114919; 650554, 4114946; 650595, 4114955; 650629, 4114954; 650660, 4114949; 650709, 4114922; 650732, 4114912; 650761, 4114904; 650799, 4114901; 650823, 4114894; 650870, 4114853; 650920, 4114831; 650934, 4114829; 650972, 4114838; 651037, 4114873; 651061, 4114878; 651110, 4114880; 651130, 4114887; 651153, 4114902; 651182, 4114929; 651226, 4114962; 651275, 4115013; 651357, 4115077; 651390, 4115111; 651403, 4115134; 651418, 4115179; 651468, 4115244; 651525, 4115295; 651536, 4115308; 651543, 4115326; 651546, 4115347; 651526, 4115447; 651527, 4115465; 651546, 4115522; 651578, 4115571; 651587, 4115626; 651585, 4115671; 651598, 4115716; 651613, 4115751; 651661, 4115828; 651700, 4115871; 651724, 4115891; 651747, 4115905; 651824, 4115933; 651837, 4115947; 651845, 4115963; 651853, 4116004; 651862, 4116027; 651878, 4116066; 651891, 4116084; 651905, 4116122; 651928, 4116159; 651958, 4116190; 651999, 4116243; 652058, 4116364; 652104, 4116446; 652127, 4116471; 652150, 4116487; 652209, 4116469; 652334, 4116430; 652407, 4116426; 652432, 4116421; 652471, 4116398; 652485, 4116358; 652519, 4116312; 652525, 4116294; 652549, 4116264; 652577, 4116244; 652636, 4116225; 652754, 4116153; 652772, 4116134; 652868, 4115987; 652916, 4115926; 652996, 4115850; 653022, 4115831; 653054, 4115792; 653066, 4115770; 653129, 4115700; 653141, 4115677; 653154, 4115626; 653184, 4115569; 653212, 4115499; 653239, 4115464; 653271, 4115438; 653358, 4115358; 653392, 4115345; 653455, 4115354; 653467, 4115352; 653502, 4115334; 653559, 4115286; 653588, 4115247; 653611, 4115148; 653669, 4115055; 653691, 4115013; 653729, 4114960; 653770, 4114887; 653854, 4114719; 653872, 4114653; 653888, 4114534; 653904, 4114492; 653932, 4114462; 653951, 4114449; 653990, 4114435; 654023, 4114413; 654076, 4114354; 654110, 4114292; 654119, 4114264; 654130, 4114219; 654142, 4114184; 654154, 4114176; 654171, 4114169; 654206, 4114170; 654275, 4114164; 654330, 4114149; 654390, 4114128; 654415, 4114124; 654475, 4114120; 654498, 4114115; 654540, 4114097; 654584, 4114058; 654633, 4114034; 654774, 4114004; 654818, 4114001; 654857, 4114008; 654896, 4114030; 654952, 4114048; 655084, 4114077; 655170, 4114077; 655222, 4114081; 655313, 4114095; 655336, 4114091; 655350, 4114084; 655371, 4114061; 655377, 4114048; 655410, 4114016; 655460, 4113997; 655471, 4113990; 655500, 4113983; 655545, 4113963; 655586, 4113953; 655621, 4113954; 655719, 4113997; 655747, 4114002; 655784, 4113989; 655802, 4113989; 655841, 4113981; 655858, 4113983; 655880, 4113975; 655909, 4113977; 655929, 4113972; 655993, 4113967; 656011, 4113968; 656026, 4113973; 656082, 4113974; 656220, 4113936; 656238, 4113932; 656257, 4113905; 656261, 4113878; 656257, 4113827; 656249, 4113798; 656238, 4113782; 656227, 4113738; 656229, 4113716; 656237, 4113694; 656251, 4113676; 656281, 4113651; 656332, 4113630; 656356, 4113609; 656363, 4113595; 656365, 4113575; 656354, 4113509; 656335, 4113459; 656333, 4113427; 656338, 4113381; 656337, 4113355; 656324, 4113311; 656309, 4113278; 656305, 4113254; 656320, 4113206; 656318, 4113196; 656307, 4113169; 656305, 4113148; 656317, 4113125; 656336, 4113098; 656350, 4113060; 656415, 4112985; 656421, 4112966; 656400, 4112901; 656392, 4112785; 656393, 4112757; 656400, 4112702; 656408, 4112685; 656429, 4112664; 656458, 4112658; 656467, 4112649; 656478, 4112636; 656502, 4112593; 656515, 4112561; 656553, 4112512; 656599, 4112480; 656647, 4112455; 656669, 4112432; 656740, 4112343; 656778, 4112266; 656811, 4112191; 656860, 4112128; 656876, 4112101; 656899, 4112018; 656901, 4112003; 656902, 4111953; 656896, 4111911; 656898, 4111883; 656901, 4111875; 656914, 4111862; 656937, 4111848; 656958, 4111845; 656972, 4111840; 656993, 4111845; 657039, 4111834; 657081, 4111816; 657120, 4111810; 657143, 4111811; 657165, 4111804; 657185, 4111802; 657201, 4111791; 657213, 4111786; 657240, 4111762; 657300, 4111690; 657347, 4111649; 657390, 4111634; 657406, 4111624; 657421, 4111620; 657442, 4111605; 657457, 4111600; 657464, 4111591; 657481, 4111581; 657481, 4111567; 657470, 4111516; 657438, 4111410; 657448, 4111335; 657466, 4111281; 657484, 4111262; 657535, 4111231; 657559, 4111199; 657572, 4111166; 657580, 4111123; 657598, 4111086; 657606, 4111077; 657617, 4111071; 657645, 4111073; 657660, 4111078; 657692, 4111074; 657730, 4111036; 657757, 4110998; 657779, 4110978; 657799, 4110970; 657837, 4110944; 657854, 4110929; 657875, 4110902; 657884, 4110883; 657885, 4110860; 657875, 4110795; 657871, 4110781; 657835, 4110734; 657821, 4110701; 657822, 4110684; 657841, 4110643; 657921, 4110550; 657943, 4110519; 657955, 4110488; 657956, 4110410; 657968, 4110373; 658008, 4110302; 658016, 4110268; 658048, 4110214; 658109, 4110140; 658143, 4110058; 658158, 4110036; 658206, 4110005; 658259, 4109984; 658368, 4109930; 658377, 4109924; 658404, 4109887; 658406, 4109872; 658456, 4109856; 658509, 4109855; 658577, 4109865; 658626, 4109877; 658654, 4109875; 658675, 4109867; 658784, 4109812; 658796, 4109794; 658830, 4109758; 658858, 4109751; 658923, 4109749; 658965, 4109742; 658990, 4109732; 659021, 4109712; 659070, 4109669; 659111, 4109618; 659131, 4109598; 659167, 4109587; 659234, 4109585; 659275, 4109590; 659388, 4109614; 659457, 4109607; 659511, 4109594; 659587, 4109591; 659653, 4109567; 659800, 4109501; 659837, 4109598; 659859, 4109635; 659869, 4109644; 659921, 4109671; 660014, 4109695; 660043, 4109710; 660073, 4109734; 660096, 4109764; 660156, 4109860; 660160, 4109930; 660167, 4109986; 660175, 4110005; 660220, 4110062; 660275, 4110163; 660288, 4110181; 660355, 4110228; 660392, 4110259; 660403, 4110300; 660440, 4110334; 660486, 4110356; 660516, 4110380; 660539, 4110412; 660608, 4110474; 660684, 4110535; 660708, 4110564; 660766, 4110612; 660800, 4110692; 660839, 4110744; 660869, 4110766; 660927, 4110799; 660977, 4110837; 661058, 4110905; 661182, 4110999; 661319, 4111080; 661367, 4111113; 661438, 4111148; 661499, 4111145; 661534, 4111130; 661548, 4111124; 661778, 4111127; 661912, 4111114; 662038, 4111082; 662096, 4111057; 662158, 4111025; 662230, 4111020; 662285, 4111025; 662368, 4111018; 662476, 4110995; 662571, 4110956; 662607, 4110923; 662660, 4110905; 662702, 4110886; 662740, 4110852; 662805, 4110782; 662859, 4110741; 662997, 4110666; 663060, 4110598; 663135, 4110548; 663166, 4110547; 663233, 4110567; 663278, 4110585; 663321, 4110581; 663362, 4110593; 663493, 4110644; 663608, 4110676; 663674, 4110679; 663741, 4110661; 663871, 4110616; 663893, 4110602; 663927, 4110566; 663984, 4110527; 664021, 4110482; 664074, 4110433; 664182, 4110344; 664202, 4110318; 664236, 4110242; 664245, 4110230; 664257, 4110225; 664404, 4110042; 664409, 4110015; 664443, 4109914; 664449, 4109868; 664447, 4109830; 664461, 4109741; 664584, 4109622; 664747, 4109472; 664735, 4109469; 664701, 4109472; 664636, 4109483; 664601, 4109483; 664567, 4109478; 664548, 4109483; 664533, 4109492; 664495, 4109500; 664484, 4109500; 664465, 4109490; 664457, 4109479; 664468, 4109471; 664497, 4109477; 664554, 4109450; 664565, 4109441; 664593, 4109432; 664602, 4109438; 664639, 4109436; 664779, 4109388; 664858, 4109342; 664916, 4109298; 664947, 4109257; 664972, 4109201; 665006, 4109219; 665017, 4109218; 665080, 4109193; 665133, 4109177; 665150, 4109160; 665179, 4109089; 665213, 4109065; 665254, 4109012; 665251, 4109000; 665237, 4108973; 665240, 4108963; 665252, 4108953; 665275, 4108944; 665281, 4108933; 665272, 4108874; 665323, 4108842; 665347, 4108815; 665339, 4108793; 665257, 4108753; 665264, 4108745; 665312, 4108749; 665352, 4108727; 665342, 4108659; 665337, 4108600; 665356, 4108606; 665390, 4108670; 665487, 4108605; 665487, 4108584; 665456, 4108510; 665466, 4108502; 665525, 4108499; 665527, 4108467; 665525, 4108436; 665556, 4108421; 665581, 4108391; 665584, 4108377; 665624, 4108286; 665620, 4108272; 665613, 4108263; 665581, 4108261; 665536, 4108266; 665498, 4108249; 665440, 4108189; 665424, 4108183; 665412, 4108175; 665410, 4108162; 665404, 4108151; 665425, 4108144; 665442, 4108153; 665469, 4108159; 665507, 4108150; 665526, 4108142; 665541, 4108129; 665547, 4108116; 665550, 4108090; 665546, 4108076; 665554, 4108055; 665580, 4108050; 665622, 4108073; 665647, 4108062; 665654, 4108053; 665666, 4108024; 665680, 4107934; 665610, 4107892; 665593, 4107873; 665577, 4107863; 665546, 4107861; 665493, 4107839; 665424, 4107821; 665413, 4107812; 665414, 4107793; 665430, 4107783; 665508, 4107754; 665532, 4107739; 665594, 4107720; 665610, 4107708; 665617, 4107690; 665598, 4107672; 665575, 4107661; 665499, 4107645; 665433, 4107665; 665366, 4107665; 665216, 4107636; 665211, 4107623; 665184, 4107590; 665199, 4107581; 665221, 4107587; 665239, 4107588; 665262, 4107584; 665305, 4107567; 665349, 4107541; 665388, 4107522; 665401, 4107511; 665394, 4107499; 665365, 4107483; 665360, 4107434; 665356, 4107423; 665344, 4107412; 665306, 4107421; 665286, 4107420; 665270, 4107413; 665245, 4107377; 665223, 4107358; 665202, 4107355; 665172, 4107371; 665127, 4107420; 665106, 4107415; 665088, 4107401; 665071, 4107400; 665043, 4107405; 665024, 4107422; 665009, 4107445; 664992, 4107451; 664959, 4107440; 664935, 4107435; 664909, 4107439; 664879, 4107450; 664849, 4107472; 664651, 4107386; 664661, 4107376; 664664, 4107366; 664679, 4107361; 664701, 4107361; 664725, 4107355; 664741, 4107346; 664761, 4107316; 664771, 4107307; 664792, 4107299; 664809, 4107285; 664816, 4107268; 664812, 4107229; 664859, 4107228; 664888, 4107219; 664927, 4107229; 664962, 4107231; 664999, 4107209; 665013, 4107195; 665019, 4107183; 665014, 4107172; 665005, 4107162; 664985, 4107159; 664969, 4107160; 664957, 4107156; 664943, 4107132; 664958, 4107105; 664959, 4107085; 665007, 4107033; 664999, 4106988; 664988, 4106983; 664963, 4106979; 664947, 4106982; 664926, 4106999; 664916, 4107017; 664901, 4107065; 664833, 4107080; 664828, 4107049; 664821, 4107036; 664796, 4107010; 664773, 4106972; 664762, 4106963; 664721, 4106985; 664702, 4107057; 664681, 4107085; 664647, 4107123; 664625, 4107117; 664595, 4107081; 664572, 4107077; 664542, 4107086; 664537, 4107071; 664523, 4107057; 664527, 4107041; 664525, 4106984; 664530, 4106958; 664529, 4106947; 664515, 4106934; 664499, 4106928; 664435, 4106960; 664399, 4106995; 664378, 4107008; 664357, 4107033; 664279, 4107090; 664235, 4107095; 664255, 4107053; 664272, 4106999; 664272, 4106985; 664258, 4106972; 664242, 4106963; 664198, 4106948; 664178, 4106937; 664160, 4106935; 664181, 4106906; 664183, 4106891; 664173, 4106881; 664148, 4106875; 664102, 4106874; 664068, 4106863; 664018, 4106834; 663996, 4106805; 663981, 4106778; 663974, 4106738; 663949, 4106696; 663967, 4106694; 663982, 4106682; 664005, 4106705; 664020, 4106706; 664046, 4106688; 664058, 4106683; 664101, 4106714; 664134, 4106708; 664151, 4106712; 664198, 4106695; 664196, 4106664; 664208, 4106627; 664216, 4106572; 664232, 4106586; 664258, 4106627; 664268, 4106637; 664291, 4106655; 664332, 4106672; 664379, 4106641; 664383, 4106617; 664382, 4106578; 664377, 4106536; 664404, 4106552; 664442, 4106591; 664478, 4106609; 664509, 4106608; 664534, 4106613; 664561, 4106620; 664589, 4106634; 664608, 4106638; 664642, 4106620; 664653, 4106604; 664659, 4106583; 664503, 4106517; 664503, 4106504; 664508, 4106490; 664480, 4106416; 664478, 4106401; 664481, 4106385; 664532, 4106335; 664528, 4106317; 664501, 4106304; 664400, 4106321; 664342, 4106323; 664346, 4106293; 664333, 4106246; 664319, 4106211; 664299, 4106202; 664281, 4106209; 664244, 4106232; 664210, 4106245; 664192, 4106211; 664183, 4106203; 664166, 4106195; 664145, 4106206; 664117, 4106188; 664110, 4106148; 664058, 4106097; 664045, 4106065; 664028, 4106043; 664013, 4106035; 663964, 4106025; 663946, 4106026; 663931, 4106037; 663925, 4106053; 663916, 4106100; 663903, 4106104; 663830, 4106102; 663813, 4106108; 663807, 4106123; 663829, 4106167; 663851, 4106195; 663860, 4106218; 663864, 4106244; 663783, 4106232; 663758, 4106242; 663722, 4106292; 663712, 4106178; 663697, 4106153; 663660, 4106143; 663581, 4106161; 663568, 4106170; 663554, 4106171; 663545, 4106164; 663545, 4106132; 663549, 4106101; 663580, 4106099; 663594, 4106093; 663609, 4106081; 663620, 4106067; 663608, 4106044; 663587, 4106018; 663581, 4105999; 663581, 4105963; 663570, 4105954; 663530, 4105901; 663518, 4105880; 663513, 4105861; 663509, 4105833; 663513, 4105809; 663523, 4105786; 663550, 4105752; 663550, 4105740; 663535, 4105727; 663494, 4105728; 663452, 4105750; 663423, 4105746; 663338, 4105717; 663306, 4105713; 663283, 4105716; 663248, 4105728; 663203, 4105750; 663170, 4105782; 663157, 4105810; 663152, 4105835; 663137, 4105877; 663119, 4105892; 663113, 4105856; 663117, 4105834; 663112, 4105818; 663099, 4105808; 663095, 4105780; 663101, 4105748; 663095, 4105732; 663057, 4105688; 663029, 4105666; 663012, 4105662; 662985, 4105670; 662930, 4105706; 662888, 4105748; 662880, 4105769; 662864, 4105874; 662863, 4105886; 662870, 4105906; 662862, 4105912; 662831, 4105889; 662807, 4105861; 662764, 4105833; 662751, 4105829; 662716, 4105830; 662644, 4105849; 662605, 4105875; 662453, 4105932; 662453, 4105961; 662401, 4105940; 662374, 4105946; 662336, 4105976; 662313, 4105985; 662270, 4105987; 662244, 4105983; 662200, 4105960; 662197, 4105949; 662210, 4105906; 662211, 4105885; 662201, 4105855; 662191, 4105839; 662150, 4105796; 662118, 4105773; 662086, 4105757; 662062, 4105702; 662013, 4105669; 662047, 4105655; 662082, 4105672; 662094, 4105682; 662142, 4105697; 662186, 4105685; 662233, 4105690; 662279, 4105675; 662342, 4105669; 662359, 4105659; 662411, 4105639; 662482, 4105617; 662514, 4105597; 662541, 4105568; 662592, 4105572; 662622, 4105546; 662645, 4105514; 662655, 4105490; 662664, 4105480; 662695, 4105464; 662711, 4105452; 662679, 4105438; 662662, 4105420; 662547, 4105456; 662538, 4105441; 662513, 4105430; 662485, 4105431; 662471, 4105426; 662418, 4105398; 662383, 4105375; 662338, 4105357; 662238, 4105344; 662218, 4105319; 662197, 4105301; 662172, 4105268; 662130, 4105244; 662081, 4105233; 662061, 4105236; 662033, 4105245; 662009, 4105247; 662019, 4105220; 662047, 4105182; 662066, 4105171; 662126, 4105174; 662150, 4105172; 662189, 4105157; 662229, 4105186; 662249, 4105197; 662271, 4105204; 662295, 4105204; 662326, 4105217; 662369, 4105241; 662389, 4105242; 662414, 4105136; 662565, 4105124; 662580, 4105141; 662683, 4105177; 662773, 4105186; 662796, 4105179; 662810, 4105167; 662816, 4105152; 662779, 4105105; 662729, 4105064; 662723, 4105055; 662744, 4105018; 662745, 4104994; 662744, 4104979; 662715, 4104922; 662709, 4104895; 662752, 4104909; 662774, 4104903; 662790, 4104888; 662802, 4104914; 662811, 4104965; 662818, 4104980; 662852, 4105023; 662884, 4105026; 662917, 4105007; 662933, 4105021; 662959, 4105073; 663044, 4105197; 663047, 4105210; 663045, 4105230; 663062, 4105232; 663101, 4105226; 663106, 4105175; 663058, 4105090; 663052, 4105068; 663057, 4104988; 663068, 4104948; 663074, 4104940; 663101, 4104950; 663125, 4104966; 663168, 4104980; 663180, 4105009; 663191, 4105020; 663211, 4105030; 663231, 4105024; 663257, 4104986; 663269, 4104976; 663294, 4104969; 663327, 4104919; 663367, 4104918; 663376, 4104903; 663369, 4104868; 663367, 4104826; 663391, 4104807; 663414, 4104803; 663454, 4104806; 663484, 4104813; 663514, 4104849; 663526, 4104872; 663558, 4104884; 663575, 4104872; 663593, 4104819; 663608, 4104811; 663664, 4104811; 663691, 4104803; 663730, 4104777; 663761, 4104766; 663821, 4104776; 663852, 4104771; 663869, 4104760; 663874, 4104733; 663873, 4104707; 663826, 4104698; 663780, 4104713; 663729, 4104700; 663697, 4104675; 663682, 4104668; 663668, 4104675; 663635, 4104703; 663611, 4104715; 663579, 4104722; 663549, 4104722; 663517, 4104700; 663495, 4104691; 663463, 4104687; 663441, 4104687; 663349, 4104708; 663338, 4104715; 663330, 4104748; 663314, 4104757; 663292, 4104765; 663256, 4104768; 663247, 4104773; 663226, 4104798; 663186, 4104785; 663164, 4104769; 663141, 4104764; 663116, 4104766; 663096, 4104761; 663065, 4104739; 663050, 4104724; 662992, 4104689; 662949, 4104692; 662938, 4104689; 662956, 4104658; 662967, 4104653; 662986, 4104615; 663045, 4104651; 663097, 4104652; 663124, 4104676; 663237, 4104624; 663278, 4104594; 663334, 4104542; 663352, 4104530; 663371, 4104496; 663374, 4104478; 663418, 4104447; 663397, 4104414; 663382, 4104407; 663346, 4104380; 663328, 4104377; 663301, 4104392; 663256, 4104392; 663221, 4104366; 663192, 4104360; 663023, 4104298; 663001, 4104268; 662986, 4104264; 662947, 4104332; 662933, 4104365; 662897, 4104406; 662873, 4104422; 662854, 4104430; 662832, 4104425; 662785, 4104386; 662768, 4104378; 662756, 4104389; 662728, 4104428; 662692, 4104439; 662672, 4104449; 662636, 4104491; 662606, 4104510; 662597, 4104525; 662593, 4104558; 662603, 4104582; 662613, 4104594; 662616, 4104613; 662614, 4104652; 662617, 4104696; 662614, 4104710; 662606, 4104717; 662589, 4104719; 662590, 4104679; 662585, 4104656; 662571, 4104634; 662540, 4104614; 662495, 4104517; 662479, 4104502; 662459, 4104490; 662436, 4104465; 662465, 4104393; 662466, 4104344; 662480, 4104262; 662481, 4104247; 662474, 4104228; 662444, 4104227; 662408, 4104236; 662386, 4104247; 662366, 4104266; 662369, 4104288; 662386, 4104315; 662397, 4104338; 662399, 4104377; 662308, 4104563; 662272, 4104572; 662245, 4104582; 662201, 4104651; 662183, 4104667; 662166, 4104677; 662154, 4104690; 662159, 4104748; 662156, 4104784; 662076, 4104770; 662059, 4104770; 662035, 4104802; 662025, 4104830; 662008, 4104864; 662004, 4104886; 662004, 4104905; 662040, 4104941; 662048, 4104975; 662047, 4104998; 662040, 4105008; 662020, 4105016; 661981, 4105023; 661968, 4105019; 661947, 4104987; 661923, 4104960; 661903, 4104955; 661877, 4104955; 661820, 4104977; 661767, 4105006; 661698, 4105020; 661672, 4105035; 661602, 4105037; 661555, 4105047; 661496, 4105065; 661473, 4105077; 661429, 4105117; 661417, 4105108; 661419, 4105070; 661641, 4104922; 661675, 4104881; 661691, 4104895; 661706, 4104901; 661778, 4104863; 661798, 4104823; 661815, 4104803; 661817, 4104787; 661809, 4104753; 661816, 4104736; 661856, 4104704; 661875, 4104680; 661878, 4104656; 661861, 4104594; 661866, 4104579; 661883, 4104562; 661940, 4104532; 661983, 4104499; 662006, 4104451; 662023, 4104431; 662039, 4104381; 662068, 4104326; 662068, 4104304; 662060, 4104288; 662045, 4104279; 662001, 4104275; 661980, 4104281; 661955, 4104293; 661937, 4104309; 661884, 4104368; 661844, 4104389; 661866, 4104339; 661873, 4104312; 661873, 4104279; 661890, 4104263; 662085, 4104161; 662085, 4104147; 662069, 4104129; 662035, 4104118; 661972, 4104121; 661919, 4104099; 661899, 4104094; 661884, 4104095; 661890, 4104067; 661902, 4104056; 661904, 4104044; 661892, 4104025; 661840, 4103986; 661812, 4103974; 661778, 4103972; 661741, 4103988; 661708, 4103982; 661678, 4103983; 661651, 4103994; 661594, 4104044; 661564, 4104062; 661484, 4104097; 661452, 4104119; 661409, 4104171; 661388, 4104184; 661364, 4104190; 661348, 4104203; 661331, 4104257; 661320, 4104245; 661316, 4104233; 661304, 4104220; 661286, 4104213; 661192, 4104204; 661154, 4104209; 661119, 4104220; 661090, 4104245; 661063, 4104304; 661037, 4104316; 661005, 4104317; 660930, 4104342; 660859, 4104395; 660830, 4104407; 660652, 4104464; 660631, 4104460; 660762, 4104398; 660779, 4104382; 660821, 4104353; 660872, 4104326; 660893, 4104311; 660907, 4104294; 660910, 4104277; 660926, 4104258; 660947, 4104251; 660981, 4104246; 661006, 4104237; 661016, 4104230; 661022, 4104219; 660980, 4104164; 661006, 4104164; 661045, 4104174; 661070, 4104171; 661085, 4104163; 661098, 4104138; 661091, 4104076; 661124, 4104087; 661149, 4104087; 661175, 4104095; 661222, 4104101; 661257, 4104104; 661287, 4104100; 661308, 4104088; 661324, 4104070; 661348, 4104031; 661354, 4103997; 661371, 4103978; 661381, 4104009; 661395, 4104020; 661411, 4104027; 661518, 4104007; 661538, 4103999; 661576, 4103932; 661586, 4103871; 661627, 4103850; 661693, 4103830; 661749, 4103822; 661792, 4103810; 661841, 4103825; 661877, 4103864; 661900, 4103876; 661920, 4103878; 661945, 4103876; 661952, 4103866; 661967, 4103808; 661992, 4103859; 662027, 4103893; 662075, 4103908; 662129, 4103943; 662168, 4103961; 662197, 4103967; 662259, 4103948; 662273, 4103932; 662282, 4103909; 662288, 4103872; 662309, 4103845; 662298, 4103819; 662272, 4103798; 662272, 4103787; 662299, 4103777; 662312, 4103767; 662310, 4103755; 662299, 4103731; 662313, 4103707; 662315, 4103649; 662352, 4103660; 662369, 4103721; 662387, 4103732; 662413, 4103726; 662431, 4103719; 662428, 4103751; 662438, 4103781; 662452, 4103805; 662472, 4103828; 662496, 4103839; 662520, 4103838; 662565, 4103788; 662745, 4103822; 662833, 4103818; 662871, 4103834; 662902, 4103841; 662933, 4103836; 662991, 4103820; 663009, 4103792; 662997, 4103763; 662950, 4103713; 662926, 4103700; 662906, 4103695; 662891, 4103684; 662880, 4103675; 662888, 4103661; 662858, 4103642; 662806, 4103628; 662719, 4103591; 662705, 4103581; 662704, 4103569; 662738, 4103563; 662753, 4103557; 662771, 4103535; 662775, 4103511; 662766, 4103459; 662755, 4103442; 662653, 4103462; 662645, 4103449; 662625, 4103437; 662617, 4103422; 662622, 4103402; 662622, 4103374; 662613, 4103349; 662527, 4103308; 662494, 4103310; 662441, 4103320; 662420, 4103348; 662398, 4103362; 662377, 4103359; 662366, 4103345; 662361, 4103325; 662338, 4103298; 662268, 4103301; 662235, 4103293; 662206, 4103295; 662164, 4103304; 662128, 4103291; 662107, 4103279; 662075, 4103266; 661958, 4103258; 661910, 4103262; 661924, 4103236; 661901, 4103222; 661862, 4103211; 661872, 4103198; 661937, 4103209; 662010, 4103217; 662050, 4103208; 662064, 4103202; 662096, 4103214; 662158, 4103214; 662221, 4103194; 662243, 4103176; 662489, 4103160; 662507, 4103149; 662516, 4103135; 662521, 4103120; 662519, 4103097; 662492, 4103064; 662473, 4103050; 662372, 4102996; 662374, 4102975; 662445, 4102995; 662496, 4102994; 662520, 4102986; 662546, 4102964; 662562, 4102935; 662566, 4102886; 662573, 4102844; 662598, 4102822; 662596, 4102844; 662585, 4102868; 662580, 4102889; 662585, 4102914; 662596, 4102956; 662620, 4103011; 662638, 4103025; 662663, 4103029; 662660, 4103075; 662656, 4103087; 662660, 4103110; 662689, 4103144; 662704, 4103156; 662780, 4103181; 662790, 4103192; 662767, 4103223; 662772, 4103243; 662796, 4103266; 662828, 4103283; 662856, 4103293; 662884, 4103297; 662932, 4103366; 662953, 4103425; 662972, 4103446; 662988, 4103456; 663040, 4103465; 663051, 4103459; 663060, 4103447; 663114, 4103433; 663143, 4103410; 663146, 4103440; 663159, 4103486; 663156, 4103501; 663146, 4103514; 663117, 4103575; 663124, 4103597; 663134, 4103607; 663157, 4103620; 663180, 4103646; 663196, 4103672; 663233, 4103683; 663253, 4103673; 663272, 4103668; 663310, 4103696; 663330, 4103719; 663430, 4103756; 663509, 4103774; 663528, 4103774; 663547, 4103773; 663588, 4103750; 663604, 4103754; 663630, 4103783; 663642, 4103791; 663676, 4103796; 663702, 4103772; 663717, 4103722; 663735, 4103700; 663761, 4103691; 663801, 4103671; 663833, 4103647; 663836, 4103681; 663876, 4103717; 663950, 4103738; 663969, 4103740; 663983, 4103736; 663989, 4103691; 663982, 4103642; 663987, 4103617; 663996, 4103603; 664052, 4103605; 664069, 4103598; 664079, 4103590; 664127, 4103634; 664140, 4103642; 664150, 4103620; 664136, 4103566; 664135, 4103544; 664149, 4103524; 664151, 4103492; 664294, 4103326; 664305, 4103297; 664334, 4103261; 664371, 4103223; 664384, 4103197; 664395, 4103184; 664428, 4103174; 664441, 4103167; 664448, 4103146; 664460, 4103123; 664452, 4103104; 664475, 4103104; 664497, 4103099; 664537, 4103076; 664556, 4103058; 664566, 4103037; 664585, 4102963; 664578, 4102900; 664582, 4102884; 664578, 4102808; 664584, 4102759; 664581, 4102736; 664546, 4102669; 664538, 4102624; 664538, 4102604; 664533, 4102575; 664523, 4102552; 664501, 4102527; 664454, 4102487; 664475, 4102477; 664503, 4102457; 664561, 4102442; 664584, 4102433; 664601, 4102421; 664621, 4102359; 664655, 4102301; 664668, 4102260; 664670, 4102234; 664665, 4102217; 664665, 4102125; 664637, 4102103; 664618, 4102103; 664604, 4102106; 664499, 4102094; 664516, 4102080; 664577, 4102059; 664625, 4102033; 664650, 4101999; 664713, 4101956; 664745, 4101930; 664753, 4101917; 664754, 4101895; 664721, 4101870; 664677, 4101868; 664659, 4101863; 664720, 4101795; 664752, 4101742; 664774, 4101718; 664780, 4101696; 664763, 4101648; 664763, 4101633; 664753, 4101613; 664740, 4101595; 664687, 4101558; 664690, 4101541; 664725, 4101497; 664698, 4101461; 664670, 4101445; 664636, 4101434; 664586, 4101443; 664573, 4101407; 664516, 4101341; 664566, 4101315; 664565, 4101292; 664550, 4101260; 664496, 4101200; 664482, 4101178; 664433, 4101126; 664356, 4101100; 664326, 4101094; 664302, 4101066; 664233, 4100968; 664216, 4100939; 664288, 4100947; 664307, 4100944; 664344, 4100957; 664387, 4100928; 664404, 4100966; 664424, 4100977; 664452, 4100985; 664477, 4100986; 664504, 4100981; 664568, 4100936; 664582, 4100935; 664630, 4100990; 664644, 4100998; 664659, 4100999; 664672, 4100993; 664667, 4100908; 664679, 4100864; 664734, 4100849; 664747, 4100840; 664763, 4100821; 664775, 4100800; 664810, 4100770; 664848, 4100720; 664845, 4100707; 664796, 4100703; 664762, 4100703; 664721, 4100710; 664663, 4100710; 664646, 4100689; 664613, 4100663; 664608, 4100634; 664611, 4100619; 664622, 4100600; 664644, 4100588; 664680, 4100579; 664730, 4100556; 664753, 4100536; 664756, 4100522; 664742, 4100502; 664704, 4100488; 664656, 4100478; 664640, 4100471; 664692, 4100415; 664691, 4100390; 664681, 4100363; 664636, 4100317; 664599, 4100268; 664573, 4100120; 664569, 4100037; 664573, 4100000; 664597, 4099969; 664598, 4099951; 664591, 4099929; 664539, 4099835; 664524, 4099813; 664473, 4099773; 664456, 4099753; 664447, 4099733; 664460, 4099733; 664485, 4099744; 664536, 4099748; 664564, 4099744; 664603, 4099811; 664643, 4099830; 664697, 4099896; 664719, 4099914; 664750, 4099932; 664774, 4099939; 664790, 4099933; 664817, 4099896; 664850, 4099933; 664887, 4099954; 664906, 4099987; 664935, 4099996; 664954, 4099991; 664968, 4099970; 664992, 4099945; 665037, 4099904; 665068, 4099858; 665094, 4099834; 665133, 4099808; 665152, 4099790; 665156, 4099841; 665172, 4099904; 665279, 4100228; 665299, 4100187; 665320, 4100128; 665329, 4100111; 665335, 4100083; 665328, 4100057; 665342, 4099990; 665340, 4099968; 665366, 4099938; 665377, 4099930; 665400, 4099952; 665449, 4099985; 665474, 4099980; 665487, 4099957; 665548, 4099917; 665550, 4099887; 665535, 4099850; 665537, 4099810; 665549, 4099801; 665591, 4099794; 665644, 4099815; 665661, 4099817; 665676, 4099810; 665699, 4099790; 665720, 4099778; 665730, 4099768; 665738, 4099738; 665703, 4099674; 665685, 4099628; 665683, 4099612; 665696, 4099609; 665740, 4099612; 665789, 4099585; 665806, 4099561; 665807, 4099467; 665811, 4099445; 665850, 4099466; 665886, 4099466; 665896, 4099453; 665913, 4099408; 665963, 4099403; 665999, 4099381; 666031, 4099376; 666077, 4099344; 666078, 4099295; 666082, 4099265; 666113, 4099198; 666107, 4099156; 666095, 4099135; 666025, 4099087; 666001, 4099074; 665954, 4099057; 665937, 4099044; 665924, 4099029; 665915, 4099008; 665913, 4098986; 665960, 4099020; 665987, 4099031; 666029, 4099035; 666072, 4099031; 666083, 4099012; 666085, 4098989; 666109, 4099007; 666129, 4099003; 666159, 4099037; 666185, 4099043; 666214, 4099070; 666221, 4099088; 666221, 4099122; 666235, 4099159; 666251, 4099177; 666274, 4099196; 666321, 4099211; 666364, 4099193; 666385, 4099172; 666393, 4099153; 666399, 4099088; 666420, 4099070; 666461, 4099043; 666472, 4099023; 666468, 4098991; 666455, 4098955; 666459, 4098933; 666478, 4098914; 666482, 4098891; 666477, 4098858; 666482, 4098841; 666482, 4098810; 666464, 4098785; 666436, 4098756; 666429, 4098739; 666399, 4098695; 666387, 4098683; 666395, 4098672; 666450, 4098681; 666538, 4098676; 666570, 4098651; 666582, 4098635; 666585, 4098619; 666629, 4098564; 666632, 4098529; 666621, 4098502; 666606, 4098488; 666579, 4098478; 666596, 4098447; 666618, 4098420; 666623, 4098405; 666625, 4098384; 666606, 4098357; 666578, 4098341; 666558, 4098337; 666535, 4098327; 666507, 4098305; 666400, 4098283; 666382, 4098252; 666407, 4098219; 666436, 4098211; 666461, 4098212; 666523, 4098204; 666543, 4098195; 666578, 4098192; 666643, 4098206; 666692, 4098200; 666704, 4098172; 666716, 4098160; 666730, 4098150; 666760, 4098135; 666811, 4098223; 666842, 4098223; 666893, 4098240; 666908, 4098209; 666907, 4098194; 666914, 4098183; 666939, 4098171; 666950, 4098153; 666944, 4098127; 666942, 4098099; 666949, 4098058; 666946, 4098041; 666951, 4098026; 666987, 4098043; 667019, 4098055; 667052, 4098036; 667094, 4098038; 667150, 4098013; 667165, 4097991; 667164, 4097968; 667142, 4097955; 667096, 4097942; 667039, 4097904; 666966, 4097881; 666941, 4097862; 666928, 4097848; 666922, 4097835; 666986, 4097799; 667000, 4097760; 667003, 4097731; 666989, 4097703; 667003, 4097688; 667048, 4097702; 667061, 4097699; 667134, 4097699; 667156, 4097694; 667168, 4097684; 667153, 4097656; 667129, 4097631; 667123, 4097605; 667128, 4097588; 667126, 4097572; 667116, 4097561; 667080, 4097557; 667020, 4097558; 667011, 4097549; 667008, 4097537; 667018, 4097528; 667087, 4097511; 667099, 4097487; 667091, 4097470; 667055, 4097423; 667159, 4097407; 667188, 4097393; 667208, 4097375; 667217, 4097336; 667188, 4097304; 667111, 4097310; 667079, 4097302; 667094, 4097291; 667121, 4097256; 667114, 4097226; 667108, 4097215; 667123, 4097212; 667196, 4097225; 667216, 4097219; 667235, 4097202; 667237, 4097176; 667225, 4097137; 667202, 4097093; 667212, 4097072; 667177, 4096987; 667162, 4096963; 667140, 4096953; 667122, 4096950; 667138, 4096910; 667123, 4096867; 667109, 4096838; 667075, 4096800; 667063, 4096768; 667055, 4096761; 667039, 4096757; 667019, 4096757; 666969, 4096783; 666920, 4096803; 666879, 4096826; 666810, 4096850; 666773, 4096843; 666783, 4096820; 666810, 4096812; 666842, 4096798; 666858, 4096785; 666870, 4096765; 666916, 4096729; 666916, 4096705; 666905, 4096673; 666883, 4096642; 666908, 4096625; 666937, 4096624; 666971, 4096628; 667000, 4096625; 667035, 4096604; 667019, 4096579; 666980, 4096551; 666974, 4096532; 666983, 4096521; 666996, 4096516; 667027, 4096485; 667032, 4096458; 667023, 4096443; 667007, 4096432; 667002, 4096421; 667009, 4096393; 667014, 4096342; 667010, 4096301; 667014, 4096278; 667023, 4096261; 667025, 4096243; 667021, 4096165; 667011, 4096110; 667016, 4096086; 667013, 4096066; 667001, 4096048; 666981, 4096036; 666920, 4096010; 666920, 4095998; 666932, 4095990; 666964, 4095980; 666983, 4095969; 666991, 4095957; 666992, 4095935; 667008, 4095843; 667002, 4095828; 666978, 4095801; 666942, 4095750; 666938, 4095723; 666914, 4095640; 666890, 4095636; 666851, 4095640; 666804, 4095656; 666804, 4095645; 666817, 4095616; 666866, 4095599; 666871, 4095585; 666866, 4095558; 666856, 4095532; 666842, 4095462; 666828, 4095436; 666816, 4095421; 666787, 4095352; 666776, 4095337; 666761, 4095326; 666757, 4095316; 666754, 4095233; 666746, 4095190; 666735, 4095150; 666703, 4095057; 666683, 4095021; 666663, 4094995; 666629, 4094973; 666588, 4094958; 666554, 4094953; 666519, 4094955; 666476, 4094963; 666411, 4094994; 666285, 4095034; 666265, 4095035; 666261, 4095052; 666239, 4095056; 666151, 4095087; 666141, 4095103; 666032, 4095188; 666010, 4095201; 665954, 4095205; 665905, 4095222; 665864, 4095242; 665832, 4095276; 665811, 4095304; 665754, 4095355; 665680, 4095409; 665662, 4095417; 665645, 4095424; 665609, 4095432; 665560, 4095423; 665564, 4095407; 665616, 4095395; 665646, 4095354; 665628, 4095281; 665472, 4095076; 665133, 4094656; 664939, 4094503; 664629, 4094273; 664336, 4094181; 663970, 4094144; 663579, 4094126; 663158, 4094066; 662903, 4094024; 662627, 4093892; 662220, 4093404; 662114, 4093272; 662002, 4093094; 661985, 4092928; 661995, 4092914; 662017, 4092804; 661981, 4092793; 661884, 4092729; 661861, 4092709; 661807, 4092652; 661781, 4092618; 661743, 4092538; 661698, 4092500; 661650, 4092485; 661536, 4092469; 661439, 4092428; 661399, 4092429; 661306, 4092453; 661270, 4092466; 661173, 4092479; 661067, 4092477; 661001, 4092480; 660937, 4092480; 660867, 4092456; 660829, 4092434; 660798, 4092407; 660778, 4092369; 660713, 4092194; 660653, 4092059; 660644, 4092019; 660641, 4091925; 660604, 4091907; 660567, 4091898; 660512, 4091878; 660456, 4091842; 660407, 4091826; 660361, 4091801; 660328, 4091779; 660251, 4091760; 660198, 4091769; 660162, 4091782; 660126, 4091804; 660033, 4091877; 659967, 4092014; 659946, 4092008; 659873, 4091945; 659619, 4091772; 659578, 4091748; 659462, 4091724; 659359, 4091688; 659281, 4091628; 659225, 4091618; 659230, 4091608; 659198, 4091593; 659158, 4091561; 659142, 4091531; 659096, 4091482; 659081, 4091462; 659062, 4091414; 659057, 4091368; 659041, 4091300; 659027, 4091265; 659012, 4091243; 658924, 4091162; 658823, 4091051; 658812, 4091023; 658811, 4091000; 658821, 4090980; 658832, 4090972; 658837, 4090963; 658838, 4090951; 658834, 4090938; 658785, 4090860; 658771, 4090834; 658743, 4090757; 658712, 4090711; 658667, 4090629; 658660, 4090583; 658652, 4090568; 658620, 4090548; 658536, 4090484; 658488, 4090433; 658443, 4090370; 658418, 4090342; 658351, 4090282; 658327, 4090267; 658284, 4090250; 658238, 4090241; 658216, 4090239; 658097, 4090251; 658052, 4090233; 658003, 4090204; 657958, 4090158; 657917, 4090101; 657883, 4090039; 657863, 4090011; 657809, 4089947; 657788, 4089872; 657778, 4089851; 657760, 4089833; 657706, 4089803; 657686, 4089782; 657667, 4089721; 657645, 4089671; 657638, 4089638; 657625, 4089608; 657584, 4089536; 657572, 4089506; 657568, 4089485; 657576, 4089425; 657567, 4089376; 657568, 4089346; 657571, 4089338; 657596, 4089315; 657601, 4089299; 657600, 4089267; 657587, 4089210; 657556, 4089153; 657538, 4089099; 657511, 4089045; 657441, 4088939; 657379, 4088862; 657334, 4088785; 657328, 4088770; 657324, 4088718; 657327, 4088655; 657337, 4088609; 657234, 4088622; 657140, 4088626; 656887, 4088671; 656811, 4088701; 656658, 4088776; 656620, 4088788; 656528, 4088792; 656488, 4088798; 656450, 4088810; 656241, 4088916; 656195, 4088944; 656163, 4088978; 656136, 4089041; 656116, 4089065; 655991, 4089105; 655840, 4089141; 655798, 4089159; 655778, 4089175; 655760, 4089184; 655754, 4089200; 655733, 4089229; 655705, 4089250; 655682, 4089245; 655663, 4089231; 655627, 4089232; 655580, 4089249; 655538, 4089269; 655504, 4089268; 655441, 4089279; 655345, 4089260; 655328, 4089363; 655315, 4089403; 655294, 4089445; 655262, 4089496; 655230, 4089528; 655192, 4089549; 655156, 4089559; 655106, 4089558; 654939, 4089501; 654915, 4089512; 654853, 4089597; 654827, 4089614; 654767, 4089644; 654740, 4089673; 654730, 4089703; 654735, 4089732; 654752, 4089764; 654776, 4089793; 654795, 4089821; 654806, 4089847; 654811, 4089882; 654803, 4089916; 654781, 4089966; 654772, 4089996; 654767, 4090034; 654754, 4090080; 654746, 4090139; 654685, 4090192; 654632, 4090250; 654618, 4090270; 654553, 4090344; 654513, 4090406; 654539, 4090467; 654546, 4090496; 654541, 4090533; 654519, 4090556; 654475, 4090561; 654426, 4090555; 654368, 4090555; 654291, 4090601; 654249, 4090637; 654207, 4090684; 654203, 4090712; 654206, 4090751; 654222, 4090832; 654221, 4090874; 654202, 4090956; 654208, 4091035; 654190, 4091086; 654156, 4091117; 654138, 4091125; 654114, 4091142; 654097, 4091175; 654087, 4091211; 654061, 4091266; 654040, 4091298; 654017, 4091351; 654008, 4091449; 653986, 4091539; 653970, 4091584; 653947, 4091640; 653893, 4091723; 653873, 4091763; 653857, 4091786; 653821, 4091802; 653721, 4091836; 653707, 4091846; 653690, 4091867; 653621, 4092011; 653538, 4092172; 653524, 4092207; 653525, 4092297; 653530, 4092354; 653518, 4092389; 653498, 4092406; 653401, 4092451; 653338, 4092486; 653271, 4092529; 653234, 4092609; 653214, 4092620; 653177, 4092630; 653141, 4092649; 653128, 4092662; 653074, 4092761; 653040, 4092850; 653024, 4092881; 652991, 4092920; 652934, 4092928; 652907, 4092947; 652853, 4093025; 652798, 4093078; 652783, 4093103; 652777, 4093134; 652777, 4093175; 652804, 4093291; 652808, 4093336; 652798, 4093486; 652808, 4093726; 652802, 4093767; 652795, 4093795; 652776, 4093825; 652745, 4093855; 652693, 4093919; 652681, 4093930; 652657, 4093942; 652625, 4093951; 652550, 4093967; 652517, 4093977; 652450, 4094012; 652387, 4094024; 652281, 4094100; 652288, 4094143; 652289, 4094181; 652277, 4094330; 652260, 4094386; 652246, 4094421; 652224, 4094503; 652198, 4094568; 652182, 4094598; 652176, 4094616; 652090, 4094577; 652022, 4094554; 651958, 4094534; 651899, 4094522; 651728, 4094475; 651578, 4094413; 651515, 4094401; 651457, 4094399; 651408, 4094413; 651373, 4094431; 651335, 4094442; 651294, 4094433; 651255, 4094406; 651232, 4094370; 651222, 4094337; 651200, 4094306; 651151, 4094270; 651093, 4094235; 651041, 4094194; 651013, 4094157; 651004, 4094103; 651017, 4094052; 651021, 4094006; 651001, 4093942; 650966, 4093871; 650949, 4093811; 650944, 4093750; 650935, 4093717; 650910, 4093678; 650893, 4093630; 650835, 4093535; 650820, 4093498; 650831, 4093468; 650849, 4093437; 650856, 4093402; 650849, 4093371; 650841, 4093351; 650838, 4093313; 650846, 4093283; 650846, 4093238; 650834, 4093186; 650782, 4093070; 650770, 4093055; 650746, 4093040; 650719, 4093016; 650679, 4093015; 650656, 4093036; 650618, 4093083; 650591, 4093088; 650554, 4093085; 650481, 4093064; 650437, 4093063; 650393, 4093077; 650351, 4093098; 650334, 4093115; 650309, 4093166; 650294, 4093186; 650262, 4093222; 650233, 4093234; 650149, 4093218; 650039, 4093208; 649994, 4093186; 649966, 4093161; 649927, 4093137; 649891, 4093131; 649849, 4093130; 649833, 4093124; 649797, 4093136; 649779, 4093177; 649758, 4093257; 649647, 4093473; 649600, 4093531; 649569, 4093559; 649500, 4093612; 649461, 4093632; 649281, 4093710; 649255, 4093739; 649244, 4093769; 649225, 4093845; 649206, 4093882; 649182, 4093907; 649152, 4093931; 649077, 4093978; 649042, 4093991; 649003, 4093999; 648967, 4094016; 648947, 4094034; 648920, 4094069; 648844, 4094187; 648827, 4094228; 648811, 4094276; 648789, 4094323; 648767, 4094350; 648732, 4094373; 648648, 4094405; 648575, 4094420; 648465, 4094423; 648437, 4094445; 648419, 4094467; 648381, 4094533; 648360, 4094556; 648333, 4094574; 648287, 4094611; 648278, 4094715; 648258, 4094813; 648256, 4094848; 648259, 4094935; 648270, 4094979; 648270, 4095011; 648258, 4095046; 648232, 4095103; 648203, 4095191; 648182, 4095217; 648143, 4095230; 648062, 4095238; 648033, 4095245; 648003, 4095246; 647955, 4095237; 647780, 4095183; 647499, 4095104; 647399, 4095096; 647363, 4095066; 647350, 4095029; 647330, 4095013; 647287, 4095007; 647223, 4095003; 647184, 4094996; 647163, 4094988; 647080, 4094942; 647047, 4094899; 647045, 4094843; 647036, 4094813; 647028, 4094802; 646993, 4094807; 646925, 4094831; 646907, 4094833; 646891, 4094825; 646883, 4094817; 646858, 4094755; 646828, 4094737; 646811, 4094723; 646803, 4094707; 646809, 4094653; 646805, 4094640; 646791, 4094618; 646704, 4094580; 646685, 4094566; 646659, 4094540; 646647, 4094535; 646479, 4094519; 646443, 4094511; 646404, 4094494; 646396, 4094473; 646368, 4094437; 646329, 4094408; 646273, 4094380; 646195, 4094346; 646077, 4094318; 646043, 4094286; 646026, 4094247; 646032, 4094221; 646092, 4094205; 646117, 4094190; 646141, 4094157; 646151, 4094129; 646180, 4094087; 646315, 4093942; 646397, 4093886; 646447, 4093863; 646451, 4093853; 646455, 4093814; 646432, 4093696; 646414, 4093639; 646394, 4093611; 646335, 4093589; 646328, 4093581; 646332, 4093557; 646344, 4093522; 646369, 4093496; 646424, 4093474; 646469, 4093433; 646488, 4093398; 646498, 4093347; 646491, 4093247; 646509, 4093052; 646498, 4093008; 646483, 4092981; 646460, 4092952; 646435, 4092908; 646444, 4092882; 646455, 4092869; 646471, 4092827; 646488, 4092740; 646467, 4092637; 646468, 4092604; 646482, 4092531; 646480, 4092484; 646468, 4092456; 646431, 4092418; 646392, 4092395; 646345, 4092375; 646148, 4092347; 646078, 4092346; 646012, 4092339; 645969, 4092328; 645936, 4092310; 645913, 4092286; 645862, 4092211; 645699, 4092038; 645666, 4092008; 645651, 4091987; 645633, 4091887; 645619, 4091861; 645591, 4091838; 645531, 4091804; 645512, 4091788; 645494, 4091762; 645482, 4091728; 645473, 4091686; 645459, 4091523; 645436, 4091524; 645408, 4091549; 645381, 4091594; 645339, 4091713; 645275, 4091869; 645227, 4091970; 645175, 4092033; 645113, 4092095; 645004, 4092183; 644956, 4092226; 644920, 4092273; 644889, 4092333; 644865, 4092425; 644867, 4092489; 644874, 4092574; 644900, 4092639; 644952, 4092705; 645061, 4092813; 645090, 4092892; 645114, 4093008; 645124, 4093148; 645133, 4093200; 645133, 4093347; 645128, 4093410; 645086, 4093593; 645063, 4093671; 644973, 4093878; 644895, 4094099; 644881, 4094159; 644836, 4094483; 644829, 4094557; 644826, 4094626; 644830, 4094741; 644826, 4094861; 644816, 4095023; 644795, 4095094; 644776, 4095194; 644770, 4095291; 644777, 4095353; 644799, 4095419; 644852, 4095537; 644791, 4095610; 644747, 4095663; 644692, 4095730; 644622, 4095672; 644540, 4095771; 644385, 4095788; 644150, 4095515; 643946, 4095197; 643827, 4095010; 643759, 4094905; 643681, 4094923; 643710, 4094854; 643774, 4094766; 643804, 4094673; 643829, 4094552; 643835, 4094430; 643852, 4094328; 643851, 4094266; 643863, 4094207; 643885, 4094149; 643916, 4094106; 643947, 4094039; 643958, 4094024; 643984, 4093998; 644020, 4093970; 644036, 4093946; 644070, 4093812; 644082, 4093749; 644050, 4093541; 644036, 4093485; 644014, 4093421; 643986, 4093357; 643905, 4093217; 643894, 4093161; 643897, 4093102; 643915, 4092978; 643947, 4092835; 643950, 4092794; 643943, 4092735; 643917, 4092684; 643886, 4092646; 643807, 4092573; 643778, 4092536; 643763, 4092502; 643769, 4092443; 643778, 4092414; 643794, 4092377; 643841, 4092295; 643858, 4092250; 643871, 4092197; 643878, 4092150; 643876, 4092111; 643879, 4092080; 643907, 4092011; 643893, 4091923; 643903, 4091787; 643904, 4091716; 643888, 4091663; 643864, 4091630; 643836, 4091605; 643738, 4091561; 643717, 4091546; 643704, 4091517; 643720, 4091498; 643796, 4091437; 643902, 4091318; 643918, 4091294; 643926, 4091254; 643919, 4091216; 643876, 4091197; 643795, 4091195; 643734, 4091202; 643682, 4091200; 643648, 4091183; 643633, 4091169; 643636, 4091144; 643732, 4091108; 643768, 4091091; 643785, 4091064; 643805, 4091010; 643823, 4090973; 643887, 4090953; 643903, 4090941; 643942, 4090897; 643992, 4090806; 644012, 4090735; 644009, 4090683; 644000, 4090653; 643980, 4090610; 643957, 4090587; 643928, 4090568; 643886, 4090569; 643775, 4090550; 643740, 4090548; 643593, 4090566; 643539, 4090583; 643417, 4090608; 643324, 4090648; 643221, 4090701; 643117, 4090722; 643062, 4090726; 643009, 4090748; 642983, 4090778; 642950, 4090790; 642930, 4090785; 642896, 4090765; 642814, 4090752; 642714, 4090758; 642577, 4090806; 642535, 4090824; 642452, 4090870; 642416, 4090898; 642377, 4090934; 642352, 4090963; 642329, 4091001; 642311, 4091058; 642293, 4091095; 642261, 4091129;

642231, 4091152; 642074, 4091296; 642036, 4091324; 641917, 4091455; 641881, 4091523; 641861, 4091555; 641838, 4091579; 641797, 4091606;

641730, 4091638; 641682, 4091645; 641651, 4091653; 641620, 4091674; 641587, 4091704; 641551, 4091745; 641537, 4091777; 641518, 4091805; 641438, 4091843; 641374, 4091904; 641333, 4091925; 641284, 4091928; 641216, 4091951; 641183, 4091982; 641175, 4092075; 641183, 4092113; 641176, 4092144; 641152, 4092219; 641134, 4092290; 641094, 4092352; 641084, 4092390; 641090, 4092438; 641157, 4092493; 641184, 4092487; 641216, 4092469; 641350, 4092414; 641285, 4092587; 641267, 4092622; 641247, 4092641; 641153, 4092658; 641105, 4092669; 641057, 4092687; 641038, 4092708; 641018, 4092746; 641013, 4092776; 641017, 4092811; 641131, 4093054; 641160, 4093123; 641180, 4093187; 641181, 4093223; 641167, 4093248; 641149, 4093270; 641116, 4093287; 641080, 4093296; 641050, 4093294; 641015, 4093270; 640965, 4093198; 640939, 4093172; 640907, 4093150; 640853, 4093121; 640801, 4093088; 640742, 4093080; 640702, 4093088; 640674, 4093099; 640609, 4093141; 640556, 4093192; 640520, 4093221; 640492, 4093229; 640465, 4093228; 640451, 4093220; 640439, 4093188; 640444, 4093145; 640438, 4093107; 640423, 4093083; 640405, 4093063; 640365, 4093044; 640312, 4093032; 640266, 4093026; 640120, 4093026; 640027, 4093016; 639829, 4092971; 639774, 4092965; 639702, 4092949; 639627, 4092950; 639578, 4092956; 639512, 4092976; 639712, 4093226; 639850, 4093586; 639887, 4093759; 639939, 4093906; 639963, 4094164; 639973, 4094495; 639965, 4094799; 640079, 4095069; 640242, 4095348; 640309, 4095610; 640286, 4095886; 640254, 4095996; 640253, 4096015; 640259, 4096041; 640266, 4096109; 640262, 4096145; 640251, 4096181; 640232, 4096219; 640203, 4096262; 640105, 4096364; 640073, 4096388; 640019, 4096418; 639893, 4096454; 639856, 4096470; 639816, 4096495; 639754, 4096561; 639736, 4096573; 639696, 4096584; 639387, 4096626; 639364, 4096683; 639344, 4096722; 639315, 4096757; 639256, 4096810; 639215, 4096834; 639176, 4096835; 639155, 4096827; 639083, 4096737; 639058, 4096717; 639025, 4096698; 638998, 4096692; 638935, 4096697; 638848, 4096723; 638704, 4096741; 638692, 4096748; 638669, 4096772; 638645, 4096807; 638639, 4096853; 638641, 4096872; 638654, 4096896; 638673, 4096920; 638708, 4096960; 638750, 4097000; 638812, 4097080; 638829, 4097105; 638840, 4097137; 638817, 4097151; 638751, 4097181; 638677, 4097221; 638646, 4097245; 638618, 4097256; 638540, 4097271; 638496, 4097275; 638476, 4097272; 638440, 4097260; 638400, 4097265; 638220, 4097375; 638182, 4097400; 638146, 4097414; 638129, 4097426; 638121, 4097501; 638111, 4097528; 638096, 4097549; 638060, 4097579; 637965, 4097630; 637947, 4097647; 637926, 4097681; 637874, 4097794; 637850, 4097825; 637830, 4097864; 637813, 4097912; 637802, 4097960; 637788, 4097994; 637775, 4098050; 637786, 4098085; 637798, 4098104; 637902, 4098238; 637922, 4098248; 637951, 4098258; 637979, 4098262; 638023, 4098260; 638059, 4098263; 638085, 4098309; 638094, 4098333; 638111, 4098409; 638066, 4098380; 638007, 4098366; 637978, 4098370; 637944, 4098381; 637880, 4098404; 637863, 4098416; 637842, 4098446; 637802, 4098534; 637794, 4098559; 637792, 4098588; 637784, 4098633; 637776, 4098660; 637761, 4098693; 637740, 4098725; 637701, 4098762; 637679, 4098771; 637637, 4098771; 637605, 4098767; 637237, 4098867; 637173, 4098908; 637126, 4098924; 637077, 4098932; 637028, 4098949; 636983, 4098968; 636911, 4099009; 636845, 4099033; 636815, 4099039; 636776, 4099040; 636662, 4099005; 636617, 4099000; 636581, 4099001; 636432, 4099017; 636390, 4099025; 636346, 4099036; 636310, 4099051; 636248, 4099084; 636221, 4099088; 636176, 4099089; 636093, 4099081; 636011, 4099096; 635975, 4099105; 635850, 4099168; 635725, 4099252; 635689, 4099296; 635680, 4099316; 635671, 4099376; 635675, 4099404; 635665, 4099487; 635619, 4099720; 635621, 4099744; 635627, 4099761; 635665, 4099830; 635663, 4099862; 635645, 4099899; 635601, 4099940; 635587, 4099960; 635568, 4100061; 635546, 4100125; 635507, 4100170; 635489, 4100185; 635453, 4100204; 635419, 4100212; 635388, 4100212; 635368, 4100207; 635302, 4100179; 635277, 4100183; 635251, 4100208; 635152, 4100370; 635125, 4100421; 635112, 4100455; 635099, 4100516; 635087, 4100546; 635073, 4100567; 635010, 4100638; 634956, 4100712; 634941, 4100743; 634925, 4100806; 634884, 4100857; 634852, 4100876; 634823, 4100890; 634757, 4100903; 634726, 4100913; 634696, 4100933; 634608, 4101021; 634567, 4101079; 634551, 4101110; 634536, 4101166; 634514, 4101230; 634485, 4101292; 634392, 4101417; 634335, 4101459; 634051, 4101579; 634028, 4101603; 633977, 4101707; 633905, 4101812; 633863, 4101853; 633797, 4101901; 633775, 4101928; 633726, 4102017; 633715, 4102052; 633710, 4102096; 633732, 4102194; 633729, 4102225; 633722, 4102251; 633629, 4102377; 633591, 4102451; 633535, 4102547; 633521, 4102565; 633390, 4102570; 633161, 4102566; 632829, 4102548; 632652, 4102572; 632606, 4102597; 632609, 4102608; 632783, 4103163; 632609, 4103693; 632399, 4104333; 632239, 4104397; 632016, 4104422; 631840, 4104442; 631719, 4104456; 631546, 4104625; 631381, 4104683; 631235, 4104733; 631213, 4104741; 631213, 4104742; 631161, 4104817; 631157, 4104921; 631088, 4104991; 631069, 4105021; 630977, 4105063; 630964, 4105109; 630928, 4105159; 630778, 4105330; 630643, 4105544; 630607, 4105579; 630482, 4105607; 630435, 4105645; 630439, 4105719; 630471, 4105788; 630468, 4105831; 630383, 4105962; 630338, 4106070; 630318, 4106184; 630241, 4106257; 630238, 4106310; 630245, 4106323; 630237, 4106356; 630165, 4106449; 630126, 4106476; 630047, 4106505; 630003, 4106545; 629930, 4106709; 629870, 4106820; 629714, 4107029; 629624, 4107272; 629557, 4107390; 629544, 4107573; 629498, 4107755; 629459, 4107833; 629466, 4107866; 629458, 4107886; 629394, 4107941; 629373, 4107994; 629353, 4108126; 629308, 4108227; 629233, 4108310; 629141, 4108357; 629108, 4108410; 629096, 4108493; 629090, 4108590; 629053, 4108846; 629052, 4108947; 629064, 4108991; 629083, 4109024; 629149, 4109061; 629174, 4109120; 629183, 4109142; 629140, 4109134; 629062, 4109075; 629009, 4109066; 628948, 4109076; 628796, 4108906; 628778, 4108875; 628782, 4108819; 628782, 4108817; 628761, 4108814; 628625, 4108893; 628568, 4108994; 628416, 4109039; 628410, 4109210; 628402, 4109420; 628321, 4109540; 628314, 4109750; 628251, 4109890; 628105, 4109947; 628022, 4110080; 628010, 4110233; 627933, 4110391; 627819, 4110525; 627503, 4110893; 627469, 4110933; 627423, 4110926; returning to 627388, 4110977.

(ii) Note: Unit STC-2 for California red-legged frog is depicted on the map in paragraph (31)(ii) of this entry.

(33) Unit SCZ-1: Santa Cruz and San Mateo Counties, California. From USGS 1:24,000 scale quadrangles Franklin Point, Ano Nuevo, Big Basin, Davenport, Felton and Santa Cruz.

(i) Land bounded by the following UTM zone 10, NAD 1983 coordinates (E, N): 563662, 4115064; 563667, 4115075; 563692, 4115094; 563902, 4115237; 563912, 4115269; 563915, 4115297; 563907, 4115324; 563879, 4115395; 563879, 4115420; 563893, 4115488; 563911, 4115516; 563931, 4115559; 563919, 4115586; 563896, 4115615; 563887, 4115633; 563883, 4115663; 563895, 4115727; 563930, 4115822; 563964, 4115960; 563970, 4115971; 563997, 4115986; 564026, 4116009; 564045, 4116048; 564046, 4116065; 564041, 4116095; 564051, 4116151; 564048, 4116217; 564057, 4116247; 564109, 4116317; 564134, 4116372; 564140, 4116453; 564374, 4116466; 564414, 4116466; 564468, 4116436; 564501, 4116430; 564544, 4116434; 564644, 4116464; 564654, 4116464; 564701, 4116455; 564719, 4116464; 564742, 4116504; 564744, 4116560; 564749, 4116592; 564765, 4116618; 564785, 4116639; 564806, 4116658; 564832, 4116671; 564870, 4116675; 564949, 4116674; 564995, 4116680; 565091, 4116711; 565139, 4116715; 565217, 4116711; 565262, 4116712; 565324, 4116734; 565388, 4116765; 565425, 4116788; 565473, 4116833; 565568, 4116963; 565602, 4117017; 565629, 4117053; 565671, 4117091; 565691, 4117101; 565764, 4117113; 565809, 4117126; 565842, 4117144; 565864, 4117160; 565894, 4117190; 565912, 4117224; 565921, 4117260; 565926, 4117424; 565922, 4117488; 565923, 4117518; 565927, 4117536; 565933, 4117544; 565994, 4117568; 566026, 4117590; 566051, 4117615; 566064, 4117634; 566077, 4117664; 566096, 4117726; 566110, 4117736; 566126, 4117746; 566252, 4117727; 566304, 4117724; 566344, 4117746; 566366, 4117774; 566388, 4117819; 566404, 4117833; 566431, 4117845; 566506, 4117862; 566576, 4117892; 566876, 4118079; 567036, 4118184; 567262, 4118281; 567499, 4118333; 567542, 4118410; 567555, 4118439; 567576, 4118522; 567590, 4118548; 567626, 4118595; 567703, 4118680; 567720, 4118702; 567733, 4118731; 567746, 4118785; 567739, 4118816; 567728, 4118838; 567699, 4118870; 567699, 4118905; 567704, 4118933; 567721, 4118962; 567778, 4119012; 567822, 4119027; 567860, 4119052; 567892, 4119087; 567911, 4119100; 567942, 4119114; 567965, 4119114; 568006, 4119097; 568043, 4119063; 568067, 4119030; 568169, 4118976; 568274, 4118928; 568345, 4118909; 568430, 4118898; 568488, 4118910; 568652, 4118929; 568762, 4118969; 568788, 4118975; 568881, 4118980; 568925, 4118963; 568939, 4118954; 569151, 4119022; 569178, 4119043; 569189, 4119056; 569201, 4119087; 569218, 4119108; 569250, 4119121; 569260, 4119124; 569342, 4119115; 569394, 4119096; 569422, 4119083; 569457, 4119060; 569476, 4119040; 569500, 4119006; 569550, 4118912; 569571, 4118885; 569645, 4118843; 569718, 4118828; 569845, 4118763; 569870, 4118747; 569927, 4118701; 569977, 4118646; 570016, 4118598; 570045, 4118521; 570191, 4118236; 570208, 4118221; 570311, 4118163; 570347, 4118137; 570386, 4118132; 570410, 4118109; 570454, 4118088; 570505, 4118044; 570525, 4118006; 570558, 4117929; 570634, 4117797; 570662, 4117740; 570716, 4117657; 570755, 4117604; 570835, 4117499; 570849, 4117476; 570864, 4117449; 570878, 4117415; 570901, 4117346; 570922, 4117312; 570943, 4117295; 571012, 4117252; 571173, 4117170; 571298, 4117093; 571397, 4117048; 571428, 4117029; 571458, 4117009; 571481, 4116977; 571499, 4116937; 571522, 4116857; 571527, 4116831; 571532, 4116732; 571527, 4116694; 571514, 4116632; 571510, 4116573; 571511, 4116552; 571543, 4116480; 571552, 4116437; 571546, 4116349; 571558, 4116314; 571608, 4116227; 571654, 4116136; 571667, 4116105; 571674, 4116042; 571676, 4115991; 571672, 4115971; 571662, 4115942; 571630, 4115880; 571624, 4115844; 571669, 4115767; 571686, 4115724; 571746, 4115605; 571796, 4115532; 571815, 4115499; 571834, 4115456; 571845, 4115417; 571855, 4115334; 571896, 4115211; 571953, 4114989; 572014, 4114800; 572012, 4114753; 571999, 4114663; 571958, 4114557; 571923, 4114506; 571828, 4114434; 571724, 4114348; 571707, 4114327; 571686, 4114278; 571692, 4114244; 571700, 4114232; 571726, 4114208; 571749, 4114151; 571758, 4114121; 571770, 4114100; 571784, 4114094; 571813, 4114096; 571872, 4114050; 571881, 4114009; 571885, 4113966; 571891, 4113944; 571903, 4113921; 571928, 4113887; 571967, 4113841; 572001, 4113808; 572071, 4113759; 572122, 4113716; 572145, 4113691; 572186, 4113625; 572216, 4113567; 572238, 4113541; 572276, 4113525; 572323, 4113512; 572410, 4113497; 572422, 4113471; 572383, 4113428; 572336, 4113412; 572275, 4113380; 572228, 4113335; 572190, 4113291; 572161, 4113244; 572075, 4113071; 572014, 4112994; 571998, 4112958; 571991, 4112934; 571988, 4112881; 571989, 4112800; 571986, 4112755; 571996, 4112696; 572027, 4112629; 572028, 4112600; 572021, 4112582; 572009, 4112567; 571947, 4112509; 571938, 4112494; 571940, 4112466; 571948, 4112437; 571959, 4112410; 571975, 4112386; 572018, 4112345; 572041, 4112328; 572068, 4112314; 572132, 4112292; 572159, 4112277; 572171, 4112263; 572180, 4112230; 572170, 4112210; 572103, 4112163; 572050, 4112088; 572014, 4112052; 571972, 4112026; 571814, 4111972; 571788, 4111956; 571722, 4111803; 571547, 4111693; 571522, 4111664; 571497, 4111620; 571470, 4111561; 571456, 4111512; 571426, 4111382; 571423, 4111356; 571424, 4111332; 571432, 4111298; 571444, 4111280; 571469, 4111259; 571515, 4111233; 571556, 4111218; 571606, 4111211; 571724, 4111223; 571802, 4111216; 571831, 4111207; 571862, 4111180; 571879, 4111147; 571892, 4111083; 571903, 4111055; 571921, 4111027; 571945, 4111012; 572021, 4111002; 572063, 4111003; 572126, 4110986; 572167, 4110972; 572204, 4110949; 572241, 4110933; 572296, 4110916; 572331, 4110890; 572355, 4110861; 572368, 4110819; 572388, 4110707; 572400, 4110669; 572414, 4110651; 572449, 4110629; 572498, 4110608; 572554, 4110590; 572605, 4110576; 572665, 4110563; 572839, 4110552; 573032, 4110522; 573076, 4110505; 573140, 4110458; 573169, 4110441; 573210, 4110425; 573262, 4110418; 573344, 4110420; 573396, 4110412; 573458, 4110388; 573515, 4110339; 573540, 4110302; 573552, 4110252; 573554, 4110208; 573551, 4110105; 573563, 4110038; 573581, 4110001; 574008, 4109548; 574046, 4109512; 574121, 4109418; 574201, 4109302; 574259, 4109225; 574309, 4109172; 574406, 4109083; 574432, 4109053; 574480, 4109021; 574544, 4108993; 574624, 4108947; 574685, 4108907; 574738, 4108862; 574768, 4108825; 574808, 4108758; 574846, 4108732; 574865, 4108687; 574856, 4108641; 574863, 4108591; 574881, 4108547; 574905, 4108510; 574986, 4108405; 574995, 4108383; 575016, 4108306; 575024, 4108261; 575038, 4108150; 575046, 4108042; 575057, 4107958; 575066, 4107912; 575088, 4107850; 575127, 4107794; 575155, 4107762; 575185, 4107736; 575247, 4107709; 575309, 4107701; 575475, 4107685; 575542, 4107691; 575593, 4107674; 575616, 4107666; 575656, 4107635; 575683, 4107604; 575733, 4107560; 575832, 4107485; 575988, 4107360; 576142, 4107244; 576185, 4107177; 576215, 4107121; 576226, 4107082; 576262, 4107009; 576316, 4106913; 576342, 4106833; 576353, 4106758; 576360, 4106693; 576359, 4106540; 576364, 4106472; 576396, 4106355; 576418, 4106299; 576456, 4106126; 576449, 4106015; 576457, 4105969; 576466, 4105866; 576479, 4105817; 576485, 4105779; 576491, 4105706; 576477, 4105659; 576458, 4105615; 576441, 4105565; 576417, 4105523; 576403, 4105491; 576378, 4105400; 576374, 4105368; 576464, 4105110; 576543, 4104969; 576567, 4104893; 576623, 4104807; 576642, 4104751; 576678, 4104690; 576710, 4104644; 576751, 4104610; 576849, 4104580; 576898, 4104558; 576955, 4104520; 577006, 4104480; 577043, 4104442; 577078, 4104398; 577093, 4104337; 577095, 4104243; 577090, 4104188; 577076, 4104095; 577074, 4104056; 577058, 4103987; 577031, 4103935; 577002, 4103850; 576991, 4103801; 576985, 4103755; 576987, 4103704; 576995, 4103644; 577025, 4103615; 577077, 4103572; 577258, 4103434; 577434, 4103253; 577494, 4103212; 577533, 4103179; 577561, 4103149; 577654, 4103110; 577688, 4103089; 577700, 4103067; 577766, 4103015; 577790, 4102979; 577833, 4102926; 577880, 4102887; 577935, 4102819; 577980, 4102773; 578028, 4102717; 578146, 4102420; 578095, 4102358; 578061, 4102291; 578044, 4102211; 578030, 4102169; 578035, 4102137; 578077, 4102090; 578091, 4102066; 578087, 4101987; 578047, 4101959; 578003, 4101939; 577901, 4101909; 577874, 4101885; 577865, 4101849; 577887, 4101790; 577939, 4101710; 577950, 4101676; 577985, 4101657; 578014, 4101613; 578026, 4101589; 578036, 4101555; 578067, 4101506; 578093, 4101484; 578161, 4101440; 578202, 4101439; 578232, 4101429; 578273, 4101407; 578286, 4101376; 578307, 4101347; 578377, 4101285; 578410, 4101243; 578446, 4101130; 578460, 4101096; 578469, 4101051; 578482, 4101025; 578546, 4100957; 578603, 4100934; 578637, 4100917; 578658, 4100869; 578662, 4100834; 578656, 4100805; 578676, 4100736; 578682, 4100701; 578710, 4100675; 578804, 4100569; 578838, 4100501; 578865, 4100465; 578900, 4100432; 578962, 4100397; 579103, 4100341; 579150, 4100310; 579322, 4100254; 579396, 4100198; 579434, 4100153; 579467, 4100087; 579480, 4100023; 579488, 4099773; 579474, 4099705; 579469, 4099660; 579426, 4099552; 579410, 4099528; 579426, 4099493; 579481, 4099471; 579516, 4099446; 579530, 4099383; 579486, 4099239; 579477, 4099184; 579486, 4099152; 579509, 4099102; 579533, 4099085; 579561, 4099035; 579576, 4098876; 579589, 4098829; 579660, 4098745; 579741, 4098675; 579762, 4098630; 579785, 4098612; 579846, 4098593; 579871, 4098566; 579902, 4098495; 579908, 4098443; 579957, 4098355; 580000, 4098303; 580021, 4098289; 580052, 4098261; 580116, 4098221; 580144, 4098195; 580193, 4098159; 580330, 4098160; 580391, 4098128; 580426, 4098102; 580541, 4098111; 580617, 4098099; 580669, 4098106; 580710, 4098113; 580776, 4098143; 580861, 4098168; 580942, 4098170; 581010, 4098149; 581168, 4098063; 581252, 4097957; 581282, 4097911; 581422, 4097753; 581459, 4097714; 581517, 4097668; 581565, 4097619; 581616, 4097576; 581653, 4097560; 581713, 4097527; 581779, 4097483; 581893, 4097424; 581957, 4097383; 582018, 4097337; 582277, 4097203; 582322, 4097211; 582378, 4097226; 582477, 4097243; 582555, 4097250; 582592, 4097218; 582672, 4097045; 582711, 4096974; 582758, 4096933; 582847, 4096872; 582871, 4096809; 582887, 4096750; 582908, 4096692; 582932, 4096650; 582974, 4096597; 583007, 4096560; 583059, 4096480; 583113, 4096446; 583153, 4096415; 583190, 4096365; 583210, 4096352; 583240, 4096285; 583256, 4096266; 583285, 4096192; 583304, 4096109; 583286, 4096023; 583283, 4095980; 583284, 4095890; 583288, 4095861; 583390, 4095602; 583366, 4095559; 583352, 4095509; 583395, 4095445; 583409, 4095377; 583411, 4095348; 583460, 4095280; 583483, 4095241; 583487, 4095220; 583512, 4095165; 583502, 4095142; 583487, 4095077; 583481, 4095022; 583469, 4095000; 583460, 4094954; 583469, 4094915; 583476, 4094859; 583478, 4094782; 583498, 4094698; 583513, 4094670; 583530, 4094664; 583568, 4094655; 583604, 4094614; 583615, 4094582; 583619, 4094545; 583604, 4094508; 583597, 4094481; 583600, 4094414; 583607, 4094371; 583611, 4094312; 583625, 4094283; 583637, 4094247; 583646, 4094203; 583653, 4094148; 583655, 4094101; 583761, 4093780; 583768, 4093704; 583768, 4093622; 583773, 4093535; 583781, 4093499; 583784, 4093452; 583795, 4093387; 583779, 4093252; 583765, 4093222; 583751, 4093199; 583736, 4093151; 583722, 4093092; 583718, 4092999; 583705, 4092909; 583703, 4092859; 583711, 4092820; 583728, 4092650; 583739, 4092583; 583747, 4092502; 583757, 4092486; 583770, 4092449; 583788, 4092428; 583815, 4092375; 583832, 4092321; 583834, 4092226; 583840, 4092173; 583844, 4092055; 583855, 4092012; 583859, 4091876; 583879, 4091808; 583892, 4091739; 583916, 4091657; 583934, 4091620; 583978, 4091545; 584008, 4091471; 583949, 4091338; 583934, 4091293; 583920, 4091264; 583907, 4091250; 583895, 4091228; 583898, 4091171; 583892, 4091143; 583901, 4091088; 583898, 4091043; 583885, 4091013; 583898, 4090922; 583877, 4090880; 583863, 4090799; 583866, 4090773; 583859, 4090749; 583859, 4090714; 583840, 4090601; 583838, 4090503; 583829, 4090470; 583828, 4090410; 583831, 4090378; 583849, 4090298; 583851, 4090198; 583878, 4090066; 583888, 4089977; 583896, 4089936; 583901, 4089880; 583912, 4089814; 583924, 4089772; 583937, 4089730; 583964, 4089669; 583951, 4089675; 583925, 4089666; 583903, 4089632; 583895, 4089633; 583887, 4089648; 583886, 4089659; 583902, 4089671; 583935, 4089687; 583939, 4089693; 583936, 4089703; 583894, 4089712; 583862, 4089727; 583822, 4089740; 583760, 4089751; 583750, 4089745; 583736, 4089729; 583724, 4089721; 583664, 4089719; 583649, 4089715; 583640, 4089701; 583547, 4089648; 583537, 4089645; 583505, 4089644; 583435, 4089621; 583421, 4089619; 583395, 4089629; 583358, 4089623; 583333, 4089601; 583310, 4089595; 583297, 4089576; 583288, 4089571; 583268, 4089569; 583256, 4089563; 583209, 4089523; 583180, 4089516; 583158, 4089520; 583142, 4089536; 583133, 4089550; 583126, 4089572; 583124, 4089592; 583117, 4089581; 583112, 4089580; 583097, 4089594; 583091, 4089610; 583081, 4089615; 583056, 4089618; 583042, 4089610; 583038, 4089601; 583035, 4089572; 583024, 4089553; 583007, 4089546; 582991, 4089564; 582975, 4089594; 582945, 4089602; 582899, 4089600; 582867, 4089583; 582856, 4089586; 582844, 4089595; 582813, 4089599; 582805, 4089603; 582799, 4089611; 582787, 4089631; 582759, 4089646; 582701, 4089687; 582671, 4089703; 582657, 4089694; 582639, 4089691; 582604, 4089693; 582598, 4089697; 582594, 4089706; 582589, 4089741; 582582, 4089761; 582530, 4089751; 582520, 4089742; 582512, 4089725; 582502, 4089692; 582487, 4089678; 582479, 4089676; 582466, 4089681; 582440, 4089713; 582431, 4089740; 582427, 4089770; 582416, 4089768; 582406, 4089750; 582403, 4089738; 582389, 4089724; 582374, 4089729; 582349, 4089753; 582332, 4089753; 582312, 4089761; 582297, 4089760; 582281, 4089766; 582259, 4089817; 582244, 4089880; 582239, 4089987; 582234, 4090003; 582227, 4090013; 582209, 4090027; 582180, 4090041; 582145, 4090053; 582051, 4090072; 582031, 4090079; 582008, 4090080; 581954, 4090093; 581928, 4090091; 581899, 4090080; 581886, 4090071; 581851, 4090055; 581850, 4090049; 581860, 4090036; 581855, 4090021; 581845, 4090012; 581831, 4090017; 581815, 4090033; 581810, 4090034; 581791, 4090029; 581787, 4090021; 581791, 4090003; 581786, 4089986; 581775, 4089980; 581762, 4089980; 581750, 4089973; 581728, 4089937; 581707, 4089924; 581695, 4089926; 581667, 4089943; 581631, 4089948; 581608, 4089955; 581592, 4089965; 581586, 4089980; 581595, 4090000; 581604, 4090008; 581607, 4090024; 581599, 4090038; 581588, 4090046; 581575, 4090049; 581560, 4090045; 581529, 4090027; 581517, 4090027; 581502, 4090034; 581491, 4090046; 581471, 4090045; 581411, 4090017; 581407, 4090009; 581412, 4089987; 581401, 4089979; 581335, 4089979; 581264, 4090087; 581259, 4090105; 581269, 4090152; 581271, 4090184; 581269, 4090214; 581261, 4090236; 581256, 4090236; 581249, 4090228; 581253, 4090173; 581251, 4090155; 581240, 4090139; 581229, 4090134; 581179, 4090144; 581146, 4090162; 581119, 4090192; 581105, 4090195; 581106, 4090189; 581134, 4090152; 581133, 4090145; 581113, 4090143; 581094, 4090148; 581092, 4090142; 581084, 4090138; 581059, 4090159; 581043, 4090161; 581016, 4090177; 581006, 4090177; 580986, 4090196; 580952, 4090198; 580940, 4090202; 580919, 4090222; 580914, 4090221; 580877, 4090199; 580871, 4090193; 580871, 4090162; 580858, 4090149; 580849, 4090145; 580848, 4090130; 580818, 4090142; 580810, 4090148; 580811, 4090157; 580820, 4090166; 580814, 4090176; 580748, 4090235; 580733, 4090241; 580697, 4090235; 580664, 4090239; 580655, 4090244; 580639, 4090268; 580628, 4090279; 580607, 4090267; 580586, 4090249; 580569, 4090242; 580560, 4090254; 580550, 4090291; 580521, 4090303; 580418, 4090308; 580401, 4090296; 580380, 4090268; 580362, 4090260; 580344, 4090267; 580349, 4090285; 580336, 4090300; 580299, 4090307; 580279, 4090295; 580278, 4090285; 580259, 4090269; 580246, 4090280; 580230, 4090305; 580214, 4090302; 580176, 4090279; 580169, 4090271; 580165, 4090256; 580155, 4090253; 580147, 4090243; 580139, 4090239; 580123, 4090237; 580048, 4090282; 579990, 4090334; 579973, 4090344; 579966, 4090344; 579967, 4090360; 579972, 4090368; 579968, 4090380; 579953, 4090384; 579911, 4090383; 579872, 4090366; 579860, 4090357; 579837, 4090354; 579829, 4090344; 579820, 4090341; 579816, 4090341; 579800, 4090357; 579789, 4090357; 579765, 4090368; 579739, 4090395; 579700, 4090402; 579663, 4090397; 579653, 4090392; 579621, 4090399; 579619, 4090383; 579606, 4090379; 579589, 4090382; 579583, 4090387; 579580, 4090404; 579560, 4090415; 579552, 4090416; 579523, 4090437; 579510, 4090452; 579495, 4090478; 579486, 4090486; 579446, 4090503; 579410, 4090507; 579395, 4090520; 579381, 4090524; 579369, 4090537; 579316, 4090558; 579309, 4090571; 579307, 4090613; 579293, 4090641; 579273, 4090666; 579228, 4090703; 579212, 4090710; 579190, 4090728; 579117, 4090767; 579101, 4090772; 579055, 4090804; 579015, 4090840; 579000, 4090846; 578981, 4090865; 578983, 4090871; 579003, 4090891; 579007, 4090901; 579006, 4090919; 578990, 4090938; 578955, 4090972; 578860, 4091013; 578828, 4091033; 578793, 4091085; 578781, 4091096; 578765, 4091099; 578675, 4091097; 578658, 4091093; 578646, 4091077; 578636, 4091071; 578632, 4091082; 578613, 4091081; 578574, 4091062; 578513, 4091041; 578500, 4091040; 578480, 4091050; 578442, 4091080; 578416, 4091089; 578395, 4091075; 578384, 4091057; 578381, 4091041; 578379, 4091037; 578375, 4091037; 578354, 4091059; 578354, 4091077; 578358, 4091082; 578376, 4091086; 578381, 4091100; 578378, 4091128; 578370, 4091151; 578370, 4091176; 578365, 4091197; 578325, 4091249; 578297, 4091271; 578274, 4091313; 578228, 4091379; 578146, 4091429; 578098, 4091453; 578058, 4091468; 577985, 4091489; 577896, 4091453; 577834, 4091436; 577819, 4091426; 577811, 4091394; 577794, 4091365; 577790, 4091335; 577784, 4091323; 577749, 4091269; 577738, 4091268; 577727, 4091276; 577724, 4091282; 577723, 4091292; 577726, 4091299; 577704, 4091325; 577697, 4091327; 577686, 4091341; 577666, 4091346; 577649, 4091345; 577622, 4091339; 577612, 4091340; 577585, 4091371; 577569, 4091383; 577556, 4091388; 577558, 4091408; 577555, 4091421; 577542, 4091436; 577541, 4091442; 577538, 4091484; 577528, 4091502; 577512, 4091517; 577440, 4091551; 577431, 4091551; 577421, 4091538; 577412, 4091552; 577371, 4091579; 577347, 4091581; 577335, 4091586; 577324, 4091578; 577317, 4091551; 577305, 4091561; 577283, 4091568; 577276, 4091574; 577273, 4091581; 577274, 4091591; 577269, 4091596; 577248, 4091602; 577175, 4091642; 577122, 4091651; 577091, 4091643; 577077, 4091648; 577071, 4091643; 577048, 4091600; 577037, 4091591; 577035, 4091571; 577029, 4091552; 577025, 4091548; 577020, 4091551; 577009, 4091575; 576993, 4091593; 576989, 4091619; 576976, 4091638; 576982, 4091649; 576980, 4091662; 576996, 4091678; 577008, 4091705; 577014, 4091727; 577010, 4091729; 577007, 4091728; 576992, 4091694; 576985, 4091687; 576963, 4091691; 576938, 4091669; 576930, 4091668; 576920, 4091674; 576926, 4091689; 576894, 4091716; 576897, 4091736; 576908, 4091754; 576914, 4091814; 576945, 4091863; 576915, 4091915; 576882, 4091951; 576866, 4091977; 576857, 4092014; 576838, 4092060; 576824, 4092083; 576703, 4092233; 576700, 4092252; 576674, 4092266; 576636, 4092318; 576596, 4092354; 576574, 4092349; 576572, 4092352; 576579, 4092364; 576568, 4092377; 576563, 4092394; 576546, 4092401; 576531, 4092428; 576513, 4092440; 576486, 4092472; 576477, 4092477; 576457, 4092499; 576353, 4092560; 576310, 4092597; 576277, 4092618; 576242, 4092631; 576216, 4092627; 576215, 4092641; 576209, 4092644; 576202, 4092658; 576184, 4092669; 576180, 4092668; 576173, 4092660; 576160, 4092620; 576137, 4092628; 576121, 4092625; 576119, 4092660; 576115, 4092672; 576060, 4092706; 576002, 4092721; 575923, 4092728; 575912, 4092732; 575884, 4092731; 575859, 4092721; 575843, 4092719; 575837, 4092713; 575837, 4092699; 575841, 4092680; 575840, 4092666; 575833, 4092654; 575819, 4092646; 575809, 4092631; 575776, 4092621; 575673, 4092602; 575667, 4092590; 575665, 4092563; 575660, 4092559; 575654, 4092560; 575651, 4092575; 575626, 4092611; 575612, 4092609; 575609, 4092613; 575599, 4092604; 575584, 4092625; 575579, 4092595; 575576, 4092589; 575572, 4092591; 575569, 4092628; 575563, 4092631; 575552, 4092625; 575529, 4092600; 575504, 4092560; 575496, 4092558; 575453, 4092591; 575420, 4092590; 575394, 4092570; 575389, 4092570; 575374, 4092572; 575367, 4092591; 575335, 4092638; 575331, 4092668; 575337, 4092700; 575330, 4092710; 575329, 4092757; 575323, 4092769; 575303, 4092786; 575274, 4092795; 575283, 4092861; 575266, 4092884; 575257, 4092891; 575254, 4092883; 575247, 4092880; 575242, 4092891; 575220, 4092902; 575206, 4092920; 575202, 4092920; 575193, 4092909; 575188, 4092917; 575188, 4092973; 575193, 4092991; 575184, 4093035; 575185, 4093065; 575189, 4093071; 575221, 4093079; 575226, 4093083; 575226, 4093094; 575173, 4093192; 575074, 4093326; 574980, 4093423; 574933, 4093458; 574901, 4093473; 574873, 4093475; 574867, 4093473; 574871, 4093458; 574882, 4093439; 574882, 4093428; 574872, 4093416; 574866, 4093416; 574850, 4093425; 574837, 4093480; 574844, 4093517; 574841, 4093528; 574833, 4093524; 574826, 4093530; 574822, 4093557; 574818, 4093560; 574806, 4093558; 574792, 4093564; 574783, 4093578; 574777, 4093578; 574763, 4093567; 574752, 4093569; 574747, 4093597; 574741, 4093607; 574723, 4093602; 574698, 4093619; 574693, 4093609; 574683, 4093627; 574673, 4093616; 574666, 4093619; 574660, 4093647; 574650, 4093668; 574640, 4093701; 574645, 4093715; 574628, 4093720; 574626, 4093726; 574626, 4093760; 574616, 4093773; 574605, 4093764; 574596, 4093767; 574591, 4093783; 574581, 4093797; 574569, 4093832; 574561, 4093847; 574518, 4093872; 574455, 4093902; 574389, 4093921; 574370, 4093905; 574349, 4093875; 574335, 4093871; 574294, 4093869; 574287, 4093860; 574255, 4093851; 574241, 4093844; 574224, 4093852; 574204, 4093850; 574172, 4093869; 574159, 4093865; 574149, 4093852; 574138, 4093844; 574131, 4093850; 574130, 4093877; 574136, 4093898; 574136, 4093908; 574130, 4093911; 574097, 4093894; 574092, 4093887; 574075, 4093876; 574071, 4093927; 574064, 4093933; 574055, 4093933; 574049, 4093922; 574042, 4093919; 574009, 4093925; 574005, 4093920; 573999, 4093918; 573990, 4093903; 573977, 4093913; 573942, 4093912; 573927, 4093939; 573928, 4093952; 573947, 4093969; 573975, 4093985; 573974, 4094000; 573984, 4094021; 573980, 4094025; 573965, 4094021; 573964, 4094025; 573970, 4094036; 573975, 4094061; 573970, 4094062; 573958, 4094078; 573946, 4094077; 573933, 4094083; 573927, 4094092; 573932, 4094101; 573942, 4094111; 573971, 4094127; 573972, 4094140; 573949, 4094182; 573920, 4094243; 573859, 4094342; 573825, 4094349; 573825, 4094357; 573837, 4094366; 573840, 4094376; 573831, 4094382; 573815, 4094412; 573797, 4094429; 573789, 4094445; 573757, 4094456; 573731, 4094460; 573724, 4094453; 573726, 4094437; 573722, 4094429; 573718, 4094426; 573712, 4094429; 573694, 4094421; 573694, 4094413; 573698, 4094404; 573689, 4094397; 573683, 4094403; 573678, 4094415; 573672, 4094455; 573676, 4094469; 573670, 4094479; 573653, 4094490; 573655, 4094501; 573662, 4094514; 573661, 4094522; 573645, 4094546; 573629, 4094546; 573621, 4094555; 573613, 4094568; 573612, 4094601; 573605, 4094598; 573598, 4094586; 573593, 4094547; 573585, 4094547; 573583, 4094541; 573587, 4094527; 573582, 4094511; 573571, 4094510; 573558, 4094492; 573547, 4094508; 573540, 4094542; 573510, 4094544; 573508, 4094531; 573499, 4094516; 573493, 4094515; 573482, 4094525; 573465, 4094532; 573455, 4094576; 573438, 4094591; 573426, 4094611; 573421, 4094614; 573428, 4094584; 573416, 4094569; 573409, 4094570; 573403, 4094578; 573400, 4094602; 573392, 4094622; 573384, 4094622; 573379, 4094614; 573372, 4094615; 573360, 4094620; 573358, 4094630; 573347, 4094628; 573339, 4094631; 573312, 4094673; 573309, 4094685; 573299, 4094696; 573293, 4094693; 573291, 4094682; 573278, 4094682; 573268, 4094678; 573262, 4094699; 573268, 4094712; 573250, 4094746; 573240, 4094775; 573240, 4094853; 573203, 4094864; 573180, 4094867; 573129, 4094852; 573095, 4094857; 573077, 4094856; 573075, 4094854; 573074, 4094839; 573053, 4094831; 573043, 4094847; 573033, 4094854; 573029, 4094838; 573018, 4094836; 573005, 4094848; 572987, 4094874; 572947, 4094881; 572925, 4094895; 572922, 4094893; 572925, 4094882; 572885, 4094875; 572861, 4094877; 572855, 4094883; 572850, 4094896; 572856, 4094936; 572842, 4094938; 572834, 4094958; 572825, 4094955; 572826, 4094938; 572823, 4094935; 572806, 4094928; 572797, 4094928; 572788, 4094934; 572764, 4094966; 572750, 4094966; 572748, 4094963; 572753, 4094937; 572749, 4094931; 572726, 4094946; 572695, 4094956; 572690, 4094962; 572682, 4094991; 572641, 4095014; 572651, 4095073; 572657, 4095087; 572671, 4095103; 572685, 4095133; 572697, 4095147; 572722, 4095147; 572758, 4095138; 572781, 4095140; 572794, 4095136; 572810, 4095121; 572802, 4095154; 572827, 4095192; 572830, 4095204; 572820, 4095240; 572808, 4095267; 572796, 4095282; 572785, 4095285; 572773, 4095283; 572748, 4095267; 572744, 4095267; 572731, 4095277; 572731, 4095284; 572737, 4095287; 572747, 4095298; 572748, 4095311; 572733, 4095321; 572716, 4095321; 572638, 4095289; 572626, 4095287; 572619, 4095290; 572631, 4095328; 572626, 4095347; 572617, 4095351; 572607, 4095351; 572596, 4095346; 572590, 4095337; 572576, 4095331; 572550, 4095331; 572522, 4095338; 572484, 4095338; 572454, 4095346; 572443, 4095327; 572437, 4095328; 572437, 4095346; 572444, 4095370; 572437, 4095402; 572443, 4095451; 572460, 4095478; 572484, 4095495; 572503, 4095519; 572501, 4095554; 572496, 4095583; 572491, 4095591; 572450, 4095623; 572418, 4095635; 572404, 4095603; 572394, 4095594; 572375, 4095587; 572359, 4095570; 572356, 4095569; 572351, 4095574; 572349, 4095592; 572337, 4095590; 572328, 4095606; 572261, 4095667; 572253, 4095670; 572237, 4095669; 572203, 4095658; 572195, 4095659; 572173, 4095682; 572161, 4095714; 572155, 4095718; 572143, 4095710; 572135, 4095693; 572113, 4095680; 572099, 4095692; 572096, 4095708; 572102, 4095728; 572111, 4095739; 572113, 4095748; 572111, 4095761; 572093, 4095806; 572072, 4095834; 572055, 4095848; 572029, 4095863; 571996, 4095868; 571958, 4095870; 571946, 4095876; 571936, 4095890; 571897, 4095903; 571883, 4095904; 571871, 4095896; 571858, 4095895; 571855, 4095907; 571859, 4095925; 571859, 4095942; 571862, 4095965; 571860, 4095989; 571864, 4096033; 571862, 4096058; 571833, 4096108; 571795, 4096145; 571786, 4096149; 571735, 4096194; 571693, 4096210; 571603, 4096258; 571582, 4096261; 571538, 4096257; 571504, 4096218; 571489, 4096216; 571484, 4096218; 571473, 4096227; 571462, 4096249; 571457, 4096288; 571461, 4096311; 571458, 4096323; 571447, 4096335; 571423, 4096335; 571409, 4096339; 571346, 4096386; 571316, 4096422; 571273, 4096485; 571205, 4096559; 571136, 4096587; 571089, 4096611; 571057, 4096614; 571034, 4096620; 570991, 4096655; 570968, 4096661; 570943, 4096664; 570935, 4096654; 570925, 4096659; 570914, 4096655; 570909, 4096659; 570902, 4096660; 570900, 4096651; 570894, 4096648; 570885, 4096660; 570874, 4096666; 570830, 4096667; 570781, 4096652; 570751, 4096651; 570742, 4096652; 570736, 4096658; 570707, 4096699; 570681, 4096720; 570668, 4096723; 570624, 4096707; 570613, 4096722; 570621, 4096732; 570623, 4096743; 570614, 4096754; 570603, 4096785; 570592, 4096805; 570576, 4096816; 570576, 4096838; 570572, 4096859; 570527, 4096949; 570509, 4096981; 570496, 4096996; 570492, 4096999; 570473, 4096994; 570465, 4097003; 570467, 4097016; 570457, 4097030; 570464, 4097043; 570454, 4097092; 570413, 4097198; 570380, 4097245; 570328, 4097283; 570242, 4097394; 570199, 4097439; 570167, 4097461; 570147, 4097463; 570103, 4097477; 570078, 4097479; 570034, 4097491; 570005, 4097513; 569938, 4097535; 569849, 4097588; 569812, 4097649; 569801, 4097709; 569789, 4097746; 569765, 4097794; 569698, 4097893; 569649, 4097909; 569621, 4097898; 569605, 4097899; 569576, 4097893; 569547, 4097894; 569533, 4097898; 569496, 4097915; 569475, 4097920; 569455, 4097920; 569421, 4097945; 569386, 4097946; 569342, 4097956; 569292, 4097954; 569286, 4097947; 569280, 4097913; 569271, 4097899; 569264, 4097897; 569207, 4097916; 569195, 4097923; 569133, 4097927; 569117, 4097936; 569106, 4097965; 569089, 4097992; 569081, 4098010; 569071, 4098052; 569054, 4098087; 569048, 4098115; 569039, 4098135; 569018, 4098165; 569003, 4098196; 568968, 4098244; 568964, 4098259; 568959, 4098311; 568956, 4098321; 568943, 4098337; 568942, 4098344; 568949, 4098356; 568946, 4098368; 568934, 4098376; 568916, 4098382; 568902, 4098393; 568886, 4098417; 568843, 4098466; 568815, 4098492; 568796, 4098518; 568787, 4098548; 568784, 4098582; 568783, 4098604; 568789, 4098641; 568789, 4098662; 568782, 4098688; 568758, 4098736; 568737, 4098760; 568732, 4098789; 568723, 4098803; 568719, 4098807; 568698, 4098811; 568688, 4098820; 568671, 4098825; 568660, 4098870; 568643, 4098904; 568631, 4098947; 568612, 4098978; 568614, 4098985; 568623, 4098993; 568622, 4099028; 568597, 4099074; 568590, 4099115; 568569, 4099150; 568569, 4099162; 568559, 4099178; 568553, 4099243; 568540, 4099258; 568524, 4099262; 568527, 4099318; 568520, 4099369; 568495, 4099426; 568478, 4099452; 568450, 4099470; 568440, 4099480; 568440, 4099511; 568442, 4099519; 568434, 4099524; 568406, 4099530; 568415, 4099545; 568411, 4099554; 568399, 4099566; 568395, 4099594; 568406, 4099598; 568415, 4099606; 568420, 4099626; 568409, 4099642; 568388, 4099655; 568380, 4099668; 568372, 4099683; 568373, 4099700; 568367, 4099718; 568330, 4099749; 568316, 4099765; 568302, 4099770; 568287, 4099782; 568284, 4099788; 568240, 4099819; 568229, 4099823; 568216, 4099838; 568222, 4099848; 568205, 4099861; 568199, 4099862; 568199, 4099868; 568205, 4099876; 568204, 4099880; 568192, 4099886; 568184, 4099885; 568173, 4099888; 568175, 4099898; 568189, 4099905; 568189, 4099915; 568127, 4100001; 568101, 4100032; 568077, 4100049; 568034, 4100094; 567926, 4100165; 567885, 4100202; 567851, 4100240; 567832, 4100267; 567818, 4100299; 567787, 4100344; 567782, 4100376; 567758, 4100401; 567749, 4100415; 567744, 4100433; 567673, 4100498; 567607, 4100545; 567584, 4100573; 567578, 4100588; 567537, 4100657; 567521, 4100673; 567470, 4100708; 567420, 4100768; 567361, 4100812; 567335, 4100853; 567312, 4100910; 567299, 4100932; 567254, 4100993; 567177, 4101086; 567147, 4101134; 567088, 4101180; 567057, 4101210; 567030, 4101266; 567011, 4101287; 566931, 4101408; 566910, 4101434; 566875, 4101459; 566838, 4101476; 566809, 4101482; 566764, 4101506; 566723, 4101511; 566706, 4101518; 566657, 4101561; 566625, 4101569; 566611, 4101575; 566581, 4101611; 566570, 4101642; 566569, 4101656; 566544, 4101699; 566533, 4101700; 566496, 4101722; 566464, 4101728; 566433, 4101745; 566392, 4101793; 566370, 4101793; 566356, 4101789; 566351, 4101805; 566355, 4101837; 566360, 4101849; 566374, 4101860; 566381, 4101882; 566382, 4101893; 566373, 4101951; 566379, 4101974; 566388, 4101982; 566388, 4101993; 566371, 4102007; 566353, 4102026; 566333, 4102062; 566318, 4102106; 566312, 4102140; 566293, 4102184; 566275, 4102212; 566237, 4102249; 566234, 4102271; 566209, 4102286; 566193, 4102324; 566185, 4102336; 566159, 4102362; 566136, 4102401; 566127, 4102443; 566129, 4102486; 566119, 4102499; 566119, 4102522; 566113, 4102544; 566118, 4102589; 566110, 4102600; 566084, 4102620; 566073, 4102641; 566072, 4102662; 566005, 4102693; 565991, 4102697; 565981, 4102691; 565979, 4102678; 565972, 4102674; 565965, 4102676; 565951, 4102671; 565936, 4102680; 565930, 4102680; 565930, 4102664; 565941, 4102646; 565946, 4102626; 565941, 4102616; 565933, 4102613; 565924, 4102615; 565911, 4102629; 565900, 4102670; 565901, 4102697; 565921, 4102719; 565929, 4102740; 565927, 4102756; 565913, 4102789; 565911, 4102816; 565895, 4102829; 565890, 4102839; 565882, 4102840; 565874, 4102804; 565893, 4102798; 565898, 4102791; 565907, 4102762; 565906, 4102752; 565902, 4102729; 565894, 4102718; 565887, 4102715; 565870, 4102721; 565859, 4102734; 565846, 4102783; 565830, 4102787; 565825, 4102792; 565801, 4102878; 565805, 4102902; 565810, 4102908; 565848, 4102915; 565849, 4102920; 565831, 4102938; 565824, 4102952; 565830, 4102975; 565848, 4102989; 565853, 4103015; 565842, 4103042; 565839, 4103044; 565807, 4103027; 565791, 4103033; 565775, 4103066; 565768, 4103117; 565771, 4103142; 565753, 4103162; 565745, 4103176; 565744, 4103196; 565738, 4103204; 565713, 4103203; 565695, 4103210; 565680, 4103206; 565671, 4103194; 565651, 4103183; 565645, 4103176; 565641, 4103162; 565635, 4103155; 565625, 4103159; 565622, 4103164; 565623, 4103180; 565614, 4103213; 565616, 4103233; 565601, 4103245; 565590, 4103259; 565570, 4103265; 565551, 4103277; 565543, 4103296; 565541, 4103311; 565546, 4103353; 565576, 4103424; 565578, 4103439; 565576, 4103445; 565550, 4103434; 565539, 4103436; 565501, 4103492; 565475, 4103536; 565465, 4103575; 565451, 4103610; 565446, 4103643; 565422, 4103696; 565401, 4103720; 565353, 4103752; 565287, 4103782; 565216, 4103827; 565199, 4103831; 565180, 4103829; 565136, 4103814; 565126, 4103806; 565123, 4103800; 565122, 4103774; 565108, 4103755; 565104, 4103723; 565100, 4103713; 565091, 4103702; 565075, 4103703; 565070, 4103707; 565068, 4103733; 565071, 4103755; 565066, 4103772; 565095, 4103818; 565141, 4103849; 565155, 4103874; 565155, 4103883; 565144, 4103887; 565122, 4103908; 565098, 4103970; 565095, 4103992; 565101, 4104047; 565096, 4104075; 565085, 4104103; 565064, 4104181; 565007, 4104288; 564994, 4104369; 564976, 4104394; 564892, 4104548; 564875, 4104567; 564831, 4104588; 564805, 4104611; 564763, 4104629; 564710, 4104693; 564679, 4104709; 564651, 4104729; 564633, 4104735; 564614, 4104736; 564574, 4104758; 564522, 4104808; 564473, 4104867; 564437, 4104918; 564416, 4105008; 564407, 4105101; 564410, 4105130; 564388, 4105201; 564383, 4105246; 564366, 4105326; 564358, 4105381; 564282, 4105399; 564272, 4105395; 564240, 4105406; 564226, 4105435; 564210, 4105567; 564184, 4105612; 564143, 4105655; 564084, 4105697; 564049, 4105737; 564037, 4105744; 564011, 4105770; 563975, 4105807; 563960, 4105829; 563942, 4105843; 563886, 4105926; 563832, 4105986; 563766, 4106069; 563736, 4106094; 563693, 4106143; 563669, 4106165; 563609, 4106274; 563600, 4106305; 563521, 4106429; 563472, 4106473; 563385, 4106529; 563361, 4106551; 563328, 4106608; 563321, 4106629; 563285, 4106671; 563269, 4106686; 563211, 4106722; 563190, 4106721; 563153, 4106696; 563138, 4106701; 563114, 4106720; 563109, 4106728; 563065, 4106769; 563047, 4106790; 562966, 4106853; 562925, 4106878; 562881, 4106920; 562842, 4106965; 562831, 4106984; 562829, 4107006; 562817, 4107010; 562768, 4107049; 562696, 4107130; 562649, 4107189; 562622, 4107233; 562593, 4107258; 562515, 4107356; 562498, 4107373; 562486, 4107404; 562480, 4107410; 562395, 4107459; 562325, 4107512; 562306, 4107540; 562293, 4107540; 562282, 4107525; 562271, 4107521; 562250, 4107529; 562216, 4107548; 562140, 4107618; 562132, 4107624; 562091, 4107635; 562083, 4107641; 562077, 4107679; 562055, 4107678; 562040, 4107682; 561972, 4107723; 561911, 4107769; 561888, 4107792; 561877, 4107809; 561874, 4107823; 561867, 4107832; 561850, 4107837; 561836, 4107847; 561821, 4107864; 561810, 4107862; 561781, 4107864; 561764, 4107870; 561738, 4107888; 561722, 4107894; 561711, 4107902; 561702, 4107914; 561677, 4107973; 561645, 4108008; 561537, 4108019; 561512, 4108031; 561466, 4108071; 561445, 4108083; 561434, 4108087; 561395, 4108090; 561348, 4108107; 561271, 4108124; 561254, 4108131; 561241, 4108143; 561183, 4108162; 561168, 4108171; 561130, 4108181; 561110, 4108181; 561067, 4108173; 561045, 4108176; 561017, 4108187; 560936, 4108182; 560928, 4108176; 560934, 4108150; 560931, 4108131; 560923, 4108124; 560911, 4108125; 560896, 4108141; 560890, 4108141; 560879, 4108135; 560875, 4108105; 560877, 4108097; 560867, 4108044; 560842, 4108028; 560830, 4108015; 560816, 4107990; 560796, 4107985; 560796, 4108002; 560817, 4108036; 560827, 4108043; 560820, 4108059; 560810, 4108070; 560791, 4108076; 560749, 4108062; 560693, 4108087; 560665, 4108078; 560639, 4108076; 560625, 4108084; 560607, 4108089; 560593, 4108082; 560587, 4108073; 560583, 4108055; 560563, 4108046; 560564, 4108049; 560544, 4108073; 560536, 4108069; 560523, 4108049; 560498, 4108038; 560493, 4108024; 560473, 4108016; 560469, 4108009; 560469, 4107995; 560463, 4107989; 560454, 4107988; 560449, 4107983; 560461, 4107963; 560460, 4107949; 560449, 4107944; 560416, 4107951; 560367, 4107941; 560346, 4107943; 560327, 4107950; 560309, 4107947; 560283, 4107949; 560184, 4107924; 560172, 4107912; 560147, 4107903; 560127, 4107874; 560119, 4107870; 560110, 4107858; 560091, 4107853; 560078, 4107843; 560065, 4107803; 560047, 4107797; 560035, 4107817; 560027, 4107820; 560007, 4107817; 559947, 4107797; 559935, 4107789; 559917, 4107765; 559894, 4107748; 559871, 4107738; 559856, 4107722; 559821, 4107696; 559792, 4107680; 559732, 4107663; 559712, 4107652; 559683, 4107622; 559658, 4107585; 559635, 4107569; 559614, 4107545; 559587, 4107533; 559570, 4107533; 559565, 4107543; 559565, 4107555; 559568, 4107564; 559575, 4107569; 559579, 4107582; 559573, 4107610; 559559, 4107652; 559552, 4107661; 559535, 4107700; 559524, 4107736; 559504, 4107780; 559497, 4107836; 559476, 4107868; 559443, 4107895; 559410, 4107963; 559369, 4108023; 559286, 4108097; 559260, 4108115; 559230, 4108125; 559217, 4108126; 559190, 4108120; 559118, 4108142; 559097, 4108143; 559047, 4108126; 559000, 4108097; 558980, 4108102; 558963, 4108097; 558941, 4108086; 558914, 4108084; 558900, 4108090; 558879, 4108115; 558854, 4108125; 558828, 4108211; 558810, 4108240; 558792, 4108291; 558786, 4108301; 558777, 4108324; 558778, 4108349; 558784, 4108377; 558760, 4108439; 558736, 4108471; 558717, 4108487; 558709, 4108491; 558690, 4108487; 558673, 4108495; 558677, 4108507; 558724, 4108525; 558736, 4108557; 558766, 4108673; 558786, 4108788; 558824, 4108945; 558839, 4109053; 558842, 4109101; 558840, 4109139; 558845, 4109155; 558868, 4109376; 558864, 4109450; 558866, 4109485; 558881, 4109532; 558871, 4109600; 558873, 4109654; 558866, 4109698; 558947, 4109700; 559026, 4109696; 559083, 4109688; 559217, 4109708; 559289, 4109712; 559434, 4109739; 559568, 4109783; 559727, 4109863; 559896, 4109954; 560010, 4110029; 560151, 4110140; 560221, 4110181; 560263, 4110194; 560338, 4110206; 560406, 4110212; 560498, 4110229; 560660, 4110293; 560833, 4110382; 560995, 4110456; 561256, 4110596; 561449, 4110728; 561540, 4110768; 561643, 4110801; 561729, 4110836; 561786, 4110867; 561802, 4110884; 561827, 4110933; 561870, 4111057; 561873, 4111093; 561856, 4111183; 561870, 4111269; 561878, 4111290; 561901, 4111317; 561964, 4111365; 561988, 4111391; 562032, 4111463; 562069, 4111479; 562094, 4111478; 562132, 4111485; 562176, 4111510; 562215, 4111525; 562314, 4111519; 562363, 4111535; 562427, 4111572; 562477, 4111618; 562518, 4111643; 562547, 4111655; 562580, 4111661; 562630, 4111664; 562728, 4111659; 562782, 4111665; 562814, 4111674; 562824, 4111682; 562843, 4111708; 562860, 4111778; 562886, 4111860; 562891, 4111931; 562891, 4112015; 562869, 4112178; 562872, 4112457; 562862, 4112490; 562858, 4112520; 562860, 4112561; 562865, 4112588; 562890, 4112636; 562897, 4112658; 562897, 4112695; 562891, 4112721; 562878, 4112747; 562873, 4112784; 562872, 4112815; 562880, 4112848; 562892, 4112879; 562907, 4112899; 562925, 4112913; 562963, 4112917; 562996, 4112914; 563028, 4112916; 563082, 4112944; 563143, 4113025; 563162, 4113061; 563170, 4113093; 563180, 4113154; 563183, 4113223; 563174, 4113255; 563171, 4113282; 563187, 4113347; 563212, 4113418; 563243, 4113444; 563251, 4113467; 563261, 4113519; 563322, 4113654; 563354, 4113688; 563392, 4113759; 563406, 4113817; 563420, 4113957; 563426, 4113985; 563455, 4114046; 563507, 4114141; 563509, 4114171; 563500, 4114211; 563497, 4114267; 563510, 4114309; 563621, 4114405; 563654, 4114438; 563666, 4114460; 563675, 4114486; 563688, 4114595; 563683, 4114665; 563685, 4114701; 563678, 4114712; 563691, 4114767; 563710, 4114883; 563706, 4114908; 563680, 4114983; 563659, 4115023; 563657, 4115037; returning to 563662, 4115064.

(ii) Note: Map of Units SCZ-1 and SCZ-2 for the California red-legged frog follows:

BILLING CODE 4310-55-P

(34) Unit SCZ-2: Santa Cruz County, California. From USGS 1:24,000 scale quadrangle Watsonville West.

(i) Land bounded by the following UTM zone 10, NAD 1983 coordinates (E, N): 607874, 4086411; 608701, 4084860; 608605, 4084937; 608520, 4084844; 608271, 4084560; 608221, 4084334; 607164, 4083847; 606471, 4082967; 606324, 4083005; 605956, 4083724; 605973, 4084135; 606148, 4084358; 606145, 4084654; 605804, 4085090; 605562, 4085868; 605307, 4086095; 604763, 4086054; 604698, 4086167; 604132, 4086258; 603690, 4086684; 603615, 4086756; 603520, 4086848; 603133, 4087000; 602103, 4087771; 601519, 4088060; 601570, 4088484; 602074, 4088759; 602066, 4088891; 602064, 4088910; 602395, 4089247; 602360, 4089344; 602512, 4089607; 603336, 4088906; 604761, 4088286; 605972, 4087869; 606286, 4087760; 607611, 4086748; returning to 607874, 4086411.

(ii) Note: Unit SCZ-2 for California red-legged frog is depicted on the map in paragraph (33)(ii) of this entry.

(35) Unit MNT-1: Monterey County, California. From USGS 1:24,000 scale quadrangle Prunedale.

(i) Land bounded by the following UTM zone 10, NAD 1983 coordinates (E, N): 613002, 4076673; 613380, 4076378; 613224, 4076422; 613142, 4076444; 613147, 4076371; 613064, 4076368; 613366, 4076130; 613249, 4075818; 613416, 4075763; 613219, 4075623; 613496, 4075230; 613600, 4075201; 613180, 4074959; 612668, 4074930; 612571, 4074924; 612260, 4075009; 612080, 4075185; 612391, 4076351; 612425, 4076477; 612470, 4076645; 612485, 4076700; 612505, 4076777; 612513, 4077290; 612970, 4077581; 613035, 4077429; 612824, 4076812; 612824, 4076812; 612861, 4076783; 612985, 4076686; returning to 613002, 4076673.

(ii) Note: Map of Units MNT-1, MNT-2 and MNT-3 for the California red-legged frog follows:

BILLING CODE 4310-55-P

BILLING CODE 4310-55-C

(36) Unit MNT-2: Monterey County, California. From USGS 1:24,000 scale quadrangles Monterey, Soberanes Point, Seaside, Mt. Carmel, Big Sur, Spreckles, Carmel Valley, Ventana Cones, Rana Creek, Chews Ridge, Palo Escrito Peak and Sycamore Flat.

(i) Land bounded by the following UTM zone 10, NAD 1983 coordinates (E, N): 603442, 4046923; 603634, 4046726; 603827, 4046640; 604251, 4046814; 604472, 4046893; 604714, 4046944; 605081, 4046887; 605564, 4046793; 605712, 4046847; 605926, 4046833; 606069, 4046665; 606157, 4046466; 606239, 4046344; 606345, 4046146; 606386, 4045962; 606452, 4045750; 606540, 4045608; 606636, 4045570; 606841, 4045661; 607122, 4045606; 607261, 4045631; 607468, 4045737; 607676, 4045744; 608030, 4045720; 608238, 4045798; 608444, 4045861; 608776, 4045973; 609015, 4046022; 609217, 4046057; 609446, 4046061; 609649, 4046127; 609863, 4046205; 610192, 4046221; 610407, 4046185; 610485, 4045965; 610423, 4045760; 610412, 4045576; 610466, 4045473; 611198, 4045459; 611386, 4045442; 611405, 4045405; 611541, 4045144; 611589, 4044840; 611561, 4044587; 611518, 4044364; 611959, 4043678; 611994, 4043566; 612003, 4043265; 612036, 4043254; 612081, 4043213; 612111, 4043175; 612175, 4043133; 612250, 4043111; 612308, 4043088; 612342, 4043055; 612369, 4042986; 612387, 4042971; 612478, 4042972; 612536, 4042934; 612537, 4042892; 612522, 4042863; 612504, 4042801; 612508, 4042779; 612537, 4042737; 612558, 4042686; 612570, 4042636; 612596, 4042586; 612643, 4042542; 612678, 4042503; 612722, 4042465; 612760, 4042422; 612790, 4042363; 612807, 4042310; 612861, 4042201; 612877, 4042127; 612853, 4042070; 612845, 4042022; 612891, 4041866; 612914, 4041801; 612930, 4041767; 612944, 4041748; 613010, 4041767; 613081, 4041815; 613128, 4041809; 613172, 4041787; 613233, 4041768; 613313, 4041762; 613348, 4041756; 613407, 4041734; 613487, 4041676; 613522, 4041667; 613577, 4041673; 613625, 4041668; 613652, 4041640; 613673, 4041573; 613676, 4041527; 613657, 4041484; 613631, 4041448; 613654, 4041417; 613773, 4041356; 613978, 4041358; 614049, 4041364; 614082, 4041366; 614257, 4041330; 614298, 4041299; 614316, 4041259; 614324, 4041202; 614340, 4041165; 614382, 4041122; 614460, 4041143; 614583, 4041139; 614615, 4041129; 614643, 4041096; 614653, 4041057; 614636, 4041019; 614613, 4040994; 614608, 4040970; 614626, 4040931; 614716, 4040830; 614761, 4040788; 614801, 4040760; 614844, 4040739; 614879, 4040742; 614938, 4040752; 615002, 4040742; 615036, 4040710; 615034, 4040665; 615041, 4040639; 615056, 4040613; 615102, 4040569; 615141, 4040564; 615163, 4040569; 615201, 4040591; 615259, 4040642; 615284, 4040647; 615344, 4040596; 615381, 4040495; 615395, 4040447; 615413, 4040347; 615451, 4040326; 615582, 4040311; 615672, 4040284; 615813, 4040264; 616020, 4040255; 616088, 4040242; 616150, 4040222; 616222, 4040217; 616351, 4040232; 616418, 4040246; 616494, 4040253; 616561, 4040252; 616619, 4040237; 616655, 4040216; 616677, 4040195; 616706, 4040177; 616762, 4040091; 616815, 4040022; 616870, 4039959; 616935, 4039904; 617148, 4039771; 617177, 4039761; 617218, 4039780; 617246, 4039782; 617289, 4039780; 617345, 4039767; 617424, 4039744; 617610, 4039742; 617764, 4039749; 617840, 4039742; 617934, 4039717; 618028, 4039682; 618125, 4039639; 618201, 4039619; 618329, 4039619; 618435, 4039659; 618508, 4039714; 618575, 4039788; 618635, 4039878; 618668, 4039905; 618722, 4039906; 618758, 4039902; 618801, 4039861; 618838, 4039834; 618962, 4039765; 619018, 4039723; 619052, 4039678; 619077, 4039603; 619119, 4039372; 619147, 4039294; 619164, 4039232; 619166, 4039165; 619154, 4039095; 619129, 4039028; 619090, 4038964; 619053, 4038921; 619029, 4038906; 618916, 4038879; 618864, 4038851; 618814, 4038779; 618726, 4038618; 618682, 4038562; 618633, 4038522; 618586, 4038494; 618470, 4038441; 618404, 4038402; 618333, 4038367; 618167, 4038311; 618078, 4038260; 618052, 4038228; 618036, 4038179; 618036, 4038111; 618028, 4038060; 617998, 4038000; 617944, 4037972; 617778, 4037913; 617696, 4037879; 617586, 4037827; 617488, 4037763; 617415, 4037709; 617334, 4037641; 617286, 4037586; 617256, 4037532; 617219, 4037477; 617178, 4037431; 617132, 4037387; 617093, 4037358; 617054, 4037340; 616964, 4037306; 616875, 4037268; 616748, 4037139; 616722, 4037104; 616689, 4037006; 616657, 4036932; 616648, 4036899; 616646, 4036839; 616680, 4036817; 616748, 4036734; 616796, 4036695; 616856, 4036613; 616887, 4036569; 616906, 4036529; 616915, 4036490; 616918, 4036460; 616915, 4036427; 616906, 4036387; 616859, 4036232; 616856, 4036151; 616874, 4035992; 616878, 4035933; 616871, 4035855; 616843, 4035786; 616842, 4035706; 616857, 4035635; 616910, 4035453; 616908, 4035384; 616885, 4035330; 616875, 4035287; 616872, 4035199; 616865, 4035152; 616845, 4035105; 616811, 4034976; 616801, 4034962; 616709, 4034737; 616674, 4034522; 616665, 4034280; 616685, 4034250; 616695, 4034190; 616700, 4034069; 616712, 4034004; 616735, 4033952; 616769, 4033898; 616839, 4033768; 616872, 4033667; 616891, 4033622; 616923, 4033578; 616990, 4033512; 617030, 4033496; 617122, 4033488; 617137, 4033459; 617138, 4033395; 617147, 4033333; 617166, 4033289; 617210, 4033240; 617236, 4033227; 617269, 4033210; 617342, 4033209; 617389, 4033225; 617466, 4033260; 617494, 4033258; 617515, 4033245; 617568, 4033143; 617598, 4033106; 617634, 4033081; 617681, 4033062; 617736, 4033059; 617788, 4033074; 617852, 4033099; 617911, 4033118; 617955, 4033149; 617992, 4033159; 618071, 4033161; 618133, 4033154; 618198, 4033141; 618242, 4033111; 618272, 4033051; 618281, 4032988; 618301, 4032887; 618321, 4032830; 618341, 4032792; 618376, 4032759; 618408, 4032738; 618454, 4032715; 618557, 4032683; 618585, 4032665; 618601, 4032627; 618608, 4032579; 618651, 4032516; 618691, 4032391; 618710, 4032366; 618746, 4032329; 618807, 4032296; 618874, 4032282; 619017, 4032275; 619088, 4032263; 619153, 4032239; 619188, 4032222; 619248, 4032185; 619332, 4032113; 619402, 4032075; 619557, 4032041; 619810, 4031965; 619863, 4031941; 619945, 4031914; 620027, 4031906; 620095, 4031886; 620143, 4031859; 620229, 4031783; 620315, 4031742; 620377, 4031699; 620423, 4031672; 620465, 4031658; 620518, 4031654; 620566, 4031686; 620607, 4031728; 620638, 4031746; 620670, 4031748; 620723, 4031720; 620767, 4031648; 620809, 4031595; 620851, 4031558; 620886, 4031536; 620915, 4031507; 620940, 4031453; 620976, 4031408; 621025, 4031372; 621120, 4031343; 621208, 4031299; 621259, 4031289; 621331, 4031316; 621430, 4031421; 621494, 4031436; 621594, 4031384; 621717, 4031345; 621760, 4031343; 621802, 4031341; 621898, 4031307; 622071, 4031265; 622184, 4031253; 622296, 4031237; 622362, 4031214; 622576, 4031104; 622773, 4031037; 622852, 4031014; 622953, 4030971; 623052, 4030900; 623105, 4030872; 623171, 4030831; 623178, 4030804; 623221, 4030722; 623237, 4030702; 623259, 4030684; 623289, 4030666; 623315, 4030643; 623361, 4030567; 623398, 4030535; 623446, 4030512; 623509, 4030498; 623602, 4030498; 623647, 4030483; 623664, 4030463; 623689, 4030414; 623727, 4030382; 623803, 4030369; 623871, 4030361; 623977, 4030313; 624091, 4030214; 624250, 4030070; 624328, 4030009; 624380, 4029981; 624430, 4029990; 624457, 4030027; 624468, 4030081; 624491, 4030153; 624520, 4030231; 624538, 4030262; 624563, 4030294; 624623, 4030318; 624703, 4030332; 624788, 4030381; 624836, 4030390; 624972, 4030284; 625105, 4030204; 625144, 4030153; 625185, 4030068; 625210, 4029987; 625241, 4029931; 625301, 4029903; 625367, 4029880; 625424, 4029846; 625459, 4029793; 625485, 4029615; 625529, 4029587; 625582, 4029601; 625648, 4029601; 625713, 4029571; 625757, 4029527; 625774, 4029448; 625770, 4029379; 625816, 4029330; 626033, 4029279; 626113, 4029258; 626149, 4029245; 626161, 4029238; 626170, 4029275; 626225, 4029345; 626364, 4029481; 626399, 4029509; 626422, 4029516; 626485, 4029494; 626541, 4029453; 626682, 4029363; 626749, 4029342; 626838, 4029340; 626895, 4029365; 626932, 4029398; 626933, 4029431; 626951, 4029471; 627065, 4029583; 627130, 4029630; 627197, 4029695; 627239, 4029762; 627272, 4029798; 627279, 4029824; 627273, 4029867; 627272, 4029920; 627277, 4029975; 627275, 4030031; 627278, 4030080; 627287, 4030141; 627305, 4030231; 627319, 4030291; 627338, 4030345; 627359, 4030385; 627410, 4030440; 627454, 4030496; 627481, 4030546; 627517, 4030590; 627589, 4030621; 627604, 4030663; 627600, 4030795; 627610, 4030873; 627633, 4030934; 627666, 4030985; 627696, 4031023; 627771, 4031084; 627799, 4031090; 627879, 4031068; 627921, 4031084; 628000, 4031204; 628088, 4031349; 628112, 4031411; 628146, 4031545; 628171, 4031603; 628200, 4031649; 628225, 4031711; 628252, 4031850; 628271, 4031928; 628300, 4031991; 628342, 4032031; 628411, 4032038; 628643, 4031999; 628667, 4032004; 628698, 4032039; 628741, 4032100; 628792, 4032123; 628841, 4032109; 628889, 4032075; 628922, 4032037; 629016, 4031914; 629067, 4031898; 629142, 4031901; 629169, 4031888; 629189, 4031841; 629208, 4031769; 629241, 4031714; 629294, 4031694; 629381, 4031698; 629490, 4031694; 629599, 4031672; 629786, 4031660; 629848, 4031663; 629889, 4031683; 629978, 4031828; 630029, 4031864; 630084, 4031868; 630144, 4031849; 630324, 4031755; 630414, 4031744; 630588, 4031759; 630721, 4031738; 630829, 4031762; 630873, 4031783; 630913, 4031813; 630968, 4031871; 631037, 4031935; 631103, 4031969; 631187, 4031969; 631241, 4031954; 631302, 4031928; 631362, 4031912; 631437, 4031918; 631499, 4031941; 631545, 4031962; 631572, 4031958; 631617, 4031928; 631666, 4031904; 631719, 4031914; 631824, 4031971; 631865, 4032007; 631915, 4032072; 631949, 4032109; 631988, 4032135; 632156, 4032186; 632285, 4032248; 632333, 4032266; 632385, 4032270; 632436, 4032280; 632540, 4032331; 632598, 4032351; 632632, 4032353; 632670, 4032348; 632785, 4032292; 632854, 4032296; 632864, 4032302; 632999, 4032401; 633024, 4032449; 633040, 4032496; 633062, 4032546; 633087, 4032585; 633145, 4032662; 633161, 4032698; 633170, 4032754; 633175, 4032835; 633203, 4032904; 633268, 4032809; 633305, 4032747; 633352, 4032709; 633442, 4032655; 633509, 4032610; 633559, 4032563; 633605, 4032505; 633687, 4032444; 633837, 4032413; 633881, 4032390; 633918, 4032347; 633950, 4032290; 633989, 4032248; 634029, 4032227; 634096, 4032200; 634176, 4032162; 634238, 4032107; 634275, 4032048; 634298, 4031994; 634326, 4031944; 634371, 4031889; 634400, 4031865; 634428, 4031846; 634449, 4031824; 634543, 4031796; 634558, 4031759; 634523, 4031660; 634510, 4031600; 634494, 4031543; 634487, 4031481; 634488, 4031407; 634474, 4031363; 634456, 4031323; 634448, 4031285; 634451, 4031243; 634482, 4031194; 634535, 4031144; 634600, 4031100; 634689, 4031001; 634746, 4030947; 634777, 4030901; 634786, 4030866; 634723, 4030727; 634707, 4030670; 634705, 4030621; 634709, 4030547; 634723, 4030500; 634763, 4030451; 634819, 4030403; 634871, 4030377; 634950, 4030375; 635022, 4030362; 635065, 4030337; 635116, 4030300; 635161, 4030254; 635174, 4030214; 635177, 4030174; 635189, 4030118; 635219, 4030033; 635330, 4029936; 635380, 4029868; 635391, 4029771; 635367, 4029626; 635396, 4029568; 635464, 4029465; 635492, 4029427; 635507, 4029368; 635493, 4029204; 635484, 4029153; 635462, 4029105; 635465, 4029053; 635496, 4029023; 635630, 4028953; 635661, 4028916; 635663, 4028872; 635650, 4028831; 635648, 4028792; 635669, 4028717; 635654, 4028629; 635635, 4028548; 635628, 4028472; 635628, 4028410; 635636, 4028335; 635682, 4028171; 635704, 4028076; 635699, 4028009; 635675, 4027954; 635661, 4027903; 635645, 4027761; 635645, 4027680; 635672, 4027620; 635745, 4027528; 635748, 4027507; 635718, 4027482; 635692, 4027467; 635638, 4027332; 635601, 4027306; 635525, 4027268; 635403, 4027164; 635390, 4027119; 635375, 4027011; 635364, 4026964; 635347, 4026908; 635345, 4026841; 635327, 4026784; 635292, 4026762; 635247, 4026743; 635209, 4026720; 635159, 4026642; 635153, 4026605; 635120, 4026567; 634963, 4026404; 634935, 4026365; 634917, 4026315; 634901, 4026200; 634885, 4026164; 634843, 4026132; 634794, 4026109; 634746, 4026073; 634720, 4026037; 634661, 4025924; 634605, 4025864; 634555, 4025823; 634517, 4025801; 634485, 4025791; 634465, 4025773; 634378, 4025669; 634314, 4025609; 634281, 4025592; 634137, 4025576; 634006, 4025529; 633961, 4025508; 633866, 4025420; 633803, 4025351; 633765, 4025302; 633734, 4025240; 633694, 4025184; 633652, 4025134; 633621, 4025077; 633523, 4024959; 633470, 4024906; 633419, 4024901; 633334, 4024914; 633259, 4024935; 633176, 4024967; 633141, 4024952; 633100, 4024946; 633008, 4024977; 632947, 4024982; 632903, 4024973; 632843, 4024954; 632705, 4024926; 632656, 4024913; 632590, 4024890; 632512, 4024854; 632474, 4024823; 632428, 4024801; 632376, 4024790; 632322, 4024790; 632215, 4024814; 632154, 4024845; 632105, 4024877; 632074, 4024880; 632042, 4024863; 632014, 4024835; 631998, 4024836; 631970, 4024828; 631875, 4024784; 631838, 4024771; 631789, 4024762; 631753, 4024759; 631714, 4024767; 631647, 4024788; 631588, 4024812; 631499, 4024856; 631440, 4024902; 631388, 4024924; 631299, 4024931; 631240, 4024923; 631186, 4024929; 631092, 4024997; 631043, 4025019; 630934, 4025101; 630863, 4025141; 630804, 4025200; 630732, 4025281; 630688, 4025334; 630665, 4025370; 630640, 4025422; 630619, 4025484; 630605, 4025605; 630579, 4025657; 630524, 4025720; 630412, 4025822; 630354, 4025858; 630273, 4025894; 630225, 4025912; 630170, 4025927; 630091, 4025943; 630032, 4025962; 629983, 4025989; 629846, 4026111; 629791, 4026145; 629730, 4026172; 629666, 4026192; 629445, 4026240; 629388, 4026259; 629344, 4026288; 629307, 4026322; 629225, 4026418; 629176, 4026490; 629169, 4026506; 629164, 4026536; 629105, 4026586; 629059, 4026632; 628956, 4026804; 628888, 4026886; 628852, 4026860; 628816, 4026829; 628772, 4026763; 628762, 4026751; 628747, 4026741; 628727, 4026687; 628675, 4026605; 628659, 4026556; 628655, 4026504; 628672, 4026427; 628668, 4026395; 628644, 4026322; 628639, 4026287; 628643, 4026238; 628643, 4026187; 628628, 4026132; 628604, 4026068; 628595, 4026010; 628584, 4025963; 628566, 4025932; 628536, 4025892; 628489, 4025836; 628441, 4025796; 628393, 4025743; 628358, 4025689; 628339, 4025629; 628318, 4025441; 628307, 4025393; 628283, 4025364; 628174, 4025284; 628101, 4025253; 628055, 4025242; 628022, 4025225; 627998, 4025199; 628018, 4025152; 628029, 4025111; 628026, 4025024; 628060, 4024933; 628113, 4024845; 628140, 4024783; 628195, 4024626; 628231, 4024508; 628310, 4024328; 628335, 4024251; 628349, 4024200; 628370, 4024065; 628389, 4023998; 628390, 4023950; 628377, 4023895; 628309, 4023719; 628288, 4023686; 628240, 4023645; 628191, 4023582; 628143, 4023503; 628101, 4023443; 627970, 4023318; 627887, 4023248; 627840, 4023215; 627770, 4023180; 627725, 4023146; 627698, 4023119; 627668, 4023075; 627633, 4023016; 627590, 4022986; 627473, 4022915; 627439, 4022876; 627399, 4022803; 627360, 4022673; 627351, 4022610; 627353, 4022568; 627365, 4022516; 627478, 4022322; 627551, 4022184; 627634, 4021991; 627645, 4021935; 627640, 4021893; 627588, 4021694; 627588, 4021602; 627604, 4021484; 627644, 4021271; 627660, 4021230; 627689, 4021176; 627704, 4021126; 627710, 4020952; 627680, 4020787; 627648, 4020577; 627638, 4020534; 627618, 4020490; 627610, 4020464; 627638, 4020417; 627798, 4020123; 627846, 4020004; 627864, 4019966; 627885, 4019929; 627897, 4019895; 627916, 4019856; 627932, 4019839; 627957, 4019823; 627984, 4019801; 628015, 4019764; 628075, 4019651; 628098, 4019620; 628142, 4019586; 628302, 4019500; 628356, 4019464; 628414, 4019415; 628481, 4019382; 628524, 4019377; 628499, 4019276; 628502, 4019214; 628530, 4019137; 628563, 4019072; 628611, 4018990; 628654, 4018904; 628691, 4018815; 628717, 4018734; 628735, 4018643; 628720, 4018514; 628725, 4018445; 628740, 4018389; 628766, 4018341; 628926, 4018117; 628952, 4018059; 628948, 4017989; 628940, 4017971; 628879, 4017875; 628809, 4017716; 628759, 4017663; 628702, 4017635; 628676, 4017590; 628622, 4017516; 628573, 4017475; 628485, 4017411; 628460, 4017358; 628456, 4017306; 628424, 4017216; 628395, 4017177; 628362, 4017145; 628326, 4017121; 628292, 4017121; 628275, 4017130; 628194, 4017232; 628111, 4017288; 628067, 4017314; 627991, 4017342; 627913, 4017416; 627829, 4017481; 627787, 4017499; 627676, 4017533; 627565, 4017586; 627510, 4017600; 627467, 4017597; 627387, 4017580; 627141, 4017542; 627025, 4017492; 626957, 4017470; 626900, 4017478; 626861, 4017504; 626809, 4017530; 626759, 4017528; 626646, 4017529; 626576, 4017520; 626529, 4017519; 626421, 4017528; 626248, 4017531; 626208, 4017534; 626145, 4017566; 626034, 4017629; 625978, 4017666; 625892, 4017716; 625820, 4017733; 625678, 4017734; 625596, 4017728; 625536, 4017713; 625422, 4017673; 625366, 4017672; 625322, 4017683; 625272, 4017705; 625244, 4017728; 625239, 4017741; 625176, 4017810; 625136, 4017872; 625069, 4017947; 625011, 4018004; 624950, 4018041; 624879, 4018070; 624813, 4018089; 624659, 4018164; 624594, 4018209; 624556, 4018268; 624501, 4018462; 624448, 4018573; 624370, 4018688; 624315, 4018748; 624205, 4018837; 624143, 4018882; 624078, 4018920; 624032, 4018936; 623988, 4018944; 623947, 4018959; 623909, 4018994; 623879, 4019028; 623844, 4019082; 623806, 4019159; 623795, 4019225; 623792, 4019305; 623771, 4019378; 623723, 4019428; 623676, 4019444; 623582, 4019430; 623532, 4019428; 623425, 4019439; 623380, 4019451; 623357, 4019445; 623335, 4019450; 623256, 4019417; 623190, 4019397; 623113, 4019411; 622972, 4019510; 622897, 4019551; 622839, 4019569; 622771, 4019585; 622689, 4019616; 622637, 4019685; 622618, 4019735; 622584, 4019839; 622529, 4019960; 622510, 4020010; 622506, 4020058; 622511, 4020068; 622424, 4020093; 622354, 4020107; 622280, 4020117; 622215, 4020120; 622127, 4020114; 622014, 4020120; 621906, 4020164; 621804, 4020199; 621730, 4020211; 621662, 4020206; 621603, 4020195; 621553, 4020190; 621487, 4020203; 621415, 4020230; 621335, 4020267; 621220, 4020307; 620999, 4020416; 620929, 4020461; 620852, 4020491; 620772, 4020502; 620721, 4020502; 620529, 4020537; 620440, 4020541; 620255, 4020500; 620186, 4020517; 620043, 4020590; 619983, 4020609; 619929, 4020621; 619864, 4020642; 619801, 4020656; 619675, 4020666; 619610, 4020683; 619558, 4020690; 619523, 4020672; 619462, 4020628; 619416, 4020590; 619384, 4020557; 619343, 4020488; 619316, 4020433; 619283, 4020377; 619208, 4020293; 619175, 4020247; 619140, 4020193; 619113, 4020144; 619083, 4020102; 618994, 4020006; 618972, 4019990; 618939, 4019977; 618896, 4019954; 618831, 4019912; 618748, 4019882; 618695, 4019879; 618600, 4019845; 618541, 4019827; 618475, 4019814; 618452, 4019804; 618395, 4019762; 618262, 4019677; 618175, 4019691; 618132, 4019690; 618068, 4019672; 618011, 4019667; 617969, 4019677; 617857, 4019725; 617783, 4019753; 617679, 4019776; 617591, 4019778; 617373, 4019761; 617292, 4019763; 617216, 4019781; 617141, 4019804; 617074, 4019836; 616972, 4019958; 616927, 4019996; 616869, 4020029; 616812, 4020050; 616752, 4020058; 616712, 4020069; 616651, 4020128; 616584, 4020161; 616524, 4020153; 616470, 4020127; 616353, 4020060; 616235, 4020012; 616185, 4020004; 616127, 4020006; 616054, 4020023; 616010, 4020050; 615975, 4020098; 615973, 4020152; 615989, 4020278; 615989, 4020342; 615979, 4020410; 615968, 4020439; 615942, 4020488; 615912, 4020528; 615881, 4020553; 615839, 4020572; 615785, 4020587; 615673, 4020601; 615614, 4020619; 615528, 4020685; 615409, 4020733; 615313, 4020801; 615283, 4020844; 615252, 4020882; 615226, 4020943; 615205, 4021009; 615181, 4021141; 615183, 4021216; 615211, 4021292; 615253, 4021365; 615294, 4021415; 615340, 4021492; 615358, 4021556; 615365, 4021619; 615378, 4021666; 615404, 4021711; 615470, 4021798; 615501, 4021845; 615664, 4022148; 615716, 4022234; 615773, 4022301; 615868, 4022438; 615979, 4022550; 616001, 4022564; 615921, 4022591; 615855, 4022620; 615801, 4022657; 615740, 4022711; 615687, 4022786; 615635, 4022875; 615597, 4022916; 615548, 4022949; 615488, 4022971; 615442, 4022982; 615394, 4023003; 615241, 4023109; 615204, 4023125; 615072, 4023227; 615059, 4023232; 615011, 4023268; 614961, 4023293; 614904, 4023316; 614839, 4023354; 614758, 4023392; 614676, 4023449; 614619, 4023507; 614532, 4023549; 614492, 4023578; 614426, 4023671; 614346, 4023799; 614310, 4023900; 614299, 4023975; 614318, 4024060; 614317, 4024126; 614328, 4024173; 614331, 4024224; 614338, 4024271; 614370, 4024370; 614374, 4024416; 614365, 4024468; 614334, 4024517; 614283, 4024557; 614227, 4024568; 614191, 4024570; 614153, 4024577; 614115, 4024594; 614063, 4024628; 614026, 4024675; 613982, 4024719; 613920, 4024757; 613820, 4024791; 613776, 4024812; 613752, 4024851; 613725, 4024872; 613683, 4024919; 613599, 4025040; 613559, 4025072; 613422, 4025119; 613371, 4025122; 613298, 4025115; 613211, 4025118; 613153, 4025134; 613067, 4025145; 612979, 4025131; 612883, 4025105; 612842, 4025089; 612641, 4025030; 612593, 4024994; 612555, 4024949; 612509, 4024904; 612463, 4024877; 612434, 4024882; 612403, 4024925; 612363, 4024948; 612232, 4024975; 612200, 4024978; 612162, 4024978; 612116, 4024972; 612089, 4024964; 611995, 4024905; 611955, 4024898; 611919, 4024908; 611854, 4024943; 611795, 4024986; 611750, 4025038; 611707, 4025176; 611669, 4025235; 611600, 4025307; 611547, 4025391; 611513, 4025431; 611475, 4025486; 611427, 4025539; 611373, 4025579; 611294, 4025615; 611227, 4025633; 611195, 4025651; 611063, 4025816; 610983, 4025897; 610956, 4025761; 610929, 4025669; 610880, 4025627; 610711, 4025548; 610592, 4025474; 610521, 4025449; 610470, 4025408; 610424, 4025385; 610369, 4025385; 610289, 4025417; 610252, 4025425; 610091, 4025462; 610042, 4025467; 609966, 4025464; 609907, 4025483; 609861, 4025531; 609785, 4025700; 609755, 4025743; 609698, 4025771; 609647, 4025785; 609575, 4025824; 609518, 4025859; 609453, 4025922; 609331, 4026006; 609284, 4026064; 609263, 4026109; 609184, 4026198; 609018, 4026320; 608969, 4026365; 608915, 4026395; 608893, 4026398; 608897, 4026465; 608897, 4026516; 608864, 4026775; 608859, 4026910; 608847, 4027084; 608817, 4027162; 608781, 4027218; 608736, 4027264; 608690, 4027297; 608655, 4027332; 608657, 4027382; 608677, 4027413; 608691, 4027442; 608678, 4027483; 608630, 4027561; 608614, 4027603; 608591, 4027629; 608562, 4027650; 608530, 4027663; 608496, 4027671; 608383, 4027690; 608321, 4027710; 608281, 4027733; 608226, 4027778; 608179, 4027832; 608131, 4027863; 608069, 4027912; 607966, 4028005; 607870, 4028056; 607814, 4028100; 607775, 4028115; 607745, 4028120; 607712, 4028135; 607672, 4028168; 607618, 4028204; 607578, 4028244; 607510, 4028334; 607481, 4028382; 607453, 4028439; 607410, 4028507; 607348, 4028553; 607284, 4028564; 607229, 4028558; 607112, 4028539; 607041, 4028534; 606965, 4028573; 606905, 4028655; 606860, 4028711; 606816, 4028735; 606738, 4028758; 606704, 4028792; 606703, 4028829; 606749, 4028948; 606758, 4028980; 606751, 4029076; 606729, 4029176; 606697, 4029275; 606656, 4029339; 606622, 4029420; 606599, 4029501; 606586, 4029580; 606585, 4029638; 606592, 4029718; 606594, 4029841; 606601, 4029897; 606628, 4029956; 606659, 4030002; 606680, 4030050; 606675, 4030097; 606660, 4030129; 606606, 4030200; 606594, 4030249; 606600, 4030344; 606617, 4030417; 606631, 4030612; 606646, 4030681; 606669, 4030768; 606663, 4030822; 606634, 4030873; 606555, 4030916; 606409, 4030916; 606346, 4030941; 606249, 4031026; 606186, 4031091; 606134, 4031115; 606086, 4031117; 606017, 4031130; 605944, 4031159; 605886, 4031167; 605817, 4031192; 605775, 4031191; 605669, 4031149; 605598, 4031155; 605503, 4031195; 605420, 4031225; 605314, 4031255; 605222, 4031286; 605127, 4031328; 605058, 4031389; 604955, 4031445; 604908, 4031488; 604869, 4031534; 604796, 4031662; 604766, 4031787; 604766, 4031875; 604750, 4031915; 604723, 4031941; 604594, 4031992; 604415, 4032092; 604277, 4032132; 604215, 4032159; 604092, 4032249; 604056, 4032256; 604015, 4032238; 603955, 4032221; 603767, 4032244; 603718, 4032260; 603670, 4032304; 603620, 4032341; 603571, 4032367; 603517, 4032413; 603455, 4032475; 603407, 4032506; 603363, 4032526; 603252, 4032562; 603205, 4032571; 603166, 4032561; 603063, 4032506; 603022, 4032501; 602972, 4032519; 602919, 4032545; 602862, 4032564; 602824, 4032580; 602795, 4032606; 602770, 4032643; 602724, 4032751; 602672, 4032823; 602533, 4032944; 602510, 4032949; 602555, 4032988; 602583, 4033019; 602608, 4033063; 602615, 4033109; 602616, 4033255; 602625, 4033290; 602666, 4033362; 602683, 4033401; 602694, 4033439; 602701, 4033493; 602721, 4033581; 602750, 4033661; 602748, 4033691; 602746, 4033713; 602724, 4033743; 602682, 4033773; 602619, 4033809; 602512, 4033882; 602253, 4034001; 602221, 4034022; 602178, 4034044; 602118, 4034068; 602044, 4034091; 601896, 4034124; 601836, 4034128; 601746, 4034101; 601700, 4034112; 601672, 4034141; 601628, 4034213; 601591, 4034280; 601556, 4034329; 601481, 4034369; 601436, 4034386; 601369, 4034418; 601327, 4034456; 601283, 4034516; 601232, 4034611; 601223, 4034666; 601216, 4034800; 601196, 4034949; 601197, 4035070; 601212, 4035112; 601232, 4035150; 601243, 4035180; 601245, 4035219; 601231, 4035251; 601181, 4035336; 601137, 4035419; 601077, 4035491; 601066, 4035522; 601059, 4035611; 601079, 4035641; 601123, 4035688; 601168, 4035752; 601185, 4035813; 601203, 4035891; 601206, 4035964; 601200, 4036031; 601181, 4036068; 601136, 4036098; 601102, 4036135; 601070, 4036175; 601043, 4036194; 601007, 4036209; 600978, 4036217; 600949, 4036231; 600889, 4036286; 600864, 4036318; 600845, 4036351; 600831, 4036382; 600788, 4036505; 600770, 4036534; 600726, 4036591; 600717, 4036611; 600697, 4036621; 600672, 4036675; 600641, 4036702; 600505, 4036757; 600429, 4036795; 600278, 4036905; 600216, 4036968; 600183, 4036985; 600160, 4036993; 600139, 4037020; 600082, 4037119; 600063, 4037171; 600049, 4037287; 600027, 4037345; 599998, 4037408; 599967, 4037457; 599938, 4037482; 599911, 4037513; 599886, 4037550; 599832, 4037611; 599800, 4037629; 599755, 4037645; 599653, 4037701; 599627, 4037709; 599593, 4037710; 599556, 4037716; 599529, 4037728; 599472, 4037769; 599442, 4037802; 599436, 4037837; 599440, 4037945; 599461, 4038027; 599467, 4038066; 599471, 4038184; 599464, 4038233; 599443, 4038272; 599423, 4038291; 599401, 4038320; 599364, 4038349; 599320, 4038368; 599278, 4038379; 599247, 4038399; 599228, 4038440; 599203, 4038478; 599163, 4038508; 599130, 4038527; 599044, 4038564; 599021, 4038578; 598999, 4038601; 598986, 4038663; 598968, 4038686; 598904, 4038731; 598868, 4038740; 598658, 4038742; 598615, 4038747; 598573, 4038761; 598529, 4038784; 598492, 4038813; 598469, 4038844; 598458, 4038871; 598423, 4038921; 598401, 4038927; 598366, 4038923; 598328, 4038926; 598316, 4038960; 598326, 4039018; 598327, 4039041; 598311, 4039055; 598286, 4039070; 598258, 4039080; 598218, 4039090; 598170, 4039097; 598151, 4039111; 598146, 4039165; 598160, 4039243; 598178, 4039291; 598202, 4039324; 598234, 4039357; 598250, 4039388; 598249, 4039431; 598234, 4039460; 598184, 4039525; 598173, 4039551; 598160, 4039632; 598155, 4039697; 598114, 4039848; 598102, 4039970; 597949, 4040391; 597770, 4040819; 597447, 4041202; 597253, 4041444; 596744, 4041800; 596508, 4042061; 596252, 4042301; 595916, 4042481; 595939, 4042488; 595975, 4042509; 596045, 4042581; 596125, 4042675; 596168, 4042737; 596197, 4042793; 596214, 4042864; 596225, 4042892; 596220, 4042916; 596210, 4042927; 596185, 4042943; 596183, 4042952; 596188, 4042958; 596206, 4042953; 596208, 4042961; 596192, 4042984; 596186, 4042999; 596175, 4043004; 596171, 4043011; 596174, 4043025; 596173, 4043038; 596161, 4043045; 596140, 4043043; 596113, 4043052; 596111, 4043059; 596117, 4043072; 596123, 4043074; 596133, 4043088; 596133, 4043100; 596122, 4043113; 596120, 4043123; 596122, 4043136; 596135, 4043154; 596142, 4043172; 596153, 4043238; 596150, 4043278; 596139, 4043326; 596113, 4043382; 596101, 4043399; 596074, 4043418; 596051, 4043440; 596045, 4043464; 596052, 4043508; 596048, 4043526; 596036, 4043554; 596001, 4043602; 595999, 4043631; 595982, 4043672; 595966, 4043689; 595956, 4043705; 595946, 4043775; 595922, 4043841; 595925, 4043895; 595923, 4043950; 595912, 4043930; 595905, 4043931; 595903, 4043939; 595914, 4043980; 595913, 4044017; 595893, 4044082; 595852, 4044156; 595809, 4044244; 595803, 4044251; 595804, 4044252; 595980, 4044472; 596641, 4044556; 597625, 4043868; 598316, 4044030; 598771, 4043986; 599109, 4044228; 599364, 4044256; 599492, 4044450; 599412, 4044472; 599400, 4044703; 598784, 4044876; 598904, 4045023; 598904, 4045172; 598777, 4045395; 598977, 4046334; 599354, 4046979; 599608, 4047352; 599646, 4047291; 599754, 4047193; 599937, 4047089; 600359, 4046861; 600490, 4046893; 600639, 4046997; 600728, 4047051; 600829, 4047075; 600901, 4047068; 601344, 4047023; 601445, 4047039; 601618, 4047106; 601836, 4047123; 601992, 4046990; 602273, 4046964; 602474, 4046932; 602558, 4046922; 602578, 4046917; 602591, 4046944; 602692, 4047041; 602830, 4047224; 603037, 4047321; 603207, 4047358; 603370, 4047112; returning to 603442, 4046923.

(ii) Note: Unit MNT-2 for California red-legged frog is depicted on the map in paragraph (35)(ii) of this entry.

(37) Unit MNT-3: Monterey County, California. From USGS 1:24,000 scale quadrangles Point Sur, Big Sur, Pfeiffer Point, Ventana Cones and Partington Ridge.

(i) Land bounded by the following UTM zone 10, NAD 1983 coordinates (E, N): 599824, 4020540; 599988, 4020265; 600160, 4020013; 600076, 4019744; 600415, 4019570; 600658, 4019298; 600921, 4019265; 600965, 4019257; 601003, 4019253; 601040, 4019257; 601097, 4019279; 601137, 4019304; 601189, 4019357; 601238, 4019547; 601271, 4019618; 601296, 4019581; 601335, 4019536; 601363, 4019514; 601395, 4019503; 601491, 4019514; 601602, 4019490; 601670, 4019479; 601773, 4019469; 601816, 4019444; 601850, 4019407; 601902, 4019246; 601984, 4019153; 602042, 4019102; 602060, 4019073; 602064, 4019048; 602079, 4019037; 602138, 4019078; 602174, 4019087; 602211, 4019087; 602354, 4019075; 602437, 4019093; 602479, 4019118; 602498, 4019123; 602702, 4019137; 602774, 4019110; 602825, 4019084; 602891, 4019014; 602948, 4018943; 602973, 4018931; 603012, 4018933; 603092, 4018962; 603177, 4019020; 603214, 4019037; 603245, 4019046; 603292, 4019038; 603338, 4019025; 603452, 4019019; 603482, 4019006; 603514, 4018966; 603547, 4018895; 603567, 4018867; 603606, 4018828; 603644, 4018801; 603792, 4018656; 603840, 4018617; 603903, 4018541; 604000, 4018412; 604071, 4018329; 604115, 4018253; 604181, 4018122; 604235, 4018085; 604311, 4018065; 604384, 4018059; 604468, 4018037; 604516, 4018015; 604574, 4017974; 604623, 4017928; 604688, 4017843; 604714, 4017786; 604749, 4017730; 604776, 4017677; 604803, 4017638; 604862, 4017580; 604893, 4017537; 604926, 4017503; 604971, 4017487; 605136, 4017472; 605196, 4017452; 605247, 4017425; 605294, 4017407; 605339, 4017364; 605379, 4017319; 605431, 4017303; 605532, 4017289; 605646, 4017265; 605701, 4017263; 605744, 4017255; 605813, 4017227; 605871, 4017183; 605965, 4017095; 606006, 4017077; 606075, 4017068; 606124, 4017066; 606155, 4017030; 606163, 4016974; 606160, 4016945; 606166, 4016909; 606203, 4016848; 606220, 4016829; 606246, 4016829; 606311, 4016894; 606342, 4016919; 606378, 4016938; 606440, 4016946; 606473, 4016954; 606515, 4016972; 606563, 4017007; 606596, 4017019; 606640, 4017004; 606687, 4016974; 606764, 4016960; 606806, 4016941; 606899, 4016791; 606925, 4016726; 606948, 4016691; 606979, 4016660; 606999, 4016627; 607011, 4016589; 607037, 4016541; 607116, 4016487; 607159, 4016440; 607271, 4016368; 607312, 4016334; 607370, 4016300; 607422, 4016280; 607466, 4016273; 607514, 4016291; 607542, 4016318; 607607, 4016462; 607660, 4016561; 607672, 4016600; 607704, 4016650; 607730, 4016676; 607833, 4016703; 607897, 4016715; 607939, 4016735; 607972, 4016737; 608011, 4016727; 608120, 4016679; 608190, 4016668; 608264, 4016677; 608333, 4016691; 608398, 4016688; 608446, 4016682; 608477, 4016673; 608514, 4016652; 608565, 4016603; 608613, 4016563; 608672, 4016546; 608755, 4016537; 608817, 4016537; 608863, 4016543; 608921, 4016543; 609023, 4016562; 609038, 4016561; 609104, 4016549; 609167, 4016531; 609237, 4016506; 609290, 4016469; 609391, 4016361; 609444, 4016311; 609513, 4016263; 609639, 4016186; 609763, 4016093; 609814, 4016070; 609870, 4016051; 609973, 4016026; 610015, 4016022; 610060, 4016011; 610107, 4015986; 610170, 4015933; 610217, 4015886; 610232, 4015866; 610258, 4015894; 610291, 4015914; 610351, 4015929; 610477, 4015943; 610533, 4015955; 610580, 4015993; 610603, 4016032; 610629, 4016131; 610667, 4016190; 610706, 4016228; 610743, 4016250; 610879, 4016303; 610936, 4016331; 611035, 4016395; 611088, 4016419; 611150, 4016438; 611215, 4016453; 611529, 4016495; 611713, 4016508; 611788, 4016500; 611863, 4016461; 611895, 4016440; 611928, 4016439; 612034, 4016469; 612088, 4016470; 612145, 4016486; 612191, 4016508; 612229, 4016515; 612268, 4016513; 612309, 4016505; 612358, 4016485; 612404, 4016473; 612465, 4016462; 612621, 4016421; 612671, 4016391; 612720, 4016379; 612755, 4016386; 612816, 4016453; 612834, 4016500; 612872, 4016555; 612882, 4016588; 612886, 4016647; 612904, 4016695; 612959, 4016726; 613001, 4016732; 613149, 4016777; 613198, 4016801; 613349, 4016887; 613399, 4016924; 613426, 4016961; 613471, 4017079; 613517, 4017167; 613551, 4017247; 613566, 4017413; 613575, 4017473; 613574, 4017598; 613592, 4017642; 613619, 4017681; 613633, 4017709; 613644, 4017749; 613666, 4017774; 613693, 4017790; 613806, 4017842; 613857, 4017858; 613921, 4017893; 613973, 4017961; 614019, 4017991; 614043, 4018017; 614083, 4018093; 614110, 4018119; 614131, 4018132; 614150, 4018138; 614211, 4018139; 614288, 4018138; 614379, 4018127; 614441, 4018132; 614554, 4018208; 614600, 4018224; 614737, 4018259; 614778, 4018259; 614898, 4018233; 614959, 4018225; 615012, 4018206; 615051, 4018184; 615079, 4018162; 615100, 4018134; 615190, 4018072; 615245, 4018049; 615296, 4018046; 615310, 4018040; 615307, 4018007; 615329, 4017912; 615349, 4017875; 615362, 4017844; 615375, 4017791; 615409, 4017705; 615429, 4017664; 615456, 4017639; 615508, 4017610; 615576, 4017599; 615757, 4017592; 615845, 4017583; 615936, 4017578; 615985, 4017571; 616026, 4017571; 616073, 4017594; 616098, 4017621; 616123, 4017631; 616153, 4017610; 616194, 4017564; 616225, 4017542; 616280, 4017487; 616300, 4017463; 616323, 4017424; 616337, 4017384; 616340, 4017345; 616363, 4017298; 616398, 4017259; 616421, 4017224; 616434, 4017182; 616429, 4017144; 616417, 4017102; 616383, 4017056; 616361, 4017014; 616304, 4016940; 616296, 4016900; 616276, 4016854; 616254, 4016812; 616231, 4016782; 616181, 4016750; 616152, 4016725; 616135, 4016696; 616118, 4016645; 616105, 4016538; 616044, 4016297; 616029, 4016260; 615994, 4016223; 615921, 4016130; 615879, 4016083; 615861, 4016038; 615857, 4015992; 615858, 4015964; 615875, 4015887; 615879, 4015832; 615876, 4015718; 615869, 4015667; 615853, 4015622; 615828, 4015591; 615800, 4015570; 615732, 4015536; 615696, 4015504; 615676, 4015467; 615646, 4015423; 615591, 4015367; 615540, 4015270; 615526, 4015260; 615510, 4015239; 615499, 4015200; 615494, 4015109; 615474, 4015057; 615430, 4015002; 615414, 4014960; 615407, 4014916; 615403, 4014771; 615385, 4014714; 615376, 4014673; 615357, 4014663; 615305, 4014666; 615249, 4014662; 615174, 4014646; 615109, 4014616; 615071, 4014592; 615036, 4014560; 615008, 4014511; 614968, 4014423; 614950, 4014399; 614899, 4014375; 614832, 4014364; 614781, 4014347; 614752, 4014291; 614726, 4014217; 614700, 4014159; 614677, 4014124; 614655, 4014099; 614666, 4014073; 614702, 4014043; 614739, 4014004; 614801, 4013885; 614855, 4013821; 614855, 4013785; 614785, 4013714; 614502, 4013568; 614438, 4013524; 614388, 4013481; 614354, 4013441; 614323, 4013384; 614307, 4013336; 614295, 4013240; 614284, 4013196; 614278, 4013148; 614280, 4013093; 614327, 4012965; 614350, 4012892; 614364, 4012831; 614371, 4012764; 614367, 4012711; 614350, 4012634; 614313, 4012537; 614240, 4012471; 614187, 4012430; 614173, 4012413; 614154, 4012376; 614126, 4012256; 614090, 4012181; 614031, 4012142; 613963, 4012111; 613880, 4012082; 613810, 4012036; 613737, 4012003; 613677, 4011987; 613631, 4011981; 613586, 4011989; 613515, 4012007; 613465, 4012004; 613412, 4011991; 613333, 4011935; 613303, 4011893; 613279, 4011851; 613200, 4011762; 613138, 4011736; 613077, 4011731; 613046, 4011721; 613020, 4011699; 613006, 4011618; 612963, 4011538; 612955, 4011506; 612963, 4011463; 613004, 4011378; 613025, 4011319; 613049, 4011194; 613058, 4011125; 613057, 4011073; 613048, 4011032; 613006, 4010944; 613003, 4010847; 613013, 4010818; 613029, 4010791; 613064, 4010768; 613118, 4010752; 613171, 4010745; 613261, 4010726; 613313, 4010708; 613352, 4010674; 613438, 4010585; 613515, 4010494; 613535, 4010478; 613581, 4010470; 613621, 4010433; 613645, 4010394; 613688, 4010362; 613728, 4010338; 613773, 4010303; 613798, 4010249; 613814, 4010182; 613836, 4010123; 613839, 4010102; 613876, 4010036; 613906, 4010005; 613942, 4009991; 613994, 4009961; 614010, 4009921; 614008, 4009841; 614026, 4009817; 614059, 4009803; 614095, 4009794; 614125, 4009767; 614153, 4009680; 614224, 4009569; 614266, 4009529; 614311, 4009479; 614331, 4009440; 614376, 4009413; 614436, 4009384; 614483, 4009353; 614543, 4009292; 614572, 4009256; 614606, 4009220; 614679, 4009165; 614729, 4009143; 614794, 4009131; 614847, 4009133; 614890, 4009141; 614934, 4009145; 614980, 4009138; 615079, 4009082; 615111, 4009069; 615170, 4009058; 615184, 4009033; 615183, 4008994; 615190, 4008934; 615209, 4008838; 615240, 4008803; 615402, 4008754; 615585, 4008714; 615637, 4008698; 615689, 4008670; 615763, 4008612; 615806, 4008588; 615852, 4008576; 615905, 4008576; 615950, 4008611; 615988, 4008633; 616016, 4008643; 616065, 4008647; 616122, 4008634; 616226, 4008604; 616283, 4008582; 616324, 4008572; 616366, 4008569; 616410, 4008547; 616451, 4008499; 616490, 4008477; 616550, 4008474; 616596, 4008496; 616616, 4008511; 616643, 4008518; 616663, 4008506; 616706, 4008422; 616768, 4008339; 616790, 4008312; 616821, 4008290; 616871, 4008274; 617052, 4008258; 617129, 4008225; 617244, 4008140; 617288, 4008123; 617362, 4008106; 617463, 4008088; 617629, 4008078; 617732, 4008064; 617793, 4008043; 617847, 4008030; 617949, 4008033; 618016, 4008020; 618069, 4007990; 618111, 4007957; 618187, 4007907; 618218, 4007891; 618327, 4007851; 618375, 4007850; 618412, 4007879; 618437, 4007905; 618482, 4007931; 618533, 4007950; 618583, 4007951; 618634, 4007940; 618694, 4007933; 618750, 4007912; 618810, 4007880; 618873, 4007856; 618952, 4007836; 619021, 4007813; 619076, 4007784; 619202, 4007685; 619221, 4007671; 619251, 4007637; 619301, 4007565; 619473, 4007351; 619533, 4007288; 619556, 4007259; 619580, 4007236; 619614, 4007211; 619646, 4007177; 619732, 4007032; 619758, 4007001; 619847, 4006944; 619997, 4006879; 620061, 4006831; 620100, 4006772; 620156, 4006669; 620219, 4006598; 620338, 4006512; 620394, 4006438; 620413, 4006400; 620444, 4006292; 620486, 4006172; 620573, 4006039; 620601, 4006009; 620633, 4005989; 620607, 4005917; 620556, 4005825; 620459, 4005698; 620401, 4005636; 620351, 4005592; 620269, 4005529; 620203, 4005486; 620137, 4005436; 620082, 4005388; 620038, 4005356; 619966, 4005325; 619827, 4005255; 619729, 4005175; 619673, 4005143; 619541, 4005106; 619492, 4005073; 619408, 4004977; 619354, 4004941; 619192, 4004812; 619163, 4004778; 619116, 4004691; 619109, 4004636; 619143, 4004497; 619150, 4004408; 619165, 4004312; 619207, 4004224; 619244, 4004163; 619270, 4004107; 619291, 4004038; 619307, 4003966; 619333, 4003893; 619353, 4003857; 619375, 4003827; 619480, 4003708; 619526, 4003673; 619594, 4003630; 619612, 4003605; 619604, 4003535; 619560, 4003447; 619517, 4003350; 619498, 4003282; 619518, 4003222; 619539, 4003182; 619592, 4003107; 619612, 4003070; 619617, 4003037; 619574, 4002927; 619571, 4002767; 619548, 4002555; 619514, 4002445; 619499, 4002412; 619466, 4002366; 619457, 4002365; 619441, 4002381; 619400, 4002392; 619346, 4002426; 619328, 4002422; 619323, 4002409; 619315, 4002400; 619317, 4002393; 619314, 4002387; 619301, 4002388; 619296, 4002392; 619280, 4002427; 619274, 4002435; 619266, 4002436; 619256, 4002458; 619245, 4002463; 619234, 4002457; 619205, 4002463; 619199, 4002467; 619196, 4002475; 619197, 4002498; 619208, 4002531; 619234, 4002557; 619274, 4002578; 619282, 4002593; 619281, 4002602; 619267, 4002635; 619260, 4002638; 619247, 4002637; 619230, 4002639; 619222, 4002642; 619217, 4002647; 619228, 4002660; 619226, 4002670; 619220, 4002672; 619207, 4002699; 619197, 4002700; 619194, 4002708; 619198, 4002720; 619198, 4002739; 619192, 4002746; 619182, 4002748; 619168, 4002766; 619164, 4002778; 619156, 4002834; 619109, 4002901; 619099, 4002902; 619077, 4002915; 619063, 4002917; 619050, 4002906; 619038, 4002906; 619000, 4002917; 618979, 4002919; 618952, 4002935; 618938, 4002954; 618923, 4002968; 618919, 4002976; 618927, 4002990; 618929, 4003013; 618923, 4003038; 618883, 4003081; 618866, 4003086; 618830, 4003106; 618782, 4003120; 618718, 4003153; 618634, 4003177; 618585, 4003204; 618573, 4003203; 618557, 4003192; 618538, 4003195; 618524, 4003175; 618517, 4003178; 618509, 4003196; 618497, 4003196; 618487, 4003202; 618473, 4003204; 618464, 4003202; 618459, 4003196; 618458, 4003164; 618454, 4003162; 618450, 4003164; 618437, 4003180; 618426, 4003169; 618419, 4003171; 618409, 4003183; 618399, 4003223; 618400, 4003244; 618409, 4003273; 618395, 4003289; 618393, 4003298; 618385, 4003295; 618358, 4003318; 618357, 4003357; 618351, 4003365; 618329, 4003374; 618312, 4003369; 618278, 4003329; 618252, 4003340; 618230, 4003356; 618210, 4003359; 618186, 4003377; 618178, 4003377; 618164, 4003390; 618153, 4003386; 618136, 4003394; 618130, 4003391; 618122, 4003403; 618119, 4003452; 618112, 4003456; 618097, 4003450; 618087, 4003438; 618077, 4003432; 618066, 4003442; 618060, 4003439; 618052, 4003445; 618039, 4003506; 618032, 4003512; 618018, 4003511; 618015, 4003514; 618009, 4003535; 618001, 4003535; 617993, 4003550; 617967, 4003578; 617953, 4003580; 617950, 4003576; 617937, 4003573; 617930, 4003576; 617925, 4003591; 617903, 4003596; 617892, 4003603; 617872, 4003648; 617856, 4003659; 617848, 4003681; 617837, 4003691; 617818, 4003691; 617807, 4003678; 617799, 4003657; 617790, 4003657; 617782, 4003667; 617771, 4003672; 617765, 4003672; 617757, 4003666; 617746, 4003672; 617741, 4003679; 617747, 4003700; 617745, 4003705; 617737, 4003707; 617734, 4003711; 617738, 4003723; 617734, 4003727; 617722, 4003730; 617705, 4003750; 617701, 4003765; 617702, 4003784; 617695, 4003804; 617684, 4003813; 617657, 4003826; 617650, 4003825; 617643, 4003819; 617634, 4003802; 617614, 4003789; 617588, 4003777; 617583, 4003767; 617569, 4003753; 617552, 4003745; 617542, 4003746; 617528, 4003753; 617511, 4003777; 617499, 4003782; 617488, 4003792; 617482, 4003807; 617485, 4003833; 617470, 4003848; 617468, 4003853; 617476, 4003879; 617470, 4003887; 617451, 4003889; 617449, 4003894; 617451, 4003905; 617444, 4003908; 617440, 4003914; 617441, 4003922; 617453, 4003927; 617476, 4003946; 617482, 4003959; 617481, 4003970; 617472, 4003978; 617450, 4003978; 617436, 4003999; 617406, 4004007; 617400, 4004012; 617386, 4004037; 617377, 4004044; 617367, 4004047; 617357, 4004056; 617351, 4004069; 617353, 4004086; 617351, 4004091; 617338, 4004094; 617322, 4004090; 617297, 4004096; 617288, 4004114; 617288, 4004131; 617282, 4004166; 617274, 4004180; 617268, 4004180; 617254, 4004174; 617245, 4004166; 617244, 4004160; 617251, 4004130; 617250, 4004118; 617256, 4004079; 617264, 4004061; 617263, 4004053; 617255, 4004050; 617244, 4004058; 617234, 4004047; 617213, 4004041; 617209, 4004022; 617200, 4004027; 617197, 4004034; 617165, 4004044; 617133, 4004078; 617118, 4004104; 617117, 4004116; 617130, 4004132; 617133, 4004145; 617142, 4004158; 617157, 4004174; 617154, 4004182; 617143, 4004189; 617133, 4004185; 617116, 4004171; 617104, 4004167; 617088, 4004153; 617070, 4004143; 617054, 4004139; 617043, 4004127; 617036, 4004132; 617020, 4004159; 616980, 4004190; 616970, 4004214; 616962, 4004221; 616954, 4004221; 616943, 4004248; 616947, 4004251; 616950, 4004266; 616947, 4004285; 616943, 4004289; 616931, 4004290; 616928, 4004293; 616925, 4004303; 616929, 4004310; 616929, 4004318; 616921, 4004325; 616910, 4004342; 616914, 4004352; 616924, 4004359; 616933, 4004372; 616934, 4004383; 616927, 4004438; 616935, 4004449; 616934, 4004461; 616899, 4004509; 616880, 4004517; 616865, 4004516; 616829, 4004524; 616811, 4004537; 616801, 4004553; 616789, 4004588; 616771, 4004699; 616769, 4004744; 616775, 4004758; 616773, 4004802; 616769, 4004816; 616757, 4004834; 616728, 4004864; 616708, 4004877; 616696, 4004897; 616613, 4004966; 616598, 4004967; 616572, 4004981; 616564, 4004977; 616560, 4004957; 616550, 4004944; 616539, 4004948; 616532, 4004956; 616521, 4004987; 616524, 4004997; 616547, 4005006; 616549, 4005013; 616543, 4005024; 616537, 4005029; 616515, 4005036; 616496, 4005046; 616493, 4005050; 616492, 4005062; 616487, 4005074; 616442, 4005109; 616395, 4005136; 616386, 4005145; 616377, 4005163; 616342, 4005186; 616323, 4005208; 616313, 4005236; 616279, 4005243; 616250, 4005262; 616214, 4005244; 616164, 4005252; 616164, 4005260; 616171, 4005271; 616171, 4005277; 616175, 4005281; 616198, 4005282; 616216, 4005306; 616220, 4005317; 616219, 4005329; 616213, 4005335; 616195, 4005339; 616183, 4005349; 616181, 4005357; 616184, 4005362; 616189, 4005362; 616195, 4005370; 616194, 4005383; 616173, 4005448; 616172, 4005460; 616175, 4005470; 616156, 4005503; 616149, 4005531; 616129, 4005551; 616124, 4005569; 616117, 4005578; 616099, 4005590; 616071, 4005626; 616044, 4005650; 616036, 4005664; 616031, 4005680; 616008, 4005691; 615958, 4005728; 615917, 4005738; 615901, 4005757; 615882, 4005765; 615877, 4005770; 615868, 4005803; 615862, 4005812; 615827, 4005843; 615820, 4005855; 615807, 4005864; 615767, 4005863; 615758, 4005865; 615743, 4005874; 615725, 4005872; 615699, 4005881; 615646, 4005878; 615617, 4005905; 615608, 4005946; 615585, 4005960; 615577, 4005977; 615503, 4005990; 615499, 4005993; 615493, 4006019; 615495, 4006036; 615520, 4006035; 615528, 4006041; 615524, 4006075; 615530, 4006102; 615527, 4006111; 615505, 4006137; 615483, 4006184; 615463, 4006236; 615438, 4006255; 615397, 4006326; 615373, 4006336; 615291, 4006407; 615279, 4006414; 615214, 4006433; 615156, 4006474; 615124, 4006491; 615108, 4006491; 615094, 4006495; 615077, 4006514; 615026, 4006549; 615018, 4006564; 614997, 4006583; 614955, 4006600; 614911, 4006614; 614879, 4006631; 614838, 4006668; 614789, 4006687; 614689, 4006742; 614679, 4006746; 614614, 4006757; 614555, 4006781; 614478, 4006800; 614425, 4006823; 614407, 4006827; 614392, 4006843; 614356, 4006848; 614351, 4006841; 614347, 4006823; 614339, 4006820; 614327, 4006834; 614321, 4006837; 614301, 4006831; 614287, 4006839; 614268, 4006856; 614234, 4006876; 614228, 4006888; 614153, 4006939; 614141, 4006960; 614123, 4006982; 614108, 4007020; 614112, 4007045; 614100, 4007054; 614079, 4007089; 614048, 4007126; 614040, 4007131; 614020, 4007136; 613956, 4007187; 613938, 4007185; 613903, 4007201; 613861, 4007214; 613838, 4007217; 613818, 4007215; 613801, 4007223; 613775, 4007211; 613765, 4007211; 613651, 4007261; 613634, 4007261; 613621, 4007265; 613596, 4007282; 613582, 4007276; 613574, 4007256; 613563, 4007255; 613547, 4007262; 613542, 4007274; 613516, 4007290; 613507, 4007290; 613502, 4007282; 613497, 4007282; 613481, 4007297; 613441, 4007311; 613425, 4007311; 613408, 4007318; 613414, 4007343; 613400, 4007356; 613368, 4007374; 613361, 4007382; 613359, 4007402; 613350, 4007416; 613329, 4007423; 613314, 4007439; 613305, 4007468; 613307, 4007493; 613311, 4007509; 613323, 4007520; 613309, 4007541; 613295, 4007560; 613272, 4007579; 613275, 4007591; 613282, 4007597; 613282, 4007603; 613248, 4007644; 613238, 4007646; 613215, 4007669; 613206, 4007672; 613179, 4007702; 613160, 4007717; 613076, 4007755; 613027, 4007773; 612988, 4007793; 612958, 4007798; 612929, 4007815; 612915, 4007830; 612892, 4007864; 612855, 4007887; 612830, 4007917; 612793, 4007934; 612743, 4007974; 612715, 4007991; 612699, 4008005; 612678, 4008003; 612628, 4008008; 612601, 4008019; 612583, 4008022; 612553, 4008032; 612517, 4008037; 612503, 4008042; 612487, 4008060; 612471, 4008066; 612449, 4008065; 612436, 4008059; 612420, 4008027; 612410, 4008024; 612385, 4008031; 612386, 4008041; 612397, 4008054; 612397, 4008061; 612390, 4008062; 612352, 4008053; 612300, 4008029; 612247, 4008026; 612230, 4008014; 612190, 4008020; 612161, 4008030; 612140, 4008043; 612091, 4008045; 612073, 4008039; 612060, 4008038; 612046, 4008042; 612046, 4008050; 612052, 4008063; 612044, 4008081; 612025, 4008095; 611984, 4008101; 611979, 4008119; 611969, 4008131; 611934, 4008154; 611910, 4008207; 611890, 4008209; 611863, 4008225; 611852, 4008221; 611844, 4008224; 611841, 4008236; 611856, 4008249; 611858, 4008256; 611837, 4008289; 611804, 4008355; 611793, 4008372; 611775, 4008390; 611742, 4008418; 611700, 4008471; 611635, 4008519; 611607, 4008521; 611592, 4008525; 611540, 4008567; 611501, 4008585; 611484, 4008596; 611460, 4008629; 611440, 4008667; 611430, 4008676; 611415, 4008680; 611348, 4008752; 611295, 4008782; 611253, 4008795; 611236, 4008795; 611225, 4008800; 611208, 4008845; 611166, 4008891; 611120, 4008914; 611075, 4008932; 611061, 4008930; 611047, 4008924; 611037, 4008944; 611036, 4008961; 611026, 4008969; 611026, 4008990; 610998, 4009032; 610973, 4009055; 610924, 4009085; 610881, 4009120; 610850, 4009141; 610815, 4009153; 610789, 4009171; 610779, 4009174; 610732, 4009201; 610717, 4009215; 610709, 4009215; 610679, 4009200; 610670, 4009206; 610671, 4009214; 610686, 4009230; 610683, 4009244; 610664, 4009261; 610624, 4009287; 610584, 4009323; 610563, 4009333; 610546, 4009335; 610533, 4009356; 610504, 4009385; 610490, 4009394; 610455, 4009407; 610357, 4009423; 610321, 4009432; 610312, 4009448; 610286, 4009450; 610240, 4009477; 610175, 4009532; 610164, 4009534; 610138, 4009512; 610133, 4009493; 610121, 4009496; 610102, 4009511; 610081, 4009514; 610067, 4009509; 610066, 4009485; 610057, 4009484; 610049, 4009491; 610047, 4009498; 610046, 4009507; 610050, 4009526; 610054, 4009529; 610074, 4009531; 610090, 4009540; 610101, 4009556; 610102, 4009568; 610088, 4009618; 610052, 4009641; 610031, 4009671; 609934, 4009720; 609903, 4009743; 609887, 4009746; 609863, 4009758; 609842, 4009776; 609818, 4009782; 609774, 4009814; 609689, 4009863; 609601, 4009905; 609575, 4009924; 609539, 4009922; 609475, 4009930; 609424, 4009932; 609420, 4009930; 609408, 4009906; 609396, 4009913; 609391, 4009913; 609370, 4009902; 609360, 4009906; 609355, 4009914; 609331, 4009913; 609334, 4009939; 609318, 4009949; 609297, 4009953; 609257, 4009957; 609189, 4009943; 609174, 4009944; 609151, 4009949; 609125, 4009960; 609121, 4009968; 609123, 4009979; 609118, 4009982; 609108, 4009978; 609092, 4009982; 609084, 4009980; 609061, 4009965; 609035, 4009975; 609022, 4009959; 609014, 4009966; 609015, 4009980; 609029, 4009990; 609035, 4009996; 609036, 4010002; 609027, 4010018; 609025, 4010030; 609029, 4010046; 609021, 4010075; 609013, 4010080; 609005, 4010102; 608990, 4010126; 608982, 4010132; 608953, 4010138; 608947, 4010150; 608919, 4010179; 608885, 4010197; 608851, 4010205; 608814, 4010204; 608775, 4010219; 608755, 4010210; 608740, 4010209; 608720, 4010216; 608719, 4010219; 608729, 4010236; 608731, 4010249; 608731, 4010269; 608718, 4010302; 608706, 4010312; 608696, 4010312; 608686, 4010316; 608673, 4010330; 608655, 4010336; 608649, 4010344; 608651, 4010352; 608647, 4010365; 608597, 4010401; 608579, 4010408; 608480, 4010412; 608440, 4010441; 608402, 4010448; 608380, 4010458; 608355, 4010461; 608323, 4010448; 608288, 4010464; 608279, 4010466; 608259, 4010458; 608252, 4010459; 608245, 4010467; 608242, 4010484; 608244, 4010491; 608263, 4010504; 608262, 4010520; 608265, 4010532; 608249, 4010529; 608233, 4010535; 608199, 4010565; 608164, 4010585; 608101, 4010614; 608068, 4010618; 608052, 4010626; 608019, 4010624; 607993, 4010628; 607924, 4010647; 607886, 4010666; 607847, 4010675; 607793, 4010676; 607718, 4010660; 607688, 4010649; 607661, 4010629; 607617, 4010607; 607567, 4010576; 607529, 4010562; 607498, 4010543; 607443, 4010525; 607383, 4010500; 607324, 4010462; 607289, 4010453; 607265, 4010463; 607252, 4010464; 607234, 4010458; 607215, 4010459; 607203, 4010448; 607168, 4010458; 607151, 4010458; 607138, 4010450; 607132, 4010451; 607101, 4010467; 607087, 4010464; 607076, 4010466; 607039, 4010507; 607019, 4010523; 607001, 4010533; 606981, 4010539; 606910, 4010549; 606888, 4010547; 606879, 4010538; 606871, 4010503; 606850, 4010490; 606842, 4010488; 606837, 4010493; 606833, 4010509; 606834, 4010535; 606830, 4010541; 606821, 4010543; 606821, 4010511; 606818, 4010510; 606809, 4010515; 606802, 4010559; 606792, 4010571; 606775, 4010574; 606748, 4010572; 606722, 4010574; 606716, 4010578; 606710, 4010595; 606697, 4010599; 606693, 4010604; 606686, 4010620; 606675, 4010623; 606649, 4010615; 606642, 4010598; 606637, 4010595; 606624, 4010602; 606617, 4010592; 606610, 4010595; 606601, 4010616; 606593, 4010621; 606567, 4010626; 606562, 4010630; 606551, 4010654; 606535, 4010659; 606528, 4010682; 606516, 4010688; 606508, 4010701; 606502, 4010704; 606489, 4010701; 606485, 4010708; 606489, 4010728; 606484, 4010736; 606483, 4010745; 606492, 4010746; 606498, 4010757; 606497, 4010798; 606492, 4010809; 606483, 4010809; 606476, 4010803; 606473, 4010807; 606471, 4010830; 606463, 4010861; 606466, 4010868; 606491, 4010869; 606507, 4010901; 606512, 4010925; 606504, 4010977; 606483, 4011019; 606424, 4011031; 606411, 4011029; 606389, 4011035; 606356, 4011019; 606336, 4011026; 606322, 4011092; 606310, 4011126; 606271, 4011168; 606214, 4011198; 606185, 4011210; 606152, 4011211; 606122, 4011205; 606113, 4011242; 606111, 4011279; 606103, 4011285; 606090, 4011282; 606087, 4011287; 606083, 4011309; 606083, 4011329; 606073, 4011354; 606058, 4011357; 606000, 4011384; 605961, 4011394; 605903, 4011396; 605882, 4011402; 605840, 4011434; 605820, 4011442; 605783, 4011436; 605752, 4011436; 605713, 4011427; 605691, 4011417; 605661, 4011393; 605628, 4011387; 605593, 4011395; 605562, 4011393; 605532, 4011400; 605490, 4011404; 605435, 4011426; 605438, 4011438; 605447, 4011442; 605455, 4011458; 605453, 4011474; 605415, 4011532; 605380, 4011557; 605376, 4011569; 605378, 4011584; 605369, 4011609; 605308, 4011669; 605304, 4011689; 605314, 4011753; 605291, 4011805; 605282, 4011836; 605233, 4011909; 605138, 4011994; 605081, 4012033; 605066, 4012039; 604977, 4012059; 604918, 4012060; 604872, 4012049; 604837, 4012022; 604831, 4012038; 604827, 4012041; 604809, 4012042; 604804, 4012051; 604804, 4012061; 604816, 4012092; 604809, 4012107; 604805, 4012107; 604743, 4012145; 604683, 4012161; 604674, 4012172; 604665, 4012201; 604656, 4012212; 604640, 4012221; 604635, 4012238; 604611, 4012242; 604599, 4012260; 604589, 4012266; 604583, 4012263; 604574, 4012249; 604559, 4012251; 604550, 4012262; 604538, 4012263; 604516, 4012258; 604493, 4012247; 604482, 4012247; 604469, 4012236; 604456, 4012217; 604451, 4012216; 604435, 4012223; 604413, 4012240; 604398, 4012246; 604396, 4012252; 604407, 4012257; 604400, 4012266; 604386, 4012272; 604391, 4012276; 604434, 4012286; 604465, 4012298; 604496, 4012300; 604510, 4012311; 604554, 4012312; 604565, 4012321; 604584, 4012327; 604591, 4012342; 604592, 4012354; 604602, 4012360; 604612, 4012386; 604612, 4012428; 604581, 4012547; 604580, 4012578; 604589, 4012614; 604570, 4012775; 604546, 4012829; 604539, 4012872; 604476, 4013033; 604434, 4013111; 604412, 4013168; 604357, 4013279; 604342, 4013298; 604331, 4013303; 604303, 4013327; 604286, 4013350; 604286, 4013365; 604293, 4013375; 604304, 4013384; 604304, 4013387; 604295, 4013413; 604258, 4013483; 604229, 4013528; 604187, 4013567; 604174, 4013573; 604165, 4013592; 604156, 4013597; 604144, 4013633; 604136, 4013642; 604136, 4013650; 604144, 4013667; 604133, 4013710; 604133, 4013722; 604086, 4013832; 604050, 4013873; 604022, 4013894; 603972, 4013977; 603934, 4014114; 603903, 4014203; 603897, 4014211; 603864, 4014228; 603827, 4014296; 603805, 4014346; 603754, 4014433; 603729, 4014450; 603718, 4014453; 603707, 4014460; 603704, 4014468; 603705, 4014487; 603698, 4014498; 603681, 4014497; 603666, 4014502; 603670, 4014522; 603681, 4014536; 603687, 4014552; 603679, 4014585; 603665, 4014602; 603666, 4014613; 603673, 4014627; 603673, 4014633; 603658, 4014644; 603652, 4014665; 603643, 4014679; 603637, 4014682; 603600, 4014717; 603562, 4014770; 603538, 4014799; 603499, 4014836; 603489, 4014857; 603488, 4014883; 603484, 4014893; 603477, 4014898; 603470, 4014909; 603468, 4014932; 603439, 4014959; 603430, 4014982; 603397, 4015021; 603363, 4015042; 603294, 4015096; 603248, 4015117; 603244, 4015139; 603231, 4015166; 603215, 4015176; 603215, 4015200; 603199, 4015240; 603187, 4015265; 603170, 4015280; 603163, 4015314; 603138, 4015361; 603122, 4015372; 603037, 4015406; 602995, 4015419; 602989, 4015428; 602993, 4015447; 602985, 4015471; 602966, 4015496; 602960, 4015517; 602937, 4015544; 602900, 4015563; 602891, 4015565; 602879, 4015562; 602866, 4015567; 602862, 4015585; 602853, 4015600; 602768, 4015650; 602740, 4015660; 602674, 4015694; 602615, 4015715; 602549, 4015723; 602526, 4015729; 602465, 4015733; 602436, 4015723; 602405, 4015703; 602395, 4015703; 602393, 4015708; 602403, 4015730; 602420, 4015744; 602458, 4015755; 602503, 4015754; 602515, 4015758; 602545, 4015778; 602552, 4015786; 602559, 4015800; 602568, 4015834; 602566, 4015839; 602553, 4015839; 602543, 4015826; 602532, 4015801; 602507, 4015784; 602473, 4015775; 602425, 4015776; 602403, 4015769; 602394, 4015763; 602376, 4015727; 602367, 4015709; 602368, 4015684; 602374, 4015677; 602428, 4015654; 602435, 4015640; 602428, 4015612; 602415, 4015588; 602408, 4015582; 602351, 4015620; 602331, 4015628; 602321, 4015629; 602310, 4015641; 602301, 4015659; 602296, 4015665; 602283, 4015671; 602225, 4015685; 602198, 4015680; 602183, 4015673; 602169, 4015673; 602146, 4015693; 602133, 4015697; 602124, 4015689; 602108, 4015686; 602092, 4015705; 602088, 4015743; 602081, 4015764; 602012, 4015882; 601970, 4015930; 601943, 4015954; 601903, 4016009; 601878, 4016055; 601823, 4016112; 601820, 4016121; 601790, 4016158; 601749, 4016195; 601660, 4016263; 601618, 4016287; 601589, 4016312; 601578, 4016328; 601554, 4016344; 601544, 4016356; 601455, 4016413; 601410, 4016427; 601384, 4016439; 601308, 4016497; 601264, 4016523; 601211, 4016544; 601147, 4016559; 601085, 4016568; 601061, 4016582; 601031, 4016617; 601011, 4016661; 600994, 4016686; 600983, 4016698; 600966, 4016727; 600937, 4016740; 600895, 4016745; 600883, 4016754; 600876, 4016766; 600877, 4016775; 600884, 4016791; 600876, 4016836; 600879, 4016880; 600876, 4016914; 600862, 4016950; 600840, 4016967; 600823, 4016985; 600808, 4017016; 600764, 4017075; 600749, 4017079; 600724, 4017075; 600716, 4017062; 600709, 4017060; 600705, 4017051; 600694, 4017047; 600686, 4017052; 600682, 4017058; 600680, 4017069; 600675, 4017077; 600639, 4017081; 600592, 4017101; 600574, 4017098; 600555, 4017105; 600546, 4017115; 600533, 4017141; 600470, 4017238; 600461, 4017261; 600450, 4017280; 600445, 4017282; 600443, 4017271; 600449, 4017254; 600447, 4017250; 600435, 4017240; 600426, 4017248; 600426, 4017258; 600416, 4017266; 600412, 4017278; 600392, 4017307; 600368, 4017352; 600335, 4017393; 600335, 4017409; 600341, 4017415; 600362, 4017413; 600370, 4017419; 600350, 4017445; 600340, 4017482; 600293, 4017552; 600261, 4017619; 600178, 4017741; 600132, 4017789; 600110, 4017821; 600102, 4017837; 600088, 4017891; 600081, 4017909; 600075, 4017917; 600075, 4017926; 600058, 4017958; 600019, 4018003; 599993, 4018018; 599977, 4018034; 599943, 4018057; 599899, 4018065; 599861, 4018088; 599855, 4018097; 599827, 4018116; 599745, 4018155; 599667, 4018175; 599630, 4018178; 599601, 4018186; 599554, 4018191; 599493, 4018204; 599467, 4018206; 599449, 4018217; 599436, 4018220; 599422, 4018212; 599410, 4018201; 599387, 4018198; 599343, 4018218; 599317, 4018225; 599310, 4018231; 599282, 4018234; 599275, 4018238; 599267, 4018249; 599244, 4018253; 599233, 4018251; 599181, 4018311; 599165, 4018322; 599145, 4018327; 599127, 4018342; 599103, 4018354; 599049, 4018370; 599022, 4018370; 599010, 4018359; 598995, 4018299; 598985, 4018280; 598982, 4018263; 598972, 4018243; 598956, 4018226; 598950, 4018198; 598935, 4018195; 598920, 4018175; 598899, 4018164; 598894, 4018151; 598891, 4018150; 598885, 4018158; 598865, 4018157; 598833, 4018135; 598811, 4018112; 598797, 4018110; 598786, 4018125; 598792, 4018141; 598789, 4018146; 598783, 4018147; 598779, 4018158; 598773, 4018159; 598759, 4018154; 598751, 4018165; 598743, 4018168; 598739, 4018180; 598741, 4018191; 598733, 4018206; 598737, 4018219; 598734, 4018230; 598738, 4018239; 598725, 4018253; 598726, 4018262; 598724, 4018267; 598701, 4018280; 598689, 4018294; 598674, 4018299; 598668, 4018311; 598666, 4018336; 598661, 4018342; 598660, 4018350; 598648, 4018353; 598633, 4018344; 598619, 4018341; 598611, 4018343; 598605, 4018355; 598608, 4018365; 598604, 4018370; 598597, 4018368; 598589, 4018370; 598588, 4018374; 598596, 4018387; 598593, 4018390; 598587, 4018391; 598588, 4018397; 598585, 4018400; 598568, 4018401; 598560, 4018427; 598552, 4018433; 598551, 4018439; 598527, 4018449; 598522, 4018488; 598526, 4018512; 598520, 4018547; 598524, 4018558; 598521, 4018582; 598527, 4018598; 598535, 4018593; 598574, 4018594; 598600, 4018568; 598600, 4018560; 598609, 4018567; 598612, 4018579; 598621, 4018576; 598622, 4018564; 598630, 4018560; 598635, 4018561; 598647, 4018572; 598664, 4018576; 598691, 4018560; 598713, 4018560; 598742, 4018540; 598753, 4018539; 598758, 4018545; 598754, 4018549; 598754, 4018555; 598760, 4018558; 598766, 4018554; 598776, 4018534; 598783, 4018533; 598793, 4018542; 598806, 4018574; 598825, 4018603; 598843, 4018657; 598860, 4018696; 598881, 4018767; 598898, 4018809; 598957, 4018944; 598979, 4018984; 598991, 4019028; 599022, 4019090; 599031, 4019122; 599055, 4019169; 599130, 4019341; 599141, 4019390; 599141, 4019413; 599147, 4019430; 599169, 4019456; 599175, 4019469; 599176, 4019496; 599187, 4019518; 599192, 4019579; 599199, 4019598; 599204, 4019625; 599206, 4019669; 599210, 4019694; 599234, 4019748; 599226, 4019780; 599221, 4019881; 599224, 4019899; 599231, 4019905; 599232, 4019918; 599217, 4019931; 599208, 4019976; 599208, 4020004; 599204, 4020037; 599211, 4020058; 599204, 4020098; 599211, 4020120; 599171, 4020219; 599167, 4020239; 599161, 4020249; 599171, 4020279; 599156, 4020303; 599156, 4020321; 599162, 4020340; 599161, 4020348; 599123, 4020383; 599114, 4020373; 599104, 4020384; 599099, 4020396; 599106, 4020419; 599109, 4020419; 599122, 4020408; 599130, 4020407; 599138, 4020415; 599148, 4020437; 599157, 4020506; 599172, 4020543; 599188, 4020571; 599196, 4020598; 599194, 4020626; 599179, 4020669; 599146, 4020718; 599110, 4020756; 599084, 4020773; 599041, 4020786; 599034, 4020793; 599034, 4020811; 599036, 4020819; 599033, 4020829; 599039, 4020833; 599050, 4020834; 599058, 4020839; 599081, 4020876; 599093, 4020879; 599110, 4020888; 599130, 4020915; 599156, 4020966; 599188, 4021043; 599205, 4021087; 599219, 4021146; 599229, 4021169; 599236, 4021201; 599243, 4021297; 599275, 4021431; 599569, 4021331; 599671, 4021054; 599706, 4020790; returning to 599824, 4020540.

(ii) Note: Unit MNT-3 for California red-legged frog is depicted on the map in paragraph (35)(ii) of this entry.

(38) Unit SNB-1: San Benito County, California. From USGS 1:24,000 scale quadrangles San Juan Bautista, Hollister, Mt. Harlan, Tres Pinos and Pacines.

(i) Land bounded by the following UTM zone 10, NAD 1983 coordinates (E, N): 635964, 4075794; 636040, 4075782; 636078, 4075785; 636333, 4075764; 636809, 4075566; 637368, 4075520; 637770, 4075623; 638436, 4075288; 639151, 4074594; 639167, 4074543; 639270, 4074217; 639547, 4073979; 640024, 4073740; 640877, 4073582; 641790, 4073621; 642345, 4072947; 642286, 4072173; 642297, 4072161; 642484, 4071954; 642762, 4071855; 643099, 4071915; 643635, 4071756; 644786, 4072133; 645168, 4072165; 645170, 4072129; 645182, 4072089; 645215, 4072050; 645231, 4072038; 645253, 4072031; 645297, 4072025; 645348, 4072041; 645628, 4072149; 645689, 4072165; 645738, 4072161; 645805, 4072141; 645874, 4072116; 645916, 4072108; 645934, 4072108; 645970, 4072109; 646014, 4072123; 646057, 4072140; 646240, 4072241; 646318, 4072292; 646402, 4072339; 646564, 4072409; 646635, 4072428; 646691, 4072455; 646718, 4072467; 646755, 4072466; 646811, 4072459; 646868, 4072460; 646951, 4072481; 646992, 4072508; 647085, 4072584; 647141, 4072655; 647187, 4072702; 647247, 4072731; 647313, 4072739; 647416, 4072701; 647509, 4072650; 647638, 4072589; 647867, 4072519; 647925, 4072497; 647995, 4072467; 648104, 4072410; 648149, 4072394; 648333, 4072362; 648504, 4072303; 648592, 4072283; 648784, 4072258; 648891, 4072233; 649177, 4072132; 649265, 4072094; 649301, 4072063; 649320, 4072027; 649574, 4072372; 649804, 4072538; 649950, 4072309; 650247, 4072695; 650886, 4072656; 651305, 4072378; 651395, 4072228; 651525, 4072011; 651845, 4071771; 652028, 4071278; 652022, 4070800; 651786, 4070356; 651865, 4070144; 651782, 4070129; 652109, 4069671; 652194, 4069177; 652222, 4069194; 652486, 4069355; 652823, 4069355; 653041, 4069196; 653013, 4069034; 652962, 4068740; 653765, 4068035; 653589, 4067442; 653597, 4067238; 653815, 4066736; 653668, 4066229; 653677, 4065634; 653679, 4065476; 653994, 4063632; 652942, 4063283; 653031, 4062765; 653093, 4062780; 653155, 4062809; 653330, 4062875; 653524, 4062962; 653530, 4062965; 653541, 4062532; 653207, 4062386; 653110, 4062128; 653103, 4061717; 652942, 4061338; 653312, 4061251; 653249, 4060324; 653353, 4060150; 653604, 4060053; 653896, 4059774; 654593, 4058960; 654628, 4058800; 654725, 4058716; 655240, 4058549; 655507, 4058397; 655427, 4058270; 655372, 4058208; 655309, 4058176; 655192, 4058144; 655123, 4058134; 655053, 4058128; 654903, 4058122; 654849, 4058104; 654808, 4058074; 654771, 4058036; 654768, 4058018; 654775, 4057974; 654773, 4057912; 654719, 4057732; 654682, 4057669; 654595, 4057552; 654525, 4057445; 654495, 4057373; 654453, 4057394; 654408, 4057408; 654344, 4057464; 654259, 4057527; 654227, 4057558; 654191, 4057584; 654145, 4057605; 654109, 4057612; 654075, 4057647; 654049, 4057694; 653997, 4057769; 653950, 4057808; 653921, 4057812; 653880, 4057804; 653831, 4057810; 653760, 4057827; 653623, 4057838; 653562, 4057857; 653469, 4057893; 653417, 4057893; 653379, 4057882; 653343, 4057879; 653300, 4057892; 653249, 4057901; 653019, 4057958; 652921, 4058001; 652855, 4058037; 652805, 4058100; 652784, 4058149; 652776, 4058191; 652756, 4058251; 652559, 4058403; 652489, 4058406; 652398, 4058455; 652352, 4058454; 652270, 4058439; 652215, 4058434; 652183, 4058446; 652156, 4058485; 652118, 4058516; 652009, 4058520; 651885, 4058496; 651845, 4058480; 651801, 4058470; 651772, 4058471; 651708, 4058559; 651643, 4058613; 651588, 4058644; 651512, 4058709; 651442, 4058801; 651408, 4058823; 651354, 4058847; 651272, 4058865; 651244, 4058860; 651198, 4058838; 651159, 4058813; 651121, 4058794; 651017, 4058758; 650965, 4058759; 650936, 4058789; 650906, 4058835; 650871, 4058956; 650826, 4058976; 650779, 4058975; 650728, 4058964; 650662, 4058958; 650598, 4058957; 650548, 4058948; 650484, 4058847; 650439, 4058814; 650396, 4058799; 650333, 4058793; 650287, 4058801; 650227, 4058820; 650089, 4058724; 649962, 4058666; 649894, 4058664; 649849, 4058672; 649816, 4058685; 649713, 4058741; 649682, 4058768; 649644, 4058825; 649638, 4058872; 649640, 4058898; 649655, 4058975; 649636, 4059012; 649613, 4059047; 649558, 4059112; 649536, 4059138; 649499, 4059156; 649490, 4059171; 649533, 4059203; 649558, 4059235; 649577, 4059272; 649590, 4059323; 649598, 4059371; 649589, 4059522; 649600, 4059590; 649670, 4059721; 649688, 4059816; 649695, 4059877; 649691, 4059927; 649691, 4059995; 649685, 4060115; 649693, 4060185; 649698, 4060285; 649794, 4060385; 649822, 4060420; 649859, 4060486; 649874, 4060527; 649878, 4060574; 649859, 4060641; 649860, 4060682; 649873, 4060734; 649942, 4060883; 649961, 4060946; 649963, 4061014; 649959, 4061076; 649961, 4061111; 649978, 4061157; 650013, 4061229; 650024, 4061281; 650017, 4061318; 649973, 4061411; 649962, 4061449; 649952, 4061505; 649952, 4061533; 649968, 4061568; 650000, 4061600; 650024, 4061641; 650031, 4061681; 650030, 4061724; 650049, 4061793; 650077, 4061824; 650087, 4061874; 650089, 4061931; 650082, 4061953; 650049, 4061993; 649996, 4062080; 649982, 4062119; 649966, 4062184; 649932, 4062220; 649896, 4062244; 649867, 4062267; 649831, 4062318; 649815, 4062358; 649807, 4062398; 649810, 4062429; 649825, 4062483; 649832, 4062527; 649811, 4062612; 649789, 4062639; 649724, 4062698; 649655, 4062746; 649641, 4062764; 649622, 4062798; 649590, 4062864; 649587, 4062888; 649599, 4062910; 649868, 4063043; 649922, 4063061; 649992, 4063123; 649797, 4063229; 649750, 4063250; 649827, 4063402; 649827, 4063977; 649132, 4064573; 648418, 4064893; 648368, 4065024; 648317, 4065022; 648185, 4065076; 648117, 4065116; 648054, 4065159; 648001, 4065215; 647953, 4065234; 647631, 4065458; 647583, 4065483; 647544, 4065469; 647498, 4065440; 647454, 4065430; 647394, 4065447; 647344, 4065483; 647314, 4065522; 647285, 4065554; 647236, 4065578; 647152, 4065601; 647116, 4065618; 647080, 4065642; 647032, 4065665; 646912, 4065745; 646844, 4065773; 646771, 4065789; 646720, 4065803; 646608, 4065846; 646517, 4065908; 646457, 4065956; 646410, 4066000; 646353, 4066047; 646285, 4066090; 646156, 4066136; 646030, 4066190; 645954, 4066228; 645890, 4066269; 645857, 4066309; 645832, 4066362; 645802, 4066404; 645758, 4066447; 645728, 4066467; 645675, 4066477; 645538, 4066492; 645421, 4066518; 645266, 4066547; 645205, 4066564; 645155, 4066597; 645094, 4066650; 645059, 4066674; 644994, 4066699; 644964, 4066705; 644911, 4066702; 644854, 4066705; 644800, 4066725; 644777, 4066758; 644749, 4066834; 644714, 4066864; 644652, 4066882; 644595, 4066890; 644542, 4066904; 644451, 4066969; 644402, 4066983; 644364, 4067016; 644324, 4067042; 644211, 4067086; 644165, 4067088; 644110, 4067045; 644061, 4067057; 644014, 4067079; 643961, 4067094; 643894, 4067104; 643823, 4067126; 643721, 4067183; 643674, 4067190; 643607, 4067186; 643485, 4067154; 643421, 4067144; 643354, 4067141; 643288, 4067143; 643165, 4067133; 643120, 4067127; 643003, 4067077; 642961, 4067068; 642857, 4067067; 642694, 4067040; 642635, 4067037; 642580, 4067014; 642544, 4066985; 642508, 4066949; 642475, 4066924; 642422, 4066906; 642377, 4066900; 642352, 4066900; 642330, 4066899; 642247, 4066922; 642193, 4066944; 642114, 4066998; 642058, 4067008; 642010, 4067039; 641928, 4067100; 641878, 4067162; 641845, 4067179; 641802, 4067212; 641772, 4067241; 641735, 4067265; 641678, 4067290; 641519, 4067344; 641477, 4067353; 641420, 4067377; 641332, 4067450; 641253, 4067521; 641239, 4067561; 641226, 4067664; 641112, 4067711; 641041, 4067744; 640958, 4067776; 640877, 4067786; 640811, 4067772; 640729, 4067743; 640563, 4067623; 640497, 4067579; 640417, 4067543; 640368, 4067554; 640304, 4067596; 640247, 4067603; 640191, 4067576; 640134, 4067533; 640073, 4067474; 640033, 4067428; 640006, 4067369; 639998, 4067314; 639981, 4067234; 639935, 4067174; 639865, 4067138; 639778, 4067110; 639705, 4067121; 639600, 4067191; 639549, 4067218; 639471, 4067237; 639405, 4067226; 639342, 4067194; 639081, 4067022; 639029, 4066971; 638984, 4066910; 638951, 4066842; 638921, 4066756; 638916, 4066700; 638943, 4066619; 638947, 4066568; 638903, 4066473; 638881, 4066391; 638891, 4066275; 638874, 4066236; 638850, 4066215; 638795, 4066192; 638723, 4066179; 638573, 4066170; 638511, 4066154; 638444, 4066123; 638334, 4066066; 638256, 4066043; 638179, 4066029; 638096, 4066027; 638012, 4066018; 637966, 4066036; 637956, 4066060; 637961, 4066079; 637990, 4066154; 637979, 4066180; 637962, 4066192; 637929, 4066204; 637842, 4066246; 637785, 4066269; 637766, 4066284; 637752, 4066301; 637719, 4066357; 637683, 4066386; 637648, 4066421; 637590, 4066456; 637576, 4066468; 637560, 4066490; 637525, 4066563; 637515, 4066592; 637518, 4066613; 637527, 4066631; 637602, 4066690; 637723, 4066757; 637718, 4066771; 637647, 4066779; 637610, 4066788; 637572, 4066809; 637550, 4066816; 637493, 4066821; 637482, 4066826; 637471, 4066841; 637448, 4066886; 637449, 4066920; 637469, 4067042; 637449, 4067123; 637440, 4067180; 637445, 4067196; 637460, 4067211; 637474, 4067234; 637470, 4067249; 637451, 4067263; 637436, 4067267; 637409, 4067283; 637365, 4067337; 637310, 4067380; 637302, 4067389; 637276, 4067438; 637268, 4067461; 637271, 4067501; 637267, 4067538; 637261, 4067559; 637251, 4067569; 637229, 4067574; 637172, 4067569; 637142, 4067580; 637125, 4067592; 637113, 4067596; 637067, 4067563; 637001, 4067532; 636987, 4067527; 636959, 4067533; 636945, 4067544; 636925, 4067569; 636886, 4067717; 636878, 4067738; 636870, 4067747; 636859, 4067748; 636837, 4067741; 636772, 4067688; 636753, 4067684; 636734, 4067685; 636699, 4067700; 636691, 4067705; 636672, 4067729; 636659, 4067737; 636628, 4067740; 636555, 4067736; 636503, 4067724; 636461, 4067725; 636425, 4067735; 636373, 4067773; 636334, 4067795; 636317, 4067811; 636306, 4067831; 636308, 4067890; 636291, 4067957; 636237, 4068055; 636216, 4068111; 636197, 4068139; 636178, 4068157; 636158, 4068159; 636086, 4068130; 636076, 4068132; 636073, 4068136; 636068, 4068158; 636064, 4068218; 636043, 4068237; 636032, 4068264; 636020, 4068350; 635996, 4068397; 635980, 4068442; 635965, 4068522; 635961, 4068564; 635968, 4068611; 635992, 4068667; 636019, 4068716; 636034, 4068730; 636051, 4068754; 636077, 4068775; 636093, 4068804; 636102, 4068836; 636108, 4068877; 636139, 4068932; 636145, 4068950; 636140, 4069011; 636128, 4069061; 636102, 4069118; 636063, 4069149; 636046, 4069157; 636022, 4069185; 635960, 4069300; 635944, 4069311; 635932, 4069329; 635925, 4069345; 635922, 4069370; 635904, 4069401; 635891, 4069411; 635815, 4069430; 635755, 4069435; 635719, 4069449; 635690, 4069477; 635683, 4069490; 635684, 4069569; 635678, 4069594; 635667, 4069612; 635649, 4069629; 635624, 4069644; 635610, 4069658; 635601, 4069670; 635583, 4069708; 635581, 4069730; 635594, 4069778; 635597, 4069810; 635592, 4069830; 635559, 4069843; 635542, 4069855; 635531, 4069880; 635662, 4070360; 635762, 4070572; 635930, 4070728; 635979, 4070786; 635805, 4070815; 635638, 4070940; 635518, 4071208; 635534, 4071479; 635648, 4071712; 635628, 4072017; 635672, 4072298; 635727, 4072560; 635721, 4072822; 635705, 4073010; 635815, 4073223; 635999, 4073422; 636117, 4073620; 636042, 4073785; 635831, 4073954; 635602, 4074066; 635336, 4074121; 635098, 4074239; 634812, 4074359; 634457, 4074523; 634151, 4074692; 633815, 4074869; 633538, 4074975; 633367, 4075131; 633307, 4075149; 633270, 4075185; 633264, 4075224; 633270, 4075262; 633260, 4075316; 633225, 4075369; 633189, 4075401; 633066, 4075450; 633021, 4075473; 632885, 4075595; 632844, 4075618; 632789, 4075635; 632764, 4075650; 632760, 4075671; 632773, 4075713; 632775, 4075748; 632757, 4075785; 632735, 4075795; 633860, 4075970; 634467, 4075645; 634857, 4075991; 634940, 4075973; 635205, 4075936; 635586, 4075849; returning to 635964, 4075794.

(ii) Note: Map of Units SNB-1, SNB-2 and SNB-3 for the California red-legged frog follows:

BILLING CODE 4310-55-P

BILLING CODE 4310-55-C

(39) Unit SNB-2: San Benito County, California. From USGS 1:24,000 scale quadrangles Cherry Peak, Panoche Pass, San Benito and Cerro Colorado.

(i) Land bounded by the following UTM zone 10, NAD 1983 coordinates (E, N): 676029, 4062601; 676103, 4062588; 676170, 4062590; 676230, 4062578; 676284, 4062545; 676348, 4062523; 676419, 4062514; 676483, 4062490; 676510, 4062448; 676535, 4062261; 676554, 4062204; 676580, 4062161; 676608, 4062095; 676674, 4061978; 676692, 4061940; 676704, 4061886; 676711, 4061831; 676711, 4061770; 676685, 4061612; 676692, 4061546; 676716, 4061508; 676763, 4061472; 676790, 4061442; 676807, 4061377; 676820, 4061061; 676805, 4061024; 676804, 4060981; 676823, 4060947; 676862, 4060922; 676926, 4060927; 676974, 4060952; 677046, 4061020; 677078, 4061042; 677119, 4061055; 677250, 4061015; 677323, 4061004; 677447, 4061014; 677500, 4061042; 677562, 4061068; 677706, 4061098; 677774, 4061125; 677852, 4061182; 677903, 4061272; 677924, 4061316; 677993, 4061391; 678022, 4061438; 678026, 4061499; 678008, 4061572; 677950, 4061682; 677919, 4061760; 677918, 4061809; 677936, 4061839; 677972, 4061873; 678020, 4061903; 678073, 4061927; 678139, 4061952; 678262, 4061930; 678408, 4061970; 678512, 4061969; 678564, 4061954; 678678, 4061908; 678766, 4061884; 678857, 4061867; 679032, 4061851; 679155, 4061826; 679258, 4061780; 679420, 4061646; 679485, 4061625; 679556, 4061629; 679652, 4061640; 679741, 4061642; 679824, 4061638; 679889, 4061630; 680050, 4061587; 680170, 4061572; 680240, 4061551; 680294, 4061513; 680325, 4061484; 680419, 4061467; 680444, 4061474; 680435, 4061438; 680429, 4061391; 680430, 4061317; 680422, 4061242; 680406, 4061198; 680375, 4061147; 680350, 4061088; 680338, 4061037; 680335, 4060777; 680318, 4060700; 680281, 4060616; 680268, 4060568; 680267, 4060520; 680276, 4060473; 680309, 4060410; 680333, 4060355; 680347, 4060282; 680349, 4060195; 680344, 4060098; 680322, 4059987; 680304, 4059914; 680278, 4059853; 680200, 4059739; 680172, 4059681; 680138, 4059631; 680117, 4059594; 680111, 4059548; 680117, 4059476; 680128, 4059407; 680129, 4059259; 680158, 4059135; 680160, 4059059; 680135, 4059002; 680086, 4058937; 680049, 4058878; 680016, 4058815; 679963, 4058666; 679949, 4058582; 679941, 4058504; 679953, 4058442; 679957, 4058379; 679948, 4058326; 679944, 4058267; 679972, 4058198; 680014, 4058156; 680054, 4058124; 680064, 4058089; 680041, 4058033; 680024, 4057973; 679986, 4057901; 679939, 4057873; 679874, 4057850; 679822, 4057802; 679769, 4057775; 679730, 4057745; 679691, 4057687; 679671, 4057615; 679656, 4057497; 679647, 4057473; 679627, 4057447; 679627, 4057378; 679641, 4057296; 679640, 4057235; 679612, 4057178; 679533, 4057073; 679495, 4057010; 679455, 4056952; 679426, 4056882; 679414, 4056829; 679404, 4056741; 679367, 4056688; 679320, 4056561; 679257, 4056479; 679241, 4056434; 679254, 4056369; 679285, 4056336; 679297, 4056327; 679395, 4056274; 679417, 4056236; 679432, 4056174; 679440, 4056118; 679456, 4056074; 679462, 4056039; 679456, 4056006; 679427, 4055970; 679314, 4055865; 679273, 4055833; 679218, 4055718; 679185, 4055692; 679164, 4055648; 679152, 4055607; 679122, 4055575; 679078, 4055568; 679023, 4055587; 678977, 4055618; 678918, 4055639; 678850, 4055678; 678805, 4055671; 678685, 4055607; 678587, 4055601; 678529, 4055566; 678490, 4055528; 678445, 4055503; 678431, 4055499; 678383, 4055500; 678173, 4055561; 678134, 4055559; 678035, 4055573; 677963, 4055601; 677947, 4055612; 677906, 4055655; 677873, 4055670; 677836, 4055661; 677800, 4055642; 677764, 4055605; 677727, 4055553; 677692, 4055517; 677553, 4055478; 677438, 4055425; 677375, 4055399; 677282, 4055349; 677213, 4055301; 677136, 4055275; 677058, 4055273; 677062, 4055301; 677034, 4055411; 677100, 4055515; 677123, 4055589; 677113, 4055670; 677087, 4055766; 677082, 4055816; 677080, 4055937; 677128, 4056087; 677128, 4056159; 677110, 4056228; 677085, 4056288; 677059, 4056361; 677021, 4056448; 676918, 4056569; 676874, 4056600; 676786, 4056650; 676713, 4056699; 676645, 4056729; 676608, 4056686; 676541, 4056588; 676546, 4056571; 676565, 4056533; 676586, 4056450; 676603, 4056341; 676594, 4056284; 676570, 4056235; 676537, 4056198; 676487, 4056162; 676382, 4056137; 676356, 4056126; 676309, 4056077; 676047, 4055850; 675955, 4055755; 675931, 4055727; 675910, 4055688; 675890, 4055623; 675857, 4055548; 675803, 4055504; 675747, 4055467; 675714, 4055436; 675690, 4055386; 675684, 4055346; 675698, 4055277; 675722, 4055225; 675758, 4055161; 675754, 4055069; 675726, 4054989; 675723, 4054930; 675740, 4054867; 675770, 4054773; 675776, 4054710; 675766, 4054697; 675733, 4054679; 675601, 4054644; 675460, 4054619; 675395, 4054613; 675329, 4054602; 675234, 4054565; 675169, 4054557; 675132, 4054580; 675105, 4054609; 675085, 4054622; 675036, 4054641; 674890, 4054658; 674808, 4054678; 674753, 4054679; 674682, 4054689; 674588, 4054726; 674510, 4054761; 674416, 4054839; 674358, 4054846; 674312, 4054838; 674252, 4054834; 674199, 4054850; 674085, 4054870; 673922, 4054945; 673841, 4054958; 673772, 4054946; 673704, 4054875; 673664, 4054828; 673621, 4054810; 673553, 4054820; 673503, 4054822; 673443, 4054809; 673374, 4054788; 673276, 4054751; 673215, 4054739; 673053, 4054732; 673005, 4054709; 672962, 4054658; 672910, 4054571; 672848, 4054495; 672821, 4054456; 672759, 4054349; 672728, 4054251; 672763, 4053963; 672710, 4054011; 672663, 4054038; 672594, 4054069; 672542, 4054082; 672379, 4054102; 672309, 4054126; 672241, 4054145; 672092, 4054148; 672009, 4054162; 671925, 4054184; 671855, 4054181; 671813, 4054163; 671767, 4054152; 671714, 4054148; 671643, 4054153; 671580, 4054163; 671508, 4054181; 671453, 4054199; 671402, 4054228; 671376, 4054266; 671372, 4054318; 671356, 4054388; 671332, 4054433; 671286, 4054492; 671207, 4054573; 671133, 4054626; 671105, 4054658; 671064, 4054765; 671026, 4054901; 670982, 4054969; 670972, 4054977; 670961, 4055011; 670928, 4055057; 670847, 4055121; 670830, 4055157; 670798, 4055297; 670765, 4055378; 670721, 4055533; 670704, 4055580; 670663, 4055653; 670622, 4055700; 670561, 4055758; 670504, 4055835; 670482, 4055860; 670464, 4055905; 670458, 4055956; 670457, 4056082; 670445, 4056154; 670427, 4056204; 670393, 4056277; 670408, 4056314; 670443, 4056350; 670480, 4056402; 670502, 4056463; 670508, 4056518; 670493, 4056600; 670462, 4056643; 670405, 4056672; 670312, 4056703; 670249, 4056743; 670217, 4056783; 670186, 4056833; 670153, 4056865; 670126, 4056907; 670109, 4056970; 670120, 4057004; 670131, 4057085; 670107, 4057225; 670068, 4057295; 670019, 4057322; 669913, 4057339; 669844, 4057338; 669780, 4057327; 669720, 4057307; 669602, 4057302; 669566, 4057287; 669506, 4057253; 669459, 4057264; 669446, 4057280; 669415, 4057340; 669389, 4057380; 669326, 4057420; 669253, 4057463; 669177, 4057496; 669083, 4057484; 669034, 4057471; 668976, 4057461; 668932, 4057473; 668834, 4057516; 668779, 4057505; 668716, 4057475; 668659, 4057467; 668532, 4057476; 668447, 4057459; 668382, 4057422; 668158, 4057269; 668086, 4057206; 668015, 4057185; 667947, 4057179; 667912, 4057169; 667822, 4057111; 667789, 4057106; 667756, 4057117; 667705, 4057123; 667649, 4057112; 667618, 4057125; 667562, 4057171; 667556, 4057198; 667416, 4057334; 667439, 4057352; 667469, 4057389; 667496, 4057451; 667516, 4057510; 667525, 4057615; 667540, 4057688; 667542, 4057751; 667532, 4057829; 667499, 4057953; 667430, 4058087; 667392, 4058137; 667366, 4058179; 667312, 4058286; 667293, 4058341; 667285, 4058387; 667287, 4058459; 667312, 4058628; 667323, 4058648; 667389, 4058690; 667449, 4058722; 667507, 4058762; 667531, 4058809; 667528, 4058845; 667506, 4058873; 667486, 4058914; 667323, 4059073; 667298, 4059118; 667285, 4059169; 667290, 4059229; 667285, 4059361; 667297, 4059489; 667312, 4059547; 667321, 4059596; 667327, 4059662; 667320, 4059715; 667286, 4059759; 667258, 4059805; 667248, 4059838; 667248, 4059880; 667261, 4059992; 667262, 4060050; 667259, 4060107; 667276, 4060161; 667327, 4060239; 667420, 4060361; 667454, 4060304; 667489, 4060195; 667497, 4060180; 667553, 4060041; 667588, 4059980; 667644, 4059947; 667749, 4059922; 667825, 4059912; 667913, 4059915; 667984, 4059900; 668040, 4059871; 668141, 4059803; 668186, 4059758; 668244, 4059672; 668264, 4059634; 668305, 4059585; 668397, 4059506; 668425, 4059477; 668442, 4059453; 668429, 4059399; 668427, 4059331; 668450, 4059302; 668509, 4059275; 668559, 4059267; 668726, 4059286; 668799, 4059313; 669161, 4059410; 669213, 4059402; 669258, 4059375; 669320, 4059286; 669377, 4059247; 669456, 4059217; 669525, 4059196; 669594, 4059190; 669640, 4059177; 669670, 4059160; 669715, 4059143; 669746, 4059144; 669786, 4059165; 669829, 4059209; 669892, 4059263; 670085, 4059405; 670174, 4059458; 670241, 4059511; 670294, 4059563; 670333, 4059603; 670372, 4059656; 670414, 4059695; 670453, 4059748; 670464, 4059783; 670482, 4059821; 670531, 4059889; 670578, 4059916; 670623, 4059947; 670662, 4059979; 670773, 4060050; 670794, 4060091; 670803, 4060202; 670815, 4060223; 670843, 4060237; 670881, 4060249; 670961, 4060245; 671099, 4060206; 671185, 4060195; 671233, 4060199; 671290, 4060208; 671331, 4060210; 671382, 4060201; 671418, 4060190; 671460, 4060163; 671547, 4060207; 671576, 4060307; 671651, 4060375; 671745, 4060435; 671811, 4060509; 671940, 4060616; 671965, 4060648; 671983, 4060706; 671995, 4060719; 672085, 4060743; 672122, 4060800; 672135, 4060847; 672152, 4060888; 672221, 4060958; 672247, 4061011; 672258, 4061070; 672254, 4061099; 672207, 4061163; 672167, 4061193; 672122, 4061244; 672099, 4061294; 672090, 4061347; 672094, 4061394; 672124, 4061491; 672125, 4061545; 672101, 4061588; 672046, 4061649; 672016, 4061744; 672012, 4061797; 671976, 4061960; 671989, 4062019; 672021, 4062064; 672035, 4062114; 672030, 4062165; 672036, 4062211; 672066, 4062276; 672144, 4062368; 672184, 4062421; 672210, 4062447; 672299, 4062460; 672317, 4062472; 672343, 4062460; 672363, 4062439; 672397, 4062414; 672421, 4062400; 672463, 4062412; 672517, 4062437; 672558, 4062444; 672612, 4062462; 672653, 4062513; 672694, 4062576; 672743, 4062612; 672792, 4062606; 672889, 4062505; 672951, 4062428; 672999, 4062387; 673129, 4062326; 673187, 4062313; 673239, 4062305; 673298, 4062319; 673358, 4062327; 673395, 4062325; 673430, 4062277; 673460, 4062242; 673592, 4062150; 673637, 4062125; 673677, 4062114; 673745, 4062162; 673786, 4062217; 673800, 4062278; 673794, 4062345; 673786, 4062403; 673763, 4062494; 673791, 4062535; 673843, 4062570; 673898, 4062600; 673967, 4062629; 674025, 4062658; 674077, 4062691; 674152, 4062720; 674181, 4062653; 674205, 4062627; 674437, 4062581; 674519, 4062572; 674585, 4062570; 674638, 4062578; 674704, 4062611; 674766, 4062660; 674821, 4062725; 674962, 4062932; 675068, 4063046; 675111, 4063075; 675164, 4063105; 675241, 4063135; 675321, 4063155; 675373, 4063154; 675406, 4063089; 675425, 4063026; 675452, 4062990; 675506, 4062964; 675541, 4062940; 675586, 4062886; 675616, 4062860; 675681, 4062833; 675747, 4062822; 675799, 4062805; 675844, 4062782; 675926, 4062673; 675985, 4062620; returning to 676029, 4062601.

(ii) Note: Unit SNB-2 for California red-legged frog is depicted on the map in paragraph (38)(ii) of this entry.

(40) Unit SNB-3: San Benito and Monterey Counties, California. From USGS 1:24,000 scale quadrangles Mount Johnson, Bickmore Canyon, North Chalone Peak, San Benito and Topo Valley.

(i) Land bounded by the following UTM zone 10, NAD 1983 coordinates (E, N): 667961, 4051790; 667989, 4051780; 668064, 4051808; 668106, 4051812; 668151, 4051810; 668286, 4051788; 668357, 4051764; 668405, 4051734; 668456, 4051670; 668494, 4051633; 668529, 4051611; 668583, 4051600; 668662, 4051574; 668730, 4051545; 668794, 4051501; 668881, 4051383; 668967, 4051348; 669289, 4051134; 669344, 4051081; 669395, 4051042; 669420, 4051000; 669464, 4050957; 669522, 4050928; 669575, 4050880; 669623, 4050812; 669684, 4050763; 669742, 4050747; 669838, 4050656; 669904, 4050611; 669945, 4050576; 669987, 4050518; 670039, 4050465; 670106, 4050415; 670169, 4050384; 670230, 4050362; 670363, 4050329; 670411, 4050295; 670573, 4050143; 670635, 4050110; 670714, 4050076; 670845, 4050005; 670887, 4049936; 670906, 4049872; 670752, 4049571; 670742, 4049485; 670717, 4049411; 670673, 4049309; 670676, 4049267; 670727, 4049215; 670761, 4049165; 670775, 4049123; 670829, 4049013; 670856, 4048941; 670884, 4048896; 670931, 4048872; 671016, 4048840; 671080, 4048830; 671193, 4048831; 671261, 4048860; 671345, 4048914; 671379, 4048922; 671408, 4048916; 671489, 4048868; 671574, 4048796; 671726, 4048701; 671785, 4048650; 671840, 4048582; 671892, 4048493; 671901, 4048453; 671891, 4048413; 671889, 4048376; 671905, 4048342; 671941, 4048286; 671965, 4048256; 671989, 4048203; 671980, 4048026; 671996, 4047960; 672031, 4047891; 672069, 4047870; 672119, 4047880; 672239, 4047934; 672582, 4048045; 672635, 4048070; 672695, 4048107; 672752, 4048122; 672795, 4048106; 672842, 4048073; 672900, 4048027; 672960, 4047995; 673018, 4047980; 673071, 4047959; 673123, 4047927; 673182, 4047877; 673288, 4047775; 673316, 4047755; 673355, 4047733; 673445, 4047669; 673565, 4047631; 673680, 4047555; 673857, 4047497; 674001, 4047410; 674242, 4047306; 674399, 4047188; 674466, 4047097; 674675, 4046971; 674809, 4046882; 674950, 4046800; 675044, 4046732; 675137, 4046648; 675267, 4046517; 675311, 4046480; 675352, 4046459; 675400, 4046447; 675447, 4046445; 675502, 4046420; 675545, 4046377; 675637, 4046238; 675673, 4046166; 675719, 4046125; 675794, 4046074; 675824, 4046017; 675874, 4045960; 676013, 4045846; 676119, 4045781; 676078, 4045736; 676058, 4045687; 676029, 4045554; 675999, 4045505; 675955, 4045444; 675891, 4045303; 675849, 4045258; 675802, 4045226; 675715, 4045188; 675633, 4045144; 675588, 4045108; 675560, 4045038; 675460, 4044844; 675403, 4044678; 675400, 4044629; 675386, 4044591; 675366, 4044549; 675371, 4044511; 675398, 4044468; 675429, 4044427; 675428, 4044352; 675420, 4044259; 675510, 4044072; 675565, 4044004; 675702, 4043860; 675777, 4043793; 675832, 4043758; 675873, 4043724; 675905, 4043682; 675933, 4043619; 676022, 4043469; 676097, 4043397; 676125, 4043365; 676149, 4043290; 676160, 4043059; 676186, 4042894; 676184, 4042810; 676157, 4042715; 676148, 4042609; 676150, 4042557; 676179, 4042466; 676326, 4042244; 676448, 4042150; 676460, 4042121; 676464, 4042058; 676474, 4042000; 676493, 4041924; 676502, 4041849; 676504, 4041781; 676515, 4041704; 676516, 4041635; 676478, 4041577; 676408, 4041521; 676340, 4041478; 676307, 4041440; 676285, 4041379; 676298, 4041223; 676307, 4041199; 676314, 4041108; 676324, 4041056; 676353, 4040999; 676367, 4040942; 676365, 4040878; 676327, 4040655; 676324, 4040569; 676328, 4040487; 676342, 4040424; 676353, 4040393; 676372, 4040358; 676409, 4040321; 676427, 4040314; 676424, 4040257; 676390, 4040219; 676332, 4040185; 676276, 4040145; 676166, 4040095; 676151, 4040034; 676157, 4039836; 676153, 4039774; 676179, 4039696; 676206, 4039628; 676245, 4039545; 676303, 4039457; 676371, 4039361; 676379, 4039310; 676343, 4039253; 676176, 4039111; 676137, 4039059; 675991, 4038844; 675981, 4038853; 675900, 4038970; 675851, 4039024; 675749, 4039119; 675718, 4039142; 675660, 4039176; 675588, 4039194; 675558, 4039176; 675538, 4039147; 675505, 4039109; 675433, 4039048; 675383, 4038995; 675345, 4038935; 675289, 4038881; 675148, 4038794; 675069, 4038757; 675003, 4038721; 674969, 4038682; 674959, 4038644; 674964, 4038594; 674974, 4038537; 674999, 4038468; 675032, 4038395; 675065, 4038307; 675059, 4038204; 675025, 4038154; 674923, 4038097; 674866, 4038054; 674741, 4037929; 674682, 4037881; 674611, 4037830; 674550, 4037791; 674476, 4037748; 674388, 4037719; 674312, 4037712; 674240, 4037693; 674190, 4037647; 674048, 4037500; 673997, 4037470; 673942, 4037467; 673776, 4037445; 673695, 4037422; 673611, 4037387; 673521, 4037324; 673412, 4037216; 673336, 4037169; 673253, 4037154; 673196, 4037140; 673138, 4037115; 673063, 4037109; 673030, 4037113; 673005, 4037135; 672918, 4037168; 672847, 4037208; 672780, 4037264; 672726, 4037344; 672639, 4037497; 672552, 4037674; 672501, 4037728; 672451, 4037765; 672401, 4037820; 672208, 4038098; 672174, 4038135; 672138, 4038185; 672058, 4038263; 671998, 4038293; 671947, 4038274; 671911, 4038180; 671879, 4038120; 671828, 4038088; 671779, 4038064; 671744, 4038037; 671724, 4038008; 671719, 4038039; 671635, 4038205; 671588, 4038277; 671545, 4038330; 671507, 4038385; 671443, 4038374; 671357, 4038342; 671261, 4038291; 671187, 4038241; 671124, 4038190; 671074, 4038139; 670967, 4037982; 670888, 4037926; 670847, 4037904; 670793, 4037860; 670748, 4037814; 670709, 4037754; 670663, 4037706; 670598, 4037653; 670548, 4037592; 670507, 4037520; 670469, 4037467; 670434, 4037429; 670372, 4037377; 670288, 4037328; 670240, 4037291; 670184, 4037240; 670091, 4037131; 669948, 4037018; 669915, 4036967; 669864, 4036914; 669793, 4036852; 669652, 4036748; 669527, 4036650; 669475, 4036565; 669441, 4036501; 669388, 4036434; 669256, 4036323; 669214, 4036273; 669191, 4036192; 669179, 4036111; 669160, 4036025; 669126, 4035957; 669075, 4035923; 669038, 4035854; 669017, 4035798; 668981, 4035746; 668927, 4035682; 668847, 4035598; 668756, 4035520; 668697, 4035489; 668641, 4035480; 668595, 4035459; 668574, 4035412; 668540, 4035025; 668527, 4034981; 668494, 4034947; 668439, 4034908; 668384, 4034838; 668339, 4034761; 668297, 4034707; 668242, 4034674; 668190, 4034629; 668147, 4034567; 668124, 4034500; 668143, 4034449; 668189, 4034397; 668244, 4034321; 668278, 4034256; 668284, 4034190; 668269, 4034109; 668253, 4034044; 668222, 4034002; 668175, 4033979; 668061, 4033952; 668007, 4033918; 667976, 4033887; 667958, 4033874; 667893, 4033861; 667828, 4033860; 667711, 4033876; 667681, 4033845; 667663, 4033779; 667654, 4033718; 667662, 4033668; 667694, 4033630; 667713, 4033572; 667721, 4033508; 667720, 4033441; 667702, 4033391; 667675, 4033358; 667600, 4033300; 667556, 4033219; 667519, 4033098; 667480, 4032952; 667442, 4032910; 667358, 4032878; 667271, 4032863; 667203, 4032813; 667152, 4032760; 667091, 4032710; 667049, 4032698; 667025, 4032674; 667019, 4032646; 666975, 4032619; 666881, 4032621; 666867, 4032618; 666832, 4032603; 666804, 4032569; 666785, 4032531; 666753, 4032494; 666637, 4032479; 666585, 4032485; 666552, 4032504; 666492, 4032555; 666436, 4032574; 666384, 4032571; 666319, 4032573; 666193, 4032563; 666092, 4032562; 665986, 4032580; 665888, 4032572; 665768, 4032544; 665680, 4032536; 665616, 4032553; 665554, 4032611; 665519, 4032657; 665493, 4032716; 665469, 4032750; 665427, 4032772; 665419, 4032791; 665393, 4032867; 665385, 4032909; 665384, 4032965; 665379, 4033024; 665368, 4033081; 665349, 4033141; 665321, 4033199; 665310, 4033263; 665314, 4033363; 665298, 4033401; 665264, 4033432; 665178, 4033485; 665154, 4033514; 665103, 4033600; 665064, 4033647; 665003, 4033697; 664899, 4033738; 664848, 4033747; 664800, 4033749; 664745, 4033745; 664701, 4033728; 664632, 4033710; 664437, 4033700; 664319, 4033689; 664236, 4033713; 664189, 4033788; 664161, 4033806; 664107, 4033810; 664050, 4033809; 663976, 4033806; 663890, 4033795; 663717, 4033795; 663652, 4033789; 663540, 4033762; 663442, 4033723; 663280, 4033713; 662986, 4033790; 662875, 4033801; 662763, 4033807; 662724, 4033832; 662646, 4033898; 662623, 4033932; 662611, 4033969; 662607, 4034028; 662609, 4034077; 662607, 4034118; 662588, 4034146; 662580, 4034152; 662562, 4034167; 662541, 4034178; 662487, 4034198; 662375, 4034256; 662267, 4034294; 662176, 4034301; 662078, 4034300; 662008, 4034306; 661950, 4034293; 661907, 4034272; 661793, 4034199; 661746, 4034200; 661722, 4034225; 661709, 4034260; 661689, 4034343; 661660, 4034529; 661635, 4034658; 661635, 4034731; 661645, 4034793; 661669, 4034864; 661694, 4034955; 661707, 4035056; 661690, 4035158; 661653, 4035242; 661579, 4035375; 661555, 4035432; 661537, 4035461; 661506, 4035500; 661489, 4035541; 661488, 4035568; 661511, 4035685; 661514, 4035795; 661526, 4035890; 661507, 4035924; 661480, 4035952; 661462, 4035977; 661441, 4036027; 661410, 4036077; 661360, 4036108; 661277, 4036143; 661231, 4036171; 661165, 4036228; 661122, 4036271; 661106, 4036282; 661052, 4036373; 661009, 4036416; 660974, 4036443; 660950, 4036471; 660915, 4036536; 660903, 4036569; 660867, 4036645; 660843, 4036685; 660789, 4036744; 660742, 4036784; 660668, 4036833; 660566, 4036876; 660478, 4036933; 660395, 4037013; 660373, 4037049; 660350, 4037094; 660296, 4037151; 660261, 4037211; 660251, 4037231; 660228, 4037317; 660210, 4037355; 660186, 4037388; 660124, 4037454; 660078, 4037516; 660003, 4037672; 659995, 4037693; 659958, 4037828; 659945, 4037862; 659913, 4037925; 659899, 4037938; 659875, 4037949; 659858, 4037954; 659844, 4037954; 659813, 4037964; 659803, 4037974; 659793, 4037997; 659773, 4038008; 659762, 4038010; 659754, 4038008; 659742, 4037998; 659718, 4037974; 659614, 4037855; 659599, 4037845; 659565, 4037841; 659554, 4037843; 659535, 4037863; 659502, 4037936; 659488, 4037952; 659456, 4037977; 659434, 4037983; 659391, 4037986; 659344, 4037985; 659296, 4037977; 659246, 4037965; 659230, 4037948; 659219, 4037932; 659215, 4037913; 659215, 4037888; 659203, 4037845; 659178, 4037806; 659161, 4037789; 659128, 4037774; 659105, 4037775; 659086, 4037779; 659061, 4037796; 659046, 4037792; 659027, 4037774; 659009, 4037767; 658987, 4037768; 658974, 4037773; 658960, 4037784; 658914, 4037849; 658860, 4037886; 658827, 4037913; 658814, 4037927; 658802, 4037943; 658782, 4037994; 658769, 4038012; 658734, 4038044; 658651, 4038097; 658630, 4038115; 658617, 4038154; 658607, 4038201; 658582, 4038274; 658581, 4038345; 658571, 4038395; 658551, 4038436; 658534, 4038458; 658530, 4038479; 658535, 4038494; 658551, 4038517; 658612, 4038541; 658629, 4038552; 658665, 4038592; 658708, 4038658; 658735, 4038682; 658747, 4038697; 658750, 4038716; 658748, 4038725; 658705, 4038780; 658678, 4038807; 658661, 4038838; 658654, 4038859; 658655, 4038882; 658664, 4038900; 658681, 4038921; 658691, 4038942; 658706, 4038991; 658733, 4039116; 658735, 4039134; 658729, 4039162; 658710, 4039185; 658671, 4039210; 658654, 4039217; 658638, 4039231; 658587, 4039289; 658540, 4039334; 658517, 4039362; 658504, 4039396; 658483, 4039521; 658477, 4039537; 658454, 4039570; 658418, 4039591; 658346, 4039625; 658338, 4039634; 658331, 4039652; 658331, 4039668; 658341, 4039702; 658370, 4039753; 658404, 4039826; 658444, 4039880; 658468, 4039922; 658467, 4039964; 658450, 4039987; 658412, 4040016; 658354, 4040053; 658324, 4040067; 658286, 4040094; 658279, 4040110; 658266, 4040188; 658216, 4040277; 658156, 4040398; 658126, 4040439; 658094, 4040453; 658072, 4040460; 658039, 4040481; 657990, 4040522; 657951, 4040564; 657915, 4040617; 657867, 4040728; 657836, 4040785; 657823, 4040821; 657823, 4040848; 657818, 4040860; 657814, 4040886; 657806, 4040906; 657774, 4040951; 657755, 4040966; 657749, 4040980; 657743, 4041042; 657715, 4041131; 657708, 4041163; 657700, 4041172; 657682, 4041215; 657674, 4041247; 657672, 4041280; 657677, 4041335; 657675, 4041348; 657659, 4041366; 657637, 4041376; 657576, 4041387; 657564, 4041394; 657540, 4041419; 657526, 4041426; 657498, 4041432; 657473, 4041432; 657437, 4041422; 657417, 4041420; 657401, 4041420; 657386, 4041424; 657352, 4041418; 657311, 4041415; 657286, 4041431; 657254, 4041476; 657219, 4041512; 657205, 4041532; 657159, 4041562; 657125, 4041557; 657117, 4041560; 657093, 4041541; 657073, 4041538; 657001, 4041564; 656974, 4041581; 656954, 4041583; 656951, 4041581; 656942, 4041541; 656933, 4041519; 656904, 4041494; 656805, 4041451; 656788, 4041430; 656775, 4041406; 656756, 4041317; 656741, 4041316; 656718, 4041343; 656660, 4041383; 656595, 4041436; 656536, 4041444; 656516, 4041435; 656484, 4041412; 656377, 4041305; 656334, 4041270; 656314, 4041248; 656288, 4041227; 656265, 4041221; 656252, 4041226; 656233, 4041236; 656196, 4041268; 656119, 4041302; 656067, 4041317; 656041, 4041317; 655981, 4041327; 655915, 4041325; 655867, 4041312; 655751, 4041245; 655739, 4041242; 655689, 4041245; 655663, 4041238; 655624, 4041216; 655610, 4041216; 655570, 4041203; 655557, 4041202; 655545, 4041207; 655531, 4041218; 655507, 4041244; 655490, 4041252; 655457, 4041257; 655438, 4041247; 655421, 4041245; 655395, 4041229; 655372, 4041225; 655350, 4041209; 655328, 4041181; 655279, 4041109; 655252, 4041082; 655227, 4041064; 655216, 4041063; 655204, 4041057; 655176, 4041054; 655157, 4041058; 655143, 4041065; 655129, 4041067; 655117, 4041060; 655106, 4041058; 655097, 4041049; 655081, 4041043; 655042, 4041034; 654972, 4041036; 654957, 4041040; 654946, 4041049; 654935, 4041053; 654901, 4041056; 654876, 4041057; 654842, 4041050; 654801, 4041055; 654772, 4041090; 654763, 4041115; 654747, 4041137; 654729, 4041146; 654666, 4041150; 654645, 4041153; 654626, 4041159; 654588, 4041162; 654539, 4041154; 654497, 4041153; 654443, 4041161; 654420, 4041156; 654366, 4041121; 654358, 4041111; 654326, 4041093; 654310, 4041092; 654252, 4041076; 654205, 4041052; 654187, 4041048; 654140, 4041047; 654098, 4041055; 654076, 4041065; 654050, 4041064; 654011, 4041068; 653987, 4041065; 653945, 4041066; 653898, 4041078; 653870, 4041081; 653783, 4041106; 653729, 4041143; 653707, 4041166; 653659, 4041227; 653637, 4041262; 653604, 4041343; 653596, 4041386; 653588, 4041406; 653580, 4041406; 653549, 4041395; 653520, 4041381; 653504, 4041383; 653456, 4041371; 653409, 4041316; 653389, 4041304; 653372, 4041309; 653354, 4041320; 653321, 4041346; 653285, 4041367; 653238, 4041382; 653149, 4041387; 653120, 4041384; 653052, 4041368; 653033, 4041375; 653020, 4041383; 652992, 4041425; 652959, 4041442; 652931, 4041447; 652816, 4041438; 652759, 4041452; 652727, 4041438; 652704, 4041401; 652686, 4041381; 652644, 4041354; 652609, 4041337; 652592, 4041333; 652563, 4041309; 652554, 4041298; 652526, 4041215; 652515, 4041200; 652507, 4041200; 652479, 4041212; 652466, 4041220; 652398, 4041243; 652379, 4041252; 652312, 4041336; 652293, 4041354; 652257, 4041381; 652239, 4041389; 652217, 4041398; 652200, 4041397; 652166, 4041384; 652150, 4041370; 652109, 4041370; 652098, 4041367; 652078, 4041352; 652045, 4041307; 652032, 4041258; 652025, 4041212; 652007, 4041186; 651982, 4041160; 651965, 4041149; 651951, 4041145; 651930, 4041133; 651911, 4041128; 651885, 4041115; 651871, 4041114; 651862, 4041108; 651857, 4041094; 651849, 4041028; 651839, 4041009; 651829, 4041001; 651789, 4040990; 651718, 4040985; 651691, 4040977; 651675, 4040963; 651656, 4040930; 651619, 4040835; 651577, 4040782; 651568, 4040736; 651563, 4040736; 651545, 4040697; 651536, 4040686; 651499, 4040667; 651481, 4040667; 651455, 4040677; 651440, 4040685; 651424, 4040706; 651413, 4040733; 651402, 4040787; 651396, 4040808; 651386, 4040820; 651361, 4040831; 651345, 4040833; 651287, 4040863; 651262, 4040899; 651252, 4040922; 651203, 4041002; 651194, 4041019; 651187, 4041066; 651193, 4041129; 651184, 4041169; 651166, 4041218; 651161, 4041252; 651167, 4041276; 651174, 4041292; 651205, 4041323; 651257, 4041358; 651293, 4041361; 651307, 4041359; 651344, 4041375; 651353, 4041394; 651357, 4041419; 651348, 4041464; 651303, 4041582; 651296, 4041609; 651267, 4041680; 651271, 4041719; 651281, 4041766; 651299, 4041804; 651337, 4041821; 651392, 4041812; 651410, 4041830; 651444, 4041873; 651462, 4041886; 651482, 4041906; 651491, 4041926; 651498, 4041967; 651512, 4041983; 651596, 4042052; 651608, 4042074; 651611, 4042087; 651612, 4042133; 651609, 4042219; 651602, 4042262; 651581, 4042294; 651559, 4042317; 651554, 4042334; 651553, 4042385; 651558, 4042439; 651548, 4042498; 651553, 4042542; 651580, 4042610; 651596, 4042622; 651619, 4042625; 651636, 4042622; 651658, 4042629; 651684, 4042639; 651710, 4042657; 651823, 4042693; 651878, 4042732; 651912, 4042762; 651924, 4042784; 651924, 4042796; 651914, 4042810; 651881, 4042835; 651879, 4042853; 651928, 4042968; 651950, 4043006; 651994, 4043059; 652047, 4043116; 652063, 4043126; 652084, 4043132; 652098, 4043129; 652134, 4043138; 652160, 4043159; 652164, 4043173; 652163, 4043186; 652147, 4043248; 652150, 4043264; 652167, 4043283; 652192, 4043301; 652238, 4043316; 652267, 4043331; 652300, 4043339; 652328, 4043355; 652377, 4043387; 652421, 4043430; 652444, 4043459; 652456, 4043484; 652463, 4043510; 652467, 4043537; 652465, 4043565; 652459, 4043588; 652463, 4043625; 652487, 4043657; 652504, 4043690; 652559, 4043735; 652577, 4043744; 652593, 4043756; 652595, 4043787; 652565, 4043889; 652555, 4043957; 652548, 4043988; 652540, 4044007; 652524, 4044028; 652470, 4044068; 652443, 4044098; 652442, 4044107; 652446, 4044126; 652469, 4044149; 652487, 4044161; 652498, 4044173; 652501, 4044186; 652499, 4044224; 652494, 4044249; 652482, 4044280; 652470, 4044340; 652457, 4044363; 652448, 4044367; 652512, 4044389; 652582, 4044400; 652677, 4044397; 652740, 4044405; 652799, 4044422; 652864, 4044432; 652934, 4044432; 653044, 4044397; 653134, 4044389; 653267, 4044416; 653516, 4044427; 653613, 4044440; 653683, 4044463; 653910, 4044555; 654260, 4044754; 654321, 4044760; 654396, 4044748; 654472, 4044774; 654568, 4044864; 654632, 4044871; 654666, 4044900; 654671, 4044952; 654673, 4045025; 654692, 4045074; 654774, 4045161; 654831, 4045189; 654908, 4045205; 655060, 4045252; 655117, 4045283; 655019, 4045442; 655008, 4045496; 655014, 4045546; 655012, 4045625; 654971, 4045759; 654950, 4045852; 654959, 4045923; 654991, 4046001; 655009, 4046066; 655008, 4046153; 655027, 4046199; 655145, 4046256; 655177, 4046306; 655188, 4046377; 655166, 4046509; 655164, 4046576; 655198, 4046648; 655277, 4046794; 655264, 4046984; 655253, 4047026; 655245, 4047075; 655242, 4047146; 655223, 4047256; 655236, 4047279; 655309, 4047312; 655377, 4047359; 655428, 4047413; 655479, 4047444; 655534, 4047461; 655594, 4047473; 655745, 4047425; 655941, 4047572; 656195, 4047652; 656302, 4047681; 656406, 4047728; 656477, 4047732; 656527, 4047772; 656585, 4047830; 656618, 4047876; 656638, 4047931; 656675, 4047974; 656733, 4048006; 656781, 4048017; 656813, 4048048; 656856, 4048111; 656933, 4048176; 656955, 4048183; 657000, 4048176; 657046, 4048165; 657089, 4048175; 657124, 4048205; 657156, 4048257; 657174, 4048307; 657202, 4048370; 657266, 4048487; 657297, 4048510; 657352, 4048519; 657412, 4048510; 657475, 4048495; 657560, 4048496; 657605, 4048503; 657629, 4048526; 657703, 4048554; 657700, 4048619; 657707, 4048650; 657733, 4048684; 657764, 4048718; 657791, 4048739; 657822, 4048752; 657888, 4048770; 657956, 4048770; 658006, 4048763; 658090, 4048742; 658173, 4048741; 658216, 4048754; 658245, 4048774; 658272, 4048805; 658299, 4048822; 658374, 4048847; 658414, 4048849; 658461, 4048840; 658520, 4048865; 658653, 4048961; 658677, 4048984; 658727, 4049060; 658762, 4049086; 658792, 4049093; 658831, 4049097; 658914, 4049089; 659023, 4049113; 659237, 4049030; 659286, 4049021; 659342, 4049014; 659385, 4049017; 659481, 4049041; 659600, 4049040; 659648, 4049005; 659677, 4048990; 659712, 4048996; 659797, 4049047; 659823, 4049043; 659885, 4048997; 659927, 4048974; 660060, 4048856; 660116, 4048831; 660205, 4048824; 660244, 4048828; 660318, 4048878; 660372, 4048894; 660427, 4048890; 660522, 4048856; 660688, 4048763; 660742, 4048645; 660865, 4048606; 660913, 4048582; 661038, 4048492; 661149, 4048433; 661244, 4048313; 661265, 4048292; 661358, 4048259; 661560, 4048228; 661608, 4048244; 661643, 4048273; 661690, 4048291; 661811, 4048312; 661863, 4048334; 661906, 4048375; 661929, 4048407; 662033, 4048515; 662090, 4048581; 662143, 4048648; 662393, 4048927; 662432, 4048963; 662467, 4048985; 662507, 4049019; 662618, 4049053; 662685, 4049018; 662725, 4048987; 662817, 4048903; 662851, 4048863; 662921, 4048804; 662957, 4048782; 663029, 4048620; 663090, 4048505; 663147, 4048419; 663274, 4048317; 663401, 4048230; 663534, 4048164; 663559, 4048163; 663696, 4048213; 663818, 4048193; 663858, 4048175; 664064, 4047958; 664124, 4047979; 664212, 4048004; 664340, 4048005; 664463, 4047888; 664593, 4047746; 664625, 4047777; 664716, 4047786; 664762, 4047778; 664811, 4047790; 664866, 4047833; 664912, 4047853; 664944, 4047844; 664978, 4047804; 665005, 4047760; 665078, 4047680; 665193, 4047538; 665226, 4047519; 665285, 4047462; 665348, 4047445; 665432, 4047360; 665493, 4047276; 665533, 4047235; 665605, 4047164; 665687, 4047100; 665734, 4047059; 665944, 4046822; 666109, 4046679; 666220, 4046535; 666403, 4046360; 666569, 4046239; 666616, 4046213; 666738, 4046119; 666813, 4046025; 666862, 4045972; 666885, 4045932; 666976, 4045936; 667099, 4045921; 667121, 4045938; 667163, 4045995; 667221, 4046103; 667258, 4046133; 667285, 4046172; 667297, 4046243; 667297, 4046351; 667288, 4046410; 667291, 4046459; 667320, 4046495; 667382, 4046613; 667424, 4046795; 667398, 4046955; 667413, 4047010; 667436, 4047060; 667437, 4047135; 667424, 4047203; 667362, 4047288; 667326, 4047317; 667282, 4047339; 667241, 4047378; 667202, 4047480; 667108, 4047580; 667078, 4047635; 667078, 4047682; 667086, 4047743; 667081, 4047810; 667039, 4047850; 667001, 4047871; 666953, 4047917; 666931, 4047968; 666922, 4048035; 666899, 4048099; 666870, 4048156; 666835, 4048189; 666791, 4048238; 666774, 4048291; 666784, 4048358; 666841, 4048442; 666864, 4048549; 666838, 4048612; 666830, 4048677; 666846, 4048727; 666873, 4048785; 666905, 4048837; 666945, 4048892; 666993, 4048945; 667049, 4049016; 667077, 4049080; 667069, 4049136; 667054, 4049181; 667043, 4049230; 667021, 4049291; 666996, 4049336; 666957, 4049470; 666936, 4049730; 666883, 4049761; 666799, 4049824; 666515, 4050052; 666456, 4050092; 666375, 4050158; 666331, 4050181; 666286, 4050223; 666217, 4050378; 666165, 4050419; 666090, 4050451; 665899, 4050557; 665885, 4050586; 666103, 4050645; 666185, 4050664; 666238, 4050687; 666286, 4050712; 666380, 4050785; 666525, 4050860; 666655, 4050936; 666764, 4051033; 666811, 4051043; 666857, 4051048; 666893, 4051082; 666912, 4051172; 666941, 4051217; 666963, 4051260; 667016, 4051308; 667052, 4051331; 667105, 4051351; 667204, 4051370; 667240, 4051372; 667268, 4051408; 667286, 4051464; 667340, 4051578; 667373, 4051627; 667405, 4051663; 667455, 4051696; 667492, 4051738; 667615, 4051971; 667664, 4051932; 667711, 4051907; 667789, 4051891; 667868, 4051881; 667901, 4051858; 667938, 4051812; returning to 667961, 4051790.

(ii) Note: Unit SNB-3 for California red-legged frog is depicted on the map in paragraph (38)(ii) of this entry.

(41) Unit SLO-1: San Louis Obispo, Kings and Kern Counties, California. From USGS 1:24,000 scale quadrangles Cholame Valley, Tent Hills, Cholame and Orchard Peak.

(i) Land bounded by the following UTM zone 10, NAD 1983 coordinates (E, N): 752130, 3963634; 752177, 3963621; 752213, 3963622; 752268, 3963595; 752316, 3963561; 752394, 3963470; 752407, 3963405; 752351, 3963238; 752338, 3963176; 752337, 3963122; 752346, 3963062; 752383, 3963030; 752406, 3962984; 752407, 3962939; 752399, 3962920; 752376, 3962881; 752361, 3962832; 752393, 3962782; 752495, 3962683; 752531, 3962658; 752588, 3962626; 752627, 3962621; 752678, 3962626; 752740, 3962609; 752775, 3962577; 752826, 3962473; 752945, 3962368; 752987, 3962338; 753042, 3962310; 753072, 3962276; 753118, 3962186; 753131, 3962136; 753131, 3962086; 753155, 3962031; 753304, 3961863; 753416, 3961775; 753462, 3961715; 753511, 3961661; 753568, 3961623; 753637, 3961569; 753685, 3961512; 753754, 3961493; 753848, 3961519; 753876, 3961497; 753874, 3961457; 753877, 3961399; 753890, 3961331; 753898, 3961262; 753879, 3961211; 753856, 3961164; 753853, 3961149; 753848, 3961151; 753785, 3961141; 753726, 3961118; 753703, 3961035; 753705, 3960953; 753700, 3960932; 753675, 3960890; 753641, 3960854; 753606, 3960828; 753593, 3960808; 753589, 3960794; 753594, 3960721; 753587, 3960682; 753532, 3960586; 753505, 3960512; 753454, 3960429; 753411, 3960316; 753374, 3960145; 753363, 3960123; 753346, 3960103; 753273, 3960082; 753192, 3960046; 753157, 3960041; 753134, 3960047; 753056, 3960093; 753037, 3960096; 753026, 3960084; 752995, 3960072; 752969, 3960055; 752909, 3959987; 752873, 3959964; 752778, 3959943; 752717, 3959922; 752638, 3959876; 752584, 3959853; 752512, 3959844; 752489, 3959848; 752439, 3959886; 752463, 3959830; 752502, 3959790; 752532, 3959767; 752549, 3959740; 752550, 3959693; 752561, 3959656; 752603, 3959600; 752616, 3959569; 752615, 3959522; 752607, 3959495; 752602, 3959458; 752635, 3959370; 752625, 3959330; 752600, 3959292; 752581, 3959240; 752597, 3959172; 752620, 3959125; 752629, 3959088; 752625, 3959024; 752641, 3958985; 752669, 3958956; 752693, 3958918; 752698, 3958821; 752727, 3958775; 752820, 3958678; 752928, 3958591; 753040, 3958518; 753081, 3958496; 753113, 3958486; 753201, 3958470; 753240, 3958454; 753277, 3958434; 753311, 3958399; 753384, 3958236; 753388, 3958206; 753374, 3958173; 753360, 3958091; 753326, 3958067; 753280, 3958062; 753262, 3958043; 753235, 3958028; 753157, 3958000; 753139, 3957977; 753162, 3957956; 753184, 3957917; 753211, 3957846; 753246, 3957815; 753321, 3957759; 753347, 3957726; 753356, 3957686; 753357, 3957634; 753368, 3957566; 753378, 3957546; 753383, 3957376; 753679, 3957241; 753949, 3957107; 755936, 3955917; 756110, 3955797; 756335, 3955616; 756406, 3955566; 756434, 3955534; 756685, 3955378; 756712, 3955383; 756731, 3955285; 756860, 3954963; 756937, 3954849; 757059, 3954742; 757346, 3954534; 757615, 3954384; 757806, 3954309; 757985, 3954183; 758132, 3953974; 758197, 3953753; 758226, 3953688; 758154, 3953752; 758089, 3953753; 758023, 3953773; 757973, 3953790; 757862, 3953838; 757654, 3953887; 757398, 3953974; 757321, 3954006; 757241, 3954032; 757146, 3954055; 757079, 3954092; 757020, 3954142; 756979, 3954205; 756930, 3954253; 756863, 3954257; 756530, 3954175; 756415, 3954134; 756324, 3954082; 756254, 3954059; 756226, 3954077; 756166, 3954136; 756027, 3954245; 755966, 3954313; 755887, 3954387; 755776, 3954472; 755715, 3954502; 755657, 3954494; 755540, 3954425; 755409, 3954331; 755336, 3954282; 755295, 3954246; 755281, 3954215; 755283, 3954168; 755302, 3954133; 755299, 3954110; 755274, 3954080; 755247, 3954040; 755212, 3953999; 755151, 3953962; 755084, 3953943; 755034, 3953909; 755014, 3953871; 755049, 3953825; 755154, 3953729; 755211, 3953685; 755256, 3953644; 755289, 3953592; 755310, 3953549; 755340, 3953499; 755388, 3953453; 755434, 3953418; 755534, 3953372; 755580, 3953325; 755679, 3953185; 755732, 3953134; 755811, 3953083; 755837, 3953057; 755854, 3953028; 755882, 3952845; 755884, 3952815; 755871, 3952778; 755808, 3952657; 755783, 3952616; 755772, 3952588; 755855, 3952618; 755918, 3952622; 755972, 3952613; 756007, 3952600; 756033, 3952551; 756025, 3952489; 756006, 3952390; 755979, 3952289; 755961, 3952251; 755913, 3952178; 755895, 3952127; 755889, 3952064; 755863, 3952018; 755817, 3952007; 755752, 3951998; 755696, 3951981; 755496, 3951902; 755458, 3951873; 755433, 3951827; 755424, 3951773; 755432, 3951733; 755497, 3951670; 755511, 3951644; 755507, 3951608; 755473, 3951583; 755407, 3951546; 755294, 3951496; 755206, 3951465; 755165, 3951428; 755152, 3951384; 755131, 3951338; 755086, 3951288; 755012, 3951274; 754952, 3951245; 754878, 3951181; 754831, 3951074; 754801, 3950993; 754763, 3950922; 754722, 3950867; 754659, 3950812; 754612, 3950785; 754556, 3950790; 754470, 3950838; 754424, 3950851; 754358, 3950847; 754295, 3950828; 754245, 3950810; 754200, 3950780; 754180, 3950747; 754185, 3950715; 754209, 3950662; 754222, 3950590; 754207, 3950531; 754159, 3950473; 754124, 3950437; 754107, 3950411; 754076, 3950378; 754044, 3950337; 754007, 3950306; 753963, 3950287; 753934, 3950258; 753875, 3950121; 753849, 3950082; 753818, 3950007; 753772, 3949853; 753718, 3949714; 753746, 3949672; 753801, 3949608; 753864, 3949553; 753916, 3949496; 753969, 3949413; 753962, 3949374; 753934, 3949325; 753904, 3949255; 753872, 3949138; 753850, 3949020; 753845, 3948807; 753846, 3948668; 753786, 3948704; 753755, 3948743; 753740, 3948788; 753710, 3948918; 753690, 3948967; 753685, 3949000; 753662, 3949050; 753637, 3949080; 753540, 3949171; 753484, 3949212; 753426, 3949246; 753377, 3949285; 753288, 3949413; 753232, 3949478; 753190, 3949516; 753110, 3949575; 753036, 3949656; 752914, 3949726; 752856, 3949780; 752826, 3949819; 752690, 3949905; 752666, 3949923; 752635, 3949993; 752612, 3950029; 752574, 3950066; 752526, 3950097; 752462, 3950131; 752412, 3950170; 752385, 3950215; 752365, 3950267; 752350, 3950312; 752349, 3950347; 752330, 3950365; 752302, 3950368; 752255, 3950360; 752195, 3950371; 752161, 3950403; 752045, 3950583; 751985, 3950664; 751918, 3950713; 751801, 3950759; 751769, 3950792; 751756, 3950837; 751748, 3950875; 751722, 3950913; 751675, 3950945; 751547, 3951014; 751532, 3951019; 751501, 3951016; 751460, 3951005; 751423, 3951002; 751375, 3951021; 751199, 3951131; 751165, 3951168; 751135, 3951205; 751062, 3951320; 750972, 3951432; 750930, 3951502; 750903, 3951561; 750879, 3951603; 750807, 3951692; 750649, 3951843; 750606, 3951894; 750576, 3951950; 750526, 3952029; 750465, 3952104; 750385, 3952171; 750314, 3952193; 750261, 3952193; 750212, 3952184; 750202, 3952182; 750202, 3952580; 750094, 3953028; 750327, 3954015; 750668, 3954626; 750740, 3954967; 750704, 3955954; 750709, 3955975; 750690, 3955995; 750611, 3956161; 750585, 3956208; 750547, 3956245; 750494, 3956267; 750410, 3956292; 750382, 3956351; 750392, 3956403; 750421, 3956473; 750422, 3956497; 750386, 3956518; 750315, 3956542; 750281, 3956567; 750217, 3956639; 750164, 3956674; 750083, 3956701; 749964, 3956763; 749890, 3956809; 749831, 3956863; 749769, 3956929; 749723, 3956957; 749678, 3956980; 749604, 3957047; 749562, 3957059; 749503, 3957062; 749331, 3957045; 749226, 3957046; 749026, 3957063; 748989, 3957062; 748897, 3957025; 748860, 3957023; 748789, 3957039; 748668, 3957036; 748635, 3957058; 748617, 3957085; 748595, 3957099; 748483, 3957205; 748442, 3957255; 748409, 3957321; 748346, 3957421; 748265, 3957501; 748201, 3957526; 748118, 3957507; 748014, 3957446; 747949, 3957430; 747903, 3957443; 747842, 3957505; 747796, 3957545; 747729, 3957588; 747672, 3957600; 747541, 3957596; 747468, 3957603; 747410, 3957621; 747333, 3957670; 747202, 3957791; 747147, 3957833; 747086, 3957869; 746949, 3957941; 746986, 3958051; 746985, 3958172; 746980, 3958196; 746943, 3958354; 746843, 3958553; 746766, 3958660; 746756, 3958787; 746819, 3958938; 746857, 3959111; 746859, 3959248; 746881, 3959460; 746885, 3959536; 746883, 3959601; 746887, 3959636; 746903, 3959687; 746886, 3959729; 746844, 3959774; 746770, 3959825; 746673, 3959900; 746602, 3959975; 746540, 3960078; 746502, 3960162; 746468, 3960397; 746447, 3960491; 746377, 3960622; 746320, 3960723; 746249, 3960832; 746170, 3960922; 746115, 3960992; 746183, 3961064; 746219, 3961105; 746275, 3961146; 746327, 3961169; 746375, 3961184; 746518, 3961220; 746610, 3961258; 746729, 3961287; 746865, 3961281; 746987, 3961257; 747073, 3961200; 747111, 3961191; 747168, 3961212; 747216, 3961271; 747252, 3961334; 747266, 3961412; 747264, 3961500; 747283, 3961583; 747298, 3961632; 747330, 3961687; 747374, 3961734; 747443, 3961733; 747480, 3961714; 747536, 3961667; 747595, 3961650; 747663, 3961676; 747697, 3961709; 747717, 3961762; 747736, 3961849; 747772, 3961915; 747796, 3961925; 747782, 3962015; 747816, 3962184; 747859, 3962354; 747907, 3962505; 747939, 3962560; 747966, 3962593; 748060, 3962654; 748122, 3962713; 748175, 3962794; 748232, 3962846; 748290, 3962869; 748403, 3962995; 748449, 3963052; 748518, 3963103; 748583, 3963133; 748689, 3963150; 748815, 3963151; 748922, 3963160; 748980, 3963178; 749031, 3963210; 749087, 3963366; 749147, 3963426; 749220, 3963434; 749271, 3963424; 749352, 3963349; 749423, 3963311; 749527, 3963293; 749613, 3963300; 749691, 3963318; 749754, 3963268; 749781, 3963239; 749790, 3963158; 749819, 3963084; 749862, 3963037; 749905, 3963025; 750137, 3963026; 750155, 3963082; 750160, 3963114; 750198, 3963155; 750272, 3963206; 750293, 3963255; 750314, 3963321; 750339, 3963349; 750385, 3963367; 750433, 3963395; 750548, 3963470; 750589, 3963520; 750630, 3963550; 750649, 3963587; 750677, 3963620; 750722, 3963635; 750758, 3963642; 750816, 3963670; 750861, 3963681; 750913, 3963709; 750935, 3963739; 750969, 3963799; 751032, 3963973; 751061, 3963987; 751112, 3964028; 751151, 3964045; 751193, 3964053; 751238, 3964071; 751260, 3964094; 751285, 3964128; 751327, 3964155; 751349, 3964178; 751407, 3964200; 751482, 3964215; 751537, 3964217; 751589, 3964225; 751636, 3964226; 751670, 3964193; 751692, 3964180; 751761, 3964157; 751799, 3964132; 751837, 3964116; 751877, 3964107; 751917, 3964104; 751942, 3964094; 751976, 3964063; 752025, 3963982; 752044, 3963957; 752084, 3963940; 752125, 3963905; 752151, 3963870; 752170, 3963839; 752168, 3963806; 752158, 3963766; 752127, 3963722; 752089, 3963653; returning to 752130, 3963634.

(ii) Note: Map of Unit SLO-1 for the California red-legged frog follows:

BILLING CODE 4310-55-P

BILLING CODE 4310-55-C

(42) Unit SLO-2: San Louis Obispo County, California. From USGS 1:24,000 scale quadrangles Burro Mountain, Piedras Blancas, San Simeon, Pico Creek, Pebblestone Shut-In, Cambria, Cypress Mountain and Cayucos.

(i) Land bounded by the following UTM zone 10, NAD 1983 coordinates (E, N): 651539, 3958896; 651591, 3958841; 651612, 3958812; 651637, 3958772; 651667, 3958709; 651692, 3958675; 651720, 3958648; 651757, 3958646; 651841, 3958678; 651933, 3958690; 651998, 3958679; 652046, 3958666; 652160, 3958621; 652214, 3958606; 652272, 3958569; 652336, 3958493; 652445, 3958390; 652539, 3958332; 652607, 3958282; 652701, 3958245; 652760, 3958218; 652938, 3958074; 652966, 3958012; 652969, 3957980; 652995, 3957929; 653042, 3957880; 653074, 3957852; 653130, 3957815; 653250, 3957754; 653351, 3957686; 653398, 3957676; 653458, 3957675; 653500, 3957681; 653568, 3957701; 653602, 3957716; 653709, 3957752; 653766, 3957751; 653873, 3957708; 653947, 3957691; 654030, 3957665; 654081, 3957637; 654144, 3957613; 654200, 3957588; 654206, 3957576; 654284, 3957482; 654315, 3957466; 654350, 3957441; 654415, 3957412; 654648, 3957433; 654781, 3957470; 654824, 3957469; 654908, 3957446; 654982, 3957476; 655016, 3957507; 655117, 3957549; 655163, 3957540; 655288, 3957462; 655365, 3957437; 655455, 3957393; 655508, 3957304; 655617, 3957196; 655784, 3957215; 655848, 3957219; 655949, 3957206; 655991, 3957189; 656041, 3957184; 656190, 3957211; 656252, 3957232; 656345, 3957277; 656375, 3957296; 656410, 3957335; 656506, 3957384; 656603, 3957410; 656701, 3957427; 656785, 3957414; 657069, 3957261; 657123, 3957198; 657251, 3957096; 657289, 3957077; 657316, 3957063; 657391, 3957005; 657441, 3956971; 657580, 3956884; 657664, 3956835; 657739, 3956787; 657841, 3956734; 657902, 3956696; 658024, 3956546; 658076, 3956504; 658058, 3956497; 658045, 3956337; 658033, 3956270; 658027, 3956204; 658019, 3956159; 658016, 3956108; 658007, 3956080; 657959, 3956020; 657898, 3955891; 657869, 3955775; 657867, 3955685; 657880, 3955620; 657912, 3955565; 657968, 3955443; 657943, 3955250; 657924, 3955175; 657914, 3955100; 657917, 3955032; 657911, 3954979; 657896, 3954917; 657896, 3954856; 657908, 3954825; 657951, 3954774; 658075, 3954646; 658144, 3954594; 658202, 3954513; 658210, 3954493; 658263, 3954441; 658341, 3954399; 658411, 3954380; 658545, 3954337; 658620, 3954333; 658748, 3954303; 658781, 3954284; 658840, 3954232; 658888, 3954182; 658948, 3954150; 659016, 3954125; 659071, 3954092; 659149, 3954026; 659207, 3953916; 659237, 3953828; 659284, 3953746; 659311, 3953662; 659326, 3953595; 659321, 3953532; 659355, 3953454; 659414, 3953326; 659493, 3953207; 659504, 3953175; 659532, 3953122; 659560, 3953049; 659586, 3953016; 659617, 3952952; 659634, 3952899; 659697, 3952783; 659720, 3952732; 659733, 3952666; 659736, 3952627; 659766, 3952591; 659763, 3952537; 659782, 3952466; 659787, 3952398; 659776, 3952271; 659766, 3952194; 659803, 3952180; 659837, 3952162; 659886, 3952074; 659888, 3952063; 659924, 3952006; 660202, 3951811; 660278, 3951783; 660383, 3951753; 660497, 3951742; 660596, 3951714; 660639, 3951688; 660736, 3951573; 660778, 3951558; 660863, 3951535; 660917, 3951502; 660991, 3951506; 661004, 3951460; 661033, 3951431; 661108, 3951381; 661197, 3951285; 661245, 3951242; 661275, 3951228; 661323, 3951246; 661475, 3951194; 661567, 3951197; 661629, 3951229; 661714, 3951239; 661771, 3951297; 661783, 3951300; 661823, 3951296; 661942, 3951265; 662024, 3951286; 662106, 3951390; 662146, 3951409; 662216, 3951415; 662342, 3951408; 662405, 3951409; 662479, 3951394; 662556, 3951419; 662591, 3951463; 662619, 3951448; 662699, 3951377; 662732, 3951311; 662740, 3951251; 662773, 3951234; 662832, 3951221; 662897, 3951294; 662933, 3951273; 663006, 3951218; 663087, 3951174; 663173, 3951138; 663305, 3951146; 663343, 3951155; 663506, 3951139; 663649, 3951117; 663712, 3951091; 663828, 3951077; 663860, 3951082; 664349, 3950867; 664505, 3950758; 664554, 3950755; 664643, 3950700; 664677, 3950686; 664760, 3950661; 664807, 3950670; 664859, 3950652; 664940, 3950649; 664982, 3950629; 665012, 3950626; 665168, 3950597; 665185, 3950607; 665199, 3950626; 665285, 3950696; 665331, 3950719; 665374, 3950732; 665431, 3950739; 665459, 3950732; 665608, 3950657; 665701, 3950596; 665754, 3950576; 665801, 3950588; 665852, 3950615; 665882, 3950661; 665887, 3950671; 665923, 3950684; 666078, 3950700; 666211, 3950769; 666275, 3950790; 666356, 3950822; 666468, 3950851; 666707, 3950863; 666801, 3950802; 666929, 3950636; 666967, 3950489; 666999, 3950407; 667048, 3950319; 667098, 3950271; 667150, 3950322; 667174, 3950370; 667200, 3950441; 667244, 3950497; 667276, 3950525; 667390, 3950556; 667446, 3950601; 667523, 3950678; 667553, 3950719; 667673, 3950770; 667714, 3950765; 667750, 3950808; 667767, 3950861; 667815, 3950931; 667937, 3951029; 668078, 3951098; 668143, 3951167; 668195, 3951252; 668252, 3951331; 668305, 3951394; 668365, 3951450; 668436, 3951490; 668511, 3951509; 668651, 3951533; 669090, 3951460; 669180, 3951352; 669250, 3951315; 669297, 3951272; 669384, 3951216; 669432, 3951174; 669508, 3951115; 669528, 3951109; 669552, 3951094; 669592, 3951052; 669687, 3951000; 669729, 3950955; 669756, 3950900; 669757, 3950849; 669714, 3950743; 669717, 3950689; 669859, 3950533; 669907, 3950447; 669945, 3950394; 669973, 3950371; 670009, 3950315; 670079, 3950218; 670120, 3950191; 670278, 3950133; 670339, 3950069; 670374, 3949924; 670388, 3949842; 670370, 3949738; 670393, 3949677; 670448, 3949602; 670475, 3949544; 670502, 3949504; 670472, 3949457; 670548, 3949473; 670612, 3949501; 670684, 3949546; 670777, 3949613; 670835, 3949633; 670889, 3949631; 670965, 3949623; 671041, 3949627; 671185, 3949608; 671315, 3949584; 671341, 3949585; 671392, 3949596; 671432, 3949626; 671476, 3949709; 671514, 3949810; 671550, 3949893; 671576, 3949969; 671606, 3950031; 671653, 3950115; 671660, 3950209; 671716, 3950283; 671785, 3950526; 671824, 3950560; 671933, 3950587; 672060, 3950606; 672144, 3950624; 672242, 3950667; 672307, 3950731; 672356, 3950799; 672398, 3950891; 672431, 3951278; 672490, 3951232; 672543, 3951223; 672644, 3951238; 672701, 3951254; 672743, 3951284; 672867, 3951331; 672972, 3951310; 673109, 3951238; 673196, 3951209; 673254, 3951169; 673460, 3951065; 673934, 3950922; 674053, 3950902; 674094, 3950795; 674094, 3950758; 674081, 3950691; 674118, 3950661; 674185, 3950630; 674274, 3950601; 674390, 3950585; 674544, 3950592; 674680, 3950562; 674755, 3950530; 674814, 3950520; 674911, 3950517; 675027, 3950434; 675106, 3950409; 675156, 3950398; 675203, 3950380; 675287, 3950341; 675302, 3950342; 675300, 3950295; 675336, 3950248; 675367, 3950195; 675381, 3950073; 675434, 3949905; 675455, 3949865; 675495, 3949825; 675552, 3949789; 675716, 3949733; 675806, 3949718; 675929, 3949731; 675978, 3949722; 676029, 3949698; 676107, 3949680; 676168, 3949615; 676230, 3949575; 676264, 3949546; 676322, 3949472; 676384, 3949387; 676474, 3949333; 676563, 3949289; 676641, 3949239; 676686, 3949217; 676749, 3949198; 676793, 3949179; 676851, 3949131; 676920, 3949105; 677015, 3949098; 677085, 3949101; 677168, 3949085; 677246, 3949054; 677399, 3948917; 677487, 3948832; 677687, 3948620; 677774, 3948548; 677897, 3948493; 677961, 3948469; 678045, 3948421; 678136, 3948355; 678198, 3948303; 678269, 3948228; 678339, 3948164; 678424, 3948060; 678610, 3947905; 678696, 3947816; 678776, 3947744; 678830, 3947671; 678869, 3947588; 679198, 3947097; 679306, 3946986; 679365, 3946915; 679425, 3946821; 679645, 3946592; 679719, 3946541; 679788, 3946510; 679905, 3946447; 679998, 3946410; 680048, 3946409; 680162, 3946414; 680345, 3946366; 680440, 3946355; 680571, 3946357; 680777, 3946366; 680848, 3946366; 680976, 3946313; 681036, 3946274; 681069, 3946244; 681082, 3946228; 681095, 3946194; 681110, 3946171; 681135, 3946164; 681158, 3946160; 681176, 3946148; 681224, 3946081; 681255, 3946047; 681337, 3945996; 681374, 3945980; 681406, 3945977; 681442, 3945966; 681483, 3945941; 681528, 3945904; 681562, 3945859; 681617, 3945812; 681774, 3945712; 681806, 3945698; 681858, 3945693; 681977, 3945692; 682116, 3945696; 682301, 3945669; 682332, 3945646; 682371, 3945597; 682404, 3945544; 682456, 3945397; 682468, 3945369; 682485, 3945352; 682548, 3945338; 682568, 3945318; 682594, 3945305; 682648, 3945313; 682741, 3945347; 682785, 3945350; 682828, 3945335; 682873, 3945252; 682925, 3945202; 683005, 3945176; 683053, 3945148; 683095, 3945105; 683181, 3944956; 683234, 3944890; 683270, 3944854; 683299, 3944831; 683327, 3944813; 683365, 3944768; 683394, 3944740; 683445, 3944697; 683473, 3944645; 683489, 3944598; 683498, 3944544; 683500, 3944452; 683511, 3944424; 683551, 3944366; 683567, 3944323; 683572, 3944282; 683568, 3944173; 683575, 3944138; 683585, 3944107; 683599, 3944081; 683651, 3944007; 683733, 3943914; 683800, 3943846; 683836, 3943817; 683902, 3943777; 683934, 3943771; 683975, 3943786; 684013, 3943812; 684072, 3943844; 684122, 3943864; 684166, 3943874; 684202, 3943874; 684274, 3943851; 684325, 3943822; 684356, 3943798; 684425, 3943763; 684457, 3943743; 684541, 3943666; 684655, 3943551; 684701, 3943500; 684732, 3943488; 684774, 3943504; 684801, 3943497; 684840, 3943453; 684907, 3943396; 684959, 3943347; 685052, 3943274; 685090, 3943246; 685099, 3943195; 685088, 3943113; 685046, 3942988; 685026, 3942955; 684990, 3942927; 684962, 3942911; 684948, 3942884; 684947, 3942860; 684956, 3942767; 684944, 3942726; 684896, 3942628; 684873, 3942596; 684848, 3942549; 684837, 3942507; 684835, 3942469; 684836, 3942429; 684840, 3942395; 684862, 3942300; 684873, 3942269; 684896, 3942242; 684918, 3942223; 684941, 3942198; 684970, 3942151; 684999, 3942112; 685180, 3941938; 685216, 3941891; 685251, 3941764; 685290, 3941702; 685287, 3941688; 685326, 3941640; 685375, 3941593; 685471, 3941484; 685520, 3941446; 685587, 3941422; 685647, 3941407; 685686, 3941401; 685733, 3941399; 685790, 3941411; 685853, 3941434; 685969, 3941512; 686000, 3941525; 686090, 3941546; 686135, 3941578; 686151, 3941583; 686188, 3941546; 686223, 3941529; 686307, 3941493; 686376, 3941468; 686455, 3941452; 686533, 3941409; 686585, 3941375; 686636, 3941331; 686670, 3941286; 686697, 3941226; 686740, 3941162; 686778, 3941110; 686802, 3941090; 686823, 3941079; 686860, 3941070; 686894, 3941054; 686971, 3941004; 687012, 3940981; 687054, 3940969; 687108, 3940959; 687160, 3940939; 687190, 3940918; 687209, 3940900; 687236, 3940889; 687276, 3940894; 687315, 3940894; 687360, 3940874; 687392, 3940846; 687428, 3940823; 687456, 3940821; 687519, 3940805; 687549, 3940795; 687576, 3940777; 687605, 3940733; 687624, 3940682; 687630, 3940608; 687628, 3940575; 687614, 3940519; 687613, 3940492; 687637, 3940436; 687690, 3940331; 687708, 3940304; 687750, 3940257; 687772, 3940210; 687787, 3940159; 687816, 3940094; 687822, 3940066; 687825, 3940035; 687818, 3940003; 687819, 3939969; 687840, 3939947; 687881, 3939926; 687934, 3939889; 688028, 3939814; 688070, 3939786; 688150, 3939754; 688189, 3939735; 688232, 3939702; 688254, 3939669; 688285, 3939635; 688328, 3939624; 688404, 3939624; 688446, 3939619; 688507, 3939593; 688595, 3939595; 688645, 3939584; 688711, 3939592; 688762, 3939590; 688798, 3939579; 688811, 3939573; 688847, 3939543; 688877, 3939523; 688909, 3939512; 688951, 3939498; 689013, 3939485; 689059, 3939479; 689130, 3939463; 689158, 3939445; 689220, 3939392; 689276, 3939354; 689331, 3939296; 689323, 3939277; 689258, 3939209; 689229, 3939174; 689208, 3939134; 689184, 3939050; 689183, 3939013; 689189, 3938977; 689198, 3938953; 689225, 3938928; 689291, 3938892; 689434, 3938834; 689500, 3938800; 689551, 3938767; 689593, 3938724; 689614, 3938685; 689622, 3938639; 689624, 3938591; 689632, 3938551; 689652, 3938509; 689681, 3938470; 689716, 3938438; 689727, 3938412; 689728, 3938369; 689716, 3938339; 689698, 3938311; 689684, 3938280; 689679, 3938240; 689684, 3938204; 689703, 3938127; 689716, 3938046; 689733, 3938020; 689772, 3937983; 689795, 3937950; 689827, 3937892; 689765, 3937748; 689706, 3937633; 689678, 3937591; 689633, 3937535; 689618, 3937503; 689614, 3937434; 689608, 3937407; 689592, 3937389; 689542, 3937364; 689487, 3937346; 689459, 3937318; 689373, 3937172; 689358, 3937136; 689352, 3937094; 689358, 3937054; 689385, 3937013; 689475, 3936909; 689634, 3936745; 689673, 3936683; 689725, 3936582; 689809, 3936437; 689929, 3936289; 690066, 3936091; 690111, 3936038; 690154, 3935997; 690208, 3935936; 690226, 3935900; 690246, 3935844; 690261, 3935827; 690280, 3935815; 690305, 3935793; 690426, 3935691; 690498, 3935624; 690534, 3935584; 690560, 3935544; 690590, 3935513; 690627, 3935493; 690675, 3935475; 690714, 3935466; 690748, 3935450; 690861, 3935335; 690948, 3935227; 690953, 3935208; 690944, 3935176; 690933, 3935056; 690938, 3934995; 690946, 3934951; 690947, 3934851; 690970, 3934738; 690985, 3934692; 691008, 3934667; 691205, 3934529; 691261, 3934496; 691313, 3934474; 691375, 3934470; 691459, 3934511; 691512, 3934531; 691552, 3934537; 691637, 3934527; 691652, 3934514; 691658, 3934472; 691668, 3934447; 691696, 3934422; 691739, 3934404; 691791, 3934395; 691884, 3934354; 691911, 3934336; 691932, 3934311; 691949, 3934275; 691953, 3934259; 691950, 3934233; 691931, 3934165; 691930, 3934132; 691951, 3934026; 691953, 3933985; 691959, 3933965; 691968, 3933947; 691989, 3933928; 692035, 3933914; 692105, 3933917; 692083, 3933873; 692049, 3933794; 691980, 3933663; 691965, 3933626; 691949, 3933569; 691924, 3933518; 691911, 3933481; 691903, 3933445; 691883, 3933274; 691869, 3933230; 691848, 3933185; 691823, 3933155; 691792, 3933139; 691763, 3933136; 691748, 3933120; 691740, 3933062; 691725, 3933014; 691703, 3933000; 691611, 3933015; 691543, 3933011; 691474, 3932991; 691397, 3932961; 691325, 3932925; 691201, 3932891; 691149, 3932867; 691097, 3932831; 691032, 3932773; 691002, 3932752; 690967, 3932716; 690904, 3932629; 690868, 3932586; 690813, 3932556; 690746, 3932545; 690608, 3932500; 690549, 3932471; 690524, 3932457; 690497, 3932435; 690497, 3932411; 690507, 3932365; 690498, 3932325; 690470, 3932235; 690494, 3932067; 690493, 3932016; 690480, 3931964; 690433, 3931813; 690427, 3931749; 690433, 3931677; 690426, 3931652; 690404, 3931601; 690399, 3931557; 690400, 3931498; 690412, 3931344; 690412, 3931280; 690408, 3931223; 690417, 3931132; 690404, 3931087; 690398, 3931034; 690418, 3930988; 690552, 3930842; 690589, 3930791; 690597, 3930735; 690596, 3930635; 690602, 3930581; 690604, 3930504; 690608, 3930490; 690599, 3930461; 690595, 3930398; 690626, 3930302; 690626, 3930270; 690601, 3930241; 690573, 3930189; 690571, 3930159; 690607, 3930057; 690613, 3930029; 690633, 3929999; 690664, 3929967; 690741, 3929876; 690833, 3929801; 690869, 3929766; 690903, 3929721; 690926, 3929653; 690953, 3929598; 690988, 3929554; 691001, 3929525; 691008, 3929481; 691001, 3929385; 691015, 3929346; 691063, 3929251; 691105, 3929212; 691155, 3929189; 691299, 3929135; 691344, 3929121; 691363, 3929098; 691399, 3928990; 691509, 3928725; 691556, 3928630; 691606, 3928512; 691624, 3928499; 691739, 3928478; 691797, 3928462; 691844, 3928446; 691892, 3928422; 691932, 3928389; 691954, 3928352; 691966, 3928305; 691978, 3928234; 691995, 3928052; 692014, 3927978; 692066, 3927930; 692219, 3927822; 692239, 3927802; 692364, 3927749; 692395, 3927729; 692412, 3927711; 692426, 3927696; 692453, 3927644; 692486, 3927572; 692496, 3927425; 692493, 3927190; 692486, 3926967; 692441, 3926833; 692412, 3926792; 692399, 3926751; 692391, 3926687; 692392, 3926613; 692383, 3926553; 692315, 3926484; 692259, 3926451; 692217, 3926437; 692127, 3926436; 692060, 3926416; 691982, 3926360; 691919, 3926297; 691807, 3926130; 691781, 3926070; 691770, 3926002; 691755, 3925952; 691735, 3925918; 691720, 3925873; 691681, 3925827; 691537, 3925756; 691491, 3925684; 691464, 3925426; 691410, 3925120; 691401, 3925028; 691390, 3924961; 691332, 3924856; 691332, 3924796; 691349, 3924723; 691354, 3924639; 691374, 3924594; 691383, 3924471; 691381, 3924344; 691324, 3924388; 691143, 3924531; 690940, 3924652; 690790, 3924810; 690556, 3925133; 690458, 3925284; 690323, 3925359; 690022, 3925367; 689691, 3925239; 689495, 3925096; 689375, 3925036; 689269, 3924998; 689097, 3924974; 689126, 3924791; 689112, 3924791; 689093, 3924776; 689052, 3924766; 689034, 3924744; 689019, 3924733; 688974, 3924723; 688912, 3924722; 688894, 3924727; 688888, 3924725; 688885, 3924704; 688880, 3924699; 688859, 3924698; 688853, 3924693; 688851, 3924668; 688863, 3924655; 688859, 3924644; 688836, 3924615; 688826, 3924610; 688823, 3924617; 688831, 3924628; 688839, 3924631; 688839, 3924639; 688817, 3924645; 688807, 3924657; 688787, 3924669; 688727, 3924696; 688707, 3924698; 688705, 3924682; 688695, 3924661; 688674, 3924651; 688670, 3924640; 688662, 3924632; 688652, 3924632; 688645, 3924641; 688639, 3924668; 688628, 3924680; 688627, 3924691; 688591, 3924693; 688545, 3924681; 688523, 3924678; 688522, 3924673; 688510, 3924668; 688495, 3924676; 688486, 3924673; 688483, 3924665; 688470, 3924653; 688457, 3924656; 688450, 3924673; 688437, 3924678; 688420, 3924674; 688382, 3924678; 688362, 3924674; 688344, 3924674; 688335, 3924671; 688327, 3924663; 688324, 3924629; 688317, 3924624; 688295, 3924627; 688286, 3924638; 688221, 3924634; 688120, 3924641; 688087, 3924631; 688020, 3924640; 687975, 3924656; 687945, 3924681; 687910, 3924700; 687827, 3924679; 687792, 3924675; 687781, 3924664; 687779, 3924649; 687755, 3924635; 687704, 3924638; 687668, 3924633; 687631, 3924641; 687607, 3924637; 687536, 3924641; 687523, 3924633; 687504, 3924631; 687503, 3924636; 687515, 3924648; 687512, 3924662; 687469, 3924670; 687438, 3924647; 687429, 3924648; 687416, 3924643; 687408, 3924631; 687388, 3924632; 687370, 3924625; 687357, 3924625; 687323, 3924633; 687298, 3924618; 687275, 3924616; 687259, 3924598; 687271, 3924579; 687266, 3924575; 687187, 3924572; 687105, 3924547; 687080, 3924544; 687062, 3924547; 687030, 3924534; 687011, 3924510; 686997, 3924505; 686965, 3924474; 686949, 3924476; 686939, 3924461; 686928, 3924461; 686907, 3924478; 686893, 3924506; 686853, 3924529; 686839, 3924543; 686830, 3924563; 686809, 3924564; 686804, 3924554; 686796, 3924550; 686793, 3924552; 686793, 3924561; 686805, 3924577; 686808, 3924590; 686803, 3924603; 686754, 3924632; 686729, 3924638; 686695, 3924633; 686671, 3924635; 686651, 3924629; 686504, 3924534; 686478, 3924526; 686433, 3924524; 686389, 3924527; 686331, 3924537; 686262, 3924559; 686226, 3924583; 686167, 3924605; 686135, 3924622; 686114, 3924639; 686105, 3924640; 686082, 3924626; 685979, 3924655; 685972, 3924662; 685971, 3924679; 685978, 3924703; 685979, 3924717; 685966, 3924750; 685943, 3924777; 685913, 3924785; 685886, 3924803; 685882, 3924809; 685881, 3924822; 685913, 3924815; 685927, 3924817; 685962, 3924904; 685962, 3924916; 685944, 3924982; 685939, 3924989; 685917, 3924995; 685913, 3925004; 685935, 3925030; 685936, 3925049; 685924, 3925068; 685903, 3925082; 685898, 3925105; 685885, 3925115; 685874, 3925129; 685860, 3925132; 685835, 3925146; 685814, 3925145; 685781, 3925154; 685769, 3925147; 685758, 3925146; 685743, 3925151; 685737, 3925163; 685735, 3925175; 685723, 3925182; 685708, 3925186; 685682, 3925182; 685664, 3925191; 685637, 3925198; 685627, 3925195; 685618, 3925204; 685620, 3925219; 685609, 3925220; 685597, 3925225; 685585, 3925240; 685557, 3925252; 685549, 3925271; 685476, 3925279; 685435, 3925294; 685415, 3925309; 685357, 3925382; 685333, 3925391; 685298, 3925413; 685287, 3925415; 685255, 3925408; 685256, 3925403; 685262, 3925397; 685254, 3925383; 685217, 3925399; 685177, 3925391; 685127, 3925389; 685114, 3925402; 685105, 3925423; 685100, 3925457; 685092, 3925477; 685065, 3925513; 685049, 3925523; 685022, 3925554; 685002, 3925567; 684979, 3925572; 684949, 3925568; 684915, 3925552; 684872, 3925538; 684868, 3925533; 684859, 3925530; 684847, 3925535; 684809, 3925561; 684779, 3925585; 684740, 3925627; 684729, 3925646; 684732, 3925672; 684724, 3925682; 684693, 3925691; 684678, 3925710; 684658, 3925702; 684649, 3925703; 684634, 3925716; 684625, 3925730; 684596, 3925751; 684593, 3925778; 684587, 3925793; 684568, 3925817; 684518, 3925851; 684457, 3925900; 684439, 3925919; 684351, 3925949; 684329, 3925959; 684259, 3925974; 684220, 3925975; 684189, 3925969; 684179, 3925965; 684167, 3925916; 684160, 3925905; 684151, 3925900; 684136, 3925901; 684099, 3925923; 684080, 3925921; 684079, 3925905; 684070, 3925899; 684055, 3925901; 684044, 3925897; 684038, 3925887; 684035, 3925870; 684023, 3925867; 684005, 3925874; 683971, 3925896; 683946, 3925896; 683914, 3925885; 683886, 3925884; 683870, 3925886; 683854, 3925895; 683836, 3925886; 683753, 3925894; 683745, 3925893; 683717, 3925865; 683699, 3925854; 683658, 3925840; 683637, 3925838; 683593, 3925846; 683572, 3925844; 683519, 3925826; 683508, 3925826; 683505, 3925833; 683508, 3925841; 683506, 3925848; 683489, 3925853; 683480, 3925861; 683456, 3925861; 683439, 3925856; 683424, 3925858; 683385, 3925844; 683385, 3925859; 683390, 3925880; 683379, 3925894; 683376, 3925914; 683368, 3925933; 683355, 3925955; 683334, 3925954; 683329, 3925972; 683309, 3925969; 683301, 3925974; 683239, 3925962; 683202, 3925966; 683197, 3925952; 683185, 3925956; 683173, 3925945; 683165, 3925963; 683157, 3925967; 683146, 3925967; 683126, 3925950; 683109, 3925949; 683105, 3925936; 683089, 3925952; 683078, 3925956; 683058, 3925939; 683049, 3925935; 683020, 3925937; 683005, 3925927; 682987, 3925940; 682978, 3925941; 682926, 3925935; 682922, 3925946; 682908, 3925950; 682896, 3925949; 682879, 3925952; 682858, 3925967; 682787, 3926000; 682757, 3926019; 682735, 3926037; 682719, 3926068; 682701, 3926082; 682661, 3926092; 682613, 3926119; 682593, 3926134; 682581, 3926109; 682574, 3926106; 682569, 3926110; 682573, 3926139; 682561, 3926132; 682555, 3926141; 682556, 3926166; 682525, 3926183; 682494, 3926190; 682482, 3926175; 682480, 3926165; 682472, 3926158; 682466, 3926180; 682447, 3926158; 682444, 3926174; 682440, 3926179; 682443, 3926201; 682421, 3926189; 682388, 3926185; 682366, 3926189; 682342, 3926205; 682339, 3926212; 682332, 3926212; 682329, 3926202; 682333, 3926184; 682326, 3926179; 682308, 3926184; 682296, 3926193; 682286, 3926214; 682264, 3926242; 682260, 3926264; 682256, 3926270; 682214, 3926295; 682185, 3926318; 682164, 3926322; 682061, 3926307; 682048, 3926300; 682029, 3926277; 681987, 3926239; 681961, 3926211; 681935, 3926148; 681922, 3926128; 681911, 3926119; 681882, 3926106; 681803, 3926019; 681759, 3925984; 681729, 3925966; 681665, 3925947; 681633, 3925953; 681618, 3925945; 681622, 3925972; 681619, 3925976; 681603, 3925957; 681589, 3925951; 681582, 3925956; 681579, 3925966; 681589, 3925989; 681589, 3925999; 681586, 3926005; 681556, 3925997; 681550, 3925992; 681549, 3925971; 681545, 3925962; 681538, 3925965; 681533, 3925981; 681524, 3925983; 681506, 3925968; 681441, 3925955; 681433, 3925958; 681417, 3925976; 681401, 3925978; 681388, 3925998; 681380, 3925997; 681369, 3926005; 681358, 3925987; 681352, 3925992; 681344, 3926007; 681338, 3925998; 681333, 3925965; 681326, 3925958; 681312, 3925957; 681303, 3925952; 681286, 3925953; 681280, 3925949; 681277, 3925943; 681263, 3925944; 681250, 3925961; 681227, 3925938; 681212, 3925935; 681203, 3925957; 681193, 3925952; 681180, 3925953; 681170, 3925962; 681166, 3925980; 681160, 3925985; 681155, 3925983; 681157, 3925968; 681148, 3925965; 681137, 3925968; 681129, 3925976; 681118, 3925995; 681097, 3926006; 681081, 3926018; 681076, 3926037; 681080, 3926042; 681080, 3926049; 681065, 3926042; 681059, 3926032; 681056, 3926038; 681057, 3926064; 681046, 3926072; 681036, 3926069; 681025, 3926080; 681013, 3926080; 681004, 3926084; 680983, 3926116; 680979, 3926125; 680980, 3926132; 680974, 3926144; 680964, 3926149; 680960, 3926162; 680948, 3926164; 680949, 3926189; 680940, 3926188; 680928, 3926192; 680914, 3926204; 680906, 3926196; 680899, 3926206; 680891, 3926184; 680886, 3926187; 680879, 3926219; 680874, 3926228; 680857, 3926244; 680849, 3926234; 680844, 3926245; 680837, 3926239; 680832, 3926258; 680823, 3926263; 680829, 3926285; 680823, 3926304; 680816, 3926308; 680803, 3926303; 680794, 3926310; 680781, 3926324; 680772, 3926358; 680764, 3926374; 680747, 3926383; 680732, 3926383; 680732, 3926390; 680737, 3926397; 680734, 3926414; 680742, 3926442; 680727, 3926442; 680716, 3926456; 680699, 3926463; 680698, 3926469; 680702, 3926474; 680711, 3926476; 680705, 3926484; 680690, 3926494; 680689, 3926507; 680683, 3926509; 680680, 3926514; 680685, 3926523; 680694, 3926529; 680694, 3926536; 680682, 3926532; 680669, 3926537; 680680, 3926557; 680677, 3926566; 680669, 3926567; 680669, 3926591; 680664, 3926604; 680648, 3926607; 680646, 3926628; 680641, 3926638; 680631, 3926645; 680614, 3926648; 680623, 3926680; 680616, 3926691; 680613, 3926706; 680614, 3926717; 680608, 3926728; 680589, 3926744; 680582, 3926742; 680568, 3926714; 680564, 3926735; 680550, 3926755; 680529, 3926762; 680515, 3926770; 680509, 3926779; 680516, 3926795; 680513, 3926803; 680501, 3926800; 680493, 3926805; 680484, 3926826; 680473, 3926839; 680468, 3926860; 680452, 3926861; 680437, 3926855; 680427, 3926862; 680423, 3926872; 680443, 3926912; 680440, 3926921; 680428, 3926934; 680388, 3926957; 680377, 3926974; 680358, 3926975; 680347, 3926986; 680335, 3927022; 680333, 3927033; 680335, 3927042; 680329, 3927058; 680349, 3927076; 680348, 3927085; 680341, 3927089; 680332, 3927083; 680319, 3927084; 680312, 3927087; 680316, 3927095; 680326, 3927097; 680324, 3927103; 680314, 3927105; 680278, 3927123; 680265, 3927168; 680244, 3927210; 680233, 3927216; 680217, 3927246; 680202, 3927258; 680190, 3927262; 680176, 3927261; 680164, 3927280; 680149, 3927275; 680145, 3927258; 680139, 3927256; 680131, 3927261; 680127, 3927282; 680118, 3927291; 680100, 3927287; 680093, 3927296; 680068, 3927306; 680051, 3927362; 680053, 3927406; 680025, 3927439; 680017, 3927436; 679991, 3927450; 679984, 3927443; 679976, 3927452; 679966, 3927472; 679955, 3927467; 679951, 3927471; 679959, 3927485; 679958, 3927499; 679952, 3927500; 679947, 3927495; 679939, 3927500; 679935, 3927521; 679925, 3927532; 679924, 3927550; 679916, 3927545; 679903, 3927550; 679898, 3927562; 679843, 3927616; 679815, 3927652; 679805, 3927670; 679813, 3927695; 679803, 3927703; 679797, 3927695; 679790, 3927694; 679795, 3927719; 679790, 3927731; 679774, 3927738; 679768, 3927746; 679751, 3927743; 679746, 3927722; 679742, 3927718; 679736, 3927723; 679730, 3927757; 679722, 3927768; 679719, 3927794; 679713, 3927799; 679702, 3927789; 679689, 3927798; 679668, 3927844; 679641, 3927884; 679623, 3927894; 679609, 3927911; 679599, 3927918; 679589, 3927915; 679571, 3927891; 679575, 3927883; 679574, 3927871; 679568, 3927867; 679564, 3927873; 679561, 3927889; 679547, 3927871; 679545, 3927880; 679550, 3927899; 679544, 3927902; 679537, 3927892; 679524, 3927908; 679519, 3927909; 679507, 3927938; 679510, 3927951; 679501, 3927971; 679499, 3927986; 679481, 3927995; 679476, 3928005; 679462, 3928013; 679457, 3928032; 679433, 3928055; 679423, 3928069; 679412, 3928070; 679381, 3928096; 679370, 3928097; 679366, 3928088; 679358, 3928089; 679352, 3928099; 679351, 3928115; 679361, 3928129; 679354, 3928150; 679343, 3928165; 679320, 3928179; 679301, 3928174; 679293, 3928177; 679290, 3928202; 679264, 3928230; 679273, 3928251; 679289, 3928261; 679287, 3928279; 679275, 3928295; 679272, 3928334; 679268, 3928343; 679274, 3928350; 679297, 3928351; 679305, 3928368; 679315, 3928377; 679312, 3928392; 679318, 3928403; 679331, 3928407; 679349, 3928432; 679345, 3928448; 679350, 3928460; 679349, 3928472; 679335, 3928504; 679302, 3928512; 679268, 3928514; 679260, 3928523; 679261, 3928539; 679245, 3928539; 679231, 3928534; 679195, 3928546; 679179, 3928559; 679166, 3928564; 679150, 3928581; 679139, 3928584; 679095, 3928576; 679072, 3928541; 679039, 3928539; 679026, 3928541; 679009, 3928550; 678998, 3928577; 678967, 3928625; 678937, 3928638;

678925, 3928632; 678916, 3928621; 678904, 3928623; 678878, 3928610; 678870, 3928592; 678848, 3928620; 678852, 3928627; 678851, 3928635; 678841, 3928647; 678834, 3928648; 678827, 3928660; 678825, 3928673; 678816, 3928679; 678802, 3928681; 678792, 3928691; 678783, 3928709; 678787, 3928715; 678804, 3928724; 678805, 3928737; 678800, 3928750; 678791, 3928762; 678791, 3928773; 678796, 3928785; 678793, 3928791; 678784, 3928794; 678778, 3928794; 678776, 3928787; 678767, 3928790; 678766, 3928802; 678754, 3928826; 678737, 3928833; 678728, 3928827; 678719, 3928825; 678705, 3928832; 678688, 3928860; 678682, 3928858; 678678, 3928850; 678671, 3928847; 678653, 3928879; 678652, 3928921; 678654, 3928939; 678651, 3928953; 678629, 3928990; 678628, 3929003; 678622, 3929015; 678611, 3929026; 678577, 3929028; 678564, 3929023; 678534, 3929041; 678522, 3929030; 678511, 3929031; 678506, 3929044; 678486, 3929044; 678477, 3929058; 678477, 3929065; 678482, 3929071; 678501, 3929076; 678491, 3929092; 678494, 3929103; 678487, 3929107; 678468, 3929101; 678462, 3929107; 678476, 3929121; 678478, 3929129; 678464, 3929135; 678468, 3929151; 678465, 3929157; 678453, 3929157; 678443, 3929166; 678421, 3929167; 678411, 3929156; 678380, 3929143; 678364, 3929131; 678342, 3929138; 678335, 3929128; 678338, 3929121; 678324, 3929109; 678308, 3929087; 678296, 3929085; 678273, 3929090; 678248, 3929079; 678237, 3929064; 678222, 3929067; 678208, 3929067; 678197, 3929062; 678182, 3929064; 678180, 3929054; 678171, 3929047; 678165, 3929062; 678156, 3929072; 678144, 3929059; 678140, 3929079; 678135, 3929085; 678117, 3929065; 678108, 3929061; 678103, 3929069; 678103, 3929097; 678100, 3929108; 678090, 3929121; 678081, 3929142; 678071, 3929150; 678065, 3929146; 678054, 3929151; 678043, 3929147; 678036, 3929159; 678027, 3929164; 678029, 3929189; 678039, 3929212; 678032, 3929236; 678016, 3929242; 677996, 3929235; 677990, 3929246; 677976, 3929253; 677930, 3929218; 677927, 3929222; 677928, 3929237; 677923, 3929252; 677914, 3929262; 677919, 3929271; 677933, 3929278; 677927, 3929295; 677934, 3929306; 677946, 3929307; 677957, 3929312; 677962, 3929344; 677954, 3929337; 677947, 3929336; 677955, 3929359; 677953, 3929381; 677942, 3929410; 677936, 3929414; 677934, 3929423; 677937, 3929429; 677949, 3929429; 677954, 3929442; 677958, 3929474; 677966, 3929495; 677962, 3929522; 677951, 3929541; 677902, 3929590; 677879, 3929606; 677864, 3929607; 677854, 3929600; 677849, 3929580; 677805, 3929544; 677797, 3929553; 677796, 3929560; 677784, 3929571; 677773, 3929576; 677761, 3929602; 677745, 3929619; 677732, 3929673; 677722, 3929677; 677704, 3929673; 677703, 3929688; 677685, 3929694; 677674, 3929701; 677661, 3929694; 677663, 3929712; 677656, 3929717; 677628, 3929711; 677621, 3929721; 677612, 3929718; 677602, 3929710; 677593, 3929708; 677589, 3929714; 677591, 3929723; 677597, 3929731; 677594, 3929742; 677582, 3929750; 677539, 3929739; 677532, 3929751; 677535, 3929766; 677554, 3929790; 677559, 3929800; 677557, 3929815; 677565, 3929826; 677566, 3929848; 677547, 3929878; 677540, 3929902; 677530, 3929913; 677521, 3929915; 677517, 3929923; 677533, 3929931; 677545, 3929933; 677555, 3929943; 677572, 3929994; 677551, 3930008; 677541, 3930035; 677533, 3930042; 677519, 3930025; 677499, 3930022; 677494, 3930017; 677484, 3930015; 677478, 3930023; 677480, 3930041; 677483, 3930054; 677493, 3930069; 677493, 3930075; 677485, 3930082; 677458, 3930053; 677448, 3930057; 677445, 3930038; 677430, 3930038; 677426, 3930027; 677417, 3930033; 677416, 3930041; 677409, 3930046; 677400, 3930044; 677393, 3930049; 677392, 3930058; 677395, 3930068; 677390, 3930076; 677378, 3930076; 677371, 3930073; 677365, 3930084; 677358, 3930080; 677351, 3930082; 677353, 3930096; 677362, 3930109; 677362, 3930114; 677347, 3930141; 677348, 3930174; 677340, 3930196; 677334, 3930199; 677326, 3930195; 677308, 3930178; 677297, 3930183; 677292, 3930189; 677290, 3930201; 677295, 3930217; 677287, 3930233; 677275, 3930246; 677251, 3930257; 677208, 3930259; 677193, 3930262; 677159, 3930291; 677151, 3930314; 677150, 3930337; 677164, 3930449; 677157, 3930464; 677148, 3930475; 677126, 3930482; 677124, 3930487; 677124, 3930501; 677135, 3930557; 677136, 3930585; 677130, 3930610; 677117, 3930626; 677092, 3930645; 677049, 3930658; 677046, 3930671; 677016, 3930726; 677006, 3930758; 676984, 3930792; 676969, 3930809; 676951, 3930821; 676937, 3930826; 676907, 3930825; 676857, 3930810; 676842, 3930810; 676821, 3930817; 676804, 3930829; 676790, 3930833; 676780, 3930823; 676740, 3930892; 676733, 3930897; 676713, 3930900; 676695, 3930884; 676689, 3930882; 676680, 3930895; 676666, 3930890; 676657, 3930923; 676651, 3930934; 676633, 3930943; 676630, 3930955; 676637, 3930971; 676637, 3930981; 676635, 3931005; 676628, 3931032; 676603, 3931056; 676566, 3931074; 676471, 3931105; 676434, 3931127; 676369, 3931151; 676328, 3931146; 676308, 3931139; 676283, 3931123; 676273, 3931120; 676257, 3931120; 676244, 3931129; 676226, 3931133; 676173, 3931186; 676157, 3931188; 676139, 3931214; 676098, 3931237; 676074, 3931235; 676059, 3931257; 676058, 3931266; 676044, 3931283; 676014, 3931303; 675973, 3931323; 675950, 3931321; 675943, 3931329; 675934, 3931346; 675928, 3931348; 675924, 3931345; 675912, 3931345; 675914, 3931368; 675911, 3931376; 675893, 3931401; 675873, 3931417; 675857, 3931415; 675847, 3931421; 675829, 3931445; 675801, 3931462; 675789, 3931473; 675776, 3931535; 675756, 3931551; 675756, 3931588; 675748, 3931613; 675735, 3931613; 675715, 3931630; 675714, 3931634; 675701, 3931641; 675700, 3931668; 675695, 3931685; 675692, 3931691; 675677, 3931699; 675679, 3931731; 675668, 3931745; 675667, 3931752; 675673, 3931777; 675661, 3931787; 675656, 3931801; 675637, 3931817; 675616, 3931830; 675597, 3931859; 675574, 3931849; 675562, 3931859; 675545, 3931857; 675527, 3931886; 675521, 3931887; 675509, 3931880; 675502, 3931880; 675486, 3931896; 675480, 3931931; 675462, 3931939; 675442, 3931962; 675431, 3931962; 675409, 3931972; 675385, 3932000; 675363, 3932014; 675360, 3932046; 675347, 3932056; 675343, 3932064; 675327, 3932071; 675318, 3932102; 675308, 3932118; 675284, 3932137; 675267, 3932171; 675257, 3932179; 675252, 3932167; 675248, 3932177; 675246, 3932191; 675232, 3932194; 675230, 3932187; 675214, 3932192; 675207, 3932224; 675196, 3932230; 675182, 3932221; 675174, 3932232; 675168, 3932227; 675161, 3932237; 675154, 3932230; 675144, 3932237; 675135, 3932229; 675127, 3932235; 675097, 3932279; 675082, 3932321; 675072, 3932334; 675026, 3932372; 675021, 3932380; 675024, 3932394; 675046, 3932435; 675047, 3932452; 675035, 3932464; 675032, 3932473; 675024, 3932477; 675014, 3932491; 675006, 3932496; 674998, 3932505; 674992, 3932523; 674963, 3932538; 674931, 3932575; 674893, 3932588; 674885, 3932596; 674850, 3932610; 674819, 3932644; 674774, 3932670; 674768, 3932682; 674760, 3932714; 674741, 3932739; 674730, 3932750; 674675, 3932790; 674659, 3932813; 674614, 3932849; 674610, 3932879; 674604, 3932888; 674582, 3932906; 674557, 3932941; 674553, 3932986; 674562, 3933043; 674562, 3933052; 674556, 3933068; 674525, 3933083; 674512, 3933094; 674494, 3933097; 674458, 3933126; 674435, 3933131; 674426, 3933140; 674404, 3933202; 674388, 3933222; 674367, 3933236; 674336, 3933263; 674312, 3933300; 674286, 3933312; 674261, 3933319; 674252, 3933325; 674240, 3933378; 674224, 3933406; 674215, 3933415; 674180, 3933429; 674141, 3933449; 674121, 3933455; 674114, 3933461; 674083, 3933465; 674074, 3933470; 674059, 3933547; 674047, 3933567; 674027, 3933582; 674024, 3933593; 674027, 3933607; 674026, 3933623; 674017, 3933643; 673997, 3933662; 673973, 3933674; 673921, 3933683; 673887, 3933684; 673862, 3933720; 673834, 3933753; 673825, 3933784; 673819, 3933794; 673798, 3933801; 673790, 3933844; 673772, 3933870; 673717, 3933895; 673641, 3933918; 673626, 3933920; 673567, 3933941; 673550, 3933943; 673524, 3933940; 673507, 3933964; 673482, 3934014; 673452, 3934052; 673448, 3934062; 673448, 3934079; 673444, 3934095; 673429, 3934115; 673426, 3934125; 673434, 3934170; 673433, 3934187; 673429, 3934210; 673416, 3934230; 673422, 3934279; 673415, 3934300; 673391, 3934315; 673256, 3934367; 673243, 3934375; 673234, 3934387; 673218, 3934419; 673210, 3934426; 673196, 3934424; 673162, 3934431; 673118, 3934446; 673092, 3934461; 673066, 3934487; 673048, 3934500; 673037, 3934503; 673031, 3934513; 673027, 3934556; 673015, 3934585; 673002, 3934608; 672989, 3934615; 672914, 3934625; 672910, 3934640; 672911, 3934696; 672909, 3934708; 672901, 3934724; 672884, 3934748; 672854, 3934775; 672780, 3934823; 672775, 3934888; 672766, 3934929; 672746, 3934971; 672727, 3934990; 672680, 3935053; 672668, 3935079; 672643, 3935095; 672568, 3935127; 672502, 3935173; 672485, 3935207; 672468, 3935285; 672463, 3935398; 672453, 3935426; 672436, 3935455; 672399, 3935493; 672359, 3935521; 672314, 3935537; 672295, 3935522; 672272, 3935535; 672145, 3935533; 672130, 3935543; 672133, 3935561; 672102, 3935575; 672094, 3935583; 672087, 3935596; 672079, 3935626; 672078, 3935675; 672072, 3935687; 672044, 3935713; 672041, 3935726; 672022, 3935747; 671982, 3935774; 671975, 3935787; 671968, 3935833; 671956, 3935844; 671938, 3935847; 671935, 3935871; 671892, 3935898; 671875, 3935922; 671866, 3935941; 671861, 3935977; 671864, 3935998; 671889, 3936077; 671887, 3936098; 671881, 3936108; 671845, 3936145; 671823, 3936180; 671754, 3936229; 671758, 3936261; 671768, 3936279; 671853, 3936282; 671894, 3936312; 671904, 3936337; 671918, 3936404; 671918, 3936422; 671906, 3936478; 671895, 3936500; 671887, 3936506; 671867, 3936512; 671863, 3936515; 671867, 3936527; 671882, 3936532; 671887, 3936545; 671875, 3936572; 671874, 3936584; 671867, 3936600; 671841, 3936617; 671789, 3936638; 671751, 3936665; 671728, 3936691; 671714, 3936722; 671698, 3936728; 671692, 3936754; 671673, 3936778; 671664, 3936811; 671635, 3936826; 671615, 3936830; 671592, 3936857; 671562, 3936862; 671554, 3936872; 671551, 3936884; 671554, 3936904; 671515, 3936948; 671516, 3936956; 671528, 3936960; 671527, 3936969; 671517, 3936977; 671494, 3936986; 671491, 3936996; 671492, 3937004; 671508, 3937008; 671499, 3937023; 671499, 3937030; 671505, 3937031; 671508, 3937039; 671505, 3937047; 671497, 3937058; 671486, 3937064; 671454, 3937096; 671443, 3937112; 671439, 3937181; 671386, 3937207; 671366, 3937229; 671369, 3937276; 671365, 3937305; 671312, 3937446; 671292, 3937481; 671258, 3937531; 671232, 3937555; 671173, 3937620; 671152, 3937713; 671154, 3937754; 671148, 3937799; 671119, 3937885; 671105, 3937942; 671073, 3937993; 671068, 3938011; 671048, 3938052; 670995, 3938121; 670971, 3938146; 670984, 3938171; 670989, 3938188; 670985, 3938262; 670979, 3938295; 670973, 3938311; 670960, 3938325; 670962, 3938341; 670945, 3938361; 670944, 3938386; 670933, 3938419; 670856, 3938570; 670801, 3938643; 670756, 3938675; 670687, 3938696; 670682, 3938721; 670678, 3938727; 670647, 3938757; 670644, 3938781; 670634, 3938799; 670609, 3938794; 670580, 3938781; 670573, 3938781; 670547, 3938817; 670544, 3938837; 670528, 3938853; 670535, 3938897; 670529, 3938930; 670500, 3938993; 670492, 3939003; 670486, 3939019; 670441, 3939096; 670418, 3939122; 670393, 3939133; 670364, 3939134; 670359, 3939126; 670347, 3939121; 670336, 3939119; 670323, 3939124; 670307, 3939112; 670302, 3939112; 670298, 3939133; 670293, 3939132; 670284, 3939140; 670274, 3939140; 670259, 3939124; 670245, 3939120; 670245, 3939138; 670240, 3939144; 670225, 3939150; 670217, 3939165; 670203, 3939171; 670198, 3939180; 670173, 3939331; 670164, 3939368; 670138, 3939423; 670105, 3939456; 670092, 3939477; 670097, 3939525; 670091, 3939569; 670052, 3939689; 670053, 3939744; 670048, 3939779; 670027, 3939815; 670002, 3939887; 669987, 3939914; 669957, 3939942; 669934, 3939974; 669933, 3939994; 669939, 3940045; 669930, 3940082; 669867, 3940243; 669850, 3940302; 669833, 3940343; 669824, 3940375; 669798, 3940427; 669771, 3940471; 669746, 3940504; 669676, 3940622; 669639, 3940669; 669633, 3940682; 669609, 3940715; 669573, 3940757; 669537, 3940805; 669472, 3940878; 669437, 3940907; 669391, 3940954; 669351, 3940980; 669327, 3941006; 669275, 3941045; 669264, 3941065; 669244, 3941084; 669234, 3941107; 669209, 3941145; 669151, 3941212; 669108, 3941245; 669002, 3941308; 668981, 3941310; 668948, 3941303; 668942, 3941301; 668928, 3941287; 668918, 3941287; 668861, 3941311; 668728, 3941358; 668678, 3941384; 668632, 3941415; 668611, 3941440; 668602, 3941460; 668553, 3941519; 668547, 3941531; 668539, 3941572; 668531, 3941586; 668524, 3941591; 668472, 3941617; 668454, 3941622; 668443, 3941623; 668407, 3941608; 668402, 3941610; 668381, 3941633; 668363, 3941644; 668337, 3941646; 668301, 3941639; 668291, 3941647; 668285, 3941654; 668275, 3941681; 668258, 3941710; 668251, 3941730; 668220, 3941756; 668210, 3941770; 668198, 3941801; 668193, 3941846; 668185, 3941855; 668163, 3941896; 668141, 3941956; 668121, 3941985; 668086, 3942007; 668080, 3942048; 668060, 3942109; 668058, 3942124; 668023, 3942169; 667999, 3942208; 667959, 3942264; 667919, 3942354; 667892, 3942439; 667883, 3942458; 667843, 3942526; 667789, 3942607; 667755, 3942669; 667728, 3942734; 667665, 3942830; 667648, 3942845; 667566, 3942900; 667528, 3942915; 667498, 3942920; 667471, 3942917; 667445, 3942877; 667434, 3942870; 667425, 3942881; 667401, 3942877; 667372, 3942897; 667375, 3942909; 667370, 3942918; 667369, 3942929; 667378, 3942943; 667367, 3942956; 667370, 3942960; 667382, 3942965; 667368, 3942991; 667369, 3943003; 667374, 3943011; 667390, 3943024; 667414, 3943022; 667433, 3943009; 667442, 3942998; 667451, 3942998; 667461, 3943024; 667475, 3943044; 667475, 3943056; 667464, 3943058; 667455, 3943077; 667462, 3943082; 667466, 3943097; 667460, 3943101; 667458, 3943110; 667462, 3943126; 667452, 3943140; 667444, 3943140; 667418, 3943132; 667370, 3943133; 667343, 3943138; 667313, 3943133; 667300, 3943119; 667294, 3943121; 667284, 3943123; 667272, 3943116; 667266, 3943116; 667252, 3943122; 667217, 3943119; 667206, 3943121; 667178, 3943151; 667164, 3943171; 667160, 3943182; 667163, 3943184; 667168, 3943183; 667177, 3943174; 667186, 3943193; 667213, 3943201; 667218, 3943215; 667226, 3943225; 667246, 3943240; 667260, 3943254; 667265, 3943270; 667265, 3943285; 667253, 3943302; 667254, 3943307; 667238, 3943319; 667226, 3943359; 667211, 3943375; 667195, 3943384; 667194, 3943394; 667179, 3943415; 667183, 3943437; 667178, 3943447; 667143, 3943468; 667113, 3943510; 667100, 3943521; 667086, 3943524; 667081, 3943529; 667077, 3943544; 667066, 3943566; 667072, 3943580; 667052, 3943594; 667026, 3943622; 667007, 3943631; 667004, 3943637; 667005, 3943680; 667010, 3943706; 667009, 3943713; 667000, 3943728; 667012, 3943733; 667003, 3943757; 666962, 3943826; 666917, 3943857; 666884, 3943897; 666837, 3943932; 666823, 3943963; 666827, 3944002; 666807, 3944022; 666801, 3944051; 666780, 3944080; 666713, 3944141; 666685, 3944177; 666665, 3944192; 666657, 3944210; 666649, 3944218; 666643, 3944228; 666639, 3944269; 666617, 3944309; 666560, 3944362; 666538, 3944404; 666528, 3944414; 666517, 3944446; 666509, 3944458; 666479, 3944485; 666470, 3944514; 666461, 3944523; 666452, 3944526; 666449, 3944553; 666403, 3944608; 666362, 3944665; 666321, 3944733; 666315, 3944764; 666281, 3944823; 666246, 3944872; 666225, 3944888; 666201, 3944898; 666178, 3944898; 666146, 3944886; 666101, 3944897; 666074, 3944891; 666056, 3944898; 666041, 3944921; 666033, 3944944; 666033, 3944958; 666045, 3944993; 666042, 3945014; 666020, 3945048; 665953, 3945124; 665937, 3945130; 665920, 3945122; 665912, 3945124; 665909, 3945130; 665911, 3945148; 665893, 3945175; 665865, 3945201; 665814, 3945237; 665801, 3945243; 665766, 3945249; 665751, 3945251; 665720, 3945247; 665708, 3945251; 665663, 3945279; 665651, 3945279; 665638, 3945292; 665627, 3945320; 665567, 3945380; 665527, 3945403; 665522, 3945410; 665469, 3945445; 665421, 3945469; 665397, 3945491; 665384, 3945498; 665359, 3945503; 665285, 3945507; 665256, 3945518; 665239, 3945531; 665197, 3945579; 665164, 3945595; 665115, 3945599; 665044, 3945624; 664914, 3945650; 664849, 3945667; 664785, 3945691; 664740, 3945697; 664708, 3945697; 664684, 3945707; 664638, 3945711; 664608, 3945719; 664571, 3945719; 664541, 3945743; 664477, 3945782; 664406, 3945800; 664374, 3945814; 664321, 3945812; 664276, 3945819; 664239, 3945835; 664199, 3945843; 664163, 3945847; 664110, 3945846; 664094, 3945850; 664066, 3945888; 664047, 3945892; 663980, 3945891; 663941, 3945886; 663906, 3945888; 663804, 3945861; 663742, 3945839; 663675, 3945823; 663629, 3945806; 663511, 3945741; 663468, 3945712; 663445, 3945688; 663423, 3945671; 663400, 3945646; 663375, 3945603; 663367, 3945582; 663368, 3945570; 663385, 3945520; 663382, 3945481; 663403, 3945451; 663418, 3945414; 663434, 3945402; 663449, 3945379; 663451, 3945370; 663442, 3945346; 663446, 3945338; 663457, 3945333; 663465, 3945337; 663471, 3945333; 663473, 3945326; 663468, 3945301; 663473, 3945284; 663465, 3945255; 663484, 3945216; 663495, 3945207; 663509, 3945184; 663510, 3945161; 663526, 3945134; 663529, 3945101; 663540, 3945079; 663547, 3945071; 663557, 3945069; 663563, 3945061; 663566, 3945045; 663577, 3945038; 663584, 3945029; 663577, 3945005; 663593, 3945005; 663617, 3944983; 663613, 3944973; 663600, 3944972; 663593, 3944969; 663586, 3944955; 663563, 3944964; 663522, 3944961; 663494, 3944952; 663489, 3944945; 663484, 3944915; 663474, 3944905; 663469, 3944907; 663452, 3944928; 663443, 3944930; 663429, 3944924; 663419, 3944912; 663357, 3944960; 663337, 3944984; 663327, 3945001; 663318, 3945041; 663311, 3945052; 663306, 3945078; 663293, 3945082; 663264, 3945097; 663233, 3945128; 663223, 3945117; 663216, 3945115; 663213, 3945118; 663217, 3945128; 663210, 3945140; 663203, 3945142; 663191, 3945137; 663186, 3945140; 663179, 3945153; 663165, 3945158; 663152, 3945159; 663142, 3945156; 663137, 3945172; 663088, 3945192; 663056, 3945215; 663040, 3945254; 663047, 3945285; 663017, 3945344; 663016, 3945362; 663002, 3945375; 662981, 3945402; 662954, 3945407; 662941, 3945401; 662936, 3945406; 662917, 3945410; 662896, 3945421; 662892, 3945428; 662887, 3945495; 662870, 3945562; 662842, 3945614; 662813, 3945646; 662734, 3945697; 662687, 3945713; 662649, 3945720; 662611, 3945723; 662540, 3945707; 662509, 3945693; 662469, 3945683; 662454, 3945661; 662459, 3945645; 662458, 3945636; 662451, 3945627; 662450, 3945613; 662444, 3945610; 662439, 3945611; 662424, 3945632; 662411, 3945638; 662401, 3945642; 662394, 3945639; 662386, 3945629; 662373, 3945634; 662372, 3945643; 662378, 3945655; 662386, 3945661; 662383, 3945672; 662365, 3945685; 662331, 3945696; 662303, 3945711; 662262, 3945714; 662250, 3945709; 662248, 3945701; 662238, 3945698; 662226, 3945685; 662216, 3945685; 662203, 3945693; 662199, 3945704; 662187, 3945706; 662199, 3945719; 662191, 3945727; 662183, 3945727; 662183, 3945745; 662172, 3945758; 662162, 3945791; 662129, 3945826; 662094, 3945868; 662076, 3945900; 662061, 3945951; 662059, 3945972; 662027, 3946083; 661966, 3946167; 661967, 3946187; 661961, 3946195; 661937, 3946215; 661899, 3946237; 661889, 3946246; 661881, 3946261; 661874, 3946288; 661862, 3946307; 661775, 3946359; 661696, 3946417; 661599, 3946499; 661581, 3946507; 661523, 3946549; 661414, 3946611; 661398, 3946607; 661378, 3946613; 661367, 3946634; 661346, 3946649; 661276, 3946665; 661256, 3946661; 661214, 3946669; 661208, 3946682; 661206, 3946688; 661135, 3946758; 661081, 3946773; 661055, 3946791; 660994, 3946811; 660938, 3946822; 660912, 3946817; 660907, 3946797; 660901, 3946797; 660873, 3946811; 660849, 3946814; 660822, 3946811; 660808, 3946815; 660787, 3946826; 660757, 3946834; 660724, 3946836; 660696, 3946832; 660635, 3946809; 660592, 3946780; 660583, 3946778; 660573, 3946784; 660562, 3946784; 660525, 3946773; 660512, 3946776; 660491, 3946792; 660468, 3946792; 660435, 3946786; 660389, 3946797; 660357, 3946797; 660337, 3946774; 660326, 3946771; 660305, 3946776; 660285, 3946777; 660269, 3946771; 660246, 3946752; 660239, 3946751; 660223, 3946774; 660192, 3946779; 660150, 3946778; 660140, 3946766; 660125, 3946778; 660115, 3946765; 660100, 3946771; 660095, 3946778; 660076, 3946772; 660067, 3946774; 660059, 3946782; 660049, 3946781; 660021, 3946789; 659983, 3946787; 659976, 3946780; 659964, 3946775; 659941, 3946776; 659920, 3946784; 659900, 3946799; 659884, 3946814; 659878, 3946832; 659871, 3946843; 659855, 3946850; 659816, 3946848; 659774, 3946859; 659742, 3946877; 659729, 3946878; 659651, 3946904; 659614, 3946903; 659570, 3946908; 659507, 3946903; 659486, 3946897; 659450, 3946869; 659432, 3946868; 659423, 3946857; 659427, 3946806; 659423, 3946791; 659412, 3946783; 659389, 3946777; 659355, 3946781; 659348, 3946787; 659332, 3946817; 659261, 3946824; 659213, 3946823; 659196, 3946810; 659190, 3946809; 659183, 3946815; 659158, 3946808; 659144, 3946810; 659130, 3946820; 659103, 3946860; 659084, 3946896;

659053, 3946945; 659035, 3946966; 658961, 3947018; 658901, 3947045; 658878, 3947051; 658846, 3947068; 658837, 3947080; 658831, 3947103; 658820, 3947121; 658805, 3947138; 658783, 3947155; 658768, 3947155; 658763, 3947148; 658752, 3947144; 658744, 3947157; 658677, 3947153; 658640, 3947134; 658635, 3947142; 658630, 3947144; 658605, 3947138; 658588, 3947128; 658586, 3947120; 658589, 3947104; 658583, 3947104; 658572, 3947107; 658563, 3947117; 658552, 3947147; 658544, 3947156; 658533, 3947161; 658507, 3947168; 658479, 3947169; 658423, 3947163; 658417, 3947166; 658407, 3947185; 658404, 3947212; 658398, 3947229; 658377, 3947246; 658376, 3947268; 658382, 3947290; 658380, 3947310; 658369, 3947326; 658328, 3947356; 658317, 3947361; 658293, 3947360; 658268, 3947348; 658255, 3947347; 658242, 3947357; 658240, 3947379; 658244, 3947434; 658235, 3947446; 658232, 3947461; 658215, 3947485; 658214, 3947508; 658195, 3947523; 658176, 3947530; 658169, 3947540; 658163, 3947534; 658155, 3947513; 658149, 3947510; 658133, 3947517; 658109, 3947521; 658084, 3947516; 658078, 3947521; 658071, 3947530; 658036, 3947626; 658016, 3947671; 657987, 3947723; 657907, 3947819; 657874, 3947846; 657764, 3947917; 657713, 3947940; 657645, 3947961; 657576, 3948042; 657544, 3948069; 657480, 3948111; 657434, 3948124; 657363, 3948121; 657270, 3948096; 657247, 3948075; 657201, 3948059; 657171, 3948027; 657158, 3948021; 657143, 3948007; 657115, 3947955; 657086, 3947945; 657069, 3947946; 656997, 3947975; 656969, 3947974; 656967, 3947979; 656980, 3948005; 656957, 3948033; 656948, 3948064; 656929, 3948087; 656925, 3948116; 656913, 3948127; 656905, 3948124; 656881, 3948096; 656853, 3948088; 656848, 3948084; 656822, 3948031; 656812, 3948029; 656803, 3948033; 656799, 3948040; 656808, 3948069; 656802, 3948092; 656791, 3948100; 656760, 3948097; 656745, 3948101; 656726, 3948116; 656708, 3948139; 656691, 3948144; 656689, 3948149; 656694, 3948160; 656684, 3948164; 656664, 3948160; 656656, 3948162; 656651, 3948167; 656649, 3948178; 656652, 3948196; 656660, 3948202; 656660, 3948210; 656625, 3948251; 656607, 3948279; 656544, 3948346; 656495, 3948378; 656479, 3948382; 656431, 3948386; 656397, 3948383; 656391, 3948377; 656391, 3948360; 656387, 3948353; 656367, 3948353; 656347, 3948359; 656329, 3948348; 656312, 3948322; 656265, 3948288; 656249, 3948244; 656241, 3948234; 656228, 3948234; 656203, 3948251; 656184, 3948252; 656173, 3948245; 656152, 3948245; 656136, 3948235; 656110, 3948224; 656101, 3948224; 656090, 3948228; 656080, 3948236; 656046, 3948248; 656036, 3948293; 656024, 3948305; 655969, 3948333; 655921, 3948346; 655895, 3948366; 655862, 3948380; 655826, 3948387; 655792, 3948384; 655764, 3948392; 655735, 3948396; 655687, 3948393; 655653, 3948397; 655620, 3948388; 655612, 3948389; 655596, 3948380; 655580, 3948379; 655576, 3948374; 655525, 3948361; 655513, 3948351; 655497, 3948321; 655475, 3948318; 655451, 3948291; 655448, 3948277; 655468, 3948265; 655471, 3948252; 655469, 3948243; 655451, 3948221; 655444, 3948208; 655440, 3948186; 655425, 3948157; 655428, 3948141; 655425, 3948135; 655417, 3948128; 655402, 3948125; 655381, 3948092; 655336, 3948069; 655333, 3948058; 655332, 3948037; 655325, 3948025; 655306, 3948021; 655283, 3948027; 655225, 3948067; 655201, 3948074; 655184, 3948086; 655166, 3948093; 655131, 3948119; 655105, 3948131; 655083, 3948131; 655082, 3948151; 655086, 3948171; 655103, 3948211; 655125, 3948216; 655151, 3948214; 655198, 3948252; 655212, 3948273; 655234, 3948337; 655246, 3948362; 655247, 3948378; 655242, 3948394; 655242, 3948414; 655252, 3948439; 655254, 3948476; 655238, 3948529; 655254, 3948583; 655238, 3948607; 655238, 3948627; 655232, 3948642; 655230, 3948697; 655252, 3948771; 655245, 3948788; 655231, 3948801; 655225, 3948811; 655223, 3948828; 655226, 3948850; 655233, 3948863; 655262, 3948901; 655262, 3948915; 655249, 3948962; 655252, 3948999; 655239, 3949050; 655238, 3949074; 655225, 3949134; 655224, 3949176; 655199, 3949214; 655197, 3949224; 655191, 3949233; 655182, 3949259; 655170, 3949282; 655152, 3949292; 655120, 3949291; 655105, 3949296; 655083, 3949319; 655070, 3949318; 655045, 3949331; 655021, 3949338; 654979, 3949364; 654977, 3949379; 654992, 3949396; 655017, 3949403; 655032, 3949414; 655036, 3949426; 655027, 3949454; 655033, 3949466; 655048, 3949472; 655055, 3949480; 655058, 3949492; 655050, 3949508; 655039, 3949521; 655043, 3949533; 655064, 3949558; 655071, 3949571; 655073, 3949590; 655069, 3949608; 655070, 3949627; 655056, 3949641; 655049, 3949672; 655027, 3949720; 655026, 3949737; 655014, 3949795; 655016, 3949820; 655029, 3949863; 655011, 3949890; 655010, 3949917; 654998, 3949941; 654992, 3949963; 654967, 3949984; 654958, 3950005; 654963, 3950088; 654961, 3950126; 654971, 3950163; 654972, 3950199; 654970, 3950213; 654954, 3950253; 654952, 3950276; 654946, 3950294; 654944, 3950317; 654940, 3950332; 654926, 3950349; 654913, 3950372; 654899, 3950384; 654873, 3950394; 654848, 3950410; 654840, 3950409; 654812, 3950437; 654806, 3950440; 654792, 3950440; 654784, 3950444; 654775, 3950455; 654774, 3950463; 654782, 3950485; 654781, 3950499; 654760, 3950525; 654753, 3950542; 654763, 3950567; 654768, 3950600; 654764, 3950629; 654776, 3950677; 654778, 3950718; 654789, 3950745; 654789, 3950773; 654775, 3950814; 654776, 3950826; 654771, 3950842; 654760, 3950864; 654754, 3950898; 654729, 3950936; 654720, 3950970; 654692, 3951033; 654667, 3951054; 654668, 3951074; 654655, 3951073; 654637, 3951088; 654621, 3951126; 654593, 3951155; 654590, 3951169; 654560, 3951195; 654488, 3951291; 654455, 3951317; 654432, 3951349; 654371, 3951389; 654314, 3951448; 654308, 3951472; 654283, 3951511; 654275, 3951560; 654264, 3951595; 654227, 3951671; 654180, 3951741; 654127, 3951771; 654087, 3951757; 654071, 3951756; 654063, 3951760; 654047, 3951779; 654033, 3951805; 653974, 3951849; 653927, 3951879; 653910, 3951904; 653884, 3951920; 653856, 3951933; 653833, 3951950; 653811, 3951958; 653751, 3952000; 653723, 3952003; 653698, 3952034; 653651, 3952046; 653643, 3952063; 653615, 3952084; 653606, 3952100; 653591, 3952111; 653561, 3952144; 653556, 3952160; 653549, 3952169; 653535, 3952180; 653522, 3952185; 653522, 3952197; 653517, 3952203; 653506, 3952211; 653499, 3952212; 653491, 3952226; 653485, 3952226; 653470, 3952236; 653455, 3952252; 653451, 3952252; 653430, 3952266; 653430, 3952271; 653425, 3952273; 653414, 3952291; 653392, 3952313; 653390, 3952326; 653380, 3952337; 653382, 3952361; 653340, 3952396; 653335, 3952410; 653307, 3952423; 653294, 3952441; 653274, 3952441; 653243, 3952465; 653227, 3952465; 653181, 3952489; 653188, 3952515; 653182, 3952528; 653183, 3952533; 653187, 3952535; 653191, 3952543; 653191, 3952575; 653189, 3952580; 653175, 3952583; 653153, 3952596; 653130, 3952618; 653127, 3952635; 653121, 3952651; 653122, 3952670; 653119, 3952693; 653102, 3952723; 653107, 3952751; 653100, 3952767; 653101, 3952795; 653093, 3952808; 653075, 3952823; 653067, 3952840;

653050, 3952854; 653008, 3952903; 652970, 3952927; 652954, 3952939; 652935, 3952961; 652908, 3952976; 652874, 3953001; 652839, 3953031; 652824, 3953048; 652818, 3953066; 652819, 3953080; 652830, 3953080; 652843, 3953064; 652860, 3953050; 652882, 3953041; 652898, 3953039; 652923, 3953028; 652953, 3953042; 652974, 3953033; 652986, 3953033; 652996, 3953039; 652997, 3953048; 652979, 3953063; 652982, 3953074; 653024, 3953092; 653056, 3953090; 653070, 3953099; 653051, 3953107; 653026, 3953105; 652968, 3953117; 652943, 3953118; 652867, 3953142; 652846, 3953130; 652825, 3953108; 652817, 3953104; 652751, 3953093; 652736, 3953095; 652720, 3953106; 652716, 3953123; 652703, 3953139; 652705, 3953144; 652718, 3953152; 652720, 3953166; 652706, 3953185; 652699, 3953208; 652686, 3953226; 652682, 3953247; 652663, 3953270; 652658, 3953289; 652629, 3953325; 652526, 3953400; 652505, 3953443; 652484, 3953463; 652451, 3953483; 652407, 3953487; 652378, 3953466; 652349, 3953462; 652317, 3953448; 652307, 3953448; 652295, 3953456; 652287, 3953479; 652288, 3953492; 652314, 3953499; 652390, 3953557; 652425, 3953590; 652446, 3953622; 652470, 3953665; 652489, 3953710; 652520, 3953755; 652543, 3953809; 652564, 3953827; 652574, 3953844; 652604, 3953920; 652607, 3953937; 652606, 3953953; 652593, 3953992; 652587, 3954025; 652550, 3954080; 652543, 3954102; 652542, 3954139; 652558, 3954193; 652569, 3954284; 652577, 3954302; 652577, 3954313; 652568, 3954367; 652555, 3954387; 652526, 3954417; 652513, 3954452; 652510, 3954466; 652512, 3954477; 652504, 3954486; 652500, 3954486; 652489, 3954492; 652488, 3954534; 652499, 3954553; 652499, 3954561; 652492, 3954576; 652488, 3954602; 652476, 3954614; 652454, 3954650; 652421, 3954678; 652340, 3954659; 652311, 3954667; 652293, 3954664; 652280, 3954671; 652268, 3954703; 652241, 3954742; 652227, 3954793; 652217, 3954815; 652214, 3954837; 652202, 3954859; 652198, 3954872; 652180, 3954893; 652155, 3954895; 652126, 3954906; 652124, 3954913; 652134, 3954936; 652135, 3954952; 652133, 3954977; 652119, 3955041; 652092, 3955081; 652079, 3955107; 652077, 3955120; 652089, 3955175; 652130, 3955203; 652164, 3955215; 652175, 3955228; 652181, 3955246; 652214, 3955289; 652214, 3955316; 652227, 3955328; 652238, 3955348; 652248, 3955358; 652289, 3955371; 652344, 3955413; 652356, 3955433; 652363, 3955454; 652362, 3955499; 652351, 3955533; 652352, 3955550; 652342, 3955576; 652346, 3955599; 652339, 3955623; 652345, 3955643; 652340, 3955658; 652347, 3955673; 652350, 3955691; 652346, 3955698; 652331, 3955709; 652320, 3955726; 652316, 3955809; 652304, 3955827; 652301, 3955845; 652286, 3955853; 652272, 3955853; 652243, 3955836; 652238, 3955839; 652234, 3955848; 652237, 3955864; 652209, 3955884; 652187, 3955909; 652204, 3955936; 652205, 3955943; 652191, 3955954; 652191, 3955960; 652197, 3955969; 652215, 3955982; 652233, 3956002; 652242, 3956022; 652247, 3956065; 652237, 3956102; 652239, 3956110; 652251, 3956120; 652263, 3956119; 652275, 3956107; 652284, 3956113; 652284, 3956125; 652295, 3956157; 652286, 3956188; 652289, 3956245; 652296, 3956281; 652297, 3956308; 652289, 3956326; 652247, 3956348; 652230, 3956364; 652221, 3956379; 652208, 3956415; 652182, 3956455; 652176, 3956471; 652177, 3956476; 652168, 3956494; 652152, 3956545; 652160, 3956603; 652155, 3956646; 652164, 3956657; 652165, 3956675; 652158, 3956686; 652150, 3956691; 652131, 3956712; 652122, 3956749; 652109, 3956766; 652088, 3956778; 652055, 3956766; 652028, 3956818; 652028, 3956835; 652032, 3956845; 652043, 3956858; 652042, 3956880; 652045, 3956884; 652054, 3956884; 652070, 3956879; 652090, 3956890; 652093, 3956896; 652095, 3956914; 652088, 3956934; 652058, 3956963; 652042, 3956969; 652037, 3956975; 652034, 3956992; 652019, 3957018; 652024, 3957025; 652137, 3957022; 652142, 3957029; 652166, 3957029; 652199, 3957042; 652216, 3957059; 652266, 3957159; 652267, 3957184; 652265, 3957194; 652255, 3957210; 652226, 3957231; 652225, 3957252; 652215, 3957268; 652210, 3957308; 652200, 3957316; 652178, 3957320; 652151, 3957294; 652145, 3957293; 652128, 3957305; 652119, 3957320; 652107, 3957326; 652108, 3957349; 652130, 3957364; 652157, 3957346; 652178, 3957344; 652191, 3957338; 652209, 3957339; 652229, 3957350; 652252, 3957380; 652301, 3957470; 652307, 3957495; 652304, 3957567; 652295, 3957611; 652291, 3957655; 652282, 3957697; 652259, 3957765; 652238, 3957910; 652229, 3957938; 652201, 3958001; 652194, 3958044; 652167, 3958109; 652128, 3958169; 652085, 3958217; 652007, 3958251; 651994, 3958251; 651984, 3958242; 651971, 3958242; 651961, 3958251; 651928, 3958270; 651904, 3958267; 651897, 3958261; 651898, 3958232; 651889, 3958228; 651880, 3958234; 651873, 3958246; 651868, 3958265; 651871, 3958269; 651864, 3958288; 651844, 3958288; 651816, 3958298; 651808, 3958303; 651794, 3958320; 651771, 3958330; 651763, 3958338; 651741, 3958353; 651708, 3958358; 651676, 3958355; 651562, 3958322; 651519, 3958300; 651499, 3958281; 651487, 3958281; 651480, 3958284; 651457, 3958332; 651448, 3958340; 651445, 3958341; 651440, 3958333; 651427, 3958325; 651393, 3958318; 651364, 3958306; 651359, 3958307; 651357, 3958312; 651361, 3958322; 651393, 3958340; 651394, 3958344; 651387, 3958364; 651372, 3958385; 651356, 3958421; 651354, 3958434; 651358, 3958458; 651351, 3958469; 651327, 3958489; 651295, 3958510; 651279, 3958527; 651274, 3958538; 651260, 3958548; 651241, 3958550; 651230, 3958555; 651199, 3958582; 651164, 3958595; 651165, 3958606; 651176, 3958613; 651208, 3958615; 651226, 3958612; 651243, 3958616; 651259, 3958611; 651272, 3958597; 651280, 3958593; 651304, 3958593; 651345, 3958606; 651363, 3958620; 651399, 3958713; 651415, 3958744; 651430, 3958760; 651438, 3958777; 651432, 3958809; 651422, 3958833; 651419, 3958851; 651422, 3958859; 651435, 3958859; 651444, 3958868; 651454, 3958896; 651425, 3958977; 651424, 3958992; 651431, 3959035; 651429, 3959092; 651468, 3959034; 651500, 3958980; returning to 651539, 3958896.

(ii) Note: Map of Units SLO-2, SLO-3 and SLO-4 for the California red-legged frog follows:

BILLING CODE 4310-55-P

BILLING CODE 4310-55-C

(43) Unit SLO-3: San Louis Obispo County, California. From USGS 1:24,000 scale quadrangles Cayucos, York Mountain, Morro Bay North, Morro Bay South, Atascadero, San Luis Obispo, Santa Margarita, Lopez Mtn., Arroyo Grande NE, Santa Margarita Lake and Tar Spring Ridge.

(i) Land bounded by the following UTM zone 10, NAD 1983 coordinates (E, N): 708480, 3909559; 708447, 3909567; 708387, 3909576; 708312, 3909574; 708246, 3909580; 708197, 3909596; 708118, 3909653; 708048, 3909715; 707996, 3909754; 707944, 3909787; 707895, 3909804; 707796, 3909833; 707742, 3909868; 707653, 3909945; 707599, 3909970; 707550, 3909977; 707496, 3909992; 707432, 3910042; 707398, 3910075; 707364, 3910118; 707334, 3910127; 707285, 3910127; 707201, 3910150; 707121, 3910159; 707077, 3910160; 707014, 3910153; 706937, 3910150; 706886, 3910156; 706762, 3910206; 706634, 3910246; 706598, 3910249; 706549, 3910237; 706460, 3910205; 706363, 3910147; 706282, 3910081; 706202, 3909995; 706111, 3909878; 706034, 3909768; 705968, 3909666; 705919, 3909623; 705797, 3909551; 705681, 3909472; 705649, 3909415; 705631, 3909360; 705620, 3909292; 705587, 3909342; 705537, 3909395; 705473, 3909444; 705407, 3909487; 705338, 3909549; 705226, 3909635; 705033, 3909809; 704984, 3909843; 704937, 3909869; 704896, 3909902; 704866, 3909933; 704670, 3910058; 704645, 3910077; 704602, 3910121; 704573, 3910159; 704537, 3910217; 704503, 3910256; 704479, 3910292; 704468, 3910320; 704456, 3910330; 704412, 3910353; 704276, 3910460; 704218, 3910497; 704153, 3910521; 704021, 3910552; 704011, 3910580; 704018, 3910617; 704017, 3910642; 704000, 3910729; 703989, 3910810; 703966, 3910853; 703889, 3910902; 703639, 3911003; 703575, 3911016; 703521, 3911022; 703480, 3911034; 703382, 3911091; 703313, 3911149; 703163, 3911297; 703126, 3911346; 703072, 3911437; 703032, 3911484; 703000, 3911511; 702959, 3911529; 702908, 3911545; 702799, 3911561; 702738, 3911575; 702676, 3911598; 702594, 3911633; 702509, 3911676; 702420, 3911727; 702315, 3911780; 702245, 3911808; 702179, 3911810; 702081, 3911796; 701974, 3911759; 701929, 3911752; 701883, 3911754; 701839, 3911772; 701798, 3911810; 701756, 3911854; 701727, 3911897; 701702, 3911959; 701679, 3912026; 701655, 3912079; 701588, 3912165; 701528, 3912248; 701501, 3912333; 701483, 3912415; 701452, 3912508; 701420, 3912579; 701396, 3912649; 701375, 3912719; 701357, 3912809; 701327, 3912868; 701276, 3912913; 701202, 3912952; 701128, 3912975; 701091, 3912977; 701072, 3912981; 701064, 3913005; 701034, 3913017; 701011, 3913019; 700941, 3913014; 700904, 3913017; 700821, 3913062; 700792, 3913073; 700704, 3913096; 700663, 3913100; 700488, 3913155; 700427, 3913146; 700314, 3913091; 700275, 3913085; 700217, 3913101; 700170, 3913139; 700116, 3913173; 700051, 3913185; 699964, 3913194; 699882, 3913217; 699835, 3913247; 699776, 3913353; 699755, 3913381; 699721, 3913403; 699678, 3913401; 699574, 3913366; 699532, 3913356; 699407, 3913319; 699336, 3913304; 699247, 3913302; 699183, 3913306; 699129, 3913322; 699085, 3913316; 699054, 3913306; 699036, 3913293; 699021, 3913245; 699014, 3913183; 699022, 3913116; 699016, 3913056; 698990, 3912989; 698941, 3912912; 698913, 3912885; 698861, 3912852; 698739, 3912799; 698678, 3912780; 698521, 3912744; 698366, 3912693; 698225, 3912640; 698174, 3912632; 698103, 3912638; 697879, 3912645; 697856, 3912906; 697714, 3913241; 697639, 3913667; 697463, 3914010; 697354, 3914345; 697145, 3914487; 696811, 3914604; 696660, 3914964; 696760, 3915332; 696986, 3915834; 696505, 3915981; 696019, 3916362; 695814, 3916551; 695600, 3916847; 695394, 3917201; 695328, 3917448; 695295, 3917588; 695312, 3917736; 695411, 3917835; 695394, 3917942; 695337, 3918781; 695304, 3919340; 695279, 3919493; 695114, 3919691; 694899, 3919905; 694734, 3920136; 694668, 3920318; 694552, 3920450; 694420, 3920565; 694255, 3920582; 694156, 3920631; 693879, 3920712; 693760, 3920747; 693694, 3920846; 693694, 3921192; 693595, 3921324; 693397, 3921423; 693183, 3921589; 693034, 3921704; 692952, 3921886; 692886, 3922084; 692886, 3922331; 692806, 3922438; 692737, 3922529; 692638, 3922645; 692556, 3922744; 692452, 3922808; 692385, 3922910; 692220, 3923081; 692070, 3923197; 691953, 3923266; 691735, 3923774; 691730, 3923833; 691730, 3923965; 691714, 3924114; 691714, 3924444; 691730, 3924609; 691796, 3924741; 692143, 3924774; 692374, 3924774; 692638, 3924691; 692836, 3924642; 693018, 3924559; 693133, 3924757; 693265, 3924873; 693265, 3925087; 693397, 3925285; 693496, 3925467; 693595, 3925747; 693678, 3925846; 693760, 3925978; 693859, 3926110; 693859, 3926193; 693744, 3926193; 693678, 3926077; 693414, 3926143; 693414, 3926342; 693562, 3926540; 693562, 3926705; 693661, 3926903; 693793, 3927084; 693826, 3927216; 693942, 3927348; 694056, 3927463; 694099, 3927483; 694093, 3927506; 694020, 3927619; 694019, 3927738; 694049, 3927821; 694067, 3927896; 694053, 3927946; 693969, 3928099; 693914, 3928171; 693860, 3928219; 693812, 3928278; 693780, 3928333; 693758, 3928402; 693734, 3928506; 693754, 3928535; 693795, 3928609; 693826, 3928678; 693843, 3928738; 693842, 3928785; 693834, 3928838; 693821, 3928901; 693802, 3928968; 693799, 3929026; 693816, 3929091; 693842, 3929144; 693879, 3929199; 693927, 3929258; 693975, 3929298; 694021, 3929321; 694071, 3929338; 694114, 3929368; 694130, 3929405; 694162, 3929507; 694194, 3929576; 694230, 3929638; 694303, 3929722; 694322, 3929750; 694327, 3929777; 694302, 3929814; 694280, 3929839; 694266, 3929869; 694268, 3929915; 694276, 3929963; 694289, 3930015; 694296, 3930070; 694274, 3930262; 694262, 3930439; 694254, 3930494; 694246, 3930584; 694226, 3930607; 694180, 3930615; 694159, 3930640; 694162, 3930698; 694177, 3930826; 694205, 3930960; 694217, 3931041; 694257, 3931071; 694301, 3931098; 694341, 3931111; 694373, 3931112; 694442, 3931103; 694484, 3931101; 694521, 3931122; 694554, 3931166; 694551, 3931196; 694526, 3931320; 694517, 3931355; 694494, 3931410; 694482, 3931458; 694501, 3931482; 694566, 3931522; 694589, 3931548; 694589, 3931656; 694603, 3931722; 694624, 3931722; 694703, 3931707; 694747, 3931720; 694798, 3931779; 694834, 3931782; 694869, 3931755; 694917, 3931707; 694942, 3931688; 694980, 3931671; 695106, 3931630; 695135, 3931627; 695181, 3931655; 695244, 3931721; 695268, 3931736; 695325, 3931762; 695355, 3931787; 695402, 3931814; 695523, 3931825; 695559, 3931838; 695633, 3931876; 695673, 3931912; 695713, 3931954; 695735, 3931984; 695746, 3932008; 695751, 3932033; 695769, 3932063; 695844, 3932143; 695861, 3932154; 695936, 3932170; 695989, 3932166; 696026, 3932152; 696061, 3932097; 696092, 3932066; 696135, 3932049; 696168, 3932047; 696242, 3932076; 696282, 3932083; 696331, 3932085; 696378, 3932082; 696424, 3932075; 696461, 3932062; 696507, 3932024; 696537, 3932008; 696587, 3931968; 696615, 3931953; 696652, 3931940; 696698, 3931934; 696784, 3931892; 696817, 3931891; 696849, 3931918; 696874, 3931956; 696900, 3932011; 696901, 3932101; 696918, 3932132; 697003, 3932188; 697057, 3932241; 697093, 3932265; 697243, 3932324; 697290, 3932336; 697387, 3932375; 697437, 3932378; 697480, 3932369; 697526, 3932309; 697543, 3932228; 697547, 3932165; 697551, 3932140; 697564, 3932115; 697583, 3932094; 697615, 3932074; 697662, 3932061; 697687, 3932042; 697719, 3932012; 697770, 3931985; 697807, 3931976; 697845, 3931961; 697881, 3931952; 697971, 3931954; 698044, 3931962; 698081, 3931947; 698114, 3931928; 698153, 3931916; 698191, 3931901; 698219, 3931878; 698291, 3931835; 698375, 3931774; 698417, 3931754; 698454, 3931744; 698514, 3931744; 698527, 3931730; 698551, 3931688; 698574, 3931664; 698636, 3931634; 698670, 3931604; 698709, 3931588; 698753, 3931580; 698799, 3931559; 698832, 3931527; 698857, 3931483; 698876, 3931437; 698888, 3931387; 698884, 3931292; 698905, 3931273; 698931, 3931275; 698962, 3931265; 698993, 3931234; 699033, 3931143; 699068, 3931089; 699127, 3931037; 699170, 3931010; 699292, 3930966; 699404, 3930911; 699586, 3930808; 699661, 3930776; 699698, 3930746; 699757, 3930732; 699831, 3930696; 699868, 3930674; 699910, 3930626; 699943, 3930599; 699985, 3930586; 700045, 3930565; 700240, 3930520; 700371, 3930482; 700449, 3930448; 700493, 3930421; 700571, 3930396; 700631, 3930368; 700692, 3930337; 700736, 3930310; 700919, 3930221; 700976, 3930201; 701033, 3930191; 701143, 3930162; 701196, 3930138; 701259, 3930098; 701327, 3930063; 701380, 3930050; 701428, 3930025; 701483, 3929988; 701564, 3929944; 701576, 3929941; 701600, 3929922; 701651, 3929914; 701717, 3929897; 701747, 3929883; 701775, 3929864; 701808, 3929811; 701829, 3929764; 701856, 3929720; 701884, 3929680; 701921, 3929648; 701967, 3929626; 701983, 3929597; 701991, 3929556; 701982, 3929510; 701965, 3929469; 701959, 3929422; 701971, 3929382; 702013, 3929333; 702049, 3929315; 702096, 3929300; 702139, 3929274; 702178, 3929238; 702211, 3929196; 702228, 3929163; 702242, 3929124; 702326, 3929053; 702361, 3929011; 702406, 3928994; 702467, 3928991; 702518, 3928998; 702571, 3929001; 702597, 3928980; 702597, 3928925; 702593, 3928873; 702602, 3928827; 702647, 3928808; 702742, 3928831; 702784, 3928828; 702831, 3928812; 702869, 3928794; 702954, 3928718; 703005, 3928664; 703038, 3928640; 703138, 3928601; 703191, 3928594; 703239, 3928600; 703283, 3928632; 703310, 3928672; 703354, 3928721; 703428, 3928761; 703488, 3928789; 703528, 3928803; 703575, 3928786; 703618, 3928761; 703668, 3928749; 703711, 3928771; 703768, 3928783; 703842, 3928751; 703906, 3928668; 703959, 3928631; 704007, 3928605; 704060, 3928587; 704085, 3928578; 704182, 3928558; 704620, 3928592; 704750, 3928582; 704959, 3928425; 705170, 3928253; 705438, 3928113; 705649, 3927941; 705804, 3927729; 705971, 3927586; 706358, 3927453; 706777, 3927329; 707148, 3927150; 707223, 3927200; 707472, 3927202; 707635, 3926909; 707766, 3926532; 708005, 3926362; 708346, 3926329; 708628, 3926423; 708831, 3926689; 709025, 3926659; 709127, 3926604; 709294, 3926511; 709477, 3926386; 709682, 3926379; 709839, 3926309; 709874, 3926235; 709890, 3926133; 709880, 3925998; 709871, 3925716; 709903, 3925585; 709960, 3925472; 710028, 3925415; 710130, 3925360; 710214, 3925309; 710313, 3925264; 710396, 3925251; 710454, 3925258; 710515, 3925258; 710633, 3925194; 710697, 3925130; 710745, 3925069; 710781, 3925017; 710877, 3924934; 711040, 3924873; 711223, 3924880; 711335, 3924902; 711562, 3924974; 711555, 3922474; 711863, 3922131; 711966, 3922080; 712057, 3922164; 712271, 3922302; 712493, 3922380; 712815, 3922394; 713109, 3922340; 713722, 3922339; 714153, 3922599; 714639, 3922995; 714733, 3923111; 714988, 3922722; 715536, 3921353; 715565, 3921060; 715604, 3920884; 715643, 3920678; 715927, 3920248; 715849, 3919544; 716641, 3917931; 718619, 3919042; 718562, 3919124; 718547, 3919198; 718556, 3919264; 718615, 3919429; 718650, 3919492; 718681, 3919575; 718668, 3919654; 718624, 3919708; 718564, 3919749; 718488, 3919792; 718440, 3919824; 718405, 3919854; 718385, 3919908; 718371, 3919969; 718369, 3920021; 718351, 3920042; 718316, 3920024; 718285, 3919990; 718256, 3919912; 718218, 3919883; 718179, 3919880; 718135, 3919906; 718104, 3919937; 718091, 3919972; 718087, 3920011; 718089, 3920048; 718098, 3920082; 718116, 3920110; 718153, 3920155; 718170, 3920188; 718177, 3920223; 718198, 3920279; 718250, 3920365; 718267, 3920411; 718280, 3920460; 718298, 3920498; 718297, 3920544; 718275, 3920569; 718193, 3920617; 718151, 3920650; 718086, 3920716; 718055, 3920780; 718027, 3920860; 718008, 3920944; 717989, 3921009; 717915, 3921154; 717874, 3921250; 717841, 3921343; 717700, 3921810; 717657, 3921978; 717618, 3922169; 717612, 3922328; 717614, 3922457; 717611, 3922580; 717600, 3922719; 717593, 3922858; 717595, 3922983; 717609, 3923102; 717632, 3923237; 717639, 3923402; 717635, 3923514; 717615, 3923588; 717583, 3923647; 717537, 3923709; 717488, 3923780; 717426, 3923886; 717375, 3924035; 717304, 3924311; 717253, 3924433; 717151, 3924640; 717216, 3924646; 717307, 3924635; 717512, 3924580; 717579, 3924544; 717631, 3924512; 717671, 3924465; 717719, 3924355; 717745, 3924318; 717788, 3924299; 717914, 3924268; 717966, 3924252; 718088, 3924235; 718153, 3924236; 718201, 3924268; 718243, 3924329; 718271, 3924345; 718287, 3924343; 718396, 3924272; 718482, 3924237; 718521, 3924211; 718599, 3924145; 718642, 3924103; 718694, 3924047; 718724, 3924009; 718765, 3923975; 718777, 3923954; 718799, 3923885; 718802, 3923826; 718798, 3923772; 718800, 3923757; 718817, 3923721; 718828, 3923657; 718846, 3923623; 718878, 3923599; 718948, 3923569; 718982, 3923551; 719007, 3923527; 719026, 3923516; 719042, 3923511; 719112, 3923503; 719142, 3923488; 719154, 3923464; 719127, 3923393; 719121, 3923369; 719119, 3923336; 719132, 3923307; 719151, 3923295; 719184, 3923285; 719211, 3923267; 719239, 3923241; 719263, 3923227; 719373, 3923183; 719408, 3923159; 719446, 3923141; 719476, 3923133; 719500, 3923114; 719509, 3923091; 719537, 3922963; 719566, 3922899; 719591, 3922829; 719603, 3922803; 719627, 3922782; 719644, 3922756; 719659, 3922725; 719677, 3922676; 719692, 3922673; 719743, 3922651; 719798, 3922595; 719827, 3922577; 719858, 3922572; 719886, 3922574; 719912, 3922547; 719888, 3922518; 719818, 3922471; 719788, 3922437; 719775, 3922402; 719776, 3922285; 719784, 3922255; 719788, 3922221; 719772, 3922191; 719719, 3922176; 719571, 3922153; 719517, 3922138; 719431, 3922129; 719243, 3922127; 719209, 3922123; 719184, 3922112; 719155, 3922081; 719146, 3922046; 719151, 3921990; 719145, 3921917; 719119, 3921862; 719103, 3921816; 719112, 3921752; 719161, 3921607; 719212, 3921533; 719231, 3921470; 719246, 3921400; 719258, 3921304; 719290, 3921182; 719428, 3920885; 719451, 3920846; 719536, 3920741; 719675, 3920601; 719726, 3920537; 719817, 3920442; 719860, 3920369; 719897, 3920277; 719938, 3920210; 719975, 3920153; 720140, 3919926; 720191, 3919850; 720355, 3919554; 720452, 3919357; 720563, 3919031; 720758, 3918546; 720847, 3918381; 720929, 3918253; 721019, 3918136; 721142, 3917997; 721247, 3917859; 721329, 3917763; 721447, 3917647; 721601, 3917507; 721653, 3917452; 721733, 3917356; 721759, 3917342; 721828, 3917259; 721851, 3917236; 721876, 3917219; 721905, 3917216; 721954, 3917224; 722004, 3917226; 722115, 3917194; 722148, 3917189; 722224, 3917247; 722243, 3917255; 722262, 3917250; 722320, 3917193; 722342, 3917152; 722344, 3917119; 722332, 3917079; 722335, 3917026; 722367, 3916977; 722418, 3916926; 722469, 3916881; 722518, 3916851; 722639, 3916799; 722746, 3916774; 722826, 3916728; 722875, 3916691; 722908, 3916673; 722976, 3916671; 723011, 3916622; 723022, 3916593; 723012, 3916583; 722944, 3916526; 722878, 3916477; 722804, 3916430; 722749, 3916399; 722684, 3916378; 722588, 3916377; 722457, 3916407; 722383, 3916409; 722296, 3916403; 722210, 3916383; 722157, 3916329; 722124, 3916245; 722031, 3916044; 722004, 3915966; 722035, 3915882; 722073, 3915807; 722104, 3915729; 722110, 3915663; 722050, 3915601; 721871, 3915534; 721807, 3915496; 721752, 3915460; 721622, 3915361; 721609, 3915336; 721642, 3915289; 721703, 3915218; 721768, 3915128; 721840, 3915007; 721889, 3914914; 721926, 3914813; 721932, 3914745; 721909, 3914676; 721870, 3914631; 721806, 3914569; 721742, 3914495; 721663, 3914435; 721564, 3914439; 721154, 3914575; 721123, 3914576; 721095, 3914551; 721075, 3914497; 721066, 3914431; 721068, 3914361; 721095, 3914282; 721138, 3914185; 721169, 3914080; 721177, 3913988; 721170, 3913922; 721132, 3913866; 721016, 3913769; 720964, 3913733; 720922, 3913687; 720907, 3913622; 720916, 3913563; 720905, 3913519; 720873, 3913508; 720730, 3913571; 720670, 3913614; 720586, 3913645; 720534, 3913636; 720484, 3913588; 720417, 3913512; 720378, 3913442; 720345, 3913368; 720328, 3913300; 720339, 3913253; 720394, 3913228; 720547, 3913167; 720612, 3913133; 720680, 3913090; 720754, 3913033; 720803, 3912974; 720816, 3912951; 720819, 3912927; 720808, 3912880; 720813, 3912839; 720812, 3912747; 720817, 3912693; 720846, 3912657; 720901, 3912623; 721042, 3912525; 721105, 3912494; 721158, 3912460; 721201, 3912413; 721225, 3912369; 721229, 3912347; 721189, 3912299; 721166, 3912274; 721086, 3912210; 720950, 3912080; 720946, 3912064; 720945, 3912031; 720949, 3911988; 720918, 3911892; 720894, 3911854; 720891, 3911794; 720916, 3911730; 720921, 3911667; 720914, 3911595; 720899, 3911541; 720869, 3911457; 720830, 3911364; 720889, 3911346; 720927, 3911342; 720973, 3911349; 721005, 3911357; 721047, 3911351; 721072, 3911319; 721120, 3911206; 721139, 3911145; 721178, 3911099; 721221, 3911099; 721262, 3911120; 721372, 3911147; 721414, 3911153; 721446, 3911152; 721478, 3911135; 721510, 3911107; 721547, 3911083; 721662, 3911049; 721707, 3911017; 721743, 3910974; 721773, 3910922; 721783, 3910882; 721802, 3910823; 721843, 3910752; 721896, 3910698; 721946, 3910669; 722011, 3910645; 722073, 3910630; 722137, 3910607; 722203, 3910574; 722297, 3910515; 722359, 3910471; 722456, 3910416; 722603, 3910321; 722661, 3910300; 722741, 3910285; 723030, 3910279; 723111, 3910251; 723230, 3910197; 723323, 3910148; 723374, 3910135; 723402, 3910132; 723453, 3910118; 723496, 3910086; 723551, 3910041; 723661, 3909983; 723712, 3909978; 723761, 3909979; 723804, 3909975; 723860, 3909961; 723919, 3909931; 723993, 3909885; 724013, 3909855; 724030, 3909821; 724072, 3909758; 724137, 3909705; 724205, 3909681; 724250, 3909637; 724346, 3909604; 724409, 3909576; 724551, 3909476; 724624, 3909441; 724693, 3909413; 724747, 3909383; 724805, 3909340; 724850, 3909315; 724905, 3909272; 724955, 3909231; 725022, 3909160; 725074, 3909140; 725292, 3909148; 725326, 3909138; 725359, 3909114; 725430, 3909040; 725505, 3909010; 725521, 3908977; 725509, 3908946; 725521, 3908890; 725561, 3908823; 725612, 3908716; 725658, 3908673; 725694, 3908647; 725739, 3908625; 725796, 3908610; 725837, 3908648; 725853, 3908690; 725863, 3908733; 725904, 3908770; 726047, 3908826; 726090, 3908839; 726129, 3908837; 726171, 3908807; 726277, 3908677; 726343, 3908625; 726395, 3908603; 726457, 3908556; 726554, 3908511; 726636, 3908485; 726674, 3908482; 726734, 3908484; 726752, 3908473; 726776, 3908439; 726770, 3908379; 726739, 3908309; 726720, 3908243; 726720, 3908199; 726708, 3908145; 726674, 3908107; 726648, 3908048; 726640, 3907955; 726648, 3907910; 726696, 3907824; 726760, 3907755; 726846, 3907637; 726882, 3907602; 726978, 3907543; 727119, 3907388; 727193, 3907331; 727291, 3907275; 727370, 3907254; 727425, 3907223; 727477, 3907187; 727577, 3907085; 727640, 3907040; 727783, 3906991; 727849, 3906972; 727915, 3906942; 727991, 3906923; 728117, 3906873; 728180, 3906861; 728224, 3906842; 728374, 3906795; 728444, 3906796; 728489, 3906794; 728581, 3906763; 728649, 3906730; 728693, 3906701; 728747, 3906676; 728803, 3906664; 728861, 3906671; 728929, 3906658; 728951, 3906673; 728980, 3906707; 729032, 3906813; 729065, 3906866; 729127, 3906945; 729169, 3907010; 729204, 3907081; 729220, 3907106; 729237, 3907092; 729268, 3907084; 729314, 3907079; 729402, 3906951; 729434, 3906911; 729467, 3906881; 729503, 3906858; 729550, 3906853; 729592, 3906866; 729640, 3906867; 729674, 3906855; 729690, 3906761; 729721, 3906710; 729762, 3906663; 729799, 3906629; 729829, 3906621; 730054, 3906615; 730192, 3906601; 730252, 3906579; 730291, 3906547; 730332, 3906506; 730386, 3906464; 730431, 3906423; 730460, 3906386; 730489, 3906323; 730510, 3906299; 730546, 3906285; 730646, 3906269; 730733, 3906244; 730769, 3906227; 730826, 3906135; 730871, 3906096; 730976, 3906051; 731030, 3906018; 731107, 3905963; 731131, 3905934; 731154, 3905864; 731184, 3905811; 731231, 3905771; 731253, 3905745; 731272, 3905724; 731275, 3905667; 731248, 3905597; 731220, 3905539; 731198, 3905479; 731156, 3905397; 731117, 3905342; 731047, 3905296; 730844, 3905246; 730794, 3905215; 730743, 3905175; 730606, 3905082; 730541, 3905011; 730477, 3904953; 730416, 3904878; 730389, 3904836; 730370, 3904777; 730364, 3904720; 730355, 3904676; 730345, 3904654; 730328, 3904640; 730299, 3904623; 730187, 3904566; 730153, 3904516; 730147, 3904465; 730134, 3904423; 730091, 3904324; 730021, 3904202; 730037, 3904170; 730074, 3904136; 730121, 3904101; 730162, 3904059; 730186, 3903988; 730195, 3903912; 730194, 3903847; 730197, 3903792; 730211, 3903689; 730258, 3903613; 730287, 3903584; 730373, 3903547; 730441, 3903501; 730468, 3903479; 730490, 3903451; 730508, 3903414; 730527, 3903313; 730539, 3903274; 730597, 3903164; 730604, 3903120; 730612, 3903034; 730611, 3902995; 730606, 3902954; 730610, 3902884; 730601, 3902842; 730547, 3902736; 730543, 3902705; 730547, 3902675; 730562, 3902639; 730583, 3902604; 730600, 3902565; 730612, 3902526; 730614, 3902488; 730605, 3902461; 730576, 3902417; 730537, 3902340; 730521, 3902298; 730519, 3902257; 730525, 3902231; 730581, 3902189; 730607, 3902164; 730627, 3902132; 730667, 3902045; 730736, 3901941; 730752, 3901884; 730763, 3901802; 730765, 3901763; 730739, 3901720; 730699, 3901689; 730651, 3901665; 730478, 3901593; 730379, 3901601; 730159, 3901733; 730106, 3901761; 730020, 3901796; 729982, 3901802; 729942, 3901801; 729923, 3901791; 729894, 3901768; 729820, 3901668; 729781, 3901622; 729752, 3901595; 729716, 3901573; 729691, 3901546; 729671, 3901529; 729607, 3901499; 729575, 3901490; 729513, 3901489; 729452, 3901527; 729400, 3901579; 729380, 3901614; 729347, 3901656; 729276, 3901770; 729222, 3901827; 729156, 3901881; 729109, 3901914; 729053, 3901943; 728973, 3901980; 728841, 3902051; 728784, 3902093; 728695, 3902172; 728632, 3902215; 728582, 3902237; 728502, 3902261; 728441, 3902265; 728396, 3902272; 728257, 3902324; 728151, 3902353; 728056, 3902388; 727972, 3902430; 727909, 3902454; 727881, 3902455; 727751, 3902441; 727699, 3902448; 727651, 3902478; 727606, 3902525; 727568, 3902554; 727523, 3902583; 727478, 3902588; 727399, 3902582; 727356, 3902570; 727229, 3902525; 727166, 3902526; 727108, 3902547; 727057, 3902596; 727010, 3902662; 726920, 3902753; 726836, 3902809; 726728, 3902834; 726694, 3902846; 726606, 3902930; 726553, 3902967; 726510, 3902987; 726426, 3903012; 726340, 3903025; 726249, 3903034; 726094, 3903062; 726005, 3903099; 725971, 3903117; 725935, 3903158; 725853, 3903276; 725783, 3903354; 725732, 3903388; 725677, 3903415; 725572, 3903455; 725429, 3903465; 725376, 3903472; 725338, 3903481; 725280, 3903511; 725212, 3903526; 725171, 3903542; 725129, 3903565; 725079, 3903604; 725032, 3903629; 724914, 3903672; 724870, 3903708; 724844, 3903739; 724726, 3903844; 724655, 3903916; 724599, 3903956; 724555, 3903984; 724428, 3903995; 724363, 3904024; 724295, 3904068; 724251, 3904106; 724185, 3904176; 724168, 3904269; 724140, 3904323; 724114, 3904351; 723963, 3904441; 723853, 3904459; 723808, 3904453; 723815, 3904563; 723812, 3904627; 723797, 3904679; 723771, 3904716; 723722, 3904772; 723671, 3904818; 723624, 3904870; 723586, 3904971; 723562, 3905071; 723551, 3905135; 723588, 3905224; 723603, 3905281; 723587, 3905347; 723555, 3905390; 723522, 3905415; 723475, 3905441; 723422, 3905488; 723381, 3905558; 723353, 3905647; 723324, 3905687; 723284, 3905714; 723242, 3905721; 723179, 3905739; 723134, 3905742; 723103, 3905732; 723006, 3905693; 722948, 3905662; 722906, 3905652; 722878, 3905672; 722877, 3905712; 722901, 3905828; 722909, 3905898; 722907, 3905967; 722896, 3906018; 722876, 3906059; 722846, 3906094; 722756, 3906162; 722730, 3906197; 722717, 3906237; 722653, 3906388; 722616, 3906427; 722554, 3906476; 722429, 3906528; 722373, 3906541; 722333, 3906527; 722300, 3906455; 722258, 3906454; 722142, 3906512; 722110, 3906521; 722066, 3906525; 722020, 3906535; 721973, 3906548; 721923, 3906565; 721887, 3906586; 721851, 3906600; 721764, 3906592; 721720, 3906599; 721669, 3906617; 721611, 3906629; 721569, 3906723; 721534, 3906774; 721484, 3906812; 721445, 3906853; 721415, 3906895; 721368, 3906937; 721311, 3906977; 721250, 3907014; 721200, 3907034; 721142, 3907074; 721053, 3907127; 720996, 3907143; 720899, 3907138; 720854, 3907142; 720798, 3907154; 720744, 3907186; 720688, 3907240; 720644, 3907275; 720603, 3907282; 720550, 3907273; 720498, 3907268; 720433, 3907271; 720360, 3907287; 720237, 3907346; 720204, 3907354; 720169, 3907336; 720106, 3907274; 720027, 3907209; 719977, 3907176; 719863, 3907126; 719827, 3907099; 719802, 3907049; 719756, 3906930; 719713, 3906887; 719677, 3906864; 719639, 3906828; 719605, 3906790; 719525, 3906734; 719431, 3906655; 719343, 3906531; 719271, 3906397; 719240, 3906353; 719187, 3906323; 719104, 3906320; 719044, 3906311; 719007, 3906298; 718920, 3906286; 718724, 3906291; 718661, 3906281; 718631, 3906271; 718587, 3906229; 718535, 3906102; 718494, 3906042; 718379, 3905952; 718293, 3905926; 718211, 3905954; 718127, 3906003; 718060, 3906026; 717993, 3906029; 717918, 3906014; 717766, 3905967; 717681, 3905971; 717607, 3905996; 717546, 3906007; 717477, 3906001; 717397, 3905986; 717257, 3905942; 717197, 3905906; 717172, 3905863; 717147, 3905798; 717124, 3905714; 717017, 3905776; 716918, 3905828; 716836, 3905876; 716745, 3905915; 716507, 3905968; 716435, 3905975; 716386, 3905988; 716315, 3906013; 716172, 3906099; 716107, 3906148; 716030, 3906217; 715971, 3906252; 715943, 3906264; 715923, 3906293; 715911, 3906321; 715910, 3906347; 715852, 3906428; 715812, 3906444; 715767, 3906447; 715633, 3906476; 715562, 3906525; 715483, 3906620; 715397, 3906710; 715296, 3906802; 715185, 3906910; 715105, 3906956; 715025, 3906969; 714953, 3906974; 714864, 3906968; 714760, 3906971; 714662, 3906991; 714577, 3907016; 714509, 3907044; 714467, 3907048; 714417, 3907027; 714355, 3906983; 714281, 3906926; 714199, 3906855; 714135, 3906821; 714051, 3906807; 713929, 3906797; 713481, 3906694; 713349, 3906677; 713278, 3906652; 713094, 3906561; 712859, 3906469; 712615, 3906420; 712022, 3906204; 711971, 3906209; 711870, 3906225; 711763, 3906258; 711664, 3906306; 711574, 3906375; 711509, 3906448; 711459, 3906495; 711350, 3906610; 711305, 3906701; 711279, 3906771; 711235, 3906824; 711187, 3906840; 711031, 3906871; 710988, 3906870; 710933, 3906863; 710829, 3906866; 710786, 3906899; 710762, 3906941; 710726, 3907030; 710714, 3907078; 710695, 3907184; 710631, 3907387; 710597, 3907564; 710590, 3907681; 710589, 3907749; 710591, 3907823; 710611, 3907993; 710629, 3908101; 710618, 3908120; 710599, 3908139; 710574, 3908159; 710525, 3908189; 710407, 3908241; 710319, 3908275; 710175, 3908315; 710063, 3908380; 710006, 3908421; 709895, 3908522; 709806, 3908590; 709730, 3908654; 709640, 3908770; 709536, 3908835; 709500, 3908879; 709469, 3908937; 709428, 3908982; 709362, 3909006; 709318, 3909005; 709250, 3909009; 709183, 3909029; 709087, 3909114; 709041, 3909135; 709002, 3909145; 708906, 3909193; 708879, 3909216; 708827, 3909269; 708747, 3909336; 708705, 3909377; 708654, 3909438; 708525, 3909539; 708486, 3909557; returning to 708480, 3909559.

(ii) Note: Unit SLO-3 for California red-legged frog is depicted on the map in paragraph (42)(ii) of this entry.

(44) Unit SLO-4: San Louis Obispo County, California. From USGS 1:24,000 scale quadrangles Santa Margarita Lake, Pozo Summit, Caldwell Mesa, La Panza and Los Machos Hills.

(i) Land bounded by the following UTM zone 10, NAD 1983 coordinates (E, N): 749907, 3913538; 749944, 3913534; 750002, 3913543; 750022, 3913536; 750074, 3913485; 750128, 3913449; 750179, 3913436; 750280, 3913424; 750319, 3913415; 750370, 3913396; 750423, 3913362; 750490, 3913308; 750538, 3913295; 750587, 3913300; 750641, 3913287; 750712, 3913239; 750757, 3913199; 750794, 3913147; 750818, 3913095; 750835, 3913058; 750901, 3912817; 750922, 3912754; 750956, 3912712; 751000, 3912678; 751040, 3912654; 751060, 3912628; 751076, 3912568; 751101, 3912530; 751221, 3912434; 751273, 3912405; 751337, 3912394; 751387, 3912398; 751444, 3912377; 751549, 3912307; 751664, 3912250; 751707, 3912238; 751753, 3912230; 751802, 3912230; 751858, 3912236; 751924, 3912261; 751957, 3912259; 751996, 3912205; 752006, 3912132; 752021, 3912078; 752038, 3912020; 752062, 3911964; 752115, 3911891; 752188, 3911779; 752230, 3911722; 752308, 3911578; 752339, 3911512; 752364, 3911453; 752356, 3911404; 752331, 3911374; 752282, 3911342; 752251, 3911305; 752262, 3911239; 752315, 3911176; 752358, 3911103; 752377, 3911050; 752383, 3910975; 752404, 3910921; 752432, 3910878; 752442, 3910835; 752449, 3910777; 752433, 3910662; 752438, 3910601; 752450, 3910524; 752451, 3910454; 752446, 3910382; 752473, 3910305; 752532, 3910216; 752567, 3910145; 752573, 3910109; 752572, 3910080; 752539, 3909956; 752526, 3909867; 752527, 3909781; 752541, 3909702; 752560, 3909649; 752605, 3909602; 752790, 3909551; 752870, 3909499; 752937, 3909438; 752989, 3909405; 753037, 3909383; 753090, 3909375; 753131, 3909374; 753180, 3909384; 753206, 3909406; 753255, 3909454; 753299, 3909440; 753321, 3909439; 753407, 3909398; 753445, 3909369; 753470, 3909334; 753462, 3909311; 753435, 3909236; 753377, 3909112; 753346, 3909053; 753311, 3909007; 753069, 3908811; 752987, 3908795; 752884, 3908789; 752810, 3908758; 752761, 3908698; 752732, 3908645; 752659, 3908466; 752620, 3908393; 752572, 3908334; 752562, 3908291; 752588, 3908249; 752634, 3908160; 752675, 3908051; 752765, 3907735; 752782, 3907694; 752795, 3907680; 752823, 3907652; 752921, 3907655; 752979, 3907675; 753027, 3907701; 753101, 3907721; 753215, 3907714; 753320, 3907685; 753388, 3907691; 753450, 3907718; 753530, 3907732; 753620, 3907732; 753702, 3907727; 753773, 3907720; 753850, 3907706; 753920, 3907683; 754007, 3907580; 754044, 3907566; 754088, 3907565; 754164, 3907574; 754247, 3907555; 754434, 3907419; 754484, 3907365; 754492, 3907301; 754482, 3907238; 754482, 3907173; 754512, 3907092; 754569, 3907001; 754600, 3906908; 754615, 3906821; 754640, 3906749; 754670, 3906680; 754700, 3906630; 754725, 3906553; 754720, 3906477; 754711, 3906419; 754712, 3906374; 754701, 3906327; 754664, 3906285; 754632, 3906233; 754614, 3906193; 754618, 3906124; 754659, 3905984; 754667, 3905923; 754640, 3905826; 754635, 3905757; 754588, 3905557; 754594, 3905499; 754619, 3905438; 754620, 3905402; 754610, 3905350; 754585, 3905312; 754573, 3905271; 754549, 3905235; 754503, 3905242; 754465, 3905264; 754436, 3905271; 754412, 3905273; 754369, 3905270; 754226, 3905212; 754182, 3905177; 754158, 3905128; 754143, 3905057; 754133, 3904979; 754112, 3904920; 754079, 3904874; 754047, 3904844; 754015, 3904826; 753979, 3904798; 753954, 3904740; 753951, 3904697; 753956, 3904595; 753991, 3904522; 754019, 3904473; 754074, 3904400; 754093, 3904371; 754119, 3904319; 754077, 3904256; 754060, 3904215; 754051, 3904138; 754032, 3904091; 754007, 3904050; 753994, 3903997; 753995, 3903925; 754009, 3903858; 754035, 3903764; 754040, 3903708; 754031, 3903672; 753973, 3903588; 753956, 3903558; 753943, 3903500; 753909, 3903420; 753871, 3903284; 753857, 3903265; 753829, 3903239; 753821, 3903212; 753821, 3903171; 753836, 3903077; 753836, 3903029; 753826, 3902991; 753795, 3902947; 753763, 3902926; 753650, 3902872; 753600, 3902856; 753564, 3902833; 753536, 3902799; 753515, 3902744; 753502, 3902696; 753454, 3902617; 753435, 3902578; 753443, 3902543; 753506, 3902482; 753529, 3902435; 753528, 3902392; 753504, 3902362; 753471, 3902334; 753394, 3902280; 753368, 3902248; 753317, 3902154; 753283, 3902114; 753250, 3902082; 753203, 3902052; 753167, 3902044; 753108, 3902044; 753057, 3902009; 753017, 3901933; 752996, 3901873; 752983, 3901808; 752981, 3901741; 752968, 3901695; 752939, 3901650; 752924, 3901603; 752916, 3901539; 752920, 3901473; 752943, 3901406; 753012, 3901277; 753078, 3901197; 753148, 3901091; 753201, 3901053; 753280, 3901022; 753320, 3900993; 753360, 3900956; 753401, 3900906; 753429, 3900857; 753439, 3900816; 753444, 3900768; 753421, 3900721; 753400, 3900705; 753352, 3900652; 753309, 3900645; 753160, 3900670; 753099, 3900653; 753034, 3900625; 752954, 3900600; 752897, 3900587; 752857, 3900554; 752822, 3900504; 752797, 3900435; 752775, 3900352; 752736, 3900280; 752686, 3900236; 752632, 3900231; 752533, 3900243; 752480, 3900225; 752440, 3900170; 752409, 3900112; 752370, 3900056; 752337, 3900019; 752289, 3899982; 752240, 3899961; 752208, 3899942; 752205, 3899889; 752191, 3899775; 752182, 3899738; 752165, 3899703; 752151, 3899658; 752145, 3899616; 752132, 3899578; 752105, 3899557; 752084, 3899555; 752069, 3899553; 751966, 3899573; 751924, 3899589; 751881, 3899609; 751714, 3899700; 751610, 3899752; 751541, 3899758; 751477, 3899746; 751430, 3899733; 751389, 3899731; 751282, 3899745; 751189, 3899746; 751130, 3899720; 751065, 3899718; 751005, 3899741; 750964, 3899769; 750934, 3899819; 750915, 3899954; 750890, 3900024; 750882, 3900109; 750857, 3900160; 750803, 3900191; 750751, 3900211; 750711, 3900234; 750665, 3900271; 750636, 3900333; 750626, 3900350; 750593, 3900368; 750551, 3900373; 750503, 3900369; 750471, 3900376; 750443, 3900390; 750382, 3900434; 750366, 3900458; 750349, 3900500; 750282, 3900543; 750258, 3900601; 750224, 3900668; 750209, 3900688; 750188, 3900687; 750165, 3900701; 750142, 3900723; 750124, 3900728; 750087, 3900722; 750051, 3900707; 750000, 3900718; 749947, 3900745; 749902, 3900761; 749877, 3900774; 749810, 3900855; 749730, 3900997; 749707, 3901031; 749682, 3901061; 749572, 3901128; 749534, 3901137; 749382, 3901213; 749315, 3901271; 749260, 3901313; 749177, 3901338; 749147, 3901372; 749120, 3901425; 749083, 3901460; 749044, 3901488; 749006, 3901529; 748916, 3901635; 748884, 3901682; 748881, 3901717; 748906, 3901802; 748919, 3901868; 748920, 3901927; 748895, 3902063; 748877, 3902111; 748835, 3902149; 748791, 3902164; 748687, 3902166; 748535, 3902237; 748496, 3902252; 748448, 3902277; 748352, 3902353; 748298, 3902403; 748262, 3902448; 748229, 3902499; 748180, 3902541; 748146, 3902548; 748108, 3902533; 748012, 3902470; 747951, 3902442; 747898, 3902431; 747864, 3902438; 747768, 3902480; 747717, 3902498; 747663, 3902536; 747645, 3902559; 747641, 3902628; 747627, 3902669; 747594, 3902716; 747560, 3902751; 747516, 3902788; 747455, 3902824; 747356, 3902846; 747308, 3902868; 747205, 3902929; 747152, 3902956; 747099, 3902976; 747070, 3902986; 746964, 3902975; 746888, 3902954; 746838, 3902934; 746793, 3902922; 746746, 3902918; 746679, 3902928; 746640, 3902928; 746574, 3902921; 746520, 3902931; 746410, 3902963; 746251, 3903088; 746211, 3903130; 746164, 3903194; 746123, 3903259; 746081, 3903296; 746039, 3903312; 745991, 3903320; 745896, 3903308; 745833, 3903337; 745792, 3903347; 745752, 3903349; 745712, 3903361; 745622, 3903417; 745569, 3903443; 745511, 3903488; 745478, 3903523; 745442, 3903572; 745413, 3903584; 745347, 3903572; 745254, 3903533; 745219, 3903524; 745169, 3903525; 745107, 3903563; 745059, 3903615; 745015, 3903690; 744979, 3903744; 744933, 3903782; 744889, 3903802; 744861, 3903832; 744846, 3903871; 744822, 3903910; 744798, 3903936; 744784, 3903975; 744787, 3904032; 744795, 3904065; 744765, 3904168; 744747, 3904279; 744720, 3904350; 744656, 3904437; 744608, 3904534; 744497, 3904711; 744449, 3904751; 744414, 3904770; 744375, 3904777; 744320, 3904773; 744259, 3904762; 744142, 3904734; 744063, 3904723; 744007, 3904729; 743949, 3904741; 743893, 3904738; 743813, 3904745; 743745, 3904760; 743688, 3904760; 743624, 3904749; 743511, 3904720; 743457, 3904713; 743419, 3904715; 743365, 3904747; 743306, 3904791; 743243, 3904822; 743182, 3904841; 743081, 3904839; 743013, 3904854; 742926, 3904904; 742861, 3904915; 742803, 3904918; 742752, 3904911; 742676, 3904893; 742699, 3904918; 742710, 3904942; 742711, 3904973; 742686, 3905086; 742673, 3905196; 742657, 3905250; 742626, 3905286; 742596, 3905294; 742551, 3905276; 742512, 3905239; 742476, 3905218; 742409, 3905213; 742343, 3905238; 742292, 3905243; 742244, 3905233; 742182, 3905238; 742114, 3905274; 742070, 3905267; 742036, 3905252; 741988, 3905239; 741927, 3905245; 741878, 3905244; 741849, 3905256; 741829, 3905289; 741771, 3905416; 741738, 3905480; 741711, 3905511; 741655, 3905547; 741608, 3905563; 741579, 3905591; 741545, 3905635; 741497, 3905662; 741443, 3905668; 741392, 3905683; 741342, 3905708; 741283, 3905727; 741235, 3905718; 741179, 3905691; 741120, 3905669; 741080, 3905637; 741064, 3905602; 741056, 3905573; 741033, 3905536; 740989, 3905505; 740934, 3905508; 740897, 3905505; 740859, 3905479; 740833, 3905444; 740794, 3905414; 740744, 3905420; 740699, 3905438; 740573, 3905508; 740522, 3905531; 740427, 3905595; 740294, 3905673; 740174, 3905722; 740118, 3905737; 740071, 3905746; 739997, 3905754; 739917, 3905788; 739868, 3905804; 739810, 3905840; 739685, 3905901; 739653, 3905932; 739602, 3906049; 739569, 3906086; 739520, 3906103; 739474, 3906106; 739314, 3906091; 739255, 3906082; 739220, 3906050; 739169, 3906044; 739116, 3906056; 739077, 3906055; 739059, 3906050; 739019, 3906019; 738965, 3905991; 738826, 3906002; 738784, 3906000; 738746, 3905988; 738694, 3905964; 738682, 3905958; 738673, 3905949; 738650, 3905944; 738595, 3905952; 738462, 3906052; 738435, 3906063; 738407, 3906082; 738363, 3906104; 738306, 3906120; 738263, 3906128; 738205, 3906150; 738149, 3906179; 738033, 3906224; 737949, 3906270; 737921, 3906294; 737884, 3906338; 737822, 3906379; 737757, 3906404; 737683, 3906425; 737616, 3906449; 737556, 3906459; 737433, 3906498; 737383, 3906506; 737349, 3906507; 737295, 3906493; 737241, 3906485; 737187, 3906496; 737146, 3906499; 737050, 3906498; 737026, 3906506; 736986, 3906510; 736947, 3906502; 736802, 3906437; 736761, 3906413; 736698, 3906370; 736607, 3906298; 736569, 3906260; 736545, 3906220; 736525, 3906176; 736512, 3906125; 736491, 3906087; 736455, 3906063; 736406, 3906037; 736367, 3906001; 736326, 3905943; 736263, 3905828; 736238, 3905799; 736195, 3905762; 736141, 3905741; 736068, 3905736; 735997, 3905718; 735935, 3905675; 735882, 3905644; 735825, 3905619; 735767, 3905603; 735702, 3905595; 735653, 3905609; 735621, 3905641; 735598, 3905643; 735577, 3905618; 735549, 3905609; 735481, 3905597; 735433, 3905585; 735370, 3905578; 735310, 3905594; 735139, 3905579; 735055, 3905585; 734970, 3905595; 734922, 3905593; 734895, 3905576; 734807, 3905503; 734659, 3905354; 734601, 3905270; 734568, 3905209; 734532, 3905155; 734466, 3905067; 734433, 3905034; 734308, 3904983; 734268, 3904960; 734206, 3904913; 734196, 3904906; 734151, 3904893; 734095, 3904890; 733902, 3904938; 733829, 3904986; 733762, 3904995; 733726, 3904991; 733678, 3904993; 733644, 3905001; 733604, 3905013; 733568, 3905039; 733512, 3905069; 733384, 3905130; 733343, 3905169; 733378, 3905315; 733401, 3905374; 733435, 3905434; 733478, 3905494; 733526, 3905537; 733653, 3905618; 733716, 3905650; 733763, 3905679; 733801, 3905725; 733813, 3905774; 733793, 3905806; 733738, 3905831; 733685, 3905845; 733627, 3905853; 733594, 3905863; 733554, 3905901; 733542, 3905992; 733568, 3906045; 733649, 3906133; 733679, 3906178; 733698, 3906240; 733707, 3906287; 733737, 3906336; 733774, 3906383; 733823, 3906422; 733893, 3906452; 733967, 3906496; 734047, 3906572; 734097, 3906626; 734130, 3906652; 734154, 3906705; 734147, 3906749; 734090, 3906842; 734065, 3906902; 734054, 3906984; 734057, 3907080; 734071, 3907152; 734099, 3907206; 734192, 3907341; 734202, 3907391; 734204, 3907460; 734197, 3907507; 734205, 3907548; 734246, 3907614; 734288, 3907668; 734381, 3907716; 734549, 3907814; 734620, 3907865; 734690, 3907927; 734770, 3908026; 734933, 3908282; 734959, 3908358; 735031, 3908535; 735065, 3908670; 735086, 3908726; 735140, 3908806; 735158, 3908876; 735163, 3908934; 735187, 3908977; 735255, 3909034; 735423, 3909128; 735513, 3909188; 735579, 3909254; 735604, 3909306; 735642, 3909412; 735663, 3909461; 735733, 3909588; 735802, 3909739; 735841, 3909818; 735874, 3909846; 736009, 3909934; 736047, 3909991; 736085, 3910027; 736147, 3910057; 736180, 3910067; 736233, 3910096; 736259, 3910138; 736248, 3910221; 736296, 3910263; 736358, 3910276; 736401, 3910275; 736454, 3910235; 736533, 3910232; 736576, 3910253; 736687, 3910234; 736813, 3910294; 736865, 3910310; 736910, 3910305; 736967, 3910281; 737043, 3910247; 737076, 3910217; 737122, 3910218; 737142, 3910241; 737170, 3910485; 737221, 3910584; 737292, 3910642; 737390, 3910699; 737484, 3910776; 737512, 3910812; 737517, 3910799; 737538, 3910774; 737594, 3910729; 737665, 3910677; 737809, 3910554; 737867, 3910471; 737880, 3910367; 737842, 3910054; 737839, 3909987; 737864, 3909806; 737860, 3909731; 737833, 3909659; 737793, 3909596; 737718, 3909518; 737696, 3909477; 737680, 3909423; 737640, 3909341; 737589, 3909281; 737521, 3909176; 737357, 3909002; 737300, 3908933; 737295, 3908919; 737303, 3908909; 737336, 3908903; 737373, 3908891; 737424, 3908859; 737451, 3908837; 737476, 3908807; 737487, 3908803; 737562, 3908804; 737681, 3908797; 737814, 3908789; 738037, 3908768; 738113, 3908799; 738149, 3908847; 738206, 3908907; 738236, 3908932; 738269, 3908949; 738330, 3908961; 738389, 3908985; 738437, 3909026; 738502, 3909095; 738534, 3909120; 738567, 3909126; 738597, 3909125; 738650, 3909112; 738687, 3909099; 738706, 3909077; 738724, 3909015; 738768, 3908903; 738779, 3908887; 738802, 3908864; 738886, 3908856; 738917, 3908847; 738950, 3908831; 739032, 3908800; 739136, 3908784; 739179, 3908753; 739224, 3908711; 739303, 3908616; 739343, 3908610; 739463, 3908625; 739501, 3908636; 739597, 3908667; 739668, 3908710; 739781, 3908765; 739820, 3908802; 739826, 3908843; 739812, 3908974; 739815, 3909006; 739831, 3909034; 739875, 3909057; 739980, 3909071; 740090, 3909098; 740192, 3909165; 740220, 3909196; 740226, 3909229; 740228, 3909271; 740225, 3909328; 740236, 3909371; 740264, 3909401; 740327, 3909442; 740424, 3909492; 740464, 3909487; 740523, 3909462; 740561, 3909461; 740620, 3909471; 740682, 3909500; 740740, 3909546; 740782, 3909587; 740795, 3909637; 740797, 3909695; 740808, 3909756; 740811, 3909837; 740811, 3909852; 740844, 3909855; 740883, 3909850; 740928, 3909862; 740962, 3909886; 741024, 3909966; 741063, 3909995; 741127, 3910029; 741164, 3910063; 741190, 3910104; 741224, 3910131; 741281, 3910150; 741312, 3910192; 741329, 3910257; 741351, 3910302; 741373, 3910332; 741407, 3910358; 741453, 3910366; 741567, 3910363; 741625, 3910354; 741670, 3910357; 741719, 3910371; 741776, 3910397; 741813, 3910408; 741911, 3910427; 741959, 3910441; 742175, 3910446; 742199, 3910443; 742252, 3910428; 742306, 3910395; 742342, 3910355; 742377, 3910329; 742444, 3910300; 742490, 3910289; 742528, 3910268; 742613, 3910177; 742672, 3910122; 742732, 3910097; 742793, 3910060; 742859, 3910036; 742886, 3910019; 742896, 3909995; 742970, 3910001; 743009, 3910025; 743092, 3910090; 743115, 3910119; 743134, 3910162; 743153, 3910228; 743181, 3910263; 743263, 3910317; 743318, 3910376; 743350, 3910441; 743374, 3910507; 743394, 3910551; 743426, 3910575; 743649, 3910668; 743760, 3910738; 743835, 3910776; 743891, 3910791; 743969, 3910798; 744032, 3910815; 744051, 3910837; 744050, 3910885; 744045, 3910934; 744034, 3910978; 744011, 3911023; 744009, 3911070; 744045, 3911144; 744070, 3911249; 744090, 3911258; 744131, 3911268; 744140, 3911278; 744166, 3911293; 744192, 3911283; 744216, 3911264; 744245, 3911252; 744345, 3911264; 744375, 3911279; 744407, 3911307; 744507, 3911289; 744557, 3911264; 744587, 3911245; 744608, 3911247; 744642, 3911268; 744661, 3911294; 744689, 3911315; 744745, 3911302; 744821, 3911272; 744879, 3911251; 744954, 3911234; 745025, 3911244; 745095, 3911242; 745129, 3911216; 745158, 3911200; 745181, 3911213; 745205, 3911236; 745231, 3911254; 745253, 3911275; 745284, 3911320; 745291, 3911365; 745267, 3911467; 745273, 3911537; 745306, 3911578; 745325, 3911598; 745384, 3911640; 745449, 3911665; 745551, 3911746; 745596, 3911776; 745626, 3911806; 745675, 3911838; 745708, 3911877; 745759, 3911906; 745827, 3911923; 745889, 3911958; 745942, 3912014; 746028, 3912124; 746100, 3912238; 746141, 3912323; 746184, 3912386; 746224, 3912415; 746268, 3912428; 746363, 3912491; 746426, 3912519; 746481, 3912540; 746517, 3912549; 746552, 3912551; 746590, 3912539; 746631, 3912516; 746689, 3912503; 746747, 3912476; 746791, 3912454; 746820, 3912424; 746855, 3912400; 746944, 3912365; 747016, 3912347; 747081, 3912337; 747137, 3912331; 747185, 3912330; 747258, 3912346; 747337, 3912369; 747421, 3912421; 747507, 3912479; 747569, 3912506; 747613, 3912532; 747686, 3912607; 747712, 3912640; 747773, 3912680; 747834, 3912716; 747890, 3912758; 747938, 3912806; 748104, 3913019; 748162, 3913045; 748326, 3913061; 748410, 3913078; 748497, 3913083; 748571, 3913079; 748671, 3913080; 748842, 3913107; 748875, 3913124; 748921, 3913126; 748964, 3913154; 748992, 3913191; 749054, 3913286; 749120, 3913374; 749162, 3913394; 749209, 3913387; 749336, 3913362; 749384, 3913368; 749435, 3913387; 749471, 3913395; 749506, 3913438; 749556, 3913520; 749578, 3913563; 749607, 3913604; 749649, 3913628; 749680, 3913634; 749718, 3913621; 749746, 3913609; 749850, 3913572; returning to 749907, 3913538.

(ii) Note: Unit SLO-4 for California red-legged frog is depicted on the map in paragraph (42)(ii) of this entry.

(45) Unit STB-2: Santa Barbara County, California. From USGS 1:24,000 scale quadrangles Guadalupe, Casmalia, Surf, Santa Maria and Orcutt.

(i) Land bounded by the following UTM zone 10, NAD 1983 coordinates (E, N): 727754, 3862948; 727969, 3862805; 728111, 3862721; 728239, 3862669; 728294, 3862654; 728751, 3862321; 728781, 3862308; 728819, 3862272; 728870, 3862245; 729005, 3862200; 729012, 3862198; 729234, 3862071; 729404, 3862017; 729132, 3861318; 730520, 3860854; 730596, 3861591; 730596, 3861595; 730699, 3861558; 731304, 3861313; 731467, 3861260; 731659, 3861185; 731895, 3861083; 732097, 3860989; 732221, 3860925; 732166, 3860903; 732254, 3860823; 732289, 3860843; 732494, 3860743; 732565, 3860659; 732618, 3860544; 732636, 3860398; 732653, 3860259; 732651, 3860145; 732777, 3859761; 732883, 3859161; 733046, 3858083; 733169, 3856993; 733124, 3857022; 733069, 3857088; 732958, 3857283; 732897, 3857362; 732849, 3857411; 732777, 3857459; 732719, 3857464; 732654, 3857462; 732591, 3857466; 732360, 3857533; 732186, 3857578; 732117, 3857632; 732036, 3857709; 731958, 3857796; 731886, 3857860; 731830, 3857930; 731770, 3858036; 731703, 3858136; 731642, 3858239; 731589, 3858312; 731515, 3858402; 731453, 3858485; 731190, 3858896; 731144, 3858960; 731031, 3859061; 730992, 3859104; 730943, 3859166; 730906, 3859203; 730876, 3859226; 730835, 3859211; 730793, 3859172; 730729, 3859126; 730556, 3859033; 730562, 3858941; 730572, 3858841; 730581, 3858774; 730594, 3858725; 730613, 3858694; 730667, 3858653; 730707, 3858628; 730754, 3858570; 730759, 3858491; 730770, 3858404; 730792, 3858322; 730861, 3858147; 730877, 3858043; 730876, 3857961; 730893, 3857886; 730916, 3857836; 730938, 3857800; 730944, 3857692; 730985, 3857610; 731044, 3857527; 731093, 3857479; 731168, 3857431; 731221, 3857368; 731264, 3857288; 731268, 3857183; 731237, 3857088; 731149, 3856958; 731100, 3856922; 731016, 3856912; 730901, 3856943; 730816, 3856974; 730743, 3857005; 730675, 3857015; 730611, 3857048; 730532, 3857094; 730389, 3857129; 730346, 3857144; 730258, 3857234; 730194, 3857340; 730135, 3857420; 730051, 3857453; 729967, 3857473; 729882, 3857458; 729819, 3857459; 729751, 3857487; 729578, 3857568; 729502, 3857640; 729443, 3857667; 729376, 3857635; 729348, 3857611; 729296, 3857555; 729263, 3857453; 729247, 3857354; 729253, 3857234; 729248, 3857114; 729213, 3857044; 729188, 3856981; 729174, 3856856; 729141, 3856851; 729098, 3856838; 729037, 3856840; 728936, 3856837; 728893, 3856830; 728863, 3856806; 728836, 3856768; 728803, 3856670; 728780, 3856635; 728751, 3856609; 728727, 3856595; 728705, 3856588; 728648, 3856582; 728561, 3856579; 728501, 3856557; 728380, 3856462; 728343, 3856443; 728283, 3856444; 728168, 3856502; 728064, 3856542; 727984, 3856530; 727899, 3856472; 727779, 3856420; 727659, 3856419; 727530, 3856446; 727417, 3856451; 727257, 3856438; 727160, 3856405; 726894, 3856248; 726731, 3856145; 726623, 3856065; 726560, 3856012; 726512, 3855967; 726474, 3855940; 726510, 3855877; 726613, 3855660; 726642, 3855527; 726656, 3855351; 726643, 3855237; 726630, 3855048; 726628, 3854996; 726635, 3854926; 726620, 3854849; 726632, 3854667; 726682, 3854484; 726698, 3854442; 726712, 3854375; 726796, 3854045; 726852, 3853917; 726947, 3853792; 727022, 3853705; 727098, 3853637; 727148, 3853578; 727192, 3853501; 727243, 3853349; 727290, 3853158; 727309, 3853006; 727317, 3852821; 727297, 3852471; 727280, 3852325; 727271, 3852162; 727280, 3851974; 727315, 3851779; 727374, 3851551; 727401, 3851462; 727447, 3851352; 727509, 3851215; 727548, 3851105; 727566, 3851021; 727568, 3850899; 727545, 3850789; 727534, 3850673; 727535, 3850561; 727553, 3850426; 727591, 3850319; 727639, 3850225; 727713, 3850172; 727821, 3850173; 727925, 3850192; 728023, 3850218; 728129, 3850265; 728200, 3850309; 728241, 3850338; 728279, 3850372; 728360, 3850406; 728486, 3850397; 728597, 3850341; 728695, 3850275; 728706, 3850261; 728833, 3850171; 728951, 3850143; 729096, 3850133; 729166, 3850121; 729173, 3850114; 729113, 3850110; 729046, 3850087; 729001, 3850063; 728978, 3850044; 728921, 3849983; 728893, 3849938; 728836, 3849789; 728808, 3849734; 728763, 3849577; 728747, 3849539; 728717, 3849489; 728716, 3849452; 728697, 3849388; 728679, 3849254; 728680, 3849057; 728537, 3849321; 728108, 3849303; 727804, 3848874; 726892, 3848982; 726516, 3849089; 726158, 3849429; 725997, 3849500; 725801, 3849625; 725658, 3849572; 725336, 3849518; 724925, 3849661; 724567, 3849232; 724030, 3847354; 723762, 3846460; 722940, 3847068; 722475, 3847265; 721974, 3847515; 721599, 3848034; 721259, 3848642; 721098, 3849071; 720830, 3849393; 720311, 3850108; 719041, 3850198; 718684, 3850251; 718183, 3850698; 718004, 3851002; 717414, 3851342; 717117, 3851527; 717117, 3851527; 717136, 3851562; 717147, 3851588; 717155, 3851650; 717168, 3851700; 717180, 3851730; 717197, 3851788; 717215, 3851825; 717227, 3851866; 717242, 3851941; 717244, 3852013; 717248, 3852032; 717267, 3852088; 717282, 3852119; 717293, 3852155; 717364, 3852332; 717382, 3852402; 717394, 3852424; 717416, 3852510; 717438, 3852580; 717438, 3852598; 717429, 3852643; 717433, 3852682; 717448, 3852727; 717466, 3852751; 717474, 3852779; 717493, 3852935; 717491, 3852973; 717503, 3853010; 717510, 3853050; 717538, 3853137; 717562, 3853289; 717595, 3853420; 717622, 3853541; 717634, 3853561; 717639, 3853588; 717665, 3853670; 717711, 3853854; 717727, 3853964; 717744, 3854009; 717760, 3854087; 717763, 3854135; 717779, 3854223; 717783, 3854287; 717802, 3854370; 717826, 3854445; 717843, 3854573; 717851, 3854616; 717909, 3854805; 717917, 3854885; 717939, 3854952; 717948, 3854986; 717976, 3855138; 717982, 3855209; 718008, 3855335; 718011, 3855396; 718027, 3855457; 718047, 3855520; 718045, 3855586; 718052, 3855626; 718090, 3855749; 718118, 3855827; 718126, 3855884; 718125, 3855927; 718141, 3856005; 718155, 3856050; 718159, 3856092; 718168, 3856134; 718174, 3856217; 718193, 3856367; 718229, 3856518; 718228, 3856555; 718243, 3856606; 718245, 3856639; 718264, 3856678; 718277, 3856726; 718283, 3856794; 718310, 3857018; 718351, 3857184; 718382, 3857281; 718376, 3857325; 718388, 3857368; 718394, 3857410; 718414, 3857495; 718420, 3857535; 718426, 3857660; 718444, 3857728; 718457, 3857764; 718465, 3857810; 718476, 3857835; 718481, 3857870; 718489, 3858015; 718496, 3858057; 718499, 3858101; 718510, 3858146; 718516, 3858201; 718518, 3858253; 718530, 3858343; 718530, 3858380; 718521, 3858461; 718526, 3858504; 718536, 3858564; 718531, 3858593; 718522, 3858615; 718525, 3858716; 718536, 3858849; 718519, 3859022; 718522, 3859192; 718521, 3859347; 718513, 3859475; 718506, 3859505; 718504, 3859595; 718487, 3859659; 718478, 3859722; 718457, 3859799; 718454, 3859871; 718443, 3859942; 718427, 3859964; 718407, 3859982; 718383, 3859988; 718362, 3859989; 718340, 3860010; 718359, 3860024; 718365, 3860035; 718368, 3860051; 718351, 3860119; 718352, 3860120; 718380, 3860140; 718559, 3860176; 718845, 3860194; 719131, 3860265; 719274, 3860372; 719864, 3861195; 720347, 3861874; 720937, 3862161; 721420, 3862089; 721742, 3861874; 722117, 3861535; 722510, 3861123; 722973, 3861090; 723011, 3861088; 723101, 3861141; 723387, 3861266; 723583, 3861535; 723619, 3861713; 723619, 3862035; 723780, 3862429; 724174, 3862876; 724227, 3862929; 724352, 3863055; 724444, 3863044; 724504, 3862997; 724541, 3862994; 724566, 3863006; 724593, 3863032; 724728, 3863019; 724960, 3862894; 725461, 3862876; 725854, 3863144; 726659, 3863663; 727070, 3863359; 727589, 3863037; 727726, 3862968; returning to 727754, 3862948.

(ii) Note: Map of Units STB-2, STB-4 and STB-5 for the California red-legged frog follows:

BILLING CODE 4310-55-P

BILLING CODE 4310-55-C

(46) Unit STB-4: Santa Barbara County, California. From USGS 1:24,000 scale quadrangles Tranquillon Mountain. and Lompoc Hills.

(i) Land bounded by the following UTM zone 10, NAD 1983 coordinates (E, N): 731548, 3828414; 731631, 3828340; 731725, 3828302; 731818, 3828284; 731970, 3828271; 732061, 3828237; 732151, 3828210; 732411, 3828217; 732482, 3828211; 732577, 3828173; 732753, 3828066; 732831, 3828031; 732925, 3827998; 732988, 3827969; 733060, 3827929; 733104, 3827883; 733144, 3827820; 733182, 3827777; 733281, 3827712; 733316, 3827677; 733338, 3827632; 733373, 3827572; 733460, 3827544; 733590, 3827560; 733679, 3827587; 733733, 3827609; 733774, 3827615; 733813, 3827600; 733880, 3827547; 733955, 3827496; 734142, 3827411; 734240, 3827371; 734329, 3827341; 734401, 3827309; 734461, 3827273; 734488, 3827244; 734507, 3827177; 734511, 3827084; 734524, 3827005; 734567, 3826941; 734659, 3826858; 734725, 3826825; 734755, 3826822; 734799, 3826810; 734838, 3826787; 734874, 3826750; 734904, 3826681; 734936, 3826576; 734963, 3826511; 734997, 3826441; 735013, 3826386; 735031, 3826308; 735035, 3826244; 735049, 3826177; 735077, 3826100; 735094, 3826035; 735100, 3825867; 735126, 3825805; 735166, 3825748; 735230, 3825699; 735276, 3825653; 735323, 3825580; 735374, 3825521; 735470, 3825486; 735581, 3825437; 735659, 3825398; 735728, 3825374; 735773, 3825355; 735839, 3825334; 735892, 3825308; 735950, 3825253; 736011, 3825180; 736056, 3825108; 736067, 3825041; 736068, 3824966; 736047, 3824895; 736007, 3824849; 735946, 3824795; 735860, 3824725; 735748, 3824677; 735579, 3824624; 735520, 3824562; 735490, 3824485; 735470, 3824349; 735467, 3824220; 735423, 3824057; 735383, 3823999; 735307, 3823965; 735198, 3823985; 735083, 3824069; 735011, 3824092; 734952, 3824057; 734911, 3823997; 734873, 3823877; 734837, 3823821; 734757, 3823788; 734439, 3823681; 734370, 3823633; 734340, 3823582; 734339, 3823439; 734322, 3823311; 734288, 3823155; 734241, 3823031; 734162, 3822886; 734038, 3822733; 733960, 3822628; 733908, 3822522; 733859, 3822409; 733804, 3822337; 733764, 3822290; 733700, 3822229; 733610, 3822158; 733592, 3822135; 733620, 3822078; 733622, 3821974; 733633, 3821873; 733672, 3821769; 733760, 3821640; 733809, 3821601; 733983, 3821490; 734059, 3821447; 734138, 3821389; 734241, 3821294; 734300, 3821224; 734349, 3821148; 734388, 3821045; 734413, 3820953; 734434, 3820848; 734439, 3820745; 734423, 3820661; 734395, 3820592; 734325, 3820574; 734149, 3820615; 734055, 3820617; 733815, 3820591; 733705, 3820588; 733584, 3820587; 733409, 3820591; 733328, 3820601; 733201, 3820643; 733075, 3820689; 732981, 3820758; 732779, 3820930; 732703, 3821014; 732606, 3821109; 732500, 3821165; 732200, 3821183; 732051, 3821221; 731910, 3821231; 731773, 3821215; 731671, 3821197; 731567, 3821184; 731427, 3821206; 731306, 3821218; 731053, 3821259; 730929, 3821244; 730834, 3821228; 730762, 3821261; 730655, 3821331; 730572, 3821371; 730442, 3821394; 730298, 3821394; 730148, 3821386; 730039, 3821421; 729978, 3821470; 729938, 3821539; 729891, 3821611; 729841, 3821675; 729724, 3821725; 729584, 3821732; 729535, 3821739; 729488, 3821739; 729398, 3821715; 729370, 3821711; 729344, 3821701; 729316, 3821686; 729276, 3821629; 729275, 3821645; 729281, 3821668; 729288, 3821676; 729280, 3821721; 729289, 3821755; 729285, 3821761; 729275, 3821762; 729263, 3821755; 729254, 3821744; 729247, 3821728; 729248, 3821682; 729150, 3821794; 729122, 3821837; 729083, 3821887; 729054, 3821935; 729001, 3822054; 728966, 3822164; 728935, 3822213; 728890, 3822254; 728823, 3822356; 728751, 3822455; 728708, 3822538; 728678, 3822580; 728598, 3822667; 728636, 3822701; 728692, 3822734; 728739, 3822770; 728914, 3822887; 729126, 3823023; 729163, 3823067; 729307, 3823192; 729359, 3823252; 729393, 3823307; 729428, 3823330; 729540, 3823417; 729611, 3823460; 729689, 3823514; 729775, 3823614; 729864, 3823727; 729986, 3823859; 730079, 3823967; 730189, 3824117; 730325, 3824258; 730482, 3824376; 730656, 3824525; 730715, 3824569; 730770, 3824723; 730794, 3824914; 730779, 3825134; 730795, 3825226; 730830, 3825306; 730844, 3825381; 730840, 3825483; 730814, 3825588; 730783, 3825669; 730736, 3825725; 730674, 3825779; 730616, 3825809; 730522, 3825823; 730464, 3825847; 730357, 3825916; 730283, 3825952; 730219, 3826012; 730157, 3826053; 729956, 3826140; 729839, 3826171; 729789, 3826181; 729715, 3826187; 729664, 3826177; 729598, 3826175; 729545, 3826196; 729514, 3826233; 729485, 3826260; 729451, 3826308; 729421, 3826334; 729373, 3826364; 729282, 3826432; 729188, 3826525; 729165, 3826598; 729180, 3826654; 729211, 3826725; 729216, 3826827; 729225, 3826903; 729233, 3826936; 729259, 3826975; 729277, 3826991; 729288, 3827064; 729299, 3827090; 729331, 3827125; 729424, 3827244; 729473, 3827299; 729519, 3827339; 729557, 3827377; 729552, 3827438; 729520, 3827481; 729475, 3827497; 729414, 3827528; 729366, 3827576; 729311, 3827671; 729277, 3827710; 729251, 3827712; 729217, 3827700; 729165, 3827705; 729115, 3827740; 729083, 3827786; 729069, 3827841; 729064, 3827885; 729102, 3827905; 729135, 3827930; 729167, 3827968; 729244, 3828071; 729256, 3828084; 729386, 3828164; 729443, 3828188; 729518, 3828204; 729585, 3828203; 729668, 3828194; 729771, 3828199; 729868, 3828230; 729916, 3828251; 729967, 3828263; 730048, 3828268; 730093, 3828281; 730133, 3828335; 730162, 3828390; 730232, 3828426; 730319, 3828420; 730640, 3828369; 730754, 3828356; 730845, 3828360; 730910, 3828407; 730961, 3828526; 730978, 3828604; 731006, 3828783; 731025, 3828817; 731042, 3828827; 731096, 3828820; 731149, 3828804; 731183, 3828800; 731218, 3828769; 731258, 3828725; 731399, 3828562; returning to 731548, 3828414.

(ii) Note: Unit STB-4 for California red-legged frog is depicted on the map in paragraph (45)(ii) of this entry.

(47) Unit STB-5: Santa Barbara County, California. From USGS 1:24,000 scale quadrangles Santa Rosa Hills, Solvang and Gaviota.

(i) Land bounded by the following UTM zone 10, NAD 1983 coordinates (E, N): 754082, 3828621; 754118, 3828615; 754173, 3828633; 754220, 3828624; 754272, 3828592; 754314, 3828559; 754353, 3828538; 754484, 3828518; 754530, 3828525; 754594, 3828524; 754651, 3828519; 754785, 3828523; 754931, 3828518; 754993, 3828513; 755077, 3828500; 755167, 3828497; 755206, 3828493; 755239, 3828478; 755300, 3828431; 755354, 3828343; 755414, 3828288; 755514, 3828237; 755575, 3828212; 755697, 3828189; 755742, 3828169; 755779, 3828121; 755795, 3828053; 755823, 3827856; 755872, 3827690; 755879, 3827637; 755871, 3827582; 755856, 3827548; 755833, 3827517; 755821, 3827482; 755964, 3827406; 756196, 3827234; 756251, 3827151; 756293, 3827116; 756352, 3827096; 756432, 3827081; 756511, 3827052; 756572, 3827024; 756595, 3827008; 756607, 3826989; 756593, 3826908; 756601, 3826836; 756642, 3826704; 756664, 3826658; 756695, 3826612; 756716, 3826559; 756734, 3826502; 756743, 3826460; 756728, 3826416; 756673, 3826343; 756612, 3826255; 756595, 3826204; 756591, 3826150; 756657, 3826032; 756675, 3825969; 756682, 3825835; 756701, 3825778; 756736, 3825736; 756792, 3825702; 756846, 3825651; 756876, 3825582; 756865, 3825496; 756836, 3825427; 756812, 3825346; 756798, 3825268; 756775, 3825217; 756738, 3825157; 756716, 3825102; 756705, 3824964; 756691, 3824887; 756670, 3824819; 756638, 3824748; 756583, 3824656; 756610, 3824645; 756698, 3824674; 756802, 3824697; 756889, 3824704; 756924, 3824697; 756944, 3824678; 756984, 3824632; 757059, 3824498; 757105, 3824442; 757173, 3824401; 757246, 3824379; 757320, 3824330; 757409, 3824289; 757484, 3824269; 757560, 3824260; 757646, 3824240; 757707, 3824213; 757802, 3824191; 757982, 3824075; 758062, 3824046; 758124, 3824052; 758249, 3824092; 758314, 3824108; 758418, 3824147; 758483, 3824146; 758654, 3824109; 758850, 3824093; 758956, 3824097; 759051, 3824062; 759185, 3823989; 759249, 3823946; 759313, 3823888; 759356, 3823826; 759386, 3823760; 759454, 3823577; 759476, 3823527; 759504, 3823482; 759539, 3823435; 759563, 3823388; 759569, 3823334; 759549, 3823205; 759548, 3823115; 759560, 3822980; 759577, 3822909; 759608, 3822862; 759702, 3822762; 759734, 3822723; 759768, 3822693; 759786, 3822680; 759770, 3822666; 759723, 3822603; 759662, 3822500; 759614, 3822411; 759559, 3822335; 759491, 3822264; 759416, 3822231; 759241, 3822192; 759119, 3822133; 759019, 3822099; 758838, 3822045; 758745, 3822025; 758632, 3822012; 758504, 3822005; 758378, 3821985; 758273, 3821957; 758063, 3821887; 757982, 3821846; 757890, 3821808; 757717, 3821772; 757632, 3821751; 757478, 3821685; 757411, 3821638; 757347, 3821574; 757296, 3821514; 757240, 3821447; 757147, 3821324; 757090, 3821271; 757041, 3821249; 756993, 3821240; 756937, 3821233; 756866, 3821231; 756817, 3821205; 756801, 3821170; 756798, 3821138; 756810, 3821084; 756808, 3821052; 756780, 3821028; 756739, 3820984; 756708, 3820944; 756686, 3820890; 756686, 3820847; 756722, 3820735; 756728, 3820682; 756716, 3820604; 756691, 3820549; 756682, 3820508; 756657, 3820451; 756595, 3820350; 756510, 3820230; 756428, 3820163; 756394, 3820122; 756369, 3820116; 756331, 3820122; 756251, 3820142; 756216, 3820140; 756183, 3820109; 756146, 3820057; 755960, 3819953; 755931, 3819925; 755920, 3819839; 755906, 3819802; 755807, 3819648; 755758, 3819606; 755680, 3819578; 755619, 3819539; 755491, 3819406; 755361, 3819294; 755309, 3819235; 755267, 3819219; 755213, 3819209; 755176, 3819185; 755145, 3819127; 755130, 3819055; 755128, 3819000; 755084, 3818876; 755095, 3818808; 755118, 3818721; 755131, 3818630; 755126, 3818560; 755034, 3818437; 754978, 3818336; 754896, 3818107; 754873, 3818051; 754815, 3817931; 754786, 3817886; 754756, 3817858; 754712, 3817826; 754608, 3817875; 754545, 3817914; 754493, 3817957; 754396, 3818054; 754353, 3818081; 754317, 3818093; 754229, 3818143; 754144, 3818177; 753944, 3818236; 753795, 3818299; 753758, 3818333; 753721, 3818382; 753669, 3818441; 753651, 3818471; 753620, 3818490; 753591, 3818499; 753539, 3818527; 753474, 3818553; 753351, 3818570; 753265, 3818593; 753200, 3818625; 753158, 3818667; 753150, 3818721; 753147, 3818770; 753135, 3818806; 753113, 3818848; 753064, 3818997; 753015, 3819109; 753013, 3819157; 753035, 3819193; 753061, 3819257; 753069, 3819305; 753096, 3819346; 753142, 3819383; 753191, 3819415; 753255, 3819449; 753342, 3819518; 753377, 3819564; 753385, 3819620; 753370, 3819674; 753341, 3819734; 753304, 3819778; 753222, 3819850; 753176, 3819898; 753170, 3819941; 753175, 3819997; 753190, 3820056; 753215, 3820106; 753236, 3820136; 753228, 3820151; 753174, 3820178; 753131, 3820213; 753042, 3820304; 752987, 3820348; 752979, 3820397; 752999, 3820435; 753010, 3820486; 752996, 3820536; 752975, 3820584; 752957, 3820648; 752955, 3820691; 752961, 3820749; 753013, 3820849; 753049, 3820948; 753074, 3820999; 753111, 3821058; 753130, 3821082; 753160, 3821141; 753184, 3821200; 753220, 3821252; 753249, 3821315; 753329, 3821454; 753393, 3821515; 753485, 3821558; 753567, 3821609; 753614, 3821664; 753610, 3821703; 753589, 3821730; 753551, 3821763; 753478, 3821799; 753414, 3821810; 753341, 3821827; 753304, 3821865; 753285, 3821924; 753263, 3821975; 753219, 3822054; 753191, 3822091; 753146, 3822124; 753039, 3822189; 752961, 3822212; 752904, 3822213; 752836, 3822206; 752752, 3822190; 752675, 3822165; 752604, 3822156; 752546, 3822165; 752457, 3822164; 752416, 3822171; 752336, 3822171; 752269, 3822198; 752121, 3822276; 752044, 3822295; 751885, 3822284; 751841, 3822309; 751808, 3822354; 751740, 3822395; 751659, 3822421; 751571, 3822432; 751465, 3822435; 751345, 3822432; 751259, 3822422; 751191, 3822409; 751109, 3822387; 750965, 3822371; 750881, 3822355; 750711, 3822281; 750560, 3822292; 750454, 3822312; 750371, 3822319; 750315, 3822333; 750278, 3822344; 750250, 3822356; 750231, 3822360; 750225, 3822383; 750212, 3822413; 750179, 3822461; 750132, 3822522; 750078, 3822570; 750032, 3822621; 750007, 3822667; 750010, 3822725; 750027, 3822775; 750066, 3822856; 750093, 3822890; 750152, 3822912; 750213, 3822944; 750239, 3822986; 750268, 3823084; 750312, 3823089; 750434, 3823080; 750485, 3823086; 750577, 3823091; 750652, 3823110; 750690, 3823155; 750716, 3823220; 750714, 3823288; 750690, 3823335; 750608, 3823419; 750501, 3823518; 750439, 3823592; 750348, 3823715; 750335, 3823770; 750371, 3823840; 750426, 3823901; 750456, 3823947; 750458, 3824011; 750467, 3824102; 750488, 3824163; 750536, 3824219; 750596, 3824256; 750717, 3824252; 750780, 3824259; 750804, 3824283; 750820, 3824317; 750839, 3824376; 750844, 3824468; 750834, 3824582; 750806, 3824706; 750807, 3824796; 750826, 3824870; 750857, 3824955; 750913, 3825079; 750944, 3825166; 750948, 3825215; 750944, 3825300; 750926, 3825433; 750875, 3825585; 750867, 3825644; 750875, 3825695; 750896, 3825759; 750921, 3825810; 750964, 3825912; 750975, 3825968; 750978, 3826048; 750994, 3826175; 751023, 3826238; 751031, 3826304; 751047, 3826363; 751078, 3826424; 751111, 3826462; 751147, 3826518; 751162, 3826568; 751161, 3826631; 751167, 3826702; 751194, 3826784; 751222, 3826843; 751257, 3826992; 751298, 3827055; 751357, 3827114; 751377, 3827152; 751406, 3827294; 751444, 3827363; 751480, 3827388; 751566, 3827409; 751732, 3827410; 751815, 3827425; 751922, 3827466; 752065, 3827481; 752145, 3827504; 752206, 3827500; 752251, 3827481; 752438, 3827464; 752473, 3827456; 752493, 3827446; 752505, 3827471; 752553, 3827613; 752582, 3827645; 752627, 3827679; 752676, 3827740; 752750, 3827870; 752768, 3827890; 752799, 3827907; 752841, 3827943; 752869, 3827994; 752992, 3828140; 753043, 3828218; 753111, 3828351; 753129, 3828410; 753139, 3828454; 753153, 3828494; 753196, 3828533; 753238, 3828558; 753276, 3828572; 753344, 3828583; 753438, 3828636; 753511, 3828663; 753588, 3828705; 753656, 3828716; 753718, 3828722; 753846, 3828746; 753902, 3828744; 753944, 3828711; 753974, 3828673; 754008, 3828652; returning to 754082, 3828621.

(ii) Note: Unit STB-5 for California red-legged frog is depicted on the map in paragraph (45)(ii) of this entry.

(48) Unit STB-1: Santa Barbara County, California. From USGS 1:24,000 scale quadrangles Tepusquet Canyon, Foxen Canyon, Manzanita Mountain and Zaca Lake.

(i) Land bounded by the following UTM zone 10, NAD 1983 coordinates (E, N): 760562, 3876097; 760672, 3876042; 760732, 3876046; 760958, 3876093; 761005, 3876093; 761065, 3876061; 761121, 3876024; 761287, 3875929; 761374, 3875918; 761428, 3875907; 761484, 3875882; 761612, 3875809; 761676, 3875762; 761783, 3875634; 761834, 3875595; 761915, 3875540; 761948, 3875494; 761987, 3875390; 762011, 3875342; 762040, 3875323; 762129, 3875309; 762187, 3875292; 762248, 3875260; 762302, 3875217; 762326, 3875187; 762339, 3875178; 762395, 3875163; 762422, 3875139; 762448, 3875099; 762484, 3875033; 762518, 3874997; 762585, 3874946; 762670, 3874870; 762715, 3874853; 762778, 3874840; 762885, 3874807; 763079, 3874758; 763098, 3874824; 763121, 3874875; 763145, 3874919; 763191, 3874968; 763219, 3874988; 763269, 3875006; 763311, 3875038; 763330, 3875069; 763359, 3875103; 763377, 3875138; 763397, 3875213; 763422, 3875236; 763459, 3875242; 763490, 3875256; 763558, 3875303; 763680, 3875366; 763752, 3875412; 763812, 3875437; 763865, 3875430; 763998, 3875386; 764027, 3875382; 764091, 3875360; 764181, 3875309; 764246, 3875299; 764307, 3875318; 764363, 3875306; 764423, 3875279; 764567, 3875164; 764635, 3875100; 764684, 3875040; 764725, 3875017; 764762, 3875023; 764788, 3875069; 764810, 3875120; 764832, 3875188; 764833, 3875331; 764845, 3875462; 764856, 3875531; 764884, 3875608; 764895, 3875633; 765728, 3875247; 766130, 3874926; 766773, 3874765; 767375, 3874303; 767354, 3874297; 767317, 3874268; 767239, 3874171; 767198, 3874124; 767147, 3874084; 767009, 3874063; 766889, 3873933; 766820, 3873884; 766725, 3873823; 766692, 3873794; 766678, 3873654; 766680, 3873615; 766796, 3873438; 766866, 3873352; 766870, 3873295; 766862, 3873237; 766878, 3873053; 766894, 3872987; 766910, 3872925; 766932, 3872882; 766958, 3872847; 766998, 3872805; 767102, 3872733; 767316, 3872635; 767518, 3872546; 767654, 3872523; 767696, 3872509; 767828, 3872501; 767908, 3872472; 768022, 3872422; 768065, 3872419; 768193, 3872391; 768265, 3872384; 768333, 3872362; 768406, 3872306; 768555, 3872207; 768617, 3872174; 768654, 3872134; 768690, 3872101; 768753, 3872050; 768858, 3871917; 768867, 3871885; 768872, 3871869; 768854, 3871815; 768847, 3871736; 768833, 3871652; 768810, 3871587; 768789, 3871555; 768766, 3871538; 768722, 3871527; 768619, 3871480; 768435, 3871413; 768371, 3871390; 768302, 3871371; 768254, 3871330; 768233, 3871304; 768213, 3871257; 768179, 3871202; 768119, 3871167; 767914, 3871161; 767877, 3871142; 767830, 3871110; 767761, 3871077; 767672, 3871054; 767577, 3871017; 767506, 3871044; 767443, 3871051; 767339, 3871050; 767275, 3871037; 767170, 3870973; 767087, 3870889; 767012, 3870794; 766983, 3870783; 766969, 3870783; 766979, 3870749; 766958, 3870672; 766956, 3870633; 766959, 3870591; 766965, 3870568; 767023, 3870508; 767051, 3870472; 767076, 3870408; 767103, 3870378; 767116, 3870333; 767116, 3870275; 767120, 3870236; 767130, 3870201; 767134, 3870165; 767123, 3870109; 767078, 3870075; 767023, 3870054; 766974, 3870022; 766898, 3869957; 766841, 3869893; 766837, 3869851; 766839, 3869810; 766834, 3869773; 766810, 3869721; 766790, 3869698; 766742, 3869666; 766702, 3869630; 766645, 3869555; 766590, 3869471; 766555, 3869382; 766551, 3869354; 766529, 3869305; 766520, 3869233; 766547, 3869170; 766555, 3869103; 766545, 3868985; 766558, 3868884; 766619, 3868842; 766746, 3868793; 766786, 3868763; 766860, 3868724; 766901, 3868694; 766939, 3868674; 766975, 3868627; 767035, 3868506; 767075, 3868399; 767084, 3868355; 767088, 3868298; 767080, 3868253; 767053, 3868209; 766975, 3868112; 766922, 3868028; 766843, 3867945; 766827, 3867905; 766817, 3867857; 766789, 3867800; 766763, 3867725; 766766, 3867689; 766807, 3867659; 766840, 3867652; 766887, 3867637; 766921, 3867615; 766960, 3867566; 767001, 3867455; 767023, 3867413; 767061, 3867318; 767054, 3867217; 767054, 3867104; 767042, 3867049; 767038, 3866988; 767043, 3866909; 767054, 3866846; 767078, 3866769; 767083, 3866726; 767083, 3866672; 767072, 3866620; 767068, 3866566; 767057, 3866520; 767053, 3866461; 767059, 3866402; 767053, 3866343; 767025, 3866312; 766926, 3866262; 766887, 3866217; 766871, 3866166; 766868, 3866104; 766898, 3865970; 766901, 3865924; 766875, 3865805; 766870, 3865757; 766875, 3865716; 766891, 3865657; 766912, 3865624; 766941, 3865608; 766960, 3865587; 766919, 3865529; 766910, 3865475; 766898, 3865426; 766872, 3865365; 766791, 3865224; 766761, 3865157; 766724, 3865095; 766666, 3865029; 766610, 3864974; 766449, 3864834; 766386, 3864749; 766325, 3864647; 766256, 3864564; 766178, 3864457; 766152, 3864402; 766128, 3864330; 766115, 3864280; 766088, 3864036; 766071, 3863939; 766045, 3863886; 765962, 3863772; 765862, 3863616; 765839, 3863515; 765817, 3863392; 765794, 3863346; 765737, 3863293; 765692, 3863267; 765626, 3863255; 765535, 3863258; 765391, 3863258; 765364, 3863228; 765346, 3863114; 765334, 3863067; 765339, 3863045; 765339, 3863011; 765331, 3862966; 765298, 3862911; 765270, 3862877; 765225, 3862803; 765173, 3862677; 765140, 3862612; 765098, 3862566; 765061, 3862519; 764983, 3862406; 764958, 3862357; 764907, 3862229; 764889, 3862160; 764868, 3862136; 764821, 3862176; 764738, 3862266; 764688, 3862308; 764649, 3862334; 764617, 3862365; 764582, 3862382; 764523, 3862402; 764482, 3862406; 764420, 3862387; 764294, 3862366; 764224, 3862343; 764081, 3862348; 764032, 3862342; 763982, 3862326; 763876, 3862281; 763829, 3862267; 763723, 3862243; 763682, 3862227; 763590, 3862178; 763547, 3862176; 763492, 3862198; 763398, 3862253; 763360, 3862270; 763325, 3862282; 763295, 3862281; 763248, 3862256; 763169, 3862186; 763119, 3862157; 763029, 3862120; 762994, 3862098; 762910, 3862026; 762879, 3862024; 762877, 3861998; 762847, 3861939; 762827, 3861912; 762802, 3861888; 762779, 3861873; 762730, 3861831; 762617, 3861776; 762570, 3861741; 762519, 3861691; 762496, 3861657; 762469, 3861631; 762412, 3861611; 762337, 3861611; 762240, 3861600; 762204, 3861602; 762136, 3861666; 762105, 3861666; 761931, 3861582; 761883, 3861546; 761845, 3861487; 761788, 3861358; 761778, 3861302; 761781, 3861243; 761802, 3861179; 761844, 3861084; 761855, 3861036; 761850, 3860994; 761826, 3860947; 761812, 3860895; 761785, 3860737; 761750, 3860680; 761705, 3860676; 761645, 3860687; 761531, 3860701; 761440, 3860732; 761352, 3860769; 761294, 3860810; 761183, 3860863; 761112, 3860913; 761073, 3860928; 760959, 3860945; 760807, 3861013; 760750, 3861016; 760689, 3861024; 760636, 3861043; 760598, 3861036; 760570, 3860990; 760566, 3860969; 760433, 3861135; 759600, 3861135; 758845, 3862084; 758767, 3862569; 758748, 3862937; 759290, 3863518; 759639, 3863731; 759813, 3864060; 759852, 3864486; 760046, 3865087; 759717, 3865648; 759717, 3866047; 759714, 3866054; 759659, 3866170; 759629, 3866317; 759601, 3866415; 759608, 3866456; 759635, 3866483; 759655, 3866528; 759642, 3866590; 759581, 3866701; 759537, 3866745; 759487, 3866765; 759449, 3866785; 759438, 3866819; 759444, 3866899; 759442, 3866944; 759428, 3867051; 759432, 3867085; 759430, 3867144; 759419, 3867205; 759385, 3867286; 759386, 3867339; 759398, 3867388; 759405, 3867451; 759402, 3867508; 759383, 3867543; 759340, 3867573; 759297, 3867596; 759254, 3867630; 759240, 3867665; 759229, 3867887; 759221, 3867942; 759175, 3868083; 759171, 3868113; 759197, 3868274; 759197, 3868314; 759178, 3868408; 759173, 3868453; 759148, 3868492; 759053, 3868582; 759020, 3868608; 758987, 3868651; 758964, 3868716; 758956, 3868768; 758955, 3868893; 758951, 3868940; 758941, 3868990; 758886, 3869100; 758827, 3869184; 758822, 3869188; 758829, 3869213; 758857, 3869236; 758872, 3869265; 758891, 3869353; 758919, 3869389; 758966, 3869403; 759025, 3869414; 759053, 3869424; 759088, 3869432; 759106, 3869467; 759111, 3869492; 759139, 3869528; 759207, 3869565; 759310, 3869599; 759375, 3869645; 759411, 3869690; 759474, 3869721; 759545, 3869745; 759610, 3869788; 759653, 3869858; 759707, 3869963; 759706, 3869989; 759715, 3870036; 759735, 3870074; 759731, 3870118; 759718, 3870155; 759701, 3870181; 759685, 3870224; 759658, 3870371; 759615, 3870533; 759606, 3870611; 759608, 3870729; 759605, 3870790; 759591, 3870865; 759577, 3870909; 759538, 3870988; 759493, 3871043; 759445, 3871083; 759371, 3871124; 759348, 3871149; 759312, 3871231; 759266, 3871363; 759246, 3871397; 759205, 3871457; 759155, 3871501; 759112, 3871558; 758993, 3871691; 758906, 3871763; 758840, 3871809; 758761, 3871833; 758719, 3871858; 758711, 3871907; 758730, 3871970; 758736, 3872008; 758734, 3872039; 758710, 3872086; 758672, 3872124; 758578, 3872208; 758526, 3872247; 758485, 3872299; 758432, 3872394; 758344, 3872524; 758330, 3872577; 758373, 3872701; 758384, 3872761; 758416, 3872815; 758465, 3872889; 758541, 3873023; 758593, 3873088; 758646, 3873136; 758697, 3873177; 758715, 3873214; 758715, 3873252; 758735, 3873320; 758739, 3873356; 758755, 3873396; 758782, 3873425; 758824, 3873459; 758881, 3873479; 758949, 3873494; 759046, 3873498; 759112, 3873484; 759186, 3873455; 759241, 3873456; 759270, 3873464; 759406, 3873521; 759476, 3873537; 759557, 3873544; 759652, 3873586; 759706, 3873605; 759758, 3873638; 759829, 3873674; 759884, 3873711; 759924, 3873760; 759946, 3873815; 759966, 3873890; 759967, 3873943; 759948, 3873967; 759864, 3874007; 759827, 3874046; 759819, 3874091; 759832, 3874130; 759906, 3874205; 759935, 3874243; 759961, 3874293; 760002, 3874342; 760148, 3874412; 760181, 3874444; 760200, 3874490; 760195, 3874585; 760210, 3874639; 760252, 3874795; 760333, 3875007; 760331, 3875052; 760311, 3875096; 760270, 3875135; 760222, 3875191; 760185, 3875250; 760159, 3875353; 760146, 3875501; 760134, 3875544; 760132, 3875595; 760140, 3875630; 760179, 3875720; 760198, 3875800; 760204, 3875884; 760205, 3875956; 760198, 3876017; 760187, 3876054; 760186, 3876088; 760188, 3876129; 760198, 3876182; 760214, 3876232; 760250, 3876210; 760324, 3876192; 760515, 3876105; returning to 760562, 3876097.

(ii) Note: Map of Units STB-1, STB-3, STB-6 and STB-7 for the California red-legged frog follows:

BILLING CODE 4310-55-P

BILLING CODE 4310-55-C

(49) Unit STB-3: Santa Barbara County, California. From USGS 1:24,000 scale quadrangle Zaca Lake.

(i) Land bounded by the following UTM zone 10, NAD 1983 coordinates (E, N): 774235, 3859359; 774479, 3851425; 774262, 3851242; 774251, 3851257; 774198, 3851307; 774051, 3851377; 774038, 3851378; 774031, 3851422; 774017, 3851473; 773980, 3851518; 773936, 3851565; 773870, 3851671; 773815, 3851790; 773751, 3851901; 773718, 3851971; 773599, 3852194; 773575, 3852267; 773571, 3852336; 773603, 3852408; 773626, 3852476; 773624, 3852523; 773610, 3852585; 773430, 3852674; 773368, 3852695; 773221, 3852782; 773067, 3852855; 772873, 3852917; 772721, 3852969; 772673, 3853005; 772634, 3853088; 772605, 3853117; 772511, 3853148; 772353, 3853186; 772208, 3853230; 772049, 3853270; 771864, 3853365; 771793, 3853409; 771744, 3853433; 771691, 3853464; 771649, 3853511; 771580, 3853553; 771501, 3853580; 771424, 3853591; 771356, 3853605; 771307, 3853628; 771252, 3853669; 771165, 3853747; 771112, 3853780; 771048, 3853805; 770958, 3853832; 770897, 3853860; 770842, 3853900; 770806, 3853935; 770774, 3853996; 770741, 3854111; 770714, 3854160; 770638, 3854252; 770618, 3854291; 770601, 3854307; 770571, 3854315; 770546, 3854334; 770526, 3854367; 770519, 3854405; 770520, 3854451; 770527, 3854520; 770526, 3854601; 770519, 3854656; 770479, 3854798; 770484, 3854876; 770502, 3854973; 770509, 3855076; 770516, 3855119; 770517, 3855184; 770502, 3855237; 770479, 3855285; 770454, 3855324; 770354, 3855455; 770223, 3855580; 770208, 3855631; 770217, 3855682; 770277, 3855831; 770278, 3855888; 770264, 3855983; 770246, 3856060; 770248, 3856093; 770282, 3856158; 770318, 3856214; 770351, 3856251; 770418, 3856292; 770434, 3856314; 770455, 3856359; 770468, 3856407; 770478, 3856473; 770488, 3856593; 770486, 3856654; 770492, 3856708; 770510, 3856768; 770525, 3856800; 770547, 3856822; 770634, 3856858; 770677, 3856883; 770709, 3856911; 770783, 3856955; 770866, 3857023; 770963, 3857079; 770999, 3857112; 771011, 3857137; 771005, 3857165; 770983, 3857198; 770924, 3857263; 770875, 3857303; 770844, 3857348; 770841, 3857387; 770816, 3857469; 770756, 3857546; 770696, 3857635; 770591, 3857709; 770536, 3857783; 770432, 3857838; 770372, 3857882; 770322, 3857893; 770184, 3857908; 770111, 3857906; 770034, 3857903; 769904, 3857876; 769856, 3857860; 769786, 3857861; 769677, 3857934; 769580, 3857966; 769430, 3857996; 769358, 3858004; 769295, 3858019; 769225, 3858043; 769193, 3858078; 769188, 3858143; 769198, 3858244; 769217, 3858321; 769214, 3858418; 769191, 3858477; 769162, 3858527; 769125, 3858572; 769045, 3858647; 768994, 3858713; 768958, 3858776; 768930, 3858836; 768904, 3858904; 768882, 3858990; 768887, 3859001; 768927, 3859052; 768949, 3859087; 768984, 3859195; 768993, 3859243; 768990, 3859285; 768976, 3859353; 768975, 3859421; 768985, 3859494; 768986, 3859621; 768973, 3859733; 768950, 3859824; 768942, 3859847; 769055, 3859907; 769200, 3860391; 769683, 3860633; 769973, 3861140; 770820, 3861334; 771313, 3861655; 771312, 3861632; 771360, 3861567; 771440, 3861509; 771505, 3861448; 771552, 3861391; 771589, 3861343; 771622, 3861292; 771666, 3861192; 771705, 3861144; 771744, 3861123; 771787, 3861112; 771841, 3861091; 771902, 3861049; 771971, 3860990; 772023, 3860938; 772087, 3860856; 772132, 3860771; 772182, 3860704; 772251, 3860669; 772351, 3860636; 772385, 3860618; 772397, 3860587; 772391, 3860550; 772391, 3860486; 772403, 3860416; 772408, 3860366; 772427, 3860315; 772494, 3860258; 772550, 3860217; 772595, 3860173; 772617, 3860101; 772609, 3860021; 772584, 3859951; 772563, 3859905; 772560, 3859857; 772616, 3859692; 772630, 3859635; 772606, 3859516; 772617, 3859466; 772620, 3859399; 772664, 3859233; 772675, 3859142; 772660, 3859072; 772625, 3858987; 772604, 3858916; 772580, 3858816; 772587, 3858807; 772725, 3858890; 772892, 3859004; 772966, 3859040; 773042, 3859067; 773109, 3859099; 773152, 3859132; 773215, 3859198; 773245, 3859220; 773299, 3859241; 773393, 3859273; 773463, 3859303; 773540, 3859330; 773622, 3859353; 773678, 3859361; 773731, 3859358; 773762, 3859347; 773815, 3859322; 773901, 3859303; 774033, 3859249; 774108, 3859260; returning to 774235, 3859359.

(ii) Note: Unit STB-3 for California red-legged frog is depicted on the map in paragraph (48)(ii) of this entry.

(50) Unit STB-6: Santa Barbara County, California. From USGS 1:24,000 scale quadrangles Solvang, Gaviota, Santa Ynez and Tajiguas.

(i) Land bounded by the following UTM zone 10, NAD 1983 coordinates (E, N): 770986, 3825640; 771043, 3825632; 771105, 3825658; 771147, 3825680; 771193, 3825688; 771256, 3825673; 771349, 3825620; 771424, 3825566; 771613, 3825452; 771711, 3825403; 771789, 3825385; 771858, 3825355; 771983, 3825292; 772104, 3825203; 772092, 3825193; 772066, 3825149; 772038, 3825075; 772006, 3824926; 771995, 3824856; 771984, 3824806; 771961, 3824744; 771949, 3824690; 771949, 3824632; 771945, 3824561; 771920, 3824424; 771907, 3824379; 771903, 3824212; 771893, 3824187; 771832, 3824123; 771816, 3824079; 771797, 3823977; 771794, 3823949; 771803, 3823910; 771803, 3823865; 771756, 3823816; 771714, 3823789; 771692, 3823753; 771692, 3823706; 771673, 3823665; 771646, 3823619; 771632, 3823581; 771638, 3823456; 771635, 3823364; 771645, 3823303; 771652, 3823204; 771634, 3823189; 771599, 3823198; 771498, 3823201; 771455, 3823162; 771432, 3823131; 771416, 3823090; 771416, 3822976; 771402, 3822958; 771370, 3822930; 771341, 3822894; 771315, 3822829; 771304, 3822770; 771260, 3822634; 771241, 3822586; 771176, 3822557; 771136, 3822552; 771058, 3822573; 771008, 3822571; 770973, 3822555; 770933, 3822546; 770869, 3822540; 770824, 3822528; 770755, 3822501; 770610, 3822491; 770470, 3822451; 770389, 3822450; 770117, 3822424; 770036, 3822398; 769972, 3822361; 769943, 3822327; 769948, 3822289; 769999, 3822245; 770019, 3822177; 770022, 3822094; 770018, 3822041; 769955, 3821903; 769939, 3821829; 769951, 3821742; 769989, 3821659; 770006, 3821600; 770000, 3821561; 769988, 3821525; 769983, 3821498; 769983, 3821464; 769990, 3821378; 769995, 3821161; 770014, 3821021; 770018, 3820930; 770000, 3820847; 769967, 3820776; 769943, 3820714; 769923, 3820628; 769921, 3820572; 769954, 3820471; 769972, 3820390; 769971, 3820303; 769956, 3820217; 769953, 3820056; 769944, 3819984; 769908, 3819859; 769911, 3819814; 769941, 3819754; 769971, 3819719; 769993, 3819678; 769983, 3819612; 769914, 3819513; 769905, 3819442; 769917, 3819324; 769937, 3819047; 769923, 3819005; 769899, 3818977; 769869, 3818932; 769841, 3818859; 769841, 3818772; 769822, 3818655; 769789, 3818588; 769753, 3818532; 769729, 3818476; 769727, 3818402; 769744, 3818341; 769775, 3818167; 769776, 3818105; 769742, 3818036; 769684, 3817977; 769624, 3817885; 769563, 3817740; 769489, 3817584; 769461, 3817514; 769447, 3817438; 769432, 3817327; 769365, 3817343; 769292, 3817348; 769196, 3817362; 769179, 3817362; 769171, 3817354; 769148, 3817357; 769131, 3817356; 769024, 3817339; 768964, 3817318; 768855, 3817269; 768821, 3817242; 768813, 3817217; 768814, 3817204; 768822, 3817175; 768840, 3817159; 768841, 3817147; 768823, 3817135; 768782, 3817125; 768766, 3817114; 768738, 3817108; 768615, 3817114; 768590, 3817102; 768542, 3817110; 768514, 3817103; 768462, 3817105; 768375, 3817103; 768345, 3817105; 768329, 3817113; 768318, 3817114; 768273, 3817103; 768189, 3817097; 768161, 3817092; 768087, 3817093; 768055, 3817101; 768021, 3817099; 767983, 3817091; 767942, 3817100; 767885, 3817085; 767780, 3817095; 767721, 3817079; 767676, 3817079; 767667, 3817074; 767655, 3817072; 767583, 3817072; 767510, 3817064; 767436, 3817068; 767420, 3817064; 767383, 3817070; 767325, 3817085; 767235, 3817085; 767152, 3817106; 767018, 3817132; 766958, 3817125; 766933, 3817129; 766886, 3817147; 766845, 3817154; 766699, 3817193; 766615, 3817225; 766466, 3817305; 766451, 3817321; 766413, 3817349; 766318, 3817394; 766308, 3817404; 766263, 3817429; 766217, 3817432; 766188, 3817421; 766183, 3817405; 766171, 3817399; 766161, 3817398; 766118, 3817417; 766074, 3817443; 766060, 3817458; 765917, 3817529; 765819, 3817563; 765789, 3817578; 765752, 3817587; 765700, 3817607; 765593, 3817656; 765458, 3817701; 765448, 3817712; 765430, 3817722; 765351, 3817763; 765297, 3817786; 765210, 3817835; 765150, 3817858; 765116, 3817875; 765063, 3817892; 765019, 3817913; 764939, 3817937; 764850, 3817968; 764820, 3817975; 764697, 3818030; 764630, 3818046; 764612, 3818113; 764574, 3818200; 764542, 3818245; 764517, 3818290; 764496, 3818359; 764443, 3818601; 764412, 3818704; 764347, 3818877; 764305, 3818942; 764226, 3819041; 764207, 3819094; 764179, 3819227; 764168, 3819357; 764157, 3819420; 764122, 3819564; 764111, 3819628; 764074, 3819693; 764032, 3819796; 763999, 3819833; 763967, 3819860; 763919, 3819876; 763876, 3819904; 763843, 3819932; 763806, 3819977; 763796, 3820002; 763791, 3820061; 763809, 3820151; 763812, 3820203; 763842, 3820301; 763843, 3820358; 763850, 3820405; 763838, 3820456; 763802, 3820491; 763690, 3820555; 763638, 3820590; 763604, 3820619; 763553, 3820667; 763531, 3820731; 763529, 3820782; 763522, 3820847; 763521, 3820920; 763529, 3820969; 763549, 3821013; 763552, 3821048; 763543, 3821167; 763534, 3821223; 763521, 3821275; 763523, 3821324; 763516, 3821385; 763457, 3821666; 763458, 3821701; 763466, 3821743; 763507, 3821899; 763537, 3821961; 763548, 3822045; 763533, 3822122; 763492, 3822247; 763462, 3822317; 763452, 3822372; 763447, 3822459; 763467, 3822531; 763519, 3822629; 763520, 3822703; 763505, 3822742; 763477, 3822787; 763467, 3822840; 763476, 3822881; 763483, 3822952; 763468, 3823003; 763445, 3823063; 763419, 3823170; 763427, 3823225; 763456, 3823293; 763460, 3823351; 763452, 3823387; 763428, 3823454; 763433, 3823483; 763430, 3823512; 763417, 3823541; 763406, 3823592; 763410, 3823628; 763481, 3823637; 763658, 3823625; 763752, 3823639; 763849, 3823641; 763990, 3823602; 764058, 3823596; 764116, 3823604; 764232, 3823574; 764292, 3823570; 764328, 3823589; 764364, 3823615; 764401, 3823634; 764460, 3823656; 764509, 3823694; 764574, 3823707; 764685, 3823688; 764801, 3823690; 764911, 3823695; 765027, 3823718; 765253, 3823800; 765301, 3823821; 765503, 3823889; 765650, 3823931; 765723, 3823965; 765792, 3824005; 765865, 3824072; 765966, 3824135; 766073, 3824246; 766100, 3824289; 766140, 3824384; 766151, 3824399; 766244, 3824449; 766447, 3824529; 766503, 3824570; 766568, 3824626; 766647, 3824711; 766711, 3824765; 766800, 3824835; 766867, 3824880; 766919, 3824904; 767072, 3824931; 767108, 3824934; 767160, 3824919; 767242, 3824882; 767278, 3824884; 767302, 3824918; 767313, 3824958; 767343, 3825132; 767375, 3825247; 767394, 3825330; 767423, 3825369; 767455, 3825392; 767543, 3825435; 767578, 3825449; 767592, 3825447; 767631, 3825444; 767759, 3825329; 767795, 3825260; 767822, 3825190; 767841, 3825153; 767882, 3825112; 767937, 3825085; 768006, 3825056; 768081, 3825041; 768167, 3825010; 768209, 3824974; 768245, 3824920; 768302, 3824816; 768351, 3824764; 768400, 3824740; 768477, 3824724; 768565, 3824722; 768601, 3824751; 768610, 3824820; 768601, 3824920; 768592, 3824987; 768596, 3825042; 768604, 3825069; 768631, 3825100; 768728, 3825105; 768811, 3825096; 769010, 3825043; 769080, 3825010; 769143, 3824997; 769196, 3825003; 769246, 3825032; 769311, 3825060; 769415, 3825077; 769466, 3825106; 769512, 3825159; 769548, 3825210; 769584, 3825243; 769626, 3825243; 769700, 3825210; 769776, 3825146; 769833, 3825128; 769903, 3825144; 769994, 3825206; 770057, 3825260; 770088, 3825284; 770131, 3825290; 770225, 3825257; 770317, 3825230; 770373, 3825234; 770433, 3825262; 770497, 3825321; 770546, 3825386; 770568, 3825431; 770590, 3825492; 770644, 3825672; 770666, 3825732; 770688, 3825762; 770772, 3825777; 770837, 3825767; 770873, 3825752; 770909, 3825726; 770940, 3825680; returning to 770986, 3825640.

(ii) Note: Unit STB-6 for California red-legged frog is depicted on the map in paragraph (48)(ii) of this entry.

(51) Unit STB-7: Santa Barbara and Ventura Counties, California. From USGS 1:24,000 scale quadrangles Lake Cachuma, San Marcos Pass, Big Pine Mtn., Little Pine Mtn., Santa Barbara, Madulce Peak, Hildreth Peak, Carpinteria, Old Man Mountain, White Ledge Peak, Wheeler Springs and Matilija.

(i) Land bounded by the following UTM zone 11, NAD 1983 coordinates (E, N): 254540, 3837294; 254540, 3837180; 254525, 3837141; 254497, 3837043; 254514, 3836991; 254543, 3836941; 254566, 3836882; 254586, 3836767; 254581, 3836738; 254592, 3836742; 254625, 3836744; 254695, 3836742; 254757, 3836764; 254782, 3836768; 254829, 3836762; 254873, 3836753; 254924, 3836730; 255068, 3836627; 255119, 3836601; 255161, 3836560; 255197, 3836514; 255324, 3836388; 255360, 3836359; 255409, 3836335; 255521, 3836301; 255568, 3836303; 255663, 3836325; 255702, 3836338; 255735, 3836335; 255814, 3836274; 255863, 3836260; 255910, 3836272; 255934, 3836300; 255971, 3836323; 256017, 3836346; 256070, 3836385; 256174, 3836436; 256235, 3836477; 256264, 3836509; 256296, 3836531; 256387, 3836541; 256438, 3836538; 256491, 3836507; 256596, 3836298; 256651, 3836220; 256686, 3836187; 256783, 3836123; 256795, 3836098; 256817, 3836018; 256886, 3835833; 256955, 3835623; 256986, 3835539; 257030, 3835459; 257062, 3835412; 257089, 3835374; 257115, 3835368; 257206, 3835369; 257253, 3835359; 257309, 3835319; 257387, 3835238; 257405, 3835202; 257435, 3835099; 257467, 3835040; 257498, 3835014; 257531, 3835040; 257578, 3835057; 257646, 3835077; 257725, 3835094; 257807, 3835121; 257882, 3835153; 257960, 3835201; 258010, 3835198; 258024, 3835173; 258020, 3835153; 257998, 3835113; 257996, 3835061; 258004, 3835015; 258029, 3834960; 258053, 3834932; 258100, 3834897; 258162, 3834873; 258237, 3834855; 258352, 3834814; 258401, 3834811; 258448, 3834797; 258486, 3834769; 258539, 3834749; 258628, 3834750; 258784, 3834742; 258861, 3834733; 258920, 3834739; 259033, 3834757; 259140, 3834782; 259186, 3834795; 259243, 3834821; 259271, 3834840; 259281, 3834851; 259345, 3834869; 259464, 3834910; 259507, 3834919; 259623, 3834923; 259661, 3834947; 259715, 3834972; 259780, 3834978; 259824, 3835000; 259907, 3835015; 259953, 3835033; 260045, 3835111; 260074, 3835142; 260102, 3835158; 260126, 3835167; 260149, 3835181; 260156, 3835201; 260132, 3835316; 260115, 3835360; 260070, 3835445; 260041, 3835526; 260009, 3835573; 259970, 3835614; 259932, 3835649; 259897, 3835693; 259880, 3835721; 259854, 3835844; 259772, 3836021; 259775, 3836061; 259799, 3836135; 259837, 3836234; 259853, 3836267; 259909, 3836303; 259973, 3836356; 260061, 3836464; 260132, 3836564; 260154, 3836600; 260153, 3836656; 260190, 3836632; 260410, 3836567; 260521, 3836512; 260571, 3836498; 260637, 3836487; 260693, 3836489; 260799, 3836466; 260883, 3836462; 260926, 3836446; 260984, 3836352; 261047, 3836329; 261101, 3836328; 261169, 3836308; 261329, 3836239; 261487, 3836184; 261565, 3836166; 261637, 3836132; 261705, 3836093; 261736, 3836073; 261748, 3836043; 261777, 3836015; 261820, 3835999; 261861, 3835973; 261913, 3835903; 261957, 3835810; 261989, 3835710; 262036, 3835614; 262068, 3835519; 262084, 3835422; 262101, 3835385; 262150, 3835342; 262198, 3835321; 262252, 3835290; 262339, 3835198; 262379, 3835171; 262477, 3835121; 262570, 3835081; 262625, 3835019; 262661, 3834946; 262695, 3834896; 262734, 3834858; 262829, 3834806; 262877, 3834761; 262959, 3834618; 263015, 3834497; 263161, 3834412; 263865, 3833962; 264086, 3833813; 263942, 3833612; 264011, 3833435; 264042, 3832876; 264078, 3832574; 264132, 3832341; 264249, 3832177; 264742, 3831921; 265047, 3831721; 265159, 3831737; 265707, 3831674; 265937, 3831581; 266204, 3831435; 266531, 3831326; 266775, 3831317; 267067, 3831370; 267284, 3831475; 267432, 3831620; 267566, 3831826; 267715, 3832013; 267906, 3832157; 268164, 3832275; 268519, 3832354; 268852, 3832357; 269237, 3832302; 269561, 3832228; 269816, 3832166; 270132, 3832189; 270338, 3832159; 270474, 3832130; 270650, 3832098; 270699, 3832099; 270735, 3832108; 270796, 3832147; 270832, 3832198; 270841, 3832247; 270839, 3832296; 270851, 3832409; 270875, 3832479; 270904, 3832506; 270957, 3832485; 271061, 3832476; 271090, 3832468; 271129, 3832450; 271165, 3832428; 271225, 3832410; 271284, 3832409; 271347, 3832401; 271409, 3832370; 271450, 3832344; 271497, 3832324; 271538, 3832296; 271575, 3832253; 271612, 3832200; 271737, 3832153; 271838, 3832103; 271892, 3832072; 271936, 3832055; 271986, 3832058; 272049, 3832057; 272096, 3832047; 272165, 3832022; 272211, 3832025; 272249, 3832055; 272292, 3832116; 272309, 3832147; 272343, 3832167; 272396, 3832168; 272468, 3832155; 272517, 3832141; 272566, 3832117; 272666, 3832080; 272717, 3832054; 272803, 3832025; 272886, 3832020; 272943, 3832029; 272981, 3832049; 273000, 3832087; 273047, 3832154; 273075, 3832171; 273110, 3832172; 273219, 3832165; 273272, 3832150; 273360, 3832113; 273402, 3832109; 273506, 3832115; 273597, 3832130; 273640, 3832129; 273691, 3832133; 273744, 3832152; 273786, 3832161; 273841, 3832151; 273900, 3832114; 273935, 3832081; 273973, 3832054; 274026, 3832024; 274117, 3831959; 274145, 3831930; 274175, 3831888; 274172, 3831817; 274171, 3831805; 274151, 3831778; 274145, 3831689; 274162, 3831622; 274180, 3831573; 274228, 3831511; 274279, 3831434; 274290, 3831408; 274312, 3831385; 274345, 3831370; 274465, 3831330; 274495, 3831313; 274500, 3831259; 274482, 3831219; 274480, 3831188; 274492, 3831081; 274478, 3830997; 274480, 3830855; 274472, 3830803; 274496, 3830768; 274533, 3830741; 274605, 3830702; 274735, 3830604; 274786, 3830575; 274847, 3830548; 274923, 3830509; 274950, 3830475; 274961, 3830380; 274980, 3830285; 275000, 3830237; 275041, 3830168; 275077, 3830126; 275111, 3830074; 275190, 3829980; 275215, 3829931; 275210, 3829864; 275189, 3829829; 275157, 3829784; 275080, 3829686; 275022, 3829639; 274959, 3829606; 274920, 3829597; 274884, 3829593; 274842, 3829570; 274732, 3829496; 274690, 3829483; 274580, 3829487; 274514, 3829480; 274472, 3829473; 274440, 3829449; 274427, 3829387; 274432, 3829294; 274423, 3829178; 274404, 3829116; 274379, 3829071; 274297, 3829026; 274120, 3828990; 274076, 3828968; 274011, 3828895; 273952, 3828845; 273924, 3828817; 273928, 3828779; 273970, 3828746; 274026, 3828715; 274041, 3828691; 274051, 3828648; 274044, 3828592; 274028, 3828556; 273947, 3828443; 273938, 3828395; 273983, 3828295; 273996, 3828246; 274019, 3828203; 274054, 3828160; 274086, 3828111; 274109, 3828006; 274124, 3827961; 274143, 3827914; 274169, 3827865; 274192, 3827823; 274204, 3827810; 274189, 3827776; 274123, 3827711; 274105, 3827687; 274064, 3827636; 274016, 3827613; 273978, 3827613; 273925, 3827601; 273887, 3827610; 273846, 3827626; 273749, 3827638; 273704, 3827651; 273679, 3827650; 273652, 3827637; 273614, 3827605; 273568, 3827578; 273465, 3827558; 273402, 3827571; 273309, 3827578; 273267, 3827570; 273175, 3827533; 273131, 3827499; 273073, 3827415; 273045, 3827313; 273009, 3827238; 273006, 3827206; 273031, 3827160; 273054, 3827104; 273086, 3826994; 273091, 3826952; 273086, 3826756; 273055, 3826698; 273052, 3826608; 273062, 3826558; 273109, 3826430; 273122, 3826408; 273159, 3826410; 273223, 3826405; 273286, 3826390; 273325, 3826339; 273350, 3826268; 273348, 3826224; 273341, 3826201; 273290, 3826111; 273267, 3826092; 273241, 3826076; 273219, 3826068; 273189, 3826043; 273172, 3826015; 273159, 3825930; 273162, 3825895; 273158, 3825854; 273142, 3825790; 273142, 3825760; 273163, 3825711; 273183, 3825678; 273202, 3825638; 273209, 3825602; 273226, 3825584; 273254, 3825573; 273294, 3825544; 273335, 3825499; 273405, 3825435; 273454, 3825408; 273514, 3825381; 273564, 3825362; 273576, 3825350; 273581, 3825327; 273577, 3825284; 273561, 3825250; 273548, 3825211; 273542, 3825155; 273515, 3825092; 273514, 3825048; 273532, 3825008; 273573, 3824958; 273597, 3824908; 273601, 3824848; 273600, 3824805; 273605, 3824775; 273622, 3824739; 273666, 3824701; 273722, 3824633; 273750, 3824610; 273791, 3824606; 273832, 3824597; 273871, 3824599; 273950, 3824613; 273993, 3824604; 274034, 3824590; 274071, 3824571; 274147, 3824511; 274178, 3824498; 274219, 3824467; 274264, 3824416; 274314, 3824380; 274359, 3824354; 274399, 3824322; 274438, 3824273; 274474, 3824221; 274493, 3824169; 274509, 3824108; 274544, 3824068; 274582, 3824035; 274595, 3824004; 274584, 3823977; 274612, 3823923; 274643, 3823874; 274642, 3823813; 274614, 3823766; 274565, 3823647; 274572, 3823516; 274562, 3823391; 274527, 3823291; 274524, 3823253; 274563, 3823212; 274605, 3823149; 274615, 3823082; 274615, 3823016; 274597, 3822923; 274580, 3822812; 274569, 3822770; 274566, 3822725; 274553, 3822671; 274547, 3822626; 274558, 3822544; 274557, 3822492; 274554, 3822429; 274533, 3822336; 274533, 3822311; 274541, 3822262; 274570, 3822222; 274606, 3822200; 274649, 3822184; 274705, 3822179; 274853, 3822175; 274891, 3822164; 274932, 3822148; 274975, 3822119; 275081, 3822065; 275133, 3822046; 275191, 3822034; 275239, 3822029; 275293, 3822012; 275329, 3821984; 275353, 3821943; 275388, 3821870; 275397, 3821840; 275414, 3821808; 275449, 3821761; 275485, 3821718; 275524, 3821685; 275562, 3821639; 275604, 3821597; 275649, 3821565; 275695, 3821538; 275724, 3821516; 275756, 3821502; 275821, 3821490; 275840, 3821481; 275893, 3821492; 275958, 3821515; 275996, 3821521; 276065, 3821514; 276142, 3821520; 276214, 3821534; 276294, 3821556; 276381, 3821602; 276448, 3821632; 276496, 3821629; 276547, 3821595; 276614, 3821567; 276686, 3821556; 276716, 3821518; 276742, 3821472; 276788, 3821424; 276843, 3821387; 276911, 3821334; 276974, 3821303; 277028, 3821294; 277093, 3821292; 277168, 3821283; 277234, 3821282; 277295, 3821294; 277345, 3821321; 277373, 3821349; 277399, 3821365; 277426, 3821370; 277463, 3821369; 277502, 3821345; 277579, 3821245; 277631, 3821224; 277690, 3821218; 277767, 3821246; 277887, 3821254; 277957, 3821265; 278007, 3821252; 278134, 3821231; 278178, 3821237; 278227, 3821250; 278284, 3821250; 278348, 3821223; 278389, 3821211; 278450, 3821183; 278491, 3821141; 278526, 3821099; 278574, 3821053; 278640, 3820996; 278688, 3820970; 278737, 3820951; 278801, 3820941; 278862, 3820946; 278923, 3820959; 279054, 3820960; 279177, 3820942; 279277, 3820931; 279357, 3820940; 279433, 3820982; 279512, 3821061; 279540, 3821079; 279597, 3821079; 279764, 3821023; 279838, 3821001; 279929, 3820997; 280021, 3821005; 280136, 3821028; 280254, 3821067; 280358, 3821105; 280428, 3821113; 280517, 3821111; 280590, 3821114; 280693, 3821127; 280783, 3821158; 280836, 3821172; 280893, 3821179; 280960, 3821182; 281096, 3821178; 281173, 3821187; 281241, 3821207; 281276, 3821211; 281343, 3821213; 281398, 3821226; 281455, 3821268; 281523, 3821294; 281559, 3821306; 281597, 3821313; 281668, 3821340; 281702, 3821344; 281763, 3821360; 281811, 3821357; 281947, 3821339; 282027, 3821341; 282168, 3821352; 282276, 3821353; 282342, 3821362; 282381, 3821364; 282428, 3821358; 282505, 3821328; 282573, 3821342; 282642, 3821368; 282730, 3821394; 282861, 3821413; 282912, 3821413; 282987, 3821427; 283057, 3821433; 283119, 3821455; 283184, 3821495; 283237, 3821543; 283274, 3821582; 283320, 3821615; 283376, 3821632; 283507, 3821644; 283572, 3821644; 283692, 3821617; 283771, 3821627; 283877, 3821661; 283948, 3821692; 284018, 3821714; 284180, 3821740; 284257, 3821746; 284412, 3821742; 284496, 3821722; 284564, 3821701; 284610, 3821679; 284702, 3821620; 284771, 3821584; 284830, 3821570; 284942, 3821565; 285082, 3821552; 285122, 3821535; 285167, 3821509; 285216, 3821502; 285334, 3821499; 285434, 3821504; 285544, 3821528; 285620, 3821564; 285741, 3821604; 285838, 3821632; 285899, 3821655; 286018, 3821679; 286167, 3821714; 286232, 3821724; 286276, 3821753; 286318, 3821810; 286360, 3821854; 286418, 3821890; 286541, 3821938; 286590, 3821966; 286633, 3821985; 286671, 3821994; 286694, 3822006; 286706, 3822022; 286736, 3821889; 286740, 3821795; 286736, 3821565; 286745, 3821494; 286767, 3821446; 286798, 3821405; 286858, 3821344; 287000, 3821226; 287023, 3821183; 287051, 3821146; 287092, 3821126; 287227, 3821072; 287317, 3821063; 287384, 3821063; 287462, 3821038; 287541, 3820987; 287577, 3820913; 287598, 3820854; 287656, 3820733; 287654, 3820680; 287660, 3820597; 287660, 3820524; 287683, 3820483; 287716, 3820448; 287762, 3820417; 287802, 3820397; 288081, 3820234; 288388, 3820156; 288797, 3819538; 289000, 3819452; 289251, 3819184; 289351, 3819157; 289681, 3819065; 289761, 3819020; 289848, 3818992; 289927, 3819019; 289943, 3819033; 290238, 3819105; 290270, 3819101; 290385, 3819028; 290382, 3818716; 290168, 3818372; 289870, 3818346; 289637, 3817929; 289617, 3817336; 289730, 3817002; 289419, 3817006; 288934, 3816842; 288224, 3816394; 287682, 3816263; 287327, 3816284; 287120, 3816311; 287012, 3816496; 286768, 3816629; 286380, 3816607; 286341, 3816936; 286253, 3816956; 286201, 3817346; 286083, 3817565; 286061, 3817555; 286034, 3817561; 285998, 3817560; 285933, 3817566; 285775, 3817618; 285650, 3817687; 285618, 3817694; 285463, 3817674; 285355, 3817670; 285323, 3817662; 285261, 3817655; 285196, 3817656; 285106, 3817671; 285045, 3817721; 284995, 3817745; 284927, 3817771; 284789, 3817837; 284753, 3817867; 284668, 3817915; 284582, 3817932; 284491, 3817968; 284422, 3817980; 284361, 3817977; 284278, 3817982; 284219, 3817999; 284140, 3818014; 284076, 3818011; 283969, 3817989; 283910, 3817995; 283833, 3818039; 283708, 3818098; 283570, 3818117; 283457, 3818081; 283424, 3818062; 283371, 3818014; 283298, 3817971; 283229, 3817896; 283196, 3817882; 283054, 3817855; 283004, 3817852; 282887, 3817826; 282840, 3817833; 282794, 3817850; 282756, 3817872; 282710, 3817885; 282649, 3817924; 282581, 3817933; 282503, 3817952; 282412, 3817957; 282348, 3817967; 282309, 3817961; 282257, 3817946; 282223, 3817951; 282207, 3817956; 282187, 3817957; 282156, 3817950; 282106, 3817930; 282033, 3817889; 281929, 3817838; 281874, 3817832; 281830, 3817833; 281788, 3817852; 281749, 3817863; 281706, 3817868; 281656, 3817868; 281526, 3817856; 281326, 3817920; 281297, 3817921; 281242, 3817913; 281160, 3817897; 281004, 3817877; 280875, 3817878; 280820, 3817874; 280720, 3817888; 280682, 3817879; 280608, 3817818; 280560, 3817798; 280487, 3817781; 280423, 3817773; 280329, 3817744; 280265, 3817737; 280198, 3817736; 280141, 3817724; 280101, 3817710; 280054, 3817686; 280011, 3817658; 279928, 3817584; 279887, 3817535; 279748, 3817416; 279690, 3817452; 279640, 3817488; 279464, 3817570; 279431, 3817592; 279370, 3817659; 279336, 3817683; 279248, 3817719; 279194, 3817748; 279139, 3817772; 279085, 3817780; 278917, 3817781; 278859, 3817790; 278811, 3817804; 278774, 3817834; 278763, 3817856; 278745, 3817936; 278734, 3817975; 278721, 3818003; 278704, 3818030; 278670, 3818060; 278630, 3818079; 278568, 3818099; 278528, 3818104; 278478, 3818096; 278438, 3818070; 278376, 3818000; 278322, 3817969; 278271, 3817965; 278137, 3817993; 278032, 3818021; 277896, 3818033; 277835, 3818055; 277739, 3818098; 277692, 3818099; 277599, 3818067; 277559, 3818042; 277518, 3818011; 277455, 3817973; 277401, 3817948; 277363, 3817922; 277313, 3817879; 277249, 3817852; 277181, 3817831; 277112, 3817821; 276989, 3817794; 276908, 3817817; 276849, 3817824; 276792, 3817849; 276713, 3817893; 276679, 3817905; 276649, 3817949; 276627, 3817997; 276590, 3818024; 276531, 3818028; 276491, 3818019; 276350, 3817976; 276318, 3817972; 276294, 3817991; 276259, 3818057; 276228, 3818088; 276171, 3818135; 276121, 3818108; 276016, 3818039; 275948, 3818018; 275895, 3817997; 275752, 3817932; 275708, 3817898; 275670, 3817859; 275580, 3817788; 275396, 3817665; 275329, 3817640; 275239, 3817630; 275166, 3817647; 275103, 3817677; 275033, 3817696; 274956, 3817701; 274892, 3817710; 274761, 3817750; 274672, 3817765; 274582, 3817778; 274448, 3817779; 274361, 3817785; 274276, 3817774; 274177, 3817748; 274109, 3817724; 273988, 3817673; 273758, 3817642; 273591, 3817600; 273545, 3817589; 273411, 3817528; 273187, 3817495; 273082, 3817503; 273054, 3817490; 273017, 3817448; 272984, 3817386; 272917, 3817278; 272839, 3817122; 272814, 3817057; 272781, 3817022; 272730, 3817005; 272668, 3817022; 272525, 3817125; 272464, 3817159; 272317, 3817226; 272248, 3817242; 272170, 3817255; 272094, 3817256; 272029, 3817238; 271975, 3817214; 271919, 3817176; 271875, 3817140; 271832, 3817090; 271764, 3816994; 271754, 3816962; 271764, 3816932; 271757, 3816822; 271762, 3816764; 271770, 3816723; 271767, 3816670; 271736, 3816646; 271669, 3816654; 271609, 3816653; 271550, 3816631; 271471, 3816630; 271405, 3816675; 271373, 3816718; 271350, 3816729; 271322, 3816729; 271251, 3816712; 271172, 3816696; 271080, 3816702; 271015, 3816697; 270955, 3816682; 270898, 3816643; 270836, 3816608; 270783, 3816601; 270723, 3816607; 270614, 3816630; 270548, 3816633; 270465, 3816615; 270391, 3816595; 270351, 3816594; 270310, 3816622; 270293, 3816662; 270273, 3816669; 270259, 3816681; 270147, 3816719; 270095, 3816729; 270045, 3816755; 269993, 3816773; 269908, 3816794; 269860, 3816848; 269847, 3817005; 269810, 3817045; 269761, 3817060; 269623, 3817067; 269494, 3817035; 269400, 3817027; 269333, 3817015; 269234, 3816970; 269187, 3816972; 269151, 3817000; 269115, 3817038; 269067, 3817076; 268992, 3817122; 268936, 3817144; 268898, 3817143; 268811, 3817075; 268756, 3817050; 268667, 3816998; 268592, 3816977; 268525, 3816973; 268466, 3816973; 268377, 3816986; 268362, 3816979; 268296, 3816967; 268222, 3816944; 268070, 3816850; 267993, 3816808; 267926, 3816794; 267873, 3816807; 267819, 3816849; 267777, 3816861; 267709, 3816868; 267626, 3816893; 267538, 3816926; 267466, 3816959; 267405, 3816967; 267332, 3816970; 267289, 3816980; 267253, 3817002; 267212, 3817022; 267137, 3817040; 267044, 3817039; 266991, 3817057; 266804, 3817188; 266734, 3817208; 266686, 3817211; 266628, 3817207; 266441, 3817151; 266250, 3817123; 266204, 3817117; 266128, 3817092; 266074, 3817068; 265968, 3817035; 265910, 3817024; 265863, 3817006; 265825, 3816977; 265796, 3816922; 265776, 3816853; 265783, 3816758; 265811, 3816615; 265791, 3816574; 265765, 3816553; 265718, 3816541; 265656, 3816543; 265482, 3816509; 265391, 3816504; 265226, 3816566; 265143, 3816578; 265038, 3816585; 264888, 3816573; 264835, 3816581; 264730, 3816628; 264605, 3816660; 264574, 3816674; 264545, 3816706; 264493, 3816751; 264406, 3816799; 264238, 3816829; 264164, 3816824; 264113, 3816795; 264027, 3816703; 264000, 3816684; 263973, 3816687; 263948, 3816712; 263915, 3816735; 263761, 3816779; 263672, 3816815; 263621, 3816824; 263538, 3816815; 263457, 3816823; 263385, 3816848; 263337, 3816857; 263283, 3816858; 263134, 3816853; 263099, 3816875; 263091, 3816897; 263079, 3816905; 263049, 3816994; 263017, 3817057; 263000, 3817099; 263026, 3817167; 263020, 3817208; 263002, 3817248; 263019, 3817286; 263055, 3817326; 263105, 3817368; 263159, 3817433; 263199, 3817494; 263248, 3817549; 263285, 3817578; 263293, 3817628; 263262, 3817696; 263237, 3817744; 263190, 3817770; 263069, 3817777; 263019, 3817791; 262976, 3817812; 262919, 3817862; 262831, 3817918; 262766, 3817938; 262719, 3817934; 262664, 3817920; 262605, 3817886; 262451, 3817874; 262399, 3817895; 262337, 3817947; 262293, 3817948; 262249, 3817939; 262215, 3817955; 262177, 3818047; 262140, 3818112; 262109, 3818129; 262067, 3818128; 262006, 3818109; 261931, 3818103; 261858, 3818091; 261767, 3818081; 261728, 3818068; 261678, 3818030; 261633, 3818003; 261599, 3817986; 261509, 3817921; 261405, 3817864; 261334, 3817842; 261266, 3817842; 261220, 3817865; 261170, 3817881; 261128, 3817884; 260950, 3817918; 260908, 3817937; 260876, 3817961; 260855, 3818005; 260850, 3818068; 260838, 3818117; 260815, 3818136; 260780, 3818135; 260726, 3818125; 260652, 3818138; 260601, 3818161; 260553, 3818175; 260433, 3818189; 260357, 3818182; 260284, 3818185; 260253, 3818198; 260239, 3818214; 260231, 3818237; 260222, 3818307; 260205, 3818330; 260136, 3818301; 260098, 3818305; 260025, 3818350; 259973, 3818364; 259936, 3818370; 259909, 3818391; 259894, 3818424; 259889, 3818452; 259880, 3818471; 259858, 3818493; 259772, 3818541; 259728, 3818572; 259676, 3818615; 259637, 3818638; 259576, 3818687; 259531, 3818714; 259477, 3818734; 259378, 3818736; 259324, 3818741; 259252, 3818760; 259168, 3818800; 259069, 3818865; 259027, 3818903; 259003, 3818933; 258976, 3818955; 258941, 3818975; 258920, 3818981; 258813, 3819033; 258637, 3819093; 258598, 3819097; 258540, 3819090; 258410, 3819032; 258368, 3819021; 258303, 3819019; 258272, 3819019; 258226, 3819002; 258193, 3818980; 258158, 3818961; 258101, 3818939; 258034, 3818926; 257989, 3818925; 257957, 3818919; 257922, 3818917; 257883, 3818924; 257844, 3818936; 257788, 3818967; 257714, 3818990; 257687, 3819003; 257661, 3819031; 257641, 3819068; 257629, 3819109; 257599, 3819150; 257561, 3819171; 257463, 3819172; 257423, 3819179; 257358, 3819213; 257288, 3819255; 257230, 3819280; 257088, 3819310; 257023, 3819354; 256977, 3819391; 256934, 3819404; 256866, 3819404; 256824, 3819408; 256785, 3819436; 256742, 3819497; 256692, 3819544; 256650, 3819574; 256598, 3819597; 256519, 3819595; 256436, 3819588; 256400, 3819580; 256297, 3819570; 256227, 3819574; 256071, 3819568; 256018, 3819577; 255871, 3819586; 255750, 3819629; 255681, 3819639; 255615, 3819641; 255526, 3819650; 255460, 3819675; 255388, 3819707; 255321, 3819729; 255285, 3819731; 255172, 3819680; 255043, 3819656; 254994, 3819636; 254934, 3819583; 254890, 3819552; 254857, 3819542; 254815, 3819539; 254767, 3819552; 254625, 3819650; 254601, 3819676; 254572, 3819725; 254541, 3819754; 254496, 3819787; 254441, 3819803; 254390, 3819812; 254356, 3819826; 254323, 3819852; 254232, 3819893; 254179, 3819925; 254105, 3819960; 254059, 3819976; 253963, 3819988; 253901, 3819992; 253773, 3819971; 253697, 3819985; 253483, 3820096; 253375, 3820109; 253317, 3820092; 253270, 3820072; 253217, 3820059; 253159, 3820081; 253121, 3820106; 253088, 3820123; 253063, 3820162; 253073, 3820253; 253087, 3820289; 253090, 3820326; 253070, 3820373; 253047, 3820414; 253001, 3820424; 252961, 3820418; 252913, 3820409; 252822, 3820380; 252793, 3820390; 252774, 3820413; 252735, 3820451; 252700, 3820476; 252606, 3820503; 252538, 3820536; 252481, 3820574; 252424, 3820619; 252358, 3820656; 252297, 3820667; 252235, 3820660; 252196, 3820643; 252151, 3820609; 252110, 3820569; 252027, 3820477; 251992, 3820449; 251957, 3820425; 251871, 3820380; 251794, 3820312; 251722, 3820286; 251634, 3820285; 251579, 3820295; 251522, 3820298; 251467, 3820305; 251358, 3820351; 251313, 3820349; 251265, 3820336; 251098, 3820319; 251031, 3820328; 250882, 3820384; 250811, 3820417; 250782, 3820446; 250748, 3820506; 250736, 3820542; 250713, 3820585; 250690, 3820616; 250561, 3820724; 250513, 3820816; 250485, 3820859; 250439, 3820889; 250320, 3820945; 250293, 3820962; 250275, 3820992; 250211, 3821022; 250182, 3821023; 250136, 3821029; 250099, 3821039; 250011, 3821079; 249873, 3821117; 249755, 3821173; 249695, 3821192; 249611, 3821201; 249504, 3821193; 249420, 3821195; 249350, 3821203; 249333, 3821211; 249252, 3821248; 249213, 3821283; 249166, 3821338; 249147, 3821382; 249140, 3821416; 249143, 3821442; 249120, 3821478; 249105, 3821512; 249097, 3821543; 249099, 3821577; 249091, 3821617; 249051, 3821730; 249023, 3821758; 248947, 3821777; 248886, 3821786; 248850, 3821786; 248831, 3821791; 248776, 3821807; 248720, 3821831; 248673, 3821887; 248648, 3821901; 248616, 3821911; 248563, 3821941; 248515, 3821960; 248470, 3821987; 248407, 3822062; 248386, 3822075; 248354, 3822075; 248253, 3822061; 248183, 3822061; 248133, 3822072; 248098, 3822072; 248056, 3822035; 248023, 3822013; 247983, 3822016; 247958, 3822010; 247926, 3821982; 247889, 3821942; 247855, 3821933; 247768, 3821921; 247731, 3821891; 247689, 3821844; 247630, 3821795; 247599, 3821763; 247556, 3821738; 247523, 3821712; 247486, 3821688; 247445, 3821679; 247392, 3821673; 247361, 3821659; 247336, 3821633; 247292, 3821611; 247265, 3821611; 247247, 3821605; 247179, 3821562; 247137, 3821543; 247084, 3821536; 247027, 3821538; 246986, 3821551; 246923, 3821638; 246904, 3821651; 246844, 3821655; 246799, 3821673; 246686, 3821760; 246622, 3821778; 246584, 3821783; 246322, 3821875; 246150, 3821904; 246059, 3821930; 246024, 3821929; 245959, 3821944; 245927, 3821970; 245858, 3822055; 245821, 3822088; 245606, 3822185; 245563, 3822213; 245500, 3822262; 245456, 3822272; 245396, 3822303; 245279, 3822353; 245250, 3822371; 245206, 3822449; 245177, 3822481; 245134, 3822497; 245090, 3822532; 245065, 3822564; 245028, 3822624; 244997, 3822681; 244976, 3822739; 244920, 3822851; 244839, 3822964; 244797, 3823012; 244765, 3823041; 244717, 3823069; 244638, 3823100; 244553, 3823165; 244485, 3823234; 244397, 3823275; 244350, 3823305; 244291, 3823367; 244271, 3823374; 244226, 3823379; 244197, 3823386; 244123, 3823380; 244069, 3823387; 243975, 3823410; 243905, 3823416; 243850, 3823411; 243804, 3823395; 243764, 3823377; 243701, 3823343; 243668, 3823320; 243651, 3823300; 243622, 3823255; 243599, 3823229; 243562, 3823200; 243533, 3823183; 243498, 3823170; 243464, 3823136; 243465, 3823063; 243492, 3823024; 243533, 3822956; 243546, 3822920; 243540, 3822899; 243458, 3822815; 243405, 3822732; 243391, 3822721; 243387, 3822706; 243351, 3822710; 243315, 3822708; 243177, 3822637; 243133, 3822635; 243092, 3822660; 243051, 3822678; 243011, 3822707; 242986, 3822717; 242949, 3822716; 242925, 3822710; 242869, 3822680; 242833, 3822681; 242786, 3822704; 242740, 3822740; 242700, 3822758; 242668, 3822767; 242624, 3822762; 242612, 3822771; 242597, 3822759; 242563, 3822693; 242551, 3822658; 242532, 3822621; 242511, 3822601; 242470, 3822576; 242418, 3822546; 242362, 3822527; 242303, 3822499; 242240, 3822483; 242144, 3822466; 242115, 3822456; 242050, 3822399; 242004, 3822376; 241886, 3822357; 241772, 3822278; 241670, 3822316; 241615, 3822300; 241588, 3822283; 241543, 3822274; 241503, 3822282; 241445, 3822301; 241289, 3822372; 241189, 3822439; 241106, 3822472; 241002, 3822503; 240900, 3822525; 240808, 3822522; 240720, 3822504; 240619, 3822503; 240556, 3822491; 240511, 3822495; 240457, 3822494; 240372, 3822504; 240326, 3822523; 240226, 3822575; 240165, 3822597; 240095, 3822600; 240057, 3822594; 239997, 3822610; 239980, 3822607; 239966, 3822567; 239958, 3822533; 239876, 3822367; 239850, 3822328; 239819, 3822292; 239716, 3822200; 239661, 3822170; 239614, 3822131; 239561, 3822095; 239470, 3822083; 239407, 3822068; 239310, 3822017; 239240, 3821999; 239189, 3822007; 239154, 3822034; 239123, 3822063; 239110, 3822088; 239025, 3822187; 239005, 3822198; 238973, 3822205; 238927, 3822208; 238862, 3822194; 238752, 3822198; 238637, 3822180; 238556, 3822179; 238503, 3822172; 238444, 3822170; 238377, 3822179; 238314, 3822194; 238271, 3822208; 238183, 3822257; 238109, 3822275; 238031, 3822300; 237957, 3822331; 237897, 3822336; 237852, 3822323; 237765, 3822264; 237707, 3822253; 237663, 3822275; 237627, 3822288; 237610, 3822271; 237590, 3822241; 237563, 3822215; 237449, 3822159; 237351, 3822138; 237263, 3822135; 237184, 3822100; 237143, 3822075; 237037, 3822055; 236948, 3822019; 236835, 3822039; 236794, 3822031; 236710, 3822022; 236654, 3822060; 236568, 3822108; 236513, 3822117; 236469, 3822120; 236433, 3822132; 236293, 3822229; 236229, 3822246; 236200, 3822247; 236178, 3822264; 236163, 3822295; 236138, 3822331; 236089, 3822338; 236040, 3822337; 235983, 3822328; 235921, 3822383; 235845, 3822419; 235776, 3822468; 235764, 3822505; 235758, 3822542; 235734, 3822556; 235651, 3822561; 235619, 3822569; 235577, 3822583; 235479, 3822607; 235422, 3822626; 235373, 3822654; 235331, 3822694; 235297, 3822741; 235253, 3822832; 235235, 3822881; 235218, 3822899; 235197, 3822893; 235150, 3822887; 235106, 3822889; 235052, 3822908; 235002, 3822943; 234866, 3823053; 234778, 3823114; 234715, 3823138; 234607, 3823143; 234540, 3823164; 234470, 3823160; 234427, 3823161; 234399, 3823180; 234374, 3823214; 234353, 3823265; 234328, 3823414; 234298, 3823472; 234195, 3823574; 234147, 3823601; 234105, 3823600; 234036, 3823590; 233915, 3823565; 233866, 3823573; 233822, 3823602; 233780, 3823636; 233755, 3823642; 233782, 3823679; 233796, 3823724; 233806, 3823780; 233804, 3823858; 233833, 3823897; 233864, 3823923; 233882, 3823951; 233920, 3824074; 233953, 3824165; 234017, 3824293; 234089, 3824463; 234112, 3824523; 234125, 3824588; 234144, 3824627; 234174, 3824651; 234206, 3824685; 234276, 3824806; 234342, 3824947; 234370, 3825069; 234393, 3825120; 234388, 3825153; 234385, 3825208; 234409, 3825244; 234440, 3825270; 234493, 3825283; 234591, 3825297; 234652, 3825322; 234698, 3825350; 234717, 3825374; 234719, 3825456; 234729, 3825502; 234745, 3825533; 234767, 3825559; 234789, 3825611; 234800, 3825652; 234811, 3825795; 234817, 3825838; 234850, 3825947; 234859, 3825997; 234850, 3826097; 234827, 3826189; 234793, 3826245; 234748, 3826286; 234710, 3826312; 234659, 3826365; 234604, 3826447; 234543, 3826524; 234515, 3826587; 234496, 3826637; 234454, 3826695; 234510, 3826716; 234554, 3826714; 234614, 3826729; 234681, 3826764; 234733, 3826801; 234826, 3826855; 235010, 3827006; 235079, 3827079; 235118, 3827131; 235129, 3827195; 235119, 3827330; 235110, 3827404; 235097, 3827461; 235076, 3827614; 235057, 3827684; 235051, 3827766; 235055, 3827838; 235051, 3827877; 235036, 3827911; 235046, 3827940; 235082, 3827996; 235113, 3828016; 235208, 3828040; 235266, 3828049; 235432, 3828051; 235487, 3828017; 235520, 3827953; 235538, 3827883; 235566, 3827823; 235577, 3827770; 235597, 3827763; 235625, 3827765; 235632, 3827778; 235668, 3827797; 235725, 3827817; 235758, 3827818; 235783, 3827815; 235803, 3827822; 235818, 3827835; 235851, 3827877; 235899, 3827928; 235943, 3827959; 235964, 3828022; 235951, 3828068; 235950, 3828104; 235965, 3828157; 235983, 3828204; 235994, 3828246; 235999, 3828293; 235984, 3828341; 235934, 3828410; 235902, 3828442; 235860, 3828462; 235835, 3828499; 235816, 3828518; 235853, 3828550; 235887, 3828557; 235950, 3828563; 236001, 3828574; 236058, 3828567; 236089, 3828558; 236111, 3828562; 236137, 3828580; 236149, 3828607; 236168, 3828627; 236182, 3828654; 236190, 3828662; 236229, 3828665; 236276, 3828660; 236342, 3828643; 236399, 3828640; 236451, 3828663; 236500, 3828697; 236528, 3828736; 236568, 3828783; 236612, 3828804; 236661, 3828814; 236692, 3828825; 236742, 3828833; 236817, 3828826; 236886, 3828804; 236957, 3828794; 237021, 3828798; 237099, 3828810; 237158, 3828831; 237204, 3828851; 237256, 3828848; 237287, 3828835; 237348, 3828821; 237397, 3828847; 237440, 3828877; 237484, 3828900; 237520, 3828945; 237551, 3828994; 237591, 3829034; 237622, 3829061; 237662, 3829062; 237770, 3828960; 237816, 3828940; 237843, 3828941; 237881, 3828975; 237883, 3829013; 237872, 3829045; 237871, 3829095; 237891, 3829142; 237947, 3829164; 238003, 3829169; 238041, 3829186; 238087, 3829238; 238137, 3829347; 238155, 3829365; 238196, 3829393; 238269, 3829418; 238282, 3829440; 238289, 3829525; 238286, 3829594; 238279, 3829639; 238267, 3829680; 238271, 3829715; 238308, 3829762; 238302, 3829819; 238305, 3829840; 238302, 3829864; 238310, 3829906; 238339, 3829942; 238374, 3829959; 238410, 3829963; 238430, 3830001; 238452, 3830094; 238464, 3830119; 238499, 3830156; 238520, 3830301; 238555, 3830312; 238597, 3830307; 238645, 3830330; 238676, 3830357; 238764, 3830408; 238792, 3830395; 238819, 3830361; 238856, 3830331; 238908, 3830303; 238960, 3830300; 239067, 3830330; 239109, 3830332; 239149, 3830322; 239261, 3830255; 239444, 3830198; 239540, 3830156; 239744, 3830109; 239820, 3830097; 239877, 3830107; 239913, 3830122; 239988, 3830132; 240077, 3830139; 240198, 3830138; 240271, 3830162; 240349, 3830194; 240411, 3830212; 240429, 3830231; 240439, 3830243; 240506, 3830454; 240529, 3830512; 240532, 3830567; 240525, 3830607; 240500, 3830645; 240462, 3830684; 240330, 3830771; 240220, 3830862; 240054, 3831037; 240034, 3831068; 240049, 3831110; 240098, 3831129; 240147, 3831136; 240260, 3831200; 240282, 3831207; 240269, 3831234; 240215, 3831253; 240139, 3831328; 240114, 3831366; 240069, 3831415; 240008, 3831458; 239956, 3831475; 239861, 3831499; 239804, 3831543; 239765, 3831553; 239704, 3831505; 239663, 3831512; 239627, 3831543; 239606, 3831582; 239584, 3831641; 239575, 3831705; 239585, 3831765; 239592, 3831856; 239588, 3831937; 239611, 3832096; 239628, 3832121; 239651, 3832147; 239695, 3832170; 239735, 3832199; 239774, 3832251; 239831, 3832351; 239861, 3832391; 239952, 3832438; 240065, 3832438; 240113, 3832451; 240188, 3832500; 240225, 3832516; 240261, 3832522; 240280, 3832530; 240347, 3832541; 240373, 3832581; 240398, 3832635; 240476, 3832763; 240516, 3832791; 240558, 3832812; 240618, 3832862; 240679, 3832892; 240723, 3832920; 240778, 3832983; 240836, 3833060; 240899, 3833172; 240914, 3833215; 240937, 3833243; 240961, 3833270; 240996, 3833301; 241035, 3833325; 241077, 3833345; 241174, 3833469; 241251, 3833539; 241267, 3833558; 241293, 3833609; 241283, 3833701; 241285, 3833749; 241300, 3833783; 241313, 3833798; 241327, 3833813; 241362, 3833833; 241414, 3833856; 241559, 3833911; 241592, 3833918; 241642, 3833919; 241731, 3833897; 241769, 3833908; 241805, 3833931; 241849, 3833939; 241926, 3833916; 241984, 3833892; 242029, 3833865; 242134, 3833713; 242172, 3833689; 242222, 3833692; 242340, 3833721; 242494, 3833780; 242603, 3833817; 242635, 3833824; 242702, 3833818; 242738, 3833798; 242791, 3833747; 242815, 3833715; 242874, 3833678; 242936, 3833668; 242970, 3833655; 243018, 3833607; 243055, 3833533; 243089, 3833479; 243196, 3833424; 243236, 3833388; 243263, 3833340; 243343, 3833383; 243395, 3833400; 243443, 3833404; 243473, 3833403; 243509, 3833380; 243545, 3833319; 243551, 3833274; 243562, 3833233; 243625, 3833156; 243691, 3833118; 243744, 3833095; 243776, 3833091; 243882, 3833118; 243976, 3833128; 244041, 3833127; 244106, 3833139; 244156, 3833156; 244193, 3833176; 244235, 3833205; 244267, 3833232; 244318, 3833265; 244375, 3833294; 244432, 3833301; 244532, 3833236; 244617, 3833186; 244688, 3833158; 244836, 3833083; 244897, 3833041; 244947, 3833000; 245084, 3832974; 245139, 3832953; 245265, 3832881; 245340, 3832849; 245558, 3832766; 245633, 3832723; 245730, 3832626; 245841, 3832553; 245954, 3832464; 246047, 3832405; 246111, 3832381; 246181, 3832344; 246265, 3832288; 246313, 3832270; 246379, 3832239; 246424, 3832224; 246459, 3832206; 246505, 3832173; 246536, 3832138; 246551, 3832113; 246576, 3832085; 246603, 3832073; 246691, 3832089; 246732, 3832089; 246775, 3832082; 246817, 3832081; 246849, 3832087; 246901, 3832087; 246972, 3832058; 247018, 3832025; 247075, 3832003; 247199, 3832006; 247264, 3832004; 247329, 3832014; 247381, 3832029; 247432, 3832028; 247483, 3832041; 247622, 3832061; 247674, 3832100; 247701, 3832115; 247774, 3832122; 247838, 3832142; 247882, 3832146; 247911, 3832169; 247962, 3832236; 248006, 3832283; 248059, 3832338; 248107, 3832381; 248156, 3832411; 248227, 3832416; 248260, 3832412; 248362, 3832377; 248441, 3832335; 248544, 3832260; 248691, 3832174; 248743, 3832158; 248791, 3832165; 248834, 3832167; 248831, 3832185; 248848, 3832227; 248882, 3832278; 248908, 3832327; 248947, 3832423; 248977, 3832511; 248998, 3832554; 249042, 3832640; 249111, 3832747; 249177, 3832844; 249206, 3832902; 249248, 3832965; 249301, 3833071; 249351, 3833197; 249456, 3833366; 249488, 3833445; 249522, 3833581; 249557, 3833616; 249608, 3833643; 249673, 3833656; 249761, 3833650; 249844, 3833632; 249932, 3833622; 249974, 3833632; 250014, 3833655; 250075, 3833682; 250155, 3833705; 250238, 3833705; 250299, 3833696; 250332, 3833696; 250344, 3833723; 250362, 3833911; 250351, 3834026; 250358, 3834067; 250390, 3834104; 250426, 3834158; 250445, 3834210; 250462, 3834305; 250450, 3834358; 250428, 3834435; 250430, 3834472; 250444, 3834556; 250445, 3834609; 250458, 3834745; 250520, 3834837; 250540, 3834852; 250599, 3834881; 250616, 3834897; 250637, 3834938; 250661, 3834972; 250679, 3835022; 250673, 3835079; 250628, 3835232; 250632, 3835299; 250651, 3835362; 250665, 3835473; 250664, 3835545; 250669, 3835620; 250694, 3835647; 250711, 3835667; 250785, 3835693; 250848, 3835722; 250902, 3835771; 250922, 3835824; 250941, 3835903; 250959, 3835992; 250969, 3836076; 250998, 3836117; 251027, 3836131; 251075, 3836124; 251108, 3836089; 251169, 3835966; 251201, 3835939; 251226, 3835953; 251252, 3836007; 251278, 3836099; 251321, 3836143; 251351, 3836170; 251367, 3836208; 251381, 3836254; 251423, 3836299; 251483, 3836336; 251532, 3836357; 251547, 3836372; 251609, 3836570; 251638, 3836614; 251709, 3836683; 251747, 3836715; 251776, 3836713; 251824, 3836696; 251859, 3836696; 251875, 3836712; 251886, 3836747; 251912, 3836807; 251924, 3836866; 251934, 3836941; 251928, 3836999; 251939, 3837038; 251958, 3837065; 251981, 3837108; 252001, 3837153; 252048, 3837235; 252071, 3837335; 252086, 3837351; 252110, 3837364; 252118, 3837357; 252179, 3837330; 252314, 3837278; 252367, 3837249; 252412, 3837215; 252437, 3837179; 252456, 3837161; 252494, 3837135; 252537, 3837120; 252581, 3837125; 252624, 3837151; 252655, 3837189; 252702, 3837239; 252747, 3837270; 252795, 3837296; 252852, 3837314; 252925, 3837331; 253010, 3837335; 253048, 3837344; 253097, 3837344; 253149, 3837347; 253189, 3837356; 253269, 3837357; 253381, 3837348; 253466, 3837333; 253572, 3837290; 253634, 3837280; 253706, 3837284; 253781, 3837297; 253995, 3837408; 254092, 3837450; 254154, 3837488; 254200, 3837524; 254315, 3837588; 254336, 3837592; 254357, 3837563; 254390, 3837486; 254430, 3837443; 254465, 3837426; 254491, 3837409; 254516, 3837387; 254535, 3837352; returning to 254540, 3837294.

(ii) Note: Unit STB-7 for California red-legged frog is depicted on the map in paragraph (48)(ii) of this entry.

(52) Unit VEN-1: Ventura County, California. From USGS 1:24,000 scale quadrangles Matilija, Ventura and Ojai.

(i) Land bounded by the following UTM zone 11, NAD 1983 coordinates (E, N): 292389, 3808989; 292269, 3808813; 292067, 3808838; 292001, 3808540; 291744, 3808513; 291660, 3808360; 291309, 3808445; 291346, 3808110; 291188, 3807970; 290857, 3808078; 290683, 3807876; 290516, 3807881; 290022, 3807626; 289938, 3807423; 289743, 3807351; 289693, 3807054; 289556, 3806919; 289357, 3806257; 288924, 3806106; 288596, 3805768; 288535, 3805756; 288169, 3806170; 288139, 3806566; 288022, 3806679; 287922, 3806605; 287842, 3806111; 287702, 3806086; 287770, 3806708; 287997, 3806862; 288226, 3806724; 288210, 3807181; 288352, 3807324; 288495, 3807334; 288507, 3807633; 288897, 3808046; 289299, 3808143; 289254, 3808351; 289400, 3808575; 289665, 3808668; 289771, 3808791; 290075, 3808823; 290121, 3809125; 290398, 3809519; 290426, 3809709; 290786, 3809928; 291436, 3811102; 291817, 3811326; 291791, 3811384; 291749, 3811476; 291788, 3811585; 292474, 3811706; 292581, 3812127; 293112, 3812393; 293210, 3812196; 293840, 3812153; 294048, 3811973; 294135, 3811749; 293937, 3811354; 293856, 3811194; 293598, 3811103; 293155, 3810614; 292790, 3810406; 292674, 3810144; 292732, 3810030; 292894, 3809713; 292746, 3809412; 292765, 3809204; 292611, 3808985; returning to 292389, 3808989.

(ii) Note: Map of Unit VEN-1 for the California red-legged frog follows:

BILLING CODE 4310-55-P

(53) Unit VEN-2: Ventura and Los Angeles Counties, California. From USGS 1:24,000 scale quadrangles Cobblestone Mountain and Whitaker Peak.

(i) Land bounded by the following UTM zone 11, NAD 1983 coordinates (E, N): 339291, 3827835; 339299, 3827739; 339766, 3827357; 340374, 3827063; 340544, 3826712; 341072, 3826348; 340944, 3826090; 340929, 3825836; 341091, 3825360; 340852, 3824908; 340799, 3824021; 340501, 3823636; 340142, 3823657; 339877, 3823482; 339839, 3822849; 339931, 3822610; 340226, 3822571; 340007, 3822097; 339952, 3821528; 339632, 3821505; 339452, 3821217; 339211, 3820830; 339197, 3820598; 338908, 3820272; 338832, 3820187; 338664, 3820291; 338469, 3820694; 338411, 3820813; 338123, 3821148; 338027, 3821260; 337720, 3821344; 337668, 3821358; 336304, 3822097; 336529, 3822597; 336713, 3822708; 336854, 3823475; 335722, 3824114; 335636, 3824514; 335416, 3824690; 334902, 3824748; 334557, 3824905; 334507, 3825194; 334331, 3825218; 334164, 3825391; 334109, 3825598; 333690, 3825882; 333242, 3826358; 333195, 3826701; 333300, 3826871; 333037, 3827486; 332830, 3827662; 333176, 3827981; 333533, 3828042; 335562, 3827839; 336504, 3827892; 336890, 3827733; 336922, 3827704; 337083, 3827558; 337097, 3827574; 337171, 3827662; 337429, 3827646; 337638, 3827729; 337852, 3827893; 338100, 3827946; 338394, 3827861; 339081, 3828201; 339230, 3828192; 339304, 3828065; returning to 339291, 3827835.

(ii) Note: Map of Units VEN-2 and VEN-3 for the California red-legged frog follows:

BILLING CODE 4310-55-P

BILLING CODE 4310-55-C

(54) Unit VEN-3: Ventura County, California. From USGS 1:24,000 scale quadrangle Calabasas.

(i) Land bounded by the following UTM zone 11, NAD 1983 coordinates (E, N): 341537, 3788481; 341575, 3788472; 341620, 3788481; 341650, 3788480; 341736, 3788470; 341820, 3788450; 341842, 3788432; 341852, 3788404; 341858, 3788081; 341875, 3788053; 341901, 3788038; 342052, 3787988; 342080, 3787895; 342140, 3787797; 342158, 3787778; 342176, 3787747; 342189, 3787650; 342192, 3787595; 342210, 3787526; 342225, 3787509; 342305, 3787467; 342325, 3787446; 342313, 3787400; 342332, 3787372; 342350, 3787338; 342378, 3787252; 342383, 3787189; 342371, 3787150; 342367, 3787119; 342363, 3787057; 342363, 3787000; 342368, 3786971; 342383, 3786937; 342458, 3786917; 342492, 3786911; 342545, 3786875; 342584, 3786791; 342597, 3786770; 342634, 3786746; 342674, 3786745; 342707, 3786761; 342776, 3786736; 342832, 3786737; 342888, 3786729; 342928, 3786736; 343011, 3786794; 343046, 3786812; 343078, 3786819; 343110, 3786813; 343143, 3786802; 343162, 3786780; 343161, 3786758; 343148, 3786730; 343129, 3786675; 343130, 3786655; 343150, 3786639; 343183, 3786623; 343278, 3786596; 343283, 3786575; 343251, 3786524; 343047, 3786427; 343021, 3786421; 343000, 3786409; 342981, 3786391; 342969, 3786372; 342966, 3786345; 342968, 3786317; 342975, 3786301; 342990, 3786290; 343006, 3786284; 343110, 3786266; 343172, 3786267; 343296, 3786247; 343305, 3786222; 343298, 3786162; 343292, 3786149; 343266, 3786123; 343183, 3786052; 343158, 3786025; 343145, 3786005; 343143, 3785967; 343146, 3785921; 343140, 3785897; 343137, 3785867; 343115, 3785839; 343075, 3785758; 343060, 3785682; 343065, 3785648; 343040, 3785566; 343036, 3785522; 343017, 3785458; 343016, 3785411; 343022, 3785370; 343053, 3785301; 343076, 3785240; 343093, 3785188; 343103, 3785129; 343114, 3785103; 343124, 3785088; 343194, 3785127; 343244, 3785168; 343304, 3785185; 343342, 3785183; 343392, 3785170; 343458, 3785191; 343545, 3785240; 343764, 3785228; 343824, 3785200; 343867, 3785196; 343902, 3785199; 344016, 3785244; 344046, 3785251; 344102, 3785287; 344129, 3785312; 344158, 3785331; 344286, 3785401; 344326, 3785431; 344362, 3785450; 344562, 3785482; 344650, 3785471; 344738, 3785468; 344787, 3785460; 344841, 3785439; 344893, 3785409; 344951, 3785385; 345005, 3785376; 345043, 3785358; 345072, 3785303; 345089, 3785258; 345093, 3785226; 345088, 3785192; 345077, 3785148; 345052, 3785085; 345007, 3784998; 344991, 3784960; 345067, 3784928; 345115, 3784884; 345198, 3784828; 345213, 3784807; 345208, 3784726; 345194, 3784688; 345176, 3784657; 345181, 3784626; 345230, 3784538; 345249, 3784489; 345251, 3784453; 345264, 3784398; 345285, 3784385; 345327, 3784376; 345357, 3784375; 345402, 3784380; 345422, 3784378; 345436, 3784371; 345445, 3784344; 345433, 3784262; 345434, 3784251; 345443, 3784242; 345485, 3784237; 345562, 3784270; 345615, 3784301; 345599, 3784303; 345626, 3784305; 345682, 3784281; 345716, 3784275; 345814, 3784284; 345839, 3784282; 345860, 3784256; 345861, 3784207; 345858, 3784193; 345852, 3784184; 345858, 3784159; 345873, 3784138; 345897, 3784129; 345956, 3784117; 346066, 3784072; 346094, 3784056; 346114, 3784037; 346163, 3783924; 346167, 3783879; 346163, 3783852; 346139, 3783794; 346136, 3783762; 346139, 3783739; 346162, 3783701; 346168, 3783683; 346206, 3783657; 346227, 3783635; 346236, 3783615; 346126, 3783547; 346099, 3783517; 346107, 3783498; 346122, 3783478; 346146, 3783437; 346152, 3783412; 346155, 3783382; 346153, 3783347; 346147, 3783318; 346150, 3783308; 346122, 3783289; 346083, 3783277; 346063, 3783276; 345988, 3783292; 345921, 3783315; 345893, 3783321; 345871, 3783273; 345873, 3783259; 345850, 3783210; 345848, 3783199; 345819, 3783163; 345809, 3783166; 345773, 3783133; 345690, 3783113; 345635, 3783087; 345605, 3783068; 345550, 3783020; 345488, 3782954; 345469, 3782928; 345418, 3782893; 345382, 3782860; 345291, 3782789; 345245, 3782745; 345220, 3782695; 345104, 3782702; 344801, 3782582; 344720, 3782460; 344572, 3782299; 344257, 3782149; 344007, 3782227; 343959, 3782314; 343835, 3782353; 343698, 3782181; 343356, 3782138; 343206, 3782140; 343206, 3782146; 343046, 3782151; 343000, 3782154; 342972, 3782156; 342700, 3782160; 342500, 3782163; 342378, 3782164; 342271, 3782167; 342234, 3782165; 342181, 3782163; 342175, 3782208; 342134, 3782411; 342057, 3782712; 341965, 3782823; 341973, 3782829; 341986, 3782835; 341887, 3783070; 341836, 3783224; 341827, 3783329; 341817, 3783399; 341809, 3783433; 341806, 3783464; 341772, 3783516; 341641, 3783607; 341606, 3783657; 341568, 3783697; 341546, 3783735; 341550, 3783771; 341563, 3783803; 341601, 3783857; 341607, 3783877; 341599, 3783938; 341574, 3784060; 341570, 3784109; 341574, 3784207; 341594, 3784276; 341604, 3784338; 341607, 3784403; 341593, 3784510; 341575, 3784544; 341550, 3784577; 341540, 3784612; 341540, 3784640; 341551, 3784713; 341551, 3784746; 341538, 3784852; 341531, 3784885; 341515, 3784912; 341482, 3784928; 341449, 3784932; 341406, 3784943; 341368, 3784968; 341331, 3785002; 341321, 3785016; 341268, 3785108; 341259, 3785132; 341152, 3785246; 341124, 3785250; 341093, 3785260; 341070, 3785275; 341052, 3785294; 341005, 3785362; 340992, 3785388; 340989, 3785425; 340997, 3785451; 341013, 3785477; 341057, 3785526; 341057, 3785566; 341049, 3785595; 341008, 3785642; 340967, 3785673; 340954, 3785696; 340960, 3785766; 340957, 3785780; 340907, 3785816; 340872, 3785824; 340780, 3785859; 340731, 3785921; 340706, 3785941; 340677, 3785955; 340642, 3785959; 340594, 3785969; 340410, 3786065; 340349, 3786076; 340264, 3786081; 340214, 3786098; 340188, 3786114; 340180, 3786125; 340193, 3786151; 340218, 3786177; 340243, 3786185; 340268, 3786202; 340301, 3786259; 340309, 3786268; 340241, 3786458; 340238, 3786477; 340212, 3786516; 340156, 3786527; 340138, 3786536; 340108, 3786561; 340081, 3786597; 340077, 3786622; 340083, 3786637; 340099, 3786659; 340119, 3786670; 340143, 3786689; 340162, 3786710; 340158, 3786724; 340138, 3786762; 340120, 3786789; 340096, 3786795; 340016, 3786780; 339978, 3786784; 339925, 3786807; 339864, 3786846; 339833, 3786860; 339689, 3786909; 339561, 3786931; 339493, 3786960; 339355, 3787047; 339264, 3787091; 339243, 3787111; 339224, 3787164; 339199, 3787176; 339055, 3787188; 339034, 3787194; 338993, 3787223; 338921, 3787238; 338893, 3787232; 338839, 3787257; 338790, 3787269; 338768, 3787284; 338763, 3787300; 338761, 3787334; 338770, 3787360; 338786, 3787386; 338825, 3787413; 338945, 3787496; 339019, 3787565; 338966, 3787714; 338942, 3787731; 338890, 3787787; 338860, 3787838; 338804, 3787959; 338789, 3787984; 338785, 3788012; 338806, 3788053; 338849, 3788061; 338908, 3788067; 338960, 3788068; 339041, 3788060; 339164, 3788041; 339268, 3788041; 339300, 3788054; 339340, 3788090; 339389, 3788165; 339432, 3788210; 339472, 3788234; 339521, 3788249; 339679, 3788222; 339725, 3788218; 339789, 3788218; 339882, 3788213; 339917, 3788207; 339968, 3788206; 340073, 3788233; 340122, 3788237; 340163, 3788260; 340234, 3788322; 340271, 3788342; 340306, 3788353; 340331, 3788348; 340352, 3788339; 340384, 3788318; 340455, 3788251; 340467, 3788246; 340483, 3788247; 340497, 3788252; 340512, 3788270; 340535, 3788314; 340554, 3788343; 340578, 3788369; 340585, 3788368; 340651, 3788330; 340695, 3788316; 340762, 3788288; 340849, 3788263; 340906, 3788257; 341057, 3788268; 341094, 3788265; 341156, 3788265; 341244, 3788275; 341286, 3788287; 341305, 3788296; 341326, 3788322; 341337, 3788356; 341350, 3788430; 341361, 3788464; 341377, 3788493; 341389, 3788507; 341474, 3788504; 341503, 3788498; returning to 341537, 3788481.

(ii) Note: Unit VEN-3 for California red-legged frog is depicted on the map in paragraph (53)(ii) of this entry.

(55) Unit LOS-1: Los Angeles County, California. From USGS 1:24,000 scale quadrangles Warm Springs Mountain and Green Valley.

(i) Land bounded by the following UTM zone 11, NAD 1983 coordinates (E, N): 359031, 3819227; 358730, 3819226; 358022, 3819358; 357682, 3819421; 357694, 3819619; 357819, 3819717; 357871, 3819926; 358218, 3820421; 358455, 3821056; 358466, 3821241; 358352, 3821327; 358424, 3821653; 358610, 3821669; 358704, 3821902; 358598, 3822345; 358987, 3823103; 359060, 3823442; 359387, 3823820; 359806, 3824854; 360096, 3825062; 361616, 3825686; 362356, 3825881; 363057, 3825879; 363330, 3825796; 363561, 3825563; 363803, 3825319; 363930, 3825191; 363867, 3824811; 363846, 3824782; 363757, 3824665; 363724, 3824621; 361885, 3823314; 361706, 3822967; 361437, 3822679; 361231, 3822109; 360167, 3820914; 359852, 3820073; 359475, 3819513; 359153, 3819227; returning to 359031, 3819227.

(ii) Note: Map of Unit LOS-1 for the California red-legged frog follows:

BILLING CODE 4310-55-P

(56) Unit RIV-1: Los Angeles County, California. From USGS 1:24,000 scale quadrangles Wildomar and Murrieta.

(i) Land bounded by the following UTM zone 11, NAD 1983 coordinates (E, N): 476554, 3711798; 476666, 3711551; 476734, 3711697; 477081, 3710963; 476941, 3710168; 477271, 3709664; 476532, 3709406; 476554, 3708751; 475193, 3707966; 475305, 3707490; 475262, 3707457; 475244, 3707454; 475083, 3707421; 474904, 3707384; 474751, 3707492; 474016, 3707117; 473766, 3707097; 473594, 3706853; 473454, 3706981; 473214, 3707036; 473016, 3706897; 473004, 3707255; 472774, 3707210; 472781, 3707327; 472779, 3707376; 472771, 3707419; 472569, 3708284; 472553, 3708377; 472570, 3708548; 472584, 3708692; 472587, 3708781; 472560, 3708857; 472496, 3709016; 472534, 3709342; 472606, 3709441; 472522, 3709529; 472538, 3709608; 472488, 3709647; 472623, 3709708; 472964, 3710235; 472880, 3710403; 473099, 3710442; 473289, 3710801; 473188, 3710862; 473457, 3711153; 473821, 3711159; 474611, 3711574; 474852, 3711551; 474975, 3712010; 475076, 3712302; 475445, 3712386; 475922, 3712307; 476319, 3712078; returning to 476554, 3711798.

(ii) Note: Map of Unit RIV-1 for the California red-legged frog follows:

* * * * *

Dated: August 28, 2008.
David M. Verhey,
Acting Assistant Secretary for Fish and Wildlife and Parks.

[FR Doc. E8-20473 Filed 9-15-08; 8:45 am]

BILLING CODE 4310-55-C